ENVIRONMENTAL PROTECTION AGENCY

40 CFR Parts 9, 59, 60, 85, 86, 88, 89, 90, 91, 92, 94, 1027, 1033, 1036, 1037, 1039, 1042, 1043, 1045, 1048, 1051, 1054, 1060, 1065, 1066, and 1068

[EPA-HQ-OAR-2019-0307; FRL-10006-90-OAR]

RIN 2060-AU62

Improvements for Heavy-Duty Engine and Vehicle Test Procedures, and Other Technical Amendments

AGENCY: Environmental Protection Agency (EPA).

ACTION: Proposed rule.

SUMMARY: The Environmental Protection Agency (EPA) is proposing changes to the test procedures for heavy-duty engines and vehicles to improve accuracy and reduce testing burden. EPA is also proposing other regulatory amendments concerning light-duty vehicles, heavy-duty vehicles, highway motorcycles, locomotives, marine engines, other nonroad engines and vehicles, stationary engines. These would affect the certification procedures for exhaust emission standards, and related requirements. EPA is proposing similar amendments for evaporative emission standards for nonroad equipment and portable fuel containers. These amendments would increase compliance flexibility, harmonize with other requirements, add clarity, correct errors, and streamline the regulations. Given the nature of the proposed changes, they would have neither significant environmental impacts nor significant economic impacts for any sector.

DATES:

Comments: Comments must be received on or before June 26, 2020.

Public Hearing: If anyone contacts us requesting a public hearing on or before May 19, 2020, we will hold a hearing in Ann Arbor, Michigan at 10 a.m. on May 27, 2020.

ADDRESSES: Comments. Submit your comments, identified by Docket ID No. EPA-HQ-OAR-2019-0307, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Public hearing. Individuals are invited to notify EPA of interest in a public hearing; see FOR FURTHER INFORMATION CONTACT.

Public Participation: Public hearing. If we hold a public hearing, we will announce detailed information about the hearing on our website. Send requests for a hearing and questions about the status of a hearing to the contact identified in FOR FURTHER INFORMATION CONTACT.

Comments. Submit your comments, identified by Docket ID No. EPA-HQ-OAR-2019-0307, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Docket. EPA has established a docket for this action under Docket ID No. EPA-HQ-OAR-2019-0307. All documents in the docket are listed on the www.regulations.gov website. Although listed in the index, some information is not publicly available, e.g., CBI or other information whose disclosure is restricted by statute. Certain other material, such as copyrighted material, is not placed on the internet and will be publicly available only in hard copy form. Publicly available docket materials are available either electronically in www.regulations.gov or in hard copy at Air and Radiation Docket and Information Center, EPA Docket Center, EPA/DC, EPA WJC West Building, 1301 Constitution Ave. NW, Room 3334, Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Alan Stout, Office of Transportation and Air Quality, Assessment and Standards Division, Environmental Protection Agency, 2000 Traverwood Drive, Ann Arbor, MI 48105; telephone number: (734) 214-4805; email address: stout.alan@epa.gov.

SUPPLEMENTARY INFORMATION:

Table of Contents

I. General Information

II. Heavy-Duty Highway Amendments

A. Test Procedures and Compliance Model Changes

B. Heavy-Duty Engine GHG Emission Standards and Flexibility

C. Heavy-Duty Vehicle GHG Emission Standards and Flexibility

D. Requests for Comment on Phase 2 Regulations

E. Other Heavy-Duty Highway Amendments

III. Other Amendments

A. Ethanol-Blend Test Fuels for Nonroad Spark-Ignition Engines and Vehicles, Highway Motorcycles, and Portable Fuel Containers

B. Removing Obsolete CFR Content

C. Certification Fees (40 CFR part 1027)

D. Additional Amendments for Motor Vehicles and Motor Vehicle Engines (40 CFR parts 85 and 86)

E. Additional Amendments for Locomotives (40 CFR part 1033)

F. Additional Amendments for Land-Based Nonroad Diesel Engines (40 CFR part 1039)

G. Additional Amendments for Marine Diesel Engines (40 CFR parts 1042 and 1043)

H. Portable Fuel Containers (40 CFR part 59)

I. Evaporative Emission Standards for Nonroad Spark-Ignition Engines and Equipment (40 CFR part 1060)

J. Additional Amendments for Nonroad Spark-Ignition Engines at or Below 19 kW (40 CFR part 1054)

K. Amendments for General Compliance Provisions (40 CFR part 1068)

L. Other Requests for Comment

IV. Statutory Authority and Executive Order Reviews

General Information

A. Does this action apply to me?

This action relates to companies that manufacture or sell new gasoline fueled light-duty vehicles, light-duty trucks, medium-duty passenger vehicles, or heavy-duty vehicles up to 14,000 pounds GVWR, as defined under EPA's CAA regulations,¹ and passenger automobiles (passenger cars), non-passenger automobiles (light trucks), and heavy-duty pickup trucks and vans as defined under National Highway Traffic Safety Administration's (NHTSA's) Corporate Average Fuel Economy (CAFE) regulations.² Additional amendments apply for different manufacturers of various types of nonroad and stationary engines, vehicles, and equipment.

¹ “Light-duty vehicle,” “light-duty truck,” “medium-duty passenger vehicle,” and “heavy-duty vehicle” are defined in 40 CFR 86.1803-01.

² “Passenger automobile” and “non-passenger automobile” are defined in 49 CFR 523.4 and 523.5, respectively. “Heavy-duty pickup trucks and vans” are defined in 49 CFR 523.7.

Regulated categories and entities include the following:

Category | NAICS codes A | Examples of potentially regulated entities
Industry | 333618, 336111, 336112, 336120, 336211, 336212, 336611, 336911, 336999 | Motor vehicle manufacturers and engine manufacturers.
Industry | 811111, 811112, 811198, 423110 | Commercial importers of vehicles and vehicle components.
Industry | 335312, 811198 | Alternative fuel vehicle converters.
Industry | 326199, 332431 | Portable fuel container manufacturers.
A North American Industry Classification System (NAICS).

This list is not intended to be exhaustive, but rather provides a guide for readers regarding entities likely to be regulated by this action. If you have questions regarding the applicability of this action to a particular entity, consult the person listed in the FOR FURTHER INFORMATION CONTACT section.

B. What action is the Agency taking?

This action proposes to amend the regulations that implement our air pollutant emission standards for engines, vehicles and mobile equipment. The proposed amendments, which are generally technical amendments that include corrections, clarifications, and flexibilities. In other words, this proposal comprises a significant variety of small changes for multiple types of engines and equipment.

The majority of amendments being proposed would modify existing test procedures for heavy-duty highway engines and vehicles. These test procedure changes would improve accuracy, and in some cases, reduce test burden. They would apply for measurement of criteria pollutants (such as NOX), as well as greenhouse gas pollutants (primarily CO2).

Other heavy-duty highway amendments would update EPA regulations to enhance implementation of existing emission standards. For example, some changes would reduce the likelihood that manufacturers would need to duplicate certification efforts to comply with EPA, Canadian, and Californian standards. Some amendments would make it easier for manufacturers to more fully account for the emission benefits of advanced emission control technology, which could provide them the opportunity to generate additional emission credits. These heavy-duty highway amendments are described in Section II.

This notice also proposes other amendments that are generally administrative or technical in nature and include amendments for nonroad engines and vehicles. These amendments are described in Section III. Perhaps the most visible administrative amendment would be the elimination of hundreds of pages of obsolete regulations, which is described in Section III.B.

C. What are the incremental costs and benefits of this action?

This action is limited in scope and is not intended to include amendments that would have significant economic or environmental impacts. EPA has not drafted a Regulatory Impact Analysis.

Heavy-Duty Highway Amendments

A. Test Procedures and Compliance Model Changes

Since the promulgation of the Phase 2 regulations, manufacturers have been revising their internal test procedures to ensure they will be able to comply with the new requirements that begin in model year 2021. In doing so, they have identified several areas in which the test procedure regulations could be improved (in terms of overall accuracy, repeatability and clarity) without changing the effective stringency of the standards. Commenters who believe that EPA has included changes that change the stringency of the standards are encouraged to consider the potential impact in the context of the full range of proposed changes to the test procedures, and to suggest ways in which EPA could avoid the impact of such changes on stringency.

EPA is proposing numerous changes to the test procedure regulations to address manufacturers' concerns and to address other issues we have identified. These proposed changes are described below. The list includes numerous editorial changes that simply correct typographical/formatting errors or revise the text to improve clarity. Although these amendments are being proposed primarily in the context of heavy-duty engines and vehicles, the proposed amendments to part 1065 will also apply to nonroad engines, and the proposed amendments to part 1066 will also apply to light-duty vehicles. However, since these amendments are mostly editorial or adding flexibility, they will not adversely impact these other sectors.

1. 40 CFR Part 1036 Test Procedures

The regulations in 40 CFR part 1036, subpart F, specify how to measure emissions from heavy-duty engines. The test procedure amendments being proposed for part 1036 are primarily for the purposes of adding flexibility and reducing variability in test results. Additional information that led to proposal of many of these changes arose from a test program at Southwest Research Institute (SwRI) that was jointly funded by EPA and the Engine Manufacturers Association (EMA). These amendments are summarized below, and readers are referred to the proposed part 1036, subpart F regulatory text for additional information. Amendments for other subparts of part 1036 (i.e., amendments not directly related to test procedures) are discussed in Section I.C.

• 1036.501(g)—Adding a new paragraph (g) to denote duty cycles for testing MY 2016-2020 engines.

• 1036.501(h)—Adding a new paragraph (h)(2) to cross-reference citation of transient test cycle specification for testing MY 2021 and later engines. In paragraph (h)(3)(ii), adding clarification that weighting factors for the Ramped Modal Cycle (RMC) are to be applied to CO2 to calculate the composite emission result. Note that this proposed rule includes amendments to refer to the steady-state duty cycle as the Ramped Modal Cycle rather than the Supplemental Emission Test.

• 1036.503—Migrating 1036.510 to new 1036.503. Updating existing paragraph (c) and adding a new (c)(4) and (d)(4). The new text specifies that the engine manufacturer must provide idle speed and torque to the vehicle manufacturer. Additional direction given on handling data points for a low speed governor where the governor is active.

• 1036.505—Adding a new paragraph (b) to give direction on both engine and powertrain testing. Modifying Table 1 to include vehicle speed and grade parameters to facilitate the hybrid powertrain testing option.

• 1036.510—Adding a new section regarding transient testing of engines and hybrids to facilitate hybrid certification for both GHG and criteria pollutants.

• 1036.525(d)(4)(ii)—Editorial revisions to equation and example calculations.

• 1036.527—New section added to provide a means to determine hybrid powertrain systems rated power. This is needed to facilitate the addition of the hybrid powertrain testing option.

• 1036.530(b)(1)(i) and (2)—Updating to require test fuel mass-specific energy content to be analyzed by three different labs and the arithmetic mean to be used in the calculation. Updating carbon mass fraction determination to allow analysis by a single lab only to facilitate on-line analysis from pipeline supplied natural gas. Updated to add ASTM method for determination of test fuel mass-specific energy content for natural gas.

• 1036.530 Table 1—Updated footnote format in table.

• 1036.535—Generally updating to improve the engine fuel mapping test procedures based on the jointly funded EPA-EMA test program. The overall result of these updates is to reduce the variability of the emission test results to improve lab-to-lab variability.

• 1036.540—Generally updating to improve the cycle-average fuel mapping test procedure as a result of the jointly funded EPA-EMA test program at SwRI. The overall result of these updates is to reduce the variability of the emission test results to improve lab-to-lab variability.

• 1036.543—Adding new section to address carbon balance error verification. This is a result of the jointly funded EPA-EMA test program. The overall result of these updates is to reduce the variability of the emission test results to improve lab-to-lab variability.

2. 40 CFR Part 1037 Test Procedures

The regulations in 40 CFR part 1037, subpart F, specify how to measure emissions from heavy-duty vehicles. They also specify how to measure certain GEM inputs, such as aerodynamic drag, rolling resistance, and axle efficiency. The test procedure amendments being proposed for part 1037, which are summarized below, are primarily for the purpose of reducing variability in test results and adding optional test procedures. Given the technical nature of these proposed amendments, readers are referred to the regulatory text for additional details. Proposed amendments for other subparts of part 1037 (i.e., amendments not directly related to test procedures) are discussed in Section I.C.

• 1037.105 Table 1—Updated footnote format in table.

• 1037.106 Table 1—Updated footnote format in table.

• 1037.510(a)(2) and (e)—Edit in (a)(2) introductory paragraph. Updating (a)(2)(ii) and (iii) as result of the jointly funded EPA-Engine Manufacturers Association (EMA) test program at SwRI. The overall result of these updates is to reduce the variability of the emission test results to improve lab-to-lab variability. Update (e) making use of cruise control optional as variability can be high if cruise control is used.

• 1037.510 Table 1—Updated footnote format in table.

• 1037.515 Table 3—Updated footnote format in table.

• 1037.520 Table 1 and (f)—Correcting typo in CdA value for low-roof cabs for Bin III. Updating cross-reference in (f).

• 1037.520(g)—Adding some additional vehicle characteristics that need to be reported. Also providing clarification on the application of the 6x4D drive axle configuration. This includes a better description of the application as well as qualifiers that allow for use of this configuration.

• 1037.520(i)—Adding torque converter characterization.

• 1037.520 Table 1—Updating Table to include additional technologies and GEM input values for automatic engine shutdown systems.

• 1037.520(j)(5)—Correcting error that transposed school and coach bus GEM inputs.

• 1037.520 Table 6—Updated footnote format in table.

• 1037.528(h)(6)(ii)—Adding direction to use good engineering judgment when measuring rolling resistance for equation 11.

• 1037.528—Updating equation 14. The “+” is replaced with a “−”, correcting a typo.

• 1037.534—Updating equation 6, and corresponding example problem. The update applies italics to “i”.

• 1037.540—Updating equations 1, 2, and 3. The update applies italics to “i”.

• 1037.540(e) and (f)—Adding section reference for location of standard payload.

• 1037.540 Table 1—Updated footnote format in table.

• 1037.550—Global updates as a result of the joint EPA-EMA fuel mapping test program at SwRI and general improvements based on experience gained from testing powertrain systems. The overall result of these updates is to reduce the variability of the emission test results to improve lab-to-lab variability.

• 1037.551—Updating reference.

• 1037.555—Updating equations 1 and 3, edits. The updates apply italics to “i”.

• 1037.560—Making it optional to drain gear oil after break in. Providing the option of an alternative temperature range to provide harmonization with EC test procedure. Also, edits pertaining to improve the readability of the Ploss (i.e., power loss) variable description.

• 1037.565—Providing an option to map additional test points. Also, edits pertaining to improve the readability of the Ploss variable description.

• 1037.570—Adding new section to determine torque converter capacity factor. This will allow a manufacturer to determine their own torque converter capacity factor instead of using the default value provided in GEM. The option to use the default value still remains.

3. 40 CFR Part 1065 Test Procedures

The regulations in 40 CFR part 1065 specify general procedures for measuring emissions from engines—heavy-duty highway engines, as well as nonroad engines. The amendments being proposed for part 1065, which are summarized below, are primarily for the purpose of reducing variability in test results.

The regulations in part 1065 rely heavily on acronyms and abbreviations (see 40 CFR 1065.1005 for a complete list). Acronyms used here are summarized in the following table:

ASTM | American Society for Testing and Materials
CVS | Constant-Volume Sampler
DEF | Diesel Exhaust Fluid
ECM | Electronic Control Module
NIST | National Institute for Standards and Technology
NMC FID | Nonmethane Cutter with a Flame Ionization Detector
NMHC | Nonmethane Hydrocarbon
NMNEHC | Nonmethane Nonethane Hydrocarbon
RMC | Ramped Modal Cycle
THC FID | Flame Ionization Detector for Total Hydrocarbons

In addition to the amendments listed below that are being proposed for part 1065, we request comment on the use of ASTM test method D2784 to measure the sulfur content in liquefied petroleum gas test fuels. This method, which is specified as the applicable test method in § 1065.720, has been withdrawn by ASTM without replacement. We request comment on whether we should continue to specify this method or specify an active method. For example, should we specify ASTM D6667 instead and incorporate it by reference into the regulations?

• 1065.1(g)—Updated test procedure URL.

• 1065.130(e)—Revised language to denote that carbon balance should be performed to verify exhaust system integrity in place of chemical balance.

• 1065.140(c)(6)(i)—Corrected typo. Replaced “dew point” with “dewpoint”.

• 1065.140(e)(2)—Revised language to add clarification on how to determine minimum dilution ratio for discrete mode testing.

• 1065.145(e)(3)(i)—Removed requirement to heat sample pump if it is located upstream of a NOX converter or chiller. Replaced with requirement to design the sample system to prevent aqueous condensation. Given that the concern is loss of NO2 in the sampling system, the pump itself doesn't necessarily need to be heated as there are a number of ways to prevent condensation.

• 1065.170—Revised to allow you to stop sampling during hybrid tests when the engine is off and allow exclusion of the sampling off portions of the test from the proportional sampling verification. Also added provision for hybrid testing to allow supplemental dilution air to be added to the bag in the event that sampled volumes are too low for emission analysis.

• 1065.205 Table 1—Revised with edits and the addition of a recommended performance specification for fuel mass scales to reduced fuel flow measurement error.

• 1065.220(a) introductory and (a)(3)—Updated the application of fuel flow meter to more correctly reflect how and what they are used for in 1065.

• 1065.225(a) introductory and (a)(3)—Updated the application of intake flow meter to more correctly reflect how and what they are used for in 1065.

• 1065.247(c)(2)—Edit to apply requirements to DEF dosing unit rather than to the engine.

• 1065.260(e)—Add the word “some” as a qualifier for gaseous fueled engines with respect to using the additive method for NMHC determination.

• 1065.266—Updated URL.

• 1065.275—Deleted URL and replaced with reference to URL in 1065.266.

• 1065.280(a)—Updated to reflect that there is no method in 1065.650 for determining oxygen balance and that you should develop a method using good engineering judgment.

• 1065.303 Table 1—Updated for formatting. Updated to add Fuel mass scale and DEF mass scale to the linearity verifications in 1065.307. Updated verification in 1065.341 to replace “batch sampler” with “PFD” as PFD is the preferred language. Updated one, and added two, footnotes excluding linearity verification for DEF flow if the ECM is used and for fuel and intake air flow if propane checks or carbon balance is performed. This is not a new exemption, it just relocates it to the footnote area.

• 1065.307(d)(4)—Revised to include DEF mass flow rate. The paragraph is also enhanced to include additional requirement to correct or account for buoyancy effects and flow disturbances to improve the flow measurement.

• 1065.307(d)(6)(i)—Revised to state that the span gas can only contain one single constituent in balance air (or N2 if using a gas analyzer) as the reference signal for linearity determination.

• 1065.307(d)(7)—Revised to state that the span gas can only contain one single constituent in balance air (or N2 if using a gas analyzer) as the reference signal for linearity determination.

• 1065.307(d)(9)—Expanded paragraph to include fuel and DEF mass scales and provided additional requirements for performing the linearity verification on these scales.

• 1065.370(e)(3)(i) and (ii)—Edits to make intent clear.

• 1065.307(e)(3)(iii)—Defined mmax for a fuel mass scale.

• 1065.307(e)(5)—Provided additional information surrounding requirements for using a propane check or carbon balance verification in place of a flow meter linearity verification.

• 1065.307(e)(7)(i)(F) and (G)—Added transmission oil and axle gear oil to temperature measurements that require linearity verification.

• 1065.307 Table 1—Added DEF flow rate.

• 1065.307 Table 2—Added a new Table 2 to provided additional guidance on when optional verifications to the flow meter linearity verifications can be used.

• 1065.309(d)(2)—Updated to allow the use of water vapor injection for humidification of gases.

• 1065.315(a)(3)—Editorial revisions.

• 1065.320(b) and (c)—Deleted the existing paragraph (b) and moved the existing (c) to (b) as this is now adequately covered in 1065.307.

• 1065.341 introductory text—Revised to clarify which subparagraphs apply to CVS and which apply to PFD.

• 1065.341(g)—Revised to replace “batch sampler” with “PFD” throughout. Also, edited to provide further clarification on the procedure.

• 1065.341(h)—New paragraph added to reference Table 2 of 1065.307 regarding when alternate verifications can be used.

• 1065.342(d)(2)—Updated to allow the use of water vapor injection for humidification of gases.

• 1065.350(d)(2)—Updated to allow the use of water vapor injection for humidification of gases.

• 1065.355(d)(2)—Updated to allow the use of water vapor injection for humidification of gases.

• 1065.360(a)(4)—Added new requirement to determine methane and ethane THC FID response factors as a function of exhaust molar water content when measuring emissions from a gaseous fueled engine. This is to account for the effect water has on non-methane cutters.

• 1065.360(d)(12)—Added process to determine methane and ethane THC FID response factors as a function of exhaust molar water content when measuring emissions from a gaseous fueled engine. This is to account for the effect water has on non-methane cutters.

• 1065.365(d)—Added new requirement to determine NMC FID methane penetration fraction and ethane response factor as a function of exhaust molar water content when measuring emissions from a gaseous fueled engine. This is to account for the effect water has on non-methane cutters.

• 1065.365(d)(10) and (11)—Added process to determine NMC FID methane penetration fraction and ethane response factors as a function of exhaust molar water content when measuring emissions from a gaseous fueled engine. This is to account for the effect water has on non-methane cutters.

• 1065.370(e)(5)—Updated to allow the use of water vapor injection for humidification of gases.

• 1065.375(d)(2)—Updated to allow the use of water vapor injection for humidification of gases.

• 1065.410(d)—Updated to state that you may repair a test engine if the parts are unrelated to emissions without prior approval. If the part may affect emissions, prior approval is required.

• 1065.510(a), (b)(5)(i), and (f)(4)(i)—Removed requirement for engine stabilization during mapping and relocated it to 1065.510(b)(5)(i), which lays out the mapping procedure. Added a recommended stabilization time at each setpoint. Also added allowance to specify CITT as a function of idle speed in cases where an engine has an adjustable warm idle or enhanced idle.

• 1065.512(b)(1) and (2)—Added additional procedures on how to operate the engine and validate the duty-cycle when an engine utilized enhanced-idle speed. This also addresses denormalization of the reference torque when enhanced-idle speed is active.

• 1065.530(a)(2)(iii)—Added new instruction on how to determine that the engine temperature has stabilized for air cooled engines. Part 1065 is deficient on how to determine this.

• 1065.530(g)(5)—New paragraph to cover carbon balance error verification if it is performed as part of the test sequence.

• 1065.543—New section on carbon balance error verification procedure. This was added to further reduce measurement variability for the fuel mapping test procedure in part 1036.

• 1065.602(b), (c), (d), (e), (g), (h), (j), (k)—Editorial revisions. The updates apply italics to “i”.

• 1065.602 Table 2—Corrected an Nref-1 typo for value “22”. It was mistakenly listed as “20”.

• 1065.602(f)—Updated footnote format in table.

• 1065.610(a)(1)(iv)—Editorial updates applying italics to “i”.

• 1065.610(a)(2)—Clarification to denote that the alternate maximum test speed determined is for all duty-cycles.

• 1065.610(d)(3)—Added provision to use good engineering judgment to come up with an alternate procedure for adjusting CITT as a function of speed.

• 1065.640(a) and (d)(1)—Deleting a comma in (a)(1). Providing a conversion to kg/mol for Mmix in (d)(1). Also correcting an error in the example problem to equation 1065.640-10 where Mmix was used with the wrong units.

• 1065.642(b)—Section reference correction.

• 1065.642(c)(1)—Defining Cf.

• 1065.643—New section on carbon balance error verification calculations to support the new section 1065.543.

• 1065.650(b)(3)—Added DEF to what is needed for chemical balance.

• 1065.650(c)(1)—Relocated transformation time requirement here from 1065.650(c)(2)(i).

• 1065.650(c)(3)—Equation edit. The update applies italics to “i”.

• 1065.650(d)(7)—Editorial updates applying italics to “i”.

• 1065.650(f)(2)—Added DEF to what is needed for chemical balance.

• 1065.655 title—Added “DEF”.

• 1065.655(c)(3)—Updated xccombdry variable description to include injected fluid.

• 1065.655(e)(1)(i)—Added additional clarity regarding determination of carbon and hydrogen mass fraction of fuel, specifically to S and N content.

• 1065.655(e)(4)—Equation and variable edits for format. The updates apply italics to “i”.

• 1065.655 Table 1—Updated reference.

• 1065.655(f)(3)—Restricted the use of equation 1065.655-25 if the standard setting part requires carbon balance verification. Also, the section contains edits for format.

• 1065.655(g)(1)—Updated reference.

• 1065.659(c)(2) and (3)—Added DEF to chemical balance.

• 1065.660(b)(4)—Variable edit. Corrected chemical formula typo for acetaldehyde.

• 1065.660(c)(2)—Included NMC FID as allowable option in NMNEHC calculation.

• 1065.665(a)—Deleted the variable and description for C# as it is not used in any calculation in this section.

• 1065.667(d)—Added DEF to chemical balance description.

• 1065.695(c)(8)(v)—Added carbon balance verification.

• 1065.701(b)—Updated title for California gasoline type.

• 1065.701 Table 1—Updated footnote format in table.

• 1065.703 Table 1—Updated to correct units for kinematic viscosity and updated footnote format in table.

• 1065.705 Table 1—Updated to correct units for kinematic viscosity and updated footnote format in table.

• 1065.710 Table 1—Edits for format consistency and updated footnote format in table.

• 1065.710 Table 2—Edits for format consistency. Added allowance to use ASTM D5769 for total aromatic content determination and ASTM D6550 for olefin determination. These were added because the dye used in the current method, ASTM D1319 is becoming scarce and thus an alternate method is needed. Updated footnote format in table.

• 1065.715 Table 1—Updated footnote format in table.

• 1065.720 Table 1—Updated footnote format in table.

• 1065.750 Table 1—Updated footnote format in table.

• 1065.905 Table 1—Updated footnote format in table.

• 1065.915 Table 1—Updated footnote format in table.

• 1065.1001—Updated definition of test interval to note that the mass of emissions is determined over it.

• 1065.1005(a)—Updated footnote format in table.

• 1065.1005(a), (c) and (d)—Updated to follow NIST SP-811 format.

• 1065.1005(a) and (e)—symbols and subscripts updated to reflect new one added during the above revisions to part 1065.

• 1065.1005(f)(2)—molar mass of ethane added. Updated footnote format in table.

4. 40 CFR Part 1066 Test Procedures

The regulations in 40 CFR part 1066, specify general procedures for measuring emissions from vehicles. The amendments being proposed for part 1066, which are summarized below, are primarily editorial.

• 1066.1(g)—Updated to current URL.

• 1066.135(a)(1)—Widened the range for verifications of a gas divider derived analyzer calibration curve to 10 to 60%. This is to ease lab burden with respect to the number of gas cylinders they must have on hand. Also, made this midspan check optional as it is no longer needed because part 1066 requires yearly linearity verification of the gas divider.

• 1066.210(d)(3)—Changed acceleration of Earth's gravity from calculation under 40 CFR 1065.630 to a default value of 9.80665 m/s². This was changed because the track coastdown doesn't take place in the same location that the dynamometer resides. Therefore, best practice is to use a default value for gravity.

• 1066.255(c)—Added clarification that the torque transducer zero and span are mathematically done prior to the start of the procedure.

• 1066.270(c)(4)—Corrected units for force in mean force variable description. Corrected example problem solution.

• 1066.275—Extended the frequency to an optional 7 days prior to testing if historic data from the test site supports a frequency of more than 1 day.

• 1066.405—Updated title to include “maintenance”.

• 1066.405(a)-(c)—Moved introductory paragraph to (a). Created new paragraphs (b) and (c) to address test vehicle inspection, maintenance and repair, consistent with 1065.410.

• 1066.420 Table 1—Updated footnote format in table.

• 1066.605—Edit in paragraph (c)(4), NMHC typo, corrected to NMHCE. Edits to equation 1066.605-10, italics added for format consistency.

• 1066.610—Edit to equation 1066.610-4. Italics added for format consistency.

• 1066.710(c)(1)(A)—Updated for clarity.

• 1066.710(c)(2)—Updated to more clearly reflect how automatic HVAC control operates in vehicles and how it should be operated for the test.

• 1066.801 Figure 1—Updated to reflect that the initial vehicle soak, as outlined in the regulations, is a 6-hour minimum and not a range of 6 to 36 hours.

• 1066.930—Added a period to the end of the sentence.

• 1066.1005(c) and (d)—Updated to follow NIST SP-811 format.

• 1066.1005(f)—Updated footnote format in table.

5. Greenhouse Gas Emissions Model (GEM)

GEM is a computer application that estimates the greenhouse gas (GHG) emissions and fuel efficiency performance of specific aspects of heavy-duty (HD) vehicles. Under the existing Phase 2 regulations, GEM 3.0 is used to determine compliance with the Phase 2 standards from several vehicle-specific inputs, such as engine fuel maps, aerodynamic drag coefficients, and vehicle weight rating.³ GEM simulates engine operation over two cruise cycles, one transient cycle, and for vocational vehicles, idle operation. These results are weighted by GEM to provide a composite GEM score that is compared to the standard.

³ Greenhouse gas Emissions Model (GEM) Phase 2, Version 3.0, July 2016. A working version of this software is also available for download at http://www.epa.gov/otaq/climate/gem.htm. This version has been incorporated by reference at 40 CFR 1037.810.

EPA is to incorporate by reference into the regulations a revised version of GEM (Version 3.5) for manufacturers to demonstrate compliance with the Phase 2 standards.⁴ The following changes have been incorporated in the proposed new version, to allow additional compliance flexibilities and improve the vehicle simulation:

⁴ Greenhouse gas Emissions Model (GEM) Phase 2, Version 3.5, November 2019. A working version of this software is also available for download at http://www.epa.gov/otaq/climate/gem.htm.

• Correcting how idle emission rates are used in the model.

• Increasing the allowable weight reduction range to 25,000 pounds.

• For powertrain input, adding an input for powertrain rated power to scale default engine power.

• Recalibrated driver over speed allowance on cruise cycles from 3 mph to 2.5 mph.

• Revised engine cycle generation outputs with corrected engine cycle generation torque output from model based on simulated inertia and rate limited speed target.

• Added scaling of powertrain simulation default engine and transmission maps based on new rated power input.

• Changed interpolation of fuel map used in post processing to be consistent with one used in simulation.

• Powertrain accessory load correction.

• Add torque converter k-factor input option.

• Cycle average cycles: add flag for points that are to be considered “idle.”

• Improved handling of large input tables.

Of these, the changes for idling emissions are the most significant. GEM 3.0 included an error where parked idle fuel map was used for ARB transient idle correction, which has been corrected for GEM 3.5 to use the drive idle portion of the map. (Note also that parked fuel map is now only required for vocational vehicles.) GEM 3.5 reads idle speed from the vehicle file and allows manufacturers to use default values that EPA used to develop the standards. Other idle changes include additional adjustments to cycle average fuel for differences between mapped idle and simulated idle using non-moving average speed and load of the ARB transient cycle average map, regression lookup of cycle average map uses only portions with vehicle moving, and post-process adjustment to fuel consumption based on simulated idle speed/load.

Preliminary evaluations of GEM 3.5 indicate that there is little difference between GEM 3.0 and GEM 3.5 for cruise cycle operation. However, it is possible some minor differences may be observed for transient and idle operation of some vocational vehicles. We request comment on whether these differences would impact impact the effective stringency of the standards and whether either GEM or the regulations need to be revised to address them.

B. Heavy-Duty Engine GHG Emission Standards and Flexibility

1. Vocational Engines and Emission Credits

We are proposing to revise how Phase 1 engine credits from vocational engines are treated in the Phase 2 program. As described below, we are proposing to allow more flexibility provided the credits are adjusted to accurately reflect the correct baseline.

In developing the baseline emission rates for vocational engines in the final Phase 2 rulemaking, we considered MY 2016 FTP certification data for diesel engines, which showed an unexpected step-change improvement in engine fuel consumption and CO2 emissions compared to data considered in the proposed rule. The proposed baseline emission rates came from the Phase 1 standards, which in turn were derived from our estimates of emission rates for 2010 engines. The underlying reasons for this shift in the final rule were mostly related to manufacturers optimizing their SCR thermal management strategy over the FTP in ways that we (mistakenly) thought they already had in MY 2010 (i.e., the Phase 1 baseline).

As background, the FTP includes a cold-start, a hot-start and significant time spent at engine idle. During these portions of the FTP, the NOX SCR system can cool down and lose NOX reducing efficiency. To maintain SCR temperature, manufacturers initially used a simplistic strategy of burning extra fuel to heat the exhaust system. However, during the development of Phase 1, EPA believed manufacturers were using more sophisticated and efficient strategies to maintain SCR temperature. EPA's misunderstanding of the baseline technology for Phase 1 provided engine manufacturers the opportunity to generate windfall credits against the FTP standards.

For the Phase 2 FRM, EPA revised the baseline emission rate for vocational engines to reflect the actual certified emission levels. The Phase 2 vocational engine final CO2 baseline emissions are shown in the table below. More detailed analyses on these Phase 2 baseline values of tractor and vocational vehicles can be found in Chapter 2.7.4 of the Phase 2 Final RIA.⁵

⁵ Greenhouse Gas Emissions and Fuel Efficiency Standards for Medium- and Heavy-Duty Engines and Vehicles—Phase 2. Regulatory Impact Analysis, August 2016, EPA-420-R-16-900. See p. 2-76.

Phase 2 Vocational Engine CO2 and Fuel Consumption Baseline Emissions
Units | HHD | MHD | LHD
g/bhp-hr | 525 | 558 | 576
gal/100 bhp-hr | 5.1572 | 5.4813 | 5.6582

EPA did not allow the carryover of Phase 1 vocational engine credits into the Phase 2 program, consistent with these adjustments to the baselines. Since this issue does not apply for RMC emissions, the restriction was applied only for engines certified exclusively to the FTP standards (rather than both FTP and RMC standards). We believed that allowing engine credits generated against the Phase 1 diesel FTP standards to be carried over into the Phase 2 program would have inappropriately diluted the Phase 2 engine program. However, this was in the context of unadjusted credits. After further consideration, we now believe that it would not dilute the program if the credits were appropriately adjusted to more accurately reflect improvement over the true baseline levels.

Allowing the portion of the credits that represent actual emission improvements to be carried forward would be consistent with our rationale from Phase 2. Thus, we are proposing in § 1036.701(j) that for Phase 1 vocational engines with emissions below the Phase 2 baseline engine values, manufacturers may recalculate and generate credits relative to the baseline levels. The recalculated vocational engine credits would be allowed into the Phase 2 engine program to the same extent as tractor engine credits.

As noted in the Phase 2 FRM, allowing additional flexibility for compliance with engine standards does not cause any increase in emissions because the manufacturers must still comply with the vehicle standards. (See 81 FR 73499). However, this flexibility could allow some manufacturers to find a less expensive compliance path. We request comment on these proposed changes and any potential impact.

2. Confirmatory Testing of Engines and Measurement Variability

During the Phase 2 rulemaking, manufacturers raised concern about measurement variability impacting the stringency of the engine GHG standards and fuel map requirements. As noted in the Phase 2 FRM, the final standards were developed to account for this. (81 FR 73571, October 25, 2016).

Manufacturers raised particular concern about variability of fuel map measurements because neither they nor EPA had sufficient experience measuring fuel maps (in a regulatory context) to fully understand potential impacts. We estimated the fuel map uncertainty to be equivalent to the uncertainty associated with measuring CO2 emission and fuel consumption over the FTP and RMC cycles, which we estimated to be about one percent. However, the Phase 2 FRM further noted that we would incorporate test procedure improvements that would futher reduce test result uncertainty. We also noted that: “If we determine in the future . . . that the +1.0 percent we factored into our stringency analysis was inappropriately low or high, we will promulgate technical amendments to the regulations to address any inappropriate impact this +1.0 percent had on the stringency of the engine and vehicle standards.” (81 FR 73571, October 25, 2016)

In conjunction with this commitment, EPA agreed to work with engine manufacturers to better understand the variability of measuring fuel maps. Through that work, we identified several sources of variability that could be reduced by making small changes to the test procedures. EPA is proposing these changes, which are listed in Sections I.A.1 through I.A.3 of this NPRM.

SwRI performed emission measurements in multiple test cells and identified distributions of error for other test inputs such measured fuel properties and calibration gas concentrations. SwRI then used a Monte Carlo simulation to estimate a distribution of errors in measured fuel maps.⁶ After reviewing the results, EPA has three significant observations:

⁶ “Measurement Variability Assessment of the GHG Phase 2 Fuel Mapping Procedure”, Southwest Research Institute, Final Report, December 2019.

1. The variability of measuring CO2 and fuel consumption during fuel mapping is greater than the one percent assumed in the Phase 2 FRM.

2. The variability of measuring CO2 and fuel consumption during the fuel mapping procedure is roughly the same as that of the FTP and RMC cycles.

3. Measuring CO2 and fuel consumption at idle is particularly challenging.

Given these results, we understand why manufacturers would be concerned about the possibility of EPA changing an official fuel map results as a consequence of EPA confirmatory testing where the measured maps were within the expected range of variability. On the other hand, the similarity between the variability of measuring fuel maps and the variability of measuring CO2 and fuel consumption over the FTP and RMC cycles (measurements for which EPA has already determined in both Phase 1 and Phase 2 that no such allowances are needed) suggests that manufacturers should ultimately be able to comply without any special provisions.

We are also considering this issue in the context of our longstanding policy that emission measurements made at our National Vehicle and Fuel Emissions Laboratory are official emission results. (See for example, § 1036.235.) We are hesitant to change any long-standing policy in a technical amendment rulemaking. Nevertheless, while we believe this issue ultimately will need to be addressed in a broader context, we are proposing a transitional approach to address the issue of engine mapping variability, as discussed below.

We are proposing an interim provision in 40 CFR 1036.150, under which EPA will not replace a manufacturer's fuel maps during confirmatory testing if the EPA-measured fuel maps were within 2.0 percent of the manufacturer's maps. We are proposing this as an interim provision but are not including an end date at this time. We would intend to reevaluate this provision as we learn more about the impact of measurement variability during fuel mapping, including the full impact of the proposed test procedure improvements that are intended to reduce measurement variability.

Since, this 2.0 percent reflects real testing variability, EPA anticipates that manufacturers could not know how the variability would affect an individual test result, which would preclude them from relying upon this margin for compliance in current engine designs or in any potential engine redesign. Additionally, EPA emphasizes that we are proposing to adopt this as an interim provision, and thus manufacturers should not otherwise rely on this provision as a compliance strategy for engine design, as EPA intends to revisit it based on further data and developments.

We are also proposing an algorithm for comparing fuel maps to one another. Because fuel maps are multi-point surfaces instead of single values, it would be a common occurrence that some of EPA's points would be higher than the manufacturer's while others would be lower.

We propose that EPA's measured fuel maps would be used with GEM according to § 1036.540 to generate emission duty cycles which simulate several different vehicle configurations, generating emission results for each of the vehicles for each of the duty cycles. Each individual duty cycle result could be weighted using the appropriate vehicle category weighting factors in Table 1 of 40 CFR 1037.510 to determine a composite CO2 emission value for that vehicle configuration. If the process is repeated for the manufacturer's fuel maps, the average percent difference between fuel maps could be calculated as:

Where:

i = an indexing variable that represents one individual weighted duty cycle result for a vehicle configuration.

N = total number of vehicle configurations.

eCO2compEPA = total composite mass of CO2 emissions in g/ton-mile for the EPA confirmatory test, rounded to the nearest whole number for vocational vehicles and to the first decimal place for tractors.

eCO2compManu = total composite mass of CO2 emissions in g/ton-mile for the manufacturer test, rounded to the nearest whole number for vocational vehicles and to the first decimal place for tractors.

We request comment on the interim approach, and whether it appropriately balances the impacts of testing variability for fuel maps.

3. Other Minor Heavy-Duty Engine Amendments

EPA is proposing three additional amendments to part 1036:

• Correcting the assigned N2O deterioration factor in § 1036.150(g). In the Phase 2 NPRM, EPA proposed to lower the N2O standard from 0.10 g/hp-hr to 0.05 g/hp-hr for model year 2021 and later diesel engines. In that context, we also proposed to lower the assigned deterioration factor (DF) from 0.020 g/hp-hr to 0.010 g/hp-hr for model year 2021 and later diesel engines. EPA explained in the preamble that we were not finalizing the change to the standard (81 FR 73530), but inadvertently finalized the proposed DF change in the regulations. Today, EPA is proposing to correct the DF back to 0.020 g/hp-hr for all diesel engines, consistent with the continuation of the 0.10 g/hp-hr N2O standard.

• Clarifying a reference to non-gasoline engine families in § 1036.705(b)(5). The second sentence of § 1036.705(b)(5) is intended to refer to non-gasoline engine families. However, the existing text is not clear. As written, it can be read to mean that gasoline engine families may not generate emission credits. EPA is proposing to add “non-gasoline” to make the intended meaning clearer.

• Engine families. Proposing to allow engine families to be divided into subfamilies with respect to CO2. This allowance would simplify the certification process without changing the overall requirements.

• Adding a summary of previously applicable emission standards as Appendix I of part 1036. The proposed new Appendix is needed for reference to previously applicable emission standards and will cover regulatory text being deleted from 40 CFR part 86.

C. Heavy-Duty Vehicle GHG Emission Standards and Flexibility

1. Considerations of Aerodynamic Compliance Data

The aerodynamic drag of a vehicle is determined by the vehicle's coefficient of drag (Cd), frontal area, air density and speed. The regulations in § 1037.525 allow manufacturers to use a range of techniques, including wind tunnel testing, computational fluid dynamics, and constant speed tests. This broad approach is appropriate given that no single test procedure is superior in all aspects to other approaches. However, we also recognized the need for consistency and a level playing field in evaluating aerodynamic performance. To address the consistency and level playing field concerns, EPA adopted an approach that identified coastdown testing as the reference aerodynamic test method, and specified a procedure to align results from other aerodynamic test procedures with the reference method by applying a correction factor (Falt-aero) to results from alternative methods (§ 1037.525(b)).

With this approach, it is important that Falt-aero be accurate. Thus, the regulations (§ 1037.525(b)) require that manufacturers use good engineering judgement ⁷ when developing Falt-aero, which would include considering all applicable coastdown data that are available. The applicable test data would be those coastdown results that were collected according to the specified test procedures, whether collected by the manufacturer during certification and SEAs, or by EPA during confirmatory testing.

⁷ Good engineering judgment means judgments made consistent with generally accepted scientific and engineering principles and all available relevant information. See 40 CFR 1068.5 for additional discussion about applying good engineering judgment.

Consider the hypothetical example shown in the figure below, where a manufacturer has coastdown results for eight vehicles. The plot shows the coastdown results corrected to represent wind averaged CdA, plotted against the corresponding wind average wind tunnel results. Applying good engineering judgement to such a dataset would lead a manufacturer to separate the vehicles into two groups, with each having its own Falt-aero value. The manufacturer would then need to work with EPA to determine how to appropriately apply these Falt-aero values to other vehicle configurations.

As described in 40 CFR 1037.235, EPA may perform confirmatory testing on the manufacturer's vehicles, including a vehicle tested to establish the Falt-aero value. The regulations also include an interim provision in § 1037.150(s) that states:

If we conduct coastdown testing to verify your Falt-aero value for Phase 2 tractors, we will make our determination using a statistical analysis consistent with the principles of SEA testing in § 1037.305. We will calculate confidence intervals using the same equations and will not replace your test results with ours if your result falls within our confidence interval or is greater than our test result.

We are proposing to revise the interim allowance in § 1037.150(s) to require EPA to perform a minimum of 100 valid runs before replacing a manufacturer's value.

Test conditions for coastdown testing are another important consideration. For our testing, EPA intends to minimize the differences between our test conditions and those of the manufacturer by testing at similar times of the year. However, because of the limited number of coastdown test facilities and the challenges of scheduling time for testing, we cannot commit to testing during the same season as the manufacturer. In addition, even if we could test during the same season, we cannot prevent differences in test conditions.

Some manufacturers have expressed concern that this approach leaves too much risk for them because changing an Falt-aero value would impact a large portion of their production and could undermine their compliance plans. These manufacturers suggest that EPA should revise the regulations to provide for larger differences before EPA is allowed to replace their value. Although we understand this concern, we do not believe the manufacturers' suggestion would be the appropriate long-term solution. When multiple measurements provide different values, good engineering judgment would generally call for more data rather than selecting a single value. Keeping with this principle, EPA is requesting comment on a potential allowance for manufacturers to conduct additional coastdown testing in response to a change by EPA to their Falt-aero value through a 40 CFR 1068.5 good engineering judgment request. EPA would attempt to be present to witness the testing, and potentially take our own measurements. EPA would follow the procedures under 40 CFR 1068.5 in responding to the manufacturer to determine an appropriate Falt-aero value, consistent with good engineering judgment.

Section 208 of the Act provides EPA broad oversight authority for manufacturer testing. Consistent with that authority, we are proposing to add a provision to our regulations at 40 CFR 1037.525(b)(8) to encourage manufacturers to proactively coordinate with EPA to have compliance staff present when a manufacturer conducts its coastdown testing to establish Falt-aero values. Being present for the testing would give EPA greater confidence that the test was conducted properly, and thus, would make it less likely that EPA would need to conduct aerodynamic confirmatory testing on the vehicle. Additionally, under our current regulations, see 40 CFR 1037.301 and 1037.305, EPA may require, and generally intends to require for the 2021 model year, that manufacturers perform SEA testing of at least one of their reference configurations.

We are also proposing to revise the minimum number of runs required for a manufacturer to fail an SEA. Under the current Phase 2 regulations, a manufacturer could fail an SEA after as few as 24 valid runs. However, review of more recently available indicates that false failures may occur if the decision is based on 24 runs. Therefore, we are proposing to require a minimum of 100 valid runs before a vehicle is deemed to have failed the SEA test.

While we believe that these changes and clarifications would largely address the manufacturers' concerns, we request comment on other possible improvements to the aerodynamic test procedures and compliance program.

2. Idle Reduction for Tractors

The Phase 1 version of GEM gives credit for idle emission reduction technologies that include a tamper-proof automatic engine shutoff system (AESS), with few override provisions. Phase 2 GEM gives credit for a wider variety of idle reduction strategies, recognizing technologies that are available on the market today, such as auxiliary power units (APUs), diesel fired heaters, and battery powered units. For example, a tamper-proof AESS with a diesel APU would be credited with a 4 percent reduction in emissions, while an adjustable AESS with a diesel fired heater would be credited with a 2 percent reduction in emissions (See 81 FR 73601, October 25, 2016).

We now realize that the regulations should also recognize combinations of these technologies. It is common for sleeper-cab tractors to include a combination of these technologies to address a broader range of ambient temperatures. For example, a fuel operated heater may be used for heating during the winter months, while a battery APU may be used for air conditioning in the summer. Therefore, we are proposing to add the following combinations of idle reduction technologies to Table 9 of § 1037.520. By adding these values to GEM, it would reduce the compliance burden for manufacturers who would otherwise need to pursue off-cycle credits for these technology combinations. The values of the proposed technology benefits were determined using the same methodology used in the Phase 2 final rule. 8 9

⁸ U.S. Environmental Protection Agency. Greenhouse Gas Emissions and Fuel Efficiency Standards for Medium- and Heavy-Duty Engines and Vehicles—Phase 2: Regulatory Impact Analysis. EPA 420-R-16-900. August 2016. Section 2.4.8.1.1 Idle Control Technologies. Pages 2-49 through 2-53.

⁹ Cullen, Angela. Memo to the Docket: Proposed Idle Reduction Technology Package Benefits. August 2019.

Combination technology | Tamper-resistant: Calculated credit (%) | Tamper-resistant: GEM input | Adjustable: Calculated credit (%) | Adjustable: GEM input
Battery APU & Heater | 6.3 | 6 | 5.1 | 5
Diesel APU & Heater | 5.0 | 5 | 4.0 | 4
Stop-Start & Heater | 4.6 | 5 | 3.7 | 4

3. Manufacturer Testing of Production Vehicles

The regulations will require tractor manufacturers to annually chassis test five production vehicles over the GEM cycles to verify that relative reductions simulated in GEM are being achieved in actual production. See 40 CFR 1037.665. We do not expect absolute correlation between GEM results and chassis testing. GEM makes many simplifying assumptions that do not compromise its usefulness for certification but do cause it to produce emission rates different from what would be measured during a chassis dynamometer test. Given the limits of correlation possible between GEM and chassis testing, we would not expect such testing to accurately reflect whether a vehicle was compliant with the GEM standards. Therefore, § 1037.665 does not apply compliance liability to such testing. Rather, this testing will be for informational purposes only. (81 FR 73638, October 25, 2016.)

The regulation also allows manufacturers to request approval of alternative testing “that will provide equivalent or better information.” Manufacturers have asked us to clarify this allowance. Therefore, we are proposing to explicitly allow CO2 data from in-use operation, and CO2 data from manufacturer-run on-road testing. To qualify, the vehicles would need to be actual production vehicles rather than custom-built prototype vehicles. Such vehicles could be covered by testing or manufacturer owned exemptions but would need to be produced on an assembly line or other normal production practices. Manufacturers would also need to ensure test methods are sufficiently similar from year to year to allow for a meaningful analysis of trends.

4. Canadian Vehicle Standards

During the Phase 2 rulemaking, Environment and Climate Change Canada (ECCC) emphasized that the highway weight limitations in Canada are much greater than those in the U.S. Where the U.S. federal highways have limits of 80,000 pounds gross combined weight, Canadian provinces have weight limits up to 140,000 pounds. This difference could potentially limit emission reductions that could be achieved if ECCC were to fully harmonize with the U.S.'s HD Phase 2 standards because a significant portion of the tractors sold in Canada have GCWR (Gross Combined Weight Rating) greater than EPA's 120,000-pound weight criterion for “heavy-haul” tractors.

EPA addressed this in Phase 2 by adopting provisions that allow the manufacturers the option for vehicles above 120,000 pounds GCWR to meet the more stringent standards that reflect the ECCC views on appropriate technology improvements, along with the powertrain requirements that go along with higher GCWR (see 81 FR 73582, October 25, 2016). Vehicles in the 120,000 to 140,000 pound GCWR range would normally be treated as simple “heavy haul” tractors in GEM, which eliminates the GEM input for aerodynamics. However, vehicles certified to the optional standards would be classified as “heavy Class 8” tractors in GEM, which then requires an aerodynamic input. Nevertheless, they both use the heavier payload for heavy haul.

ECCC has since adopted final standards for these tractors, which differ from the optional standards finalized in Phase 2.¹⁰ Since the purpose of these standards was to facilitate certification of vehicles intended for Canada, we are now proposing to revise our optional standards to be the same as the final ECCC standards. The proposed standards can be found in § 1037.670. Note that these standards are not directly comparable to either the normal Class 8 standards or the heavy haul standards of § 1037.106 because GEM uses different inputs for them.

¹⁰ Regulations Amending the Heavy-duty Vehicle and Engine Greenhouse Gas Emission Regulations and Other Regulations Made Under the Canadian Environmental Protection Act, 1999: SOR/2018-98, Canada Gazette, Part II, Volume 152, Number 11, May 16, 2018.

ECCC has also adopted new standards for tractors in the 97,000 to 120,000-pound GCWR category. We request comment on the need for special provisions for these vehicles.

5. Vehicle Model Year Definition

For Phase 2 tractors and vocational vehicles, the vehicle's regulatory model year is usually the calendar year corresponding to the date of manufacture. However, the Phase 2 regulations allow the vehicle's model year to be designated to be the year before the calendar year corresponding to the date of manufacture if the engine's model year is from an earlier year.

After promulgation of the FRM, it became apparent that the Phase 2 vehicle model year definition does not allow starting a vehicle model year before January 1st of the named model year if the engine model year also begins in the earlier year. For example, if a manufacturer would start its 2024 engine model year in December 2023, the definition would not allow vehicles produced in 2023 to be model year 2024.

To address this issue, EPA is proposing to add back the option to allow the vehicle's model year to be designated to be the year after the calendar year of manufacture. In other words, we would allow manufacturers to meet standards earlier to ensure that engine and vehicle model years are aligned. Model years would still be constrained to reflect annual (rather than multi-year) production periods and include January 1 of the named year.

6. Compliance Margins for GEM Inputs

The regulations at 40 CFR 1037.620(d) allow components manufacturers to conduct testing for vehicle manufacturers, but they do not specify restrictions for the format of the data. Vehicle manufacturers have raised concerns about component manufacturers including compliance margins in GEM inputs—in other words, inputting a value that is significantly worse than the tested result. They state that many component suppliers are providing GEM inputs with compliance margins, rather than raw test results. However, when stacked together, the compliance margins would result in inappropriately high GEM results that would not represent the vehicles being produced.

In addressing this concern, it is important to distinguish between engine fuel maps (which are certified separately) and other GEM inputs that are not certified. As is discussed in Section I.B.2, certified engine fuel maps are expected to include compliance margins (albeit small margins). However, EPA did not expect each GEM input to have a significant compliance margin of its own. (Note that the aerodynamic bin structure serves to provide an inherent compliance margin for most vehicles.) Rather, we expected the certifying OEM to include compliance margins in their Family Emission Limits (FELs) relative to the GEM outputs.

For vehicle GHG standards, the primary role for FEL compliance margins is to protect against Selective Enforcement Audit (SEA) failures. Without a compliance margin under the Phase 2 regulations, normal production variability would cause some vehicles to fail, which would require the testing of additional vehicles. Even if the family ultimately passed the SEA, it would probably require the manufacturer to test a large number of vehicles. However, because SEAs for particular components would not target GEM inputs for other components, a modest compliance margin for the FEL would be sufficient to cover the full range of components.

While we are not proposing explicit changes with respect to compliance margins, we are proposing to revise the procedures for conducting an SEA for an axle or transmission apart from a specific vehicle. These revisions would further obviate a need for component-specific compliance margins.

Although we do not believe that suppliers should normally include compliance margins when providing test data to OEMs for GEM inputs, we do believe they should provide to OEMs some characterization of the statistical confidence they have in their data. This would allow the OEM to apply an appropriate overall compliance margin for their FEL.

Finally, none of this is intended to discourage suppliers and OEMs from entering into commercial agreements related to the accuracy of test results or SEA performance.

7. SEAs for Axles and Transmissions

Under 40 CFR 1037.320, a selective enforcement audit (SEA) for axles or transmissions would consist of performing measurements with a production axle or transmission to determine mean power loss values as declared for GEM simulations, and running GEM over one or more applicable duty cycles based on those measured values. The axle or transmission is considered passing for a given configuration if the new modeled emission result for every applicable duty cycle is at or below the modeled emission result corresponding to the declared GEM inputs. As described below, EPA is proposing to revise the consequences where an axle or transmission does not pass.

We believe special provisions are needed for axles and transmissions given their importance as compliance technologies and a market structure in which a single axle or transmission could be used by multiple certifying OEMs. Under the existing SEA regulations, if an axle or transmission family from an independent supplier fails an SEA, vehicle production could be disrupted for multiple OEMs and have serious economic impacts on them. We are proposing new regulatory text that would minimize the disruption to vehicle production.

Under the proposal, if the initial axle or transmission passes, then the family would pass, and no further testing would be required. This is the same as under the existing regulations. However, if the initial axle or transmission does not pass, two additional production axles or transmissions, as applicable, would need to be tested. Upon completion of the third test, the results of the three tests would be combined into a single map. This would become the official test result for the family. In other words, this proposed approach would correct the data used by the OEM for their end-of-year report.

We request comment on whether there are other components for which this approach would be appropriate.

8. Weight Reduction

The regulations in 40 CFR 1037.520 include tables to calculate weight reduction values for using certain lightweight components. The sum of the weight reductions is used as an input to GEM. EPA is proposing two changes to Table 8 of that section. First, we are proposing to allow manufacturers to use the heavy heavy-duty (HHD) values for medium heavy-duty (MHD) vehicles with three axles (i.e., 6x4 and 6x2 configurations). These MHD vehicles typically share chassis components with HHD vehicles, but are classified as MHD because of the lighter duty engines. Second, we are proposing to add a footnote to the table to clarify that the weight reduction values apply per vehicle (instead of per component) unless otherwise noted.

9. Electric and Hybrid Vehicles in Vocational Applications

Manufacturers have expressed concern that the Phase 2 regulations are not specific enough regarding how to classify hybrid vocational vehicles (see 40 CFR 1037.140). This is not an issue for tractors, which are classified based on GVWR. However, vocational vehicles are generally classified by the class of the engines. Obviously, this approach does not work for electric vehicle without engines. This approach could also misrepresent a hybrid vehicle that is able to use an undersized engine. To address these problems, we are proposing to revise 40 CFR 1037.140(g) to clarify that hybrid vehicles are heavy heavy-duty vehicles if they are either propelled by a heavy heavy-duty engine and all other hybrid and electric vehicles are classified by GVWR class. We request comment on alternative approaches, such as specifying the useful life in hours rather than miles for these vocational vehicles, or allowing electric vehicles to step down one weight class, with justification from the manufacturer.

10. Vocational Vehicle Segmentation

The Phase 2 regulatory structure applies the primary vocational standards by subcategory based on drive cycles. The three subcategories are Regional, Multi-purpose, and Urban. Manufacturers are generally allowed to certify vocational vehicles in the particular duty-cycle subcategory they believe to be most appropriate, consistent with good engineering judgment. This process for selecting the correct subcategory is often called “segmentation.” Under this structure, EPA expects manufacturers to choose a subcategory for each vehicle configuration that best represents the type of operation that vehicle will actually experience in use. This is important because several technologies provide very different emission reductions depending on the actual in-use drive cycle. For example, stop-start would provide the biggest emission reductions for urban vehicles and much less reduction for vehicles that operate primary on long intercity drives.

Manufacturers have raised concerns about the impact of this structure on their ability to plan for and monitor compliance. They have suggested that more objective and quantitative good engineering judgment criteria would be helpful. In response to these concerns, EPA is proposing an interim “safe harbor” provision for vocational vehicle segmentation. Manufacturers meeting the safe harbor criteria described below would be presumed to have applied good engineering judgment.

The first principle of this safe harbor would be that any vehicle could be classified as Multi-purpose. The Multi-purpose duty cycle weighting factors include significant weightings for highway operation, lower speed transient operation, and idle. Thus, it would not generally overvalue an individual technology.

The second principle of this safe harbor would be that vehicles not classified as Multi-purpose should not be exclusively Regional or Urban. We are proposing a quantitative measure that evaluates the ratio of Regional vehicles to Urban vehicles within an averaging set. Specifically, ratio of Regional vehicles to Urban vehicles must be between 1:5 and 5:1. An equivalent way of saying this is that the number of Regional vehicles divided by the number of Urban vehicles would need to be between 0.20 and 5.0.

We believe this safe harbor would be consistent with the intent of the Phase2 program and would not allow manufacturers to reduce the effective stringency the standards. Nevertheless, EPA requests comment on this approach overall and the range of acceptable ratios. We also request comment on how to handle specialty manufacturers that have a less diverse product offerings. Finally, we request comment on the need for the subcategory on the label and whether or not we should allow manufacturers to reassign subcategories for their end-of-year ABT reports.

11. Early Certification for Small Manufacturers

Vehicle manufacturers that qualify as small businesses are exempt from the Phase 1 standards, but must meet the Phase 2 standards beginning in 2022. However, some vehicle families have been certified voluntarily to Phase 1 standards by small manufacturers. In an effort to encourage more voluntary early certification to Phase 1 standards, we are proposing to adopt a new interim provision in § 1037.150(y)(4) for small manufacturers that certify their entire U.S.-directed production volume to the Phase 1 standards for calendar year 2021. If the small manufacturers do so, the proposed provision would then allow these manufacturers to certify to the Phase 1 standards for model year 2022 (instead of the otherwise applicable Phase 2 standards). Early compliance with the Phase 1 standards should more than offset any reduction in benefits for model year 2022 (although the magnitude of any impact on air quality would be small because of the small production volumes that would be involved).

The proposed provision would also allow the Phase 1 vehicle credits that small manufacturers generate from model year 2018 through 2022 vocational vehicles to be used through model year 2027. Under the existing regulations, all manufacturers that generate credits under the Phase 1 program are allowed to use such Phase 1 vehicle credits in the Phase 2 vehicle averaging, banking, and trading program, but the credits are subject to the five-year credit life. The limit on credit life can be problematic for small manufacturers with limited product lines which allow them less flexibility in averaging. We believe the longer credit life would provide them the flexibility they would need to ensure all of their products are fully compliant by the time the Phase 2 standards are fully phased in for model year 2027.

We request comment on these proposed changes and any potential impact.

12. Other Minor Heavy-Duty Vehicle Amendments

EPA is proposing four additional amendments to part 1037:

• Self-contained air conditioning units. We are proposing to revise § 1037.115(e) to clarify that it is intended to address air conditioning systems for which the primary purpose is to cool the driver compartment. This would generally include all complete pickups and vans, but not self-contained air conditioning or refrigeration units on vocational vehicles.

• Warranty. We are proposing to revise § 1037.120(b) to correct the text with respect to tires and Heavy Heavy-Duty vehicles.

• Drayage tractors. We are proposing to revise § 1037.140(aa) to clarify the production limit for drayage tractors under the custom chassis allowance.

• Neutral idle. We are proposing to revise § 1037.660(a)(2) to specify the permissible delay before engaging neutral idle when the vehicle is stopped.

D. Requests for Comment on Phase 2 Regulations

EPA is soliciting comments on other potential amendments, including those described in this Section II.D. We also welcome comments on the need for other technical corrections and clarifications. Readers are reminded to review public comments placed in the docket, which may contain requests for other corrections and clarifications.

1. Vocational Engines and Credits

In 40 CFR 1036.150(p), EPA provides special flexibility for engine manufacturers that certify all their model year 2020 engines within an averaging set to the model year 2021 FTP and SET standards and requirements. GHG emission credits those manufacturers generate with model year 2018 through 2024 engines may be used through model year 2030, instead of being limited to a five-year credit life as specified in § 1036.740(d). They will also be allowed to certify model year 2024 through 2026 tractor engines to alternative standards that are slightly higher than the otherwise applicable standards.

The choice would be made when certifying MY 2020 engines. Instead of certifying engines to the final year of the Phase 1 engine standards, manufacturers electing the alternative would indicate that they are instead certifying to the MY 2021 Phase 2 engine standard. Because these engine manufacturers would be reducing emissions of engines otherwise subject to the MY 2020 Phase 1 engine standards (and because engine reductions were not reflected in the Phase 1 vehicle program), there would be a net benefit to the environment. These engines would not generate credits relative to the Phase 1 standards (that is, MY 2020 engines would only use or generate credits relative to the pulled ahead MY 2021 Phase 2 engines standards). Because the vehicle standards themselves are unaffected, these voluntary standards would not reduce the GHG reductions or fuel savings of the program. Vehicle manufacturers using the alternative MYs 2024-2026 engines would need to adopt additional vehicle technology (i.e., technology beyond that projected to be needed to meet the engine standard) to meet the applicable vehicle GHG standards. This means the vehicles would still achieve the same fuel efficiency in use.

EPA did not adopt a similar provision for alternative MY 2024-2026 standards for vocational engines due to concerns about windfall credits. However, given our proposed amendment to address these windfall credits (Section I.B.1), we are asking for comment on the possibility of a similar set of alternative standards for vocational engines, as shown in the following table:

Model years | Medium heavy-duty vocational | Heavy heavy-duty vocational
2020-2023 | 545 g/hp-hr | 513 g/hp-hr.
2024-2026 | 542 g/hp-hr | 510 g/hp-hr.

As noted in the Phase 2 FRM, EPA views this type of alternative as being positive from the environmental and energy conservation perspectives, while providing significant flexibility for manufacturers that may reduce their compliance costs. (81 FR 73499, October 25, 2016)

2. Stop-Start Overrides

Stop-start systems are an important technology to reduce unnecessary idling, such as when a vehicle is stopped at a traffic light. In 40 CFR 1037.660, we specify how these systems must operate in order to qualify for GEM credit. Included among those provisions are allowances for overriding the automatic engine shutdown where it would otherwise create a potential system damage or safety issue for the engine or driver. Manufacturers have asked us to include additional overrides needed to ensure safe and effective vehicle operation. Specifically, they have asked us to consider overrides for the following conditions, which we are requesting comment on:

• Driveline engaged (to prevent driveline and/or starter damage)

• Automatic transmission not in D (to reduce engine and transmission loading)

• Automatic transmission in P or N (to prevent depleting the battery)

• Turn signal activated (to prevent engine stop with the vehicle in intersection)

• Hazard warning signal activated (to prevent engine stop during limp-home mode)

• SCR thawing (to allow thawing of frozen DEF)

• High steering angle (to avoid steering wheel kickback during engine start)

• ABS wheel speed sensor failure (to ensure detection of vehicle speed)

• Hard braking event (to avoid startling the driver after an event)

• Road grade greater than 7% (to prevent vehicle rollback)

3. Delegated Assembly

In 40 CFR 1037.621, EPA specifies provisions to allow manufacturers to ship incomplete vehicles and delegate the final assembly to another entity. Manufacturers have expressed the concern that these “delegated assembly” requirements are too burdensome in some cases, particularly in cases such as auxiliary power units and natural gas fuel tanks. EPA requests comment on this issue.

4. Certification Reporting Requirements

EPA requests comment on whether and how to revise the text to simplify or clarify the provisions in 40 CFR 1037.205 that require the inclusion of GEM results and credit projections in applications for certification.

5. Mild Hybrid Certification

Under the Phase 2 regulations, manufacturers must conduct powertrain testing if they wish to take credit for hybrid systems, including mild hybrid systems. However, manufacturers have expressed concerns about the cost of powertrain testing and that the existing procedure may not measure improvements from certain mild hybrid systems. EPA requests comment on alternative means of evaluating mild hybrids. Manufacturers have asked EPA to consider the following options:

• Allow manufacturers to test a powertrain and apply analytically-derived scaling factors to others (e.g., scale by fraction of battery capacity or motor capacity) under 40 CFR 1037.235(h).

• Allow manufacturers to use international test procedures for battery capacity, motor power, and motor efficiency.

• Provide smaller credit (potentially with a volume limit and/or only for limited time) in exchange for less testing (e.g., reduced benefit when using the simplified model spreadsheet that is available under docket no. EPA-HQ-OAR-2014-0827-2109).

6. Transmission Calibrations

Manufacturers with advanced transmission calibrations may use the powertrain test option in § 1037.550 to demonstrate the performance of their transmissions. We adopted this option to provide an incentive for the development of advanced transmissions with sophisticated calibrations.

Transmission manufacturers have developed some new efficient calibrations, but must also maintain less efficient calibrations to address special types of operation. Due to concerns about resale value, most customers want to retain the ability to select the correct calibration for their operation. For transmissions with such selectable calibrations, § 1037.235(a) requires that they test using the worst-case calibration, which can undermine the incentive to continue improving the calibrations. Therefore, we are requesting comment on allowing manufacturers to measure both the best- and worst-case calibrations and weight them based on survey data, or other appropriate means. Commenters are encouraged to address whether such an allowance would change the effective stringency of the standards.

7. Data Requirements for Hydrogen-Fueled Vehicles

We request comment on whether special provisions are needed for hydrogen-fueled vehicles. Currently GEM simulation is required for these vehicles, although by using a non-carbon fuel, simulating the vehicle with GEM would result in zero CO2 emissions. We request comment on whether or not to change our current approach.

E. Other Heavy-Duty Highway Amendments

This proposed rule includes other amendments related to heavy-duty highway engines. For example, we are updating the regulations for certification fees as described in Section III.C. We are also proposing or soliciting comment on additional amendments as described in the following sections.

1. Onboard Diagnostics (OBD)

EPA's OBD regulations for heavy-duty engines are contained in 40 CFR 86.010-18, which was promulgated February 24, 2009 (74 FR 8310). Although these regulations were originally harmonized with CARB's OBD program, CARB has made changes to their regulations which EPA has not adopted. In several cases, CARB has added flexibility to its regulations. We are requesting comment generally on the differences between EPA and CARB regulations, in addition to the specific issues identified below.

More recently CARB has proposed additional revisions and is expected to finalize them this year.¹¹ We also request comment on these more recent CARB changes.

¹¹ Information is available at https://ww2.arb.ca.gov/rulemaking/2018/heavy-duty-board-diagnostic-system-requirements-2018.

We request comment on the new definitions proposed by CARB at 13 CCR 1971.1(c), including the definitions for “alternate phase-in”, “diagnostic or emission critical electronic control unit”, and “smart device”.

EPA is requesting comment on California's approach to approving deficiencies during a model year. In § 1971.1(k)(6.1.1) of their regulations, CARB states:

The manufacturer may request a retroactive deficiency until either of the following dates, whichever is later:

(A) When the last affected engine or vehicle is produced, or on December 31 of the calendar year for which the model year is named, whichever is sooner; or

(B) 6 months after commencement of the start of engine production or vehicle production, whichever is later.

Our current regulations do not allow for retroactive deficiencies. EPA is requesting comment on whether to adopt CARB's approach.

We are proposing to adopt the CARB 5% threshold for misfire in § 86.010-18(g)(2), and to adopt the additional flexibility provided by CARB for misfires in 13 CCR 1971.1(e)(2.3.3). This would allow manufacturers to not detect misfires under certain conditions, such as during aftertreatment regeneration and some low temperature operation.

We are proposing to revise our in-use compliance standards in § 86.010-18(p) to reflect the CARB approach for minimum ratios for representative samples. Under the proposed text, an OBD system would not be considered noncompliant unless a representative sample indicates the in-use ratio is below 0.088.

CARB has developed reporting templates for its OBD requirements. EPA is proposing to allow manufacturers to use these templates for reporting to EPA, and we are requesting comment on whether regulatory changes are needed. See CARB Mail-Out #MSC 09-22 as amended on 18-Apr-2019.

Our OBD regulations rely on several standard procedures developed by SAE International, as specified in § 86.010-18(k). The regulations also reference a standard of the International Organization for Standardization (ISO). We request comment on the need to update these procedures to more recent versions as summarized below.

SAE procedure | Version currently cited | Latest version
SAE J1930 | 2002 | 2017
SAE J1939 | 2007 | 2017
SAE J1939-13 | 2004 | 2016
SAE J1939-73 | 2006 | 2017
SAE J1962 | 2002 | 2016
SAE J1978 | 2002 | 2002
SAE J1979 | 2007 | 2017
SAE J2012 | 2002 | 2016
SAE J 2403 | 2007 | 2014
ISO 15765-4:2005(E) | 2005 | 2011

In § 86.010-18(l), EPA specifies testing requirements for demonstrating the performance of monitoring systems. The amount of testing required depends on the number of engine families a manufacturer certifies in a given model year. CARB regulations include equivalent requirements, and our intent is to allow the use of test data generated for CARB. We are proposing to revise our regulations to state that CARB-certified configurations do not count as separate engine families for the purposes of this provision.

EPA is proposing to revise § 86.010-18(a) and (m) to allow a simplified carryover OBD certification path intended for special engine families, such as those certified for export to Canada. This proposed provision is similar to the allowance to show compliance with § 86.010-18 based on CARB certification. To make use of either alternative, the manufacturer must demonstrate to the Administrator how the OBD system they intend to certify meets the intent behind all the requirements of § 86.010-18.

These amendments address heavy-duty engines used in vehicles with GVWR above 14,000 pounds. We request comment on the need for similar changes for engine-certified heavy-duty engine families subject to 40 CFR 86.007-17 and 86.1806-17.

2. Smoke Standards and Smoke Measurement Procedures

Diesel heavy-duty highway engines have been subject to smoke standards in addition to brake-specific emission standards for many years. The current exhaust emission standards for particulate matter (PM) cause manufacturers to apply calibrations and emission control strategies that reduce PM from the exhaust to very low levels. There is some relationship between brake-specific PM emissions and smoke, but they are not inherently linked. Nevertheless, modern engines with very low PM emissions have very low smoke levels when properly maintained. Thus, we do not believe smoke standards achieve any emission reductions beyond those that result from DPF-forcing PM standards.

Manufacturers submit smoke data with certification, but smoke testing is not required for selective enforcement audits with production engines. Some state programs continue to rely on smoke measurement to screen for high-emitting trucks. However, these state testing programs are separate from EPA certification, so we do not expect the state programs to depend on EPA certification for smoke standards. We therefore request comment on removing the smoke standard as a certification requirement for heavy-duty highway engines. We particularly request comment on the EPA smoke standard and its relationship to state testing programs.

There are also questions about the smoke test procedures. The smoke test procedures are specified in 40 CFR part 86, subpart I. These procedures were first adopted almost 50 years ago and have remained largely unchanged since that time. They currently apply for locomotives (40 CFR part 1033) and some land-based nonroad diesel engines (40 CFR part 1039). To the extent these procedures continue to apply, we may undertake a future rulemaking to update these procedures and include them in 40 CFR part 1065 along with the other test procedures for measuring exhaust emissions from test engines. We request comment on appropriate changes to ensure that these measurement procedures reflect currently available instruments and practices, without causing the measured values to redefine the stringency of existing standards.

3. Migration From 40 CFR Part 86, Subpart A

EPA created 40 CFR part 86 in 1976 to reorganize emission standards and certification requirements for light-duty and heavy-duty highway vehicles and engines. In 1985, EPA adopted new standards for heavy-duty highway engines, codifying the standards in 40 CFR part 86, subpart A, along with the standards and certification procedures for light-duty vehicles and light-duty trucks.¹² Since then, EPA has adopted several rules to set new and more stringent standards for both light-duty and heavy-duty emission control programs and to add or revise certification procedures. However, the original regulatory structure was not well-suited to handle the number of revisions that occurred over time.

¹² Emission standards for heavy-duty highway engines were first adopted by the Department of Health, Education, and Welfare in the 1960s. These standards and the corresponding certification and testing procedures were codified at 45 CFR part 1201. In 1972, shortly after EPA was created as a federal agency, EPA published new standards and updated procedures while migrating the regulations to 40 CFR part 85 as part of the effort to consolidate all EPA regulations in a single location.

To improve clarity for regulated parties, EPA has been planning to migrate the highway heavy-duty engine standards and certification requirements to 40 CFR part 1036.¹³ We expect to propose that migration in a separate rulemaking. The general approach will be to keep the essential regulatory elements in 40 CFR part 86, subpart A, but to streamline and update the regulatory provisions to align with best practices and other current provisions that apply for nonroad engines (such as 40 CFR parts 1033, 1039, and 1042). We believe this technical amendment rulemaking is a good opportunity to solicit input on principles and opportunities for eventually adopting those updated regulations in 40 CFR part 1036.

¹³ 40 CFR part 1036 was created in 2011 as part of the Phase 1 GHG rulemaking (76 FR 57381, September 15, 2011).

The migration of regulatory provisions to 40 CFR part 1036 is planned for a future rulemaking because it necessitates a thorough investigation of the provisions that currently apply to heavy-duty engines under 40 CFR part 86. A memo in the docket for this proposal describes a range of possible regulatory amendments we could eventually adopt to reorganize the provisions within 40 CFR part 86, subpart A, eliminate obsolete content, and improve the readability of the remaining provisions.¹⁴ We request comment on those regulatory changes, and on the value of making these changes in this rulemaking, considering that these changes will apply only for the limited time that 40 CFR part 86, subpart A, continues to apply.

¹⁴ “Draft Regulatory Text to Update and Reorganize 40 CFR part 86, subpart A”, EPA memorandum from Alan Stout to Docket EPA-HQ-OAR-2019-0307, January 23, 2020.

III. Other Amendments

A. Ethanol-Blend Test Fuels for Nonroad Spark-Ignition Engines and Vehicles, Highway Motorcycles, and Portable Fuel Containers

EPA adopted exhaust and evaporative emission standards for gasoline-fueled nonroad engines, vehicles, and equipment before there was a federal gasoline test fuel with 10 percent ethanol (E10). Most of those programs therefore relied on testing with neat gasoline (E0) or with a splash-blended mix of neat gasoline and ethanol to make E10. In the meantime, EPA adopted a federal gasoline test fuel with 10 percent ethanol for testing motor vehicles (79 FR 23414, April 28, 2014).

California ARB adopted its own specification for an E10 test fuel for testing motor vehicles, referred to as “LEV III E10.” California ARB revised its nonroad emission control programs to require manufacturers to start using LEV III E10 test fuel for certification starting in model year 2020, without allowing for carryover of previous data from testing with neat gasoline. California ARB's move to require use of LEV III E10 test fuel for certification has led manufacturers to express a concern about the test burden associated with separate testing to demonstrate compliance with EPA and California ARB emission standards.

The concern for aligning test requirements related to test fuel applies for marine spark-ignition engines (40 CFR part 1045), nonroad spark-ignition engines above 19 kW (40 CFR part 1048), and recreational vehicles (40 CFR part 1051).¹⁵ We expect a similar situation to apply for highway motorcycles in the 2022-2025 time frame based on California ARB's plans for further rulemaking activity. In addition, we believe it is best to update evaporative emission test procedures for equipment using nonroad spark-ignition engines (40 CFR part 1060) to allow for using EPA' specified E10 test fuel instead of relying on splash-blending ethanol with EPA's specified E0 gasoline test fuel (known as indolene).

¹⁵ EPA adopted amendments to address these concerns for nonroad spark-ignition engines at or below 19 kW in an earlier rulemaking (80 FR 9114, February 19, 2015).

We have issued guidance for marine spark-ignition engines (40 CFR part 1045) ¹⁶ and for recreational vehicles (40 CFR part 1051) ¹⁷ describing how we may approve certification based on emission measurements with an E10 test fuel. We are proposing to revise 40 CFR parts 1045, 1048, and 1051, consistent with the recently issued guidance documents, to allow for certification based on emission measurements with EPA's E10 test fuel without requiring EPA approval, and without adjusting emission standards to account for fuel effects. For marine spark-ignition engines (40 CFR part 1045), this merely replaces the existing provision allowing for the alternative of using a splash-blended E10 test fuel. For recreational vehicles (40 CFR part 1051) and Large SI engines (40 CFR part 1048), naming EPA's E10 specification as the alternative test fuel is a new provision. As originally adopted for Marine SI engines, EPA would always be able to do confirmatory testing with either the original E0 test fuel, or the manufacturer's selected alternative fuel.

¹⁶ “Marine Spark Ignition Engine Certification Testing with California ARB E10 Test Fuel,” EPA guidance document CD-18-15, December 24, 2018.

¹⁷ “Off-Highway Recreational Vehicle Certification Testing with California ARB E10 Test Fuel,” EPA guidance document CD-19-03, April 22, 2019.

We are also proposing to allow the same approach for certification based on emission measurements with EPA's E10 test fuel for highway motorcycles (including EPA confirmatory testing with either E0 or E10).

Manufacturers may want to test with California ARB's LEV III E10 test fuel instead of EPA's E10 test fuel. The two sets of fuel specifications are nearly identical, except that the EPA E10 test fuel has a higher volatility. For testing hot-stabilized engines, volatility has a very small effect on exhaust emissions. As a result, we would expect to approve a manufacturer's request to use LEV III E10 test fuel instead of EPA's E10 test fuel under 40 CFR 1065.701(b). This provision allows EPA to approve a different test fuel if it does not affect a manufacturer's ability to show that its engines will comply with all applicable emission standards using the fuel specificed in the subpart. This would apply if fuel's effect on emissions is small enough to allow for using the test results to show that engines would meet applicable emission standards with the specified fuel. Since there are no appreciable fuel effects on exhaust emissions between EPA's E10 test fuel and LEV III E10 test fuel, we would expect this approval process to be straightforward.

We expect this approach of allowing E10 as an alternative test fuel to adequately address concerns for the identified sectors. Many of these engines have closed-loop fuel controls that reduce the effect of fuel variables on exhaust emissions. Many also have relatively large compliance margins relative to the standards that apply. These factors help manufacturers confidently test with E10 as an alternative fuel, knowing that they continue to be liable for meeting emission standards on the specified E0 test fuel.

EPA has an interest in transitioning all emission measurements for gasoline-fueled engines to an E10 test fuel. However, modifying the emission control program by allowing (or requiring) a complete compliance demonstration based on an E10 test fuel would require a more careful assessment of the fuel effects from the ethanol added to the test fuel. Since the ethanol in some cases has significant effects on HC, NOX, and CO emissions, we would need to evaluate the resulting effects on the stringency of the standards. We would generally expect to adopt adjusted standards with the objective of maintaining equivalent stringency. Developing such alternative standards for an E10 test fuel would require a large body of data to adequately capture the fuel effects on emissions for all the different classes of highway motorcycles, for all the different types of nonroad engines and vehicles, and for different kinds of engine technology within the various sectors. We took this approach for nonroad spark-ignition engines below 19 kW by adopting alternative CO standards that apply for testing with LEV III E10 test fuel (78 FR 36397, June 17, 2013).

Toward that end, we have prepared a memorandum with a collection of available emission data from nonroad engines and highway motorcycles tested with E0 and E10 test fuels.¹⁸ The data include results from programs conducted by industry associations, EPA efforts with Canadian labs, and other U.S. laboratory data. We solicit additional emission data to further help establish the comparison between the test fuels for different engine types, applications, and technologies. We also request comment on the benefits or concerns with adopting alternative standards that correspond with a change to require E10 test fuel for all testing (both for manufacturers and EPA). Available information suggests that the fuel-related emission effects for technologies across these sectors are much more complex and varied than we observed for Small SI engines. Some technology differences, such as two-stroke vs. four-stroke and naturally aspirated vs. turbocharged, have relatively consistent and predictable fuel-related emission effects. However, some technologies will have fuel-related emission effects that depend on specific design strategies. For example, manufacturers can use electronic controls to optimize for power, fuel economy, low-speed torque, or some other measure of performance. Partial use of closed-loop control of air-fuel ratios is one clear example of this, with the potential to adjust the air-fuel ratio to different setpoints, or to limit closed-loop control only to certain operating conditions. We request comment on how best to account for these design-specific engine technologies in evaluating fuel-related emission effects for each type of engine.

¹⁸ “Collection of E0/E10 Emission Data for Current Certified Nonroad Sector Engines and On Highway Motorcycles” EPA memorandum from Cheryl Caffrey to Docket EPA-HQ-OAR-2016-0604, December 6, 2019.

The emission effects are most pronounced for CO emissions, but we are also interested in HC and NOX emissions. To the extent that NOX emissions (or HC + NOX emissions) increase to a degree that affects the stringency of the standards, we would consider increasing the numerical level of the standard to maintain equivalent stringency.

EPA also specifies test fuels for evaporative emission testing. The gasoline test fuel for measuring permeation emissions from nonroad fuel tanks and fuel lines is a splash-blended E10. The is an E0 test fuel that is blended to reach a 10 percent concentration of ethanol. The splash-blended E10 test fuel is nearly identical to EPA's specified E10 test fuel except for the volatility. EPA's Tier 3 E10 test fuel has a nominal volatility of 9 psi RVP and the splash-blended E10 has a volatility of about 10 psi RVP.¹⁹ We request comment on amending the regulation to allow testing with the pre-mixed E10 test fuel with 9 psi RVP instead of the splash-blended E10 test fuel with 10 psi. In particular, we encourage commenters to share any available data describing how gasoline volatility affects permeation rates. We would not want manufacturers to test with lower fuel volatility if it decreases permeation rates and allows manufacturers to use a less effective control technology. We also request comment on the level of interest that manufacturers or testing organizations would have to be able to use EPA's pre-mixed E10 test fuel in the near term, or at any point in the future. We are concerned about issues related to test burden for manufacturers needing to meet standards, but we invite commenters to share their insights on these questions of permeation chemistry. If the final rule includes an amendment to allow permeation testing with EPA's pre-mixed E10 test fuel, we would also expect to specify that California ARB's LEVIII E10 test fuel is also acceptable for demonstrating compliance with permeation standards (see § 1060.505(c)(2)).

¹⁹ Fuel volatility is based on Reid Vapor Pressure (RVP), which generally quantifies a fuel's equilibrium vapor pressure at 100 °F. A fuel with volatility of 9 psi would therefore have an equilibrium vapor pressure of about 9 psi at 100 °F.

A different dynamic applies for diurnal testing. This measurement procedure applies for Marine SI fuel tanks and for some Large SI equipment. We currently specify an E0 test fuel with a nominal volatility of 9 psi RVP for diurnal testing in 40 CFR 1060.525. The volume of vapor venting during a diurnal test depends on the volatility of the test fuel. Changing the ethanol content of the fuel without changing the volatility should cause no significant change in the volume of vapor venting during the diurnal test. The specified EPA E10 test fuel has the same volatility as the E0 test fuel, but it has the added ethanol. We request comment on amending the regulation to allow testing with the specified EPA E10 test fuel instead of the E0 test fuel. As described for permeation testing above, we would not want manufacturers to use a test fuel that would decrease vapor pressures and allow manufacturers to use a less effective control technology. We also request comment on the level of interest that manufacturers or testing organizations would have to be able to use EPA's specified E10 test fuel in the near term, or at any point in the future.

We specify emission standards and test procedures for portable fuel containers in 40 CFR part 59, subpart F. The test relies on a splash-blended E10 test fuel. California ARB specifies their LEV III gasoline test fuel for the analogous procedures in California, but they allow manufacturers to submit data instead using EPA's specified test fuel. Accordingly, we believe manufacturers do not face the same burden of needing to perform duplicate measurements for the two agencies. We are therefore not proposing to change the EPA test fuel for portable fuel containers. However, we request comment on allowing manufacturers the option of using EPA's specified E10 test fuel to demonstrate compliance with the combined test for diurnal and permeation emissions.

B. Removing Obsolete CFR Content

EPA first adopted emission standards for light-duty motor vehicles and heavy-duty highway engines in the 1970s. Emission standards for the first categories of nonroad engines started to apply in the 1990s. Each of these programs include emission standards that apply by model year. For most of these programs over time, engines and vehicles were subject to increasingly stringent standards and improved certification and testing requirements. All these standards and regulatory provisions are codified in the Code of Federal Regulations. As time passes, the regulations for past model years become obsolete, but it remains in print until there is a rulemaking change to remove it from print. We are proposing in this rule to remove large portions of this regulatory content that no longer applies. The following sections describe these changes for different sectors.

Note that Section III.D describes several amendments to emission control programs for motor vehicles in 40 CFR parts 85 and 86. These amendments include several provisions that also remove obsolete regulatory content.

1. Clean Fuel Fleet Standards (40 CFR Part 88)

The Clean Air Act Amendments of 1990 included numerical standards for the Clean Fuel Fleet program that were intended to encourage innovation and reduce emissions for fleets of motor vehicles in certain nonattainment areas as compared to conventionally fueled vehicles available at the time. As originally adopted, those Clean Fuel Fleet standards were substantially more stringent than the standards that applied to vehicles and engines generally.

Now that we have begun implementing Tier 3 standards in 40 CFR part 86, subpart S, the Clean Fuel Fleet standards are either less stringent than or equivalent to the standards that apply to vehicles and engines generally. Because the statute continues to require Clean Fuel Fleet standards for state clean-fuel vehicle programs, we cannot simply remove the Clean Fuel Fleet program from the regulations. Rather, we are proposing to implement the Clean Fuel Fleet standards in 40 CFR part 88 with a compliance option where vehicles and engines certified to current standards under 40 CFR part 86 and part 1036 would be deemed to comply with the Clean Fuel Fleet standards as Ultra Low-Emission Vehicles. Further, the Clean Fuel Fleet program as adopted included labeling requirements for engine and vehicle manufacturers to identify compliant engines and vehicles, and a restriction against including such engines or vehicles when calculating emission credits. Both provisions would also no longer be applicable because of the earlier mentioned increased stringency of standards for engines and vehicles, and under the compliance option we are proposing. Therefore, we are also proposing to remove these regulations. This will give clear instructions to vehicle and engine manufacturers as well as states that continue to have Clean Fuel Fleet provisions in their State Implementation Plans or become subject to these requirements in the future under CAA sections 182(c)(4)(A) and 246(a).

For states with areas that become subject to the clean-fuel vehicle program requirements in the future based on a new designation as an ozone nonattainment area, the required state implementation plan submission for the program or for a substitute measure is due within 42 months after the effective date of an area's nonattainment designation. The clean-fuel vehicle program requirements apply for ozone nonattainment areas with an initial designation as Serious, Severe, or Extreme. For marginal and moderate ozone nonattainment areas that are reclassified as Serious, Severe, or Extreme, the required state implementation plan submission for the program or for a substitute measure is due on the date specified in the EPA rulemaking finalizing the area's reclassification.

The Clean Fuel Fleet program also depends on vehicle classifications that include Zero Emission Vehicles and Inherently Low-Emission Vehicles. We are therefore preserving these defined terms in 40 CFR part 88. We are proposing to consider as Zero Emission Vehicles all electric vehicles and any vehicle that does not emit NOX, PM, HC, CO, or formaldehyde (including evaporative emissions). We are proposing to simplify the definition of Inherently Low-Emission Vehicles to mean any certified vehicle that is designed to not vent fuel vapors to the atmosphere.

2. Legacy Nonroad Standards (40 CFR Parts 89 Through 94)

The 1990 amendments to the Clean Air Act authorized EPA to set emission standards for nonroad engines. This led to a series of rulemakings to adopt emission control programs for different nonroad sectors. From 1994 through 1999, EPA adopted these emission control programs in 40 CFR parts 89, 90, 91, 92, and 94 (all part of Subchapter C).

Starting in 2002, EPA adopted emission standards for additional nonroad emission control programs in a new subchapter, which allowed for improved organization and harmonization across sectors. We codified these new standards and related provisions in 40 CFR parts 1048, 1051, 1065, and 1068 (all part of Subchapter U). Since then, we have migrated the “legacy” emission control programs from Subchapter C to Subchapter U. In each case, the migration corresponded to new emission standards and substantially updated compliance and testing provisions. This applies for the following sectors:

Sector | Legacy regulation | Current regulation
Land-based nonroad diesel engines | 40 CFR part 89 | 40 CFR part 1039.
Nonroad spark-ignition engines at or below 19 kW | 40 CFR part 90 | 40 CFR part 1054.
Marine spark-ignition engines | 40 CFR part 91 | 40 CFR part 1045.
Locomotives and locomotive engines | 40 CFR part 92 | 40 CFR part 1033.
Marine diesel engines | 40 CFR part 94 | 40 CFR part 1042.

As a result of this migration, engine manufacturers have not certified engines under the legacy parts for the last 5-10 years. Removing these legacy parts reduces the cost to the Agency and prevents confusion for readers who think that the provisions still apply.

While EPA's engine certification programs don't rely on these obsolete provisions, the new programs refer to the legacy parts for some specific provisions. For example, the new standard-setting part for each type of engine/equipment allows manufacturers to continue to certify carryover engine families based on test data from procedures specified in the legacy parts. We are not proposing to discontinue further use of carryover data from engines originally certified under the legacy parts. On the other hand, this provision will gradually sunset itself as manufacturers update engine designs and perform new testing for their engine families to meet current standards. Considering California's initiative to disallow carryover for nonroad spark-ignition engines starting in model year 2021, we request comment on taking a more direct approach that would sunset carryover based on testing performed according to the legacy parts.

Another example of relying on the legacy parts in the new regulations is emission credits generated under the legacy parts. In most cases, current programs either disallow using those credits for certification, or they allow it without keeping separate accounts for credits generated under the legacy parts. We are proposing no changes where credits from legacy parts are either unavailable or indistinguishable from currently generated credits. One exception is for land-based nonroad diesel engines certified under 40 CFR parts 89 and 1039. Current provisions in § 1039.740 allow for limited use of Tier 2 and Tier 3 credits from part 89 for certifying Tier 4 engines. However, these constraints are not time-limited. Now that the Tier 4 standards have been in place for several years, we would be interested in simplifying the credit accounting by sunsetting these provisions. We therefore request comment on the extent to which any manufacturers might rely on continued use of Tier 2 or Tier 3 emission credits for certifying their land-based nonroad diesel Tier 4 engines.

We are also aware that other federal and state regulations and compliance programs include numerous references to 40 CFR parts 89 through 94. To address this, we are proposing to replace the full text of regulations in the legacy parts with a paragraph describing the historical scope and purpose for each part. The remaining paragraph also directs readers to the new regulations that apply in Subchapter U, and clarifies how the regulatory requirements transition to the new content. As an example, the statute and regulations prohibit tampering with certified engines throughout an engine's lifetime, even if the original text describing that prohibition no longer resides in its original location in the Code of Federal Regulations.

We are also proposing to capture the emission standards from the legacy parts as reference material in an appendix in the appropriate CFR parts. This allows for readily citing the historical standards in our own emission control programs, and in any other federal or state regulations or compliance materials that depend on citing emission standards that are no longer current for purposes of gaining EPA certification as part of our nonroad emission control program.

In addition to removing references to the legacy parts, we are taking the opportunity to remove additional obsolete content from the newer regulations. Most of these changes were adopted to address temporary concerns as part of transitioning to new standards or other new requirements. We adopted these changes in isolated regulatory sections as “interim provisions.” Most of these interim provisions have been obsolete for several years.²⁰

²⁰ A docket memo includes redline text to highlight all the changes to the regulations in the proposed rule. This is especially helpful for reviewing provisions that we are removing from the CFR. See “Redline Document Showing Proposed Changes to Regulatory Text in the Heavy-Duty Greenhouse Gas Amendments”, EPA memorandum from Alan Stout to Docket EPA-HQ-OAR-2019-0307. For obsolete provisions we are removing, see especially 40 CFR 1027.105, 1033.150, 1042.145, 1045.145, 1048.145, 1051.145, 1054.145, and 1054.625.

References to the legacy parts are especially common for stationary engines EPA regulates under 40 CFR part 60, subpart IIII and subpart JJJJ. The emission standards for stationary engines in many cases rely on current or past nonroad emission standards in 40 CFR parts 89, 90, and 94. Including all the iterations of these emission standards as reference material allows us to preserve the existing set of standards and requirements for stationary engines. The proposed regulations include numerous amendments to 40 CFR part 60 to change regulatory cites from the legacy parts to the new regulatory parts in Subchapter U.

Most of the changes for stationary engines in 40 CFR part 60 are intended to update references without changing standards or other provisions. We are proposing two more substantive changes. First, we are proposing to allow manufacturers of emergency stationary compression-ignition internal combustion engines and stationary emergency spark-ignition engines to certify using assigned deterioration factors. Since these emergency engines generally serve in standby status in anticipation of emergency situations, they often have lifetime operation that is much less extensive than non-emergency engines. Assigned deterioration factors would allow manufacturers to demonstrate the durability of emission controls without performing testing that might otherwise exceed the operating life of the engines being certified.

Second, stationary spark-ignition engines are currently subject to emission standards and certification procedures adopted under 40 CFR part 90 for Phase 1 engines. Revising the requirements for these engines to instead rely on the certification procedures in 40 CFR part 1054 requires that we identify the Phase 1 standards as not including the following provisions that apply for Phase 3 engines (as noted in the proposed regulatory text for Appendix I of part 1054):

• The useful life and corresponding deterioration factors.

• Evaporative emission standards.

• Altitude adjustments.

• Warranty assurance provisions in § 1054.120(f).

• Emission-related installation instructions.

• Bonding.

C. Certification Fees (40 CFR Part 1027)

EPA is making several minor changes in 40 CFR part 1027 to update the procedures and align the instructions with current practices. None of these changes involve change or reconsideration of fee policies. We are proposing the following changes:

• Correcting the name of the compliance program.

• Replacing the schedule of fees from 2005 with the fees that apply for applications submitted in 2020.

• Revising the timeline for announcing adjusted fees for the upcoming year from a January 31 deadline to a March 31 deadline. This will allow for a more orderly process of calculating the new fees using the information from the previous year.

• Correcting the equation for non-evaporative certificates to no longer apply the inflation adjustment to operating costs. This corrects a publishing error that mistakenly introduced parentheses in the equation.

• Correcting the internet address for the consumer price index used for inflation adjustments.

• Removing the sample calculation for determining fees for 2006.

• Revising submission and payment instructions to refer only to electronic forms and transactions through www.Pay.gov.

• Clarifying that deficient filings must be resolved before the end of the model year, and that the time limit for requesting refunds applies equally to deficient filings.

D. Additional Amendments for Motor Vehicles and Motor Vehicle Engines (40 CFR Parts 85 and 86)

Motor vehicles and motor vehicle engines are subject to emission standards and certification requirements under 40 CFR part 86. This applies for light-duty vehicles, light-duty trucks, heavy-duty vehicles and engines, and highway motorcycles. There are additional compliance provisions in 40 CFR part 85. We are proposing the following amendments to these provisions:

• Part 85: We are amending the provisions for importation, exemptions, and model year to clarify that they no longer apply for heavy-duty engines. Those engines are already subject to analogous provisions under 40 CFR part 1068. While the two sets of provisions are largely the same, we want to avoid the ambiguity of having overlapping requirements. One aspect of this migration involves discontinuing the provisions that apply for Independent Commercial Importers for heavy-duty engines. No one has used these provisions for several years, and we have no reason to believe anyone will start to use these provisions.

• Part 85: We are making several minor corrections to (1) refer to provisions in 40 CFR part 1068 related to confidential business information and hearing procedures, and (2) clarify organization names and addresses for submitting information.

• Part 85, Subpart O: This subpart set emission standards for 1993 and older model year urban buses undergoing engine rebuilding. We have confirmed with the American Public Transportation Association that there are very few such urban buses still operating, and that none of them will have engine rebuilds. We are therefore proposing to remove this content from the CFR.

• § 85.1902(b)(2): We are clarifying that defect-reporting requirements under paragraph (b)(2) apply for defects related to noncompliance with greenhouse gas emission standards, not criteria emission standards. This corrects an earlier amendment that inadvertently described the provisions as applying to noncompliance with any kind of emission standard. Defects related to criteria emission standards are covered by § 85.1902(b)(1).

• §§ 86.113-04, 86.213, and 86.513: Adding optional reference procedures for measuring aromatic and olefin content of E0 gasoline test fuel. These changes align with the reference procedures for EPA's Tier 3 E10 gasoline test fuel at 40 CFR 1065.710(b). These changes are needed because material limitations prevent laboratories from using the procedures in ASTM D1319. This change also applies for the E0 gasoline test fuel specified in 40 CFR 1065.710(c),

• § 86.129-00: Revising the description of test weight basis to be loaded vehicle weight for all light-duty vehicles and light-duty trucks. This is a correction to align the regulation with current practice.

• § 86.130-96: We are correcting the reference to a testing flowchart that was moved to 40 CFR 1066.801.

• §§ 86.401-97 and 86.413-78: We are removing obsolete sections to prevent confusion.

• §§ 86.419-2006 and 86.427-78: We are revising the table with service accumulation parameters to clarify how to perform testing separately for Class I-A and Class I-B, rather than treating them as a single class.

• §§ 86.435-78 and 86.436-78: We are correcting references to the regulation to clarify that a motorcycle is compliant if measured test results are at or below the standards.

• § 86.531-78: We are adding instruction to seal exhaust system leaks as needed before testing highway motorcycles. The proposed amendment also applies for testing off-highway motorcycles and all-terrain vehicles under 40 CFR part 1051. This same instruction also applies for light-duty vehicle testing under 40 CFR 1066.110(b)(1)(vi).

• Part 86, Subpart P: The idle test procedures for spark-ignition engine and vehicles are no longer needed for certification or other compliance demonstrations. We are therefore proposing to remove this content from the CFR.

• Part 86, Subpart Q: Engine technology has advanced to include internal feedback controls and compensation to allow for operation at a wide range of altitudes. The certification requirements related to altitude adjustments are therefore mostly or completely obsolete. We are proposing a simplified version of the altitude provisions for highway motorcycles at 40 CFR 86.408-78(c) and (d) in case there are some very small motorcycles that require adjustment for altitude. We request comment on the need for these proposed provisions.

• § 86.1803: We are revising the definition for heavy-duty vehicle, with a conforming revision to the definition for light-duty truck, to clarify that the sole regulatory criterion for whether a complete vehicle is a heavy-duty vehicle for purposes of the regulation is whether its gross vehicle weight rating is above 8,500 pounds. The current approach remains unchanged for incomplete vehicles; that is, heavy-duty vehicles also include incomplete vehicles even if their gross vehicle weight rating is at or below 8,500 pounds, if their curb weight is above 6,000 pounds or if their basic vehicle frontal area is greater than 45 square feet. The proposed revisions are intended to (1) prevent light-duty trucks from becoming heavy-duty vehicles in a configuration involving a hybrid powertrain due to the extra weight related to energy storage and (2) avoid an incentive for manufacturers to add vehicle weight or frontal area simply to avoid the standards that apply for light-duty vehicles. In these cases under the current definition, the curb weight or frontal area would artificially increase to the point that the vehicle would qualify as a heavy-duty vehicle, even though it otherwise has the characteristics of a light-duty truck. This same change is not necessary for incomplete vehicles because certifying manufacturers have the option to select the appropriate vehicle classification for those vehicles. Note that the proposed change applies only for future certification; any certified heavy-duty vehicle that would no longer fit the description will not be affected by the amended definition.

• § 86.1810: We are clarifying the certification responsibilities for cases involving secondary vehicle manufacturers that modify a certified vehicle and recertify the modified vehicle to the standards that apply for a new vehicle under 40 CFR part 86, subpart S. Since the original certifying manufacturer accounts for these vehicles in their fleet average calculations for criteria exhaust emissions and evaporative emissions, we believe these secondary vehicle manufacturers should not be required to repeat those fleet average calculations for the affected vehicles. This would depend on the secondary vehicle manufacturer meeting all the same bin standards and family emission limits as specified by the original certifying manufacturer.

• § 86.1811-17: The Federal Register mistakenly published a reference to the Tier 3 p.m. standard. Since we intended for the standard to apply at all times, we are amending the regulation to properly refer to that as the Tier 3 p.m. standard.

• § 86.1813-01: We are clarifying that electric vehicles and fuel cell vehicles are not subject to evaporative and refueling emission standards. The preamble to the final rule adopting the light-duty Tier 3 standards stated that these emission standards apply only for volatile fuels, but we did not include a clear statement excluding electric vehicles and fuel cell vehicles in the regulations (79 FR 23514, April 28, 2014).

• § 86.1818-12: We are clarifying that manufacturers calculate the in-use CO2 standard using the appropriate test result for carbon-related exhaust emissions after adjustment with the deterioration factor to account for durability effects. In many cases, the deterioration factor is 0 (additive) or 1 (multiplicative), in which case the deterioration factor does not change the calculated in-use CO2 standard.

• § 86.1838-01: We are restoring text that was inadvertently removed in an earlier amendment. The restored text specifies which mileage provisions from § 86.1845 do not apply for small-volume manufacturers doing in-use verification testing.

• § 86.1868: We are adopting detailed provisions describing how reduced air conditioning test requirements apply for electric vehicles and plug-in hybrid electric vehicles. These provisions are consistent with current practice described in EPA guidance. We are also proposing to specify that plug-in hybrid electric vehicles qualify for relief from AC17 testing, like electric vehicles, if they have an adjusted all electric range of 60 miles or more and they do not need engine power for cabin cooling during vehicle operation represented by the AC17 procedure. This is intended to include vehicles for which an owner can typically expect to avoid using the engine for daily commuting, including commutes on a hot summer day. Finally, we are proposing to clarify that manufacturers do not need to make a demonstration to qualify for air conditioning efficiency credits for pure electric vehicles or for plug-in hybrid electric vehicles, provided that those vehicles qualify for waived AC17 testing as described above. This is due to the complexity of quantifying credit quantities in grams CO2 per mile for driving without engine power. We are also proposing to specify that AC17 testing with plug-in hybrid electric vehicles, if required, always be done in charge-sustaining mode to avoid the confounding effect of intermittent engine operation during the test.

Highway motorcycles are currently subject to emission standards based on emission measurements using the same duty cycle that applies for cars and trucks. The World Forum for Harmonisation of Vehicle Regulations (known as WP.29) adopted the World Motorcycle Test Cycle (WMTC) with the intent of establishing a single, harmonized test cycle that could be used for meeting emission standards in all countries. All European countries, along with some additional countries in Asia and South America, have adopted the WMTC. California ARB may also pursue regulation to adopt WMTC as part of its emission control program for highway motorcycles. We request comment on adopting the WMTC as a means of certifying highway motorcycles to EPA emission standards. We also request comment on any appropriate adjustment to the exhaust emission standards that apply for highway motorcycles to ensure equivalent stringency for testing with the WMTC.

E. Additional Amendments for Locomotives (40 CFR Part 1033)

EPA is updating 40 CFR part 1033 to remove references to specific content in 40 CFR part 92, as described in Section III.B.2. In addition, we are proposing the following minor corrections and changes:

• § 1033.150: Remove the interim provisions that no longer apply. This leaves paragraph (e) as the only remaining paragraph in this section.

• § 1033.225: Clarify that amending an application for certification applies prospectively. In particular, amending an application does not apply for actions taken previously.

• § 1033.255: Clarify that doing anything to make information false or incomplete after submitting an application for certification is the same as submitting false or incomplete information. For example, if there is a change to any corporate information or engine parameters described in the manufacturer's application for certification, the manufacturer must amend the application to include the new information.

• § 1033.255: Clarify that voiding certificates for a failure to comply with recordkeeping or reporting requirements will be limited to the certificates that relate to the particular recordkeeping or reporting failure.

• § 1033.601: Correct references to specific provisions in 40 CFR part 1068.

• § 1033.701: Correct a paragraph reference.

• § 1033.740: Remove the reference to emission credits from part 92. There is no need for this, since the records related to credit accounting do not identify credits as being from part 92 or part 1033. Any credits generated under part 92 will continue to be available for certifying locomotives under part 1033.

• § 1033.901: Name the date, January 1, 2000, that marked the start of the original locomotive emission standards, rather than describing the date with reference to publication of the original final rule and its effective date (18978 FR 63, April 16, 1998).

• § 1033.925: Removing text in paragraph (e) that is already in paragraph (b) of the same section.

F. Additional Amendments for Land-Based Nonroad Diesel Engines (40 CFR Part 1039)

EPA's emission standards and certification requirements for land-based nonroad compression-ignition (CI) engines are identified in 40 CFR part 1039. We refer to these as Nonroad CI engines. Several changes to 40 CFR part 1039 that apply broadly are described above. Specifically, Section III.B.2 describes how we are removing regulatory content related to the Tier 1, Tier 2, and Tier 3 standards originally adopted in 40 CFR part 89. We are accordingly amending 40 CFR part 1039 to remove references to 40 CFR part 89 that no longer apply.

This section describes additional proposed amendments for EPA's Nonroad CI program:

• § 1039.20: Remove the option to use a branded name instead of the engine manufacturer's corporate name for uncertified stationary engines. Since these engines are not certified, there is no way for EPA to document any relationship between the engine manufacturer and the branded company. We also are not aware of anyone using this provision.

• § 1039.20: Revise the label statement for stationary engines covered by § 1039.20 to avoid references to specific parts of the CFR. This is intended to prevent confusion. We can approve continued use of labels with the older previous statement under the provisions of § 1039.135(f). This may be needed, for example, if manufacturers have remaining labels in their inventory.

• § 1039.101: Add a table entry to clarify how standards apply for engines with maximum engine power above 560 kW. The current rendering in the Code of Federal Regulations can be misleading.

• § 1039.102: Correct the heading of Table 6 to include engines at or below 560 kW. The table was published in a way that inadvertently excluded 560 kW engines.

• § 1039.135: Discontinue the equipment labeling requirement to state that engines must be refueled with ultra low-sulfur diesel fuel (ULSD). Since in-use diesel fuel for these engines must universally meet ULSD requirements, there is no longer a benefit to including this label information.

• § 1039.205: Add text to clarify how engine manufacturers should identify information in the application for certification related to engine diagnostic systems.

• § 1039.225: Clarify that amending an application for certification applies prospectively. In particular, amending an application does not apply for actions taken previously.

• § 1039.255: Clarify that doing anything to make information false or incomplete after submitting an application for certification is the same as submitting false or incomplete information. For example, if there is a change to any corporate information or engine parameters described in the manufacturer's application for certification, the manufacturer must amend the application to include the new information.

• § 1039.255: Clarify that voiding certificates for a failure to comply with recordkeeping or reporting requirements will be limited to the certificates that relate to the particular recordkeeping or reporting failure.

• § 1039.740: Remove the reference to emission credits from part 89. There is no need for this since the records related to credit accounting do not identify credits as being from part 89 or part 1039.

• § 1039.801: Revise the definition of “low-hour” to state that engines at or below 560 kW should qualify as “low-hour” only up to 125 hours, rather than 300 hours. This is intended to ensure that engine's tested to establish the low-hour emission result for an engine family are properly represented as new engines that have not started to experience deterioration of emission controls. This does not preclude continued testing beyond 125 hours, but it would prevent manufacturers from planning test programs that extend well beyond 125 hours. This change aligns with the provisions that already apply for marine diesel engines under 40 CFR part 1042. We request comment on instead specifying the 125-hour threshold only for engines not expected to use NOX aftertreatment; this would cover engines up to 56 kW under 40 CFR part 1039, and engines up to 600 kW under 40 CFR part 1042.

• § 1039.801: Revise the definition of “small-volume engine manufacturer” to remove the requirement to have certified engines in the United States before 2003. This limitation was related to the transition to meeting the Tier 4 standards. Now that those phase-in provisions have expired, the remaining provisions relate to reporting CH4 and N2O emissions and using assigned deterioration factors. We believe these provisions can reasonably be applied to start-up small businesses meeting the Tier 4 standards.

Finally, in addition to the proposed amendments to 40 CFR part 1039 discussed above, we are requesting comment on the production limits for the alternate FEL provision in 40 CFR 1039.101(d)(2). In particular, we request comment on whether the NOX FEL cap should be increased.

G. Additional Amendments for Marine Diesel Engines (40 CFR Parts 1042 and 1043)

EPA's emission standards and certification requirements for marine diesel engines under the Clean Air Act are set out in 40 CFR part 1042. Emission standards and related fuel requirements that apply internationally are set out in 40 CFR part 1043.

Several proposed changes to 40 CFR part 1042 that apply more broadly are described above. Specifically, Section III.B.2 describes how we are proposing to remove regulatory content related to the Tier 1 and Tier 2 standards originally adopted in 40 CFR part 94. We are accordingly proposing to amend 40 CFR part 1042 to remove references to 40 CFR part 94 that no longer apply.

This section describes additional proposed amendments for our marine diesel engine program.

1. Marine Replacement Engine Exemption

We are proposing several adjustments to the replacement engine exemption in § 1042.615. First, we are clarifying the regulatory determination that applies for cases involving new replacement engines that are normally subject to Tier 4 standards. In the 2008 final rule to adopt the Tier 4 standards, we finalized a determination “that Tier 4 engines equipped with aftertreatment technology to control either NOX or PM are not required for use as replacement engines for engines from previous tiers in accordance with this regulatory replacement engine provision.” The preamble to that final rule made it clear that the determination was limited to “Tier 4 marine diesel replacement engines that comply with the Tier 4 standards through the use of catalytic aftertreatment systems.” (73 FR 37157) However, that limitation was not copied into the regulatory text. Recent events, including the certification of some engines to Tier 4 standards without aftertreatment, make it necessary to revise this replacement engine regulation to clarify that EPA originally intended for the determination to apply only in cases where the Tier 4 engine relies on aftertreatment technology, as indicated in the 2008 final rule. The rule also stated that “[s]hould an engine manufacturer develop a Tier 4 compliant engine solution that does not require the use of such technology, then this automatic determination will not apply.”

Second, we propose to modify the requirement that engine manufacturers notify EPA after shipping exempt replacement engines. § 1042.615(a) requires an engine manufacturer to send EPA notification 30 days after shipping an exempt engine to demonstrate that the selected engine was the cleanest available for the given installation. We indicated that “[t]hese records will be used by EPA to evaluate whether engine manufacturers are properly making the feasibility determination and applying the replacement engine provisions.” We also indicated that we expected engine manufacturers to examine “not just engine dimensions and weight but other pertinent vessel characteristics such as drive shafts, reduction gears, cooling systems, exhaust and ventilation systems, and propeller shafts; electrical systems; . . . and such other ancillary systems and vessel equipment that would affect the choice of an engine.” While engine manufacturers have submitted these reports, the information provided has not supported our original objective. Specifically, the reports vary widely in information provided but at the same time are too case-specific. Therefore, we are proposing to require manufacturers to submit a single annual report that is due at the same time as the general requirement for reporting on replacement engines under 40 CFR 1068.240. The annual report would include the information described in our 2008 rule for all the affected engines and vessels. This change would provide a predictable schedule for EPA to review the submitted information. This would also allow EPA to standardize the format and substance of the reported information. Manufacturers would benefit from submitting a consistent set of information in an annual submission for all their replacement engine information.

Third, we are proposing to revise the regulatory instructions for submitting replacement engine reports under § 1042.615. The number of exempt replacement engines would be limited to those that are shipped to boat owners or designated for a specific vessel. Engine manufacturers may produce and ship exempt replacement engines (with per-cylinder displacement up to 7 liters) without making the specified demonstrations, as allowed under 40 CFR 1068.240(c), but manufacturers may produce only a limited number of those “untracked” engines in a given year. Those untracked replacement engines are covered by the reporting requirements that apply under § 1068.240 since the tracked exemption under § 1042.615 and § 1068.240(b) does not allow for shipping engines to distributors without identifying a specific installation and making the necessary demonstrations for that installation. We are proposing to take a streamlined approach for Tier 3 engines since the demonstration for those engines consists of affirming EPA's regulatory determination that no suitable Tier 4 engines (without aftertreatment) are available for replacement. We do not expect engines with per-cylinder engine displacement below 7 liters to be able to meet Tier 4 standards without aftertreatment devices. As a result, Tier 3 replacement engines are limited only in that they may not be used to replace engines that were certified to Tier 4 standards. In this early stage of implementing Tier 4 standards, we expect it to be several years before Tier 4 engines need replacement. On the other hand, the gradual turnover of the fleet will make Tier 4 replacements more common, which may in turn decrease the demand for Tier 3 replacement engines. We request comment on applying this streamlined approach for Tier 3 replacement engines only through 2025 to reflect this expected development.

Finally, we propose to clarify that the determination related to Tier 4 replacement engines applies differently for engines that become new based on vessel modifications. Under the definition of “new vessel” in § 1042.901, modification of an existing vessel may cause the vessel to become “new” if the vessel modifications cause the vessel's assessed value to at least double. In this case, all engines installed on the vessel are subject to standards for the model year based on the date of vessel modifications. Since the effective dates of the Tier 4 standards, we have learned that there may be circumstances in which vessel modifications may be substantial enough to qualify a vessel as “new,” but the installation of new Tier 4 engines may not be practical or feasible without cost-prohibitive additional vessel modifications. For example, a vessel owner may want to make a substantial upgrade to an older vessel, including engine replacement with a much lower-emitting engine. If the upgrade doubles the assessed value of the vessel, this would trigger a need for all installed or replacement engines above 600 kW to be certified to Tier 4 standards. We have learned that such a project may become cost-prohibitive based on the additional vessel modifications needed to accommodate the Tier 4 engine, which could cause the vessel to continue operating in the higher-emitting configuration. To address this scenario, we are proposing to allow the replacement engine exemption for certain vessels that become new because of modifications, subject to a set of conditions. Specifically, the exemption would apply only with EPA's advance approval based on a demonstration that the installation of a Tier 4 engine would require significant vessel redesign that is infeasible or impractical. EPA's assessment may account for the extent of the modifications already planned for the project. EPA may approve installation of Tier 3 engines instead of Tier 4 engines for qualifying vessels. Recreational engines and commercial engines below 600 kW are not subject to Tier 4 standards. As a result, if a vessel becomes new through modification, it should be reasonable to expect such new engines to be certified to Tier 3 standards rather than being eligible for the replacement engine exemption.

Vessel modifications may also involve Category 3 engines, which are subject to Tier 3 standards. Because these engines and vessels are so large, we believe the exemption provisions described above for vessels that become new as a result of modifications are not needed to accommodate Tier 2 standards instead of Tier 3 standards. However, we request comment on applying the exemption provisions for this circumstance as described above for Category 1 and Category 2 engines.

We request comment on all aspects of the proposed amendments to the replacement engine exemption for marine diesel engines.

2. Provisions Related to On-Off Controls for Marine Engines

EPA adopted the current set of emissions standards for Category 3 marine diesel engines in 2010 (75 FR 22932; April 30, 2010). The Tier 3 standards include provisions allowing engine manufacturers to design their engines with control systems that allow an engine to meet the Tier 3 standards while operating in U.S. waters, including the North American Emission Control Area and the U.S. Caribbean Sea Emission Control Area (ECAs), and the less stringent Tier 2 standards while operating outside of U.S. waters. We refer to this design strategy as “on-off control.” These provisions reflect the geographic nature of the NOX engine standards contained in Regulation 13, MARPOL Annex VI.

Engine manufacturers have raised questions about the meaning of the regulatory provision at § 1042.101 that requires Category 3 engines to “comply fully with the Tier 2 standards when the Tier 3 emission controls are disabled.” This was intended to incorporate the “on-off controls” allowed under MARPOL Annex VI for the IMO Tier III NOX limits. The HC and CO standards for Category 3 engines apply equally for EPA's Tier 2 and Tier 3 standards adopted under the Clean Air Act, so there should be no question that those standards apply even if NOX controls are disabled. While 40 CFR 1042.104 includes a PM requirement, it is a reporting requirement only. The only other “standard” for Category 3 engines in 40 CFR part 1042 is the requirement related to mode caps in § 1042.104(c). The mode caps serve as separate emission standards for each test point in the duty cycle used for certifying the engines. The 2010 final rule describes how the mode caps are necessary for proper implementation of the Tier 3 standards for SCR-equipped engines (75 FR 22932). Since Category 3 engines with SCR systems would generally comply with the Tier 2 NOX standard in the “disabled” configuration without SCR, we believe there would be no benefit to applying the mode caps as a part of the Tier 2 configuration for these Tier 3 engines with on-off controls. We are therefore proposing to clarify that the mode caps are associated only with the Tier 3 NOX standards. This approach is consistent with the on-off control provisions adopted under MARPOL Annex VI.

The regulation also allows for on-off controls for NOX for auxiliary engines used on vessels powered by Category 3 engines. More broadly, § 1402.650(d) allows those engines to be certified to MARPOL Annex VI standards instead of being certified to EPA's emission standards under 40 CFR part 1042. The regulation as originally written describes how these engines must comply with EPA's Tier 3 and Tier 4 standards in the same way that Category 3 engines must comply with EPA's Tier 2 and Tier 3 standards. However, since auxiliary engines installed on Category 3 vessels are certified to MARPOL Annex VI standards instead of EPA's emission standards, the regulation should describe how these auxiliary engines must meet the IMO Tier II and IMO Tier III NOX standards to comply with the on-off control provisions under § 1042.115(g). These requirements related to the EIAPP certificates for engines with on-off controls are addressed under MARPOL Annex VI and 40 CFR part 1043.

3. Miscellaneous Marine Diesel Amendments

EPA is proposing to make several additional changes across 40 CFR part 1042 to correct errors, to add clarification, and to make adjustments based on lessons learned from implementing these regulatory provisions. Specifically, EPA is proposing the following:

• § 1042.101: Revise the instruction for specifying a longer useful life. The regulation as originally adopted states that engine design, advertising, and marketing may equally serve as the basis for establishing a longer useful life. We would not expect manufacturers to specify a longer useful life based only on advertising and marketing claims. The proposed amendment emphasizes that design life is the basis for specifying a longer useful life, with the further explanation that the recommended overhaul interval can be understood, together with advertising and marketing materials and other relevant factors, to properly represent an engine's design life.

• § 1042.101: The Federal Register mistakenly published references to Tier 3 PM standards and Tier 4 PM standards. Since we intended for those standards to apply at all times, we are amending the regulation to properly refer to those as Tier 3 PM standards and Tier 4 PM standards.

• § 1042.115: Revise the provision related to on-off controls to clarify that we have designated NOX Emission Control Areas (ECAs) for U.S. waters. We no longer need to reference a possible future ECA. We propose to use the U.S. ECA boundaries to establish the area in which engines with on-off controls for aftertreatment-based standards need to be fully operational.

• § 1042.125: Add maintenance requirements for fuel-water separator cartridges or elements as an additional example of maintenance that is not emission-related. This aligns with the maintenance specifications for land-based nonroad diesel engines in 40 CFR part 1039.

• § 1042.135: Revise the labeling instruction for engines installed in domestic-only vessels to clarify that it applies only for engines above 130 kW, and that it applies equally for commercial and recreational vessels. These changes both align the EPA regulations to more closely align with the international standards under MARPOL Annex VI.

• § 1042.145: Add a provision allowing more flexible marine installation of engines meeting standards for land-based nonroad manufacturers. The regulation as originally drafted allows manufacturers to install certified land-based nonroad engines in marine vessels. This is straightforward for recreational engines and for engines at or above 600 kW because the emission standards from the two programs are nearly identical. Commercial marine engines below 600 kW are subject to Tier 3 standards, while the comparable land-based nonroad engines are subject to more stringent Tier 4 standards. This makes the intended flexibility provision impractical for these engines. We are proposing to address that by allowing manufacturers to use the flexibility for land-based nonroad engines that were certified to the Tier 3 emission standards in an earlier model year. Note that land-based nonroad engines below 37 kW and above 560 kW were never subject to Tier 3 emission standards, so this proposed provision would not apply to them. Those land-based nonroad engines were subject to Tier 2 standards, which are substantially less stringent than the marine Tier 3 standards for NOX + HC or PM (or both). The detailed compliance provisions for these engines are described in 40 CFR 1068.265.

• § 1042.225: Clarify that amending an application for certification applies prospectively. In particular, amending an application does not apply for actions taken previously.

• § 1042.255: Clarify that doing anything to make information false or incomplete after submitting an application for certification is the same as submitting false or incomplete information. For example, if there is a change to any corporate information or engine parameters described in the manufacturer's application for certification, the manufacturer must amend the application to include the new information.

• § 1042.255: Clarify that voiding certificates for a failure to comply with recordkeeping or reporting requirements will be limited to the certificates that relate to the particular recordkeeping or reporting failure.

• § 1042.302: For emission testing during sea trials for Category 3 engines with on-off controls, allow manufacturers the flexibility to omit testing in Tier 2 mode if they do not need aftertreatment to meet the Tier 2 standards. We are most interested in compliance with the Tier 3 standards, since those controls are active anytime vessels are operating within ECA boundaries. System design and calibration with aftertreatment involves greater uncertainty than engines that comply using only in-cylinder controls. As a result, we believe the compliance demonstration for Tier 2 mode adds value only if it involves aftertreatment.

• § 1042.650: Revise the introductory text to clarify that paragraphs (a) through (c) continue to apply only for Category 1 and Category 2 engines, and that the provisions related to auxiliary engines on Category 3 vessels in paragraph (d) apply equally for Category 3 auxiliary engines. By adding paragraph (d) with limitation described in the section's introductory text, we inadvertently excluded Category 3 auxiliary engines.

• § 1042.655: Clarify that measuring engine-out emissions for engines that use exhaust aftertreatment must account for the backpressure and other effects associated with the aftertreatment devices. While improving the alignment between measured results and modeled results, this change also has the effect of removing the expectation that engine-out (pre-catalyst) emissions must meet Tier 2 standards; this is intended to address the case in which an engine may meet the Tier 2 standards with a different SCR dosing strategy rather than by completely disabling the SCR system.

• § 1042.701: Remove the reference to emission credits from part 94. This reference is not needed since the records related to credit accounting do not identify credits as being from part 94 or part 1042.

• § 1042.801: Remove the requirement to register fuels used to certify remanufacturing systems. EPA does not register fuels such as natural gas or liquefied petroleum gas, so it is not appropriate to impose such a registration requirement. The requirement continues to apply for remanufacturing systems that are based on diesel fuel additives.

• § 1043.41: Clarify that engine manufacturers may continue to produce new engines under an established EIAPP certificate after a change in emission standards for purposes other than installation in a new vessel. For example, manufacturers may need to produce engines certified to IMO Tier II NOX standards after 2016 for installation as replacement engines in vessels built before 2016.

• § 1042.910 and § 1043.100: Incorporate by reference the 2017 edition of MARPOL Annex VI and the NOx Technical Code, dated 2017, which contains all amendments through 2016.

Engine manufacturers have been testing production engines as described in 40 CFR part 1042. This generally involves testing up to 1 percent of production engines for engine families with production volumes greater than 100 engines. We adopted these testing provisions with the expectation that most families would have production volumes greater than 100 engines per year. It turns out that there are a few families with production volumes substantially greater than 100 engines per year, but many families qualify as small-volume families that are not subject to production-line testing requirements. As a result, manufacturers test several engines in large engine families, but many engine families have no production-line testing at all.

The biggest benefit of production-line testing for this sector is to confirm that engine manufacturers can go beyond the prototype engine build for certification and move to building compliant engines in a production environment. From this perspective, the first test is of most value, with additional tests adding assurance of proper quality control procedures for ongoing production. We are considering whether to revise the production-line testing regimen for marine diesel engines to reflect this basic objective. Toward that end, we would consider amending the regulation to require no more than one test per family. An engine test from a prior year would count as a sufficient demonstration as long as the manufacturer certifies the engine family using carryover emission data. At the same time, we would remove the testing exemption for small businesses and small-volume engine families. We believe this would result in a more effective program with no increase in overall testing.

We have prepared a memorandum to spell out a possible approach for a revised production-line testing protocol.²¹ We request comment on amending the production-line testing program to require broader testing at lower sampling rates.

²¹ “Alternative Production-Line Testing Requirements for Marine Diesel Engines,” EPA memorandum from Alan Stout to Docket EPA-HQ-OAR-2019-0307, January 23, 2020.

H. Portable Fuel Containers (40 CFR Part 59)

EPA's emission standards and certification requirements for portable fuel containers are described in 40 CFR part 59. Section III.A describes a proposed amendment related to test fuel specifications. In addition, we are proposing the following amendments:

• § 59.626: Correct the reference to additional testing to recognize that the manufacturer may need to test multiple containers.

• § 59.628: Align recordkeeping specifications with the provisions that apply for nonroad engines and equipment. This removes the ambiguity from applying specifications differently for different types of testing information. As noted in Section III.J, now that test records are stored electronically, there is no reason to differentiate testing information into routine and non-routine records.

• § 59.650: Revise the blending instruction to specify a lower level of precision; specifying a range of 10.0 ± 1.0 percent, which is consistent with the approach we take in 40 CFR 1060.515 and 1060.520.

• § 59.653: Correct the pressure specification for durability testing. The amendment adjusts the kPa value to match the psi value in the regulation. This aligns with the pressure testing specified for nonroad fuel tanks.

• § 59.653: Clarify that the fuel fill level needs to stay at 40 percent full throughout slosh testing. The container should be closed for the duration of the test, so this clarification is mainly intended to ensure that the fuel tank does not leak during the test.

• § 59.660: Revise the test exemption to clarify that anyone subject to regulatory prohibitions may ask for a testing exemption.

• § 59.664: Correct the web address for U.S. Department of Treasury Circular 570.

• § 59.680: Clarify how the definition of “portable fuel container” applies for different colors. The regulatory text states that red, yellow, and blue utility jugs qualify as portable fuel containers regardless of any contrary labeling or marketing. This is intended to prevent circumvention of emission standards with containers that would be commonly recognized as portable fuel containers. Containers that are not red, yellow, or blue qualify as fuel containers if they meet the criteria described in the definition. The amendment to clarify this point does not represent a change in policy. For example, anyone who sold uncertified purple portable fuel containers that were subject to standards may be in violation of the prohibitions in 40 CFR 59.602.

I. Evaporative Emission Standards for Nonroad Spark-Ignition Engines and Equipment (40 CFR Part 1060)

EPA adopted evaporative emission standards and test procedures in 40 CFR part 1060. Section III.A describes proposed amendments related to test fuel specifications. EPA is also proposing numerous changes across 40 CFR part 1060 to correct errors, to add clarification, and to make adjustments based on lessons learned from implementing these regulatory provisions. This includes the following changes:

• §§ 1060.1 and 1060.801: Clarify how standards apply for portable nonroad fuel tanks.

• §§ 1060.30 and 1060.825: Consolidate information-collection provisions into a single section.

• § 1060.104: Clarify that any approval from California ARB is sufficient for demonstrating compliance with running loss standards, rather than limiting this to approved Executive Orders.

• § 1060.105: Clarify the requirement for tanks to be sealed to recognize the exception allowed under the regulation.

• §§ 1060.105 and 1060.240: Allow manufacturers more generally to exercise the alternative of using procedures adopted by California ARB. This is necessary to allow testing with the E10 test fuel adopted by California ARB after the 2004 version of its regulation that is currently referenced in the Code of Federal Regulations.

• § 1060.120: Clarify that the emission-related warranty period starts on the date that the ultimate purchaser buys the certified product. We also don't want to prohibit manufacturers from including components in the warranty if they fail without increasing evaporative emissions. These changes align with similar amendments in our other programs.

• § 1060.130: Clarify how manufacturers must identify limitations on the types of equipment covered by the application for certification, especially for fuel caps. We allow equipment manufacturers to certify their equipment using widely varying approaches for fuel caps. The equipment manufacturer's certification and testing method needs to be reflected in their instructions for anyone completing assembly of equipment from that equipment manufacturer.

• § 1060.135: Clarify how the equipment labeling provisions apply for engine manufacturers, and clarify that manufacturers need to apply labels at the time of manufacture. In many cases, the labeling is integral to the production process, such as for molded fuel tanks.

• § 1060.135: Allow for permanently identifying the date of manufacture somewhere other than the emission control information label using any method (not only stamping or engraving), and require that the manufacturer describe in the application for certification where the equipment identifies the date of manufacture.

• § 1060.135: Simplify the equipment labeling options to align with the prevailing practice. The alternative approaches have been confusing for manufacturers, who have all selected the option of identifying family names rather than component codes.

• § 1060.137: Clarify when and how to label fuel caps. This depends only on whether the fuel cap is certified, not on whether the fuel cap is mounted directly on the fuel tank. It is also important to include the part number on the fuel cap if the equipment is designed with a pressurized fuel tank.

• § 1060.205: Replace the requirement to submit data from invalid tests with a requirement to simply notify EPA in the application for certification if a test was invalidated.

• § 1060.225: Clarify that amending an application for certification applies prospectively. In particular, amending an application does not apply for actions taken previously.

• § 1060.225: Clarify how manufacturers may amend the application for certification during and after the model year, consistent with the current policy regarding field fixes.

• § 1060.235: Clarify that we can direct manufacturers to send test products to EPA for confirmatory testing, or to a different lab that we specify.

• § 1060.235: Add an explicit allowance for carryover engine families to include the same kind of within-family running changes that are currently allowed over the course of a model year. The original text may have been understood to require that such running changes be made separate from certifying the engine family for the new model year.

• § 1060.250: Remove references to routine and standard tests, and remove the shorter recordkeeping requirement for routine data (or data from routine tests). We are proposing that all test records must be kept for eight years. With electronic recording of test data, there should be no advantage to keeping the shorter recordkeeping requirement for a subset of test data. EPA also notes that the eight-year period restarts with certification for a new model year if the manufacturer uses carryover data.

• § 1060.255: Clarify that doing anything to make information false or incomplete after submitting an application for certification is the same as submitting false or incomplete information. For example, if there is a change to any corporate information or parameters described in the manufacturer's application for certification, the manufacturer must amend the application to include the new information.

• § 1060.255: Clarify that voiding certificates for a failure to comply with recordkeeping or reporting requirements will be limited to the certificates that relate to the particular recordkeeping or reporting failure.

• § 1060.505: Revise the provision describing alternative test procedures to align with parallel text in 40 CFR 1065.10(c). It is important to note that approved alternative procedures increase flexibility for certifying manufacturers without limiting available methods for EPA testing.

• § 1060.520: For slosh testing and for the preconditioning fuel soak, specify that the fuel fill level should not decrease during testing, other than what would occur from permeation and from any appropriate testing steps to perform durability tests during the preconditioning fuel soak. We also specify that leaking fuel tanks are never suitable for testing, even if there is a potential to repair the leak.

• § 1060.601: Remove the reference to fuel caps since there is no need for a separate description about how the regulatory prohibitions apply for fuel caps. As noted in § 1061.1(c), fuel cap manufacturers that choose to certify their fuel caps under 40 CFR part 60 become subject to all the requirements associated with certification.

• § 1060.610: Adopt provisions clarifying how manufacturers can ship products that are not yet certified if that is needed for completing assembly at multiple locations, including shipment between companies and shipment between two facilities from a single company. These provisions are analogous to the provisions that apply for engines in 40 CFR 1068.260.

• § 1060.640: Migrate engine branding to 40 CFR 1068.45.

• § 1060.801: Update the contact information for the Designated Compliance Officer.

• § 1060.801: Revise the definition of “model year” to clarify that the calendar year relates to the time that engines are produced under a certificate of conformity.

• § 1060.801: Revise the definition of “placed into service” to prevent circumvention that may result from a manufacturer or dealer using a piece of equipment in a way that could otherwise cause it to no longer be new and subject to the prohibitions of 40 CFR 1068.101.

• § 1060.81: Correct the web address for the American Boat and Yacht Council.

• § 1060.815: Migrate provisions related to confidential business information to 40 CFR part 1068.

J. Additional Amendments for Nonroad Spark-Ignition Engines at or Below 19 kW (40 CFR Part 1054)

EPA's emission standards and certification requirements for nonroad spark-ignition engines at or below 19 kW are described in 40 CFR part 1054. EPA is proposing numerous changes across 40 CFR part 1054 to correct errors, to add clarification, and to make adjustments based on lessons learned from implementing these regulatory provisions. This includes the following changes:

• § 1054.1: Clarify that the provision allowing for voluntary certification under 40 CFR part 1054 for larger engines applies only for engines up to 30 kW and up to 1,000 cubic centimeters.

• § 1054.2: Add a clarifying note to say that a person or other entity other than a conventional “manufacturer” may need to certify engines that become new after being placed into service (such as engines converted from highway or stationary use). This is intended to address an assumption that only conventional manufacturers can certify engines.

• §§ 1054.30, 1054.730, and 1054.825: Consolidate information-collection provisions into a single section.

• § 1054.120: Clarify that extended-warranty requirements apply for the emission-related warranty only to the extent that warranties are actually provided to the consumer, rather than to any published warranties that are offered. The principles are that the emission-related warranty should not be less effective for emission-related items than for items that are not emission-related, and that the emission-related warranty for a given component should not be less effective than the basic mechanical warranty for that same component.

• § 1054.125: Allow for special maintenance procedures that address low-use engines. For example, operators in certain circumstances may perform engine maintenance after a smaller number of hours than would otherwise apply.

• § 1054.130: Remove references to “nonroad” equipment to accommodate regulations for stationary engines in 40 CFR part 60, subpart JJJJ, that rely on these same provisions.

• § 1054.135: Allow for including optional label content only if this does not cause the manufacturer to omit other information based on limited availability of space on the label.

• § 1054.145: Remove obsolete content. Most of the provisions in this section were needed only for the transition to the Phase 3 standards. We are also clarifying that the provision that allows for testing with California Phase 2 test fuel applies only through model year 2019. California ARB requires testing with its Phase 3 test fuel starting in model year 2020.

• § 1054.205: Replace the requirement to submit data from invalid tests with a requirement to simply notify EPA in the application for certification if a test was invalidated.

• § 1054.205: Specify that the application for certification needs to include estimated initial and final dates for producing engines for the model year, and an estimated date for the initial introduction into U.S. commerce. This information helps with managing information in the application, and overseeing testing and other compliance requirements. This amendment aligns with current practice.

• § 1054.225: Clarify that amending an application for certification applies prospectively. In particular, amending an application does not apply for actions taken previously.

• § 1054.225: Simplify the instruction on changing the Family Emission Limit during the model year to specify that the manufacturer must identify the date of the change based only on the month and year. This change aligns with current practice for amending applications for certification.

• § 1054.225: Clarify how manufacturers may amend the application for certification during and after the model year, consistent with the current policy regarding field fixes.

• § 1054.235: Clarify that air-fuel ratio and other adjustable parameters are part of the selection of a worst-case test configuration for emission-data engines. If an engine has rich and lean settings, the manufacturer should determine which is the worst-case setting for emission measurements to determine deterioration factors. In particular, it is not appropriate to combine results from different settings to calculate any kind of average or composite value. Service accumulation between emission measurements may include any representative combination of those settings.

• § 1054.235: Add an explicit allowance for carryover engine families to include the same kind of within-family running changes that are currently allowed over the course of a model year. The original text may have been understood to require that such running changes be made separate from certifying the engine family for the new model year.

• § 1054.235: Clarify how EPA will calibrate engines within normal production tolerances for things that are not adjustable parameters.

• §§ 1054.235, 1054.240, 1054.245, 1054.601, and 1054.801: Describe how to demonstrate compliance with dual-fuel and flexible-fuel engines. This generally involves testing with each separate fuel, or with a worst-case fuel blend.

• § 1054.240: Clarify that each measurement from emission-data vehicles must meet emission standards.

• § 1054.245: Clarify the basis for EPA approval for using deterioration factors from other engines. EPA approval depends on the manufacturer demonstrating that emission measurements reasonably represent in-use deterioration for the engine family being certified. This copies in regulatory text that already applies under other EPA programs.

• § 1054.245: Copy in the values and formulas used for assigned deterioration factors for handheld and nonhandheld engines. This includes a minor correction to the equation from 40 CFR 90.104(g) and a new description about combining deterioration factors for HC and NOX, but otherwise maintains the current policy and practice for these deterioration factors.

• § 1054.250: Remove references to routine and standard tests, and remove the shorter recordkeeping requirement for routine data (or data from routine tests). We are proposing that all test records must be kept for eight years. With electronic recording of test data, there should be no advantage to keeping the shorter recordkeeping requirement for a subset of test data. EPA also notes that the eight-year period restarts with certification for a new model year if the manufacturer uses carryover data.

• § 1054.255: Clarify that doing anything to make information false or incomplete after submitting an application for certification is the same as submitting false or incomplete information. For example, if there is a change to any corporate information or engine parameters described in the manufacturer's application for certification, the manufacturer must amend the application to include the new information.

• § 1054.255: Clarify that voiding certificates for a failure to comply with recordkeeping or reporting requirements will be limited to the certificates that relate to the particular recordkeeping or reporting failure .

• § 1054.301: Clarify the process for requesting a small-volume exemption from production-line testing. This is better handled as preliminary approval under § 1054.210 rather than including it as part of the application for certification.

• § 1054.310: Provide an example to illustrate how manufacturers may need to divide a year into four quarters if the production period is longer (or shorter) than 52 weeks.

• § 1054.315: Clarify that results from repeat tests can be averaged together, provided that the engine is not modified during the test program. This applies for engine modifications to switch to a different engine configuration or to improve emission control for a given engine configuration.

• §§ 1054.315 and 1054.320: Clarify how to manage test results for engines that fail an emission standard. Manufacturers must use the PLT test result from a failing engine regardless of the disposition of the failing engine. Manufacturers report test results after modifying a failing engine to show that it can be covered by the certificate of conformity, but manufacturers may factor these test results into PLT calculations only if the manufacturer changes production processes for all further engines to match the adjustments made to the failing engine. In that case, the test results from the modified engine count as a new test engine for the PLT calculations, rather than replacing the results from the engine before modifications. These regulatory changes codify the practice we have already established by guidance.²²

²² “Production Line Testing (PLT) Report Clarification”, EPA guidance document CD-15-21, August 31, 2015.

• § 1054.505: Clarify the instructions for controlling torque at non-idle test modes, and for demonstrating compliance with cycle-validation criteria. The revised language more carefully describes the current practice for testing engines.

• § 1054.620: Clarify that provisions apply for any kind of competition, not just racing.

• §§ 1054.625 and 1054.626: Remove obsolete text.

• § 1054.640: Migrate engine branding provisions to § 1068.45.

• § 1054.690: Correct the web address for U.S. Department of Treasury Circular 570, and clarify how an automatic suspension of a certificate of conformity applies for certain numbers of engines, and how U.S. Customs incorporates the bonding requirements into its entry procedures.

• § 1054.701: Change terminology for counting engines from “intended for sale in the United States” to “U.S.-direction production volume.” This conforms to the usual approach for calculating emission credits for nonroad engines.

• § 1054.710: Clarify that it is not permissible to show a proper balance of credits for a given model by using emission credits from a future model year.

• § 1054.730: Clarify terminology for ABT reports.

• § 1054.740: Remove obsolete content.

• § 1054.801: Update the contact information for the Designated Compliance Officer.

• § 1054.801: Remove the note from the definition of “handheld” describing which standards apply for various types of equipment. The note does not cover all the provisions that apply, which has led to more confusion than clarity.

• § 1054.801: Revise the definition of “model year” to clarify that the calendar year relates to the time that engines are produced under a certificate of conformity.

• § 1054.801: Revise the definition of “new nonroad engine” to clarify that imported engines become new based on the original date of manufacture, rather than the original model year. This clarification is necessary because 40 CFR 1068.360 requires redesignation of an imported engine's model year in certain circumstances.

• § 1054.801: Revise the definition of “placed into service” to prevent circumvention that may result from a manufacturer or dealer using a piece of equipment in a way that could otherwise cause it to no longer be new and subject to the prohibitions of 40 CFR 1068.101.

• § 1054.801: Revise the definition of “small-volume equipment manufacturer” to state that the volume limits apply for all calendar years, not just 2007 through 2009. We no longer use this definition for limiting the scope of transition or phase-in provisions. The provisions for reduced production-line testing, assigned deterioration factors, and reduced bonding burdens should apply without regard to the specific years identified in the original regulation adopting the Phase 3 standards.

• § 1054.815: Migrate provisions related to confidential business information to 40 CFR part 1068.

K. Amendments for General Compliance Provisions (40 CFR part 1068)

We are proposing a minor change to the replacement engine exemption in § 1068.240 to clarify how manufacturers qualify exempted engines under the tracked option in § 1068.240(b). Engine manufacturers may produce any number of exempt replacement engines if they meet all the specified requirements and conditions. To account for the timing of making the necessary demonstrations, the regulation specifies that engines must be designated as either tracked or untracked by September 30 following each production year, which coincides with the reporting requirement to document the number of exempt replacement engines each manufacturer produces. The regulation as adopted specifies that manufacturers must meet “all the requirements and conditions that apply under paragraph (b)* * * .”

Manufacturers have raised a question about how this applies for the prohibition in § 1068.240(b)(3) against returning the old engine into U.S. commerce unless the engine is covered by a certificate or an exemption, as if the engine were new. We note that § 1068.32(a)(3) describes how regulatory terminology treats prohibitions and requirements as different types of provisions. As a result, we are proposing to modify the regulation to clarify that the requirements and conditions manufacturers must meet by September 30 to qualify under the tracked option are those “requirements and conditions” specified in § 1068.240(b)(2). The provisions of § 1068.240(b)(3) related to the disposition of the old engine continue to apply, but those provisions are not subject to the September 30 deadline.

Note that marine diesel engines are subject to § 1042.615 instead of the requirements and conditions of § 1068.240(b)(2). As a result, manufacturers qualify marine diesel engines under the tracked option by meeting the analogous requirements and conditions specified in § 1042.615(a)(2) by September 30 following each production year.

Manufacturers have additionally expressed concerns about complying with the limit of producing only 0.5 percent of their production volume for specified sizes and types of engines under the untracked option. The challenge in part comes from complying with the limit as a percentage, since the allowed number of untracked replacement engines is unknown until the manufacturer establishes its total production volume for the year. In addition, untracked replacement engines are generally supplied to distributors in anticipation of engine failures, which might occur at very irregular intervals. We request comment on adjusting the terms of the untracked option for exempt replacement engines. Such an adjustment could take the form of (1) a greater percentage (perhaps only for large-displacement engines with low production volumes), (2) revised groupings for different sizes and types of engines, or (3) demonstrating compliance with the production limit over a multi-year period. Any comments supporting amended provisions should specify any recommended changes in detail and justify the need for those changes. Comments should also address concerns that any broadening of the terms of the exemption could have substantial air quality impacts by delaying the anticipated transition to engines meeting current standards.

We are also proposing to add a definition for “element of design.” We use this expression to define terms such as “auxiliary emission control device,” “emission control system,” and “adjustable parameters.” The proposed definition is based on earlier versions of the definition for the same term in other programs.

We request comment on the administrative requirements associated with testing exemptions pursuant to 40 CFR 1068.210. In particular, we request comment on whether or not to revise the two-year period specified for the exemption. Should we allow for longer durations without requiring another request?

L. Other Requests for Comment

EPA welcomes comments on the need for other technical corrections and clarifications. Readers are reminded to review public comments placed in the docket, which may contain requests for other corrections and clarifications. In addition, we request comment on the following broadly applicable topics.

1. End-of-Year Reports

Averaging, banking, and trading (ABT) of emission credits is addressed separately in individual standard-setting parts. The standard-setting parts generally require manufacturers using ABT to submit two reports: an “end-of-year” report due 90 days after the end of the model year, and a “final report” due 270 days after the end of the model year. EPA uses this approach because we need to determine compliance as close to the end of the model year as possible, but manufacturers are often unable to verify their information within the 90 days, so they need additional time before submitting their final reports. We request comment on potential revisions to this approach such as:

• Eliminating the 90-day report for manufacturers who have established a history of full compliance with the applicable ABT regulations.

• Replacing the two-report approach with a single 180-day report.

We recognize that different approaches may be appropriate for different industries; thus, commenters are encouraged to consider revisions separately by sector. Commenters supporting reducing the reporting requirements are also encouraged to include estimates of potential cost savings.

2. Other Data Reporting

We request comment on the potential for further streamlining data reporting requirements. For example:

• Do the regulations include redundant reporting requirements?

• Have certain older reporting requirements ceased to be of value?

3. Engines Used in Hazardous Locations

Manufacturers of diesel engines and equipment are sometimes subject to other federal regulations in addition to EPA emission standards. Diesel engine manufacturers have shared with EPA information regarding requirements from the Occupational Safety and Health Administration and the U.S. Coast Guard regarding regulations for engines operating in hazardous locations. The diesel engine industry has requested that EPA modify the EPA emission regulations to exempt engines used in hazardous locations from the EPA Tier 4 emission standards for nonroad land-based diesel engines and the EPA Tier 4 marine diesel standards, so that such engines are subject to the less stringent EPA Tier 3 emission standards for these categories of diesel engines. They have indicated that EPA should consider this change because they believe that it would be cost-prohibitive for them to qualify diesel engines meeting EPA's Tier 4 standards to these other rules. The concern applies for engines and equipment operating in Class I hazardous locations as identified in 29 CFR part 1910 or 46 CFR part 111. These hazardous locations generally include land-based and marine oil-extraction facilities and paper manufacturing facilities. These regulations require that manufacturers modify engines and equipment, for example, by limiting maximum surface temperatures to 200 °C or less.

EPA does not have sufficient information to evaluate this request at this time. Therefore, we request that commenters with relevant information address the following aspects of this issue:

• Information on the annual production of new engines and equipment that have been sold in the past several years that are designed to be used in Class I hazardous locations, and any projections regarding future needs on an annual basis.

• The cost of producing fully compliant engines that could be used in affected hazardous locations that are compliant with EPA's Tier 3 standards and EPA's Tier 4 standards.

• The typical equipment applications the engines are used in and the price of the equipment.

• The typical usage rates for these engines (hours per day or hours per year), by equipment application (if possible).

• Information regarding the past and likely future market response in the absence of additional flexibility for these engines (manufacturers have already been subject to Tier 4 standards for 2-4 years, after accounting for flexibility provisions to phase in the new standards).

Overcompliance Options

The locomotive regulations at 40 CFR 1033.101(l) include a provision allowing manufacturers to voluntary certify to a more stringent tier of standards or additional requirements. That provision states that “once the locomotives become subject to the additional standards, they remain subject to those standards for the remainder of their service lives.” Manufacturers have recently noted the value of provisions allowing them to voluntarily comply with more stringent standards.²³ Therefore, we request comment on whether or not similar provisions should be adopted for other sectors addressed in this proposal.

²³ Letter from Matthew W. Spears of the Engine Manufacturers Association, January 10, 2020.

IV. Statutory Authority and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulations and Controlling Regulatory Costs

This action is not an Executive Order 13771 regulatory action because this action is not significant under Executive Order 12866.

C. Paperwork Reduction Act (PRA)

This action does not impose any new information collection burden under the PRA. OMB has previously approved the information collection activities contained in the existing regulations and has assigned OMB control numbers 2060-0104, 2060-0287, 2060-0338, 2060-0545, 2060-0641. This rule clarifies and simplifies procedures without affecting information collection requirements.

D. Regulatory Flexibility Act (RFA)

I certify that this action would not have a significant economic impact on a substantial number of small entities under the RFA. In making this determination, the impact of concern is any significant adverse economic impact on small entities. An agency may certify that a rule will not have a significant economic impact on a substantial number of small entities if the rule relieves regulatory burden, has no net burden or otherwise has a positive economic effect on the small entities subject to the rule. This proposed action is designed to reduce testing burdens, increase compliance flexibility, and make various corrections and adjustments to compliance provisions. We therefore anticipate no costs and no regulatory burden associated with this proposed rule. We have concluded that this proposed action will have no significant increase in regulatory burden for directly regulated small entities.

E. Unfunded Mandates Reform Act (UMRA)

This action does not contain any unfunded mandate as described in UMRA, 2 U.S.C. 1531-1538, and does not significantly or uniquely affect small governments. The proposed action imposes no enforceable duty on any state, local or tribal governments. Requirements for the private sector do not exceed $100 million in any one year.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. This proposed rule will be implemented at the Federal level and affects engine and vehicle manufacturers. Thus, Executive Order 13175 does not apply to this action.

H. Executive Order 13045: Protection of Children From Environmental Health Risks and Safety Risks

This action is not subject to Executive Order 13045 because it is not economically significant as defined in Executive Order 12866, and because there are no environmental health or safety risks created by this action that could present a disproportionate risk to children.

I. Executive Order 13211: Actions Concerning Regulations That Significantly Affect Energy Supply, Distribution or Use

This action is not a “significant energy action” because it is not likely to have a significant adverse effect on the supply, distribution, or use of energy. We have concluded that this action is not likely to have any adverse energy effects because it is designed merely to reduce testing burdens, increase compliance flexibility, and make various corrections and adjustments to compliance provisions.

J. National Technology Transfer and Advancement Act (NTTAA) and 1 CFR Part 51

Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs agencies to provide Congress, through OMB, explanations when the Agency decides not to use available and applicable voluntary consensus standards. This action involves technical standards.

Except for the standards discussed below, the standards included in the regulatory text as incorporated by reference (in parts 60, 86, 1036, 1037, 1060, and 1065) were all previously approved for IBR and no change is proposed in this action.

In accordance with the requirements of 1 CFR 51.5, we are proposing to incorporate by reference the use of test methods and standards from ASTM International, SAE International, and the International Maritime Organization. This includes the following standards and test methods:

Standard or test method | Regulation | Summary
ASTM D3588-98, Reapproved 2017, Standard Practice for Calculating Heat Value, Compressibility Factor, and Relative Density of Gaseous Fuels | 40 CFR 1036.530 | Test method describes how to determine the lower heating value and other parameters for gaseous fuels.
ASTM D5769-15, Standard Test Method for Determination of Benzene, Toluene, and Total Aromatics in Finished Gasolines by Gas Chromatography/Mass Spectrometry | 40 CFR 86.1 | Test method describes how to measure aromatic content of gasoline. This would be an alternative to the currently specified method in ASTM D1319, as described in Section II.A.3 for 40 CFR 1065.710.
ASTM D6550-15, Standard Test Method for Determination of Olefin Content of Gasolines by Supercritical-Fluid Chromatography | 40 CFR 86.1 | Test method describes how to measure olefin content of gasoline. This would be an alternative to the currently specified method in ASTM D1319, as described in Section II.A.3 for 40 CFR 1065.710.
SAE J1634, July 2017, Battery Electric Vehicle Energy Consumption and Range Test Procedure | 40 CFR 1066.810 | Recommended practice establishes uniform procedures for testing battery electric vehicles. This is an updated version of the document currently specified in the regulation.
Revised MARPOL Annex VI, Regulations for the Prevention of Pollution from Ships, Fourth Edition, 2017 | 40 CFR 1042.910 and 40 CFR 1043.100 | Treaty defines international requirements for ships, including standards for fuel sulfur content and for NOx emissions from installed engines.
NOX Technical Code 2008, Technical Code on Control of Emission of Nitrogen Oxides from Marine Diesel Engines, 2017 Edition | 40 CFR 1042.910 and 40 CFR 1043.100 | This document defines certification and measurement procedures for ships subject to standards under MARPOL Annex VI.

The materials from the International Maritime Organization are updated versions of documents that are already incorporated by reference in 40 CFR 1042.910 and 40 CFR 1043.100. We intend to include in the final rule any amendments adopted subsequent to the referenced 2017 publications.

The referenced standards and test methods may be obtained through the ASTM International website (www.astm.org) or by calling ASTM at (610) 832-9585, the SAE International website (www.sae.org) or by calling SAE International at (877) 606-7323 (U.S. and Canada) or (724) 776-4970 (outside the U.S. and Canada), the International Maritime Organization website (www.imo.org) or by calling the International Maritime Organization in London, England at 44-(0)20-7735-7611.

EPA is publishing a new version of the Greenhouse Gas Emission Model (GEM), which we use for certifying heavy-duty highway vehicles to the GHG emission standards in 40 CFR part 1037. The model calculates GHG emission rates for heavy-duty highway vehicles based on input values defined by the manufacturer. The model is available as noted in the proposed regulations at 40 CFR 1037.810.

We are removing numerous referenced documents as part of the effort to remove obsolete provisions in 40 CFR parts 85 through 94.

K. Executive Order 12898: Federal Actions To Address Environmental Justice in Minority Populations and Low-Income Populations

EPA believes this action does not have disproportionately high and adverse human health or environmental effects on minority populations, low-income populations or indigenous peoples, as specified in Executive Order 12898 (59 FR 7629, February 16, 1994). Due to the small environmental impact, this proposed regulatory flexibility will not have a disproportionate adverse effect on minority populations, low-income populations, or indigenous peoples.

List of Subjects

40 CFR Part 9

Reporting and recordkeeping requirements.

40 CFR Part 59

Air pollution control, Confidential business information, Labeling, Ozone, Reporting and recordkeeping requirements, Volatile organic compounds.

40 CFR Part 60

Administrative practice and procedure, Air pollution control, Aluminum, Beverages, Carbon monoxide, Chemicals, Coal, Electric power plants, Fluoride, Gasoline, Glass and glass products, Grains, Greenhouse gases, Household appliances, Incorporation by reference, Industrial facilities, Insulation, Intergovernmental relations, Iron, Labeling, Lead, Lime, Metals, Motor vehicles, Natural gas, Nitrogen dioxide, Petroleum, Phosphate, Plastics materials and synthetics, Polymers, Reporting and recordkeeping requirements, Rubber and rubber products, Sewage disposal, Steel, Sulfur oxides, Vinyl, Volatile organic compounds, Waste treatment and disposal, Zinc.

40 CFR Part 85

Confidential business information, Greenhouse gases, Imports, Labeling, Motor vehicle pollution, Reporting and recordkeeping requirements, Research, Warranties.

40 CFR Part 86

Administrative practice and procedure, Confidential business information, Incoporation by reference, Labeling, Motor vehicle pollution, Reporting and recordkeeping requirements.

40 CFR Part 88

Labeling, Motor vehicle pollution, Reporting and recordkeeping requirements.

40 CFR Part 89

Administrative practice and procedure, Confidential business information, Imports, Labeling, Motor vehicle pollution, Reporting and recordkeeping requirements, Research, Vessels, Warranties.

40 CFR Part 90

Administrative practice and procedure, Air pollution control, Confidential business information, Imports, Labeling, Reporting and recordkeeping requirements, Research, Warranties.

40 CFR Part 91

Administrative practice and procedure, Air pollution control, Confidential business information, Imports, Labeling, Penalties, Reporting and recordkeeping requirements, Warranties.

40 CFR Part 92

Administrative practice and procedure, Air pollution control, Confidential business information, Imports, Labeling, Railroads, Reporting and recordkeeping requirements, Warranties.

40 CFR Part 94

Administrative practice and procedure, Air pollution control, Confidential business information, Imports, Penalties, Reporting and recordkeeping requirements, Vessels, Warranties.

40 CFR Part 1027

Administrative practice and procedure, Air pollution control, Confidential business information, Imports, Reporting and recordkeeping requirements.

40 CFR Part 1033

Administrative practice and procedure, Confidential business information, Environmental protection, Labeling, Penalties, Railroads, Reporting and recordkeeping requirements.

40 CFR Part 1036

Administrative practice and procedure, Air pollution control, Confidential business information, Environmental protection, Greenhouse gases, Incorporation by reference, Labeling, Motor vehicle pollution, Reporting and recordkeeping requirements, Warranties.

40 CFR Part 1037

Administrative practice and procedure, Air pollution control, Confidential business information, Environmental protection, Incorporation by reference, Labeling, Motor vehicle pollution, Reporting and recordkeeping requirements, Warranties.

40 CFR Part 1039

Administrative practice and procedure, Air pollution control, Confidential business information, Imports, Labeling, Penalties, Reporting and recordkeeping requirements, Warranties.

40 CFR Part 1042

Administrative practice and procedure, Air pollution control, Confidential business information, Environmental protection, Imports, Incorporation by reference, Labeling, Penalties, Reporting and recordkeeping requirements, Vessels, Warranties.

40 CFR Part 1043

Administrative practice and procedure, Air pollution control, Imports, Incorporation by reference, Reporting and recordkeeping requirements, Vessels.

40 CFR Part 1045

Administrative practice and procedure, Air pollution control, Confidential business information, Imports, Labeling, Penalties, Reporting and recordkeeping requirements, Warranties.

40 CFR Part 1048

Administrative practice and procedure, Air pollution control, Confidential business information, Imports, Labeling, Penalties, Reporting and recordkeeping requirements, Research, Warranties.

40 CFR Part 1051

Administrative practice and procedure, Air pollution control, Confidential business information, Imports, Labeling, Penalties, Reporting and recordkeeping requirements, Warranties.

40 CFR Part 1054

Administrative practice and procedure, Air pollution control, Confidential business information, Imports, Labeling, Penalties, Reporting and recordkeeping requirements, Warranties.

40 CFR Part 1060

Administrative practice and procedure, Air pollution control, Confidential business information, Imports, Incorporation by reference, Labeling, Penalties, Reporting and recordkeeping requirements, Warranties.

40 CFR Part 1065

Administrative practice and procedure, Air pollution control, Incorporation by reference, Reporting and recordkeeping requirements, Research.

40 CFR Part 1066

Air pollution control, Incorporation by reference, Reporting and recordkeeping requirements.

40 CFR Part 1068

Administrative practice and procedure, Air pollution control, Confidential business information, Imports, Motor vehicle pollution, Penalties, Reporting and recordkeeping requirements, Warranties.

Dated: March 13, 2020.
Andrew R. Wheeler,
Administrator.

For the reasons set out in the preamble, we propose to amend title 40, chapter I of the Code of Federal Regulations as set forth below.

PART 9—OMB APPROVALS UNDER THE PAPERWORK REDUCTION ACT

Contents

1. The authority citation for part 9 continues to read as follows:

Authority: 7 U.S.C. 135 et seq., 136-136y; 15 U.S.C. 2001, 2003, 2005, 2006, 2601-2671; 21 U.S.C. 331j, 346a, 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. Amend § 9.1 by:

a. Removing entries for 85.1403 through 85.1415, 85.1514, 85.1712, 85.1808, 85.2208, and 85.2401 through 85.2409;

b. Revising the entries under the heading “Control of Emissions From New and In-Use Highway Vehicles and Engine”;

c. Removing the heading “Clean-Fuel Vehicles” and the items under that heading;

d. Removing the heading “Control of Emissions From New and In-Use Nonroad Compression-Ignition Engines” and the items under that heading;

e. Removing the heading “Control of Emissions From New and In-use Nonroad Engines” and the items under that heading;

f. Removing the heading “Control of Emissions From New and In-Use Marine Compression-Ignition Engines” and the items under that heading;

g. Revising the entries under the heading “Fuel Economy of Motor Vehicles”;

h. Revising the entry for “1033.825” to read as “1033.925” and

i. Revising the entry for “1042.825” to read as “1042.925”.

The revisions read as follows:

§ 9.1 OMB approvals under the Paperwork Reduction Act.

* * * * *
Control of Air Pollution From Motor Vehicles and Motor Vehicle Engines
85.503 | 2060-0104
85.505 | 2060-0104
85.1504 | 2060-0095
85.1505 | 2060-0095
85.1507 | 2060-0095
85.1508 | 2060-0095
85.1509 | 2060-0095
85.1511 | 2060-0095
85.1512 | 2060-0095
85.1705 | 2060-0104
85.1706 | 2060-0104
85.1708 | 2060-0104
85.1710 | 2060-0104
85.1802 | 2060-0104
85.1803 | 2060-0104
85.1806 | 2060-0104
85.1903 | 2060-0104
85.1904 | 2060-0104
85.1905 | 2060-0104
85.1906 | 2060-0104
85.1908 | 2060-0104
85.1909 | 2060-0104
85.2110 | 2060-0104
85.2114 | 2060-0060
85.2115 | 2060-0060
85.2116 | 2060-0060
85.2117 | 2060-0060
85.2118 | 2060-0060
85.2119 | 2060-0060
85.2120 | 2060-0060
Control of Emissions From New and In-Use Highway Vehicles and Engines
86.000-7 | 2060-0104
86.000-24 | 2060-0104
86.001-21 | 2060-0104
86.001-23 | 2060-0104
86.001-24 | 2060-0104
86.004-28 | 2060-0104
86.004-38 | 2060-0104
86.004-40 | 2060-0104
86.079-31—86.079-33 | 2060-0104
86.079-39 | 2060-0104
86.080-12 | 2060-0104
86.082-34 | 2060-0104
86.085-37 | 2060-0104
86.090-27 | 2060-0104
86.091-7 | 2060-0104
86.094-21 | 2060-0104
86.094-25 | 2060-0104
86.094-30 | 2060-0104
86.095-14 | 2060-0104
86.095-35 | 2060-0104
86.096-24 | 2060-0104
86.098-23 | 2060-0104
86.099-10 | 2060-0104
86.107-98 | 2060-0104
86.108-00 | 2060-0104
86.111-94 | 2060-0104
86.113-15 | 2060-0104
86.113-94 | 2060-0104
86.129-00 | 2060-0104
86.142-90 | 2060-0104
86.144-94 | 2060-0104
86.150-98 | 2060-0104
86.155-98 | 2060-0104
86.159-08 | 2060-0104
86.160-00 | 2060-0104
86.161-00 | 2060-0104
86.162-03 | 2060-0104
86.163-00 | 2060-0104
86.412-78 | 2060-0104
86.414-78 | 2060-0104
86.415-78 | 2060-0104
86.416-80 | 2060-0104
86.421-78 | 2060-0104
86.423-78 | 2060-0104
86.427-78 | 2060-0104
86.428-80 | 2060-0104
86.429-78 | 2060-0104
86.431-78 | 2060-0104
86.432-78 | 2060-0104
86.434-78 | 2060-0104
86.435-78 | 2060-0104
86.436-78 | 2060-0104
86.437-78 | 2060-0104
86.438-78 | 2060-0104
86.439-78 | 2060-0104
86.440-78 | 2060-0104
86.445-2006 | 2060-0104
86.446-2006 | 2060-0104
86.447-2006 | 2060-0104
86.448-2006 | 2060-0104
86.449 | 2060-0104
86.513 | 2060-0104
86.537-90 | 2060-0104
86.542-90 | 2060-0104
86.603-98 | 2060-0104
86.604-84 | 2060-0104
86.605-98 | 2060-0104
86.606-84 | 2060-0104
86.607-84 | 2060-0104
86.609-98 | 2060-0104
86.612-97 | 2060-0104
86.614-84 | 2060-0104
86.615-84 | 2060-0104
86.884-5 | 2060-0104
86.884-7 | 2060-0104
86.884-9 | 2060-0104
86.884-10 | 2060-0104
86.884-12 | 2060-0104
86.884-13 | 2060-0104
86.1106-87 | 2060-0104
86.1107-87 | 2060-0104
86.1108-87 | 2060-0104
86.1110-87 | 2060-0104
86.1111-87 | 2060-0104
86.1113-87 | 2060-0104
86.1114-87 | 2060-0104
86.1805-17 | 2060-0104
86.1806-17 | 2060-0104
86.1809-12 | 2060-0104
86.1811-17 | 2060-0104
86.1823-08 | 2060-0104
86.1826-01 | 2060-0104
86.1829-15 | 2060-0104
86.1839-01 | 2060-0104
86.1840-01 | 2060-0104
86.1842-01 | 2060-0104
86.1843-01 | 2060-0104
86.1844-01 | 2060-0104
86.1845-04 | 2060-0104
86.1847-01 | 2060-0104
86.1862-04 | 2060-0104
86.1920-86.1925 | 2060-0287
* * * * *
Fuel Economy of Motor Vehicles
600.005 | 2060-0104
600.006 | 2060-0104
600.007 | 2060-0104
600.010 | 2060-0104
600.113-12 | 2060-0104
600.206-12 | 2060-0104
600.207-12 | 2060-0104
600.209-12 | 2060-0104
600.301—600.314-08 | 2060-0104
600.507-12 | 2060-0104
600.509-12 | 2060-0104
600.510-12 | 2060-0104
600.512-12 | 2060-0104
* * * * *

PART 59—NATIONAL VOLATILE ORGANIC COMPOUND EMISSION STANDARDS FOR CONSUMER AND COMMERCIAL PRODUCTS

3. The authority citation for part 59 continues to read as follows:

Authority: 42 U.S.C. 7414 and 7511b(e).

Subpart F—[Amended]

4. Amend § 59.626 by revising paragraph (e) to read as follows:

§ 59.626 What emission testing must I perform for my application for a certificate of conformity?

* * * * *

(e) We may require you to test units of the same or different configuration in addition to the units tested under paragraph (b) of this section.

* * * * *

5. Amend § 59.628 by revising paragraph (b) to read as follows:

§ 59.628 What records must I keep and what reports must I send to EPA?

* * * * *

(b) Keep required data from emission tests and all other information specified in this subpart for five years after we issue the associated certificate of conformity. If you use the same emission data or other information for a later production period, the five-year period restarts with each new production period if you continue to rely on the information.

* * * * *

6. Amend § 59.650 by revising paragraph (c) to read as follows:

§ 59.650 General testing provisions.

* * * * *

(c) The specification for gasoline to be used for testing is given in 40 CFR 1065.710(c). Use the grade of gasoline specified for general testing. Blend this grade of gasoline with reagent grade ethanol in a volumetric ratio of 90.0 percent gasoline to 10.0 percent ethanol to achieve a blended fuel that has 10.0 ±1.0 percent ethanol by volume. You may use ethanol that is less pure if you can demonstrate that it will not affect your ability to demonstrate compliance with the applicable emission standards.

* * * * *

7. Amend § 59.653 by revising paragraphs (a)(1), (a)(3), and (a)(4)(ii)(C) to read as follows:

§ 59.653 How do I test portable fuel containers?

* * * * *

(a) * * *

(1) Pressure cycling. Perform a pressure test by sealing the container and cycling it between +13.8 and −3.4 kPa (+2.0 and −0.5 psig) for 10,000 cycles at a rate of 60 seconds per cycle. For this test, the spout may be removed and the pressure applied through the opening where the spout attaches. The purpose of this test is to represent environmental wall stresses caused by pressure changes and other factors (such as vibration or thermal expansion). If your container cannot be tested using the pressure cycles specified by this paragraph (a)(1), you may ask to use special test procedures under § 59.652(c).

* * * * *

(3) Slosh testing. Perform a slosh test by filling the portable fuel container to 40 percent of its capacity with the fuel specified in paragraph (e) of this section and rocking it at a rate of 15 cycles per minute until you reach one million total cycles. Use an angle deviation of +15° to −15° from level. Take steps to ensure that the fuel remains at 40 percent of its capacity throughout the test run.

(4) * * *

(ii) * * *

(C) Actuate the spout by fully opening and closing without dispensing fuel. The spout must return to the closed position without the aid of the operator (e.g., pushing or pulling the spout closed). Repeat for a total of 10 actuations. If at any point the spout fails to return to the closed position, the container fails the diurnal test.

* * * * *

8. Amend § 59.660 by revising paragraph (b) to read as follows:

§ 59.660 Exemption from the standards.

* * * * *

(b) Manufacturers and other persons subject to the prohibitions in § 59.602 may ask us to exempt portable fuel containers to purchase, sell, or distribute them for the sole purpose of testing them.

* * * * *

9. Amend § 59.664 by revising paragraph (c) to read as follows:

§ 59.664 What are the requirements for importing portable fuel containers into the United States?

* * * * *

(c) You may meet the bond requirements of this section by obtaining a bond from a third-party surety that is cited in the U.S. Department of Treasury Circular 570, “Companies Holding Certificates of Authority as Acceptable Sureties on Federal Bonds and as Acceptable Reinsuring Companies” (https://www.fiscal.treasury.gov/surety-bonds/circular-570.html).

* * * * *

10. Amend § 59.680 by revising the definition of “Portable fuel container” to read as follows:

§ 59.680 What definitions apply to this subpart?

* * * * *

Portable fuel container means a reusable container of any color that is designed and marketed (or otherwise intended) for use by consumers for receiving, transporting, storing, and dispensing gasoline, diesel fuel, or kerosene. For the purposes of this subpart, all utility jugs that are red, yellow or blue in color are deemed to be portable fuel containers, regardless of how they are labeled or marketed.

* * * * *

PART 60—STANDARDS OF PERFORMANCE FOR NEW STATIONARY SOURCES

11. The authority statement for part 60 continues to read as follows:

Authority: 42 U.S.C. 7401 et seq.

12. Amend § 60.4200 by revising paragraph (d) to read as follows:

§ 60.4200 Am I subject to this subpart?

* * * * *

(d) Stationary CI ICE may be eligible for exemption from the requirements of this subpart as described in 40 CFR part 1068, subpart C, except that owners and operators, as well as manufacturers, may be eligible to request an exemption for national security.

13. Amend § 60.4201 by revising paragraph (a), paragraph (d) introductory text, paragraph (f) introductory text, and paragraph (h) to read as follows:

§ 60.4201 What emission standards must I meet for non-emergency engines if I am a stationary CI internal combustion engine manufacturer?

(a) Stationary CI internal combustion engine manufacturers must certify their 2007 model year and later non-emergency stationary CI ICE with a maximum engine power less than or equal to 2,237 kilowatt (KW) (3,000 horsepower (HP)) and a displacement of less than 10 liters per cylinder to the certification emission standards for new nonroad CI engines in 40 CFR 1039.101, 40 CFR 1039.102, 40 CFR 1039.104, 40 CFR 1039.105, 40 CFR 1039.107, and 40 CFR 1039.115 and 40 CFR part 1039, Appendix I, as applicable, for all pollutants, for the same model year and maximum engine power.

* * * * *

(d) Stationary CI internal combustion engine manufacturers must certify the following non-emergency stationary CI ICE to the appropriate Tier 2 emission standards for new marine CI engines as described in 40 CFR part 1042, Appendix I, for all pollutants, for the same displacement and rated power:

* * * * *

(f) Notwithstanding the requirements in paragraphs (a) through (c) of this section, stationary non-emergency CI ICE identified in paragraphs (a) and (c) of this section may be certified to the provisions of 40 CFR part 1042 for commercial engines that are applicable for the engine's model year, displacement, power density, and maximum engine power if the engines will be used solely in either or both of the following locations:

* * * * *

(h) Stationary CI ICE certified to the standards in 40 CFR part 1039 and equipped with auxiliary emission control devices (AECDs) as specified in 40 CFR 1039.665 must meet the Tier 1 certification emission standards for new nonroad CI engines in 40 CFR part 1039, Appendix I while the AECD is activated during a qualified emergency situation. A qualified emergency situation is defined in 40 CFR 1039.665. When the qualified emergency situation has ended and the AECD is deactivated, the engine must resume meeting the otherwise applicable emission standard specified in this section.

14. Amend § 60.4202 by revising paragraphs (a)(1)(i), (a)(2), (b)(2), paragraph (e) introductory text, and paragraph (g) introductory text to read as follows:

§ 60.4202 What emission standards must I meet for emergency engines if I am a stationary CI internal combustion engine manufacturer?

(a) * * *

(1) * * *

(i) The Tier 2 emission standards for new nonroad CI engines for the appropriate rated power as described in 40 CFR part 1039, Appendix I, for all pollutants and the smoke standards as specified in 40 CFR 1039.105 for model year 2007 engines, and

* * * * *

(2) For engines with a rated power greater than or equal to 37 KW (50 HP), the Tier 2 or Tier 3 emission standards for new nonroad CI engines for the same rated power as described in 40 CFR part 1039, Appendix I for all pollutants and the smoke standards as specified in 40 CFR 1039.105 beginning in model year 2007.

(b) * * *

(2) For 2011 model year and later, the Tier 2 emission standards as described in 40 CFR part 1039, Appendix I for all pollutants and the smoke standards as specified in 40 CFR 1039.105.

* * * * *

(e) Stationary CI internal combustion engine manufacturers must certify the following emergency stationary CI ICE that are not fire pump engines to the appropriate Tier 2 emission standards for new marine CI engines as described in 40 CFR part 1042, Appendix I,, for all pollutants, for the same displacement and rated power:

* * * * *

(g) Notwithstanding the requirements in paragraphs (a) through (d) of this section, stationary emergency CI ICE identified in paragraphs (a) and (c) of this section may be certified to the provisions of 40 CFR part 1042 for commercial engines that are applicable for the engine's model year, displacement, power density, and maximum engine power if the engines will be used solely in either or both of the locations identified in paragraphs (g)(1) and (2) of this section. Engines that would be subject to the Tier 4 standards in 40 CFR part 1042 that are used solely in either or both of the locations identified in paragraphs (g)(1) and (2) of this section may instead continue to be certified to the appropriate Tier 3 standards in 40 CFR part 1042.

* * * * *

15. Amend § 60.4204 by revising paragraphs (a) and (f) to read as follows:

§ 60.4204 What emission standards must I meet for non-emergency engines if I am an owner or operator of a stationary CI internal combustion engine?

(a) Owners and operators of pre-2007 model year non-emergency stationary CI ICE with a displacement of less than 10 liters per cylinder must comply with the emission standards in table 1 to this subpart. Owners and operators of pre-2007 model year non-emergency stationary CI ICE with a displacement of greater than or equal to 10 liters per cylinder and less than 30 liters per cylinder must comply with the Tier 1 emission standards in 40 CFR part 1042, Appendix I.

* * * * *

(f) Owners and operators of stationary CI ICE certified to the standards in 40 CFR part 1039 and equipped with AECDs as specified in 40 CFR 1039.665 must meet the Tier 1 certification emission standards for new nonroad CI engines in 40 CFR part 1039, Appendix I while the AECD is activated during a qualified emergency situation. A qualified emergency situation is defined in 40 CFR 1039.665. When the qualified emergency situation has ended and the AECD is deactivated, the engine must resume meeting the otherwise applicable emission standard specified in this section.

16. Amend § 60.4205 by revising paragraph (a) to read as follows:

§ 60.4205 What emission standards must I meet for emergency engines if I am an owner or operator of a stationary CI internal combustion engine?

(a) Owners and operators of pre-2007 model year emergency stationary CI ICE with a displacement of less than 10 liters per cylinder that are not fire pump engines must comply with the emission standards in Table 1 to subpart IIII. Owners and operators of pre-2007 model year emergency stationary CI ICE with a displacement of greater than or equal to 10 liters per cylinder and less than 30 liters per cylinder that are not fire pump engines must comply with the Tier 1 emission standards in 40 CFR part 1042, appendix I.

* * * * *

17. Amend § 60.4210 by revising paragraphs (a) and (b), paragraph (c) introductory text, paragraphs (c)(3), (d), (i), and (j) and adding paragraph (k) to read as follows:

§ 60.4210 What are my compliance requirements if I am a stationary CI internal combustion engine manufacturer?

(a) Stationary CI internal combustion engine manufacturers must certify their stationary CI ICE with a displacement of less than 10 liters per cylinder to the emission standards specified in § 60.4201(a) through (c) and § 60.4202(a), (b) and (d) using the certification procedures required in 40 CFR part 1039, subpart C, and must test their engines as specified in 40 CFR part 1039. For the purposes of this subpart, engines certified to the standards in table 1 to this subpart shall be subject to the same certification procedures required for engines certified to the Tier 1 standards in 40 CFR part 1039, appendix I. For the purposes of this subpart, engines certified to the standards in table 4 to this subpart shall be subject to the same certification procedures required for engines certified to the Tier 1 standards in 40 CFR part 1039, appendix I, except that engines with NFPA nameplate power of less than 37 KW (50 HP) certified to model year 2011 or later standards shall be subject to the same requirements as engines certified to the standards in 40 CFR part 1039.

(b) Stationary CI internal combustion engine manufacturers must certify their stationary CI ICE with a displacement of greater than or equal to 10 liters per cylinder and less than 30 liters per cylinder to the emission standards specified in § 60.4201(d) and (e) and § 60.4202(e) and (f) using the certification procedures required in 40 CFR part 1042, subpart C, and must test their engines as specified in 40 CFR part 1042.

(c) Stationary CI internal combustion engine manufacturers must meet the requirements of 40 CFR 1039.120, 1039.125, 1039.130, and 1039.135, and 40 CFR part 1068 for engines that are certified to the emission standards in 40 CFR part 1039. Stationary CI internal combustion engine manufacturers must meet the corresponding provisions of 40 CFR part 1042 for engines that would be covered by that part if they were nonroad (including marine) engines. Labels on such engines must refer to stationary engines, rather than or in addition to nonroad or marine engines, as appropriate. Stationary CI internal combustion engine manufacturers must label their engines according to paragraphs (c)(1) through (3) of this section.

* * * * *

(3) Stationary CI internal combustion engines manufactured after January 1, 2007 (for fire pump engines, after January 1 of the year listed in table 3 to this subpart, as applicable) must be labeled according to paragraphs (c)(3)(i) through (iii) of this section.

(i) Stationary CI internal combustion engines that meet the requirements of this subpart and the corresponding requirements for nonroad (including marine) engines of the same model year and HP must be labeled according to the provisions in 40 CFR part 1039 or 1042, as appropriate.

(ii) Stationary CI internal combustion engines that meet the requirements of this subpart, but are not certified to the standards applicable to nonroad (including marine) engines of the same model year and HP must be labeled according to the provisions in 40 CFR part 1039 or 1042, as appropriate, but the words “stationary” must be included instead of “nonroad” or “marine” on the label. In addition, such engines must be labeled according to 40 CFR 1039.20.

(iii) Stationary CI internal combustion engines that do not meet the requirements of this subpart must be labeled according to 40 CFR 1068.230 and must be exported under the provisions of 40 CFR 1068.230.

(d) An engine manufacturer certifying an engine family or families to standards under this subpart that are identical to standards applicable under 40 CFR part 1039 or 1042 for that model year may certify any such family that contains both nonroad (including marine) and stationary engines as a single engine family and/or may include any such family containing stationary engines in the averaging, banking and trading provisions applicable for such engines under those parts.

* * * * *

(i) The replacement engine provisions of 40 CFR 1068.240 are applicable to stationary CI engines replacing existing equipment that is less than 15 years old.

(j) Stationary CI ICE manufacturers may equip their stationary CI internal combustion engines certified to the emission standards in 40 CFR part 1039 with AECDs for qualified emergency situations according to the requirements of 40 CFR 1039.665. Manufacturers of stationary CI ICE equipped with AECDs as allowed by 40 CFR 1039.665 must meet all the requirements in 40 CFR 1039.665 that apply to manufacturers. Manufacturers must document that the engine complies with the Tier 1 standard in 40 CFR part 1039, appendix I, when the AECD is activated. Manufacturers must provide any relevant testing, engineering analysis, or other information in sufficient detail to support such statement when applying for certification (including amending an existing certificate) of an engine equipped with an AECD as allowed by 40 CFR 1039.665.

(k) Manufacturers may certify their emergency stationary CI internal combustion engines under this section using assigned deterioration factors established by EPA.

18. Amend § 60.4211 by revising paragraphs (a)(3) and (b)(1) to read as follows:

§ 60.4211 What are my compliance requirements if I am an owner or operator of a stationary CI internal combustion engine?

(a) * * *

(3) Meet the requirements of 40 CFR part 1068, as they apply to you.

(b) * * *

(1) Purchasing an engine certified to emission standards for the same model year and maximum engine power as described in 40 CFR part 1039 and part 1042, as applicable. The engine must be installed and configured according to the manufacturer's specifications.

* * * * *

19. Amend § 60.4212 by revising paragraphs (a) and (c) to read as follows:

§ 60.4212 What test methods and other procedures must I use if I am an owner or operator of a stationary CI internal combustion engine with a displacement of less than 30 liters per cylinder?

* * * * *

(a) The performance test must be conducted according to the in-use testing procedures in 40 CFR part 1039, subpart F, for stationary CI ICE with a displacement of less than 10 liters per cylinder, and according to 40 CFR part 1042, subpart F, for stationary CI ICE with a displacement of greater than or equal to 10 liters per cylinder and less than 30 liters per cylinder. Alternatively, stationary CI ICE that are complying with Tier 2 or Tier 3 emission standards as described in 40 CFR part 1039, appendix I, or with Tier 2 emission standards as described in 40 CFR part 1042, Appendix I, may follow the testing procedures specified in § 60.4213, as appropriate.

* * * * *

(c) Exhaust emissions from stationary CI ICE subject to Tier 2 or Tier 3 emission standards as described in 40 CFR part 1039, appendix I, or Tier 2 emission standards as described in 40 CFR part 1042, Appendix I, must not exceed the NTE numerical requirements, rounded to the same number of decimal places as the applicable standard, determined from the following equation:

NTE requirement for each pollutant = (1.25) × (STD) (Eq. 1)

Where:

STD = The standard specified for that pollutant in 40 CFR part 1039 or part 1042, as applicable.

* * * * *

20. Amend § 60.4216 by revising paragraphs (b) and (c) to read as follows:

§ 60.4216 What requirements must I meet for engines used in Alaska?

* * * * *

(b) Except as indicated in paragraph (c) of this section, manufacturers, owners and operators of stationary CI ICE with a displacement of less than 10 liters per cylinder located in remote areas of Alaska may meet the requirements of this subpart by manufacturing and installing engines meeting the Tier 2 or Tier 3 emission standards described in 40 CFR part 1042 for the same model year, displacement, and maximum engine power, as appropriate, rather than the otherwise applicable requirements of 40 CFR part 1039, as indicated in §§ 60.4201(f) and 60.4202(g).

(c) Manufacturers, owners, and operators of stationary CI ICE that are located in remote areas of Alaska may choose to meet the applicable emission standards for emergency engines in §§ 60.4202 and 60.4205, and not those for non-emergency engines in §§ 60.4201 and 60.4204, except that for 2014 model year and later nonemergency CI ICE, the owner or operator of any such engine must have that engine certified as meeting at least the Tier 3 p.m. standards identified in appendix I of 40 CFR part 1039 or in 40 CFR 1042.101.

* * * * *

21. Amend § 60.4219 by revising the definition for “Certified emissions life” to read as follows:

§ 60.4219 What definitions apply to this subpart?

* * * * *

Certified emissions life means the period during which the engine is designed to properly function in terms of reliability and fuel consumption, without being remanufactured, specified as a number of hours of operation or calendar years, whichever comes first. The values for certified emissions life for stationary CI ICE with a displacement of less than 10 liters per cylinder are given in 40 CFR 1039.101(g). The values for certified emissions life for stationary CI ICE with a displacement of greater than or equal to 10 liters per cylinder and less than 30 liters per cylinder are given in 40 CFR 1042.101(e).

* * * * *

Subpart JJJJ—Standards of Performance for Stationary Spark Ignition Internal Combustion Engines

22. Amend § 60.4230 by revising paragraph (e) to read as follows:

§ 60.4230 Am I subject to this subpart?

* * * * *

(e) Stationary SI ICE may be eligible for exemption from the requirements of this subpart as described in 40 CFR part 1068, subpart C (or the exemptions described in 40 CFR parts 1048 and 1054, for engines that would need to be certified to standards in those parts), except that owners and operators, as well as manufacturers, may be eligible to request an exemption for national security.

* * * * *

23. Amend § 60.4231 by revising paragraphs (a) through (d) to read as follows:

§ 60.4231 What emission standards must I meet if I am a manufacturer of stationary SI internal combustion engines or equipment containing such engines?

(a) Stationary SI internal combustion engine manufacturers must certify their stationary SI ICE with a maximum engine power less than or equal to 19 KW (25 HP) manufactured on or after July 1, 2008 to the certification emission standards and other requirements for new nonroad SI engines in 40 CFR part 1054, as follows:

If engine displacement is * * * | and manufacturing dates are * * * | the engine must meet the following nonhandheld emission standards identified in 40 CFR part 1054 and related requirements:
(1) below 225 cc | July 1, 2008 to December 31, 2011 | Phase 2.
(2) below 225 cc | January 1, 2012 or later | Phase 3.
(3) at or above 225 cc | July 1, 2008 to December 31, 2010 | Phase 2.
(4) at or above 225 cc | January 1, 2011 or later | Phase 3.

(b) Stationary SI internal combustion engine manufacturers must certify their stationary SI ICE with a maximum engine power greater than 19 KW (25 HP) (except emergency stationary ICE with a maximum engine power greater than 25 HP and less than 130 HP) that use gasoline and that are manufactured on or after the applicable date in § 60.4230(a)(2), or manufactured on or after the applicable date in § 60.4230(a)(4) for emergency stationary ICE with a maximum engine power greater than or equal to 130 HP, to the certification emission standards and other requirements for new nonroad SI engines in 40 CFR part 1048. Stationary SI internal combustion engine manufacturers must certify their emergency stationary SI ICE with a maximum engine power greater than 25 HP and less than 130 HP that use gasoline and that are manufactured on or after the applicable date in § 60.4230(a)(4) to the Phase 1 emission standards in 40 CFR part 1054, Appendix I, applicable to class II engines, and other requirements for new nonroad SI engines in 40 CFR part 1054. Stationary SI internal combustion engine manufacturers may certify their stationary SI ICE with a maximum engine power less than or equal to 30 KW (40 HP) with a total displacement less than or equal to 1,000 cubic centimeters (cc) that use gasoline to the certification emission standards and other requirements as appropriate for new nonroad SI engines in 40 CFR part 1054.

(c) Stationary SI internal combustion engine manufacturers must certify their stationary SI ICE with a maximum engine power greater than 19 KW (25 HP) (except emergency stationary ICE with a maximum engine power greater than 25 HP and less than 130 HP) that are rich burn engines that use LPG and that are manufactured on or after the applicable date in § 60.4230(a)(2), or manufactured on or after the applicable date in § 60.4230(a)(4) for emergency stationary ICE with a maximum engine power greater than or equal to 130 HP, to the certification emission standards and other requirements for new nonroad SI engines in 40 CFR part 1048. Stationary SI internal combustion engine manufacturers must certify their emergency stationary SI ICE greater than 25 HP and less than 130 HP that are rich burn engines that use LPG and that are manufactured on or after the applicable date in § 60.4230(a)(4) to the Phase 1 emission standards in 40 CFR part 1054, appendix I, applicable to class II engines, and other requirements for new nonroad SI engines in 40 CFR part 1054. Stationary SI internal combustion engine manufacturers may certify their stationary SI ICE with a maximum engine power less than or equal to 30 KW (40 HP) with a total displacement less than or equal to 1,000 cc that are rich burn engines that use LPG to the certification emission standards and other requirements as appropriate for new nonroad SI engines in 40 CFR part 1054.

(d) Stationary SI internal combustion engine manufacturers who choose to certify their stationary SI ICE with a maximum engine power greater than 19 KW (25 HP) and less than 75 KW (100 HP) (except gasoline and rich burn engines that use LPG and emergency stationary ICE with a maximum engine power greater than 25 HP and less than 130 HP) under the voluntary manufacturer certification program described in this subpart must certify those engines to the certification emission standards for new nonroad SI engines in 40 CFR part 1048. Stationary SI internal combustion engine manufacturers who choose to certify their emergency stationary SI ICE greater than 25 HP and less than 130 HP (except gasoline and rich burn engines that use LPG), must certify those engines to the Phase 1 emission standards in 40 CFR part 1054, Appendix I, applicable to class II engines, for new nonroad SI engines in 40 CFR part 1054. Stationary SI internal combustion engine manufacturers may certify their stationary SI ICE with a maximum engine power less than or equal to 30 KW (40 HP) with a total displacement less than or equal to 1,000 cc (except gasoline and rich burn engines that use LPG) to the certification emission standards and other requirements as appropriate for new nonroad SI engines in 40 CFR part 1054. For stationary SI ICE with a maximum engine power greater than 19 KW (25 HP) and less than 75 KW (100 HP) (except gasoline and rich burn engines that use LPG and emergency stationary ICE with a maximum engine power greater than 25 HP and less than 130 HP) manufactured prior to January 1, 2011, manufacturers may choose to certify these engines to the standards in Table 1 to this subpart applicable to engines with a maximum engine power greater than or equal to 100 HP and less than 500 HP.

* * * * *

24. Revise § 60.4238 to read as follows:

§ 60.4238 What are my compliance requirements if I am a manufacturer of stationary SI internal combustion engines ≤19 KW (25 HP) or a manufacturer of equipment containing such engines?

Stationary SI internal combustion engine manufacturers who are subject to the emission standards specified in § 60.4231(a) must certify their stationary SI ICE using the certification and testing procedures required in 40 CFR part 1054, subparts C and F. Manufacturers of equipment containing stationary SI internal combustion engines meeting the provisions of 40 CFR part 1054 must meet the provisions of 40 CFR part 1060, subpart C, to the extent they apply to equipment manufacturers.

25. Revise § 60.4239 to read as follows:

§ 60.4239 What are my compliance requirements if I am a manufacturer of stationary SI internal combustion engines >19 KW (25 HP) that use gasoline or a manufacturer of equipment containing such engines?

Stationary SI internal combustion engine manufacturers who are subject to the emission standards specified in § 60.4231(b) must certify their stationary SI ICE using the certification procedures required in 40 CFR part 1048, subpart C, and must test their engines as specified in that part. Stationary SI internal combustion engine manufacturers who certify their stationary SI ICE with a maximum engine power less than or equal to 30 KW (40 HP) with a total displacement less than or equal to 1,000 cc to the certification emission standards and other requirements for new nonroad SI engines in 40 CFR part 1054, and manufacturers of stationary SI emergency engines that are greater than 25 HP and less than 130 HP who meet the Phase 1 emission standards in 40 CFR part 1054, appendix I, applicable to class II engines, must certify their stationary SI ICE using the certification and testing procedures required in 40 CFR part 1054, subparts C and F. Manufacturers of equipment containing stationary SI internal combustion engines meeting the provisions of 40 CFR part 1054 must meet the provisions of 40 CFR part 1060, subpart C, to the extent they apply to equipment manufacturers.

26. Revise § 60.4240 to read as follows:

§ 60.4240 What are my compliance requirements if I am a manufacturer of stationary SI internal combustion engines >19 KW (25 HP) that are rich burn engines that use LPG or a manufacturer of equipment containing such engines?

Stationary SI internal combustion engine manufacturers who are subject to the emission standards specified in § 60.4231(c) must certify their stationary SI ICE using the certification procedures required in 40 CFR part 1048, subpart C, and must test their engines as specified in that part. Stationary SI internal combustion engine manufacturers who certify their stationary SI ICE with a maximum engine power less than or equal to 30 KW (40 HP) with a total displacement less than or equal to 1,000 cc to the certification emission standards and other requirements for new nonroad SI engines in 40 CFR part 1054, and manufacturers of stationary SI emergency engines that are greater than 25 HP and less than 130 HP who meet the Phase 1 emission standards in 40 CFR part 1054, appendix I, applicable to class II engines, must certify their stationary SI ICE using the certification and testing procedures required in 40 CFR part 1054, subparts C and F. Manufacturers of equipment containing stationary SI internal combustion engines meeting the provisions of 40 CFR part 1054 must meet the provisions of 40 CFR part 1060, subpart C, to the extent they apply to equipment manufacturers.

27. Amend § 60.4241 by revising paragraphs (a) and (b) to read as follows:

§ 60.4241 What are my compliance requirements if I am a manufacturer of stationary SI internal combustion engines participating in the voluntary certification program or a manufacturer of equipment containing such engines?

(a) Manufacturers of stationary SI internal combustion engines with a maximum engine power greater than 19 KW (25 HP) that do not use gasoline and are not rich burn engines that use LPG can choose to certify their engines to the emission standards in § 60.4231(d) or (e), as applicable, under the voluntary certification program described in this subpart. Manufacturers who certify their engines under the voluntary certification program must meet the requirements as specified in paragraphs (b) through (g) of this section. In addition, manufacturers of stationary SI internal combustion engines who choose to certify their engines under the voluntary certification program, must also meet the requirements as specified in § 60.4247. Manufacturers of stationary SI internal combustion engines who choose not to certify their engines under this section must notify the ultimate purchaser that testing requirements apply as described in § 60.4243(b)(2); manufacturers must keep a copy of this notification for five years after shipping each engine and make those documents available to EPA upon request.

(b) Manufacturers of engines other than those certified to standards in 40 CFR part 1054 must certify their stationary SI ICE using the certification procedures required in 40 CFR part 1048, subpart C, and must follow the same test procedures that apply to large SI nonroad engines under 40 CFR part 1048, but must use the D-1 cycle of International Organization of Standardization 8178-4: 1996(E) (incorporated by reference, see 40 CFR 60.17) or the test cycle requirements specified in Table 3 to 40 CFR 1048.505, except that Table 3 of 40 CFR 1048.505 applies to high load engines only. Manufacturers may certify their stationary emergency engines at or above 130 hp using assigned deterioration factors established by EPA. Stationary SI internal combustion engine manufacturers who certify their stationary SI ICE with a maximum engine power less than or equal to 30 KW (40 HP) with a total displacement less than or equal to 1,000 cc to the certification emission standards and other requirements for new nonroad SI engines in 40 CFR part 1054, and manufacturers of emergency engines that are greater than 25 HP and less than 130 HP who meet the Phase 1 standards in 40 CFR part 1054, appendix I, applicable to class II engines, must certify their stationary SI ICE using the certification and testing procedures required in 40 CFR part 1054, subparts C and F. Manufacturers of equipment containing stationary SI internal combustion engines meeting the provisions of 40 CFR part 1054 must meet the provisions of 40 CFR part 1060, subpart C, to the extent they apply to equipment manufacturers.

* * * * *

28. Revise § 60.4242 to read as follows:

§ 60.4242 What other requirements must I meet if I am a manufacturer of stationary SI internal combustion engines or equipment containing stationary SI internal combustion engines or a manufacturer of equipment containing such engines?

(a) Stationary SI internal combustion engine manufacturers must meet the provisions of 40 CFR parts 1048, 1054, and 1068, as applicable, except that engines certified pursuant to the voluntary certification procedures in § 60.4241 are subject only to the provisions indicated in § 60.4247 and are permitted to provide instructions to owners and operators allowing for deviations from certified configurations, if such deviations are consistent with the provisions of paragraphs § 60.4241(c) through (f). Manufacturers of equipment containing stationary SI internal combustion engines meeting the provisions of 40 CFR part 1054 must meet the provisions of 40 CFR part 1060, as applicable. Labels on engines certified to 40 CFR part 1048 must refer to stationary engines, rather than or in addition to nonroad engines, as appropriate.

(b) An engine manufacturer certifying an engine family or families to standards under this subpart that are identical to standards identified in 40 CFR part 1048 or 1054 for that model year may certify any such family that contains both nonroad and stationary engines as a single engine family and/or may include any such family containing stationary engines in the averaging, banking and trading provisions applicable for such engines under those parts. This provision also applies to equipment or component manufacturers certifying to standards under 40 CFR part 1060.

(c) Manufacturers of engine families certified to 40 CFR part 1048 may meet the labeling requirements referred to in paragraph (a) of this section for stationary SI ICE by either adding a separate label containing the information required in paragraph (a) of this section or by adding the words “and stationary” after the word “nonroad” to the label.

(d) For all engines manufactured on or after January 1, 2011, and for all engines with a maximum engine power greater than 25 HP and less than 130 HP manufactured on or after July 1, 2008, a stationary SI engine manufacturer that certifies an engine family solely to the standards applicable to emergency engines must add a permanent label stating that the engines in that family are for emergency use only. The label must be added according to the labeling requirements specified in 40 CFR 1048.135(b).

(e) All stationary SI engines subject to mandatory certification that do not meet the requirements of this subpart must be labeled and exported according to 40 CFR 1068.230. Manufacturers of stationary engines with a maximum engine power greater than 25 HP that are not certified to standards and other requirements under 40 CFR part 1048 are subject to the labeling provisions of 40 CFR 1048.20 pertaining to excluded stationary engines.

(f) For manufacturers of gaseous-fueled stationary engines required to meet the warranty provisions in 1054.120, we may establish an hour-based warranty period equal to at least the certified emissions life of the engines (in engine operating hours) if we determine that these engines are likely to operate for a number of hours greater than the applicable useful life within 24 months. We will not approve an alternate warranty under this paragraph (f) for nonroad engines. An alternate warranty period approved under this paragraph (f) will be the specified number of engine operating hours or two years, whichever comes first. The engine manufacturer shall request this alternate warranty period in its application for certification or in an earlier submission. We may approve an alternate warranty period for an engine family subject to the following conditions:

(1) The engines must be equipped with non-resettable hour meters.

(2) The engines must be designed to operate for a number of hours substantially greater than the applicable certified emissions life.

(3) The emission-related warranty for the engines may not be shorter than any published warranty offered by the manufacturer without charge for the engines. Similarly, the emission-related warranty for any component shall not be shorter than any published warranty offered by the manufacturer without charge for that component.

29. Amend § 60.4243 by revising paragraph (f) to read as follows:

§ 60.4243 What are my compliance requirements if I am an owner or operator of a stationary SI internal combustion engine?

* * * * *

(f) If you are an owner or operator of a stationary SI internal combustion engine that is less than or equal to 500 HP and you purchase a non-certified engine or you do not operate and maintain your certified stationary SI internal combustion engine and control device according to the manufacturer's written emission-related instructions, you are required to perform initial performance testing as indicated in this section, but you are not required to conduct subsequent performance testing unless the stationary engine is rebuilt or undergoes major repair or maintenance. A rebuilt stationary SI ICE means an engine that has been rebuilt as that term is defined in 40 CFR 1068.120(b).

* * * * *

30. Amend § 60.4245 by revising paragraph (a)(3) to read as follows:

§ 60.4245 What are my notification, reporting, and recordkeeping requirements if I am an owner or operator of a stationary SI internal combustion engine?

* * * * *

(a) * * *

(3) If the stationary SI internal combustion engine is a certified engine, documentation from the manufacturer that the engine is certified to meet the emission standards and information as required in 40 CFR parts 1048, 1054, and 1060, as applicable.

* * * * *

31. Amend § 60.4247 by revising paragraph (a) to read as follows:

§ 60.4247 What parts of the mobile source provisions apply to me if I am a manufacturer of stationary SI internal combustion engines or a manufacturer of equipment containing such engines?

(a) Manufacturers certifying to emission standards in 40 CFR part 1054 must meet the provisions of 40 CFR part 1054. Note that 40 CFR part 1054, Appendix I, describes various provisions that do not apply for engines meeting Phase 1 standards. Manufacturers of equipment containing stationary SI internal combustion engines meeting the provisions of 40 CFR part 1054 must meet the provisions of 40 CFR part 1060 to the extent they apply to equipment manufacturers.

* * * * *

32. Amend § 60.4248 by revising the definition for “Certified emissions life” and “Certified stationary internal combustion engine” to read as follows:

§ 60.4248 What definitions apply to this subpart?

* * * * *

Certified emissions life means the period during which the engine is designed to properly function in terms of reliability and fuel consumption, without being remanufactured, specified as a number of hours of operation or calendar years, whichever comes first. The values for certified emissions life for stationary SI ICE with a maximum engine power less than or equal to 19 KW (25 HP) are given in 40 CFR 1054.107 and 40 CFR 1060.101, as appropriate. The values for certified emissions life for stationary SI ICE with a maximum engine power greater than 19 KW (25 HP) certified to 40 CFR part 1048 are given in 40 CFR 1048.101(g). The certified emissions life for stationary SI ICE with a maximum engine power greater than 75 KW (100 HP) certified under the voluntary manufacturer certification program of this subpart is 5,000 hours or 7 years, whichever comes first. You may request in your application for certification that we approve a shorter certified emissions life for an engine family. We may approve a shorter certified emissions life, in hours of engine operation but not in years, if we determine that these engines will rarely operate longer than the shorter certified emissions life. If engines identical to those in the engine family have already been produced and are in use, your demonstration must include documentation from such in-use engines. In other cases, your demonstration must include an engineering analysis of information equivalent to such in-use data, such as data from research engines or similar engine models that are already in production. Your demonstration must also include any overhaul interval that you recommend, any mechanical warranty that you offer for the engine or its components, and any relevant customer design specifications. Your demonstration may include any other relevant information. The certified emissions life value may not be shorter than any of the following:

(1) 1,000 hours of operation.

(2) Your recommended overhaul interval.

(3) Your mechanical warranty for the engine.

Certified stationary internal combustion engine means an engine that belongs to an engine family that has a certificate of conformity that complies with the emission standards and requirements in this part, or of 40 CFR part 1048 or 40 CFR part 1054, as appropriate.

* * * * *

PART 85—CONTROL OF AIR POLLUTION FROM MOBILE SOURCES

33. The authority citation for part 85 continues to read as follows:

Authority: 42 U.S.C. 7401-7671q.

Subpart O—[Removed and Reserved]

34. Remove and reserve Subpart O, consisting of §§ 85.1401 through 85.1415

35. Amend § 85.1501 by revising paragraph (a) to read as follows:

§ 85.1501 Applicability.

(a) Except where otherwise indicated, this subpart is applicable to motor vehicles offered for importation or imported into the United States for which the Administrator has promulgated regulations under 40 CFR part 86, subpart S, prescribing emission standards, but which are not covered by certificates of conformity issued under section 206(a) of the Clean Air Act (i.e., which are nonconforming vehicles as defined below), as amended, and part 86 at the time of conditional importation. Compliance with regulations under this subpart shall not relieve any person or entity from compliance with other applicable provisions of the Clean Air Act. This subpart no longer applies for heavy-duty engines certified under 40 CFR part 86, subpart A; references in this subpart to “engines” therefore do not apply.

* * * * *

36. Amend § 85.1511 by adding introductory text and paragraph (b)(5) to read as follows:

§ 85.1511 Exemptions and exclusions.

The exemption provisions of 40 CFR part 1068, subpart D, apply instead of the provisions of this section for heavy-duty motor vehicles and heavy-duty motor vehicle engines regulated under 40 CFR part 86, subpart A, 40 CFR part 1036, and 40 CFR part 1037. The following provisions apply for other motor vehicles and motor vehicle engines:

* * * * *

(b) * * *

(5) Export exemption. Vehicles may qualify for a temporary exemption under the provisions of 40 CFR 1068.325(d).

* * * * *

37. Revise § 85.1514 to read as follows:

§ 85.1514 Treatment of confidential information.

The provisions of 40 CFR 1068.10 apply for information you consider confidential.

38. Amend § 85.1701 by revising paragraph (a)(1) to read as follows:

§ 85.1701 General applicability.

(a) * * *

(1) Beginning January 1, 2014, the exemption provisions of 40 CFR part 1068, subpart C, apply instead of the provisions of this subpart for heavy-duty motor vehicle engines regulated under 40 CFR part 86, subpart A, except that the nonroad competition exemption of 40 CFR 1068.235 and the nonroad hardship exemption provisions of 40 CFR 1068.245, 1068.250, and 1068.255 do not apply for motor vehicle engines. Note that the provisions for emergency vehicle field modifications in § 85.1716 continue to apply for heavy-duty engines.

* * * * *

39. Revise § 85.1712 to read as follows:

§ 85.1712 Treatment of confidential information.

The provisions of 40 CFR 1068.10 apply for information you consider confidential.

40. Revise § 85.1801 to read as follows:

§ 85.1801 Applicability and definitions.

(a) The recall provisions of 40 CFR part 1068, subpart E, apply instead of the provisions of this subpart for heavy-duty motor vehicles and heavy-duty motor vehicle engines regulated under 40 CFR part 86, subpart A, 40 CFR part 1036, and 40 CFR part 1037. The provisions of this subpart S apply for other motor vehicles and motor vehicle engines.

(b) For the purposes of this subpart, except as otherwise provided, words shall be defined as provided for by sections 214 and 302 of the Clean Air Act, 42 U.S.C. 1857, as amended.

(1) Act shall mean the Clean Air Act, 42 U.S.C. 1857, as amended.

(2) Days shall mean calendar days.

41. Revise § 85.1807 to read as follows:

§ 85.1807 Public hearings.

Manufacturers may request a hearing as described in 40 CFR part 1068, subpart G.

42. Revise § 85.1808 to read as follows:

§ 85.1808 Treatment of confidential information.

The provisions of 40 CFR 1068.10 apply for information you consider confidential.

43. Amend § 85.1902 by revising paragraph (b)(2) to read as follows:

§ 85.1902 Definitions.

* * * * *

(b) * * *

(2) A defect in the design, materials, or workmanship in one or more emission-related parts, components, systems, software or elements of design which must function properly to ensure continued compliance with greenhouse gas emission standards.

* * * * *

44. Amend § 85.2102 revising paragraph (a)(18) and by adding and reserving paragraph (b) to read as follows:

§ 85.2102 Definitions.

(a) * * *

(18) MOD Director has the meaning given for “Designated Compliance Officer” in 40 CFR 1068.30.

(b) [Reserved].

45. Amend § 85.2115 by revising paragraph (a)(4) to read as follows:

§ 85.2115 Notification of intent to certify.

(a) * * *

(4) Two complete and identical copies of the notification and any subsequent industry comments on any such notification shall be submitted by the aftermarket manufacturer to: MOD Director.

* * * * *

46. Revise § 85.2301 to read as follows:

§ 85.2301 Applicability.

The definitions provided by this subpart are effective February 23, 1995 and apply to all motor vehicles regulated under 40 CFR part 86, subpart S, and to highway motorcycles regulated under 40 CFR part 86, subparts E and F. The definitions and related provisions in 40 CFR part 1036, 40 CFR part 1037, and 40 CFR part 1068 apply instead of the provisions in this subpart for heavy-duty motor vehicles and heavy-duty motor vehicle engines regulated under 40 CFR part 86, subpart A, 40 CFR part 1036, and 40 CFR part 1037.

PART 86—CONTROL OF EMISSIONS FROM NEW AND IN-USE HIGHWAY VEHICLES AND ENGINES

47. The authority statement for part 86 continues to read as follows:

Authority: 42 U.S.C. 7401-7671q.

48. Section 86.1 is amended by:

a. Revising the last sentence of paragraph (a);

b. Redesignating paragraphs (b)(19) through (21) as paragraphs (b)(21) through (23); and

c. Adding new paragraphs (b)(19) and (20).

The revision and additions read as follows:

(a) * * *. For information on the availability of this material at NARA, email fedreg.legal@nara.gov, or go to www.archives.gov/federal-register/cfr/ibr-locations.html.

* * * * *

(b) * * *

(19) ASTM D5769-15, Standard Test Method for Determination of Benzene, Toluene, and Total Aromatics in Finished Gasolines by Gas Chromatography/Mass Spectrometry, approved December 1, 2015 (“ASTM5769”), IBR approved for §§ 86.113-04(a), 86.213(a), and 86.513(a).

(20) ASTM D6550-15, Standard Test Method for Determination of Olefin Content of Gasolines by Supercritical-Fluid Chromatography, approved December 1, 2015 (“ASTM D6550”), IBR approved for §§ 86.113-04(a), 86.213(a), and 86.513(a).

* * * * *

49. Section 86.004-15 is amended by revising paragraph (a)(1) to read as follows:

§ 86.004-15 NOX plus NMHC and particulate averaging, trading, and banking for heavy-duty engines.

(a)(1) Heavy-duty engines eligible for NOX plus NMHC and particulate averaging, trading and banking programs are described in the applicable emission standards sections in this subpart. For manufacturers not selecting Options 1 or 2 contained in § 86.005-10(f), the ABT program requirements contained in § 86.000-15 apply for 2004 model year Otto-cycle engines, rather than the provisions contained in this § 86.004-15. Participation in these programs is voluntary.

* * * * *

50. Section 86.010-18 is amended by—

a. Revising paragraphs (a)(5), (g)(2)(ii)(B), and (g)(2)(iii)(C).

b. Adding paragraph (g)(2)(iii)(D).

c. Removing and reserving paragraph (l)(2)(ii).

d. Revising paragraph (l)(2)(iii) and (m)(3).

e. Adding paragraph (m)(4).

f. Revising paragraphs (p)(3) and (p)(4).

The revisions and additions read as follows:

§ 86.010-18 On-board Diagnostics for engines used in applications greater than 14,000 pounds GVWR.

(a) * * *

(5) Engines families that we determine conform to the requirements of this paragraph (a)(5) are deemed to comply with the requirements of this section, irrespective of complete conformance with the provisions of paragraphs (b) through (l) of this section.

(i) A manufacturer may demonstrate how the OBD system they have designed to comply with California OBD requirements for engines used in applications greater than 14,000 pounds also complies with the intent of the provisions of paragraphs (b) through (l) of this section. To make use of this alternative, the manufacturer must demonstrate to the Administrator how the OBD system they intend to certify meets the intent behind all of the requirements of this section, where applicable (e.g., paragraph (h) of this section would not apply for a diesel fueled/CI engine). Furthermore, if making use of this alternative, the manufacturer must comply with the specific certification documentation requirements of paragraph (m)(3) of this section.

(ii) A manufacturer may demonstrate how the OBD system of a new engine family is sufficiently equivalent to the OBD system of a previously certified engine family (including engine families previously certified under paragraph (a)(5)(i)) of this section to demonstrate that the new engine family complies with the intent of the provisions of paragraphs (b) through (l) of this section. To make use of this alternative, manufacturers must demonstrate to the Administrator how the OBD systems they intend to certify meet the intent behind all the requirements of this section, where applicable. For example, paragraph (h) of this section would not apply for a diesel-fueled engine. Furthermore, if making use of this alternative, the manufacturer must comply with the specific certification documentation requirements of paragraph (m)(4) of this section.

* * * * *

(g)* * *

(2) * * *

(ii) * * *

(B) For model years 2013 and later, on engines equipped with sensors that can detect combustion or combustion quality (e.g., for use in engines with homogeneous charge compression ignition (HCCI) control systems), the OBD system must detect a misfire malfunction when the percentage of misfire is 5 percent or greater.

(iii) * * *

(C) For model years 2013 through 2018, on engines equipped with sensors that can detect combustion or combustion quality, the OBD system must monitor continuously for engine misfire when positive torque is between 20 and 75 percent of peak torque, and engine speed is less than 75 percent of maximum engine speed. If a monitoring system cannot detect all misfire patterns under all required engine speed and load conditions, the manufacturer may request that the Administrator approve the monitoring system nonetheless. In evaluating the manufacturer's request, the Administrator will consider the following factors: The magnitude of the region(s) in which misfire detection is limited; the degree to which misfire detection is limited in the region(s) (i.e., the probability of detection of misfire events); the frequency with which said region(s) are expected to be encountered in-use; the type of misfire patterns for which misfire detection is troublesome; and demonstration that the monitoring technology employed is not inherently incapable of detecting misfire under required conditions (i.e., compliance can be achieved on other engines). The evaluation will be based on the following misfire patterns: Equally spaced misfire occurring on randomly selected cylinders; single cylinder continuous misfire; and, paired cylinder (cylinders firing at the same crank angle) continuous misfire.

(D) For 20 percent of 2019 model year, 50 percent of 2020 model, and 100 percent of 2021 model year diesel engines (percentage based on the manufacturer's projected sales volume of all diesel engines subject to this regulation) equipped with sensors that can detect combustion or combustion quality, the OBD system must monitor continuously for engine misfire under all positive torque engine speed conditions except within the following range: The engine operating region bound by the positive torque line (i.e., engine torque with transmission in neutral) and the two following points: Engine speed of 50 percent of maximum engine speed with the engine torque at the positive torque line, and 100 percent of the maximum engine speed with the engine torque at 10 percent of peak torque above the positive torque line. If a monitoring system cannot detect all misfire patterns under all required engine speed and load conditions, the manufacturer may request that the Administrator approve the monitoring system nonetheless. In evaluating the manufacturer's request, the Administrator will consider the following factors: The magnitude of the region(s) in which misfire detection is limited; the degree to which misfire detection is limited in the region(s) (i.e., the probability of detection of misfire events); the frequency with which said region(s) are expected to be encountered in-use; the type of misfire patterns for which misfire detection is troublesome; and demonstration that the monitoring technology employed is not inherently incapable of detecting misfire under required conditions (i.e., compliance can be achieved on other engines). The evaluation will be based on the following misfire patterns: Equally spaced misfire occurring on randomly selected cylinders; single cylinder continuous misfire; and, paired cylinder (cylinders firing at the same crank angle) continuous misfire.

* * * * *

(l) * * *

(2) * * *

(iii) For model years 2013 and later. (A) A manufacturer certifying one to five engine families in a given model year must provide emissions test data for a single test engine from one engine rating. A manufacturer certifying six to ten engine families in a given model year must provide emissions test data for a single test engine from two different engine ratings. A manufacturer certifying eleven or more engine families in a given model year must provide emissions test data for a single test engine from three different engine ratings. A manufacturer may forego submittal of test data for one or more of these test engines if data have been submitted previously for all of the engine ratings and/or if all requirements for certification carry-over from one model year to the next are satisfied, and/or if differences from previously submitted engines are not relevant to emissions or diagnostic demonstration (such as changes to supported data stream parameters or changes to monitors not associated with demonstrating or enabling demonstrated emission threshold diagnostics). For purposes of this paragraph (l)(2)(iii), you may ask to exclude special families (such as California variants) from your count of engine families.

* * * * *

(m) * * *

(3) In addition to the documentation required by paragraphs (m)(1) and (2) of this section, a manufacturer making use of paragraph (a)(5)(i) of this section must submit the following information with their application for certification:

(i) A detailed description of how the OBD system meets the intent of this section.

(ii) A detailed description of why the manufacturer has chosen not to design the OBD system to meet the requirements of this section and has instead designed the OBD system to meet the applicable California OBD requirements.

(iii) A detailed description of any deficiencies granted by the California staff and any concerns raised by California staff. A copy of a California Executive Order alone will not be considered acceptable toward meeting this requirement. This description shall also include, to the extent feasible, a plan with timelines for resolving deficiencies and/or concerns.

(4) In addition to the documentation required by paragraphs (m)(1) and (2) of this section, a manufacturer making use of paragraph (a)(5)(ii) of this section must submit the following information with their application for certification:

(i) A detailed description of how the OBD system meets the intent of this section.

(ii) A detailed description of changes made from the previously certified OBD system.

* * * * *

(p) * * *

(3) For model years 2016 through 2018. (i) On the engine ratings tested according to paragraph (l)(2)(iii) of this section, the certification emissions thresholds shall apply in-use.

(ii) On the manufacturer's remaining engine ratings, separate in-use emissions thresholds shall apply. These thresholds are determined by doubling the applicable thresholds as shown in Table 1 of paragraph (g) of this section and Table 2 of paragraph (h) of this section. The resultant thresholds apply only in-use and do not apply for certification or selective enforcement auditing.

(iii) For monitors subject to meeting the minimum in-use monitor performance ratio of 0.100 in paragraph (d)(1)(ii) of this section, the OBD system shall not be considered noncompliant unless a representative sample indicates the in-use ratio is below 0.088 except for filtering performance monitors for PM filters (paragraph (g)(8)(ii)(A) of this section) and missing substrate monitors (paragraph (g)(8)(ii)(D) of this section) for which the OBD system shall not be considered noncompliant unless a representative sample indicates the in-use ratio is below 0.050.

(iv) An OBD system shall not be considered noncompliant solely due to a failure or deterioration mode of a monitored component or system that could not have been reasonably foreseen to occur by the manufacturer.

(4) For model years 2019 and later. (i) On all engine ratings, the certification emissions thresholds shall apply in-use.

(ii) For monitors subject to meeting the minimum in-use monitor performance ratio of 0.100 in paragraph (d)(1)(ii) of this section, the OBD system shall not be considered noncompliant unless a representative sample indicates the in-use ratio is below 0.088.

(iii) An OBD system shall not be considered noncompliant solely due to a failure or deterioration mode of a monitored component or system that the manufacturer could not have reasonably foreseen.

* * * * *

51. Section 86.113-04 is amended by revising paragraph (a)(1) to read as follows:

§ 86.113-04 Fuel specifications.

* * * * *

(a) * * *

(1) Gasoline meeting the following specifications, or substantially equivalent specifications approved by the Administrator, must be used for exhaust and evaporative testing:

* * * * *

52. Section 86.129-00 is amended by revising paragraph (f)(1)(ii)(C) to read as follows:

§ 86.129-00 Road load power, test weight, and inertia weight class determination.

* * * * *

(f)(1) * * *

(ii) * * *

(C) Regardless of other requirements in this section relating to the testing of HLDTs, for Tier 2 and Tier 3 HLDTs, the test weight basis for FTP and SFTP testing (both US06 and SC03), if applicable, is the vehicle curb weight plus 300 pounds. For MDPVs certified to standards in bin 11 in Tables S04-1 and 2 in § 86.1811-04, the test weight basis must be adjusted loaded vehicle weight (ALVW) as defined in this part.

* * * * *

53. Section 86.130-96 is amended by revising paragraph (a) to read as follows:

§ 86.130-96 Test sequence; general requirements.

* * * * *

(a)(1) Gasoline- and methanol-fueled vehicles. The test sequence shown in Figure 1 of 40 CFR 1066.801 shows the steps encountered as the test vehicle undergoes the procedures subsequently described to determine conformity with the standards set forth. The full three- diurnal sequence depicted in Figure 1 of 40 CFR 1066.801 tests vehicles for all sources of evaporative emissions. The supplemental two-diurnal test sequence is designed to verify that vehicles sufficiently purge their evaporative canisters during the exhaust emission test. Sections 86.132-96, 86.133-96 and 86.138-96 describe the separate specifications of the supplemental two-diurnal test sequence.

(2) Gaseous-fueled vehicles. The test sequence shown in figure Figure 1 of 40 CFR 1066.801 shows the steps encountered as the test vehicle undergoes the procedures subsequently described to determine conformity with the standards set forth, with the exception that the fuel drain and fill and precondition canister steps are not required for gaseous-fueled vehicles. In addition, the supplemental two-diurnal test and the running loss test are not required.

* * * * *

54. Section 86.213 is amended by revising paragraph (a)(2) to read as follows:

§ 86.213 Fuel specifications.

(a) * * *

(2) You may use the test fuel specified in this paragraph (a)(2) for vehicles that are not yet subject to exhaust testing with an ethanol-blend test fuel under § 86.113. Manufacturers may certify based on this fuel using carryover data until testing with the ethanol-blend test fuel is required. The following specifications apply for gasoline test fuel without ethanol:

* * * * *

§ 86.401-97 [Removed]

55. Remove § 86.401-97.

56. Amend § 86.408-78 by adding paragraphs (c) and (d) to read as follows:

§ 86.408-78 General standards; increase in emissions; unsafe conditions.

* * * * *

(c) If a new motorcycle is designed to require manual adjustment to compensate for changing altitude, the manufacturer must include the appropriate instructions in the application for certification. EPA will review the instructions to ensure that properly adjusted motorcycles will meet emission standards at both low altitude and high altitude.

(d) An action to install parts, modify engines, or perform other adjustments to compensate for changing altitude is not prohibited under 42 U.S.C. 7522 as long as it is done consistent with the manufacturer's instructions.

§ 86.413-78 [Removed]

57. Remove § 86.413-78.

58. Amend § 86.419-2006 by revising paragraph (b) introductory text to read as follows:

§ 86.419-2006 Engine displacement, motorcycle classes.

* * * * *

(b) Motorcycles will be divided into classes and subclasses based on engine displacement.

* * * * *

59. Amend § 86.427-78 by revising paragraph (a)(1) to read as follows:

§ 86.427-78 Emission tests.

(a)(1) Each test vehicle shall be driven with all emission control systems installed and operating for the following total test distances, or for such lesser distances as the Administrator may agree to as meeting the objectives of this procedure. (See § 86.419 for class explanation.)

Displacement class | Total test distance (kilometers) | Minimum test distance (kilometers) | Minimum number of tests
I-A | 6,000 | 2,500 | 4
I-B | 6,000 | 2,500 | 4
II | 9,000 | 2,500 | 4
III | 15,000 | 3,500 | 4

* * * * *

60. Amend § 86.435-78 by revising paragraph (b)(1) to read as follows:

§ 86.435-78 Extrapolated emission values.

* * * * *

(b) * * *

(1) If the useful life emissions are at or below the standards, certification will be granted.

* * * * *

61. Amend § 86.436-78 by revising paragraph (d) to read as follows:

§ 86.436-78 Additional service accumulation.

* * * * *

(d) To qualify for certification:

(1) The full life emission test results must be at or below the standards, and

(2) The deterioration line must be below the standard at the minimum test distance and the useful life, or all points used to generate the line, must be at or below the standard.

* * * * *

62. Amend § 86.513 by revising paragraphs (a)(1) and (a)(3) to read as follows:

§ 86.513 Fuel and engine lubricant specifications.

(a) Gasoline. (1) Use gasoline meeting the following specifications for exhaust and evaporative emission testing:

* * * * *

(3) Manufacturers may alternatively use ethanol-blended gasoline meeting the specifications described in 40 CFR 1065.710(b) for general testing without our advance approval. Manufacturers using the ethanol-blended fuel for certifying a given engine family may also use it for any testing for that engine family under this part. If manufacturers use the ethanol-blended fuel for certifying a given engine family, EPA may use the ethanol-blended fuel or the neat gasoline test fuel specified in this section for that engine family. Manufacturers may also request to use fuels meeting alternate specifications as described in 40 CFR 1065.701(b).

* * * * *

63. Revise § 86.531-78 to read as follows:

§ 86.531-78 Vehicle preparation.

(a) The manufacturer shall provide additional fittings and adapters, as required by the Administrator, to accommodate a fuel drain at the lowest point possible in the tank(s) as installed on the vehicle, and to provide for exhaust sample collection.

(b) Connect the motorcycle's exhaust system to the analyzer for all exhaust emission measurements. Seal the exhaust system as needed to ensure that any remaining leaks do not affect the demonstration that the motorcycle complies with standards. Sealing all known leaks is recommended.

64. Revise § 86.1362 to read as follows:

§ 86.1362 Steady-state testing with a ramped-modal cycle.

(a) This section describes how to test engines under steady-state conditions. Perform ramped-modal testing as described in 40 CFR 1036.505 and 40 CFR part 1065, except as specified in this section.

(b) Measure emissions by testing the engine on a dynamometer with the following ramped-modal duty cycle to determine whether it meets the applicable steady-state emission standards:

RMC mode | Engine testing: Time in mode (seconds) | Engine testing: Engine speed 1 2 | Engine testing: Torque (percent) 2 3 | Powertrain testing: Vehicle speed (mi/hr) ⁴ | Powertrain testing: Road-grade coefficients ⁴: a | Powertrain testing: Road-grade coefficients ⁴: b | Powertrain testing: Road-grade coefficients ⁴: c | CO2 weighting (percent) ⁵
1a Steady-state | 170 | Warm Idle | 0 | Warm Idle | 0 | 0 | 0 | 6
1b Transition | 20 | Linear Transition | Linear Transition | Linear Transition | 5.6E-6 | -4.6E-3 | -9.1E+0 |
2a Steady-state | 173 | A | 100 | 53.38 | -1.6E-6 | 691.3E-6 | 2.1E+0 | 9
2b Transition | 20 | Linear Transition | Linear Transition | Linear Transition | 0 | 0 | 0 |
3a Steady-state | 219 | B | 50 | 65.00 | -12.8E-6 | 10.2E-3 | -1.6E+0 | 10
3b Transition | 20 | B | Linear Transition | 65.00 | 0 | 0 | 0 |
4a Steady-state | 217 | B | 75 | 65.00 | -10.2E-6 | 7.8E-3 | -268.9E-3 | 10
4b Transition | 20 | Linear Transition | Linear Transition | Linear Transition | -8.8E-6 | 6.7E-3 | 2.2E+0 |
5a Steady-state | 103 | A | 50 | 53.38 | -8.0E-6 | 6.2E-3 | -623.0E-3 | 12
5b Transition | 20 | A | Linear Transition | 53.38 | -5.6E-6 | 4.4E-3 | 92.1E-3 |
6a Steady-state | 100 | A | 75 | 53.38 | -5.0E-6 | 3.5E-3 | 712.4E-3 | 12
6b Transition | 20 | A | Linear Transition | 53.38 | -6.9E-6 | 5.4E-3 | -473.1E-3 |
7a Steady-state | 103 | A | 25 | 53.38 | -11.1E-6 | 8.8E-3 | -2.0E+0 | 12
7b Transition | 20 | Linear Transition | Linear Transition | Linear Transition | -8.6E-6 | 6.9E-3 | -3.1E+0 |
8a Steady-state | 194 | B | 100 | 65.00 | -7.4E-6 | 5.5E-3 | 798.2E-3 | 9
8b Transition | 20 | B | Linear Transition | 65.00 | -13.2E-6 | 10.1E-3 | -1.2E+0 |
9a Steady-state | 218 | B | 25 | 65.00 | -16.9E-6 | 13.6E-3 | -3.2E+0 | 9
9b Transition | 20 | Linear Transition | Linear Transition | Linear Transition | -16.7E-6 | 13.6E-3 | -5.2E+0 |
10a Steady-state | 171 | C | 100 | 77.80 | -16.5E-6 | 13.1E-3 | -1.3E+0 | 2
10b Transition | 20 | C | Linear Transition | 77.80 | -18.5E-6 | 15.4E-3 | -2.9E+0 |
11a Steady-state | 102 | C | 25 | 77.80 | -24.7E-6 | 20.2E-3 | -5.0E+0 | 1
11b Transition | 20 | C | Linear Transition | 77.80 | -22.1E-6 | 17.9E-3 | -3.8E+0 |
12a Steady-state | 100 | C | 75 | 77.80 | -19.2E-6 | 15.5E-3 | -2.5E+0 | 1
12b Transition | 20 | C | Linear Transition | 77.80 | -20.4E-6 | 16.5E-3 | -3.1E+0 |
13a Steady-state | 102 | C | 50 | 77.80 | -21.8E-6 | 17.7E-3 | -3.7E+0 | 1
13b Transition | 20 | Linear Transition | Linear Transition | Linear Transition | -11.8E-6 | 7.6E-3 | 17.6E+0 |
14 Steady-state | 168 | Warm Idle | 0 | Warm Idle | 0 | 0 | 0 | 6
¹ Engine speed terms are defined in 40 CFR part 1065.
² Advance from one mode to the next within a 20 second transition phase. During the transition phase, command a linear progression from the settings of the current mode to the settings of the next mode.
³ The percent torque is relative to maximum torque at the commanded engine speed.
⁴ See 40 CFR 1036.505(c) for a description of powertrain testing with the ramped-modal cycle, including the equation that uses the road-grade coefficients.
⁵ Use the specified weighting factors to calculate composite emission results for CO2 as specified in 40 CFR 1036.501.

Subpart P—[Removed and Reserved]

65. Remove and reserve Subpart P.

Subpart Q—[Removed and Reserved]

66. Remove and reserve Subpart Q.

67. Amend § 86.1803-01 by revising the definitions for “Heavy-duty vehicle” and “Light-duty truck” to read as follows:

§ 86.1803-01 Definitions.

* * * * *

Heavy-duty vehicle means any complete or incomplete motor vehicle rated at more than 8,500 pounds GVWR. Heavy-duty vehicle also includes incomplete vehicles that have a curb weight above 6,000 pounds or a basic vehicle frontal area greater than 45 square feet. Note that MDPVs are heavy-duty vehicles that are in many cases subject to requirements that apply for light-duty trucks.

* * * * *

Light-duty truck means any motor vehicle that is not a heavy-duty vehicle, but is:

(1) Designed primarily for purposes of transportation of property or is a derivation of such a vehicle; or

(2) Designed primarily for transportation of persons and has a capacity of more than 12 persons; or

(3) Available with special features enabling off-street or off-highway operation and use.

* * * * *

68. Amend § 86.1810-17 by adding paragraph (j) to read as follows:

§ 86.1810-17 General requirements.

* * * * *

(j) Small-volume manufacturers that modify a vehicle already certified by a different company may recertify that vehicle under this subpart S based on the vehicle supplier's compliance with fleet average standards for criteria exhaust emissions and evaporative emissions, as follows:

(1) The recertifying manufacturer must certify the vehicle at bin levels and family emission limits that are the same as or more stringent than the corresponding bin levels and family emission limits for the vehicle supplier.

(2) The recertifying manufacturer must meet all the standards and requirements described in this subpart S, except for the fleet average standards for criteria exhaust emissions and evaporative emissions.

(3) The vehicle supplier must send the small-volume manufacturer a written statement accepting responsibility to include the subject vehicles in the vehicle supplier's fleet average calculations.

(4) The small-volume manufacturer must describe in the application for certification how the two companies are working together to demonstrate compliance for the subject vehicles. The application must include the statement from the vehicle supplier described in paragraph (j)(3) of this section.

69. Amend § 86.1811-17 by revising paragraph (b)(8)(iii)(C) to read as follows:

§ 86.1811-17 Exhaust emission standards for light-duty vehicles, light-duty trucks and medium-duty passenger vehicles.

* * * * *

(b) * * *

(8) * * *

(iii) * * *

(C) Vehicles must comply with the Tier 2 SFTP emission standards for NMHC + NOX and CO for 4,000-mile testing that are specified in § 86.1811-04(f)(1) if they are certified to transitional Bin 85 or Bin 110 standards, or if they are certified based on a fuel without ethanol, or if they are not certified to the Tier 3 PM standard. Note that these standards apply under this section for alternative fueled vehicles, for flexible fueled vehicles when operated on a fuel other than gasoline or diesel fuel, and for MDPVs, even though these vehicles were not subject to the SFTP standards in the Tier 2 program.

* * * * *

70. Amend § 86.1813-17 by revising the introductory text and paragraph (a)(2)(i) to read as follows:

§ 86.1813-17 Evaporative and refueling emission standards.

Vehicles must meet evaporative and refueling emission standards as specified in this section. These emission standards apply for heavy duty vehicles above 14,000 pounds GVWR as specified in § 86.1801. These emission standards apply for total hydrocarbon equivalent (THCE) measurements using the test procedures specified in subpart B of this part, as appropriate. Note that § 86.1829 allows you to certify without testing in certain circumstances. These evaporative and refueling emission standards do not apply for electric vehicles, fuel cell vehicles, or diesel-fueled vehicles, except as specified in paragraph (b) of this section. Unless otherwise specified, MDPVs are subject to all the same provisions of this section that apply to LDT4.

(a) * * *

(2) * * *

(i) The emission standard for the sum of diurnal and hot soak measurements from the two-diurnal test sequence and the three-diurnal test sequence is based on a fleet average in a given model year. You must specify a family emission limit (FEL) for each evaporative family. The FEL serves as the emission standard for the evaporative family with respect to all required diurnal and hot soak testing. Calculate your fleet-average emission level as described in § 86.1860 based on the FEL that applies for low-altitude testing to show that you meet the specified standard. For multi-fueled vehicles, calculate fleet-average emission levels based only on emission levels for testing with gasoline. You may generate emission credits for banking and trading and you may use banked or traded credits for demonstrating compliance with the diurnal plus hot soak emission standard for vehicles required to meet the Tier 3 standards, other than gaseous-fueled vehicles, as described in § 86.1861 starting in model year 2017. You comply with the emission standard for a given model year if you have enough credits to show that your fleet-average emission level is at or below the applicable standard. You may exchange credits between or among evaporative families within an averaging set as described in § 86.1861. Separate diurnal plus hot soak emission standards apply for each evaporative/refueling emission family as shown for high-altitude conditions. The sum of diurnal and hot soak measurements may not exceed the following Tier 3 standards:

* * * * *

71. Amend § 86.1817-05 by revising paragraph (a)(1) to read as follows:

§ 86.1817-05 Complete heavy-duty vehicle averaging, trading, and banking program.

(a) * * *

(1) Complete heavy-duty vehicles eligible for the NOX averaging, trading and banking program are described in the applicable emission standards section of this subpart. Participation in this averaging, trading, and banking program is voluntary.

* * * * *

72. Amend § 86.1818-12 by revising paragraph (d) to read as follows:

§ 86.1818-12 Greenhouse gas emission standards for light-duty vehicles, light-duty trucks, and medium-duty passenger vehicles.

* * * * *

(d) In-use CO2 exhaust emission standards. The in-use CO2 exhaust emission standard shall be the combined city/highway carbon-related exhaust emission value calculated for the appropriate vehicle carline/subconfiguration according to the provisions of § 600.113-12(g)(4) of this chapter adjusted by the deterioration factor from § 86.1823-08(m). Multiply the result by 1.1 and round to the nearest whole gram per mile. For in-use vehicle carlines/subconfigurations for which a combined city/highway carbon-related exhaust emission value was not determined under § 600.113-12(g)(4) of this chapter, the in-use CO2 exhaust emission standard shall be the combined city/highway carbon-related exhaust emission value calculated according to the provisions of § 600.208 of this chapter for the vehicle model type (except that total model year production data shall be used instead of sales projections) adjusted by the deterioration factor from § 86.1823-08(m). Multiply the result by 1.1 and round to the nearest whole gram per mile. For vehicles that are capable of operating on multiple fuels, except plug-in hybrid electric vehicles, a separate in-use standard shall be determined for each fuel that the vehicle is capable of operating on. These standards apply to in-use testing performed by the manufacturer pursuant to regulations at §§ 86.1845 and 86.1846 and to in-use testing performed by EPA.

* * * * *

73. Amend § 86.1838-01 by revising paragraph (c)(2)(iii) to read as follows:

§ 86.1838-01 Small-volume manufacturer certification procedures.

* * * * *

(c) * * *

(2) * * *

(iii) The provisions of § 86.1845-04(c)(2) that require one vehicle of each test group during high mileage in-use verification testing to have a minimum odometer mileage of 75 percent of the full useful life mileage do not apply.

* * * * *

74. Amend § 86.1868-12 by revising paragraph (g) introductory text and adding paragraph (g)(5) to read as follows:

§ 86.1868-12 CO2 credits for improving the efficiency of air conditioning systems.

* * * * *

(g) AC17 validation testing and reporting requirements. For 2020 and later model years, manufacturers must validate air conditioning credits by using the AC17 Test Procedure as follows:

* * * * *

(5) AC17 testing requirements apply as follows for electric vehicles and plug-in hybrid electric vehicles:

(i) Manufacturers may omit AC17 testing for electric vehicles. Electric vehicles may qualify for air conditioning efficiency credits based on identified technologies, without testing. The application for certification must include a detailed description of the vehicle's air conditioning system and identify any technology items eligible for air conditioning efficiency credits. Include additional supporting information to justify the air conditioning credit for each technology.

(ii) The provisions of paragraph (g)(5)(i) of this section also apply for plug-in hybrid electric vehicles if they have an all electric range of at least 60 miles after adjustment to reflect actual in-use driving conditions (see 40 CFR 600.311(j)), and they do not rely on the engine to cool the vehicle's cabin for the ambient and driving conditions represented by the AC17 test.

(iii) If AC17 testing is required for plug-in hybrid electric vehicles, perform this testing in charge-sustaining mode.

* * * * *

75. Part 88 is revised to read as follows:

PART 88—CLEAN-FUEL VEHICLES

Sec.
88.1 General applicability.
88.2 through 88.3 [Reserved]

Authority: 42 U.S.C. 7410, 7418, 7581, 7582, 7583, 7584, 7586, 7588, 7589, 7601(a).

§ 88.1 General applicability.

(a) The Clean Air Act includes provisions intended to promote the development and sale of clean-fuel vehicles (see 42 U.S.C. 7581-7589). This takes the form of credit incentives for State Implementation Plans. The specified clean-fuel vehicle standards to qualify for these credits are now uniformly less stringent than the emission standards that apply for new vehicles and new engines under 40 CFR part 86 and part 1036.

(b) The following provisions apply for purposes of State Implementation Plans that continue to reference the Clean Fuel Fleet Program:

(1) Vehicles and engines certified to current emission standards under 40 CFR part 86 or part 1036 are deemed to also meet the Clean Fuel Fleet standards as Ultra Low-Emission Vehicles.

(2) Vehicles and engines meeting requirements as specified in paragraph (a)(1) of this section with a fuel system designed to not vent fuel vapors to the atmosphere are also deemed to meet the Clean Fuel Fleet standards as Inherently Low-Emission Vehicles. The applies for vehicles using diesel fuel, liquefied petroleum gas, or compressed natural gas. It does not apply for vehicles using gasoline, ethanol, methanol, or liquefied natural gas.

(3) The following types of vehicles qualify as Zero Emission Vehicles:

(i) Electric vehicles (see 40 CFR 86.1803).

(ii) Any other vehicle with a fuel that contains no carbon or nitrogen compounds, that has no evaporative emissions, and that burns without forming oxides of nitrogen, carbon monoxide, formaldehyde, particulate matter, or hydrocarbon compounds. This applies equally for all engines installed on the vehicle.

§ § 88.2 through 88.3 [Reserved]

76. Part 89 is revised to read as follows:

PART 89—CONTROL OF EMISSIONS FROM NEW AND IN-USE NONROAD COMPRESSION-IGNITION ENGINES

Sec.
89.1 Applicability.
89.2 through 89.3 [Reserved]

Authority: 42 U.S.C. 7401-7671q.

§ 89.1 Applicability.

The Environmental Protection Agency adopted emission standards for model year 1996 and later nonroad compression-ignition engines under this part 89. EPA has migrated regulatory requirements for these engines to 40 CFR part 1039, with additional testing and compliance provisions in 40 CFR part 1065 and part 1068. The Tier 1, Tier 2, and Tier 3 standards originally adopted in this part 89 are identified in 40 CFR part 1039, Appendix I. See 40 CFR 1039.1 for information regarding the timing of the transition to 40 CFR part 1039, and for information regarding regulations that continue to apply for engines that manufacturers originally certified or otherwise produced under this part 89.

§ § 89.2 through 89.3 [Reserved]

77. Part 90 is revised to read as follows:

PART 90—CONTROL OF EMISSIONS FROM NONROAD SPARK-IGNITION ENGINES AT OR BELOW 19 KILOWATTS

Sec.
90.1 Applicability.
90.2 through 90.3 [Reserved]

Authority: 42 U.S.C. 7401-7671q.

§ 90.1 Applicability.

The Environmental Protection Agency adopted emission standards for model year 1997 and later nonroad spark-ignition engines below 19 kW under this part 90. EPA has migrated regulatory requirements for these engines to 40 CFR part 1054, with additional testing and compliance provisions in 40 CFR part 1065 and part 1068. The Phase 1 and Phase 2 standards originally adopted in this part 90 are identified in 40 CFR part 1054, Appendix I. See 40 CFR 1054.1 for information regarding the timing of the transition to 40 CFR part 1054, and for information regarding regulations that continue to apply for engines that manufacturers originally certified or otherwise produced under this part 90.1

§ § 90.2 through 90.3 [Reserved]

78. Part 91 is revised to read as follows:

PART 91—CONTROL OF EMISSIONS FROM MARINE SPARK-IGNITION ENGINES

Sec.
91.1 Applicability.
91.2 through 91.3 [Reserved]

Authority: 42 U.S.C. 7401-7671q.

§ 91.1 Applicability.

The Environmental Protection Agency adopted emission standards for model year 1998 and later marine spark-ignition engines under this part 91, except that the standards of this part did not apply to sterndrive/inboard engines. EPA has migrated regulatory requirements for these engines to 40 CFR part 1045, with additional testing and compliance provisions in 40 CFR part 1065 and part 1068. The standards originally adopted in this part 91 are identified in 40 CFR part 1045, Appendix I. See 40 CFR 1045.1 for information regarding the timing of the transition to 40 CFR part 1045, and for information regarding regulations that continue to apply for engines that manufacturers originally certified or otherwise produced under this part 91.

§ § 91.2 through 91.3 [Reserved]

79. Part 92 is revised to read as follows:

PART 92—CONTROL OF AIR POLLUTION FROM LOCOMOTIVES AND LOCOMOTIVE ENGINES

Sec.
92.1 Applicability.
92.2 through 92.3 [Reserved]

Authority: 42 U.S.C. 7401-7671q.

§ 92.1 Applicability.

The Environmental Protection Agency first adopted emission standards for freshly manufactured and remanufactured locomotives under this part 92 in 1998. EPA has migrated regulatory requirements for these engines to 40 CFR part 1033, with additional testing and compliance provisions in 40 CFR part 1065 and part 1068. The Tier 0, Tier 1, and Tier 2 standards originally adopted in this part 92 are identified in 40 CFR part 1033, Appendix I. See 40 CFR 1033.1 for information regarding the timing of the transition to 40 CFR part 1033, and for information regarding regulations that continue to apply for engines that manufacturers originally certified or otherwise produced or remanufactured under this part 92. Emission standards started to apply for locomotive and locomotive engines if they were—

(a) Manufactured on or after January 1, 2000;

(b) Manufactured on or after January 1, 1973 and remanufactured on or after January 1, 2000; or

(c) Manufactured before January 1, 1973 and upgraded on or after January 1, 2000.

§ § 92.2 through 92.3 [Reserved]

80. Part 94 is revised to read as follows:

PART 94—CONTROL OF EMISSIONS FROM MARINE COMPRESSION-IGNITION ENGINES

Sec.
94.1 Applicability.
94.2 through 94.3 [Reserved]

Authority: 42 U.S.C. 7401-7671q.

§ 94.1 Applicability.

The Environmental Protection Agency adopted emission standards for model year 2004 and later marine compression-ignition engines under this part 94. EPA has migrated regulatory requirements for these engines to 40 CFR part 1042, with additional testing and compliance provisions in 40 CFR part 1065 and part 1068. The Tier 1 and Tier 2 standards originally adopted in this part 94 are identified in 40 CFR part 1042, Appendix I. See 40 CFR 1042.1 for information regarding the timing of the transition to 40 CFR part 1042, and for information regarding regulations that continue to apply for engines that manufacturers originally certified or otherwise produced under this part 94.

§ § 94.2 through 94.3 [Reserved]

PART 1027—FEES FOR VEHICLE AND ENGINE COMPLIANCE PROGRAMS

81. The authority statement for part 1027 continues to read as follows:

Authority: 42 U.S.C. 7401-7671q.

82. The heading for part 1027 is revised to read as set forth above.

83. Amend § 1027.101 by:

a. Revising paragraph (a); and

b. Removing and reserving paragraph (b).

The revision reads as follows:

§ 1027.101 To whom do these requirements apply?

(a) This part prescribes fees manufacturers must pay for activities related to EPA's motor vehicle and engine compliance program (MVECP). This includes activities related to approving certificates of conformity and performing tests and taking other steps to verify compliance with emission standards. You must pay fees as described in this part if you are a manufacturer of any of the following products:

(1) Motor vehicles and motor vehicle engines we regulate under 40 CFR part 86. This includes light-duty vehicles, light-duty trucks, medium-duty passenger vehicles, highway motorcycles, and heavy-duty highway engines and vehicles.

(2) The following nonroad engines and equipment:

(i) Locomotives and locomotive engines we regulate under 40 CFR part 1033.

(ii) Nonroad compression-ignition engines we regulate under 40 CFR part 1039.

(iii) Marine compression-ignition engines we regulate under 40 CFR part 1042 or 1043.

(iv) Marine spark-ignition engines and vessels we regulate under 40 CFR part 1045 or 1060. We refer to these as Marine SI engines.

(v) Nonroad spark-ignition engines above 19 kW we regulate under 40 CFR part 1048. We refer to these as Large SI engines.

(vi) Recreational vehicles we regulate under 40 CFR part 1051.

(vii) Nonroad spark-ignition engines and equipment at or below 19 kW we regulate under 40 CFR part 1054 or 1060. We refer to these as Small SI engines.

(3) The following stationary internal combustion engines:

(i) Stationary compression-ignition engines we certify under 40 CFR part 60, subpart IIII.

(ii) Stationary spark-ignition engines we certify under 40 CFR part 60, subpart JJJJ.

(4) Portable fuel containers we regulate under 40 CFR part 59, subpart F.

* * * * *

84. Revise § 1027.105 to read as follows:

§ 1027.105 How much are the fees?

(a) Fees are determined based on the date we receive a complete application for certification. Each reference to a year in this subpart refers to the calendar year, unless otherwise specified. Paragraph (b) of this section specifies baseline fees that apply for certificates received in 2020. See paragraph (c) of this section for provisions describing how we calculate fees for 2021 and later years.

(b) The following baseline fees apply for each application for certification:

(1) Except as specified in paragraph (b)(2) of this section for Independent Commercial Importers, the following fees apply in 2020 for motor vehicles and motor vehicle engines:

Category ᵃ | Certificate type | Fee
(i) Light-duty vehicles, light-duty trucks, medium-duty passenger vehicle, and complete heavy-duty highway vehicles | Federal | $27,347
(ii) Light-duty vehicles, light-duty trucks, medium-duty passenger vehicle, and complete heavy-duty highway vehicles | California-only | 14,700
(iii) Heavy-duty highway engine | Federal | 56,299
(iv) Heavy-duty highway engine | California-only | 563
(v) Heavy-duty vehicle | Evap | 563
(vi) Highway motorcycle, including Independent Commercial Importers | All | 1,852
ᵃ The specified categories include engines and vehicles that use all applicable fuels.

(2) A fee of $87,860 applies in 2020 for Independent Commercial Importers with respect to the following motor vehicles:

(i) Light-duty vehicles and light-duty trucks.

(ii) Medium-duty passenger vehicles.

(iii) Complete heavy-duty highway vehicles.

(3) The following fees apply in 2020 for nonroad and stationary engines, vehicles, equipment, and components:

Category | Certificate type | Fee
(i) Locomotives and locomotive engines | All | $563
(ii) Marine compression-ignition engines and stationary compression-ignition engines with per-cylinder displacement at or above 10 liters | All, including EIAPP | 563
(iii) Other nonroad compression-ignition engines and stationary compression-ignition engines with per-cylinder displacement below 10 liters | All | 2,940
(iv) Large SI engines and stationary spark-ignition engines above 19 kW | All | 563
(v) Marine SI engines. Small SI engines, and stationary spark-ignition engines at or below 19 kW | Exhaust only | 563
(vi) Recreational vehicles | Exhaust (or combined exhaust and evap) | 563
(vii) Equipment and fuel-system components associated with nonroad and stationary spark-ignition engines, including portable fuel containers | Evap (where separate certification is required) | 397

(c) We will calculate adjusted fees for 2021 and later years based on changes in the Consumer Price Index and the number of certificates. We will announce adjusted fees for a given year by March 31 of the preceding year.

(1) We will adjust the values specified in paragraph (b) of this section for years after 2020 as follows:

(i) Use the following equation for certification related to evaporative emissions from nonroad and stationary engines when a separate fee applies for certification to evaporative emission standards:

Where:

Certificate FeeCY = Fee per certificate for a given year.

Op = operating costs are all of EPA's nonlabor costs for each category's compliance program, including any fixed costs associated with EPA's testing laboratory, as described in paragraph (d)(1) of this section.

L = the labor costs, to be adjusted by the Consumer Price Index, as described in paragraph (d)(1) of this section.

CPICY-2 = the Consumer Price Index for the month of November two years before the applicable calendar year, as described in paragraph (d)(2) of this section.

CPI2006 = 201.8. This is based on the October 2006 value of the Consumer Price Index. as described in paragraph (d)(2) of this section.

OH = 1.169. This is based on EPA overhead, which is applied to all costs.

cert#MY-2 = the total number of certificates issued for a fee category in the model year two years before the calendar year for the applicable fees as described in paragraph (d)(3) of this section.

cert#MY-3 = the total number of certificates issued for a fee category in the model year three years before the calendar year for the applicable fees as described in paragraph (d)(3) of this section.

(ii) Use the following equation for all other certificates:

Where:

CPI2002 = 180.9. This is based on the December 2002 value of the Consumer Price Index as described in paragraph (d)(2) of this section.

(2) The fee for any year will remain at the previous year's amount until the value calculated in paragraph (c)(1) of this section differs by at least $50 from the amount specified for the previous year.

(d) Except as specified in § 1027.110(a) for motor vehicles and motor vehicle engines, we will use the following values to determine adjusted fees using the equation in paragraph (c) of this section:

(1) The following values apply for operating costs and labor costs:

Engine or vehicle category | Op | L
(i) Light-duty, medium-duty passenger, and complete heavy-duty highway vehicle certification | $3,322,039 | $2,548,110
(ii) Light-duty, medium-duty passenger, and complete heavy-duty highway vehicle in-use testing | 2,858,223 | 2,184,331
(iii) Independent Commercial Importers identified in § 1027.105(b)(2) | 344,824 | 264,980
(iv) Highway motorcycles | 225,726 | 172,829
(v) Heavy-duty highway engines | 1,106,224 | 1,625,680
(vi) Nonroad compression-ignition engines that are not locomotive or marine engines, and stationary compression-ignition engines with per-cylinder displacement below 10 liters | 486,401 | 545,160
(vii) Evaporative certificates related to nonroad and stationary engines | 5,039 | 236,670
(viii) All other | 177,425 | 548,081

(2) The applicable Consumer Price Index is based on the values published by the Bureau of Labor Statistics for All Urban Consumers at https://www.usinflationcalculator.com/ under “Inflation and Prices” and “Consumer Price Index Data from 1913 to. . . .”. For example, we calculated the 2006 fees using the Consumer Price Index for November 2004, which is 191.0.

(3) Fee categories for counting the number of certificates issued are based on the grouping shown in paragraph (d)(1) of this section.

85. Amend § 1027.110 by revising paragraph (a) introductory text to read as follows:

§ 1027.110 What special provisions apply for certification related to motor vehicles?

(a) We will adjust fees for light-duty, medium-duty passenger, and complete heavy-duty highway vehicles as follows:

* * * * *

86. Amend § 1027.125 by revising paragraph (e) to read as follows:

§ 1027.125 Can I get a refund?

* * * * *

(e) Send refund and correction requests online at www.Pay.gov, or as specified in our guidance.

* * * * *

87. Amend § 1027.130 by revising paragraphs (a) and (b) to read as follows:

§ 1027.130 How do I make a fee payment?

(a) Pay fees to the order of the Environmental Protection Agency in U.S. dollars using electronic funds transfer or any method available for payment online at www.Pay.gov, or as specified in EPA guidance.

(b) Submit a completed fee filing form at www.Pay.gov.

* * * * *

88. Amend § 1027.135 by revising paragraph (b) to read as follows:

§ 1027.135 What provisions apply to a deficient filing?

* * * * *

(b) We will hold a deficient filing along with any payment until we receive a completed form and full payment. If the filing remains deficient at the end of the model year, we will continue to hold any funds associated with the filing so you can make a timely request for a refund. We will not process an application for certification if the associated filing is deficient.

89. Revise § 1027.155 to read as follows:

§ 1027.155 What abbreviations apply to this subpart?

The following symbols, acronyms, and abbreviations apply to this part:

CFR | Code of Federal Regulations.
CPI | Consumer Price Index.
EPA | U.S. Environmental Protection Agency.
Evap | Evaporative emissions.
EIAPP | Engine International Air Pollution Prevention (from MARPOL Annex VI).
ICI | Independent Commercial Importer.
MVECP | Motor vehicle and engine compliance program.
MY | Model year.
U.S. | United States.

PART 1033—CONTROL OF EMISSIONS FROM LOCOMOTIVES

90. The authority citation for part 1033 continues to read as follows:

Authority: 42 U.S.C. 7401-7671q.

91. Amend § 1033.150 by—

a. Removing and reserving paragraphs (a) and (d).

b. Revising paragraph (e) introductory text.

c. Removing paragraphs (h) through (m).

The revision reads as follows:

§ 1033.150 Interim provisions.

* * * * *

(e) Producing switch locomotives using certified nonroad engines. You may use the provisions of this paragraph (e) to produce any number of freshly manufactured or refurbished switch locomotives in model years 2008 through 2017. Locomotives produced under this paragraph (e) are exempt from the standards and requirements of this part subject to the following provisions:

* * * * *

92. Amend § 1033.225 by revising paragraph (e) to read as follows:

§ 1033.225 Amending applications for certification.

* * * * *

(e) The amended application applies starting with the date you submit the amended application, as follows:

(1) For engine families already covered by a certificate of conformity, you may start producing a new or modified locomotive anytime after you send us your amended application, before we make a decision under paragraph (d) of this section. However, if we determine that the affected locomotives do not meet applicable requirements, we will notify you to cease production of the locomotives and may require you to recall the locomotives at no expense to the owner. Choosing to produce locomotives under this paragraph (e) is deemed to be consent to recall all locomotives that we determine do not meet applicable emission standards or other requirements and to remedy the nonconformity at no expense to the owner. If you do not provide information required under paragraph (c) of this section within 30 days after we request it, you must stop producing the new or modified locomotives.

(2) If you amend your application to make the amended application correct and complete, these changes do not apply retroactively. Also, if we determine that your amended application is not correct and complete, or otherwise does not conform to the regulation, we will notify you and describe how to address the error.

* * * * *

93. Revise § 1033.255 to read as follows:

§ 1033.255 EPA decisions.

(a) If we determine an application is complete and shows that the engine family meets all the requirements of this part and the Clean Air Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce locomotives for importation into the United States at a location where local law prohibits us from carrying out authorized activities.

(6) Fail to supply requested information or amend an application to include all locomotives being produced.

(7) Take any action that otherwise circumvents the intent of the Clean Air Act or this part, with respect to an engine family.

(d) We may void a certificate of conformity for an engine family if you fail to keep records, send reports, or give us information as required under this part or the Act. Note that these are also violations of 40 CFR 1068.101(a)(2).

(e) We may void a certificate of conformity for an engine family if we find that you intentionally submitted false or incomplete information. This includes doing anything after submitting an application that causes submitted information to be false or incomplete.

(f) If we deny an application or suspend, revoke, or void a certificate, you may ask for a hearing (see § 1033.920).

94. Amend § 1033.601 by revising paragraph (c)(4) and (5) to read as follows:

§ 1033.601 General compliance provisions.

* * * * *

(c) * * *

(4) The provisions for importing engines and equipment under the identical configuration exemption of 40 CFR 1068.315(h) do not apply for locomotives.

(5) The provisions for importing engines and equipment under the ancient engine exemption of 40 CFR 1068.315(i) do not apply for locomotives.

* * * * *

95. Amend § 1033.701 by revising paragraph (k)(1) to read as follows:

§ 1033.701 General provisions.

* * * * *

(k) * * *

(1) You may retire emission credits generated from any number of your locomotives. This may be considered donating emission credits to the environment. Identify any such credits in the reports described in § 1033.730. Locomotives must comply with the applicable FELs even if you donate or sell the corresponding emission credits under this paragraph (k). Those credits may no longer be used by anyone to demonstrate compliance with any EPA emission standards.

* * * * *

96. Amend § 1033.740 by:

a. Revising the introductory text; and

b. Removing and reserving paragraph (a).

The revision reads as follows:

§ 1033.740 Credit restrictions.

Use of emission credits generated under this part 1033 is restricted depending on the standards against which they were generated.

* * * * *

97. Amend § 1033.901 by revising paragraph (1) if the definition of “New” to read as follows:

§ 1033.901 Definitions.

* * * * *

New, * * *

(1) A locomotive or engine is new if its equitable or legal title has never been transferred to an ultimate purchaser. Where the equitable or legal title to a locomotive or engine is not transferred prior to its being placed into service, the locomotive or engine ceases to be new when it is placed into service. A locomotive or engine also becomes new if it is remanufactured or refurbished (as defined in this section). A remanufactured locomotive or engine ceases to be new when placed back into service. With respect to imported locomotives or locomotive engines, the term “new locomotive” or “new locomotive engine” also means a locomotive or locomotive engine that is not covered by a certificate of conformity under this part or 40 CFR part 92 at the time of importation, and that was manufactured or remanufactured after January 1, 2000, which would have been applicable to such locomotive or engine had it been manufactured or remanufactured for importation into the United States. Note that replacing an engine in one locomotive with an unremanufactured used engine from a different locomotive does not make a locomotive new.

* * * * *

98. Amend § 1033.925 by revising paragraph (e) introductory text to read as follows:

§ 1033.925 Reporting and recordkeeping requirements.

* * * * *

(e) Under the Paperwork Reduction Act (44 U.S.C. 3501 et seq.), the Office of Management and Budget approves the reporting and recordkeeping specified in the applicable regulations. The following items illustrate the kind of reporting and recordkeeping we require for locomotives regulated under this part:

* * * * *

PART 1036—CONTROL OF EMISSIONS FROM NEW AND IN-USE HEAVY-DUTY HIGHWAY ENGINES

99. The authority statement for part 1036 continues to read as follows:

Authority: 42 U.S.C. 7401-7671q.

100. Amend § 1036.1 by revising paragraph (b) to read as follows:

§ 1036.1 Does this part apply for my engines?

* * * * *

(b) This part does not apply with respect to exhaust emission standards for HC, CO, NOX, or PM except as follows:

(1) The provisions of § 1036.601 apply.

(2) 40 CFR parts 85 and 86 may specify that certain provisions apply.

(3) The provisions of § 1036.501(h)(1) apply.

* * * * *

101. Amend § 1036.108 by revising paragraph (a) introductory text and paragraph (a)(1) introductory text to read as follows:

§ 1036.108 Greenhouse gas emission standards.

* * * * *

(a) Emission standards. Emission standards apply for engines and powertrains measured using the test procedures specified in subpart F of this part as follows:

(1) CO2 emission standards in this paragraph (a)(1) apply based on testing as specified in subpart F of this part. The applicable test cycle for measuring CO2 emissions differs depending on the engine family's primary intended service class and the extent to which the engines will be (or were designed to be) used in tractors. For medium and heavy heavy-duty engines certified as tractor engines, measure CO2 emissions using the steady-state duty cycle specified in § 1036.501 (referred to as the ramped-modal cycle, or RMC, even though emission sampling involves measurements from discrete modes). This is intended for engines designed to be used primarily in tractors and other line-haul applications. Note that the use of some RMC-certified tractor engines in vocational applications does not affect your certification obligation under this paragraph (a)(1); see other provisions of this part and 40 CFR part 1037 for limits on using engines certified to only one cycle. For medium and heavy heavy-duty engines certified as both tractor and vocational engines, measure CO2 emissions using the steady-state duty cycle and the transient duty cycle (sometimes referred to as the FTP engine cycle) specified in § 1036.501. This is intended for engines that are designed for use in both tractor and vocational applications. For all other engines (including engines meeting spark-ignition standards), measure CO2 emissions using the appropriate transient duty cycle specified in § 1036.501.

* * * * *

102. Amend § 1036.150 by revising paragraphs (e) and (g)(2), paragraph (p) introductory text and adding paragraph (q) to read as follows:

§ 1036.150 Interim provisions.

* * * * *

(e) Alternate phase-in standards. Where a manufacturer certifies all of its model year 2013 compression-ignition engines within a given primary intended service class to the applicable alternate standards of this paragraph (e), its compression-ignition engines within that primary intended service class are subject to the standards of this paragraph (e) for model years 2013 through 2016. This means that once a manufacturer chooses to certify a primary intended service class to the standards of this paragraph (e), it is not allowed to opt out of these standards. Engines certified to these standards are not eligible for early credits under paragraph (a) of this section.

Vehicle type | Model years | LHD engines | MHD engines | HHD engines
Tractors | 2013-2015 | NA | 512 g/hp·hr | 485 g/hp·hr.
| 2016 and later ᵃ | NA | 487 g/hp·hr | 460 g/hp·hr.
Vocational | 2013-2015 | 618 g/hp·hr | 618 g/hp·hr | 577 g/hp·hr.
| 2016 through 2020 ᵃ | 576 g/hp·hr | 576 g/hp·hr | 555 g/hp·hr.
ᵃ Note: these alternate standards for 2016 and later are the same as the otherwise applicable standards for 2017 through 2020.

* * * * *

(g) * * *

(2) You may use an assigned additive DF of 0.020 g/hp·hr for N2O emissions from any engine.

* * * * *

(p) Transition to Phase 2 CO2 standards. If you certify all your model year 2020 engines within an averaging set to the model year 2021 FTP and RMC standards and requirements, you may apply the provisions of this paragraph (p) for enhanced generation and use of emission credits. These provisions apply separately for medium heavy-duty engines and heavy heavy-duty engines.

* * * * *

(q) Confirmatory testing of fuel maps. We will replace fuel maps as a result of our confirmatory testing if we determine our test results to be equivalent to the manufacturer's declared fuel maps as specified in this paragraph (q).

(1) We will weight our individual duty cycle results using the appropriate vehicle category weighting factors in Table 1 of § 1037.510 to determine a composite CO2 emission value for that vehicle configuration; then repeat the process for the manufacturer's fuel maps.

(2) The average percent difference between fuel maps is calculated as:

Where:

i = an indexing variable that represents one individual weighted duty cycle result for a vehicle configuration.

N = total number of vehicle configurations.

eCO2compEPA = total composite mass of CO2 emissions in g/ton-mile for the EPA confirmatory test, rounded to the nearest whole number for vocational vehicles and to the first decimal place for tractors.

eCO2compManu = total composite mass of CO2 emissions in g/ton-mile for the manufacturer test, rounded to the nearest whole number for vocational vehicles and to the first decimal place for tractors.

(3) Where the average difference between our composite weighted fuel map and the manufacturer's is less than or equal to 2.0%, We will not replace the manufacturer's maps.

103. Amend § 1036.225 by revising paragraphs (e) and (f)(1) to read as follows:

§ 1036.225 Amending my application for certification.

* * * * *

(e) The amended application applies starting with the date you submit the amended application, as follows:

(1) For engine families already covered by a certificate of conformity, you may start producing a new or modified engine configuration any time after you send us your amended application and before we make a decision under paragraph (d) of this section. However, if we determine that the affected engines do not meet applicable requirements, we will notify you to cease production of the engines and may require you to recall the engines at no expense to the owner. Choosing to produce engines under this paragraph (e) is deemed to be consent to recall all engines that we determine do not meet applicable emission standards or other requirements and to remedy the nonconformity at no expense to the owner. If you do not provide information required under paragraph (c) of this section within 30 days after we request it, you must stop producing the new or modified engines.

(2) If you amend your application to make the amended application correct and complete, these changes do not apply retroactively. Also, if we determine that your amended application is not correct and complete, or otherwise does not conform to the regulation, we will notify you and describe how to address the error.

(f) * * *

(1) You may ask to raise your FEL for your engine family at any time before the end of the model year. In your request, you must show that you will still be able to meet the emission standards as specified in subparts B and H of this part. Use the appropriate FELs/FCLs with corresponding production volumes to calculate emission credits for the model year, as described in subpart H of this part.

* * * * *

104. Amend § 1036.230 by revising paragraph (d) and adding paragraph (f) to read as follows:

§ 1036.230 Selecting engine families.

* * * * *

(d) Except as described in paragraph (f) of this section, engine configurations within an engine family must use equivalent greenhouse gas emission controls. Unless we approve it, you may not produce nontested configurations without the same emission control hardware included on the tested configuration. We will only approve it if you demonstrate that the exclusion of the hardware does not increase greenhouse gas emissions.

* * * * *

(f) Engine families may be divided into subfamilies with respect to compliance with CO2 standards.

105. Amend § 1036.235 by revising paragraphs (b)(1) and (2), and (c)(5) to read as follows:

§ 1036.235 Testing requirements for certification.

* * * * *

(b) * * *

(1) If you are certifying the engine for use in tractors, you must measure CO2 emissions using the applicable ramped-modal cycle specified in § 1036.501, and measure CH4, and N2O emissions using the specified transient cycle.

(2) If you are certifying the engine for use in vocational applications, you must measure CO2, CH4, and N2O emissions using the specified transient duty cycle, including cold-start and hot-start testing as specified in § 1036.501.

* * * * *

(c) * * *

(5) We may use our emission test results for steady-state, idle, cycle-average and powertrain fuel maps as the official emission results. We may also consider how the different fuel maps affect GEM emission results as part of our decision. We will not replace individual points from your fuel map.

* * * * *

105. Revise § 1036.255 to read as follows:

§ 1036.255 What decisions may EPA make regarding a certificate of conformity?

(a) If we determine an application is complete and shows that the engine family meets all the requirements of this part and the Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Act or this part, with respect to an engine family.

(d) We may void a certificate of conformity for an engine family if you fail to keep records, send reports, or give us information as required under this part or the Act. Note that these are also violations of 40 CFR 1068.101(a)(2).

(e) We may void a certificate of conformity for an engine family if we find that you intentionally submitted false or incomplete information. This includes doing anything after submitting an application that causes submitted information to be false or incomplete.

(f) If we deny an application or suspend, revoke, or void a certificate, you may ask for a hearing (see § 1036.820).

107. Amend § 1036.301 by revising paragraph (b)(2) introductory text to read as follows:

§ 1036.301 Measurements related to GEM inputs in a selective enforcement audit.

* * * * *

(b) * * *

(2) Evaluate cycle-average fuel maps by running GEM based on simulated vehicle configurations representing the interpolated center of every group of four test points that define a boundary of cycle work and average engine speed divided by average vehicle speed. These simulated vehicle configurations are defined from the four surrounding points based on averaging values for vehicle mass, drag area (if applicable), tire rolling resistance, tire size, and axle ratio. The regulatory subcategory is defined by the regulatory subcategory of the vehicle configuration with the greatest mass from those four test points. Figure 1 of this section illustrates a determination of vehicle configurations for engines used in tractors and Vocational Heavy-Duty Vehicles (HDV) using a fixed tire size (see § 1036.540(c)(3)(iii)). The vehicle configuration from the upper-left quadrant is defined by values for Tests 1, 2, 4, and 5 from Table 3 of § 1036.540. Calculate vehicle mass as the average of the values from the four tests. Determine the weight reduction needed for GEM to simulate this calculated vehicle mass by comparing the average vehicle mass to the default vehicle mass for the vehicle subcategory from the four points that has the greatest mass, with the understanding that two-thirds of weight reduction for tractors is applied to vehicle weight and one-third is understood to represent increased payload. This is expressed mathematically as Mavg = Msubcategory−⅔·Mreduction, which can be solved for Mreduction. For vocational vehicles, half of weight reduction is applied to vehicle weight and half is understood to represent increased payload. Use the following values for default vehicle masses by vehicle subcategory:

* * * * *

108. Amend § 1036.501 by revising paragraph (g) and adding paragraph (h) to read as follows:

§ 1036.501 How do I run a valid emission test?

* * * * *

(g) The following additional provisions apply for testing to demonstrate compliance with the emission standards in § 1036.108 for model year 2016 through 2020 engines:

(1) Measure CO2, CH4, and N2O emissions using the transient cycle specified in either 40 CFR 86.1333 or appendix II to this part.

(2) For engines subject to RMC testing under § 1036.108(a)(1), measure CO2 emissions using the ramped-modal cycle specified in 40 CFR 86.1362.

(h) The following additional provisions apply for testing to demonstrate compliance with the emission standards in § 1036.108 for model year 2021 and later engines:

(1) If your engine is intended for installation in a vehicle equipped with stop-start technology, you may turn the engine off during the idle portions of the duty cycle to represent in-use operation, consistent with good engineering judgment. We recommend installing an engine starter motor and allowing the engine ECU to control the engine stop and start events.

(2) Measure CO2, CH4, and N2O emissions using the transient cycle specified in either 40 CFR 86.1333 or appendix II to this part.

(3) For engines subject to RMC testing under 1036.108(a)(1), use one of the following methods to measure CO2 emissions:

(i) Use the ramped-modal cycle specified in § 1036.505 using either continuous or batch sampling.

(ii) Measure CO2 emissions over the ramped-modal cycle specified in 40 CFR 86.1362 using continuous sampling. Integrate the test results by mode to establish separate emission rates for each mode (including the transition following each mode, as applicable). Apply the CO2 weighting factors specified in 40 CFR 86.1362 to calculate a composite emission result.

(4) Measure or calculate emissions of criteria pollutants corresponding to your measurements to demonstrate compliance with CO2 standards. These test results are not subject to the duty-cycle standards of 40 CFR part 86, subart A.

109. Add § 1036.503 to read as follows:

§ 1036.503 Engine data and information for vehicle certification.

You must give vehicle manufacturers information as follows so they can certify model year 2021 and later vehicles:

(a) Identify engine make, model, fuel type, combustion type, engine family name, calibration identification, and engine displacement. Also identify which standards the engines meet.

(b) This paragraph (b) describes three different methods to generate engine fuel maps. Manufacturers may generally rely on any of the three mapping methods. However, for hybrid engines, manufacturers must generate fuel maps using either cycle-average or powertrain testing as described in paragraphs (b)(2) and (3) of this section. For all other hybrids, except mild hybrids, follow paragraph (b)(3) of this section. Vehicle manufacturers must use the powertrain method described in paragraph (b)(2) of this section for any vehicle with a transmission that is not automatic, automated manual, manual, or dual-clutch.

(1) Combined steady-state and cycle-average. Determine steady-state engine fuel maps and fuel consumption at idle as described in § 1036.535, and determine cycle-average engine fuel maps as described in § 1036.540, excluding cycle-average fuel maps for highway cruise cycles.

(2) Cycle-average. Determine fuel consumption at idle as described in § 1036.535, and determine cycle-average engine fuel maps as described in § 1036.540, including cycle-average engine fuel maps for highway cruise cycles. In this case, you do not need to determine steady-state engine fuel maps under § 1036.535. Fuel mapping for highway cruise cycles using cycle-average testing is an alternate method, which means that we may do confirmatory testing based on steady-state fuel mapping for highway cruise cycles even if you do not; however, we will use the steady-state fuel maps to create cycle-average fuel maps. In § 1036.540 we define the vehicle configurations for testing; we may add more vehicle configurations to better represent your engine's operation for the range of vehicles in which your engines will be installed (see 40 CFR 1065.10(c)(1)).

(3) Powertrain. Generate a powertrain fuel map as described in 40 CFR 1037.550. In this case, you do not need to perform fuel mapping under § 1036.535 or § 1036.540.

(c) Provide the following information if you generate engine fuel maps using either paragraph (b)(1) or (2) of this section:

(1) Full-load torque curve for installed engines, and the full-load torque curve of the engine (parent engine) with the highest fueling rate that shares the same engine hardware, including the turbocharger, as described in 40 CFR 1065.510. You may use 40 CFR 1065.510(b)(5)(i) for engines subject to spark-ignition standards. Measure the torque curve for hybrid engines as described in 40 CFR 1065.510(g) with the hybrid system active.

(2) Motoring torque map as described in 40 CFR 1065.510(c)(2) and (4) for conventional and hybrid engines, respectively. For engines with a low-speed governor, remove data points where the low speed governor is active. If you don't know when the low-speed governor is active, we recommend removing all points below 40 r/min above the low warm idle speed.

(3) Declared engine idle speed. For vehicles with manual transmissions, this is the engine speed with the transmission in neutral. For all other vehicles, this is the engine's idle speed when the transmission is in drive.

(4) The engine idle speed during the cycle-average fuel map.

(5) The engine idle torque during the cycle-average fuel map.

(d) If you generate powertrain fuel maps using paragraph (b)(3) of this section, determine the system continuous rated power according to § 1036.527.

110. Revise § 1036.505 to read as follows:

§ 1036.505 Ramped-modal testing procedures.

(a) Starting in model year 2021, you must measure CO2 emissions using the ramped-modal cycle in 40 CFR 86.1362 as described in § 1036.501, or using the ramped-modal cycle in this section.

(b) Perform ramped-modal testing with one of the following procedures:

(1) For engine testing, the ramped-modal duty cycles are based on normalized speed and torque values relative to certain maximum values. Denormalize torque as described in 40 CFR 1065.610(d). Denormalize speed as described in 40 CFR 1065.512.

(2) For hybrid powertrain testing, follow 40 CFR 1037.550 to carry out the test, but do not compensate the duty cycle for the distance driven. For cycles that begin with a set of contiguous idle points, leave the transmission in neutral or park for the full initial idle segment. Place the transmission into drive within 5 seconds of the first nonzero vehicle speed setpoint. Place the transmission into park or neutral when the cycle reaches RMC mode 14. Use the following vehicle parameters in place of those in 40 CFR 1037.550 to define the vehicle model in 40 CFR 1037.550(b)(3):

(i) Determine the vehicle test mass, M, as follows:

Where:

Pcontrated = the continuous rated power of the hybrid system determined in § 1036.527.

Example:

Pcontrated = 350.1 kW

M = 15.1·350.1^1.31 = 32499 kg

(ii) Determine the vehicle frontal area, Afront, as follows:

(A) For M ≤ 18050 kg:

Example:

M = 16499 kg

Afront = −1.69 ·10⁻⁸·16499² + 6.33 ·10⁻⁴·16499 +1.67 = 7.51 m²

(B) For M > 18050 kg, Afront = 7.59 m²

(iii) Determine the vehicle drag area, CdA, as follows:

Where:

g = gravitational constant = 9.81 m/s².

ρ = air density at reference conditions. Use ρ = 1.1845 kg/m³.

Example:

Mrotating = 0.07·32499 = 2274.9 kg

(vi) Select a drive axle ratio, ka, that represents the worst-case pair of drive axle ratio and tire size for CO2 expected for vehicles in which the powertrain will be installed. This is typically the highest numeric axle ratio.

(vii) Select a tire radius, r, that represents the worst-case pair of tire size and drive axle ratio for CO2 expected for vehicles in which the powertrain will be installed. This is typically the smallest tire radius.

(viii) If you are certifying a hybrid powertrain system without the transmission, use a default transmission efficiency of 0.95. If you certify with this configuration, you must use 40 CFR 1037.550(b)(3)(ii) to create the vehicle model along with its default transmission shift strategy. Use the transmission parameters defined in Table 1 of § 1036.540 to determine transmission type and gear ratio. Use the transient cycle parameters for the FTP and the highway cruise cycle parameters for the RMC.

(ix) Select axle efficiency, Effaxle, according to 40 CFR 1037.550.

(c) Measure emissions using the ramped-modal duty cycle shown in Table 1 of § 1036.505 to determine whether engines and hybrid powertrains meet the steady-state compression-ignition standards specified in subpart B of this part. Table 1 of this section specifies settings for engine and hybrid powertrain testing, as follows:

(1) The duty cycle for testing engines involves a schedule of normalized engine speed and torque values.

(2) The duty cycle for hybrid powertrain testing involves a schedule of vehicle speeds and road grade. Determine road grade at each point based on the continuous rated power of the hybrid powertrain system, Pcontrated, determined in § 1036.527 and the specified road grade coefficients using the following equation:

Road grade = a · P ²contrated + b · Pcontrated + c

Table 1 to § 1036.505—Ramped-Modal Duty Cycle
RMC mode | Engine testing: Time in mode (seconds) | Engine testing: Engine speed ᵃ ᵇ | Engine testing: Torque (percent) ᵇ ᶜ | Powertrain testing: Vehicle speed (mi/hr) | Powertrain testing: Road-grade coefficients: a | Powertrain testing: Road-grade coefficients: b | Powertrain testing: Road-grade coefficients: c
1a Steady-state | 124 | Warm Idle | 0 | Warm Idle | 0 | 0 | 0
1b Transition | 20 | Linear Transition | Linear Transition | Linear Transition | -4.6E-3 | -9.1E+0 | -4.6E-3
2a Steady-state | 196 | A | 100 | 53.38 | 589.2E-6 | 2.1E+0 | 589.2E-6
2b Transition | 20 | Linear Transition | Linear Transition | Linear Transition | 0 | 0 | 0
3a Steady-state | 220 | B | 50 | 65.00 | 10.3E-3 | -1.6E+0 | 10.3E-3
3b Transition | 20 | B | Linear Transition | 65.00 | 0 | 0 | 0
4a Steady-state | 220 | B | 75 | 65.00 | 7.9E-3 | -280.7E-3 | 7.9E-3
4b Transition | 20 | Linear Transition | Linear Transition | Linear Transition | 6.0E-3 | 2.3E+0 | 6.0E-3
5a Steady-state | 268 | A | 50 | 53.38 | 5.9E-3 | -605.6E-3 | 5.9E-3
5b Transition | 20 | A | Linear Transition | 53.38 | 7.8E-3 | -349.3E-3 | 7.8E-3
6a Steady-state | 268 | A | 75 | 53.38 | 3.3E-3 | 728.3E-3 | 3.3E-3
6b Transition | 20 | A | Linear Transition | 53.38 | 6.7E-3 | -668.2E-3 | 6.7E-3
7a Steady-state | 268 | A | 25 | 53.38 | 8.9E-3 | -2.0E+0 | 8.9E-3
7b Transition | 20 | Linear Transition | Linear Transition | Linear Transition | 6.9E-3 | -3.1E+0 | 6.9E-3
8a Steady-state | 196 | B | 100 | 65.00 | 5.5E-3 | 798.2E-3 | 5.5E-3
8b Transition | 20 | B | Linear Transition | 65.00 | 10.0E-3 | -1.2E+0 | 10.0E-3
9a Steady-state | 196 | B | 25 | 65.00 | 13.6E-3 | -3.2E+0 | 13.6E-3
9b Transition | 20 | Linear Transition | Linear Transition | Linear Transition | 13.8E-3 | -5.2E+0 | 13.8E-3
10a Steady-state | 28 | C | 100 | 77.80 | 13.0E-3 | -1.3E+0 | 13.0E-3
10b Transition | 20 | C | Linear Transition | 77.80 | 16.1E-3 | -3.0E+0 | 16.1E-3
11a Steady-state | 4 | C | 25 | 77.80 | 16.1E-3 | -4.0E+0 | 16.1E-3
11b Transition | 20 | C | Linear Transition | 77.80 | 17.7E-3 | -3.7E+0 | 17.7E-3
12a Steady-state | 4 | C | 75 | 77.80 | 15.5E-3 | -2.5E+0 | 15.5E-3
12b Transition | 20 | C | Linear Transition | 77.80 | 13.6E-3 | -3.0E+0 | 13.6E-3
13a Steady-state | 4 | C | 50 | 77.80 | 15.7E-3 | -2.6E+0 | 15.7E-3
13b Transition | 20 | Linear Transition | Linear Transition | Linear Transition | 6.9E-3 | 17.7E+0 | 6.9E-3
14 Steady-state | 144 | Warm Idle | 0 | Warm Idle | 0 | 0 | 0
ᵃ Engine speed terms are defined in 40 CFR part 1065.
ᵇ Advance from one mode to the next within a 20 second transition phase. During the transition phase, command a linear progression from the settings of the current mode to the settings of the next mode.
ᶜ The percent torque is relative to maximum torque at the commanded engine speed.

111. Revise § 1036.510 to read as follows:

§ 1036.510 Transient testing procedures.

(a) Measure emissions by testing the engine or hybrid powertrain on a dynamometer with one of the following transient duty cycles to determine whether it meets the transient emission standards:

(1) For spark-ignition engines, use the transient duty cycle described in paragraph (a) of Appendix II of this part.

(2) For compression-ignition engines, use the transient duty cycle described in paragraph (b) of Appendix II of this part.

(3) For spark-ignition hybrid powertrains, use the transient duty cycle described in paragraph (a) of Appendix II of this part.

(4) For compression-ignition hybrid powertrains, use the transient duty cycle described in paragraph (b) of Appendix II of this part.

(b) Perform the following depending on if you are testing engines or hybrid powertrains:

(1) For engine testing, the transient duty cycles are based on normalized speed and torque values relative to certain maximum values. Denormalize torque as described in 40 CFR 1065.610(d). Denormalize speed as described in 40 CFR 1065.512.

(2) For hybrid powertrain testing, follow § 1036.505(b)(2) to carry out the test except replace Pcontrated with Prated, the peak rated power determined in § 1036.527 and keep the transmission in drive for all idle segments after the initial idle segment.

(c) The transient test sequence consists of an initial run through the transient duty cycle from a cold start, 20 minutes with no engine operation, then a final run through the same transient duty cycle. Start sampling emissions immediately after you start the engine and continue sampling until the duty cycle is complete. Calculate the total emission mass of each constituent, m, and the total work, W, over each test interval according to 40 CFR 1065.650. Calculate the official transient emission result from the cold-start and hot-start test intervals using the following equation:

(d) Calculate cycle statistics and compare with the established criteria as specified in 40 CFR 1065.514 for engines and 40 CFR 1037.550 for hybrid powertrains to confirm that the test is valid.

112. Add § 1036.527 to read as follows:

§ 1036.527 Powertrain system rated power determination.

This section describes how to determine the peak and continuous rated power of conventional and hybrid powertrain systems for carrying out testing according to § 1036.505, § 1036.510, and 40 CFR 1037.550.

(a) Set up the powertrain according to 40 CFR 1037.550, but use the vehicle parameters in § 1036.505(b)(2), except replace Pcontrated with the manufacturer declared system peak power. Note that if you repeat the system rated power determination as described in paragraph (i)(4) of this section, use the measured system peak power in place of Pcontrated.

(b) For conventional powertrains follow paragraphs (d), (e), and (h) of this section. For hybrid powertrains, follow paragraphs (c) through (j) of this section.

(c) Prior to the start of each test interval verify the following:

(i) The state-of-charge of the the rechargeable energy storage system (RESS) is ≥90% of the operating range between the minimum and maximum RESS energy levels specified by the manufacturer.

(ii) The conditions of all hybrid system components are within their normal operating range as declared by the manufacturer.

(iii) RESS restrictions (e.g., power limiting, thermal limits, etc.) are not active.

(d) Set maximum driver demand for a full load acceleration at 0% road grade starting at an initial vehicle speed of 0 mi/hr. Stop the test 300 seconds after the vehicle speed has stopped increasing above the maximum value observed during the test.

(e) Record the powertrain system speed and torque values at the wheel hub at 100 Hz and use these in conjunction with the vehicle model to calculate Psys,vehicle.

(f) After completing the test interval described in paragraphs (d) and (e) of this section repeat the steps in paragraphs (c) through (e) of this section for 2% and 6% road grades.

(g) After completing the test intervals described in paragraphs (c) and (e) of this section repeat the steps in paragraphs (c) through (f) of this section for initial vehicle speeds of 20 mi/hr and 40 mi/hr. After completing the test interval on the last road grade and initial vehicle speed point, the rated power determination sequence is complete.

(h) Calculate the system peak power, Psys, for each test run as follows:

Where:

Psys,vehicle = the calculated vehicle system peak power.

εtrans = the default transmission efficiency = 0.95.

εaxle = the default axle efficiency = 0.955.

Example:

Psys,vehicle = 317.6 kW

(i) The system peak rated power, Prated, is the highest calculated Psys where the coefficient of variation (COV) <2%. The COV is determined as follows:

(1) Calculate the standard deviation, σ(t).

Where:

N = the number of measurement intervals = 20.

Psysi = the N samples in the 100 Hz signal previously used to calculate the respective Pμ(t) values at the time step t.

P̄μ(t) = the power vector from the results of each test run that is determined by a moving averaging of 20 consecutive samples of Psys in the 100 Hz that converts P̄μ(t) to a 5 Hz signal.

(2) The resulting 5 Hz power and covariance signals are used to determine system rated power.

(3) The coefficient of variation COV(t) shall be calculated as the ratio of the standard deviation, σ(t), to the mean value of power, P̄μ(t, for each time step t.

(4) If the determined system peak rated power is not within ±3% of the system peak rated power as declared by the manufacturer, you must repeat the procedure in paragraphs (a) through (i)(3) of this section using the measured system peak rated power determined in paragraph (i) of this section instead of the manufacturer declared value. The result from this repeat is the final determined system peak rated power.

(5) If the determined system peak rated power is within ±3% of the system peak rated power as declared by the manufacturer, the declared system peak rated power shall be used.

(j) Determine continuous rated power, Pcontrated, by following paragraphs (i)(1) through (3) of this section using the data that met the requirements of paragraph (i)(4) or (i)(5) of this section, where the system continuous rated power, Pcontrated, is the lowest calculated Psys where the coefficient of variation (COV) <2%. Set N = 1000 in Eq. 1036.527-2, which results in a 0.1 Hz signal in paragraph (i)(2) of this section. For this determination, use the data collected in paragraphs (a) through (g) of this section starting with the point 30 seconds after the vehicle speed has stopped increasing above the maximum value observed during the test.

113. Amend § 1036.530 by revising paragraph (b) to read as follows:

§ 1036.530 Calculating greenhouse gas emission rates.

* * * * *

(b) Adjust CO2 emission rates calculated under paragraph (a) of this section for measured test fuel properties as specified in this paragraph (b). This adjustment is intended to make official emission results independent of differences in test fuels within a fuel type. Use good engineering judgment to develop and apply testing protocols to minimize the impact of variations in test fuels.

(1) Determine your test fuel's mass-specific net energy content, Emfuelmeas, also known as lower heating value, in MJ/kg, expressed to at least three decimal places. Determine Emfuelmeas as follows:

(i) For liquid fuels, determine Emfuelmeas according to ASTM D4809 (incorporated by reference in § 1036.810). Have the sample analyzed by three different labs and use the arithmetic mean of the results as your test fuel's Emfuelmeas.

(ii) For gaseous fuels, determine Emfuelmeas according to ASTM D3588 (incorporated by reference in § 1036.810).

(2) Determine your test fuel's carbon mass fraction, wC, as described in 40 CFR 1065.655(d), expressed to at least three decimal places; however, you must measure fuel properties rather than using the default values specified in Table 1 of 40 CFR 1065.655.

(i) For liquid fuels, have the sample analyzed by three different labs and use the arithmetic mean of the results as your test fuel's wC.

(ii) For gaseous fuels, have the sample analyzed by a single lab and use that result as your test fuel's wC.

(3) If, over a period of time, you receive multiple fuel deliveries from a single stock batch of test fuel, you may use constant values for mass-specific energy content and carbon mass fraction, consistent with good engineering judgment. To use this provision, you must demonstrate that every subsequent delivery comes from the same stock batch and that the fuel has not been contaminated.

(4) Correct measured CO2 emission rates as follows:

Where:

eCO2 = the calculated CO2 emission result.

Emfuelmeas = the mass-specific net energy content of the test fuel as determined in paragraph (b)(1) of this section. Note that dividing this value by wCmeas (as is done in this equation) equates to a carbon-specific net energy content having the same units as EmfuelCref.

EmfuelCref = the reference value of carbon-mass-specific net energy content for the appropriate fuel type, as determined in Table 1 of this section.

wCmeas = carbon mass fraction of the test fuel (or mixture of test fuels) as determined in paragraph (b)(2) of this section.

Example:

eCO2 = 630.0 g/hp·hr

Emfuelmeas = 42.528 MJ/kg

EmfuelCref = 49.3112 MJ/kgC

wCmeas = 0.870

eCO2cor = 624.5 g/hp·hr

Table 1 to § 1036.530—Reference Fuel Properties
Fuel type ᵃ | Reference fuel carbon-mass- specific net energy content, EmfuelCref, (MJ/kgC) ᵇ | Reference fuel carbon mass fraction, wCref ᵇ
Diesel fuel | 49.3112 | 0.874
Gasoline | 50.4742 | 0.846
Natural Gas | 66.2910 | 0.750
LPG | 56.5218 | 0.820
Dimethyl Ether | 55.3886 | 0.521
High-level ethanol-gasoline blends | 50.3211 | 0.576
ᵃ For fuels that are not listed, you must ask us to approve reference fuel properties.
ᵇ For multi-fuel streams, such as natural gas with diesel fuel pilot injection, use good engineering judgment to determine blended values for EmfuelCref and wCref using the values in this table.

* * * * *

114. Revise § 1036.535 to read as follows:

§ 1036.535 Determining steady-state engine fuel maps and fuel consumption at idle.

This section describes how to determine an engine's steady-state fuel map and fuel consumption at idle for model year 2021 and later vehicles. Vehicle manufacturers may need these values to demonstrate compliance with emission standards under 40 CFR part 1037 as described in § 1036.510.

(a) General test provisions. Perform fuel mapping using the procedure described in paragraph (b) of this section to establish measured fuel-consumption rates at a range of engine speed and load settings. Measure fuel consumption at idle using the procedure described in paragraph (c) of this section. If you perform cycle-average mapping for highway cruise cycles as described in § 1036.540, omit mapping under paragraph (b) of the section and instead perform mapping as described in paragraph (d) of this section. Use these measured fuel-consumption values to declare fuel-consumption rates for certification as described in paragraph (e) of this section.

(1) Map the engine's torque curve and declare engine idle speed as described in § 1036.503(c)(1) and (3), and perform emission measurements as described in 40 CFR 1065.501 and 1065.530 for discrete-mode steady-state testing. This section uses engine parameters and variables that are consistent with 40 CFR part 1065.

(2) Measure NOX emissions for each specified sampling period in g/s. You may perform these measurements using a NOX emission-measurement system that meets the requirements of 40 CFR part 1065, subpart J. Include these measured NOX values any time you report to us your fuel consumption values from testing under this section. If a system malfunction prevents you from measuring NOX emissions during a test under this section but the test otherwise gives valid results, you may consider this a valid test and omit the NOX emission measurements; however, we may require you to repeat the test if we determine that you inappropriately voided the test with respect to NOX emission measurement.

(b) Steady-state fuel mapping. Determine fuel-consumption rates for each engine configuration over a series of steady-state engine operating points consisting of pairs of speed and torque points as described in this paragraph (b). You may use shared data across an engine platform to the extent that the fuel-consumption rates remain valid. For example, if you test a high-output configuration and create a different configuration that uses the same fueling strategy but limits the engine operation to be a subset of that from the high-output configuration, you may use the fuel-consumption rates for the reduced number of mapped points for the low-output configuration, as long as the narrower map includes at least 70 points. Perform fuel mapping as follows:

(1) Generate the sequence of steady-state engine operating points as follows:

(i) Determine the required steady-state engine operating points as follows:

(A) For engines with an adjustable warm idle speed setpoint, select the following ten speed setpoints: Minimum warm idle speed, fnidlemin, the highest speed above maximum power at which 70% of maximum power occurs, nhi, and eight equally spaced points between fnidlemin and nhi. (See 40 CFR 1065.610(c)). For engines without an adjustable warm idle speed replace minimum warm idle speed with warm idle speed, fnidle.

(B) Select the following ten torque setpoints at each of the selected speed setpoints: Zero (T = 0), maximum mapped torque, Tmax mapped, and eight equally spaced points between T = 0 and Tmax mapped. For each of the selected speed setpoints, replace any torque setpoints that are above the mapped torque at the selected speed setpoint, Tmax, minus 5 percent of Tmax mapped, with one test point at Tmax.

(ii) Select any additional (optional) steady-state engine operating points consistent with good engineering judgment. For example, when linear interpolation between the defined points is not a reasonable assumption for determining fuel consumption from the engine. For each additional speed setpoint, increments between torque setpoints must be no larger than one-ninth of Tmax,mapped and we recommend including a torque setpoint of Tmax. If you select a maximum torque setpoint less than Tmax, use good engineering judgement to select your maximum torque setpoint to avoid unrepresentative data. We will select at least as many points as you.

(iii) Set the run order for all of the steady-state engine operating points (both required and optional) as described in this paragraph (b)(1)(iii). Arrange the list of steady-state engine operating points such that the resulting list of paired speed and torque setpoints begins with the highest speed setpoint and highest torque setpoint followed by decreasing torque setpoints at the highest speed setpoint. This will be followed by the next lowest speed setpoint and the highest torque setpoint at that speed setpoint continuing through all the steady-state engine operating points and ending with the lowest speed (fnidlemin) and torque setpoint (T = 0). Figure 1 provides an example of this array of points and run order.

(iv) The steady-state engine operating points that have the highest torque setpoint for a given speed setpoint are optional reentry points into the steady-state-fuel-mapping sequence, should you need to pause or interrupt the sequence during testing.

(v) The steady-state engine operating points that have the lowest torque setpoint for a given speed setpoint are optional exit points from the steady-state-fuel-mapping sequence, should you need to pause or interrupt the sequence during testing.

(2) If the engine has an adjustable warm idle speed setpoint, set it to its minimum value, fnidlemin.

(3) During each test interval, control speed within ±1% of nhi and engine torque within ±5% of Tmax mapped except for the following cases where both setpoints cannot be achieved because the steady-state engine operating point is near an engine operating boundary:

(i) For steady-state engine operating points that cannot be achieved and the operator demand stabilizes at minimum; control the dynamometer so it gives priority to follow the torque setpoint and let the engine govern the speed (see 40 CFR 1065.512(b)(1)). In this case, the tolerance on speed control in paragraph (b)(3) of this section does not apply and engine torque is controlled to within ±25 N·m.

(ii) For steady-state engine operating points that cannot be achieved and the operator demand stabilizes at maximum and the speed setpoint is below 90% of nhi; control the dynamometer so it gives priority to follow the speed setpoint and let the engine govern the torque (see 40 CFR 1065.512(b)(2)). In this case, the tolerance on torque control given in paragraph (b)(3) of this section does not apply.

(iii) For steady-state engine operating points that cannot be achieved and the operator demand stabilizes at maximum and the speed setpoint is at or above 90% of nhi; control the dynamometer so it gives priority to follow the torque setpoint and let the engine govern the speed (see 40 CFR 1065.512(b)(1)). In this case, the tolerance on speed control given in paragraph (b)(3) of this section does not apply.

(iv) For the steady-state engine operating points at the minimum speed setpoint and maximum torque setpoint, you may select a dynamometer control mode that gives priority to speed and an engine control mode that gives priority to torque. In this case, if the operator demand stabilizes at minimum or maximum, the tolerance on torque control in paragraph (b)(3) of this section does not apply.

(4) You may select the appropriate dynamometer and engine control modes in real-time or at any time prior based on various factors including the operating setpoint location relative to an engine operating boundary. Warm-up the engine as described in 40 CFR 1065.510(b)(2).

(6) Within 60 seconds after concluding the warm-up, linearly ramp the speed and torque setpoints over 5 seconds to the first steady-state engine operating point from paragraph (b)(1) of this section.

(7) Operate the engine at the steady-state engine operating point for (70 ± 1) seconds, and then start the test interval and record measurements using one of the following methods. You must also measure and report NOX emissions over each test interval as described in paragraph (a)(2) of this section. If you use redundant systems for the determination of fuel consumption, for example combining measurements of dilute and raw emissions when generating your map, follow the requirements of 40 CFR 1065.201(d).

(i) Indirect measurement of fuel flow. Record speed and torque and measure emissions and other inputs needed to run the chemical balance in 40 CFR 1065.655(c) for a (30 ± 1) second test interval; determine the corresponding mean values for the test interval. We will use an average of indirect measurement of fuel flow with dilute sampling and direct sampling. For dilute sampling of emissions, in addition to the background measurement provisions described in 40 CFR 1065.140 you may do the following:

(A) If you use batch sampling to measure background emissions, you may sample periodically into the bag over the course of multiple test intervals and read them as allowed in paragraph (b)(10)(i) of this section. If you use this provision, you must apply the same background readings to correct emissions from each of the applicable test intervals.

(B) You may determine background emissions by sampling from the dilution air during the non-test interval periods in the test sequence, including pauses allowed in paragraph (b)(10)(i) of this section. If you use this provision, you must allow sufficient time for stabilization of the background measurement; followed by an averaging period of at least 30 seconds. Use the average of the most recent pre-test interval and the next post-test interval background readings to correct each test interval. The most recent pre-test interval background reading must be taken no greater than 30 minutes prior to the start of the first applicable test interval and the next post-test interval background reading must be taken no later than 30 minutes after the end of the last applicable test interval. Background readings must be taken prior to the test interval for each reentry point and after the test interval for each exit point or more frequently.

(ii) Direct measurement of fuel flow. Record speed and torque and measure fuel consumption with a fuel flow meter for a (30 ± 1) second test interval; determine the corresponding mean values for the test interval.

(8) After completing the test interval described in paragraph (b)(7) of this section, linearly ramp the speed and torque setpoints over 5 seconds to the next steady-state engine operating point.

(i) You may pause the steady-state-fuel-mapping sequence at any of the reentry points (as noted in paragraph (b)(1)(iv) of this section) to calibrate emission-measurement instrumentation; to read and evacuate background bag samples collected over the course of multiple test intervals; or to sample the dilution air for background emissions. This provision allows you to spend more than the 70 seconds noted in paragraph (b)(7) of this section.

(ii) If an infrequent regeneration event occurs, interrupt the steady-state-fuel-mapping sequence and allow the regeneration event to finish. You may continue to operate at the steady-state engine operating point where the event began or, using good engineering judgement, you may transition to another operating condition to reduce the regeneration event duration. You may complete any post-test interval activities to validate test intervals prior to the most recent reentry point. Once the regeneration event is finished, linearly ramp the speed and torque setpoints over 5 seconds to the most recent reentry point described in paragraph (b)(1)(iv) of this section, and restart the steady-state-fuel-mapping sequence by repeating the steps in paragraphs (b)(7) and (8) of this section for all the remaining steady-state engine operating points. Operate at the reentry point for longer than the 70 seconds in paragraph (b)(7), as needed, to bring the aftertreatment to representative thermal conditions. Void all test intervals in the steady-state-fuel-mapping sequence beginning with the reentry point and ending with the steady-state engine operating point where the regeneration event began.

(iii) You may interrupt the steady-state-fuel-mapping sequence after any of the exit points described in paragraph (b)(1)(v) of this section. To restart the steady-state-fuel-mapping sequence; begin with paragraph (b)(5) of this section and continue with paragraph (b)(6) of this section, except that the steady-state engine operating point is the next reentry point, not the first operating point from paragraph (b)(1) of this section. Follow paragraphs (b)(7) and (8) of this section until all remaining steady-state engine operating points are tested.

(iv) If the steady-state-fuel-mapping sequence is interrupted due test equipment or engine malfunction, void all test intervals in the steady-state-fuel-mapping sequence beginning with the most recent reentry point as described in paragraph (b)(1)(iv) of this section. You may complete any post-test interval activities to validate test intervals prior to the most recent reentry point. Correct the malfunction and restart the steady-state-fuel-mapping sequence as described in paragraph (b)(10)(iii) of this section.

(v) If any steady-state engine test interval is voided, void all test intervals in the steady-state-fuel-mapping sequence beginning with the most recent reentry point as described in paragraph (b)(1)(iv) of this section and ending with the next exit point as described in paragraph (b)(1)(v) of this section. Rerun that segment of the steady-state-fuel-mapping sequence. If multiple test intervals are voided in multiple speed setpoints, you may exclude the speed setpoints where all of the test intervals were valid from the rerun sequence. Rerun the steady-state-fuel-mapping sequence as described in paragraph (b)(10)(iii) of this section.

(11) If you determine fuel-consumption rates using emission measurements from the raw or diluted exhaust, calculate the mean fuel mass flow rate, ṁ̄fuel, for each point in the fuel map using the following equation:

Where:

ṁ̄fuel = mean fuel mass flow rate for a given fuel map setpoint, expressed to at least the nearest 0.001 g/s.

MC = molar mass of carbon.

WCmeas = carbon mass fraction of fuel (or mixture of test fuels) as determined in 40 CFR 1065.655(d), except that you may not use the default properties in Table 1 of 40 CFR 1065.655 to determine α, β, and WC for liquid fuels.

ṅ̄exh = the mean raw exhaust molar flow rate from which you measured emissions according to 40 CFR 1065.655.

ẋ̄Ccombdry = the mean concentration of carbon from fuel and any injected fluids in the exhaust per mole of dry exhaust as determined in 40 CFR 1065.655(c).

ẋ̄H2Oexhdry = the mean concentration of H2O in exhaust per mole of dry exhaust as determined in 40 CFR 1065.655(c).

ṁ̄CO2DEF = the mean CO2 mass emission rate resulting from diesel exhaust fluid decomposition as determined in paragraph (b)(12) of this section. If your engine does not use diesel exhaust fluid, or if you choose not to perform this correction, set ṁ̄CO2DEF equal to 0.

MCO2 = molar mass of carbon dioxide.

Example:

MC = 12.0107 g/mol

wCmeas = 0.869

ṅ̄exh = 25.534 mol/s

ẋ̄Ccombdry = 0.002805 mol/mol

ẋ̄H2Oexhdry = 0.0353 mol/mol

ṁ̄CO2DEF = 0.0726 g/s

MCO2 = 44.0095 g/mol

(12) If you determine fuel-consumption rates using emission measurements with engines that utilize diesel exhaust fluid for NOX control, correct for the mean CO2 mass emissions resulting from diesel exhaust fluid decomposition at each fuel map setpoint using the following equation:

Where:

ṁ̄DEF = the mean mass flow rate of injected urea solution diesel exhaust fluid for a given sampling period, determined directly from the engine control module, or measured separately, consistent with good engineering judgment.

MCO2 = molar mass of carbon dioxide.

wCH4N2O = mass fraction of urea in diesel exhaust fluid aqueous solution. Note that the subscript “CH4N2O” refers to urea as a pure compound and the subscript “DEF” refers to the aqueous urea diesel exhaust fluid as a solution of urea in water. You may use a default value of 32.5% or use good engineering judgment to determine this value based on measurement.

MCH4N2O = molar mass of urea.

Example:

ṁ̄DEF = 0. 304 g/s

MCO2 = 44.0095 g/mol

wCH4N2O = 32.5% = 0.325

MCH4N2O = 60.05526 g/mol

(c) Fuel consumption at idle. Determine fuel-consumption rates for engines certified for installation in vocational vehicles for each engine configuration over a series of engine-idle operating points consisting of pairs of speed and torque points as described in this paragraph (c). You may use shared data across engine configurations, consistent with good engineering judgment. Perform measurements as follows:

(1) Determine the required engine-idle operating points as follows:

(i) Select the following two speed setpoints:

(A) Engines with an adjustable warm idle speed setpoint: Minimum warm idle speed, fnidlemin, and the maximum warm idle speed, fnidlemax.

(B) Engines without an adjustable warm idle speed setpoint: Warm idle speed (with zero torque on the primary output shaft), fnidle, and 1.15 times fnidle.

(ii) Select the following two torque setpoints at each of the selected speed setpoints: 0 and 100 N·m.

(iii) You may run these four engine-idle operating points in any order.

(2) Control speed and torque as follows:

(i) Engines with an adjustable warm idle speed setpoint. For the warm-up in paragraph (c)(3) and the transition in paragraph (c)(4) of this section control both speed and torque. At any time prior to reaching the next engine-idle operating point, set the engine's adjustable warm idle speed setpoint to the speed setpoint of the next engine-idle operating point in the sequence. This may be done before or during the warm-up or during the transition. Near the end of the transition period control speed and torque as described in paragraph (b)(3)(i) of this section. Once the transition is complete; set the operator demand to minimum to allow the engine governor to control speed; and control torque with the dynamometer as described in paragraph (b)(3) of this section.

(ii) Engines without an adjustable warm idle speed setpoint. Control speed and torque with operator demand and the dynamometer for the engine-idle operating points at the higher speed setpoint as described in paragraph (b)(3) of this section. Both the speed and torque tolerances apply for these points because they are not near the engine's operating boundary and are achievable. Control speed and torque for the engine-idle operating points at the lower speed setpoint as described in paragraph (c)(2)(i) of this section except for setting the engine's adjustable warm idle speed setpoint.

(3) Warm-up the engine as described in 40 CFR 1065.510(b)(2).

(4) After concluding the warm-up procedure, linearly ramp the speed and torque setpoints over 20 seconds to operate the engine at the next engine-idle operating point from paragraph (c)(1) of this section.

(5) Operate the engine at the engine-idle operating point for (180 ± 1) seconds, and then start the test interval and record measurements using one of the following methods. You must also measure and report NOX emissions over each test interval as described in paragraph (a)(2) of this section. If you use redundant systems for the determination of fuel consumption, for example combining measurements of dilute and raw emissions when generating your map, follow the requirements of 40 CFR 1065.201(d).

(i) Indirect measurement of fuel flow. Record speed and torque and measure emissions and other inputs needed to run the chemical balance in 40 CFR 1065.655(c) for a (600 ± 1) second test interval; determine the corresponding mean values for the test interval. We will use an average of indirect measurement of fuel flow with dilute sampling and direct sampling. For dilute sampling of emissions, measure background according to the provisions described in 40 CFR 1065.140, but read the background as described in paragraph (c)(7)(i) of this section. If you use batch sampling to measure background emissions, you may sample periodically into the bag over the course of multiple test intervals and read them as allowed in paragraph (b)(10)(i) of this section. If you use this provision, you must apply the same background readings to correct emissions from each of the applicable test intervals. If you use batch sampling to measure background emissions, you may sample periodically into the bag over the course of multiple test intervals and read them as allowed in paragraph (b)(10)(i) of this section. If you use this provision, you must apply the same background readings to correct emissions from each of the applicable test intervals. Note that the minimum dilution ratio requirements for PM sampling in 40 CFR 1065.140(e)(2) do not apply. We recommend minimizing the CVS flow rate to minimize errors due to background correction consistent with good engineering judgement and operational constraints such as minimum flow rate for good mixing.

(ii) Direct measurement of fuel flow. Record speed and torque and measure fuel consumption with a fuel flow meter for a (600 ± 1) second test interval; determine the corresponding mean values for the test interval.

(6) After completing the test interval described in paragraph (c)(5) of this section, repeat the steps in paragraphs (c)(3) to (5) of this section for all the remaining engine-idle operating points. After completing the test interval on the last engine-idle operating point, the fuel-consumption-at-idle sequence is complete.

(7) The following provisions apply for interruptions in the fuel-consumption-at-idle sequence. These provisions are intended to produce results equivalent to running the sequence without interruption.

(i) You may pause the fuel-consumption-at-idle sequence after each test interval to calibrate emission-measurement instrumentation and to read and evacuate background bag samples collected over the course of a single test interval. This provision allows you to shut-down the engine or to spend more time at the speed/torque idle setpoint after completing the test interval before transitioning to the step in paragraph (c)(3) of this section.

(ii) If an infrequent regeneration event occurs, interrupt the fuel-consumption-at-idle sequence and allow the regeneration event to finish. You may continue to operate at the engine-idle operating point where the event began or, using good engineering judgement, you may transition to another operating condition to reduce the regeneration event duration. If the event occurs during a test interval, void that test interval. Once the regeneration event is finished, restart the fuel-consumption-at-idle sequence by repeating the steps in paragraphs (c)(3) through (5) of this section for all the remaining engine-idle operating points.

(iii) You may interrupt the fuel-consumption-at-idle sequence after any of the test intervals. Restart the fuel-consumption-at-idle sequence by repeating the steps in paragraphs (c)(3) through (5) of this section for all the remaining engine-idle operating points.

(iv) If the fuel-consumption-at-idle sequence is interrupted due to test equipment or engine malfunction, correct the malfunction and restart the fuel-consumption-at-idle sequence by repeating the steps in paragraphs (c)(3) through (5) of this section for all the remaining engine-idle operating points. If the malfunction occurred during a test interval, void that test interval.

(v) If any idle test intervals are voided, repeat the steps in paragraphs (c)(3) through (5) of this section for each of the voided engine-idle operating points.

(8) Correct the measured or calculated mean fuel mass flow rate, ṁ̄fuel at each of the engine-idle operating points to account for mass-specific net energy content as described in paragraph (b)(13) of this section.

(d) Steady-state fuel maps used for cycle-average fuel mapping of the cruise cycles. Determine fuel-consumption rates for each engine configuration over a series of steady-state engine operating points near idle as described in this paragraph (d). You may use shared data across an engine platform to the extent that the fuel-consumption rates remain valid.

(1) Perform steady-state fuel mapping as described in paragraph (b) of this section with the following exceptions:

(i) All the required steady-state engine operating points as described in paragraph (b)(1)(i) of this section are optional.

(ii) Select speed setpoints to cover the range of idle speeds expected as follows:

(A) The minimum number of speed setpoints is two.

(B) For engines with an adjustable warm idle speed setpoint, the minimum speed setpoint must be equal to the minimum warm idle speed, ƒnidlemin, and the maximum speed setpoint must be equal to or greater than the maximum warm idle speed, ƒnidlemax. The minimum speed setpoint for engines without an adjustable warm idle speed setpoint, must be equal to the warm idle speed (with zero torque on the primary output shaft), ƒnidle, and the maximum speed setpoint must be equal to or greater than 1.15 times the warm idle speed, ƒnidle.

(iii) Select torque setpoints at each speed setpoint to cover the range of idle torques expected as follows:

(A) The minimum number of torque setpoints at each speed setpoint is three. Note that you must meet the minimum torque spacing requirements described in paragraph (b)(1)(ii) of this section.

(B) The minimum torque setpoint at each speed setpoint is zero.

(C) The maximum torque setpoint at each speed setpoint must be greater than or equal to the estimated maximum torque at warm idle (in-drive) conditions, Tidlemaxest, using the following equation. For engines with an adjustable warm idle speed setpoint, evaluate Tidlemaxest at the maximum warm idle speed, ƒnidlemax. For engines without an adjustable warm idle speed setpoint, use the warm idle speed (with zero torque on the primary output shaft), ƒnidle.

Where:

Tfnstall = the maximum engine torque at ƒnstall.

ƒnidle = the applicable engine idle speed as described in this paragraph (d).

ƒnstall = the stall speed of the torque converter; use ƒntest or 2250 rpm, whichever is lower.

Pacc = accessory power for the vehicle class; use 1500 W for Vocational Light HDV, 2500 W for Vocational Medium HDV, and 3500 W for Tractors and Vocational Heavy HDV.

Example:

Tfnstall = 1870 N·m

ƒntest = 1740.8 r/min = 182.30 rad/s

ƒnstall = 1740.8 r/min = 182.30 rad/s

ƒnidle = 700 r/min = 73.30 rad/s

Pacc = 1500 W

(2) Remove the points from the default map that are below 115% of the maximum speed and 115% of the maximum torque of the boundaries of the points measured in paragraph (d)(1) of this section.

(3) Add the points measured in paragraph (d)(1) of this section.

(e) Carbon balance verification. The provisions related to carbon balance verification in § 1036.543 apply to test intervals in this section.

(f) Correction for net energy content. Correct the measured or calculated mean fuel mass flow rate, ṁ̄fuel at each engine operating condition as specified in paragraphs (b), (c), and (d) of this section to a mass-specific net energy content of a reference fuel using the following equation:

Where:

Emfuelmeas = the mass-specific net energy content of the test fuel as determined in § 1036.530(b)(1).

EmfuelCref = the reference value of carbon-mass-specific net energy content for the appropriate fuel. Use the values shown in Table 1 of § 1036.530 for the designated fuel types, or values we approve for other fuel types.

wCref = the reference value of carbon mass fraction for the test fuel as shown in Table 1 of § 1036.530 for the designated fuels. For other fuels, use the reference carbon mass fraction of diesel fuel for engines subject to compression-ignition standards, and use the reference carbon mass fraction of gasoline for engines subject to spark-ignition standards.

Example:

ṁ̄fuel = 0.933 g/s

Emfuelmeas = 42.7984 MJ/kgC

EmfuelCref = 49.3112 MJ/kgC

wCref = 0.874

(g) Measured v. declared fuel-consumption rates. Select fuel-consumption rates in g/s to characterize the engine's fuel maps. These declared values may not be lower than any corresponding measured values determined in paragraphs (b) through (d) of this section. This includes if you use multiple measurement methods as allowed in paragraph (b)(7) of this section. You may select any value that is at or above the corresponding measured value. These declared fuel-consumption rates, which serve as emission standards under § 1036.108, are the values that vehicle manufacturers will use for certification under 40 CFR part 1037. Note that production engines are subject to GEM cycle-weighted limits as described in § 1036.301. If you perform the carbon balance error verification in § 1036.543, for each fuel map data point:

(1) If you pass the εrC verification, you must declare fuel-consumption rates no lower than the average of the direct and indirect fuel measurements.

(2) If you pass either the εaC verification or εaCrate verification and fail the εrC verification, you must declare fuel-consumption rates no lower than the indirect fuel measurement.

(3) If you don't pass the εrC, εaC, and εaCrate verifications, you must declare fuel-consumption rates no lower than the highest rate for the direct and indirect fuel measurements.

115. Amend § 1036.540 by revising paragraphs (c), (d), and (e) to read as follows:

§ 1036.540 Determining cycle-average engine fuel maps.

* * * * *

(c) Create engine duty cycles. Use GEM to simulate several different vehicle configurations to create transient and highway cruise engine duty cycles corresponding to each vehicle configuration, as follows:

(1) Set up GEM to simulate vehicle operation based on your engine's torque maps, steady-state fuel maps, engine minimum warm-idle speed and fuel consumption at idle as described in paragraphs (a)(1) and (2) of this section, as well as 40 CFR 1065.405(b). For engines without an adjustable warm idle speed replace minimum warm idle speed with warm idle speed, fnidle.

(2) Set up GEM with transmission parameters for different vehicle service classes and vehicle duty cycles as described in Table 1 of this section. For automatic transmissions set neutral idle to “Y” in the vehicle file. These values are based on automatic or automated manual transmissions, but they apply for all transmission types.

(3) Run GEM for each simulated vehicle configuration as follows:

Where:

fn[speed] = engine's angular speed as determined in paragraph (c)(3)(ii) or (iii) of this section.

ktopgear = transmission gear ratio in the highest available gear from Table 1 of this section (for powertrain testing use actual top gear ratio).

vref = reference speed. Use 65 mi/hr for the transient cycle and the 65 mi/hr highway cruise cycle, and use 55 mi/hr for the 55 mi/hr highway cruise cycle.

Example:

This example is for a vocational Light HDV or vocational Medium HDV with a 6-speed automatic transmission at B speed (Test 3 or 4 in Table 2 of this section).

fnrefB = 1870 r/min = 31.17 r/s

kaB = 4.0

ktopgear = 0.61

vref = 65 mi/hr = 29.06 m/s

(ii) Test at least eight different vehicle configurations for engines that will be installed in vocational Light HDV or vocational Medium HDV using vehicles in Table 2 of this section. For example, if your engines will be installed in vocational Medium HDV and vocational Heavy HDV, you might select Tests 2, 4, 6, and 8 of Table 2 of this section to represent vocational Heavy HDV and Tests 2, 3, 4, 6, and 9 of Table 3 of this section to represent vocational Medium HDV. You may test your engine using additional vehicle configurations with different ka and Crr values to represent a wider range of in-use vehicle configurations. For all vehicle configurations set the drive axle configuration to 4x2. For powertrain testing, set Mrotating to 340 kg and Effaxle to 0.955 for all test configurations. Set the axle ratio, ka, and tire size,

for each test configuration based on the corresponding designated engine speed (A, B, C, or fntest) at 65 mi/hr for the transient cycle and the 65 mi/hr highway cruise cycle, and at 55 mi/hr for the 55 mi/hr highway cruise cycle. These vehicle speeds apply equally for engines subject to spark-ignition standards. Use the following settings specific to each vehicle configuration:

(iii) Test nine different vehicle configurations for engines that will be installed in vocational Heavy HDV and for tractors that are not heavy-haul tractors. Test six different test configurations for heavy-haul tractors. You may test your engines for additional configurations with different ka, CdA, and Crr values to represent a wider range of in-use vehicle configurations. Set Crr to 6.9 for all nine defined test configurations. For class 7 and 8 vehicle configurations set the drive axle configuration to 4x2 and 6x4 respectively. For powertrain testing, set Effaxle to 0.955 for all test configurations. Set the axle ratio, ka, and tire size,

for each test configuration based on the corresponding designated engine speed (B, fntest, or the minimum NTE exclusion speed as determined in 40 CFR 86.1370(b)(1)) at 65 mi/hr for the transient duty cycle and the 65 mi/hr highway cruise duty cycle, and at 55 mi/hr for the 55 mi/hr highway cruise duty cycle. Use the settings specific to each test configuration as shown in Table 3 or Table 4 of this section, as appropriate. Engines subject to testing under both Table 3 and Table 4 of this section need not repeat overlapping test configurations, so complete fuel mapping requires testing 12 (not 15) test configurations for those engines. However, this does not apply if you choose to create two separate maps from the vehicles configurations defined in Table 3 and Table 4 of this section. Note that Mrotating is needed for powertrain testing but not for engine testing. Tables 3 and 4 follow:

(iv) If the engine will be installed in a combination of vehicles defined in paragraphs (ii) and (iii) of this section, use good engineering judgment to select at least nine test configurations from Table 2 and Table 3 of this section that best represent the range of vehicles your engine will be sold in. If there are not nine representative configurations you must add vehicles, that you define, to reach a total of at least nine vehicles. For example, if your engines will be installed in vocational Medium HDV and vocational Heavy HDV, select Tests 2, 4, 6, and 8 of Table 2 of this section to represent Medium HDV and Tests 3, 6, and 9 of Table 3 of this section to represent vocational Heavy HDV and add two more vehicles that you define. You may test your engine using additional vehicle configurations with different ka and Crr values to represent a wider range of in-use vehicle configurations.

(v) Use the defined values in Tables 1 through 4 of this section to set up GEM with the correct regulatory subcategory and vehicle weight reduction, if applicable, to achieve the target vehicle mass, M, for each test.

(4) Use the GEM output of instantaneous engine speed and engine flywheel torque for each of the vehicle configurations to generate a 10 Hz transient duty cycle corresponding to each vehicle configuration operating over each vehicle duty cycle.

(d) Test the engine with GEM cycles. Test the engine over each of the transient engine duty cycles generated in paragraph (c) of this section as follows:

(1) Determine the sequence of engine duty cycles (both required and optional) for the cycle-average-fuel-mapping sequence as follows:

(i) Sort the list of engine duty cycles into three separate groups by vehicle duty cycle; transient vehicle duty cycle, 55 mi/hr highway cruise duty cycle, and the 65 mi/hr highway cruise duty cycle.

(ii) Within each group of engine duty cycles derived from the same vehicle duty cycle, order the duty cycles as follows: Select the engine duty cycle with the highest reference cycle work; followed by the cycle with the lowest cycle work; followed by the cycle with next highest cycle work; followed by the cycle with the next lowest cycle work; until all the cycles are selected.

(iii) For each engine duty cycle, preconditioning cycles will be needed to start the cycle-average-fuel-mapping sequence.

(A) For the first and second cycle in each sequence, the two preconditioning cycles are the first cycle in the sequence, the transient vehicle duty cycle with the highest reference cycle work. This cycle is run twice for preconditioning prior to starting the sequence for either of the first two cycles.

(B) For all other cycles, the two preconditioning cycles are the previous two cycles in the sequence.

(2) If the engine has an adjustable warm idle speed setpoint, set it to its minimum value, ƒnidlemin.

(3) During each test interval, control speed and torque to meet the cycle validation criteria in 40 CFR 1065.514, except as noted in this paragraph (d)(3). If the range of reference speeds is less than 10 percent of the mean reference speed, you only need to meet the standard error of estimate in Table 2 of 40 CFR 1065.514 for the speed regression.

(4) Warm-up the engine as described in 40 CFR 1065.510(b)(2).

(5) Transition between duty cycles as follows:

(i) For transient duty cycles, start the next cycle within 5 seconds after the conclusion of the preceeding cycle.

(ii) For cruise cycles, linearly ramp to the next cycle over 5 seconds and stabilize for 15 seconds prior to starting the next cycle.

(6) Operate the engine over the engine duty cycle and record measurements using one of the methods described in (d)(6)(i) or (ii) of this section. You must also measure and report NOX emissions over each test interval as described in paragraph (a)(2) of this section. If you use redundant systems for the determination of fuel consumption, for example combining measurements of dilute and raw emissions when generating your map, follow the requirements of 40 CFR 1065.201(d).

(i) Indirect measurement of fuel flow. Record speed and torque and measure emissions and other inputs needed to run the chemical balance in 40 CFR 1065.655(c) for the test interval defined by the first engine duty cycle; determine the corresponding mean values for the test interval. We will use an average of indirect measurement of fuel flow with dilute sampling and direct sampling. For dilute sampling of emissions, in addition to the background measurement provisions described in 40 CFR 1065.140, you may do the following:

(A) Measure background as described in § 1036.535(b)(7)(i)(A) but read the background as described in paragraph (d)(9)(i) of this section.

(B) Measure background as described in § 1036.535(b)(7)(i)(B) but read the background as described in paragraph (d)(9)(i) of this section.

(ii) Direct measurement of fuel flow. Record speed and torque and measure fuel consumption with a fuel flow meter for the test interval defined by the first engine duty cycle; determine the corresponding mean values for the test interval.

(7) Repeat the steps in paragraph (d)(6) of this section for all the remaining engine duty cycles.

(8) Repeat the steps in paragraphs (d)(4) through (7) of this section for all the applicable groups of duty cycles (e.g., transient vehicle duty cycle, 55 mi/hr highway cruise duty cycle, and the 65 mi/hr highway cruise duty cycle).

(9) The following provisions apply for interruptions in the cycle-average-fuel-mapping sequence. These provisions are intended to produce results equivalent to running the sequence without interruption.

(i) You may pause the cycle-average-fuel-mapping sequence after each test interval to calibrate emission-measurement instrumentation, to read and evacuate background bag samples collected over the course of multiple test intervals, or to sample the dilution air for background emissions. This provision requires you to shut-down the engine during the pause. If the pause is longer than 30 minutes, restart the engine and restart the cycle-average-fuel-mapping sequence at the step in paragraph (d)(4) of this section. Otherwise, restart the engine and restart the cycle-average-fuel-mapping sequence at the step in paragraph (d)(5) of this section.

(ii) If an infrequent regeneration event occurs, interrupt the cycle-average-fuel-mapping sequence and allow the regeneration event to finish. You may continue to operate the engine over the engine duty cycle where the event began or, using good engineering judgement, you may transition to another operating condition to reduce the regeneration event duration.

(A) Determine which cycles in the sequence to void as follows:

(1) If the regeneration event began during a test interval, the cycle associated with that test interval must be voided.

(2) If you used dilute sampling to measure emissions and you used batch sampling to measure background emissions that were sampled periodically into the bag over the course of multiple test intervals and you are unable to read the background bag (e.g., sample volume too small), void all cycles associated with that background bag.

(3) If you used dilute sampling to measure emissions and you used the option to sample periodically from the dilution air and you did not meet all the requirements for this option as described in paragraph (d)(6)(i)(B) of this section, void all cycles associated with those background readings.

(4) If the regeneration event began during a non-test-interval period of the sequence and the provisions in paragraphs (d)(9)(ii)(A)(2) and (3) of this section do not apply, you do not need to void any cycles.

(B) Determine the cycle to restart the sequence. Identify the cycle associated with the last valid test interval. The next cycle in the sequence is the cycle to be used to restart the sequence.

(C) Once the regeneration event is finished, restart the sequence at the cycle determined in paragraph (d)(9)(ii)(B) of this section instead of the first cycle of the sequence. If the engine is not already warm, restart the sequence at paragraph (d)(4) of this section. Otherwise, restart at paragraph (d)(5) of this section.

(iii) If the cycle-average-fuel-mapping sequence is interrupted due to test equipment or engine malfunction, correct the malfunction and follow the steps in paragraphs (d)(9)(ii)(A) through (C) of this section to restart the sequence. Treat the detection of the malfunction as the beginning of the regeneration event.

(iv) If any test interval in the cycle-average-fuel-mapping sequence is voided, you must rerun that test interval as described in this paragraph (d)(9)(iv). You may rerun the whole sequence or any contiguous part of the sequence. If you end up with multiple valid test intervals for a given cycle, use the last valid test interval for determining the cycle-average fuel map. If the engine has been shut-down for more than 30 minutes or if it is not already warm, restart the sequence at paragraph (d)(4) of this section. Otherwise, restart at paragraph (d)(5) of this section. Repeat the steps in paragraphs (d)(6) and (d)(7) of this section until you complete the whole sequence or part of the sequence. The following examples illustrate possible scenarios for completing only part of the sequence:

(A) If you voided only the test interval associated with the fourth cycle in the sequence, you may restart the sequence using the second and third cycles as the preconditioning cycles and stop after completing the test interval associated with the fourth cycle.

(B) If you voided the test intervals associated with the fourth and sixth cycles, you may restart the sequence using the second and third cycles as the preconditioning cycles and stop after completing the test interval associated with the sixth cycle. If the test interval associated with the fifth cycle in this sequence was valid, it must be used for determining the cycle-average fuel map instead of the original one.

(10) For plug-in hybrid engines, precondition the battery and then complete all back-to-back tests for each test configuration according to 40 CFR 1066.501 before moving to the next test configuration.

(11) You may send signals to the engine controller during the test, such as current transmission gear and vehicle speed, if that allows engine operation during the test to better represent in-use operation.

(12) For hybrid powertrains with no plug-in capability, correct for the net energy change of the energy storage device as described in 40 CFR 1066.501. For plug-in hybrid engines, follow 40 CFR 1066.501 to determine End-of-Test for charge-depleting operation; to do this, you must get our advance approval for a utility factor curve. We will approve your utility factor curve if you can show that you created it from sufficient in-use data of vehicles in the same application as the vehicles in which the PHEV engine will be installed.

(13) Calculate the fuel mass flow rate, mfuel, for each duty cycle using one of the following equations:

(i) Determine fuel-consumption rates using emission measurements from the raw or diluted exhaust, calculate the mass of fuel for each duty cycle, mfuel[cycle], as follows:

(A) For calculations that use continuous measurement of emissions and continuous CO2 from urea, calculate mfuel[cycle] using the following equation:

Where:

MC = molar mass of carbon.

wCmeas = carbon mass fraction of fuel (or mixture of test fuels) as determined in 40 CFR 1065.655(d), except that you may not use the default properties in Table 1 of 40 CFR 1065.655 to determine α, β, and wC for liquid fuels.

i = an indexing variable that represents one recorded emission value.

N = total number of measurements over the duty cycle.

ṅexh = exhaust molar flow rate from which you measured emissions.

xCcombdry = amount of carbon from fuel and any injected fluids in the exhaust per mole of dry exhaust as determined in 40 CFR 1065.655(c).

xH2Oexhdry = amount of H2O in exhaust per mole of exhaust as determined in 40 CFR 1065.655(c).

Δt = 1/ƒrecord.

MCO2 = molar mass of carbon dioxide.

ṁCO2DEFi = mass emission rate of CO2 resulting from diesel exhaust fluid decomposition over the duty cycle as determined from § 1036.535(b)(10). If your engine does not utilize diesel exhaust fluid for emission control, or if you choose not to perform this correction, set ṁCO2DEFi equal to 0.

Example:

MC = 12.0107 g/mol

wCmeas = 0.867

N = 6680

ṅexh1 = 2.876 mol/s

ṅexh2 = 2.224 mol/s

xCcombdry1 = 2.61·10−³ mol/mol

xCcombdry2 = 1.91·10−³ mol/mol

xH2Oexh1 = 3.53·10−² mol/mol

xH2Oexh2 = 3.13·10−² mol/mol

ƒrecord = 10 Hz

Δt = 1/10 = 0.1 s

MCO2 = 44.0095 g/mol

ṁCO2DEF1 = 0.0726 g/s

ṁCO2DEF2= 0.0751 g/s

(C) If you measure continuous emissions and batch CO2 from urea, calculate mfuel[cycle] using the following equation:

(ii) Manufacturers may choose to measure fuel mass flow rate. Calculate the mass of fuel for each duty cycle, mfuel[cycle], as follows:

Where:

i = an indexing variable that represents one recorded value.

N = total number of measurements over the duty cycle. For batch fuel mass measurements, set N = 1.

ṁfueli = the fuel mass flow rate, for each point, i, starting from i = 1.

Δt = 1/ƒrecord.

ƒrecord = the data recording frequency.

Example:

N = 6680

ṁfuel1 = 1.856 g/s

ṁfuel2 = 1.962 g/s

frecord = 10 Hz

Δt = 1/10 = 0.1 s

mfueltransient = (1.856 + 1.962 +. . .+ ṁfuel6680)·0.1

mfueltransient = 111.95 g

(14) The provisions related to carbon balance verification in § 1036.543 apply to test intervals in this section.

(15) Correct the measured or calculated fuel mass flow rate, mfuel for each test result to a mass-specific net energy content of a reference fuel as described in § 1036.535(e), replacing ṁ̄fuel with mfuel in Eq. 1036.535-4.

(16) For engines designed for plug-in hybrid electric vehicles, the mass of fuel for each cycle, mfuel[cycle], is the utility factor-weighted fuel mass. This is done by calculating mfuel for the full charge-depleting and charge-sustaining portions of the test and weighting the results, using the following equation:

Where:

mfuel[cycle],CD = total mass of fuel for all the tests in the charge-depleting portion of the test.

UFD,CD = utility factor fraction at distance DCD as determined by interpolating the approved utility factor curve.

mfuel[cycle],CS = total mass of fuel for all the tests in the charge-sustaining portion of the test.

Where:

v = vehicle velocity at each time step. For tests completed under this section, v is the vehicle velocity in the GEM duty-cycle file. For tests under 40 CFR 1037.550, v is the vehicle velocity as determined by Eq. 1037.550-1. Note that this should include complete and incomplete charge-depleting tests.

(e) Determine GEM inputs. Use the results of engine testing in paragraph (d) of this section to determine the GEM inputs for the transient duty cycle and optionally for each of the highway cruise cycles corresponding to each simulated vehicle configuration as follows:

(1) Your declared fuel mass consumption, mfueltransient. Using the calculated fuel mass consumption values described in paragraph (d) of this section, declare values using the method described in § 1036.535(g).

(2) Engine output speed per unit vehicle speed,

by taking the average engine speed measured during the engine test while the vehicle is moving and dividing it by the average vehicle speed provided by GEM. Note that the engine cycle created by GEM has a flag to indicate when the vehicle is moving.

(3) Positive work determined according to 40 CFR 1065, Wtransient, by using the engine speed and engine torque measured during the engine test while the vehicle is moving. Note that the engine cycle created by GEM has a flag to indicate when the vehicle is moving.

(4) The following table illustrates the GEM data inputs corresponding to the different vehicle configurations:

(5) The engine idle speed and torque, by taking the average engine speed and torque measured during the engine test while the vehicle is not moving. Note that the engine cycle created by GEM has a flag to indicate when the vehicle is moving.

116. Add § 1036.543 to read as follows:

§ 1036.543 Carbon balance error verification.

A carbon balance error verification compares independent assessments of the flow of carbon through the system (engine plus aftertreatment). We will, and you may optionally, verify carbon balance error according to 40 CFR part 1065.543. This applies to all test intervals in § 1036.535 (b), (c), and (d); § 1036.540; and 40 CFR 1037.550.

* * * * *

117. Amend § 1036.701 by revising paragraph (j) to read as follows:

§ 1036.701 General provisions.

* * * * *

(j) Credits you generate with compression-ignition engines in 2020 and earlier model years may be used in model year 2021 and later as follows:

(1) For credit-generating engines certified to the tractor engine standards in § 1036.108, you may use credits calculated relative to the tractor engine standards.

(2) For credit-generating engines certified to the vocational engine standards in § 1036.108, you may use credits calculated relative to the emission levels in the following table:

Table 1 Paragraph (j)—Emission Levels for Credit Calculation
Medium heavy-duty engines | Heavy heavy-duty engines
558 g/hp·hr | 525 g/hp·hr.

* * * * *

118. Amend § 1036.705 by revising paragraph (b)(5) to read as follows:

§ 1036.705 Generating and calculating emission credits.

* * * * *

(b) * * *

(5) You may generate CO2 emission credits from a model year 2021 or later medium heavy-duty engine family subject to spark-ignition standards for exchanging with other engine families only if the engines in the family are gasoline-fueled. You may generate CO2 credits from non-gasoline engine families only for the purpose of offsetting CH4 and/or N2O emissions within the same engine family as described in paragraph (d) of this section.

* * * * *

119. Amend § 1036.801 by revising the definitions for “Heavy-duty vehicle” and “Hybrid” and adding definitions for “Hybrid engine” and “Mild hybrid” in alphabetical order to read as follows:

§ 1036.801 Definitions.

* * * * *

Heavy-duty vehicle means any motor vehicle above 8,500 pounds GVWR. An incomplete vehicle is also a heavy-duty vehicle if it has a curb weight above 6,000 pounds or a basic vehicle frontal area greater than 45 square feet. Curb weight and Basic vehicle frontal area have the meaning given in 40 CFR 86.1803.

Hybrid means an engine or powertrain that includes energy storage features other than a conventional battery system or conventional flywheel. Supplemental electrical batteries and hydraulic accumulators are examples of hybrid energy storage systems. Note that certain provisions in this part treat hybrid engines and hybrid powertrains intended for vehicles that include regenerative braking different than those intended for vehicles that do not include regenerative braking.

Hybrid engine means a hybrid system with features for storing and recovering energy that are integral to the engine or are otherwise upstream of the vehicle's transmission. Hybrid features connected to the front end of the engine are known as P0, and hybrid features connected to the crankshaft are known as P1.

* * * * *

Mild hybrid means a hybrid engine or hybrid powertrain with regenerative braking capability where the system recovers less than 20 percent of the total braking energy over the transient cycle defined in Appendix I of 40 CFR part 1037.

* * * * *

120. Revise § 1036.805 to read as follows:

§ 1036.805 Symbols, abbreviations, and acronyms.

The procedures in this part generally follow either the International System of Units (SI) or the United States customary units, as detailed in NIST Special Publication 811 (incorporated by reference in § 1036.810). See 40 CFR 1065.20 for specific provisions related to these conventions. This section summarizes the way we use symbols, units of measure, and other abbreviations.

(a) Symbols for chemical species. This part uses the following symbols for chemical species and exhaust constituents:

Symbol | Species
C | carbon.
CH4 | methane.
CH4N2O | urea.
CO | carbon monoxide.
CO2 | carbon dioxide.
H2O | water.
HC | hydrocarbon.
NMHC | nonmethane hydrocarbon.
NMHCE | nonmethane hydrocarbon equivalent.
NO | nitric oxide.
NO2 | nitrogen dioxide.
NOX | oxides of nitrogen.
N2O | nitrous oxide.
PM | particulate matter.

(b) Symbols for quantities. This part uses the following symbols and units of measure for various quantities:

Symbol | Quantity | Unit | Unit symbol | Unit in terms of SI base units
α | atomic hydrogen-to-carbon ratio | mole per mole | mol/mol | 1.
A | area | square meter | m² | m².
β | atomic oxygen-to-carbon ratio | mole per mole | mol/mol | 1.
CdA | drag area | meter squared | m² | m².
Crr | coefficient of rolling resistance | kilogram per metric ton | kg/tonne | 10−³.
D | distance | miles or meters | mi or m | m.
ε | efficiency
ε | Difference or error quantity
e | mass weighted emission result | grams/ton-mile | g/ton-mi | g/kg-km.
Eff | efficiency
Em | mass-specific net energy content | megajoules/kilogram | MJ/kg | m²·s−².
fn | angular speed (shaft) | revolutions per minute | r/min | π·30·s−¹.
g | gravitational acceleration | meters per second squared | m/s² | m·s−².
i | indexing variable
ka | drive axle ratio |  |  | 1.
ktopgear | highest available transmission gear
m | mass | pound mass or kilogram | lbm or kg | kg.
M | molar mass | gram per mole | g/mol | 10−³· kg·mol−¹.
M | vehicle mass | kilogram | kg | kg.
Mrotating | inertial mass of rotating components | kilogram | kg | kg.
N | total number in a series
P | power | kilowatt | kW | 10³·m²·kg·s−³.
ρ | mass density | kilogram per cubic meter | kg/m³ | m−³·kg.
r | tire radius | meter | m | m.
σ | standard deviation
T | torque (moment of force) | newton meter | N·m | m²·kg·s−².
t | time | second | s | s.
Δt | time interval, period, 1/frequency | second | s | s.
UF | utility factor
v | speed | miles per hour or meters persecond | mi/hr or m/s | m·s−¹.
W | work | kilowatt-hour | kW·hr | 3.6·m²·kg·s−¹.
wC | carbon mass fraction | gram/gram | g/g | 1.
wCH4N2O | urea mass fraction | gram/gram | g/g | 1.
x | amount of substance mole fraction | mole per mole | mol/mol | 1.
xb | brake energy fraction
xbl | brake energy limit

(c) Superscripts. This part uses the following superscripts for modifying quantity symbols:

Superscript | Meaning
overbar (such as ȳ) | arithmetic mean.
overdot (such as ẏ) | quantity per unit time.

(d) Subscripts. This part uses the following subscripts for modifying quantity symbols:

Subscript | Meaning
65 | 65 miles per hour.
A | A speed.
a | absolute (e.g., absolute difference or error).
acc | accessory.
app | approved.
axle | axle.
B | B speed.
C | C speed.
C | carbon mass.
Ccombdry | carbon from fuel per mole of dry exhaust.
CD | charge-depleting.
CO2DEF | CO2 resulting from diesel exhaust fluid decomposition.
comb | combustion.
comp | composite.
cor | corrected.
CS | charge-sustaining.
cycle | test cycle.
DEF | diesel exhaust fluid.
engine | engine.
exh | raw exhaust.
front | frontal.
fuel | fuel.
H2Oexhaustdry | H2O in exhaust per mole of exhaust.
hi | high.
i | an individual of a series.
idle | idle.
m | mass.
max | maximum.
mapped | mapped.
meas | measured quantity.
neg | negative.
pos | positive.
r | relative (e.g., relative difference or error).
rate | rate (divided by time).
rated | rated.
record | record.
ref | reference quantity.
speed | speed.
stall | stall.
test | test.
tire | tire.
transient | transient.
μ | vector.
vehicle | vehicle.

(e) Other acronyms and abbreviations. This part uses the following additional abbreviations and acronyms:

ABT | averaging, banking, and trading.
AECD | auxiliary emission control device.
ASTM | American Society for Testing and Materials.
BTU | British thermal units.
CD | charge-depleting.
CFR | Code of Federal Regulations.
CI | compression ignition.
COV | coefficient of variation.
CS | charge-sustaining.
DEF | diesel exhaust fluid.
DF | deterioration factor.
DOT | Department of Transportation.
E85 | gasoline blend including nominally 85 percent denatured ethanol.
EPA | Environmental Protection Agency.
FCL | Family Certification Level.
FEL | Family Emission Limit.
GEM | Greenhouse gas Emissions Model.
g/hp·hr | grams per brake horsepower-hour.
GVWR | gross vehicle weight rating.
HDV | heavy-duty vehicle.
LPG | liquefied petroleum gas.
NARA | National Archives and Records Administration.
NHTSA | National Highway Traffic Safety Administration.
NTE | not-to-exceed.
RESS | rechargeable energy storage system.
RMC | ramped-modal cycle.
rpm | revolutions per minute.
SCR | Selective catalytic reduction.
SI | spark ignition.
U.S | United States.
U.S.C | United States Code.

(f) Constants. This part uses the following constants:

Symbol | Quantity | Value
g | gravitational constant | 9.81 m·s−2

(g) Prefixes. This part uses the following prefixes to define a quantity:

Symbol | Quantity | Value
μ | micro | 10−6
m | milli | 10−3
c | centi | 10−2
k | kilo | 103
M | mega | 103

121. Revise § 1036.810 to read as follows:

§ 1036.810 Incorporation by reference.

Certain material is incorporated by reference into this part with the approval of the Director of the Federal Register under 5 U.S.C. 552(a) and 1 CFR part 51. To enforce any edition other than that specified in this section, the Environmental Protection Agency must publish a document in the Federal Register and the material must be available to the public. All approved material is available for inspection at U.S. EPA, Air and Radiation Docket and Information Center, WJC West Building, Room 3334, 1301 Constitution Ave. NW, Washington, DC 20460, www.epa.gov/dockets, (202) 202-1744, and is available from the sources listed in the following paragraphs of this section. It is also available for inspection at the National Archives and Records Administration (NARA). For information on the availability of this material at NARA, email fedreg.legal@nara.gov, or go to www.archives.gov/federal-register/cfr/ibr-locations.html. (a) American Society for Testing and Materials, 100 Barr Harbor Drive, P.O. Box C700, West Conshohocken, PA 19428-2959, (877) 909-2786, www.astm.org/.

(1) ASTM D3588-98 (Reapproved 2017) Standard Practice for Calculating Heat Value, Compressibility Factor, and Relative Density of Gaseous Fuels, approved April 1, 2017, (“ASTM D3588”), IBR approved for § 1036.530(b).

(2) ASTM D4809-13, Standard Test Method for Heat of Combustion of Liquid Hydrocarbon Fuels by Bomb Calorimeter (Precision Method), approved May 1, 2013, (“ASTM D4809”), IBR approved for § 1036.530(b).

(b) National Institute of Standards and Technology, 100 Bureau Drive, Stop 1070, Gaithersburg, MD 20899-1070, (301) 975-6478, or www.nist.gov.

(1) NIST Special Publication 811, Guide for the Use of the International System of Units (SI), 2008 Edition, March 2008, IBR approved for § 1036.805.

(2) [Reserved]

Appendix I to Part 1036—[Redesignated]

122. Redesignate Appendix I to part 1036 as Appendix III to part 1036 and add a new Appendix I to part 1306 to read as follows:

Appendix I to Part 1036—Summary of Previous Emission Standards

The following standards, which EPA originally adopted under 40 CFR part 85 or part 86, apply to compression-ignition engines produced before model year 2007 and to spark-ignition engines produced before model year 2008:

(a) Smoke. Smoke standards applied for compression-ignition engines based on opacity measurement using the test procedures in 40 CFR part 86, subpart I, as follows:

(1) Engines were subject to the following smoke standards for model years 1970 through 1973:

(i) 40 percent during the engine acceleration mode.

(ii) 20 percent during the engine lugging mode.

(2) The smoke standards in 40 CFR 86.11 started to apply in model year 1974.

(b) Idle CO. A standard of 0.5 percent of exhaust gas flow at curb idle applied through model year 2016 to the following engines:

(1) Spark-ignition engines with aftertreatment starting in model year 1987. This standard applied only for gasoline-fueled engines through model year 1997. Starting in model year 1998, the same standard applied for engines fueled by methanol, LPG, and natural gas. The idle CO standard no longer applied for engines certified to meet onboard diagnostic requirements starting in model year 2005.

(2) Methanol-fueled compression-ignition engines starting in model year 1990. This standard also applied for natural gas and LPG engines starting in model year 1997. The idle CO standard no longer applied for engines certified to meet onboard diagnostic requirements starting in model year 2007.

(c) Crankcase emissions. The requirement to design engines to prevent crankcase emissions applied starting with the following engines:

(1) Spark-ignition engines starting in model year 1968. This standard applied only for gasoline-fueled engines through model year 1989, and applied for spark-ignition engines using other fuels starting in model year 1990.

(2) Naturally aspirated diesel-fueled engines starting in model year 1985.

(3) Methanol-fueled compression-ignition engines starting in model year 1990.

(4) Naturally aspirated gaseous-fueled engines starting in model year 1997, and all other gaseous-fueled engines starting in 1998.

(d) Early steady-state standards. The following criteria standards applied to heavy-duty engines based on steady-state measurement procedures:

Table 1 to Appendix I—Early Steady-State Emission Standards for Heavy-Duty Engines
Model year | Fuel | Pollutant: HC | Pollutant: NOX + HC | Pollutant: CO
1970-1973 | gasoline | 275 ppm |  | 1.5 volume percent.
1974-1978 | gasoline and diesel |  | 16 g/hp·hr | 40 g/hp·hr
1979-1984 ᵃ | gasoline and diesel |  | 5 g/hp·hr for diesel 0 g/hp·hr for gasoline | 25 g/hp·hr
ᵃ An optional NOX + HC standard of 10 g/hp·hr applied in 1979 through 1984 in conjunction with a separate HC standard of 1.5 g/hp·hr.

(e) Transient emission standards for spark-ignition engines. The following criteria standards applied for spark-ignition engines based on transient measurement using the test procedures in 40 CFR part 86, subpart N. Starting in model year 1991, manufacturers could generate or use emission credits for NOX and NOX + NMHC standards. Table 2 follows:

Table 2 to Appendix I—Transient Emission Standards for Spark-Ignition Engines a b
Model year | Pollutant (g/hp·hr): HC | Pollutant (g/hp·hr): CO | Pollutant (g/hp·hr): NOX | Pollutant (g/hp·hr): NOX + NMHC
1985-1987 | 1.1 | 14.4 | 10.6 |
1988-1990 | 1.1 | 14.4 | 6.0 |
1991-1997 | 1.1 | 14.4 | 5.0 |
1998-2004 ᶜ | 1.1 | 14.4 | 4.0 |
2005-2007 |  | 14.4 |  | ᵈ 1.0
ᵃ Standards applied only for gasoline-fueled engines through model year 1989. Standards started to apply for methanol in model year 1990, and for LPG and natural gas in model year 1998.
ᵇ Engines intended for installation only in heavy-duty vehicles above 14,000 pounds GVWR were subject to an HC standard of 1.9 g/hp·hr for model years 1987 through 2004, and a CO standard of 37.1 g/hp·hr for model years 1987 through 2007. In addition, for model years 1987 through 2007, up to 5 percent of a manufacturer's sales of engines intended for installation in heavy-duty vehicles at or below 14,000 pounds GVWR could be certified to the alternative HC and CO standards.
ᶜ For natural gas engines in model years 1998 through 2004, the NOX standard was 5.0 g/hp·hr; the HC standards were 1.7 g/hp·hr for engines intended for installation only in vehicles above 14,000 pounds GVWR, and 0.9 g/hp·hr for other engines.
ᵈ Manufacturers could delay the 1.0 g/hp·hr NOX + NMHC standard until model year 2008 by meeting an alternate NOX + NMHC standard of 1.5 g/hp·hr applied for model years 2004 through 2007.

(f) Transient emission standards for compression-ignition engines. The following criteria standards applied for compression-ignition engines based on transient measurement using the test procedures in 40 CFR part 86, subpart N. Starting in model year 1991, manufacturers could generate or use emission credits for NOX, NOX + NMHC, and PM standards. Table 3 follows:

Table 3 to Appendix I—Transient Emission Standards for Compression-Ignition Engines ᵃ
Model year | Pollutant (g/hp·hr): HC | Pollutant (g/hp·hr): CO | Pollutant (g/hp·hr): NOX | Pollutant (g/hp·hr): NOX + NMHC | Pollutant (g/hp·hr): PM
1985-1987 | 1.3 | 15.5 | 10.7
1988-1989 | 1.3 | 15.5 | 10.7 |  | 0.60
1990 | 1.3 | 15.5 | 6.0 |  | 0.60.
1991-1992 | 1.3 | 15.5 | 5.0 |  | 0.25
1993 | 1.3 | 15.5 | 5.0 |  | 0.25 truck, 0.10 bus.
1994-1995 | 1.3 | 15.5 | 5.0 |  | 0.10 truck, 0.07 urban bus.
1996-1997 | 1.3 | 15.5 | 5.0 |  | 0.10 truck, 0.05 urban bus.ᵇ
1998-2003 | 1.3 | 15.5 | 4.0 |  | 0.10 truck, 0.05 urban bus.ᵇ
2004-2006 |  | 15.5 |  | ᶜ 2.4 | 0.10 truck, 0.05 urban bus.ᵇ
ᵃ Standards applied only for diesel-fueled engines through model year 1989. Standards started to apply for methanol in model year 1990, and for LPG and natural gas in model year 1997. An alternate HC standard of 1.2 g/hp·hr applied for natural gas engines for model years 1997 through 2003.
ᵇ The in-use PM standard for urban bus engines in model years 1996 through 2006 was 0.07 g/hp·hr.
ᶜ An optional NOX + NMHC standard of 2.5 g/hp·hr applied in 2004 through 2006 in conjunction with a separate NMHC standard of 0.5 g/hp·hr.

123. Add Appendix II to Part 1036 to read as follows:

Appendix II to Part 1036—Transient Duty Cycles

(a) This appendix specifies transient duty cycles for the engine and powertrain testing described in § 1036.510, as follows:

(1) The transient duty cycle for testing engines involves a schedule of normalized engine speed and torque values.

(2) The transient duty cycle for powertrain testing involves a schedule of vehicle speeds and road grade. Determine road grade at each point based on the peak rated power of the powertrain system, Prated, determined in § 1036.527 and road grade coefficients using the following equation:

Road grade = a·P²rated + b·Prated + c

(b) The following transient duty cycle applies for spark-ignition engines and powertrains:

Record (seconds) | Engine testing: Normalized revolutions per minute (percent) | Engine testing: Normalized torque (percent) | Powertrain testing: Vehicle speed (mi/hr) | Powertrain testing: Road grade coefficients: a | Powertrain testing: Road grade coefficients: b | Powertrain testing: Road grade coefficients: c
1 | 0 | 0 | 0 | 0 | 0 | 0
2 | 0 | 0 | 0 | 20.0E-6 | -18.7E-3 | 2.2E+0
3 | 0 | 0 | 0 | 30.0E-6 | -28.1E-3 | 3.3E+0
4 | 0 | 0 | 0 | 30.0E-6 | -28.1E-3 | 3.3E+0
5 | 0 | 0 | 0 | 30.0E-6 | -28.1E-3 | 3.3E+0
6 | 0 | 0 | 0 | 30.0E-6 | -28.1E-3 | 3.3E+0
7 | 0 | 0 | 0 | 30.0E-6 | -28.1E-3 | 3.3E+0
8 | 0 | 0 | 0 | 30.0E-6 | -28.1E-3 | 3.3E+0
9 | 0 | 0 | 0 | 30.0E-6 | -28.1E-3 | 3.3E+0
10 | 0 | 0 | 0 | 30.0E-6 | -28.1E-3 | 3.3E+0
11 | 0 | 0 | 0 | 30.0E-6 | -28.1E-3 | 3.3E+0
12 | 0 | 0 | 0 | 30.0E-6 | -28.1E-3 | 3.3E+0
13 | 0 | 0 | 0 | 30.0E-6 | -28.1E-3 | 3.3E+0
14 | 0 | 0 | 0 | 30.0E-6 | -28.1E-3 | 3.3E+0
15 | 0 | 0 | 0 | 30.0E-6 | -28.1E-3 | 3.3E+0
16 | 0 | 0 | 0 | 30.0E-6 | -28.1E-3 | 3.3E+0
17 | 0 | 0 | 0 | 30.0E-6 | -28.1E-3 | 3.3E+0
18 | 0 | 0 | 0 | 30.0E-6 | -28.1E-3 | 3.3E+0
19 | 0 | 0 | 0 | 30.0E-6 | -28.1E-3 | 3.3E+0
20 | 0 | 0 | 0 | 30.0E-6 | -28.1E-3 | 3.3E+0
21 | 0 | 0 | 0 | 30.0E-6 | -28.1E-3 | 3.3E+0
22 | 0 | 0 | 0 | 30.0E-6 | -28.1E-3 | 3.3E+0
23 | 0 | 0 | 0 | 30.0E-6 | -28.1E-3 | 3.3E+0
24 | 0 | 0 | 0 | 30.0E-6 | -28.1E-3 | 3.3E+0
25 | 7.00 | 44.40 | 0 | 30.0E-6 | -28.1E-3 | 3.3E+0
26 | 16.00 | 85.40 | 3.04 | 30.0E-6 | -28.1E-3 | 3.3E+0
27 | 27.00 | 97.80 | 5.59 | 30.0E-6 | -28.1E-3 | 3.3E+0
28 | 38.00 | 100.00 | 8.37 | 30.0E-6 | -28.1E-3 | 3.3E+0
29 | 45.00 | 100.00 | 11.06 | 30.0E-6 | -28.1E-3 | 3.3E+0
30 | 51.00 | 100.00 | 13.63 | 30.0E-6 | -28.1E-3 | 3.3E+0
31 | 54.00 | 97.50 | 15.87 | 30.0E-6 | -28.1E-3 | 3.3E+0
32 | 53.00 | 90.00 | 18.09 | 30.0E-6 | -28.1E-3 | 3.3E+0
33 | 49.00 | 75.20 | 20.66 | 10.0E-6 | -9.4E-3 | 1.1E+0
34 | 45.00 | 50.00 | 22.26 | -10.0E-6 | 9.4E-3 | -1.1E+0
35 | 40.00 | 10.00 | 22.08 | -30.0E-6 | 28.1E-3 | -3.3E+0
36 | 34.00 | 2.30 | 20.58 | -30.0E-6 | 28.1E-3 | -3.3E+0
37 | 27.00 | 0 | 18.65 | -30.0E-6 | 28.1E-3 | -3.3E+0
38 | 21.00 | 2.30 | 16.50 | -30.0E-6 | 28.1E-3 | -3.3E+0
39 | 16.00 | 12.00 | 14.19 | -30.0E-6 | 28.1E-3 | -3.3E+0
40 | 12.00 | 35.30 | 11.65 | -30.0E-6 | 28.1E-3 | -3.3E+0
41 | 8.50 | 4.90 | 9.16 | -30.0E-6 | 28.1E-3 | -3.3E+0
42 | 5.00 | (a) | 8.01 | -30.0E-6 | 28.1E-3 | -3.3E+0
43 | 3.00 | (a) | 6.86 | -30.0E-6 | 28.1E-3 | -3.3E+0
44 | 0 | 0 | 3.19 | -30.0E-6 | 28.1E-3 | -3.3E+0
45 | 0 | 0 | 0 | -30.0E-6 | 28.1E-3 | -3.3E+0
46 | 0 | 0 | 0 | -17.4E-6 | 16.2E-3 | -2.1E+0
47 | 0 | 0 | 0 | -4.8E-6 | 4.4E-3 | -817.8E-3
48 | 0 | 0 | 0 | 7.8E-6 | -7.5E-3 | 435.2E-3
49 | 0 | 0 | 0 | 7.8E-6 | -7.5E-3 | 435.2E-3
50 | 0 | 0 | 0 | 7.8E-6 | -7.5E-3 | 435.2E-3
51 | 3.00 | 10.00 | 1.05 | 7.8E-6 | -7.5E-3 | 435.2E-3
52 | 11.00 | 40.20 | 2.13 | 7.8E-6 | -7.5E-3 | 435.2E-3
53 | 20.00 | 53.00 | 3.26 | 7.8E-6 | -7.5E-3 | 435.2E-3
54 | 27.50 | 64.80 | 4.31 | 7.8E-6 | -7.5E-3 | 435.2E-3
55 | 32.00 | 78.00 | 5.35 | 7.8E-6 | -7.5E-3 | 435.2E-3
56 | 32.00 | 78.00 | 6.38 | 7.8E-6 | -7.5E-3 | 435.2E-3
57 | 27.50 | 56.00 | 7.42 | 7.8E-6 | -7.5E-3 | 435.2E-3
58 | 26.00 | 24.40 | 8.45 | 7.8E-6 | -7.5E-3 | 435.2E-3
59 | 24.00 | (a) | 9.43 | 7.8E-6 | -7.5E-3 | 435.2E-3
60 | 23.00 | (a) | 10.18 | 7.8E-6 | -7.5E-3 | 435.2E-3
61 | 24.00 | (a) | 10.71 | 7.8E-6 | -7.5E-3 | 435.2E-3
62 | 27.00 | (a) | 11.10 | 7.8E-6 | -7.5E-3 | 435.2E-3
63 | 34.00 | (a) | 11.62 | 7.8E-6 | -7.5E-3 | 435.2E-3
64 | 44.00 | 28.00 | 12.44 | 7.8E-6 | -7.5E-3 | 435.2E-3
65 | 57.00 | 74.40 | 13.55 | 7.8E-6 | -7.5E-3 | 435.2E-3
66 | 60.00 | 74.40 | 14.69 | 7.8E-6 | -7.5E-3 | 435.2E-3
67 | 53.00 | 33.60 | 15.42 | 7.8E-6 | -7.5E-3 | 435.2E-3
68 | 48.00 | (a) | 16.06 | 7.8E-6 | -7.5E-3 | 435.2E-3
69 | 44.00 | (a) | 16.64 | 9.2E-6 | -8.9E-3 | 2.1E+0
70 | 40.00 | (a) | 17.36 | 10.7E-6 | -10.4E-3 | 3.9E+0
71 | 40.00 | 7.00 | 17.86 | 12.2E-6 | -11.9E-3 | 5.6E+0
72 | 44.00 | 22.70 | 18.05 | 12.2E-6 | -11.9E-3 | 5.6E+0
73 | 46.00 | 30.00 | 18.09 | 12.2E-6 | -11.9E-3 | 5.6E+0
74 | 46.00 | 32.00 | 18.19 | 12.2E-6 | -11.9E-3 | 5.6E+0
75 | 44.00 | 25.00 | 18.55 | 12.2E-6 | -11.9E-3 | 5.6E+0
76 | 40.00 | 18.00 | 19.04 | 12.2E-6 | -11.9E-3 | 5.6E+0
77 | 37.00 | 14.00 | 19.58 | 12.2E-6 | -11.9E-3 | 5.6E+0
78 | 36.00 | 10.00 | 19.90 | 12.2E-6 | -11.9E-3 | 5.6E+0
79 | 34.00 | 0 | 19.99 | 12.2E-6 | -11.9E-3 | 5.6E+0
80 | 34.00 | (a) | 19.85 | 12.2E-6 | -11.9E-3 | 5.6E+0
81 | 32.00 | (a) | 19.73 | 12.2E-6 | -11.9E-3 | 5.6E+0
82 | 31.00 | (a) | 19.70 | 12.2E-6 | -11.9E-3 | 5.6E+0
83 | 36.00 | 39.90 | 19.84 | 12.2E-6 | -11.9E-3 | 5.6E+0
84 | 42.00 | 84.70 | 20.10 | 12.2E-6 | -11.9E-3 | 5.6E+0
85 | 48.00 | 90.00 | 20.44 | 12.2E-6 | -11.9E-3 | 5.6E+0
86 | 50.00 | 90.00 | 20.98 | 12.2E-6 | -11.9E-3 | 5.6E+0
87 | 50.00 | 90.00 | 21.52 | 12.2E-6 | -11.9E-3 | 5.6E+0
88 | 47.00 | 85.00 | 22.06 | 12.2E-6 | -11.9E-3 | 5.6E+0
89 | 43.00 | 75.00 | 22.24 | 12.2E-6 | -11.9E-3 | 5.6E+0
90 | 38.00 | 60.00 | 22.35 | 4.1E-6 | -4.0E-3 | 1.9E+0
91 | 36.00 | 36.00 | 22.37 | -4.1E-6 | 4.0E-3 | -1.9E+0
92 | 36.00 | 7.50 | 22.35 | -12.2E-6 | 11.9E-3 | -5.6E+0
93 | 36.30 | (a) | 22.27 | -12.2E-6 | 11.9E-3 | -5.6E+0
94 | 45.00 | 64.50 | 22.05 | -12.2E-6 | 11.9E-3 | -5.6E+0
95 | 53.00 | 67.00 | 21.79 | -12.2E-6 | 11.9E-3 | -5.6E+0
96 | 58.00 | 64.50 | 21.50 | -12.2E-6 | 11.9E-3 | -5.6E+0
97 | 62.00 | 60.30 | 21.20 | -12.2E-6 | 11.9E-3 | -5.6E+0
98 | 63.00 | 55.50 | 20.90 | -12.2E-6 | 11.9E-3 | -5.6E+0
99 | 62.00 | 52.30 | 20.59 | -12.2E-6 | 11.9E-3 | -5.6E+0
100 | 61.00 | 47.00 | 20.42 | -12.2E-6 | 11.9E-3 | -5.6E+0
101 | 55.00 | 44.00 | 20.25 | -12.2E-6 | 11.9E-3 | -5.6E+0
102 | 50.00 | 39.00 | 20.07 | -12.2E-6 | 11.9E-3 | -5.6E+0
103 | 45.00 | 36.00 | 19.75 | -12.2E-6 | 11.9E-3 | -5.6E+0
104 | 40.00 | 34.00 | 19.38 | -12.2E-6 | 11.9E-3 | -5.6E+0
105 | 36.00 | 30.00 | 19.00 | -12.2E-6 | 11.9E-3 | -5.6E+0
106 | 34.00 | 25.80 | 18.61 | -12.2E-6 | 11.9E-3 | -5.6E+0
107 | 32.00 | 20.00 | 18.20 | -12.2E-6 | 11.9E-3 | -5.6E+0
108 | 30.00 | 14.60 | 17.75 | -12.2E-6 | 11.9E-3 | -5.6E+0
109 | 26.00 | 10.00 | 17.27 | -12.2E-6 | 11.9E-3 | -5.6E+0
110 | 23.00 | 0 | 16.75 | -12.2E-6 | 11.9E-3 | -5.6E+0
111 | 18.00 | (a) | 16.20 | -12.2E-6 | 11.9E-3 | -5.6E+0
112 | 16.00 | (a) | 15.66 | -12.2E-6 | 11.9E-3 | -5.6E+0
113 | 18.00 | (a) | 15.15 | -12.2E-6 | 11.9E-3 | -5.6E+0
114 | 20.00 | 27.60 | 14.65 | -12.2E-6 | 11.9E-3 | -5.6E+0
115 | 17.00 | 4.00 | 14.16 | -12.2E-6 | 11.9E-3 | -5.6E+0
116 | 14.00 | (a) | 13.67 | -12.2E-6 | 11.9E-3 | -5.6E+0
117 | 12.00 | (a) | 12.59 | -12.2E-6 | 11.9E-3 | -5.6E+0
118 | 9.00 | (a) | 10.93 | -12.2E-6 | 11.9E-3 | -5.6E+0
119 | 7.00 | (a) | 9.28 | -12.2E-6 | 11.9E-3 | -5.6E+0
120 | 7.00 | (a) | 7.62 | -12.2E-6 | 11.9E-3 | -5.6E+0
121 | 5.00 | (a) | 5.96 | -12.2E-6 | 11.9E-3 | -5.6E+0
122 | 4.00 | (a) | 4.30 | -12.2E-6 | 11.9E-3 | -5.6E+0
123 | 3.00 | (a) | 2.64 | -12.2E-6 | 11.9E-3 | -5.6E+0
124 | 2.00 | (a) | 0.99 | -12.2E-6 | 11.9E-3 | -5.6E+0
125 | 0 | 0 | 0.19 | -12.2E-6 | 11.9E-3 | -5.6E+0
126 | 0 | 0 | 0 | -12.2E-6 | 11.9E-3 | -5.6E+0
127 | 0 | 0 | 0 | -8.1E-6 | 7.9E-3 | -3.7E+0
128 | 0 | 0 | 0 | -4.1E-6 | 4.0E-3 | -1.9E+0
129 | 0 | 0 | 0 | 0 | 0 | 0
130 | 5.00 | 8.00 | 3.25 | 0 | 0 | 0
131 | 8.00 | 16.30 | 5.47 | 0 | 0 | 0
132 | 10.00 | 27.50 | 6.71 | 0 | 0 | 0
133 | 8.00 | 27.50 | 6.71 | 0 | 0 | 0
134 | 5.00 | 9.00 | 6.71 | 0 | 0 | 0
135 | 2.00 | 1.80 | 6.55 | 0 | 0 | 0
136 | 0 | 0 | 6.01 | 0 | 0 | 0
137 | 0 | 0 | 5.15 | 0 | 0 | 0
138 | 0 | 0 | 3.90 | 0 | 0 | 0
139 | 0 | 0 | 2.19 | 0 | 0 | 0
140 | 0 | 0 | 0 | 9.0E-6 | -8.4E-3 | 2.0E+0
141 | 0 | 0 | 0 | 17.9E-6 | -16.8E-3 | 3.9E+0
142 | 0 | 0 | 0 | 26.9E-6 | -25.2E-3 | 5.9E+0
143 | 0 | 0 | 0 | 26.9E-6 | -25.2E-3 | 5.9E+0
144 | 0 | 0 | 0 | 26.9E-6 | -25.2E-3 | 5.9E+0
145 | 0 | 0 | 0 | 26.9E-6 | -25.2E-3 | 5.9E+0
146 | 0 | 0 | 0 | 26.9E-6 | -25.2E-3 | 5.9E+0
147 | 0 | 0 | 0 | 26.9E-6 | -25.2E-3 | 5.9E+0
148 | 0 | 0 | 0 | 26.9E-6 | -25.2E-3 | 5.9E+0
149 | 2.00 | 4.80 | 0 | 26.9E-6 | -25.2E-3 | 5.9E+0
150 | 1.00 | 4.50 | 0 | 26.9E-6 | -25.2E-3 | 5.9E+0
151 | 0 | 0 | 0 | 26.9E-6 | -25.2E-3 | 5.9E+0
152 | 0 | 0 | 0 | 26.9E-6 | -25.2E-3 | 5.9E+0
153 | 0 | 0 | 0 | 26.9E-6 | -25.2E-3 | 5.9E+0
154 | 0 | 0 | 0 | 26.9E-6 | -25.2E-3 | 5.9E+0
155 | 0 | 0 | 0 | 26.9E-6 | -25.2E-3 | 5.9E+0
156 | 0 | 0 | 0 | 26.9E-6 | -25.2E-3 | 5.9E+0
157 | 0 | 0 | 0 | 26.9E-6 | -25.2E-3 | 5.9E+0
158 | 0 | 0 | 0 | 26.9E-6 | -25.2E-3 | 5.9E+0
159 | 0 | 0 | 0 | 26.9E-6 | -25.2E-3 | 5.9E+0
160 | 0 | 0 | 0 | 26.9E-6 | -25.2E-3 | 5.9E+0
161 | 0 | 0 | 0 | 26.9E-6 | -25.2E-3 | 5.9E+0
162 | 0 | 0 | 0 | 26.9E-6 | -25.2E-3 | 5.9E+0
163 | 0 | 0 | 0 | 26.9E-6 | -25.2E-3 | 5.9E+0
164 | 0 | 0 | 0 | 26.9E-6 | -25.2E-3 | 5.9E+0
165 | 0 | 0 | 0 | 26.9E-6 | -25.2E-3 | 5.9E+0
166 | 0 | 0 | 0 | 26.9E-6 | -25.2E-3 | 5.9E+0
167 | 8.00 | 27.00 | 1.95 | 26.9E-6 | -25.2E-3 | 5.9E+0
168 | 18.00 | 65.00 | 3.70 | 26.9E-6 | -25.2E-3 | 5.9E+0
169 | 23.00 | 82.50 | 5.53 | 26.9E-6 | -25.2E-3 | 5.9E+0
170 | 23.00 | 88.00 | 7.22 | 26.9E-6 | -25.2E-3 | 5.9E+0
171 | 21.00 | 88.00 | 8.64 | 26.9E-6 | -25.2E-3 | 5.9E+0
172 | 18.00 | 81.30 | 10.33 | 9.0E-6 | -8.4E-3 | 2.0E+0
173 | 17.00 | 32.00 | 11.18 | -9.0E-6 | 8.4E-3 | -2.0E+0
174 | 15.00 | (a) | 10.57 | -26.9E-6 | 25.2E-3 | -5.9E+0
175 | 13.00 | (a) | 9.33 | -26.9E-6 | 25.2E-3 | -5.9E+0
176 | 11.00 | (a) | 7.87 | -26.9E-6 | 25.2E-3 | -5.9E+0
177 | 8.00 | (a) | 6.27 | -26.9E-6 | 25.2E-3 | -5.9E+0
178 | 6.00 | (a) | 4.58 | -26.9E-6 | 25.2E-3 | -5.9E+0
179 | 4.00 | (a) | 3.81 | -26.9E-6 | 25.2E-3 | -5.9E+0
180 | 2.00 | (a) | 2.35 | -26.9E-6 | 25.2E-3 | -5.9E+0
181 | 0 | 0 | 0 | -26.9E-6 | 25.2E-3 | -5.9E+0
182 | 0 | 0 | 0 | -17.9E-6 | 16.8E-3 | -3.9E+0
183 | 0 | 0 | 0 | -9.0E-6 | 8.4E-3 | -2.0E+0
184 | 0 | 0 | 0 | 0 | 0 | 0
185 | 0 | 0 | 0 | 0 | 0 | 0
186 | 0 | 0 | 0 | 0 | 0 | 0
187 | 0 | 0 | 0 | 0 | 0 | 0
188 | 0 | 0 | 0 | 0 | 0 | 0
189 | 0 | 0 | 0 | 0 | 0 | 0
190 | 0 | 0 | 0 | 0 | 0 | 0
191 | 0 | 0 | 0 | 0 | 0 | 0
192 | 0 | 0 | 0 | 0 | 0 | 0
193 | 0 | 0 | 0 | 0 | 0 | 0
194 | 0 | 0 | 0 | 0 | 0 | 0
195 | 0 | 0 | 0 | 0 | 0 | 0
196 | 0 | 0 | 0 | 0 | 0 | 0
197 | 0 | 0 | 0 | 0 | 0 | 0
198 | 0 | 0 | 0 | 0 | 0 | 0
199 | 0 | 0 | 0 | 0 | 0 | 0
200 | 0 | 0 | 0 | 0 | 0 | 0
201 | 0 | 0 | 0 | 0 | 0 | 0
202 | 0 | 0 | 0 | 0 | 0 | 0
203 | 0 | 0 | 0 | 0 | 0 | 0
204 | 0 | 4.00 | 0 | 0 | 0 | 0
205 | 0.50 | 7.70 | 1.60 | 0 | 0 | 0
206 | 5.00 | 14.00 | 4.24 | 0 | 0 | 0
207 | 11.00 | 24.70 | 7.50 | 0 | 0 | 0
208 | 15.00 | 42.30 | 9.18 | 0 | 0 | 0
209 | 16.00 | 70.00 | 10.11 | 0 | 0 | 0
210 | 17.00 | 70.00 | 10.34 | 0 | 0 | 0
211 | 17.00 | 50.00 | 10.46 | 0 | 0 | 0
212 | 16.00 | 26.30 | 9.93 | 0 | 0 | 0
213 | 14.00 | 5.00 | 8.70 | 0 | 0 | 0
214 | 10.00 | (a) | 7.43 | 0 | 0 | 0
215 | 10.00 | (a) | 9.14 | 0 | 0 | 0
216 | 14.00 | 73.30 | 9.72 | 0 | 0 | 0
217 | 18.00 | 83.00 | 9.84 | 0 | 0 | 0
218 | 19.00 | 84.80 | 10.02 | 0 | 0 | 0
219 | 18.00 | 84.80 | 9.92 | 0 | 0 | 0
220 | 16.00 | 82.80 | 9.14 | 0 | 0 | 0
221 | 11.00 | 74.00 | 8.23 | 0 | 0 | 0
222 | 7.00 | 8.50 | 6.64 | 0 | 0 | 0
223 | 4.00 | 0 | 4.51 | 0 | 0 | 0
224 | 0 | 0 | 0 | 0 | 0 | 0
225 | 0 | 0 | 0 | 3.6E-6 | -3.8E-3 | 362.5E-3
226 | 0 | 0 | 0 | 7.2E-6 | -7.6E-3 | 725.0E-3
227 | 0 | 0 | 0 | 10.7E-6 | -11.3E-3 | 1.1E+0
228 | 0 | 0 | 0 | 10.7E-6 | -11.3E-3 | 1.1E+0
229 | 0 | 0 | 0 | 10.7E-6 | -11.3E-3 | 1.1E+0
230 | 0 | 0 | 0 | 10.7E-6 | -11.3E-3 | 1.1E+0
231 | 0 | 0 | 0 | 10.7E-6 | -11.3E-3 | 1.1E+0
232 | 0 | 0 | 0 | 10.7E-6 | -11.3E-3 | 1.1E+0
233 | 6.00 | 17.60 | 0 | 10.7E-6 | -11.3E-3 | 1.1E+0
234 | 6.00 | 19.60 | 0 | 10.7E-6 | -11.3E-3 | 1.1E+0
235 | 5.00 | 14.00 | 0 | 10.7E-6 | -11.3E-3 | 1.1E+0
236 | 3.00 | 9.80 | 0 | 10.7E-6 | -11.3E-3 | 1.1E+0
237 | 1.00 | 5.50 | 0 | 10.7E-6 | -11.3E-3 | 1.1E+0
238 | 0 | 3.00 | 0 | 10.7E-6 | -11.3E-3 | 1.1E+0
239 | 0 | 0 | 0 | 10.7E-6 | -11.3E-3 | 1.1E+0
240 | 0 | 0 | 0 | 10.7E-6 | -11.3E-3 | 1.1E+0
241 | 0 | 0 | 0 | 10.7E-6 | -11.3E-3 | 1.1E+0
242 | 0 | 0 | 0 | 10.7E-6 | -11.3E-3 | 1.1E+0
243 | 0 | 0 | 0 | 10.7E-6 | -11.3E-3 | 1.1E+0
244 | 0 | 0 | 0 | 10.7E-6 | -11.3E-3 | 1.1E+0
245 | 0 | 0 | 0 | 10.7E-6 | -11.3E-3 | 1.1E+0
246 | 0 | 0 | 0 | 10.7E-6 | -11.3E-3 | 1.1E+0
247 | 0 | 0 | 0 | 10.7E-6 | -11.3E-3 | 1.1E+0
248 | 0 | 0 | 0 | 10.7E-6 | -11.3E-3 | 1.1E+0
249 | 0 | 0 | 0 | 10.7E-6 | -11.3E-3 | 1.1E+0
250 | 0 | 0 | 0 | 10.7E-6 | -11.3E-3 | 1.1E+0
251 | 0 | 0 | 0 | 10.7E-6 | -11.3E-3 | 1.1E+0
252 | 0 | 0 | 0 | 10.7E-6 | -11.3E-3 | 1.1E+0
253 | 0 | 0 | 0 | 10.7E-6 | -11.3E-3 | 1.1E+0
254 | 0 | 0 | 0 | 10.7E-6 | -11.3E-3 | 1.1E+0
255 | 0 | 0 | 0 | 10.7E-6 | -11.3E-3 | 1.1E+0
256 | 0 | 0 | 0 | 10.7E-6 | -11.3E-3 | 1.1E+0
257 | 0 | 0 | 0 | 10.7E-6 | -11.3E-3 | 1.1E+0
258 | 0 | 0 | 0 | 10.7E-6 | -11.3E-3 | 1.1E+0
259 | 0 | 0 | 0 | 10.7E-6 | -11.3E-3 | 1.1E+0
260 | 0 | 0 | 0 | 10.7E-6 | -11.3E-3 | 1.1E+0
261 | 0 | 0 | 0 | 10.7E-6 | -11.3E-3 | 1.1E+0
262 | 0 | 0 | 0 | 10.7E-6 | -11.3E-3 | 1.1E+0
263 | 0 | 0 | 0 | 10.7E-6 | -11.3E-3 | 1.1E+0
264 | 0 | 0 | 0 | 10.7E-6 | -11.3E-3 | 1.1E+0
265 | 0 | 0 | 0 | 10.7E-6 | -11.3E-3 | 1.1E+0
266 | 0 | 0 | 0 | 10.7E-6 | -11.3E-3 | 1.1E+0
267 | 0 | 0 | 0 | 10.7E-6 | -11.3E-3 | 1.1E+0
268 | 0 | 0 | 0 | 10.7E-6 | -11.3E-3 | 1.1E+0
269 | 0 | 0 | 0 | 10.7E-6 | -11.3E-3 | 1.1E+0
270 | 0 | 0 | 0 | 10.7E-6 | -11.3E-3 | 1.1E+0
271 | 0 | 0 | 0 | 10.7E-6 | -11.3E-3 | 1.1E+0
272 | 0 | 0 | 0 | 10.7E-6 | -11.3E-3 | 1.1E+0
273 | 0 | 0 | 0 | 10.7E-6 | -11.3E-3 | 1.1E+0
274 | 0 | 0 | 0 | 10.7E-6 | -11.3E-3 | 1.1E+0
275 | 0 | 0 | 0 | 10.7E-6 | -11.3E-3 | 1.1E+0
276 | 0 | 0 | 0 | 10.7E-6 | -11.3E-3 | 1.1E+0
277 | 0 | 0 | 0 | 10.7E-6 | -11.3E-3 | 1.1E+0
278 | 0 | 0 | 0 | 10.7E-6 | -11.3E-3 | 1.1E+0
279 | 0 | 0 | 0 | 10.7E-6 | -11.3E-3 | 1.1E+0
280 | 0 | 0 | 0 | 10.7E-6 | -11.3E-3 | 1.1E+0
281 | 0 | 7.00 | 0 | 10.7E-6 | -11.3E-3 | 1.1E+0
282 | 1.00 | 10.00 | 0 | 10.7E-6 | -11.3E-3 | 1.1E+0
283 | 2.00 | 11.50 | 0 | 10.7E-6 | -11.3E-3 | 1.1E+0
284 | 1.00 | 10.00 | 0 | 10.7E-6 | -11.3E-3 | 1.1E+0
285 | 0 | 0 | 0 | 10.7E-6 | -11.3E-3 | 1.1E+0
286 | 0 | 0 | 0 | 10.7E-6 | -11.3E-3 | 1.1E+0
287 | 0 | 0 | 0 | 10.7E-6 | -11.3E-3 | 1.1E+0
288 | 0 | 0 | 0 | 10.7E-6 | -11.3E-3 | 1.1E+0
289 | 0 | 0 | 0 | 10.7E-6 | -11.3E-3 | 1.1E+0
290 | 0 | 0 | 0 | 10.7E-6 | -11.3E-3 | 1.1E+0
291 | 0 | 0 | 0 | 10.7E-6 | -11.3E-3 | 1.1E+0
292 | 0 | 0 | 0 | 10.7E-6 | -11.3E-3 | 1.1E+0
293 | 0 | 0 | 0 | 10.7E-6 | -11.3E-3 | 1.1E+0
294 | 0 | 0 | 0 | 10.7E-6 | -11.3E-3 | 1.1E+0
295 | 0 | 0 | 0 | 10.7E-6 | -11.3E-3 | 1.1E+0
296 | 0 | 0 | 0 | 10.7E-6 | -11.3E-3 | 1.1E+0
297 | 0 | 0 | 0 | 10.7E-6 | -11.3E-3 | 1.1E+0
298 | 0 | 0 | 0 | 10.7E-6 | -11.3E-3 | 1.1E+0
299 | 0 | 28.00 | 0 | 10.7E-6 | -11.3E-3 | 1.1E+0
300 | 0 | 30.00 | 0 | 10.7E-6 | -11.3E-3 | 1.1E+0
301 | 2.00 | 32.00 | 0.55 | 10.7E-6 | -11.3E-3 | 1.1E+0
302 | 6.00 | 34.00 | 1.92 | 10.7E-6 | -11.3E-3 | 1.1E+0
303 | 14.00 | 36.00 | 3.18 | 10.7E-6 | -11.3E-3 | 1.1E+0
304 | 19.00 | 36.00 | 4.80 | 10.7E-6 | -11.3E-3 | 1.1E+0
305 | 24.50 | 36.00 | 6.63 | 10.7E-6 | -11.3E-3 | 1.1E+0
306 | 24.50 | 36.00 | 7.87 | 10.7E-6 | -11.3E-3 | 1.1E+0
307 | 24.00 | 30.00 | 8.32 | 10.7E-6 | -11.3E-3 | 1.1E+0
308 | 19.00 | 24.00 | 9.66 | 10.7E-6 | -11.3E-3 | 1.1E+0
309 | 13.00 | 18.00 | 11.46 | 10.7E-6 | -11.3E-3 | 1.1E+0
310 | 9.00 | 14.00 | 13.28 | 10.7E-6 | -11.3E-3 | 1.1E+0
311 | 7.00 | 8.00 | 14.61 | 10.7E-6 | -11.3E-3 | 1.1E+0
312 | 6.00 | 0 | 14.39 | 10.7E-6 | -11.3E-3 | 1.1E+0
313 | 4.00 | 3.00 | 13.50 | 10.7E-6 | -11.3E-3 | 1.1E+0
314 | 3.00 | 6.80 | 12.41 | 10.7E-6 | -11.3E-3 | 1.1E+0
315 | 0 | 0 | 11.30 | 10.7E-6 | -11.3E-3 | 1.1E+0
316 | 0 | 0 | 11.25 | 10.7E-6 | -11.3E-3 | 1.1E+0
317 | 0 | 0 | 12.29 | 10.7E-6 | -11.3E-3 | 1.1E+0
318 | 0 | 0 | 13.26 | 10.7E-6 | -11.3E-3 | 1.1E+0
319 | 0 | 0 | 13.66 | 10.7E-6 | -11.3E-3 | 1.1E+0
320 | 0 | 0 | 14.27 | 10.7E-6 | -11.3E-3 | 1.1E+0
321 | 0 | 0 | 15.17 | 10.7E-6 | -11.3E-3 | 1.1E+0
322 | 0 | 0 | 16.05 | 10.7E-6 | -11.3E-3 | 1.1E+0
323 | 0 | 18.00 | 16.49 | 10.7E-6 | -11.3E-3 | 1.1E+0
324 | 3.00 | 40.00 | 17.52 | 10.7E-6 | -11.3E-3 | 1.1E+0
325 | 8.00 | 86.00 | 18.06 | 10.7E-6 | -11.3E-3 | 1.1E+0
326 | 18.00 | 97.00 | 18.18 | 10.7E-6 | -11.3E-3 | 1.1E+0
327 | 38.00 | 100.00 | 18.95 | 10.7E-6 | -11.3E-3 | 1.1E+0
328 | 45.50 | 100.00 | 20.48 | 3.6E-6 | -3.8E-3 | 362.5E-3
329 | 45.00 | 96.00 | 20.48 | -3.6E-6 | 3.8E-3 | -362.5E-3
330 | 44.00 | 84.40 | 19.50 | -10.7E-6 | 11.3E-3 | -1.1E+0
331 | 43.00 | 53.60 | 18.43 | -10.7E-6 | 11.3E-3 | -1.1E+0
332 | 41.00 | 5.00 | 17.44 | -10.7E-6 | 11.3E-3 | -1.1E+0
333 | 43.00 | 47.60 | 16.77 | -10.7E-6 | 11.3E-3 | -1.1E+0
334 | 44.00 | 90.00 | 16.36 | -10.7E-6 | 11.3E-3 | -1.1E+0
335 | 45.00 | 90.00 | 16.34 | -10.7E-6 | 11.3E-3 | -1.1E+0
336 | 44.00 | 73.00 | 16.79 | -10.7E-6 | 11.3E-3 | -1.1E+0
337 | 40.00 | 54.00 | 16.34 | -10.7E-6 | 11.3E-3 | -1.1E+0
338 | 38.00 | 34.70 | 15.13 | -10.7E-6 | 11.3E-3 | -1.1E+0
339 | 36.00 | 10.00 | 13.72 | -10.7E-6 | 11.3E-3 | -1.1E+0
340 | 35.00 | 10.00 | 12.04 | -10.7E-6 | 11.3E-3 | -1.1E+0
341 | 35.00 | 10.00 | 10.44 | -10.7E-6 | 11.3E-3 | -1.1E+0
342 | 35.50 | 60.00 | 9.71 | -10.7E-6 | 11.3E-3 | -1.1E+0
343 | 36.00 | 57.90 | 9.81 | -10.7E-6 | 11.3E-3 | -1.1E+0
344 | 37.00 | 53.00 | 10.65 | -10.7E-6 | 11.3E-3 | -1.1E+0
345 | 39.00 | 50.00 | 11.42 | -10.7E-6 | 11.3E-3 | -1.1E+0
346 | 40.50 | 50.00 | 10.54 | -10.7E-6 | 11.3E-3 | -1.1E+0
347 | 43.00 | 50.00 | 8.87 | -3.6E-6 | 3.8E-3 | -362.5E-3
348 | 45.00 | 50.00 | 9.26 | 3.6E-6 | -3.8E-3 | 362.5E-3
349 | 48.00 | 50.00 | 10.33 | 10.7E-6 | -11.3E-3 | 1.1E+0
350 | 51.00 | 52.00 | 10.79 | 10.7E-6 | -11.3E-3 | 1.1E+0
351 | 56.00 | 58.70 | 11.80 | 10.7E-6 | -11.3E-3 | 1.1E+0
352 | 64.00 | 70.00 | 14.06 | 10.7E-6 | -11.3E-3 | 1.1E+0
353 | 68.00 | 70.00 | 16.77 | 10.7E-6 | -11.3E-3 | 1.1E+0
354 | 70.00 | 70.00 | 18.83 | 10.7E-6 | -11.3E-3 | 1.1E+0
355 | 65.50 | 64.60 | 22.12 | 10.7E-6 | -11.3E-3 | 1.1E+0
356 | 61.00 | 28.90 | 24.10 | 10.7E-6 | -11.3E-3 | 1.1E+0
357 | 55.00 | (a) | 25.97 | 10.7E-6 | -11.3E-3 | 1.1E+0
358 | 50.00 | (a) | 27.04 | 10.7E-6 | -11.3E-3 | 1.1E+0
359 | 45.00 | (a) | 27.18 | 10.7E-6 | -11.3E-3 | 1.1E+0
360 | 38.00 | (a) | 28.34 | 10.7E-6 | -11.3E-3 | 1.1E+0
361 | 28.00 | (a) | 29.69 | 10.7E-6 | -11.3E-3 | 1.1E+0
362 | 19.00 | (a) | 29.86 | 10.7E-6 | -11.3E-3 | 1.1E+0
363 | 14.00 | (a) | 29.51 | 10.7E-6 | -11.3E-3 | 1.1E+0
364 | 7.00 | (a) | 29.91 | 10.7E-6 | -11.3E-3 | 1.1E+0
365 | 2.00 | (a) | 30.99 | 10.7E-6 | -11.3E-3 | 1.1E+0
366 | 3.00 | 5.00 | 32.55 | 10.7E-6 | -11.3E-3 | 1.1E+0
367 | 7.00 | 25.00 | 33.43 | 3.6E-6 | -3.8E-3 | 362.5E-3
368 | 9.00 | 38.00 | 33.56 | -3.6E-6 | 3.8E-3 | -362.5E-3
369 | 7.00 | 17.00 | 33.36 | -10.7E-6 | 11.3E-3 | -1.1E+0
370 | 4.00 | 2.00 | 32.65 | -10.7E-6 | 11.3E-3 | -1.1E+0
371 | 3.00 | (a) | 31.80 | -10.7E-6 | 11.3E-3 | -1.1E+0
372 | 3.00 | (a) | 30.92 | -10.7E-6 | 11.3E-3 | -1.1E+0
373 | 11.00 | 70.00 | 30.42 | -10.7E-6 | 11.3E-3 | -1.1E+0
374 | 15.00 | 97.60 | 29.73 | -10.7E-6 | 11.3E-3 | -1.1E+0
375 | 16.00 | 100.00 | 28.65 | -10.7E-6 | 11.3E-3 | -1.1E+0
376 | 19.00 | 100.00 | 27.50 | -10.7E-6 | 11.3E-3 | -1.1E+0
377 | 26.00 | 100.00 | 26.22 | -10.7E-6 | 11.3E-3 | -1.1E+0
378 | 29.00 | 95.00 | 24.69 | -10.7E-6 | 11.3E-3 | -1.1E+0
379 | 25.00 | 63.00 | 23.13 | -10.7E-6 | 11.3E-3 | -1.1E+0
380 | 19.00 | (a) | 21.68 | -10.7E-6 | 11.3E-3 | -1.1E+0
381 | 12.00 | (a) | 20.25 | -10.7E-6 | 11.3E-3 | -1.1E+0
382 | 8.00 | (a) | 15.73 | -10.7E-6 | 11.3E-3 | -1.1E+0
383 | 5.00 | (a) | 10.93 | -10.7E-6 | 11.3E-3 | -1.1E+0
384 | 2.00 | (a) | 6.12 | -10.7E-6 | 11.3E-3 | -1.1E+0
385 | 1.00 | (a) | 1.31 | -10.7E-6 | 11.3E-3 | -1.1E+0
386 | 0 | 0 | 0 | -10.7E-6 | 11.3E-3 | -1.1E+0
387 | 0 | 0 | 0 | -10.7E-6 | 11.3E-3 | -1.1E+0
388 | 0 | 0 | 0 | -10.7E-6 | 11.3E-3 | -1.1E+0
389 | 0 | 0 | 0 | -10.7E-6 | 11.3E-3 | -1.1E+0
390 | 0 | 0 | 0 | -10.7E-6 | 11.3E-3 | -1.1E+0
391 | 0 | 0 | 0 | -10.7E-6 | 11.3E-3 | -1.1E+0
392 | 0 | 0 | 0 | -1.5E-6 | 2.0E-3 | 1.3E+0
393 | 0 | 0 | 0 | 7.7E-6 | -7.3E-3 | 3.8E+0
394 | 0 | 0 | 0 | 16.9E-6 | -16.6E-3 | 6.2E+0
395 | 0 | 0 | 0 | 16.9E-6 | -16.6E-3 | 6.2E+0
396 | 0 | 0 | 0 | 16.9E-6 | -16.6E-3 | 6.2E+0
397 | 0 | 0 | 0 | 16.9E-6 | -16.6E-3 | 6.2E+0
398 | 0 | 0 | 0 | 16.9E-6 | -16.6E-3 | 6.2E+0
399 | 0 | 0 | 0 | 16.9E-6 | -16.6E-3 | 6.2E+0
400 | 0 | 0 | 0 | 16.9E-6 | -16.6E-3 | 6.2E+0
401 | 0 | 0 | 0 | 16.9E-6 | -16.6E-3 | 6.2E+0
402 | 0 | 0 | 0 | 16.9E-6 | -16.6E-3 | 6.2E+0
403 | 0 | 0 | 0 | 16.9E-6 | -16.6E-3 | 6.2E+0
404 | 0 | 0 | 0 | 16.9E-6 | -16.6E-3 | 6.2E+0
405 | 0 | 0 | 0 | 16.9E-6 | -16.6E-3 | 6.2E+0
406 | 0 | 0 | 0 | 16.9E-6 | -16.6E-3 | 6.2E+0
407 | 0 | 0 | 0 | 16.9E-6 | -16.6E-3 | 6.2E+0
408 | 0 | 0 | 0 | 16.9E-6 | -16.6E-3 | 6.2E+0
409 | 0 | 0 | 0 | 16.9E-6 | -16.6E-3 | 6.2E+0
410 | 0 | 0 | 0 | 16.9E-6 | -16.6E-3 | 6.2E+0
411 | 0 | 0 | 0 | 16.9E-6 | -16.6E-3 | 6.2E+0
412 | 0 | 0 | 0 | 16.9E-6 | -16.6E-3 | 6.2E+0
413 | 0 | 0 | 0 | 16.9E-6 | -16.6E-3 | 6.2E+0
414 | 0 | 0 | 0 | 16.9E-6 | -16.6E-3 | 6.2E+0
415 | 0 | 0 | 0 | 16.9E-6 | -16.6E-3 | 6.2E+0
416 | 0 | 0 | 0 | 16.9E-6 | -16.6E-3 | 6.2E+0
417 | 0 | 0 | 0 | 16.9E-6 | -16.6E-3 | 6.2E+0
418 | 0 | 0 | 0 | 16.9E-6 | -16.6E-3 | 6.2E+0
419 | 4.00 | 20.00 | 0 | 16.9E-6 | -16.6E-3 | 6.2E+0
420 | 4.00 | 20.00 | 0 | 16.9E-6 | -16.6E-3 | 6.2E+0
421 | 0 | 0 | 0 | 16.9E-6 | -16.6E-3 | 6.2E+0
422 | 0 | 0 | 0 | 16.9E-6 | -16.6E-3 | 6.2E+0
423 | 0 | 0 | 0 | 16.9E-6 | -16.6E-3 | 6.2E+0
424 | 0 | 0 | 0 | 16.9E-6 | -16.6E-3 | 6.2E+0
425 | 0 | 0 | 0 | 16.9E-6 | -16.6E-3 | 6.2E+0
426 | 0 | 0 | 0 | 16.9E-6 | -16.6E-3 | 6.2E+0
427 | 0 | 0 | 0 | 16.9E-6 | -16.6E-3 | 6.2E+0
428 | 0 | 0 | 0 | 16.9E-6 | -16.6E-3 | 6.2E+0
429 | 0 | 0 | 0 | 16.9E-6 | -16.6E-3 | 6.2E+0
430 | 2.00 | 0 | 1.18 | 16.9E-6 | -16.6E-3 | 6.2E+0
431 | 6.00 | 2.00 | 2.85 | 16.9E-6 | -16.6E-3 | 6.2E+0
432 | 14.00 | 28.80 | 4.57 | 16.9E-6 | -16.6E-3 | 6.2E+0
433 | 20.00 | 30.00 | 7.42 | 16.9E-6 | -16.6E-3 | 6.2E+0
434 | 24.40 | 11.00 | 10.79 | 16.9E-6 | -16.6E-3 | 6.2E+0
435 | 24.00 | 10.00 | 13.51 | 16.9E-6 | -16.6E-3 | 6.2E+0
436 | 24.00 | 12.00 | 15.48 | 16.9E-6 | -16.6E-3 | 6.2E+0
437 | 28.00 | 52.00 | 16.82 | 16.9E-6 | -16.6E-3 | 6.2E+0
438 | 32.00 | 52.00 | 17.86 | 16.9E-6 | -16.6E-3 | 6.2E+0
439 | 34.00 | 46.00 | 18.70 | 16.9E-6 | -16.6E-3 | 6.2E+0
440 | 34.00 | 30.00 | 19.11 | 16.9E-6 | -16.6E-3 | 6.2E+0
441 | 34.50 | 30.00 | 19.28 | 16.9E-6 | -16.6E-3 | 6.2E+0
442 | 35.00 | 30.00 | 19.38 | 16.9E-6 | -16.6E-3 | 6.2E+0
443 | 36.00 | 35.00 | 19.53 | 16.9E-6 | -16.6E-3 | 6.2E+0
444 | 39.00 | 40.00 | 19.57 | 16.9E-6 | -16.6E-3 | 6.2E+0
445 | 45.00 | 50.00 | 19.09 | 16.9E-6 | -16.6E-3 | 6.2E+0
446 | 49.00 | 56.00 | 18.20 | 16.9E-6 | -16.6E-3 | 6.2E+0
447 | 50.00 | (a) | 17.14 | 16.9E-6 | -16.6E-3 | 6.2E+0
448 | 45.00 | (a) | 15.90 | 16.9E-6 | -16.6E-3 | 6.2E+0
449 | 39.00 | (a) | 14.42 | 16.9E-6 | -16.6E-3 | 6.2E+0
450 | 34.00 | (a) | 13.86 | 16.9E-6 | -16.6E-3 | 6.2E+0
451 | 28.00 | (a) | 15.45 | 16.9E-6 | -16.6E-3 | 6.2E+0
452 | 25.00 | (a) | 17.32 | 16.9E-6 | -16.6E-3 | 6.2E+0
453 | 21.00 | (a) | 18.03 | 16.9E-6 | -16.6E-3 | 6.2E+0
454 | 18.00 | (a) | 18.19 | 16.9E-6 | -16.6E-3 | 6.2E+0
455 | 15.00 | (a) | 18.30 | 16.9E-6 | -16.6E-3 | 6.2E+0
456 | 12.00 | (a) | 18.40 | 16.9E-6 | -16.6E-3 | 6.2E+0
457 | 18.00 | (a) | 18.33 | 16.9E-6 | -16.6E-3 | 6.2E+0
458 | 29.00 | 19.80 | 18.68 | 5.6E-6 | -5.5E-3 | 2.1E+0
459 | 40.00 | 54.00 | 19.10 | -5.6E-6 | 5.5E-3 | -2.1E+0
460 | 52.00 | 82.00 | 18.69 | -16.9E-6 | 16.6E-3 | -6.2E+0
461 | 64.00 | 95.00 | 17.89 | -16.9E-6 | 16.6E-3 | -6.2E+0
462 | 71.00 | 99.00 | 17.23 | -16.9E-6 | 16.6E-3 | -6.2E+0
463 | 77.00 | 100.00 | 16.65 | -16.9E-6 | 16.6E-3 | -6.2E+0
464 | 84.00 | 100.00 | 15.76 | -16.9E-6 | 16.6E-3 | -6.2E+0
465 | 85.00 | 99.00 | 14.53 | -16.9E-6 | 16.6E-3 | -6.2E+0
466 | 85.00 | 95.00 | 13.07 | -16.9E-6 | 16.6E-3 | -6.2E+0
467 | 84.00 | 90.00 | 11.26 | -16.9E-6 | 16.6E-3 | -6.2E+0
468 | 82.00 | 84.60 | 9.32 | -16.9E-6 | 16.6E-3 | -6.2E+0
469 | 80.00 | 78.50 | 8.04 | -7.7E-6 | 7.5E-3 | -2.7E+0
470 | 78.00 | 78.50 | 8.15 | 1.5E-6 | -1.5E-3 | 724.3E-3
471 | 77.00 | 70.00 | 9.43 | 10.7E-6 | -10.5E-3 | 4.2E+0
472 | 76.00 | 65.50 | 10.80 | 10.7E-6 | -10.5E-3 | 4.2E+0
473 | 74.00 | 61.50 | 12.16 | 10.7E-6 | -10.5E-3 | 4.2E+0
474 | 72.00 | 56.00 | 14.25 | 10.7E-6 | -10.5E-3 | 4.2E+0
475 | 70.00 | 52.00 | 16.38 | 10.7E-6 | -10.5E-3 | 4.2E+0
476 | 68.00 | 46.00 | 17.48 | 10.7E-6 | -10.5E-3 | 4.2E+0
477 | 66.50 | 40.00 | 17.41 | 10.7E-6 | -10.5E-3 | 4.2E+0
478 | 65.00 | 32.00 | 16.78 | 10.7E-6 | -10.5E-3 | 4.2E+0
479 | 63.00 | 26.00 | 16.06 | 10.7E-6 | -10.5E-3 | 4.2E+0
480 | 61.00 | 25.60 | 15.24 | 10.7E-6 | -10.5E-3 | 4.2E+0
481 | 61.00 | 72.00 | 14.69 | 10.7E-6 | -10.5E-3 | 4.2E+0
482 | 61.00 | 78.00 | 15.38 | 10.7E-6 | -10.5E-3 | 4.2E+0
483 | 58.00 | 72.00 | 16.86 | 10.7E-6 | -10.5E-3 | 4.2E+0
484 | 50.00 | 64.00 | 17.35 | 10.7E-6 | -10.5E-3 | 4.2E+0
485 | 44.00 | 55.00 | 16.98 | 10.7E-6 | -10.5E-3 | 4.2E+0
486 | 35.00 | 40.00 | 16.57 | 10.7E-6 | -10.5E-3 | 4.2E+0
487 | 26.00 | 20.00 | 16.12 | 10.7E-6 | -10.5E-3 | 4.2E+0
488 | 21.00 | (a) | 15.67 | 10.7E-6 | -10.5E-3 | 4.2E+0
489 | 18.00 | (a) | 15.46 | 10.7E-6 | -10.5E-3 | 4.2E+0
490 | 16.00 | (a) | 15.52 | 10.7E-6 | -10.5E-3 | 4.2E+0
491 | 19.00 | (a) | 15.89 | 10.7E-6 | -10.5E-3 | 4.2E+0
492 | 24.00 | 2.00 | 16.77 | 10.7E-6 | -10.5E-3 | 4.2E+0
493 | 32.00 | 68.50 | 18.08 | 10.7E-6 | -10.5E-3 | 4.2E+0
494 | 45.00 | 78.00 | 19.31 | 10.7E-6 | -10.5E-3 | 4.2E+0
495 | 51.00 | 86.00 | 20.11 | 10.7E-6 | -10.5E-3 | 4.2E+0
496 | 58.00 | 92.00 | 20.75 | 10.7E-6 | -10.5E-3 | 4.2E+0
497 | 64.00 | 97.00 | 21.23 | 10.7E-6 | -10.5E-3 | 4.2E+0
498 | 71.00 | 100.00 | 21.40 | 10.7E-6 | -10.5E-3 | 4.2E+0
499 | 73.00 | 98.00 | 21.51 | 10.7E-6 | -10.5E-3 | 4.2E+0
500 | 73.00 | 94.00 | 22.18 | 10.7E-6 | -10.5E-3 | 4.2E+0
501 | 73.00 | 86.00 | 22.48 | 10.7E-6 | -10.5E-3 | 4.2E+0
502 | 73.00 | 82.00 | 22.49 | 10.7E-6 | -10.5E-3 | 4.2E+0
503 | 76.00 | 84.00 | 23.27 | 10.7E-6 | -10.5E-3 | 4.2E+0
504 | 80.00 | 98.00 | 24.39 | 10.7E-6 | -10.5E-3 | 4.2E+0
505 | 84.00 | 100.00 | 25.09 | 10.7E-6 | -10.5E-3 | 4.2E+0
506 | 85.00 | 100.00 | 25.26 | 10.7E-6 | -10.5E-3 | 4.2E+0
507 | 84.00 | 100.00 | 25.15 | 10.7E-6 | -10.5E-3 | 4.2E+0
508 | 81.00 | 92.00 | 24.80 | 10.7E-6 | -10.5E-3 | 4.2E+0
509 | 75.00 | 80.00 | 24.30 | 10.7E-6 | -10.5E-3 | 4.2E+0
510 | 73.00 | 70.00 | 23.92 | 10.7E-6 | -10.5E-3 | 4.2E+0
511 | 70.00 | 60.00 | 23.82 | 10.7E-6 | -10.5E-3 | 4.2E+0
512 | 67.00 | 53.00 | 23.75 | 10.7E-6 | -10.5E-3 | 4.2E+0
513 | 65.00 | 45.00 | 24.34 | 10.7E-6 | -10.5E-3 | 4.2E+0
514 | 63.00 | 36.50 | 25.03 | 10.7E-6 | -10.5E-3 | 4.2E+0
515 | 62.00 | 28.00 | 25.13 | 10.7E-6 | -10.5E-3 | 4.2E+0
516 | 61.00 | 22.50 | 25.14 | 10.7E-6 | -10.5E-3 | 4.2E+0
517 | 60.00 | 23.00 | 25.14 | 10.7E-6 | -10.5E-3 | 4.2E+0
518 | 60.00 | 24.00 | 25.15 | 10.7E-6 | -10.5E-3 | 4.2E+0
519 | 60.00 | 24.00 | 25.15 | 10.7E-6 | -10.5E-3 | 4.2E+0
520 | 60.00 | 26.00 | 25.16 | 10.7E-6 | -10.5E-3 | 4.2E+0
521 | 61.00 | 60.00 | 25.17 | 10.7E-6 | -10.5E-3 | 4.2E+0
522 | 62.00 | 64.00 | 25.24 | 10.7E-6 | -10.5E-3 | 4.2E+0
523 | 63.00 | 64.00 | 25.41 | 10.7E-6 | -10.5E-3 | 4.2E+0
524 | 64.00 | 64.00 | 26.56 | 10.7E-6 | -10.5E-3 | 4.2E+0
525 | 62.00 | 64.00 | 28.84 | 10.7E-6 | -10.5E-3 | 4.2E+0
526 | 56.00 | 60.00 | 31.08 | 10.7E-6 | -10.5E-3 | 4.2E+0
527 | 53.00 | (a) | 32.37 | 10.7E-6 | -10.5E-3 | 4.2E+0
528 | 49.00 | (a) | 32.70 | 10.7E-6 | -10.5E-3 | 4.2E+0
529 | 47.00 | (a) | 32.76 | 6.4E-6 | -6.7E-3 | 2.3E+0
530 | 46.00 | (a) | 32.82 | 2.1E-6 | -2.9E-3 | 327.5E-3
531 | 45.00 | (a) | 32.88 | -2.2E-6 | 973.4E-6 | -1.6E+0
532 | 45.00 | 30.00 | 33.19 | -2.2E-6 | 973.4E-6 | -1.6E+0
533 | 46.00 | 50.00 | 33.89 | -2.2E-6 | 973.4E-6 | -1.6E+0
534 | 46.00 | 50.00 | 35.07 | -2.2E-6 | 973.4E-6 | -1.6E+0
535 | 47.00 | 50.00 | 36.61 | -2.2E-6 | 973.4E-6 | -1.6E+0
536 | 47.00 | 50.00 | 37.63 | -2.2E-6 | 973.4E-6 | -1.6E+0
537 | 47.00 | 30.00 | 38.05 | -2.2E-6 | 973.4E-6 | -1.6E+0
538 | 46.00 | 12.00 | 38.67 | -2.2E-6 | 973.4E-6 | -1.6E+0
539 | 45.00 | 10.50 | 39.32 | -2.2E-6 | 973.4E-6 | -1.6E+0
540 | 44.00 | 10.00 | 39.54 | -2.2E-6 | 973.4E-6 | -1.6E+0
541 | 41.00 | 10.00 | 39.55 | -2.2E-6 | 973.4E-6 | -1.6E+0
542 | 37.00 | 9.00 | 39.56 | -2.2E-6 | 973.4E-6 | -1.6E+0
543 | 36.00 | 2.00 | 39.58 | -2.2E-6 | 973.4E-6 | -1.6E+0
544 | 35.00 | (a) | 39.59 | -2.2E-6 | 973.4E-6 | -1.6E+0
545 | 38.00 | 67.00 | 39.61 | -2.2E-6 | 973.4E-6 | -1.6E+0
546 | 35.00 | (a) | 39.60 | -2.2E-6 | 973.4E-6 | -1.6E+0
547 | 31.00 | 15.00 | 39.69 | -2.2E-6 | 973.4E-6 | -1.6E+0
548 | 28.00 | 55.00 | 39.99 | -2.2E-6 | 973.4E-6 | -1.6E+0
549 | 34.00 | 44.00 | 40.39 | -2.2E-6 | 973.4E-6 | -1.6E+0
550 | 35.00 | 38.50 | 41.01 | -2.2E-6 | 973.4E-6 | -1.6E+0
551 | 36.00 | 38.50 | 41.65 | -2.2E-6 | 973.4E-6 | -1.6E+0
552 | 36.00 | 38.50 | 41.69 | -2.2E-6 | 973.4E-6 | -1.6E+0
553 | 37.00 | 38.50 | 41.17 | -2.2E-6 | 973.4E-6 | -1.6E+0
554 | 39.00 | 36.00 | 40.47 | -2.2E-6 | 973.4E-6 | -1.6E+0
555 | 42.00 | 27.00 | 39.83 | -2.2E-6 | 973.4E-6 | -1.6E+0
556 | 45.00 | 62.00 | 39.39 | -2.2E-6 | 973.4E-6 | -1.6E+0
557 | 48.00 | 45.00 | 39.14 | -2.2E-6 | 973.4E-6 | -1.6E+0
558 | 51.00 | 15.00 | 38.99 | -2.2E-6 | 973.4E-6 | -1.6E+0
559 | 51.00 | 8.00 | 38.88 | -2.2E-6 | 973.4E-6 | -1.6E+0
560 | 51.00 | 6.00 | 38.86 | -2.2E-6 | 973.4E-6 | -1.6E+0
561 | 48.00 | 10.00 | 39.17 | -717.3E-9 | 324.5E-6 | -535.2E-3
562 | 46.00 | 11.00 | 39.37 | 717.3E-9 | -324.5E-6 | 535.2E-3
563 | 44.00 | 13.00 | 38.63 | 2.2E-6 | -973.4E-6 | 1.6E+0
564 | 41.00 | 17.00 | 36.96 | 2.2E-6 | -973.4E-6 | 1.6E+0
565 | 37.00 | 20.00 | 34.87 | 2.2E-6 | -973.4E-6 | 1.6E+0
566 | 34.00 | 20.00 | 32.73 | 2.2E-6 | -973.4E-6 | 1.6E+0
567 | 30.00 | 17.00 | 30.53 | 2.2E-6 | -973.4E-6 | 1.6E+0
568 | 26.00 | 14.00 | 28.27 | 2.2E-6 | -973.4E-6 | 1.6E+0
569 | 23.00 | 7.00 | 26.02 | 2.2E-6 | -973.4E-6 | 1.6E+0
570 | 19.00 | 2.00 | 23.76 | 2.2E-6 | -973.4E-6 | 1.6E+0
571 | 15.00 | (a) | 21.37 | 2.2E-6 | -973.4E-6 | 1.6E+0
572 | 11.00 | (a) | 18.79 | 2.2E-6 | -973.4E-6 | 1.6E+0
573 | 8.00 | (a) | 16.06 | 2.2E-6 | -973.4E-6 | 1.6E+0
574 | 5.00 | (a) | 13.05 | 2.2E-6 | -973.4E-6 | 1.6E+0
575 | 2.00 | (a) | 9.54 | 2.2E-6 | -973.4E-6 | 1.6E+0
576 | 0 | 0 | 4.59 | 2.2E-6 | -973.4E-6 | 1.6E+0
577 | 0 | 0 | 0 | 2.2E-6 | -973.4E-6 | 1.6E+0
578 | 0 | 0 | 0 | 2.2E-6 | -973.4E-6 | 1.6E+0
579 | 0 | 0 | 0 | 2.2E-6 | -973.4E-6 | 1.6E+0
580 | 0 | 0 | 0 | 8.8E-6 | -7.4E-3 | 955.1E-3
581 | 0 | 0 | 0 | 15.4E-6 | -13.9E-3 | 304.7E-3
582 | 0 | 0 | 0 | 22.0E-6 | -20.3E-3 | -345.7E-3
583 | 4.00 | 15.00 | 0 | 22.0E-6 | -20.3E-3 | -345.7E-3
584 | 19.00 | 31.00 | 0.78 | 22.0E-6 | -20.3E-3 | -345.7E-3
585 | 30.00 | 46.00 | 1.94 | 22.0E-6 | -20.3E-3 | -345.7E-3
586 | 37.00 | 68.00 | 3.83 | 22.0E-6 | -20.3E-3 | -345.7E-3
587 | 40.00 | 76.00 | 5.98 | 22.0E-6 | -20.3E-3 | -345.7E-3
588 | 41.00 | 77.00 | 8.07 | 22.0E-6 | -20.3E-3 | -345.7E-3
589 | 40.50 | 78.00 | 10.09 | 22.0E-6 | -20.3E-3 | -345.7E-3
590 | 40.00 | 77.00 | 10.29 | 22.0E-6 | -20.3E-3 | -345.7E-3
591 | 40.00 | 64.00 | 7.34 | 22.0E-6 | -20.3E-3 | -345.7E-3
592 | 38.00 | 10.00 | 3.27 | 22.0E-6 | -20.3E-3 | -345.7E-3
593 | 38.00 | 25.00 | 3.24 | 22.0E-6 | -20.3E-3 | -345.7E-3
594 | 40.00 | 50.00 | 5.98 | 22.0E-6 | -20.3E-3 | -345.7E-3
595 | 40.00 | 36.00 | 8.48 | 22.0E-6 | -20.3E-3 | -345.7E-3
596 | 40.00 | 31.00 | 11.00 | 22.0E-6 | -20.3E-3 | -345.7E-3
597 | 40.00 | 31.00 | 13.62 | 22.0E-6 | -20.3E-3 | -345.7E-3
598 | 41.00 | 37.00 | 16.07 | 22.0E-6 | -20.3E-3 | -345.7E-3
599 | 42.00 | 97.00 | 18.51 | 16.5E-6 | -15.9E-3 | -889.5E-3
600 | 43.00 | 100.00 | 21.51 | 11.0E-6 | -11.4E-3 | -1.4E+0
601 | 45.00 | 100.00 | 24.71 | 5.5E-6 | -7.0E-3 | -2.0E+0
602 | 47.00 | 100.00 | 27.57 | 5.5E-6 | -7.0E-3 | -2.0E+0
603 | 48.00 | 100.00 | 30.04 | 5.5E-6 | -7.0E-3 | -2.0E+0
604 | 49.00 | 100.00 | 32.22 | 5.5E-6 | -7.0E-3 | -2.0E+0
605 | 51.00 | 97.00 | 34.28 | 5.5E-6 | -7.0E-3 | -2.0E+0
606 | 52.00 | 94.00 | 36.22 | 5.5E-6 | -7.0E-3 | -2.0E+0
607 | 53.00 | 90.00 | 38.08 | 5.5E-6 | -7.0E-3 | -2.0E+0
608 | 54.00 | 87.00 | 39.83 | 5.5E-6 | -7.0E-3 | -2.0E+0
609 | 56.00 | 86.00 | 41.63 | 5.5E-6 | -7.0E-3 | -2.0E+0
610 | 56.00 | 85.00 | 43.18 | 5.5E-6 | -7.0E-3 | -2.0E+0
611 | 55.50 | 85.00 | 44.33 | 5.5E-6 | -7.0E-3 | -2.0E+0
612 | 55.00 | 81.00 | 45.38 | 5.5E-6 | -7.0E-3 | -2.0E+0
613 | 54.00 | 77.00 | 46.14 | 5.5E-6 | -7.0E-3 | -2.0E+0
614 | 53.00 | 72.00 | 46.39 | 5.5E-6 | -7.0E-3 | -2.0E+0
615 | 52.00 | 67.00 | 46.34 | 5.5E-6 | -7.0E-3 | -2.0E+0
616 | 49.00 | 60.00 | 46.24 | 5.5E-6 | -7.0E-3 | -2.0E+0
617 | 46.00 | 45.00 | 46.14 | 5.5E-6 | -7.0E-3 | -2.0E+0
618 | 45.00 | 12.00 | 46.05 | 5.5E-6 | -7.0E-3 | -2.0E+0
619 | 44.00 | 10.00 | 46.13 | 5.5E-6 | -7.0E-3 | -2.0E+0
620 | 44.00 | 10.00 | 46.49 | 5.5E-6 | -7.0E-3 | -2.0E+0
621 | 45.00 | 12.00 | 46.78 | 5.5E-6 | -7.0E-3 | -2.0E+0
622 | 46.00 | 14.00 | 46.81 | 5.5E-6 | -7.0E-3 | -2.0E+0
623 | 47.00 | 24.00 | 46.95 | 5.5E-6 | -7.0E-3 | -2.0E+0
624 | 49.00 | 88.00 | 47.37 | 2.0E-6 | -3.5E-3 | -1.4E+0
625 | 50.00 | 90.00 | 47.62 | -1.5E-6 | -844.5E-9 | -908.8E-3
626 | 51.00 | 90.00 | 47.58 | -4.9E-6 | 3.5E-3 | -374.8E-3
627 | 52.00 | 90.00 | 48.00 | -4.9E-6 | 3.5E-3 | -374.8E-3
628 | 53.00 | 90.00 | 48.46 | -4.9E-6 | 3.5E-3 | -374.8E-3
629 | 54.00 | 90.00 | 48.45 | -4.9E-6 | 3.5E-3 | -374.8E-3
630 | 54.00 | 90.00 | 48.40 | -4.9E-6 | 3.5E-3 | -374.8E-3
631 | 54.00 | 87.00 | 48.59 | -4.9E-6 | 3.5E-3 | -374.8E-3
632 | 54.00 | 84.00 | 49.30 | -4.9E-6 | 3.5E-3 | -374.8E-3
633 | 54.00 | 80.00 | 50.02 | -4.9E-6 | 3.5E-3 | -374.8E-3
634 | 53.50 | 77.00 | 50.27 | -4.9E-6 | 3.5E-3 | -374.8E-3
635 | 53.00 | 76.00 | 50.00 | -4.9E-6 | 3.5E-3 | -374.8E-3
636 | 53.00 | 75.00 | 49.73 | -4.9E-6 | 3.5E-3 | -374.8E-3
637 | 52.00 | 73.00 | 49.57 | -4.9E-6 | 3.5E-3 | -374.8E-3
638 | 51.00 | 69.00 | 49.31 | -4.9E-6 | 3.5E-3 | -374.8E-3
639 | 50.00 | 65.00 | 49.29 | -4.9E-6 | 3.5E-3 | -374.8E-3
640 | 50.00 | 60.00 | 49.71 | -4.9E-6 | 3.5E-3 | -374.8E-3
641 | 49.00 | 55.00 | 50.02 | -4.9E-6 | 3.5E-3 | -374.8E-3
642 | 49.00 | 50.00 | 50.05 | -4.9E-6 | 3.5E-3 | -374.8E-3
643 | 49.00 | 50.00 | 50.07 | -4.9E-6 | 3.5E-3 | -374.8E-3
644 | 49.50 | 60.00 | 50.33 | -4.9E-6 | 3.5E-3 | -374.8E-3
645 | 49.50 | 65.00 | 50.75 | -4.9E-6 | 3.5E-3 | -374.8E-3
646 | 50.00 | 70.00 | 51.03 | -4.9E-6 | 3.5E-3 | -374.8E-3
647 | 50.50 | 75.00 | 51.47 | -4.9E-6 | 3.5E-3 | -374.8E-3
648 | 51.00 | 80.00 | 51.92 | -4.9E-6 | 3.5E-3 | -374.8E-3
649 | 52.00 | 85.00 | 51.93 | -5.9E-6 | 4.5E-3 | -731.0E-3
650 | 53.00 | 90.00 | 51.90 | -7.0E-6 | 5.4E-3 | -1.1E+0
651 | 54.00 | 90.00 | 51.87 | -8.0E-6 | 6.4E-3 | -1.4E+0
652 | 55.00 | 90.00 | 51.85 | -8.0E-6 | 6.4E-3 | -1.4E+0
653 | 55.00 | 88.00 | 51.82 | -8.0E-6 | 6.4E-3 | -1.4E+0
654 | 55.00 | 84.00 | 51.82 | -8.0E-6 | 6.4E-3 | -1.4E+0
655 | 55.00 | 79.00 | 52.54 | -8.0E-6 | 6.4E-3 | -1.4E+0
656 | 55.00 | 74.00 | 53.59 | -8.0E-6 | 6.4E-3 | -1.4E+0
657 | 55.00 | 69.00 | 54.19 | -8.0E-6 | 6.4E-3 | -1.4E+0
658 | 55.00 | 64.00 | 54.26 | -8.0E-6 | 6.4E-3 | -1.4E+0
659 | 55.00 | 59.00 | 54.07 | -8.0E-6 | 6.4E-3 | -1.4E+0
660 | 55.00 | 54.00 | 53.93 | -8.0E-6 | 6.4E-3 | -1.4E+0
661 | 55.00 | 49.00 | 53.92 | -8.0E-6 | 6.4E-3 | -1.4E+0
662 | 55.00 | 44.50 | 53.90 | -8.0E-6 | 6.4E-3 | -1.4E+0
663 | 55.00 | 39.00 | 53.89 | -8.0E-6 | 6.4E-3 | -1.4E+0
664 | 55.00 | 34.00 | 53.88 | -8.0E-6 | 6.4E-3 | -1.4E+0
665 | 55.00 | 27.00 | 53.87 | -8.0E-6 | 6.4E-3 | -1.4E+0
666 | 55.00 | 18.00 | 53.85 | -8.0E-6 | 6.4E-3 | -1.4E+0
667 | 55.00 | 8.00 | 53.81 | -8.0E-6 | 6.4E-3 | -1.4E+0
668 | 55.00 | 6.00 | 53.67 | -8.0E-6 | 6.4E-3 | -1.4E+0
669 | 55.00 | 13.00 | 53.67 | -8.0E-6 | 6.4E-3 | -1.4E+0
670 | 55.00 | 27.00 | 54.32 | -8.0E-6 | 6.4E-3 | -1.4E+0
671 | 55.50 | 30.00 | 54.88 | -8.0E-6 | 6.4E-3 | -1.4E+0
672 | 56.00 | 30.00 | 54.87 | -8.0E-6 | 6.4E-3 | -1.4E+0
673 | 57.00 | 30.00 | 54.86 | -8.0E-6 | 6.4E-3 | -1.4E+0
674 | 58.00 | 34.00 | 54.75 | -6.9E-6 | 5.3E-3 | -816.0E-3
675 | 59.00 | 46.00 | 54.28 | -5.8E-6 | 4.3E-3 | -188.7E-3
676 | 59.00 | 89.00 | 53.84 | -4.7E-6 | 3.3E-3 | 438.5E-3
677 | 59.00 | 90.00 | 54.02 | -4.7E-6 | 3.3E-3 | 438.5E-3
678 | 59.00 | 91.00 | 54.48 | -4.7E-6 | 3.3E-3 | 438.5E-3
679 | 59.00 | 91.00 | 54.76 | -4.7E-6 | 3.3E-3 | 438.5E-3
680 | 60.00 | 91.00 | 54.84 | -4.7E-6 | 3.3E-3 | 438.5E-3
681 | 60.00 | 91.00 | 54.87 | -4.7E-6 | 3.3E-3 | 438.5E-3
682 | 60.50 | 90.00 | 54.90 | -4.7E-6 | 3.3E-3 | 438.5E-3
683 | 61.00 | 89.00 | 54.93 | -4.7E-6 | 3.3E-3 | 438.5E-3
684 | 61.50 | 88.00 | 54.97 | -4.7E-6 | 3.3E-3 | 438.5E-3
685 | 62.00 | 83.00 | 55.00 | -4.7E-6 | 3.3E-3 | 438.5E-3
686 | 63.00 | 73.00 | 55.03 | -4.7E-6 | 3.3E-3 | 438.5E-3
687 | 65.00 | 70.00 | 55.06 | -4.7E-6 | 3.3E-3 | 438.5E-3
688 | 66.00 | 71.00 | 55.10 | -4.7E-6 | 3.3E-3 | 438.5E-3
689 | 67.00 | 74.00 | 55.12 | -4.7E-6 | 3.3E-3 | 438.5E-3
690 | 67.50 | 79.00 | 55.15 | -4.7E-6 | 3.3E-3 | 438.5E-3
691 | 68.00 | 85.00 | 55.16 | -4.7E-6 | 3.3E-3 | 438.5E-3
692 | 68.50 | 90.00 | 55.18 | -4.7E-6 | 3.3E-3 | 438.5E-3
693 | 69.00 | 94.00 | 55.33 | -4.7E-6 | 3.3E-3 | 438.5E-3
694 | 69.50 | 96.00 | 55.85 | -4.7E-6 | 3.3E-3 | 438.5E-3
695 | 70.00 | 98.00 | 56.52 | -4.7E-6 | 3.3E-3 | 438.5E-3
696 | 70.50 | 100.00 | 57.05 | -4.7E-6 | 3.3E-3 | 438.5E-3
697 | 71.00 | 100.00 | 57.31 | -4.7E-6 | 3.3E-3 | 438.5E-3
698 | 72.00 | 100.00 | 57.35 | -4.7E-6 | 3.3E-3 | 438.5E-3
699 | 72.00 | 100.00 | 57.34 | -4.5E-6 | 3.0E-3 | 722.7E-3
700 | 72.00 | 100.00 | 57.34 | -4.3E-6 | 2.8E-3 | 1.0E+0
701 | 72.00 | 100.00 | 57.33 | -4.1E-6 | 2.5E-3 | 1.3E+0
702 | 72.00 | 100.00 | 57.33 | -4.1E-6 | 2.5E-3 | 1.3E+0
703 | 72.00 | 100.00 | 57.33 | -4.1E-6 | 2.5E-3 | 1.3E+0
704 | 72.00 | 100.00 | 57.32 | -4.1E-6 | 2.5E-3 | 1.3E+0
705 | 72.00 | 100.00 | 57.31 | -4.1E-6 | 2.5E-3 | 1.3E+0
706 | 72.00 | 100.00 | 57.30 | -4.1E-6 | 2.5E-3 | 1.3E+0
707 | 72.50 | 100.00 | 57.39 | -4.1E-6 | 2.5E-3 | 1.3E+0
708 | 73.00 | 100.00 | 57.71 | -4.1E-6 | 2.5E-3 | 1.3E+0
709 | 73.50 | 100.00 | 58.14 | -4.1E-6 | 2.5E-3 | 1.3E+0
710 | 74.00 | 100.00 | 58.34 | -4.1E-6 | 2.5E-3 | 1.3E+0
711 | 74.00 | 100.00 | 58.34 | -4.1E-6 | 2.5E-3 | 1.3E+0
712 | 74.50 | 100.00 | 58.33 | -4.1E-6 | 2.5E-3 | 1.3E+0
713 | 75.00 | 100.00 | 58.33 | -4.1E-6 | 2.5E-3 | 1.3E+0
714 | 75.00 | 100.00 | 58.32 | -4.1E-6 | 2.5E-3 | 1.3E+0
715 | 75.00 | 100.00 | 58.31 | -4.1E-6 | 2.5E-3 | 1.3E+0
716 | 75.00 | 100.00 | 58.30 | -4.1E-6 | 2.5E-3 | 1.3E+0
717 | 75.00 | 100.00 | 58.30 | -4.1E-6 | 2.5E-3 | 1.3E+0
718 | 75.00 | 100.00 | 58.30 | -4.1E-6 | 2.5E-3 | 1.3E+0
719 | 75.00 | 100.00 | 58.30 | -4.1E-6 | 2.5E-3 | 1.3E+0
720 | 75.00 | 100.00 | 58.48 | -4.1E-6 | 2.5E-3 | 1.3E+0
721 | 75.00 | 100.00 | 58.92 | -4.1E-6 | 2.5E-3 | 1.3E+0
722 | 75.00 | 100.00 | 59.26 | -4.1E-6 | 2.5E-3 | 1.3E+0
723 | 75.00 | 98.00 | 59.34 | -4.1E-6 | 2.5E-3 | 1.3E+0
724 | 75.00 | 90.00 | 59.32 | -5.5E-6 | 3.7E-3 | 764.9E-3
725 | 75.00 | 34.00 | 59.37 | -6.8E-6 | 5.0E-3 | 238.8E-3
726 | 74.00 | 15.00 | 59.67 | -8.2E-6 | 6.2E-3 | -287.4E-3
727 | 72.00 | 3.00 | 60.11 | -8.2E-6 | 6.2E-3 | -287.4E-3
728 | 70.00 | (a) | 60.32 | -8.2E-6 | 6.2E-3 | -287.4E-3
729 | 69.00 | (a) | 60.30 | -8.2E-6 | 6.2E-3 | -287.4E-3
730 | 68.00 | (a) | 60.29 | -8.2E-6 | 6.2E-3 | -287.4E-3
731 | 70.50 | 53.00 | 60.27 | -8.2E-6 | 6.2E-3 | -287.4E-3
732 | 73.00 | 80.00 | 60.26 | -8.2E-6 | 6.2E-3 | -287.4E-3
733 | 75.00 | 88.00 | 60.25 | -8.2E-6 | 6.2E-3 | -287.4E-3
734 | 77.00 | 94.00 | 60.18 | -8.2E-6 | 6.2E-3 | -287.4E-3
735 | 79.00 | 97.00 | 59.83 | -8.2E-6 | 6.2E-3 | -287.4E-3
736 | 82.00 | 97.00 | 59.36 | -8.2E-6 | 6.2E-3 | -287.4E-3
737 | 85.00 | 98.00 | 59.65 | -8.2E-6 | 6.2E-3 | -287.4E-3
738 | 85.00 | 98.00 | 60.12 | -8.2E-6 | 6.2E-3 | -287.4E-3
739 | 87.00 | 97.00 | 59.80 | -8.2E-6 | 6.2E-3 | -287.4E-3
740 | 90.00 | 95.00 | 59.82 | -8.2E-6 | 6.2E-3 | -287.4E-3
741 | 92.00 | 90.00 | 60.18 | -8.2E-6 | 6.2E-3 | -287.4E-3
742 | 93.00 | 88.00 | 60.27 | -8.2E-6 | 6.2E-3 | -287.4E-3
743 | 94.00 | 86.00 | 60.31 | -8.2E-6 | 6.2E-3 | -287.4E-3
744 | 95.00 | 83.00 | 60.35 | -8.2E-6 | 6.2E-3 | -287.4E-3
745 | 96.00 | 79.00 | 60.37 | -8.2E-6 | 6.2E-3 | -287.4E-3
746 | 97.00 | 74.00 | 60.35 | -8.2E-6 | 6.2E-3 | -287.4E-3
747 | 98.00 | 68.00 | 60.33 | -8.2E-6 | 6.2E-3 | -287.4E-3
748 | 99.00 | 62.00 | 60.30 | -8.2E-6 | 6.2E-3 | -287.4E-3
749 | 100.00 | 54.00 | 60.26 | -9.9E-6 | 7.8E-3 | -1.1E+0
750 | 100.00 | 30.00 | 60.45 | -11.7E-6 | 9.5E-3 | -1.9E+0
751 | 100.00 | 22.00 | 61.12 | -13.4E-6 | 11.1E-3 | -2.7E+0
752 | 100.00 | 20.00 | 61.91 | -13.4E-6 | 11.1E-3 | -2.7E+0
753 | 100.00 | 22.00 | 62.23 | -13.4E-6 | 11.1E-3 | -2.7E+0
754 | 100.00 | 30.00 | 62.19 | -13.4E-6 | 11.1E-3 | -2.7E+0
755 | 100.00 | 65.00 | 62.17 | -13.4E-6 | 11.1E-3 | -2.7E+0
756 | 100.00 | 76.00 | 62.19 | -13.4E-6 | 11.1E-3 | -2.7E+0
757 | 100.00 | 80.00 | 62.24 | -13.4E-6 | 11.1E-3 | -2.7E+0
758 | 100.00 | 78.00 | 62.28 | -13.4E-6 | 11.1E-3 | -2.7E+0
759 | 100.00 | 72.00 | 62.30 | -13.4E-6 | 11.1E-3 | -2.7E+0
760 | 100.00 | 54.00 | 62.79 | -13.4E-6 | 11.1E-3 | -2.7E+0
761 | 95.00 | 30.00 | 63.22 | -13.4E-6 | 11.1E-3 | -2.7E+0
762 | 85.00 | 12.00 | 63.11 | -13.4E-6 | 11.1E-3 | -2.7E+0
763 | 68.00 | (a) | 62.97 | -13.4E-6 | 11.1E-3 | -2.7E+0
764 | 57.00 | (a) | 62.82 | -13.4E-6 | 11.1E-3 | -2.7E+0
765 | 56.00 | (a) | 62.67 | -13.4E-6 | 11.1E-3 | -2.7E+0
766 | 57.00 | (a) | 62.52 | -13.4E-6 | 11.1E-3 | -2.7E+0
767 | 57.00 | (a) | 62.37 | -13.4E-6 | 11.1E-3 | -2.7E+0
768 | 57.00 | 22.00 | 62.32 | -13.4E-6 | 11.1E-3 | -2.7E+0
769 | 58.00 | 40.00 | 62.45 | -13.4E-6 | 11.1E-3 | -2.7E+0
770 | 59.00 | 45.00 | 62.64 | -13.4E-6 | 11.1E-3 | -2.7E+0
771 | 59.00 | 46.00 | 62.69 | -13.4E-6 | 11.1E-3 | -2.7E+0
772 | 59.50 | 45.00 | 62.66 | -13.4E-6 | 11.1E-3 | -2.7E+0
773 | 60.00 | 33.00 | 62.62 | -13.4E-6 | 11.1E-3 | -2.7E+0
774 | 60.00 | 0 | 62.59 | -12.6E-6 | 10.3E-3 | -2.2E+0
775 | 60.00 | (a) | 62.55 | -11.8E-6 | 9.5E-3 | -1.8E+0
776 | 60.00 | (a) | 62.51 | -10.9E-6 | 8.8E-3 | -1.3E+0
777 | 60.00 | 34.00 | 62.44 | -10.9E-6 | 8.8E-3 | -1.3E+0
778 | 60.00 | 50.00 | 62.37 | -10.9E-6 | 8.8E-3 | -1.3E+0
779 | 60.00 | 60.00 | 62.29 | -10.9E-6 | 8.8E-3 | -1.3E+0
780 | 60.00 | 69.00 | 62.21 | -10.9E-6 | 8.8E-3 | -1.3E+0
781 | 60.00 | 75.00 | 62.15 | -10.9E-6 | 8.8E-3 | -1.3E+0
782 | 60.00 | 79.00 | 62.46 | -10.9E-6 | 8.8E-3 | -1.3E+0
783 | 61.00 | 83.00 | 63.40 | -10.9E-6 | 8.8E-3 | -1.3E+0
784 | 61.00 | 84.00 | 63.97 | -10.9E-6 | 8.8E-3 | -1.3E+0
785 | 61.00 | 85.00 | 63.98 | -10.9E-6 | 8.8E-3 | -1.3E+0
786 | 62.00 | 85.00 | 63.94 | -10.9E-6 | 8.8E-3 | -1.3E+0
787 | 62.00 | 85.00 | 63.93 | -10.9E-6 | 8.8E-3 | -1.3E+0
788 | 62.00 | 85.00 | 63.92 | -10.9E-6 | 8.8E-3 | -1.3E+0
789 | 63.00 | 85.00 | 63.92 | -10.9E-6 | 8.8E-3 | -1.3E+0
790 | 63.00 | 85.00 | 63.91 | -10.9E-6 | 8.8E-3 | -1.3E+0
791 | 64.00 | 85.00 | 64.21 | -10.9E-6 | 8.8E-3 | -1.3E+0
792 | 64.00 | 85.00 | 64.61 | -10.9E-6 | 8.8E-3 | -1.3E+0
793 | 64.00 | 85.00 | 64.50 | -10.9E-6 | 8.8E-3 | -1.3E+0
794 | 64.00 | 85.00 | 64.05 | -10.9E-6 | 8.8E-3 | -1.3E+0
795 | 64.00 | 85.00 | 63.83 | -10.9E-6 | 8.8E-3 | -1.3E+0
796 | 64.00 | 84.50 | 63.81 | -10.9E-6 | 8.8E-3 | -1.3E+0
797 | 64.00 | 84.00 | 63.79 | -10.9E-6 | 8.8E-3 | -1.3E+0
798 | 64.00 | 83.00 | 63.77 | -10.9E-6 | 8.8E-3 | -1.3E+0
799 | 64.00 | 82.00 | 63.76 | -11.1E-6 | 8.9E-3 | -1.2E+0
800 | 64.00 | 81.00 | 63.75 | -11.2E-6 | 9.0E-3 | -1.2E+0
801 | 64.00 | 77.00 | 63.73 | -11.4E-6 | 9.1E-3 | -1.1E+0
802 | 64.00 | 72.00 | 63.72 | -11.4E-6 | 9.1E-3 | -1.1E+0
803 | 65.00 | 67.00 | 63.70 | -11.4E-6 | 9.1E-3 | -1.1E+0
804 | 66.00 | 64.00 | 63.69 | -11.4E-6 | 9.1E-3 | -1.1E+0
805 | 67.00 | 60.00 | 63.69 | -11.4E-6 | 9.1E-3 | -1.1E+0
806 | 69.00 | 62.30 | 63.68 | -11.4E-6 | 9.1E-3 | -1.1E+0
807 | 72.00 | 84.00 | 64.10 | -11.4E-6 | 9.1E-3 | -1.1E+0
808 | 73.00 | 90.50 | 64.60 | -11.4E-6 | 9.1E-3 | -1.1E+0
809 | 74.00 | 91.00 | 64.73 | -11.4E-6 | 9.1E-3 | -1.1E+0
810 | 74.00 | 90.00 | 64.73 | -11.4E-6 | 9.1E-3 | -1.1E+0
811 | 74.00 | 84.50 | 64.73 | -11.4E-6 | 9.1E-3 | -1.1E+0
812 | 73.00 | 74.00 | 64.72 | -11.4E-6 | 9.1E-3 | -1.1E+0
813 | 72.00 | 66.00 | 64.71 | -11.4E-6 | 9.1E-3 | -1.1E+0
814 | 71.00 | 60.00 | 64.71 | -11.4E-6 | 9.1E-3 | -1.1E+0
815 | 70.00 | 54.00 | 64.70 | -11.4E-6 | 9.1E-3 | -1.1E+0
816 | 69.00 | 50.00 | 64.69 | -11.4E-6 | 9.1E-3 | -1.1E+0
817 | 68.00 | 49.00 | 64.68 | -11.4E-6 | 9.1E-3 | -1.1E+0
818 | 68.00 | 48.00 | 64.82 | -11.4E-6 | 9.1E-3 | -1.1E+0
819 | 68.00 | 48.00 | 65.27 | -11.4E-6 | 9.1E-3 | -1.1E+0
820 | 68.00 | 48.50 | 65.65 | -11.4E-6 | 9.1E-3 | -1.1E+0
821 | 68.00 | 49.00 | 65.71 | -11.4E-6 | 9.1E-3 | -1.1E+0
822 | 68.00 | 51.00 | 65.72 | -11.4E-6 | 9.1E-3 | -1.1E+0
823 | 68.00 | 53.50 | 65.72 | -11.4E-6 | 9.1E-3 | -1.1E+0
824 | 68.00 | 55.00 | 65.72 | -11.4E-6 | 9.1E-3 | -1.1E+0
825 | 68.00 | 58.00 | 65.71 | -11.4E-6 | 9.1E-3 | -1.1E+0
826 | 68.00 | 60.00 | 65.70 | -11.4E-6 | 9.1E-3 | -1.1E+0
827 | 68.00 | 62.00 | 65.69 | -11.4E-6 | 9.1E-3 | -1.1E+0
828 | 68.00 | 64.00 | 65.67 | -11.4E-6 | 9.1E-3 | -1.1E+0
829 | 68.00 | 67.00 | 65.27 | -11.4E-6 | 9.1E-3 | -1.1E+0
830 | 69.00 | 68.50 | 64.33 | -11.4E-6 | 9.1E-3 | -1.1E+0
831 | 70.00 | 70.00 | 63.65 | -11.4E-6 | 9.1E-3 | -1.1E+0
832 | 70.00 | 70.00 | 63.50 | -11.4E-6 | 9.1E-3 | -1.1E+0
833 | 70.00 | 70.00 | 63.49 | -11.4E-6 | 9.1E-3 | -1.1E+0
834 | 70.00 | 70.00 | 63.49 | -11.4E-6 | 9.1E-3 | -1.1E+0
835 | 70.00 | 70.00 | 63.37 | -11.4E-6 | 9.1E-3 | -1.1E+0
836 | 70.00 | 70.00 | 63.01 | -11.4E-6 | 9.1E-3 | -1.1E+0
837 | 71.00 | 66.00 | 62.60 | -11.4E-6 | 9.1E-3 | -1.1E+0
838 | 73.00 | 64.00 | 62.44 | -11.4E-6 | 9.1E-3 | -1.1E+0
839 | 75.00 | 64.00 | 62.45 | -8.3E-6 | 6.1E-3 | 362.3E-3
840 | 77.00 | 98.00 | 62.47 | -5.1E-6 | 3.2E-3 | 1.8E+0
841 | 79.00 | 100.00 | 62.50 | -2.0E-6 | 233.7E-6 | 3.3E+0
842 | 81.00 | 100.00 | 62.52 | -2.0E-6 | 233.7E-6 | 3.3E+0
843 | 82.00 | 100.00 | 62.54 | -2.0E-6 | 233.7E-6 | 3.3E+0
844 | 83.00 | 100.00 | 62.57 | -2.0E-6 | 233.7E-6 | 3.3E+0
845 | 84.00 | 98.00 | 62.70 | -2.0E-6 | 233.7E-6 | 3.3E+0
846 | 84.00 | 94.00 | 62.90 | -2.0E-6 | 233.7E-6 | 3.3E+0
847 | 85.00 | 93.00 | 63.11 | -2.0E-6 | 233.7E-6 | 3.3E+0
848 | 86.00 | 94.00 | 63.32 | -2.0E-6 | 233.7E-6 | 3.3E+0
849 | 87.00 | 98.00 | 63.53 | -2.0E-6 | 233.7E-6 | 3.3E+0
850 | 89.00 | 100.00 | 63.74 | -2.0E-6 | 233.7E-6 | 3.3E+0
851 | 92.00 | 100.00 | 62.20 | -2.0E-6 | 233.7E-6 | 3.3E+0
852 | 95.00 | 100.00 | 62.67 | -2.0E-6 | 233.7E-6 | 3.3E+0
853 | 97.50 | 100.00 | 63.19 | -2.0E-6 | 233.7E-6 | 3.3E+0
854 | 100.00 | 100.00 | 63.62 | -2.0E-6 | 233.7E-6 | 3.3E+0
855 | 100.00 | 100.00 | 64.06 | -665.4E-9 | 77.9E-6 | 1.1E+0
856 | 100.00 | 100.00 | 64.19 | 665.4E-9 | -77.9E-6 | -1.1E+0
857 | 100.00 | 100.00 | 63.87 | 2.0E-6 | -233.7E-6 | -3.3E+0
858 | 100.00 | 97.00 | 63.38 | 2.0E-6 | -233.7E-6 | -3.3E+0
859 | 96.00 | (a) | 62.62 | 2.0E-6 | -233.7E-6 | -3.3E+0
860 | 94.00 | (a) | 61.32 | 2.0E-6 | -233.7E-6 | -3.3E+0
861 | 91.00 | (a) | 59.72 | 2.0E-6 | -233.7E-6 | -3.3E+0
862 | 88.00 | (a) | 58.30 | 2.0E-6 | -233.7E-6 | -3.3E+0
863 | 86.00 | (a) | 57.08 | 2.0E-6 | -233.7E-6 | -3.3E+0
864 | 84.00 | (a) | 55.85 | 2.0E-6 | -233.7E-6 | -3.3E+0
865 | 82.00 | (a) | 54.61 | 2.0E-6 | -233.7E-6 | -3.3E+0
866 | 79.00 | (a) | 53.36 | 2.0E-6 | -233.7E-6 | -3.3E+0
867 | 77.00 | (a) | 52.10 | 2.0E-6 | -233.7E-6 | -3.3E+0
868 | 75.00 | (a) | 50.74 | 2.0E-6 | -233.7E-6 | -3.3E+0
869 | 73.00 | (a) | 49.34 | 2.0E-6 | -233.7E-6 | -3.3E+0
870 | 72.00 | (a) | 48.05 | 2.0E-6 | -233.7E-6 | -3.3E+0
871 | 72.00 | (a) | 46.82 | 2.0E-6 | -233.7E-6 | -3.3E+0
872 | 72.00 | (a) | 45.61 | 2.0E-6 | -233.7E-6 | -3.3E+0
873 | 71.00 | 8.00 | 44.37 | 2.0E-6 | -233.7E-6 | -3.3E+0
874 | 68.00 | 9.00 | 43.06 | 2.0E-6 | -233.7E-6 | -3.3E+0
875 | 64.00 | (a) | 41.65 | 2.0E-6 | -233.7E-6 | -3.3E+0
876 | 58.00 | (a) | 40.32 | 2.0E-6 | -233.7E-6 | -3.3E+0
877 | 56.00 | 53.00 | 39.28 | 2.0E-6 | -233.7E-6 | -3.3E+0
878 | 56.00 | 67.00 | 38.40 | 2.0E-6 | -233.7E-6 | -3.3E+0
879 | 56.00 | 70.00 | 37.30 | 2.0E-6 | -233.7E-6 | -3.3E+0
880 | 56.00 | 67.00 | 35.79 | 2.0E-6 | -233.7E-6 | -3.3E+0
881 | 55.00 | 60.00 | 34.14 | 2.0E-6 | -233.7E-6 | -3.3E+0
882 | 54.00 | 60.00 | 32.69 | 2.0E-6 | -233.7E-6 | -3.3E+0
883 | 49.00 | 75.00 | 31.38 | 2.0E-6 | -233.7E-6 | -3.3E+0
884 | 38.00 | 80.00 | 29.63 | 2.0E-6 | -233.7E-6 | -3.3E+0
885 | 30.00 | 78.00 | 27.22 | 2.0E-6 | -233.7E-6 | -3.3E+0
886 | 25.00 | 53.00 | 25.01 | 2.0E-6 | -233.7E-6 | -3.3E+0
887 | 18.00 | 32.00 | 23.09 | 2.0E-6 | -233.7E-6 | -3.3E+0
888 | 14.00 | 16.00 | 20.23 | 2.0E-6 | -233.7E-6 | -3.3E+0
889 | 9.00 | 3.00 | 17.20 | 2.0E-6 | -233.7E-6 | -3.3E+0
890 | 5.00 | (a) | 12.61 | 2.0E-6 | -233.7E-6 | -3.3E+0
891 | 1.00 | (a) | 7.43 | 2.0E-6 | -233.7E-6 | -3.3E+0
892 | 0 | 0 | 2.81 | 2.0E-6 | -233.7E-6 | -3.3E+0
893 | 0 | 0 | 0 | 2.0E-6 | -233.7E-6 | -3.3E+0
894 | 0 | 0 | 0 | 2.0E-6 | -233.7E-6 | -3.3E+0
895 | 0 | 0 | 0 | 2.0E-6 | -233.7E-6 | -3.3E+0
896 | 0 | 0 | 0 | 2.0E-6 | -233.7E-6 | -3.3E+0
987 | 0 | 0 | 0 | 2.0E-6 | -233.7E-6 | -3.3E+0
898 | 0 | 0 | 0 | 2.0E-6 | -233.7E-6 | -3.3E+0
899 | 0 | 0 | 0 | 2.0E-6 | -233.7E-6 | -3.3E+0
900 | 0 | 0 | 0 | 10.3E-6 | -8.6E-3 | -677.9E-3
901 | 0 | 0 | 0 | 18.6E-6 | -16.9E-3 | 1.9E+0
902 | 0 | 0 | 0 | 26.9E-6 | -25.2E-3 | 4.6E+0
903 | 0 | 0 | 0 | 26.9E-6 | -25.2E-3 | 4.6E+0
904 | 0 | 0 | 0 | 26.9E-6 | -25.2E-3 | 4.6E+0
905 | 0 | 0 | 0 | 26.9E-6 | -25.2E-3 | 4.6E+0
906 | 0 | 0 | 0 | 26.9E-6 | -25.2E-3 | 4.6E+0
907 | 0 | 0 | 0 | 26.9E-6 | -25.2E-3 | 4.6E+0
908 | 0 | 0 | 0 | 26.9E-6 | -25.2E-3 | 4.6E+0
909 | 0 | 0 | 0 | 26.9E-6 | -25.2E-3 | 4.6E+0
910 | 0 | 0 | 0 | 26.9E-6 | -25.2E-3 | 4.6E+0
911 | 0 | 0 | 0 | 26.9E-6 | -25.2E-3 | 4.6E+0
912 | 0 | 0 | 0 | 26.9E-6 | -25.2E-3 | 4.6E+0
913 | 0 | 0 | 0 | 26.9E-6 | -25.2E-3 | 4.6E+0
914 | 0 | 0 | 0 | 26.9E-6 | -25.2E-3 | 4.6E+0
915 | 0 | 0 | 0 | 26.9E-6 | -25.2E-3 | 4.6E+0
916 | 0 | 0 | 0 | 26.9E-6 | -25.2E-3 | 4.6E+0
917 | 0 | 0 | 0 | 26.9E-6 | -25.2E-3 | 4.6E+0
918 | 0 | 0 | 0 | 26.9E-6 | -25.2E-3 | 4.6E+0
919 | 0 | 0 | 0 | 26.9E-6 | -25.2E-3 | 4.6E+0
920 | 4.50 | 47.00 | 2.63 | 26.9E-6 | -25.2E-3 | 4.6E+0
921 | 12.00 | 85.00 | 4.93 | 26.9E-6 | -25.2E-3 | 4.6E+0
922 | 30.00 | 97.00 | 7.24 | 26.9E-6 | -25.2E-3 | 4.6E+0
923 | 42.00 | 100.00 | 9.73 | 26.9E-6 | -25.2E-3 | 4.6E+0
924 | 51.00 | 100.00 | 11.91 | 26.9E-6 | -25.2E-3 | 4.6E+0
925 | 54.00 | 100.00 | 14.16 | 26.9E-6 | -25.2E-3 | 4.6E+0
926 | 54.00 | 97.00 | 16.04 | 26.9E-6 | -25.2E-3 | 4.6E+0
927 | 52.00 | 90.00 | 17.98 | 26.9E-6 | -25.2E-3 | 4.6E+0
928 | 48.00 | 75.00 | 20.21 | 26.9E-6 | -25.2E-3 | 4.6E+0
929 | 44.00 | 57.00 | 22.03 | 9.0E-6 | -8.4E-3 | 1.5E+0
930 | 37.00 | 47.00 | 22.35 | -9.0E-6 | 8.4E-3 | -1.5E+0
931 | 29.00 | 40.00 | 21.52 | -26.9E-6 | 25.2E-3 | -4.6E+0
932 | 24.00 | 34.00 | 20.04 | -26.9E-6 | 25.2E-3 | -4.6E+0
933 | 21.00 | 27.00 | 18.29 | -26.9E-6 | 25.2E-3 | -4.6E+0
934 | 22.00 | 24.00 | 16.40 | -26.9E-6 | 25.2E-3 | -4.6E+0
935 | 22.50 | 22.00 | 14.40 | -26.9E-6 | 25.2E-3 | -4.6E+0
936 | 20.00 | 16.00 | 12.23 | -26.9E-6 | 25.2E-3 | -4.6E+0
937 | 15.00 | 7.00 | 9.84 | -26.9E-6 | 25.2E-3 | -4.6E+0
938 | 10.00 | 0 | 8.55 | -26.9E-6 | 25.2E-3 | -4.6E+0
939 | 5.00 | (a) | 7.56 | -26.9E-6 | 25.2E-3 | -4.6E+0
940 | 2.00 | (a) | 6.14 | -26.9E-6 | 25.2E-3 | -4.6E+0
941 | 1.00 | (a) | 2.60 | -26.9E-6 | 25.2E-3 | -4.6E+0
942 | 0 | 0 | 0 | -26.9E-6 | 25.2E-3 | -4.6E+0
943 | 0 | 0 | 0 | -16.7E-6 | 15.4E-3 | -3.2E+0
944 | 0 | 0 | 0 | -6.5E-6 | 5.6E-3 | -1.8E+0
945 | 1.00 | 0 | 1.06 | 3.7E-6 | -4.2E-3 | -457.1E-3
946 | 5.00 | 20.00 | 2.16 | 3.7E-6 | -4.2E-3 | -457.1E-3
947 | 15.00 | 43.00 | 3.30 | 3.7E-6 | -4.2E-3 | -457.1E-3
948 | 28.00 | 52.00 | 4.37 | 3.7E-6 | -4.2E-3 | -457.1E-3
949 | 34.00 | 64.00 | 5.42 | 3.7E-6 | -4.2E-3 | -457.1E-3
950 | 37.00 | 74.00 | 6.47 | 3.7E-6 | -4.2E-3 | -457.1E-3
951 | 37.50 | 90.00 | 7.51 | 3.7E-6 | -4.2E-3 | -457.1E-3
952 | 37.00 | 56.00 | 8.55 | 3.7E-6 | -4.2E-3 | -457.1E-3
953 | 36.00 | 27.00 | 9.55 | 3.7E-6 | -4.2E-3 | -457.1E-3
954 | 35.00 | (a) | 10.25 | 3.7E-6 | -4.2E-3 | -457.1E-3
955 | 33.00 | (a) | 10.78 | 3.7E-6 | -4.2E-3 | -457.1E-3
956 | 29.00 | (a) | 11.16 | 3.7E-6 | -4.2E-3 | -457.1E-3
957 | 29.00 | (a) | 11.76 | 3.7E-6 | -4.2E-3 | -457.1E-3
958 | 29.00 | (a) | 12.59 | 3.7E-6 | -4.2E-3 | -457.1E-3
959 | 34.00 | 30.00 | 13.80 | 3.7E-6 | -4.2E-3 | -457.1E-3
960 | 38.00 | 75.00 | 14.85 | 3.7E-6 | -4.2E-3 | -457.1E-3
961 | 34.00 | 70.00 | 15.59 | 3.7E-6 | -4.2E-3 | -457.1E-3
962 | 31.00 | 25.00 | 16.20 | 3.7E-6 | -4.2E-3 | -457.1E-3
963 | 28.00 | (a) | 16.82 | 3.7E-6 | -4.2E-3 | -457.1E-3
964 | 26.00 | (a) | 17.55 | 3.7E-6 | -4.2E-3 | -457.1E-3
965 | 24.00 | (a) | 17.91 | 3.7E-6 | -4.2E-3 | -457.1E-3
966 | 23.00 | 4.00 | 18.08 | 3.7E-6 | -4.2E-3 | -457.1E-3
967 | 23.00 | 22.00 | 18.10 | 3.7E-6 | -4.2E-3 | -457.1E-3
968 | 24.00 | 30.00 | 18.31 | 3.7E-6 | -4.2E-3 | -457.1E-3
969 | 23.00 | 32.00 | 18.67 | 7.3E-6 | -7.4E-3 | 1.9E+0
970 | 22.00 | 25.00 | 19.23 | 10.9E-6 | -10.7E-3 | 4.4E+0
971 | 18.00 | 18.00 | 19.69 | 14.5E-6 | -14.0E-3 | 6.8E+0
972 | 16.00 | 14.00 | 20.02 | 14.5E-6 | -14.0E-3 | 6.8E+0
973 | 15.00 | 10.00 | 19.94 | 14.5E-6 | -14.0E-3 | 6.8E+0
974 | 15.00 | 0.0 | 19.80 | 14.5E-6 | -14.0E-3 | 6.8E+0
975 | 15.00 | (a) | 19.69 | 14.5E-6 | -14.0E-3 | 6.8E+0
976 | 15.00 | (a) | 19.76 | 14.5E-6 | -14.0E-3 | 6.8E+0
977 | 18.00 | (a) | 19.93 | 14.5E-6 | -14.0E-3 | 6.8E+0
978 | 25.00 | 40.00 | 20.24 | 14.5E-6 | -14.0E-3 | 6.8E+0
979 | 37.00 | 90.00 | 20.69 | 14.5E-6 | -14.0E-3 | 6.8E+0
980 | 46.00 | 90.00 | 21.23 | 14.5E-6 | -14.0E-3 | 6.8E+0
981 | 49.00 | 90.00 | 21.78 | 14.5E-6 | -14.0E-3 | 6.8E+0
982 | 49.00 | 90.00 | 22.15 | 14.5E-6 | -14.0E-3 | 6.8E+0
983 | 49.00 | 85.00 | 22.33 | 14.5E-6 | -14.0E-3 | 6.8E+0
984 | 47.00 | 77.00 | 22.36 | 4.8E-6 | -4.7E-3 | 2.3E+0
985 | 44.00 | 59.00 | 22.36 | -4.8E-6 | 4.7E-3 | -2.3E+0
986 | 43.00 | 36.00 | 22.33 | -14.5E-6 | 14.0E-3 | -6.8E+0
987 | 42.00 | 13.00 | 22.15 | -14.5E-6 | 14.0E-3 | -6.8E+0
988 | 40.00 | (a) | 21.91 | -14.5E-6 | 14.0E-3 | -6.8E+0
989 | 41.00 | 65.00 | 21.62 | -14.5E-6 | 14.0E-3 | -6.8E+0
990 | 44.00 | 65.00 | 21.32 | -14.5E-6 | 14.0E-3 | -6.8E+0
991 | 45.00 | 65.00 | 21.01 | -14.5E-6 | 14.0E-3 | -6.8E+0
992 | 45.00 | 62.00 | 20.70 | -14.5E-6 | 14.0E-3 | -6.8E+0
993 | 44.00 | 56.00 | 20.48 | -14.5E-6 | 14.0E-3 | -6.8E+0
994 | 42.00 | 46.00 | 20.31 | -14.5E-6 | 14.0E-3 | -6.8E+0
995 | 41.00 | 36.00 | 20.13 | -14.5E-6 | 14.0E-3 | -6.8E+0
996 | 39.00 | 20.00 | 19.86 | -14.5E-6 | 14.0E-3 | -6.8E+0
997 | 38.00 | 4.00 | 19.49 | -14.5E-6 | 14.0E-3 | -6.8E+0
998 | 37.00 | 33.00 | 19.11 | -14.5E-6 | 14.0E-3 | -6.8E+0
999 | 38.00 | 39.00 | 18.71 | -14.5E-6 | 14.0E-3 | -6.8E+0
1,000 | 36.00 | 40.00 | 18.30 | -14.5E-6 | 14.0E-3 | -6.8E+0
1,001 | 35.00 | 40.00 | 17.86 | -14.5E-6 | 14.0E-3 | -6.8E+0
1,002 | 33.00 | 39.00 | 17.39 | -14.5E-6 | 14.0E-3 | -6.8E+0
1,003 | 30.00 | 36.00 | 16.86 | -14.5E-6 | 14.0E-3 | -6.8E+0
1,004 | 27.00 | 33.00 | 16.31 | -14.5E-6 | 14.0E-3 | -6.8E+0
1,005 | 22.00 | 24.00 | 15.75 | -14.5E-6 | 14.0E-3 | -6.8E+0
1,006 | 21.00 | (a) | 15.24 | -14.5E-6 | 14.0E-3 | -6.8E+0
1,007 | 20.00 | (a) | 14.73 | -14.5E-6 | 14.0E-3 | -6.8E+0
1,008 | 18.00 | (a) | 14.23 | -14.5E-6 | 14.0E-3 | -6.8E+0
1,009 | 17.00 | 28.00 | 13.73 | -14.5E-6 | 14.0E-3 | -6.8E+0
1,010 | 16.00 | 5.00 | 12.79 | -14.5E-6 | 14.0E-3 | -6.8E+0
1,011 | 14.00 | (a) | 11.11 | -14.5E-6 | 14.0E-3 | -6.8E+0
1,012 | 12.00 | (a) | 9.43 | -14.5E-6 | 14.0E-3 | -6.8E+0
1,013 | 9.00 | (a) | 7.75 | -14.5E-6 | 14.0E-3 | -6.8E+0
1,014 | 7.00 | (a) | 6.07 | -4.8E-6 | 4.7E-3 | -2.3E+0
1,015 | 5.00 | (a) | 4.39 | 4.8E-6 | -4.7E-3 | 2.3E+0
1,016 | 4.00 | (a) | 2.71 | 14.5E-6 | -14.0E-3 | 6.8E+0
1,017 | 3.00 | (a) | 1.03 | 14.5E-6 | -14.0E-3 | 6.8E+0
1,018 | 2.00 | (a) | 0.19 | 14.5E-6 | -14.0E-3 | 6.8E+0
1,019 | 0 | 0 | 0 | 14.5E-6 | -14.0E-3 | 6.8E+0
1,020 | 0 | 0 | 0 | 14.2E-6 | -14.4E-3 | 5.4E+0
1,021 | 0 | 0 | 0 | 13.9E-6 | -14.9E-3 | 4.1E+0
1,022 | 0 | 0 | 0 | 13.7E-6 | -15.3E-3 | 2.7E+0
1,023 | 0 | 0 | 0 | 13.7E-6 | -15.3E-3 | 2.7E+0
1,024 | 0 | 0 | 0 | 13.7E-6 | -15.3E-3 | 2.7E+0
1,025 | 2.00 | 7.00 | 3.25 | 13.7E-6 | -15.3E-3 | 2.7E+0
1,026 | 6.00 | 15.00 | 5.47 | 13.7E-6 | -15.3E-3 | 2.7E+0
1,027 | 10.00 | 28.00 | 6.71 | 13.7E-6 | -15.3E-3 | 2.7E+0
1,028 | 11.00 | 26.00 | 6.71 | 4.6E-6 | -5.1E-3 | 900.3E-3
1,029 | 10.00 | 10.00 | 6.71 | -4.6E-6 | 5.1E-3 | -900.3E-3
1,030 | 8.00 | 3.00 | 6.55 | -13.7E-6 | 15.3E-3 | -2.7E+0
1,031 | 5.00 | 0 | 6.01 | -13.7E-6 | 15.3E-3 | -2.7E+0
1,032 | 2.00 | 0 | 5.15 | -13.7E-6 | 15.3E-3 | -2.7E+0
1,033 | 0 | 0 | 3.90 | -13.7E-6 | 15.3E-3 | -2.7E+0
1,034 | 0 | 0 | 2.19 | -4.6E-6 | 5.1E-3 | -900.3E-3
1,035 | 0 | 0 | 0 | 4.6E-6 | -5.1E-3 | 900.3E-3
1,036 | 0 | 0 | 0 | 13.7E-6 | -15.3E-3 | 2.7E+0
1,037 | 0 | 0 | 0 | 13.7E-6 | -15.3E-3 | 2.7E+0
1,038 | 0 | 0 | 0 | 13.7E-6 | -15.3E-3 | 2.7E+0
1,039 | 0 | 0 | 0 | 13.7E-6 | -15.3E-3 | 2.7E+0
1,040 | 0 | 0 | 0 | 13.7E-6 | -15.3E-3 | 2.7E+0
1,041 | 0 | 0 | 0 | 13.7E-6 | -15.3E-3 | 2.7E+0
1,042 | 0 | 0 | 0 | 13.7E-6 | -15.3E-3 | 2.7E+0
1,043 | 0 | 0 | 0 | 13.7E-6 | -15.3E-3 | 2.7E+0
1,044 | 0 | 0 | 0 | 13.7E-6 | -15.3E-3 | 2.7E+0
1,045 | 0 | 0 | 0 | 13.7E-6 | -15.3E-3 | 2.7E+0
1,046 | 0 | 0 | 0 | 13.7E-6 | -15.3E-3 | 2.7E+0
1,047 | 0 | 0 | 0 | 13.7E-6 | -15.3E-3 | 2.7E+0
1,048 | 0 | 0 | 0 | 13.7E-6 | -15.3E-3 | 2.7E+0
1,049 | 0 | 0 | 0 | 13.7E-6 | -15.3E-3 | 2.7E+0
1,050 | 0 | 0 | 0 | 13.7E-6 | -15.3E-3 | 2.7E+0
1,051 | 0 | 0 | 0 | 13.7E-6 | -15.3E-3 | 2.7E+0
1,052 | 0 | 0 | 0 | 13.7E-6 | -15.3E-3 | 2.7E+0
1,053 | 0 | 0 | 0 | 13.7E-6 | -15.3E-3 | 2.7E+0
1,054 | 0 | 0 | 0 | 13.7E-6 | -15.3E-3 | 2.7E+0
1,055 | 0 | 0 | 0 | 13.7E-6 | -15.3E-3 | 2.7E+0
1,056 | 0 | 0 | 0 | 13.7E-6 | -15.3E-3 | 2.7E+0
1,057 | 0 | 0 | 0 | 13.7E-6 | -15.3E-3 | 2.7E+0
1,058 | 0 | 0 | 0 | 13.7E-6 | -15.3E-3 | 2.7E+0
1,059 | 0 | 0 | 0 | 13.7E-6 | -15.3E-3 | 2.7E+0
1,060 | 0 | 0 | 0 | 13.7E-6 | -15.3E-3 | 2.7E+0
1,061 | 4.00 | 5.00 | 1.95 | 13.7E-6 | -15.3E-3 | 2.7E+0
1,062 | 11.00 | 35.00 | 3.70 | 13.7E-6 | -15.3E-3 | 2.7E+0
1,063 | 21.00 | 73.00 | 5.53 | 13.7E-6 | -15.3E-3 | 2.7E+0
1,064 | 25.00 | 86.00 | 7.22 | 13.7E-6 | -15.3E-3 | 2.7E+0
1,065 | 26.00 | 90.00 | 8.64 | 13.7E-6 | -15.3E-3 | 2.7E+0
1,066 | 25.00 | 90.00 | 10.33 | 4.6E-6 | -5.1E-3 | 900.3E-3
1,067 | 23.00 | 83.00 | 11.18 | -4.6E-6 | 5.1E-3 | -900.3E-3
1,068 | 20.00 | 32.00 | 10.57 | -13.7E-6 | 15.3E-3 | -2.7E+0
1,069 | 16.00 | (a) | 9.33 | -13.7E-6 | 15.3E-3 | -2.7E+0
1,070 | 14.00 | (a) | 7.87 | -13.7E-6 | 15.3E-3 | -2.7E+0
1,071 | 10.00 | (a) | 6.27 | -13.7E-6 | 15.3E-3 | -2.7E+0
1,072 | 7.00 | (a) | 4.58 | -13.7E-6 | 15.3E-3 | -2.7E+0
1,073 | 3.00 | (a) | 3.81 | -13.7E-6 | 15.3E-3 | -2.7E+0
1,074 | 1.00 | (a) | 2.35 | -13.7E-6 | 15.3E-3 | -2.7E+0
1,075 | 0 | 0 | 0 | -4.8E-6 | 6.2E-3 | -2.3E+0
1,076 | 0 | 0 | 0 | 4.0E-6 | -2.8E-3 | -1.9E+0
1,077 | 0 | 0 | 0 | 12.8E-6 | -11.9E-3 | -1.6E+0
1,078 | 0 | 0 | 0 | 12.8E-6 | -11.9E-3 | -1.6E+0
1,079 | 0 | 0 | 0 | 12.8E-6 | -11.9E-3 | -1.6E+0
1,080 | 0 | 0 | 0 | 12.8E-6 | -11.9E-3 | -1.6E+0
1,081 | 0 | 0 | 0 | 12.8E-6 | -11.9E-3 | -1.6E+0
1,082 | 0 | 0 | 0 | 12.8E-6 | -11.9E-3 | -1.6E+0
1,083 | 0 | 0 | 0 | 12.8E-6 | -11.9E-3 | -1.6E+0
1,084 | 0 | 0 | 0 | 12.8E-6 | -11.9E-3 | -1.6E+0
1,085 | 0 | 0 | 0 | 12.8E-6 | -11.9E-3 | -1.6E+0
1,086 | 0 | 0 | 0 | 12.8E-6 | -11.9E-3 | -1.6E+0
1,087 | 0 | 0 | 0 | 12.8E-6 | -11.9E-3 | -1.6E+0
1,088 | 0 | 0 | 0 | 12.8E-6 | -11.9E-3 | -1.6E+0
1,089 | 0 | 0 | 0 | 12.8E-6 | -11.9E-3 | -1.6E+0
1,090 | 0 | 0 | 0 | 12.8E-6 | -11.9E-3 | -1.6E+0
1,091 | 0 | 0 | 0 | 12.8E-6 | -11.9E-3 | -1.6E+0
1,092 | 0 | 0 | 0 | 12.8E-6 | -11.9E-3 | -1.6E+0
1,093 | 0 | 0 | 0 | 12.8E-6 | -11.9E-3 | -1.6E+0
1,094 | 0 | 0 | 0 | 12.8E-6 | -11.9E-3 | -1.6E+0
1,095 | 0 | 0 | 0 | 12.8E-6 | -11.9E-3 | -1.6E+0
1,096 | 0 | 0 | 0 | 12.8E-6 | -11.9E-3 | -1.6E+0
1,097 | 0 | 0 | 0 | 12.8E-6 | -11.9E-3 | -1.6E+0
1,098 | 1.00 | 3.00 | 1.35 | 12.8E-6 | -11.9E-3 | -1.6E+0
1,099 | 3.00 | 6.00 | 3.37 | 12.8E-6 | -11.9E-3 | -1.6E+0
1,100 | 6.00 | 13.00 | 6.40 | 12.8E-6 | -11.9E-3 | -1.6E+0
1,101 | 9.00 | 14.00 | 8.47 | 12.8E-6 | -11.9E-3 | -1.6E+0
1,102 | 12.00 | 16.00 | 9.57 | 12.8E-6 | -11.9E-3 | -1.6E+0
1,103 | 15.00 | 28.00 | 10.19 | 12.8E-6 | -11.9E-3 | -1.6E+0
1,104 | 18.00 | 60.00 | 10.35 | 12.8E-6 | -11.9E-3 | -1.6E+0
1,105 | 20.00 | 47.00 | 10.46 | 12.8E-6 | -11.9E-3 | -1.6E+0
1,106 | 21.00 | 31.00 | 10.11 | 12.8E-6 | -11.9E-3 | -1.6E+0
1,107 | 21.00 | 15.00 | 9.12 | 12.0E-6 | -11.3E-3 | 85.4E-3
1,108 | 20.00 | (a) | 7.81 | 11.1E-6 | -10.7E-3 | 1.7E+0
1,109 | 20.00 | (a) | 7.87 | 10.3E-6 | -10.1E-3 | 3.4E+0
1,110 | 20.00 | (a) | 9.57 | 10.3E-6 | -10.1E-3 | 3.4E+0
1,111 | 20.00 | 70.00 | 9.75 | 10.3E-6 | -10.1E-3 | 3.4E+0
1,112 | 21.00 | 83.00 | 9.84 | 10.3E-6 | -10.1E-3 | 3.4E+0
1,113 | 22.00 | 84.00 | 9.96 | 3.4E-6 | -3.4E-3 | 1.1E+0
1,114 | 22.00 | 83.00 | 10.13 | -3.4E-6 | 3.4E-3 | -1.1E+0
1,115 | 18.00 | 78.00 | 9.36 | -10.3E-6 | 10.1E-3 | -3.4E+0
1,116 | 14.00 | 68.00 | 8.80 | -10.3E-6 | 10.1E-3 | -3.4E+0
1,117 | 8.00 | 10.00 | 7.67 | -10.3E-6 | 10.1E-3 | -3.4E+0
1,118 | 4.00 | 4.00 | 6.08 | -10.3E-6 | 10.1E-3 | -3.4E+0
1,119 | 1.00 | 0.0 | 4.03 | -3.4E-6 | 3.4E-3 | -1.1E+0
1,120 | 0 | 0 | 0 | 3.4E-6 | -3.4E-3 | 1.1E+0
1,121 | 0 | 0 | 0 | 10.3E-6 | -10.1E-3 | 3.4E+0
1,122 | 0 | 0 | 0 | 10.3E-6 | -10.1E-3 | 3.4E+0
1,123 | 0 | 0 | 0 | 10.3E-6 | -10.1E-3 | 3.4E+0
1,124 | 0 | 0 | 0 | 10.3E-6 | -10.1E-3 | 3.4E+0
1,125 | 0 | 1.00 | 0 | 10.3E-6 | -10.1E-3 | 3.4E+0
1,126 | 1.00 | 5.00 | 3.25 | 10.3E-6 | -10.1E-3 | 3.4E+0
1,127 | 5.00 | 18.00 | 5.47 | 10.3E-6 | -10.1E-3 | 3.4E+0
1,128 | 9.00 | 19.00 | 6.71 | 10.3E-6 | -10.1E-3 | 3.4E+0
1,129 | 12.00 | 18.00 | 6.71 | 10.3E-6 | -10.1E-3 | 3.4E+0
1,130 | 12.00 | 15.00 | 6.71 | 10.3E-6 | -10.1E-3 | 3.4E+0
1,131 | 9.00 | 10.00 | 6.55 | 10.3E-6 | -10.1E-3 | 3.4E+0
1,132 | 5.00 | 5.00 | 6.01 | 10.3E-6 | -10.1E-3 | 3.4E+0
1,133 | 2.00 | 2.00 | 5.15 | 10.3E-6 | -10.1E-3 | 3.4E+0
1,134 | 0 | 0 | 3.90 | 10.3E-6 | -10.1E-3 | 3.4E+0
1,135 | 0 | 0 | 2.19 | 6.9E-6 | -6.8E-3 | 2.2E+0
1,136 | 0 | 0 | 0 | 3.4E-6 | -3.4E-3 | 1.1E+0
1,137 | 0 | 0 | 0 | 0 | 0 | 0
1,138 | 0 | 0 | 0 | 0 | 0 | 0
1,139 | 0 | 0 | 0 | 0 | 0 | 0
1,140 | 0 | 0 | 0 | 0 | 0 | 0
1,141 | 0 | 0 | 0 | 0 | 0 | 0
1,142 | 0 | 0 | 0 | 0 | 0 | 0
1,143 | 0 | 0 | 0 | 0 | 0 | 0
1,144 | 0 | 0 | 0 | 0 | 0 | 0
1,145 | 0 | 0 | 0 | 0 | 0 | 0
1,146 | 0 | 0 | 0 | 0 | 0 | 0
1,147 | 0 | 0 | 0 | 0 | 0 | 0
1,148 | 0 | 0 | 0 | 0 | 0 | 0
1,149 | 0 | 0 | 0 | 0 | 0 | 0
1,150 | 0 | 0 | 0 | 0 | 0 | 0
1,151 | 0 | 0 | 0 | 0 | 0 | 0
1,152 | 0 | 0 | 0 | 0 | 0 | 0
1,153 | 0 | 0 | 0 | 0 | 0 | 0
1,154 | 0 | 0 | 0 | 0 | 0 | 0
1,155 | 0 | 0 | 0 | 0 | 0 | 0
1,156 | 0 | 0 | 0 | 0 | 0 | 0
1,157 | 0 | 0 | 0 | 0 | 0 | 0
1,158 | 0 | 0 | 0 | 0 | 0 | 0
1,159 | 0 | 0 | 0 | 0 | 0 | 0
1,160 | 0 | 0 | 0 | 0 | 0 | 0
1,161 | 0 | 0 | 0 | 0 | 0 | 0
1,162 | 0 | 0 | 0 | 0 | 0 | 0
1,163 | 0 | 0 | 0 | 0 | 0 | 0
1,164 | 0 | 0 | 0 | 0 | 0 | 0
1,165 | 0 | 0 | 0 | 0 | 0 | 0
1,166 | 0 | 0 | 0 | 0 | 0 | 0
1,167 | 0 | 0 | 0 | 0 | 0 | 0
a Closed throttle motoring.

(c) The following transient duty cycle applies for compression-ignition engines and powertrains:

Record (seconds) | Engine testing: Normalized revolutions per minute (percent) | Engine testing: Normalized torque (percent) | Powertrain testing: Vehicle speed (mi/hr) | Powertrain testing: Road grade coefficients: a | Powertrain testing: Road grade coefficients: b | Powertrain testing: Road grade coefficients: c
1 | 0 | 0 | 0 | 0 | 0 | 0
2 | 0 | 0 | 0 | 9.1E-6 | -9.1E-3 | 898.8E-3
3 | 0 | 0 | 0 | 13.6E-6 | -13.7E-3 | 1.3E+0
4 | 0 | 0 | 0 | 13.6E-6 | -13.7E-3 | 1.3E+0
5 | 0 | 0 | 0 | 13.6E-6 | -13.7E-3 | 1.3E+0
6 | 0 | 0 | 0 | 13.6E-6 | -13.7E-3 | 1.3E+0
7 | 0 | 0 | 0 | 13.6E-6 | -13.7E-3 | 1.3E+0
8 | 0 | 0 | 0 | 13.6E-6 | -13.7E-3 | 1.3E+0
9 | 0 | 0 | 0 | 13.6E-6 | -13.7E-3 | 1.3E+0
10 | 0 | 0 | 0 | 13.6E-6 | -13.7E-3 | 1.3E+0
11 | 0 | 0 | 0 | 13.6E-6 | -13.7E-3 | 1.3E+0
12 | 0 | 0 | 0 | 13.6E-6 | -13.7E-3 | 1.3E+0
13 | 0 | 0 | 0 | 13.6E-6 | -13.7E-3 | 1.3E+0
14 | 0 | 0 | 0 | 13.6E-6 | -13.7E-3 | 1.3E+0
15 | 0 | 0 | 0 | 13.6E-6 | -13.7E-3 | 1.3E+0
16 | 0 | 0 | 0 | 13.6E-6 | -13.7E-3 | 1.3E+0
17 | 0 | 0 | 0 | 13.6E-6 | -13.7E-3 | 1.3E+0
18 | 0 | 0 | 0 | 13.6E-6 | -13.7E-3 | 1.3E+0
19 | 0 | 0 | 0 | 13.6E-6 | -13.7E-3 | 1.3E+0
20 | 0 | 0 | 0 | 13.6E-6 | -13.7E-3 | 1.3E+0
21 | 0 | 0 | 0 | 13.6E-6 | -13.7E-3 | 1.3E+0
22 | 0 | 0 | 0 | 13.6E-6 | -13.7E-3 | 1.3E+0
23 | 0 | 0 | 0 | 13.6E-6 | -13.7E-3 | 1.3E+0
24 | 0 | 0 | 0 | 13.6E-6 | -13.7E-3 | 1.3E+0
25 | 0 | 3.67 | 0 | 13.6E-6 | -13.7E-3 | 1.3E+0
26 | 0 | 47.69 | 0 | 13.6E-6 | -13.7E-3 | 1.3E+0
27 | 2.78 | 59.41 | 0.33 | 13.6E-6 | -13.7E-3 | 1.3E+0
28 | 8.12 | 84.54 | 1.67 | 13.6E-6 | -13.7E-3 | 1.3E+0
29 | 13.95 | 80.00 | 2.83 | 13.6E-6 | -13.7E-3 | 1.3E+0
30 | 29.90 | 80.00 | 4.02 | 13.6E-6 | -13.7E-3 | 1.3E+0
31 | 33.87 | 79.29 | 5.64 | 13.6E-6 | -13.7E-3 | 1.3E+0
32 | 27.86 | 38.25 | 7.39 | 13.6E-6 | -13.7E-3 | 1.3E+0
33 | 19.63 | 26.67 | 8.83 | 13.6E-6 | -13.7E-3 | 1.3E+0
34 | 26.79 | 15.10 | 9.15 | 13.6E-6 | -13.7E-3 | 1.3E+0
35 | 19.85 | 16.47 | 9.70 | 13.6E-6 | -13.7E-3 | 1.3E+0
36 | 17.51 | 28.05 | 11.37 | 13.6E-6 | -13.7E-3 | 1.3E+0
37 | 17.86 | 20.38 | 13.04 | 13.6E-6 | -13.7E-3 | 1.3E+0
38 | 16.37 | (a) | 14.74 | 13.6E-6 | -13.7E-3 | 1.3E+0
39 | 5.85 | (a) | 16.41 | 14.3E-6 | -14.9E-3 | 3.6E+0
40 | 14.13 | (a) | 16.85 | 15.0E-6 | -16.1E-3 | 5.8E+0
41 | 21.10 | (a) | 16.09 | 15.7E-6 | -17.3E-3 | 8.1E+0
42 | 15.63 | (a) | 15.23 | 15.7E-6 | -17.3E-3 | 8.1E+0
43 | 12.67 | 62.52 | 14.22 | 15.7E-6 | -17.3E-3 | 8.1E+0
44 | 14.86 | 69.36 | 13.02 | 15.7E-6 | -17.3E-3 | 8.1E+0
45 | 24.79 | 60.00 | 12.47 | 15.7E-6 | -17.3E-3 | 8.1E+0
46 | 33.06 | 63.79 | 13.05 | 15.7E-6 | -17.3E-3 | 8.1E+0
47 | 42.29 | 75.36 | 14.26 | 15.7E-6 | -17.3E-3 | 8.1E+0
48 | 48.90 | 80.00 | 15.09 | 15.7E-6 | -17.3E-3 | 8.1E+0
49 | 51.52 | 80.00 | 15.42 | 15.7E-6 | -17.3E-3 | 8.1E+0
50 | 48.24 | 79.92 | 15.96 | 15.7E-6 | -17.3E-3 | 8.1E+0
51 | 51.79 | 65.03 | 16.58 | 15.7E-6 | -17.3E-3 | 8.1E+0
52 | 52.37 | 43.23 | 17.61 | 15.7E-6 | -17.3E-3 | 8.1E+0
53 | 56.14 | 50.00 | 18.33 | 15.7E-6 | -17.3E-3 | 8.1E+0
54 | 62.35 | 50.00 | 18.65 | 15.7E-6 | -17.3E-3 | 8.1E+0
55 | 64.29 | 42.05 | 19.67 | 15.7E-6 | -17.3E-3 | 8.1E+0
56 | 67.69 | 40.00 | 20.47 | 15.7E-6 | -17.3E-3 | 8.1E+0
57 | 75.20 | 42.20 | 20.57 | 15.7E-6 | -17.3E-3 | 8.1E+0
58 | 74.88 | 41.28 | 20.68 | 15.7E-6 | -17.3E-3 | 8.1E+0
59 | 71.92 | (a) | 21.56 | 15.7E-6 | -17.3E-3 | 8.1E+0
60 | 71.88 | (a) | 23.19 | 15.7E-6 | -17.3E-3 | 8.1E+0
61 | 69.64 | (a) | 23.64 | 5.2E-6 | -5.8E-3 | 2.7E+0
62 | 71.24 | (a) | 22.75 | -5.2E-6 | 5.8E-3 | -2.7E+0
63 | 71.72 | 30.54 | 21.81 | -15.7E-6 | 17.3E-3 | -8.1E+0
64 | 76.41 | 42.12 | 20.79 | -15.7E-6 | 17.3E-3 | -8.1E+0
65 | 73.02 | 50.00 | 19.86 | -15.7E-6 | 17.3E-3 | -8.1E+0
66 | 69.64 | 50.00 | 19.18 | -15.7E-6 | 17.3E-3 | -8.1E+0
67 | 72.09 | 43.16 | 18.75 | -15.7E-6 | 17.3E-3 | -8.1E+0
68 | 82.23 | 73.65 | 18.43 | -15.7E-6 | 17.3E-3 | -8.1E+0
69 | 78.58 | (a) | 18.61 | -15.7E-6 | 17.3E-3 | -8.1E+0
70 | 75.00 | (a) | 19.11 | -15.7E-6 | 17.3E-3 | -8.1E+0
71 | 75.00 | (a) | 18.76 | -15.7E-6 | 17.3E-3 | -8.1E+0
72 | 72.47 | (a) | 17.68 | -15.7E-6 | 17.3E-3 | -8.1E+0
73 | 62.91 | (a) | 16.46 | -15.7E-6 | 17.3E-3 | -8.1E+0
74 | 58.93 | 13.57 | 15.06 | -15.7E-6 | 17.3E-3 | -8.1E+0
75 | 55.56 | 29.43 | 13.41 | -15.7E-6 | 17.3E-3 | -8.1E+0
76 | 57.14 | 20.00 | 11.91 | -15.7E-6 | 17.3E-3 | -8.1E+0
77 | 56.68 | 17.42 | 11.09 | -15.7E-6 | 17.3E-3 | -8.1E+0
78 | 53.88 | 10.00 | 10.90 | -15.7E-6 | 17.3E-3 | -8.1E+0
79 | 50.76 | 10.00 | 11.40 | -15.7E-6 | 17.3E-3 | -8.1E+0
80 | 50.00 | (a) | 12.38 | -15.7E-6 | 17.3E-3 | -8.1E+0
81 | 46.83 | (a) | 13.02 | -15.7E-6 | 17.3E-3 | -8.1E+0
82 | 35.63 | 10.00 | 12.30 | -15.7E-6 | 17.3E-3 | -8.1E+0
83 | 32.48 | 10.00 | 10.32 | -15.7E-6 | 17.3E-3 | -8.1E+0
84 | 26.79 | 10.00 | 9.70 | -15.7E-6 | 17.3E-3 | -8.1E+0
85 | 24.94 | 10.00 | 11.05 | -15.7E-6 | 17.3E-3 | -8.1E+0
86 | 23.21 | 16.74 | 11.88 | -15.7E-6 | 17.3E-3 | -8.1E+0
87 | 24.70 | 3.36 | 12.21 | -15.7E-6 | 17.3E-3 | -8.1E+0
88 | 25.00 | (a) | 13.29 | -15.7E-6 | 17.3E-3 | -8.1E+0
89 | 24.47 | (a) | 13.73 | -15.7E-6 | 17.3E-3 | -8.1E+0
90 | 18.71 | (a) | 12.77 | -15.7E-6 | 17.3E-3 | -8.1E+0
91 | 10.85 | (a) | 11.46 | -15.7E-6 | 17.3E-3 | -8.1E+0
92 | 3.40 | (a) | 9.84 | -15.7E-6 | 17.3E-3 | -8.1E+0
93 | 0 | 0 | 7.62 | -15.7E-6 | 17.3E-3 | -8.1E+0
94 | 0 | 0 | 3.57 | -15.7E-6 | 17.3E-3 | -8.1E+0
95 | 0 | 0.91 | 1.33 | -15.7E-6 | 17.3E-3 | -8.1E+0
96 | 0 | 7.52 | 0 | -15.7E-6 | 17.3E-3 | -8.1E+0
97 | 0 | 0 | 0 | -15.7E-6 | 17.3E-3 | -8.1E+0
98 | 0 | 0 | 0 | -15.7E-6 | 17.3E-3 | -8.1E+0
99 | 0 | 0 | 0 | -15.7E-6 | 17.3E-3 | -8.1E+0
100 | 0 | 0 | 0 | -5.9E-6 | 6.9E-3 | -4.5E+0
101 | 0 | 0 | 0 | 3.8E-6 | -3.6E-3 | -866.9E-3
102 | 0 | 0 | 0 | 13.6E-6 | -14.1E-3 | 2.7E+0
103 | 0 | 0 | 0 | 13.6E-6 | -14.1E-3 | 2.7E+0
104 | 0 | 0 | 0 | 13.6E-6 | -14.1E-3 | 2.7E+0
105 | 0 | 0 | 0 | 13.6E-6 | -14.1E-3 | 2.7E+0
106 | 0 | 0 | 0 | 13.6E-6 | -14.1E-3 | 2.7E+0
107 | 0 | 0 | 0 | 13.6E-6 | -14.1E-3 | 2.7E+0
108 | 0 | 0 | 0 | 13.6E-6 | -14.1E-3 | 2.7E+0
109 | 0 | 0 | 0 | 13.6E-6 | -14.1E-3 | 2.7E+0
110 | 0 | 0 | 0 | 13.6E-6 | -14.1E-3 | 2.7E+0
111 | 0 | 0 | 0 | 13.6E-6 | -14.1E-3 | 2.7E+0
112 | 0 | 0 | 0 | 13.6E-6 | -14.1E-3 | 2.7E+0
113 | 0 | 0 | 0 | 13.6E-6 | -14.1E-3 | 2.7E+0
114 | 0 | 0 | 0 | 13.6E-6 | -14.1E-3 | 2.7E+0
115 | 0 | 0 | 0 | 13.6E-6 | -14.1E-3 | 2.7E+0
116 | 0 | 0 | 0 | 13.6E-6 | -14.1E-3 | 2.7E+0
117 | 0 | 0 | 0 | 13.6E-6 | -14.1E-3 | 2.7E+0
118 | 0 | 0 | 0 | 13.6E-6 | -14.1E-3 | 2.7E+0
119 | 0 | 0 | 0 | 13.6E-6 | -14.1E-3 | 2.7E+0
120 | 0 | 0 | 0 | 13.6E-6 | -14.1E-3 | 2.7E+0
121 | 0 | 0 | 0 | 13.6E-6 | -14.1E-3 | 2.7E+0
122 | 0 | 0 | 0 | 13.6E-6 | -14.1E-3 | 2.7E+0
123 | 0 | 0 | 0 | 13.6E-6 | -14.1E-3 | 2.7E+0
124 | 0 | 0 | 0 | 13.6E-6 | -14.1E-3 | 2.7E+0
125 | 0 | 0 | 0 | 13.6E-6 | -14.1E-3 | 2.7E+0
126 | 0 | 0 | 0 | 13.6E-6 | -14.1E-3 | 2.7E+0
127 | 0 | 0 | 0 | 13.6E-6 | -14.1E-3 | 2.7E+0
128 | 0 | 0 | 0 | 13.6E-6 | -14.1E-3 | 2.7E+0
129 | 1.58 | (a) | 0 | 13.6E-6 | -14.1E-3 | 2.7E+0
130 | 1.43 | (a) | 0 | 13.6E-6 | -14.1E-3 | 2.7E+0
131 | 0 | 0 | 0 | 13.6E-6 | -14.1E-3 | 2.7E+0
132 | 0 | 0 | 0 | 13.6E-6 | -14.1E-3 | 2.7E+0
133 | 1.91 | 9.28 | 0 | 13.6E-6 | -14.1E-3 | 2.7E+0
134 | 2.75 | 0 | 0 | 13.6E-6 | -14.1E-3 | 2.7E+0
135 | 0 | 0 | 0 | 13.6E-6 | -14.1E-3 | 2.7E+0
136 | 0 | 0 | 0 | 13.6E-6 | -14.1E-3 | 2.7E+0
137 | 0 | 0 | 0 | 13.6E-6 | -14.1E-3 | 2.7E+0
138 | 0 | 0 | 0 | 13.6E-6 | -14.1E-3 | 2.7E+0
139 | 0 | 0 | 0 | 13.6E-6 | -14.1E-3 | 2.7E+0
140 | 0 | 0 | 0 | 13.6E-6 | -14.1E-3 | 2.7E+0
141 | 0 | 0 | 0 | 13.6E-6 | -14.1E-3 | 2.7E+0
142 | 0 | 0 | 0 | 13.6E-6 | -14.1E-3 | 2.7E+0
143 | 0 | 0 | 0 | 13.6E-6 | -14.1E-3 | 2.7E+0
144 | 0 | 0 | 0 | 13.6E-6 | -14.1E-3 | 2.7E+0
145 | 0 | 0 | 0 | 13.6E-6 | -14.1E-3 | 2.7E+0
146 | 0 | 0 | 0 | 13.6E-6 | -14.1E-3 | 2.7E+0
147 | 0 | 5.51 | 0 | 13.6E-6 | -14.1E-3 | 2.7E+0
148 | 0 | 11.34 | 0 | 13.6E-6 | -14.1E-3 | 2.7E+0
149 | 0 | 0 | 0 | 13.6E-6 | -14.1E-3 | 2.7E+0
150 | 0 | 0 | 0 | 13.6E-6 | -14.1E-3 | 2.7E+0
151 | 0 | 0 | 0 | 13.6E-6 | -14.1E-3 | 2.7E+0
152 | 0 | 0 | 0 | 13.6E-6 | -14.1E-3 | 2.7E+0
153 | 0 | 0 | 0 | 13.6E-6 | -14.1E-3 | 2.7E+0
154 | 0 | 0 | 0 | 13.6E-6 | -14.1E-3 | 2.7E+0
155 | 0 | 0 | 0 | 13.6E-6 | -14.1E-3 | 2.7E+0
156 | 0 | 0 | 0 | 13.6E-6 | -14.1E-3 | 2.7E+0
157 | 0 | 0 | 0 | 13.6E-6 | -14.1E-3 | 2.7E+0
158 | 0 | 0.21 | 0 | 13.6E-6 | -14.1E-3 | 2.7E+0
159 | 0 | 30.00 | 0 | 13.6E-6 | -14.1E-3 | 2.7E+0
160 | 0 | 26.78 | 0 | 13.6E-6 | -14.1E-3 | 2.7E+0
161 | 0 | 20.00 | 0 | 13.6E-6 | -14.1E-3 | 2.7E+0
162 | 0 | 20.00 | 0 | 13.6E-6 | -14.1E-3 | 2.7E+0
163 | 0 | 4.12 | 0 | 13.6E-6 | -14.1E-3 | 2.7E+0
164 | 0 | 0 | 0 | 13.6E-6 | -14.1E-3 | 2.7E+0
165 | 0 | 0 | 0 | 13.6E-6 | -14.1E-3 | 2.7E+0
166 | 0 | 0 | 0 | 13.6E-6 | -14.1E-3 | 2.7E+0
167 | 0 | 0 | 0 | 13.6E-6 | -14.1E-3 | 2.7E+0
168 | 0 | 0 | 0 | 13.6E-6 | -14.1E-3 | 2.7E+0
169 | 0 | 0 | 0 | 13.6E-6 | -14.1E-3 | 2.7E+0
170 | 0 | 0 | 0 | 13.6E-6 | -14.1E-3 | 2.7E+0
171 | 0 | 0 | 0 | 13.6E-6 | -14.1E-3 | 2.7E+0
172 | 0 | 0 | 0 | 13.6E-6 | -14.1E-3 | 2.7E+0
173 | 0 | 0 | 0 | 13.6E-6 | -14.1E-3 | 2.7E+0
174 | 0 | 0 | 0 | 13.6E-6 | -14.1E-3 | 2.7E+0
175 | 0 | 0 | 0 | 13.6E-6 | -14.1E-3 | 2.7E+0
176 | 0 | 0 | 0 | 13.6E-6 | -14.1E-3 | 2.7E+0
177 | 0 | 0 | 0 | 13.6E-6 | -14.1E-3 | 2.7E+0
178 | 0 | 0 | 0 | 13.6E-6 | -14.1E-3 | 2.7E+0
179 | 0 | 0 | 0 | 13.6E-6 | -14.1E-3 | 2.7E+0
180 | 0 | 0 | 0 | 13.6E-6 | -14.1E-3 | 2.7E+0
181 | 0 | 0 | 0 | 13.6E-6 | -14.1E-3 | 2.7E+0
182 | 0 | 0 | 0 | 13.6E-6 | -14.1E-3 | 2.7E+0
183 | 0 | 0 | 0 | 13.6E-6 | -14.1E-3 | 2.7E+0
184 | 0 | 20.00 | 0 | 13.6E-6 | -14.1E-3 | 2.7E+0
185 | 0 | 20.00 | 0 | 13.6E-6 | -14.1E-3 | 2.7E+0
186 | 0 | 11.73 | 0 | 13.6E-6 | -14.1E-3 | 2.7E+0
187 | 0 | 0 | 0 | 13.6E-6 | -14.1E-3 | 2.7E+0
188 | 0 | 0 | 0 | 13.6E-6 | -14.1E-3 | 2.7E+0
189 | 0 | 0 | 0 | 13.6E-6 | -14.1E-3 | 2.7E+0
190 | 0 | 0 | 0 | 13.6E-6 | -14.1E-3 | 2.7E+0
191 | 0 | 0 | 0 | 13.6E-6 | -14.1E-3 | 2.7E+0
192 | 0 | 0 | 0 | 13.6E-6 | -14.1E-3 | 2.7E+0
193 | 0 | 0 | 0 | 13.6E-6 | -14.1E-3 | 2.7E+0
194 | 0 | 0 | 0 | 13.6E-6 | -14.1E-3 | 2.7E+0
195 | 0 | 0 | 0 | 13.6E-6 | -14.1E-3 | 2.7E+0
196 | 0 | 0 | 0 | 13.6E-6 | -14.1E-3 | 2.7E+0
197 | 0 | 0 | 0 | 13.6E-6 | -14.1E-3 | 2.7E+0
198 | 0 | 0 | 0 | 13.6E-6 | -14.1E-3 | 2.7E+0
199 | 0 | 0 | 0 | 13.6E-6 | -14.1E-3 | 2.7E+0
200 | 0 | 0 | 0 | 13.6E-6 | -14.1E-3 | 2.7E+0
201 | 0 | 0 | 0 | 13.6E-6 | -14.1E-3 | 2.7E+0
202 | 0 | 0 | 0 | 13.6E-6 | -14.1E-3 | 2.7E+0
203 | 0 | 0 | 0 | 13.6E-6 | -14.1E-3 | 2.7E+0
204 | 0 | 0 | 0 | 13.6E-6 | -14.1E-3 | 2.7E+0
205 | 0 | 0 | 0 | 13.6E-6 | -14.1E-3 | 2.7E+0
206 | 0 | 0 | 0 | 13.6E-6 | -14.1E-3 | 2.7E+0
207 | 0 | 0 | 0 | 13.6E-6 | -14.1E-3 | 2.7E+0
208 | 0 | 0 | 0 | 13.6E-6 | -14.1E-3 | 2.7E+0
209 | 0 | 0 | 0 | 13.6E-6 | -14.1E-3 | 2.7E+0
210 | 0 | 0 | 0 | 13.6E-6 | -14.1E-3 | 2.7E+0
211 | 0 | 0 | 0 | 13.6E-6 | -14.1E-3 | 2.7E+0
212 | 0 | 0 | 0 | 13.6E-6 | -14.1E-3 | 2.7E+0
213 | 0 | 0 | 0 | 13.6E-6 | -14.1E-3 | 2.7E+0
214 | 0 | 73.41 | 0 | 13.6E-6 | -14.1E-3 | 2.7E+0
215 | 0 | 90.00 | 0 | 13.6E-6 | -14.1E-3 | 2.7E+0
216 | 27.95 | 81.30 | 0 | 13.6E-6 | -14.1E-3 | 2.7E+0
217 | 36.74 | 90.00 | 2.80 | 13.6E-6 | -14.1E-3 | 2.7E+0
218 | 39.29 | 90.00 | 5.59 | 13.6E-6 | -14.1E-3 | 2.7E+0
219 | 41.44 | 90.00 | 8.39 | 13.6E-6 | -14.1E-3 | 2.7E+0
220 | 45.57 | 82.41 | 11.19 | 13.6E-6 | -14.1E-3 | 2.7E+0
221 | 59.52 | 80.00 | 14.30 | 13.6E-6 | -14.1E-3 | 2.7E+0
222 | 66.99 | 90.00 | 16.03 | 13.6E-6 | -14.1E-3 | 2.7E+0
223 | 80.22 | 90.00 | 17.30 | 13.6E-6 | -14.1E-3 | 2.7E+0
224 | 86.41 | 93.88 | 19.72 | 13.6E-6 | -14.1E-3 | 2.7E+0
225 | 86.53 | 50.94 | 23.18 | 13.6E-6 | -14.1E-3 | 2.7E+0
226 | 84.46 | 17.02 | 25.27 | 13.6E-6 | -14.1E-3 | 2.7E+0
227 | 88.54 | 28.60 | 26.91 | 13.6E-6 | -14.1E-3 | 2.7E+0
228 | 89.29 | 39.83 | 28.89 | 13.6E-6 | -14.1E-3 | 2.7E+0
229 | 89.29 | 30.00 | 29.43 | 13.6E-6 | -14.1E-3 | 2.7E+0
230 | 89.29 | 26.69 | 29.50 | 13.6E-6 | -14.1E-3 | 2.7E+0
231 | 90.16 | 20.00 | 30.49 | 13.6E-6 | -14.1E-3 | 2.7E+0
232 | 89.92 | 20.00 | 32.02 | 13.6E-6 | -14.1E-3 | 2.7E+0
233 | 89.29 | 36.06 | 32.91 | 13.6E-6 | -14.1E-3 | 2.7E+0
234 | 85.86 | 40.00 | 32.55 | 13.6E-6 | -14.1E-3 | 2.7E+0
235 | 85.51 | 30.00 | 32.26 | 13.6E-6 | -14.1E-3 | 2.7E+0
236 | 84.42 | 32.75 | 32.65 | 13.6E-6 | -14.1E-3 | 2.7E+0
237 | 86.48 | 35.68 | 33.50 | 13.6E-6 | -14.1E-3 | 2.7E+0
238 | 88.55 | 30.00 | 34.96 | 13.6E-6 | -14.1E-3 | 2.7E+0
239 | 89.29 | 44.93 | 36.44 | 13.6E-6 | -14.1E-3 | 2.7E+0
240 | 90.90 | 50.00 | 36.95 | 4.5E-6 | -4.7E-3 | 915.7E-3
241 | 77.27 | (a) | 37.02 | -4.5E-6 | 4.7E-3 | -915.7E-3
242 | 56.75 | (a) | 36.97 | -13.6E-6 | 14.1E-3 | -2.7E+0
243 | 50.00 | (a) | 36.37 | -13.6E-6 | 14.1E-3 | -2.7E+0
244 | 41.07 | (a) | 35.56 | -13.6E-6 | 14.1E-3 | -2.7E+0
245 | 37.38 | 45.18 | 34.72 | -13.6E-6 | 14.1E-3 | -2.7E+0
246 | 34.21 | 78.47 | 33.84 | -13.6E-6 | 14.1E-3 | -2.7E+0
247 | 32.13 | 80.00 | 33.40 | -13.6E-6 | 14.1E-3 | -2.7E+0
248 | 27.71 | 80.00 | 32.93 | -13.6E-6 | 14.1E-3 | -2.7E+0
249 | 22.64 | 80.00 | 31.98 | -13.6E-6 | 14.1E-3 | -2.7E+0
250 | 20.58 | 60.97 | 30.98 | -13.6E-6 | 14.1E-3 | -2.7E+0
251 | 16.25 | 27.34 | 29.91 | -13.6E-6 | 14.1E-3 | -2.7E+0
252 | 11.46 | 43.71 | 28.73 | -13.6E-6 | 14.1E-3 | -2.7E+0
253 | 9.02 | 68.95 | 27.34 | -13.6E-6 | 14.1E-3 | -2.7E+0
254 | 3.38 | 68.95 | 25.85 | -13.6E-6 | 14.1E-3 | -2.7E+0
255 | 1.32 | 44.28 | 24.49 | -13.6E-6 | 14.1E-3 | -2.7E+0
256 | 0 | 0 | 23.19 | -13.6E-6 | 14.1E-3 | -2.7E+0
257 | 0 | 0 | 21.87 | -13.6E-6 | 14.1E-3 | -2.7E+0
258 | 0 | 0 | 17.39 | -13.6E-6 | 14.1E-3 | -2.7E+0
259 | 0 | 0 | 12.92 | -13.6E-6 | 14.1E-3 | -2.7E+0
260 | 0 | 0 | 8.45 | -13.6E-6 | 14.1E-3 | -2.7E+0
261 | 0 | 0 | 3.97 | -13.6E-6 | 14.1E-3 | -2.7E+0
262 | 0 | 0 | 0 | -13.6E-6 | 14.1E-3 | -2.7E+0
263 | 0 | 24.97 | 0 | -13.6E-6 | 14.1E-3 | -2.7E+0
264 | 0 | 17.16 | 0 | -13.6E-6 | 14.1E-3 | -2.7E+0
265 | 0 | 6.20 | 0 | -9.1E-6 | 9.4E-3 | -1.8E+0
266 | 0 | 10.00 | 0 | -4.5E-6 | 4.7E-3 | -915.7E-3
267 | 0 | 10.00 | 0 | 0 | 0 | 0
268 | 0 | 0 | 0 | 0 | 0 | 0
269 | 0 | 0 | 0 | 0 | 0 | 0
270 | 0 | 0 | 0 | 0 | 0 | 0
271 | 0 | 0 | 0 | 0 | 0 | 0
272 | 0 | 0 | 0 | 0 | 0 | 0
273 | 0 | 0 | 0 | 0 | 0 | 0
274 | 0 | 0 | 0 | 0 | 0 | 0
275 | 0 | 0 | 0 | 0 | 0 | 0
276 | 0 | 0 | 0 | 0 | 0 | 0
277 | 0 | 0 | 0 | 0 | 0 | 0
278 | 0 | 0 | 0 | 0 | 0 | 0
279 | 0 | 0 | 0 | 0 | 0 | 0
280 | 0 | 0 | 0 | 0 | 0 | 0
281 | 0 | 0 | 0 | 0 | 0 | 0
282 | 0 | 0 | 0 | 0 | 0 | 0
283 | 0 | 0 | 0 | 0 | 0 | 0
284 | 0 | 0 | 0 | 0 | 0 | 0
285 | 0 | 0 | 0 | 0 | 0 | 0
286 | 0 | 0 | 0 | 0 | 0 | 0
287 | 0 | 0 | 0 | 0 | 0 | 0
288 | 0 | 0 | 0 | 0 | 0 | 0
289 | 0 | 0 | 0 | 0 | 0 | 0
290 | 0 | 0 | 0 | 0 | 0 | 0
291 | 0 | 0 | 0 | 0 | 0 | 0
292 | 0 | 0 | 0 | 0 | 0 | 0
293 | 0 | 0 | 0 | 0 | 0 | 0
294 | 0 | 0 | 0 | 0 | 0 | 0
295 | 0 | 0 | 0 | 0 | 0 | 0
296 | 0 | 0 | 0 | 0 | 0 | 0
297 | 0 | 0 | 0 | 0 | 0 | 0
298 | 0 | 0 | 0 | 0 | 0 | 0
299 | 0 | 0 | 0 | 0 | 0 | 0
300 | 0 | 0 | 0 | 0 | 0 | 0
301 | 0 | 0 | 0 | 0 | 0 | 0
302 | 0 | 0 | 0 | 0 | 0 | 0
303 | 0 | 0 | 0 | 0 | 0 | 0
304 | 0 | 0 | 0 | 0 | 0 | 0
305 | 0 | 0 | 0 | 0 | 0 | 0
306 | 0 | 0 | 0 | 0 | 0 | 0
307 | 0 | 0 | 0 | 0 | 0 | 0
308 | 0 | 0 | 0 | 0 | 0 | 0
309 | 0 | 0 | 0 | 0 | 0 | 0
310 | 0 | 0 | 0 | 0 | 0 | 0
311 | 0 | 0 | 0 | 0 | 0 | 0
312 | 0 | 0 | 0 | 0 | 0 | 0
313 | 0 | 0 | 0 | 0 | 0 | 0
314 | 0 | 0 | 0 | 0 | 0 | 0
315 | 0 | 0 | 0 | 0 | 0 | 0
316 | 0 | 0 | 0 | 0 | 0 | 0
317 | 0 | 0 | 0 | 0 | 0 | 0
318 | 0 | 0 | 0 | 0 | 0 | 0
319 | 0 | 0 | 0 | 0 | 0 | 0
320 | 0 | 0 | 0 | 0 | 0 | 0
321 | 0 | 15.55 | 0 | 0 | 0 | 0
322 | 0 | 20.00 | 0 | 0 | 0 | 0
323 | 21.59 | 19.08 | 1.20 | 0 | 0 | 0
324 | 20.54 | 10.00 | 2.18 | 0 | 0 | 0
325 | 10.32 | 1.86 | 2.88 | 0 | 0 | 0
326 | 6.13 | (a) | 3.00 | 0 | 0 | 0
327 | 5.36 | (a) | 2.28 | 0 | 0 | 0
328 | 0.64 | (a) | 0 | 0 | 0 | 0
329 | 0 | 0 | 0 | 0 | 0 | 0
330 | 0 | 0 | 0 | 0 | 0 | 0
331 | 0 | 0 | 0 | 0 | 0 | 0
332 | 0 | 0 | 0 | 0 | 0 | 0
333 | 0 | 0 | 0 | 0 | 0 | 0
334 | 0 | 0 | 0 | 0 | 0 | 0
335 | 0 | 0 | 0 | 0 | 0 | 0
336 | 0 | 0 | 0 | 0 | 0 | 0
337 | 0 | 0 | 0 | 0 | 0 | 0
338 | 0 | 0 | 0 | 0 | 0 | 0
339 | 0 | 0 | 0 | 0 | 0 | 0
340 | 0 | 0 | 0 | 0 | 0 | 0
341 | 0 | 0 | 0 | 0 | 0 | 0
342 | 0 | 0 | 0 | 0 | 0 | 0
343 | 0 | 0 | 0 | 0 | 0 | 0
344 | 0 | 0 | 0 | 0 | 0 | 0
345 | 0 | 0 | 0 | 0 | 0 | 0
346 | 0 | 0 | 0 | 0 | 0 | 0
347 | 0 | 0 | 0 | 0 | 0 | 0
348 | 0 | 0 | 0 | 0 | 0 | 0
349 | 0 | 0 | 0 | 0 | 0 | 0
350 | 0 | 0 | 0 | 0 | 0 | 0
351 | 0 | 0 | 0 | 0 | 0 | 0
352 | 0 | 0 | 0 | 0 | 0 | 0
353 | 0 | 0 | 0 | 0 | 0 | 0
354 | 0 | 0 | 0 | 0 | 0 | 0
355 | 0 | 0 | 0 | 0 | 0 | 0
356 | 0 | 0 | 0 | 0 | 0 | 0
357 | 0 | 0 | 0 | 0 | 0 | 0
358 | 0 | 0 | 0 | 0 | 0 | 0
359 | 0 | 0 | 0 | 0 | 0 | 0
360 | 0 | 0 | 0 | 0 | 0 | 0
361 | 0 | 0 | 0 | 0 | 0 | 0
362 | 0 | 0 | 0 | 0 | 0 | 0
363 | 0 | 0 | 0 | 0 | 0 | 0
364 | 0 | 0 | 0 | 0 | 0 | 0
365 | 0 | 0 | 0 | 0 | 0 | 0
366 | 0 | 0 | 0 | 0 | 0 | 0
367 | 0 | 0 | 0 | 0 | 0 | 0
368 | 0 | 0 | 0 | 0 | 0 | 0
369 | 0 | 0 | 0 | 0 | 0 | 0
370 | 0 | 0 | 0 | 0 | 0 | 0
371 | 0 | 0 | 0 | 0 | 0 | 0
372 | 0 | 0 | 0 | 0 | 0 | 0
373 | 0 | 0 | 0 | 0 | 0 | 0
374 | 0 | 0 | 0 | 0 | 0 | 0
375 | 0 | 0 | 0 | 6.3E-6 | -6.4E-3 | 2.0E+0
376 | 0 | 0 | 0 | 12.6E-6 | -12.8E-3 | 3.9E+0
377 | 0 | 29.59 | 0 | 18.9E-6 | -19.2E-3 | 5.9E+0
378 | -1.34 | 87.46 | 0 | 18.9E-6 | -19.2E-3 | 5.9E+0
379 | 7.93 | 100.00 | 1.15 | 18.9E-6 | -19.2E-3 | 5.9E+0
380 | 41.11 | 100.00 | 3.82 | 18.9E-6 | -19.2E-3 | 5.9E+0
381 | 68.65 | 100.00 | 6.11 | 18.9E-6 | -19.2E-3 | 5.9E+0
382 | 71.43 | 100.00 | 10.00 | 18.9E-6 | -19.2E-3 | 5.9E+0
383 | 73.34 | 94.64 | 14.52 | 18.9E-6 | -19.2E-3 | 5.9E+0
384 | 76.24 | 83.07 | 18.09 | 18.9E-6 | -19.2E-3 | 5.9E+0
385 | 78.30 | 88.51 | 20.64 | 18.9E-6 | -19.2E-3 | 5.9E+0
386 | 82.14 | 79.83 | 22.36 | 18.9E-6 | -19.2E-3 | 5.9E+0
387 | 82.14 | 61.66 | 23.70 | 18.9E-6 | -19.2E-3 | 5.9E+0
388 | 84.45 | 66.77 | 24.80 | 18.9E-6 | -19.2E-3 | 5.9E+0
389 | 91.86 | 60.00 | 25.26 | 18.9E-6 | -19.2E-3 | 5.9E+0
390 | 94.64 | 72.76 | 25.44 | 18.9E-6 | -19.2E-3 | 5.9E+0
391 | 97.48 | 8.43 | 25.57 | 18.9E-6 | -19.2E-3 | 5.9E+0
392 | 99.92 | (a) | 25.79 | 18.9E-6 | -19.2E-3 | 5.9E+0
393 | 73.21 | (a) | 25.80 | 18.9E-6 | -19.2E-3 | 5.9E+0
394 | 70.83 | (a) | 24.98 | 18.9E-6 | -19.2E-3 | 5.9E+0
395 | 63.53 | (a) | 23.70 | 18.9E-6 | -19.2E-3 | 5.9E+0
396 | 61.46 | (a) | 22.23 | 18.9E-6 | -19.2E-3 | 5.9E+0
397 | 69.96 | 49.17 | 20.51 | 18.9E-6 | -19.2E-3 | 5.9E+0
398 | 73.21 | 70.00 | 18.44 | 18.9E-6 | -19.2E-3 | 5.9E+0
399 | 72.01 | 69.46 | 18.19 | 18.9E-6 | -19.2E-3 | 5.9E+0
400 | 82.90 | 60.00 | 21.27 | 18.9E-6 | -19.2E-3 | 5.9E+0
401 | 87.04 | 60.00 | 23.53 | 18.9E-6 | -19.2E-3 | 5.9E+0
402 | 88.35 | 60.00 | 23.88 | 18.9E-6 | -19.2E-3 | 5.9E+0
403 | 89.95 | 60.00 | 24.03 | 18.9E-6 | -19.2E-3 | 5.9E+0
404 | 92.57 | 43.17 | 24.17 | 18.9E-6 | -19.2E-3 | 5.9E+0
405 | 92.86 | 10.04 | 24.30 | 12.6E-6 | -12.8E-3 | 3.9E+0
406 | 71.98 | 20.00 | 24.09 | 6.3E-6 | -6.4E-3 | 2.0E+0
407 | 74.44 | 20.00 | 24.97 | 0 | 0 | 0
408 | 72.38 | 15.29 | 25.32 | 0 | 0 | 0
409 | 71.43 | 10.00 | 24.15 | 0 | 0 | 0
410 | 68.63 | (a) | 23.14 | 0 | 0 | 0
411 | 66.17 | (a) | 22.38 | 0 | 0 | 0
412 | 63.93 | (a) | 21.58 | 0 | 0 | 0
413 | 63.02 | (a) | 20.06 | 0 | 0 | 0
414 | 69.64 | (a) | 18.29 | 0 | 0 | 0
415 | 71.69 | 1.45 | 16.16 | 0 | 0 | 0
416 | 71.91 | 17.30 | 13.44 | 0 | 0 | 0
417 | 69.85 | 11.13 | 11.00 | 0 | 0 | 0
418 | 70.04 | 19.55 | 10.13 | 1.0E-6 | -1.4E-3 | -705.8E-3
419 | 75.32 | 24.16 | 11.50 | 2.1E-6 | -2.9E-3 | -1.4E+0
420 | 64.43 | 80.00 | 13.65 | 3.1E-6 | -4.3E-3 | -2.1E+0
421 | 70.63 | 74.83 | 15.03 | 3.1E-6 | -4.3E-3 | -2.1E+0
422 | 80.44 | 16.04 | 17.50 | 3.1E-6 | -4.3E-3 | -2.1E+0
423 | 66.11 | (a) | 20.79 | 3.1E-6 | -4.3E-3 | -2.1E+0
424 | 60.73 | (a) | 22.92 | 3.1E-6 | -4.3E-3 | -2.1E+0
425 | 61.19 | (a) | 23.23 | 3.1E-6 | -4.3E-3 | -2.1E+0
426 | 53.03 | (a) | 22.42 | 3.1E-6 | -4.3E-3 | -2.1E+0
427 | 56.73 | (a) | 21.51 | 3.1E-6 | -4.3E-3 | -2.1E+0
428 | 62.50 | 2.38 | 20.46 | 3.1E-6 | -4.3E-3 | -2.1E+0
429 | 65.27 | 17.76 | 19.25 | 3.1E-6 | -4.3E-3 | -2.1E+0
430 | 64.40 | (a) | 19.61 | 3.1E-6 | -4.3E-3 | -2.1E+0
431 | 60.06 | (a) | 21.94 | 3.1E-6 | -4.3E-3 | -2.1E+0
432 | 32.17 | (a) | 22.99 | 3.1E-6 | -4.3E-3 | -2.1E+0
433 | 18.53 | (a) | 22.51 | 3.1E-6 | -4.3E-3 | -2.1E+0
434 | 10.26 | (a) | 21.98 | 3.1E-6 | -4.3E-3 | -2.1E+0
435 | -1.87 | 0.0 | 21.39 | 3.1E-6 | -4.3E-3 | -2.1E+0
436 | -0.65 | 0.0 | 20.73 | 3.1E-6 | -4.3E-3 | -2.1E+0
437 | 7.65 | 60.00 | 20.38 | 3.1E-6 | -4.3E-3 | -2.1E+0
438 | 27.28 | 61.93 | 20.38 | 3.1E-6 | -4.3E-3 | -2.1E+0
439 | 59.91 | 63.00 | 20.78 | 3.1E-6 | -4.3E-3 | -2.1E+0
440 | 76.81 | 39.85 | 21.84 | 3.1E-6 | -4.3E-3 | -2.1E+0
441 | 79.76 | 30.00 | 23.60 | 3.1E-6 | -4.3E-3 | -2.1E+0
442 | 81.82 | 30.00 | 25.31 | 3.1E-6 | -4.3E-3 | -2.1E+0
443 | 87.39 | 10.40 | 26.41 | 3.1E-6 | -4.3E-3 | -2.1E+0
444 | 87.26 | 1.37 | 27.29 | 3.1E-6 | -4.3E-3 | -2.1E+0
445 | 85.71 | 10.00 | 27.97 | 3.1E-6 | -4.3E-3 | -2.1E+0
446 | 85.71 | 0.96 | 28.20 | 3.1E-6 | -4.3E-3 | -2.1E+0
447 | 85.71 | (a) | 28.31 | 3.1E-6 | -4.3E-3 | -2.1E+0
448 | 76.13 | 28.34 | 29.22 | 3.1E-6 | -4.3E-3 | -2.1E+0
449 | 78.16 | 30.76 | 29.63 | 3.1E-6 | -4.3E-3 | -2.1E+0
450 | 76.93 | 29.18 | 29.64 | 3.1E-6 | -4.3E-3 | -2.1E+0
451 | 78.57 | 20.00 | 30.67 | 3.1E-6 | -4.3E-3 | -2.1E+0
452 | 77.87 | 20.00 | 32.17 | 3.1E-6 | -4.3E-3 | -2.1E+0
453 | 76.79 | 20.00 | 33.10 | 3.1E-6 | -4.3E-3 | -2.1E+0
454 | 78.05 | 20.00 | 33.30 | 3.1E-6 | -4.3E-3 | -2.1E+0
455 | 78.57 | 11.32 | 33.15 | 3.1E-6 | -4.3E-3 | -2.1E+0
456 | 69.50 | (a) | 32.66 | 3.1E-6 | -4.3E-3 | -2.1E+0
457 | 64.29 | (a) | 31.98 | 3.1E-6 | -4.3E-3 | -2.1E+0
458 | 63.68 | (a) | 31.48 | 3.1E-6 | -4.3E-3 | -2.1E+0
459 | 62.50 | 0.04 | 31.39 | 3.1E-6 | -4.3E-3 | -2.1E+0
460 | 62.50 | (a) | 31.30 | 3.1E-6 | -4.3E-3 | -2.1E+0
461 | 66.86 | (a) | 32.20 | 3.1E-6 | -4.3E-3 | -2.1E+0
462 | 66.13 | (a) | 33.13 | 3.1E-6 | -4.3E-3 | -2.1E+0
463 | 60.48 | (a) | 33.13 | 3.1E-6 | -4.3E-3 | -2.1E+0
464 | 58.93 | (a) | 33.14 | 3.1E-6 | -4.3E-3 | -2.1E+0
465 | 57.35 | (a) | 33.14 | 3.1E-6 | -4.3E-3 | -2.1E+0
466 | 55.36 | (a) | 33.15 | 3.1E-6 | -4.3E-3 | -2.1E+0
467 | 49.95 | (a) | 33.16 | 3.1E-6 | -4.3E-3 | -2.1E+0
468 | 48.21 | (a) | 33.16 | 3.1E-6 | -4.3E-3 | -2.1E+0
469 | 59.31 | (a) | 33.17 | 2.1E-6 | -3.2E-3 | -2.2E+0
470 | 67.15 | 70.00 | 33.30 | 1.0E-6 | -2.1E-3 | -2.3E+0
471 | 76.79 | 54.53 | 33.56 | -53.4E-9 | -1.0E-3 | -2.4E+0
472 | 76.79 | 24.56 | 35.59 | -53.4E-9 | -1.0E-3 | -2.4E+0
473 | 79.29 | (a) | 39.04 | -53.4E-9 | -1.0E-3 | -2.4E+0
474 | 80.36 | (a) | 41.83 | -53.4E-9 | -1.0E-3 | -2.4E+0
475 | 94.18 | (a) | 43.06 | -53.4E-9 | -1.0E-3 | -2.4E+0
476 | 66.07 | (a) | 43.13 | -53.4E-9 | -1.0E-3 | -2.4E+0
477 | 65.48 | (a) | 43.21 | -53.4E-9 | -1.0E-3 | -2.4E+0
478 | 63.41 | 10.00 | 43.29 | -53.4E-9 | -1.0E-3 | -2.4E+0
479 | 68.27 | 29.38 | 43.37 | -53.4E-9 | -1.0E-3 | -2.4E+0
480 | 72.87 | 40.00 | 44.00 | -53.4E-9 | -1.0E-3 | -2.4E+0
481 | 69.79 | 30.39 | 45.13 | -53.4E-9 | -1.0E-3 | -2.4E+0
482 | 66.19 | 26.46 | 47.02 | -53.4E-9 | -1.0E-3 | -2.4E+0
483 | 80.36 | 0.0 | 49.20 | -53.4E-9 | -1.0E-3 | -2.4E+0
484 | 81.13 | 0.0 | 49.92 | -53.4E-9 | -1.0E-3 | -2.4E+0
485 | 82.14 | (a) | 50.36 | -53.4E-9 | -1.0E-3 | -2.4E+0
486 | 83.48 | (a) | 51.52 | -53.4E-9 | -1.0E-3 | -2.4E+0
487 | 83.93 | (a) | 52.11 | -53.4E-9 | -1.0E-3 | -2.4E+0
488 | 84.04 | (a) | 52.12 | -53.4E-9 | -1.0E-3 | -2.4E+0
489 | 79.43 | (a) | 52.14 | -53.4E-9 | -1.0E-3 | -2.4E+0
490 | 56.47 | (a) | 52.16 | -53.4E-9 | -1.0E-3 | -2.4E+0
491 | 55.36 | (a) | 52.18 | -53.4E-9 | -1.0E-3 | -2.4E+0
492 | 44.23 | 45.37 | 52.20 | -53.4E-9 | -1.0E-3 | -2.4E+0
493 | 46.87 | 86.99 | 52.22 | -53.4E-9 | -1.0E-3 | -2.4E+0
494 | 57.14 | 90.00 | 52.16 | -53.4E-9 | -1.0E-3 | -2.4E+0
495 | 58.03 | 90.00 | 52.53 | -53.4E-9 | -1.0E-3 | -2.4E+0
496 | 64.22 | 93.22 | 52.98 | -53.4E-9 | -1.0E-3 | -2.4E+0
497 | 70.42 | 95.21 | 53.65 | -53.4E-9 | -1.0E-3 | -2.4E+0
498 | 73.21 | 83.64 | 54.77 | -53.4E-9 | -1.0E-3 | -2.4E+0
499 | 77.46 | 80.00 | 55.14 | -53.4E-9 | -1.0E-3 | -2.4E+0
500 | 83.67 | 80.00 | 54.57 | -53.4E-9 | -1.0E-3 | -2.4E+0
501 | 84.71 | 80.00 | 53.63 | -53.4E-9 | -1.0E-3 | -2.4E+0
502 | 92.50 | 80.00 | 52.70 | -53.4E-9 | -1.0E-3 | -2.4E+0
503 | 90.38 | 41.89 | 52.03 | -53.4E-9 | -1.0E-3 | -2.4E+0
504 | 85.25 | 24.85 | 51.66 | -53.4E-9 | -1.0E-3 | -2.4E+0
505 | 87.50 | 50.00 | 51.42 | -53.4E-9 | -1.0E-3 | -2.4E+0
506 | 89.10 | 50.00 | 51.28 | -53.4E-9 | -1.0E-3 | -2.4E+0
507 | 94.83 | 46.82 | 51.13 | -53.4E-9 | -1.0E-3 | -2.4E+0
508 | 98.96 | (a) | 51.53 | -53.4E-9 | -1.0E-3 | -2.4E+0
509 | 87.99 | (a) | 52.04 | -17.8E-9 | -339.7E-6 | -805.1E-3
510 | 63.35 | (a) | 51.32 | 17.8E-9 | 339.7E-6 | 805.1E-3
511 | 60.06 | (a) | 49.20 | 53.4E-9 | 1.0E-3 | 2.4E+0
512 | 54.43 | (a) | 46.43 | 53.4E-9 | 1.0E-3 | 2.4E+0
513 | 42.88 | (a) | 43.58 | 53.4E-9 | 1.0E-3 | 2.4E+0
514 | 46.71 | (a) | 40.65 | 53.4E-9 | 1.0E-3 | 2.4E+0
515 | 48.21 | (a) | 37.62 | 53.4E-9 | 1.0E-3 | 2.4E+0
516 | 58.28 | (a) | 34.62 | 53.4E-9 | 1.0E-3 | 2.4E+0
517 | 69.64 | (a) | 31.62 | 53.4E-9 | 1.0E-3 | 2.4E+0
518 | 51.44 | (a) | 28.44 | 53.4E-9 | 1.0E-3 | 2.4E+0
519 | 38.02 | (a) | 25.01 | 53.4E-9 | 1.0E-3 | 2.4E+0
520 | 34.65 | (a) | 21.38 | 53.4E-9 | 1.0E-3 | 2.4E+0
521 | 19.97 | (a) | 17.39 | 53.4E-9 | 1.0E-3 | 2.4E+0
522 | 3.14 | (a) | 12.76 | 53.4E-9 | 1.0E-3 | 2.4E+0
523 | 0 | 0 | 6.14 | 53.4E-9 | 1.0E-3 | 2.4E+0
524 | -1.30 | 36.39 | 0 | 53.4E-9 | 1.0E-3 | 2.4E+0
525 | -0.21 | 5.75 | 0 | 53.4E-9 | 1.0E-3 | 2.4E+0
526 | 0 | 0 | 0 | 53.4E-9 | 1.0E-3 | 2.4E+0
527 | 0 | 0 | 0 | 53.4E-9 | 1.0E-3 | 2.4E+0
528 | 0 | 0 | 0 | 53.4E-9 | 1.0E-3 | 2.4E+0
529 | 0 | 0 | 0 | 53.4E-9 | 1.0E-3 | 2.4E+0
530 | 0 | 0 | 0 | 5.3E-6 | -4.8E-3 | 1.4E+0
531 | 0 | 0 | 0 | 10.6E-6 | -10.5E-3 | 287.6E-3
532 | 0 | 0 | 0 | 15.9E-6 | -16.3E-3 | -776.2E-3
533 | 0 | 0 | 0 | 15.9E-6 | -16.3E-3 | -776.2E-3
534 | 0 | 0 | 0 | 15.9E-6 | -16.3E-3 | -776.2E-3
535 | 0 | 0 | 0 | 15.9E-6 | -16.3E-3 | -776.2E-3
536 | 0 | 0 | 0 | 15.9E-6 | -16.3E-3 | -776.2E-3
537 | 0 | 0 | 0 | 15.9E-6 | -16.3E-3 | -776.2E-3
538 | 0 | 0 | 0 | 15.9E-6 | -16.3E-3 | -776.2E-3
539 | 0 | 0 | 0 | 15.9E-6 | -16.3E-3 | -776.2E-3
540 | 0 | 0 | 0 | 15.9E-6 | -16.3E-3 | -776.2E-3
541 | 0 | 0 | 0 | 15.9E-6 | -16.3E-3 | -776.2E-3
542 | 0 | 0 | 0 | 15.9E-6 | -16.3E-3 | -776.2E-3
543 | 0 | 0 | 0 | 15.9E-6 | -16.3E-3 | -776.2E-3
544 | 0 | (a) | 0 | 15.9E-6 | -16.3E-3 | -776.2E-3
545 | 0 | 0 | 0 | 15.9E-6 | -16.3E-3 | -776.2E-3
546 | -0.67 | 0 | 0 | 15.9E-6 | -16.3E-3 | -776.2E-3
547 | -0.50 | 0 | 0 | 15.9E-6 | -16.3E-3 | -776.2E-3
548 | 3.57 | (a) | 0 | 15.9E-6 | -16.3E-3 | -776.2E-3
549 | 0.61 | (a) | 0 | 15.9E-6 | -16.3E-3 | -776.2E-3
550 | 0 | 0 | 0 | 15.9E-6 | -16.3E-3 | -776.2E-3
551 | 0 | 0 | 0 | 15.9E-6 | -16.3E-3 | -776.2E-3
552 | 0 | 2.60 | 0 | 15.9E-6 | -16.3E-3 | -776.2E-3
553 | 0 | 20.00 | 0 | 15.9E-6 | -16.3E-3 | -776.2E-3
554 | 0 | 20.00 | 0 | 15.9E-6 | -16.3E-3 | -776.2E-3
555 | 0 | 7.96 | 0 | 15.9E-6 | -16.3E-3 | -776.2E-3
556 | 0 | 0 | 0 | 15.9E-6 | -16.3E-3 | -776.2E-3
557 | 0 | 0 | 0 | 15.9E-6 | -16.3E-3 | -776.2E-3
558 | 0 | 78.53 | 0 | 15.9E-6 | -16.3E-3 | -776.2E-3
559 | 1.65 | 60.00 | 0 | 15.9E-6 | -16.3E-3 | -776.2E-3
560 | 9.91 | 63.88 | 2.80 | 15.9E-6 | -16.3E-3 | -776.2E-3
561 | 14.29 | 70.00 | 6.02 | 15.9E-6 | -16.3E-3 | -776.2E-3
562 | 26.83 | 70.00 | 8.57 | 15.9E-6 | -16.3E-3 | -776.2E-3
563 | 38.29 | 70.00 | 11.07 | 15.9E-6 | -16.3E-3 | -776.2E-3
564 | 50.09 | 70.00 | 13.68 | 15.9E-6 | -16.3E-3 | -776.2E-3
565 | 56.60 | 66.52 | 16.52 | 15.9E-6 | -16.3E-3 | -776.2E-3
566 | 63.09 | 59.94 | 19.38 | 15.9E-6 | -16.3E-3 | -776.2E-3
567 | 65.16 | 80.00 | 21.91 | 15.9E-6 | -16.3E-3 | -776.2E-3
568 | 69.53 | 86.46 | 24.34 | 15.9E-6 | -16.3E-3 | -776.2E-3
569 | 78.60 | 90.00 | 27.02 | 15.9E-6 | -16.3E-3 | -776.2E-3
570 | 80.36 | 90.00 | 29.41 | 15.9E-6 | -16.3E-3 | -776.2E-3
571 | 82.35 | 100.00 | 31.57 | 15.9E-6 | -16.3E-3 | -776.2E-3
572 | 83.93 | 100.00 | 33.52 | 15.9E-6 | -16.3E-3 | -776.2E-3
573 | 84.70 | 100.00 | 35.75 | 15.9E-6 | -16.3E-3 | -776.2E-3
574 | 85.71 | 100.00 | 38.34 | 15.9E-6 | -16.3E-3 | -776.2E-3
575 | 87.04 | 100.00 | 40.83 | 15.9E-6 | -16.3E-3 | -776.2E-3
576 | 97.18 | 100.00 | 43.37 | 15.9E-6 | -16.3E-3 | -776.2E-3
577 | 98.21 | 83.92 | 44.90 | 15.9E-6 | -16.3E-3 | -776.2E-3
578 | 93.54 | (a) | 45.32 | 5.3E-6 | -5.4E-3 | -258.7E-3
579 | 78.13 | (a) | 45.25 | -5.3E-6 | 5.4E-3 | 258.7E-3
580 | 80.36 | 0 | 44.24 | -15.9E-6 | 16.3E-3 | 776.2E-3
581 | 81.59 | (a) | 42.61 | -15.9E-6 | 16.3E-3 | 776.2E-3
582 | 73.07 | (a) | 40.93 | -15.9E-6 | 16.3E-3 | 776.2E-3
583 | 58.92 | (a) | 39.03 | -15.9E-6 | 16.3E-3 | 776.2E-3
584 | 56.86 | (a) | 36.96 | -15.9E-6 | 16.3E-3 | 776.2E-3
585 | 54.22 | (a) | 34.84 | -15.9E-6 | 16.3E-3 | 776.2E-3
586 | 50.94 | (a) | 32.66 | -15.9E-6 | 16.3E-3 | 776.2E-3
587 | 47.74 | (a) | 30.40 | -15.9E-6 | 16.3E-3 | 776.2E-3
588 | 45.02 | (a) | 28.04 | -15.9E-6 | 16.3E-3 | 776.2E-3
589 | 39.56 | (a) | 25.57 | -15.9E-6 | 16.3E-3 | 776.2E-3
590 | 33.55 | 37.91 | 22.94 | -15.9E-6 | 16.3E-3 | 776.2E-3
591 | 29.89 | 20.00 | 20.11 | -15.9E-6 | 16.3E-3 | 776.2E-3
592 | 27.82 | 20.00 | 18.17 | -15.9E-6 | 16.3E-3 | 776.2E-3
593 | 25.76 | 20.00 | 17.20 | -15.9E-6 | 16.3E-3 | 776.2E-3
594 | 19.76 | 20.00 | 16.06 | -15.9E-6 | 16.3E-3 | 776.2E-3
595 | 8.31 | (a) | 14.93 | -15.9E-6 | 16.3E-3 | 776.2E-3
596 | 0 | 0 | 13.78 | -15.9E-6 | 16.3E-3 | 776.2E-3
597 | 0 | 0 | 10.72 | -15.9E-6 | 16.3E-3 | 776.2E-3
598 | 0 | 0 | 6.24 | -15.9E-6 | 16.3E-3 | 776.2E-3
599 | 0 | 0 | 1.77 | -15.9E-6 | 16.3E-3 | 776.2E-3
600 | 0 | 0 | 0 | -15.9E-6 | 16.3E-3 | 776.2E-3
601 | 0 | 0 | 0 | -15.9E-6 | 16.3E-3 | 776.2E-3
602 | 0 | 0 | 0 | -15.9E-6 | 16.3E-3 | 776.2E-3
603 | 0 | 0 | 0 | -15.9E-6 | 16.3E-3 | 776.2E-3
604 | 0 | 0 | 0 | -15.9E-6 | 16.3E-3 | 776.2E-3
605 | 0 | 0 | 0 | -15.9E-6 | 16.3E-3 | 776.2E-3
606 | 2.25 | 6.30 | 0 | -15.9E-6 | 16.3E-3 | 776.2E-3
607 | 9.20 | 17.87 | 0 | -7.1E-6 | 7.2E-3 | 1.5E+0
608 | 12.40 | 20.00 | 0.75 | 1.8E-6 | -1.9E-3 | 2.1E+0
609 | 18.04 | 20.00 | 1.90 | 10.7E-6 | -11.0E-3 | 2.8E+0
610 | 21.49 | 22.59 | 3.81 | 10.7E-6 | -11.0E-3 | 2.8E+0
611 | 29.76 | 17.50 | 5.91 | 10.7E-6 | -11.0E-3 | 2.8E+0
612 | 35.98 | (a) | 7.92 | 10.7E-6 | -11.0E-3 | 2.8E+0
613 | 42.72 | (a) | 9.86 | 10.7E-6 | -11.0E-3 | 2.8E+0
614 | 58.93 | 7.78 | 9.37 | 10.7E-6 | -11.0E-3 | 2.8E+0
615 | 60.71 | 10.93 | 5.32 | 10.7E-6 | -11.0E-3 | 2.8E+0
616 | 60.35 | 32.04 | 1.45 | 10.7E-6 | -11.0E-3 | 2.8E+0
617 | 58.93 | 40.00 | 4.28 | 10.7E-6 | -11.0E-3 | 2.8E+0
618 | 59.86 | 40.00 | 6.78 | 10.7E-6 | -11.0E-3 | 2.8E+0
619 | 60.71 | 40.00 | 9.12 | 10.7E-6 | -11.0E-3 | 2.8E+0
620 | 60.71 | 48.33 | 11.69 | 10.7E-6 | -11.0E-3 | 2.8E+0
621 | 67.79 | 99.53 | 14.17 | 10.7E-6 | -11.0E-3 | 2.8E+0
622 | 69.64 | 100.00 | 16.35 | 10.7E-6 | -11.0E-3 | 2.8E+0
623 | 69.64 | 100.00 | 19.18 | 10.7E-6 | -11.0E-3 | 2.8E+0
624 | 68.81 | 100.00 | 22.35 | 10.7E-6 | -11.0E-3 | 2.8E+0
625 | 67.86 | 100.00 | 25.17 | 10.7E-6 | -11.0E-3 | 2.8E+0
626 | 67.86 | 100.00 | 27.60 | 10.7E-6 | -11.0E-3 | 2.8E+0
627 | 67.86 | 100.00 | 29.72 | 10.7E-6 | -11.0E-3 | 2.8E+0
628 | 67.53 | 100.00 | 31.71 | 10.7E-6 | -11.0E-3 | 2.8E+0
629 | 65.18 | 97.50 | 33.60 | 10.7E-6 | -11.0E-3 | 2.8E+0
630 | 68.58 | 90.00 | 35.39 | 10.7E-6 | -11.0E-3 | 2.8E+0
631 | 71.66 | 90.00 | 37.08 | 10.7E-6 | -11.0E-3 | 2.8E+0
632 | 74.50 | 90.00 | 38.83 | 10.7E-6 | -11.0E-3 | 2.8E+0
633 | 75.00 | 98.79 | 40.28 | 10.7E-6 | -11.0E-3 | 2.8E+0
634 | 75.00 | 100.00 | 41.29 | 10.7E-6 | -11.0E-3 | 2.8E+0
635 | 74.65 | 100.00 | 42.31 | 10.7E-6 | -11.0E-3 | 2.8E+0
636 | 73.21 | 100.00 | 42.90 | 10.7E-6 | -11.0E-3 | 2.8E+0
637 | 74.13 | 94.91 | 42.94 | 10.7E-6 | -11.0E-3 | 2.8E+0
638 | 77.38 | 90.00 | 42.83 | 10.7E-6 | -11.0E-3 | 2.8E+0
639 | 80.04 | 90.00 | 42.74 | 10.7E-6 | -11.0E-3 | 2.8E+0
640 | 80.36 | 99.81 | 42.65 | 10.7E-6 | -11.0E-3 | 2.8E+0
641 | 79.87 | 100.00 | 42.56 | 10.7E-6 | -11.0E-3 | 2.8E+0
642 | 76.79 | 100.00 | 42.88 | 10.7E-6 | -11.0E-3 | 2.8E+0
643 | 76.79 | 95.47 | 43.29 | 10.7E-6 | -11.0E-3 | 2.8E+0
644 | 77.88 | 90.00 | 43.30 | 10.7E-6 | -11.0E-3 | 2.8E+0
645 | 78.57 | 90.00 | 43.37 | 10.7E-6 | -11.0E-3 | 2.8E+0
646 | 78.57 | 80.74 | 43.79 | 10.7E-6 | -11.0E-3 | 2.8E+0
647 | 78.57 | 79.17 | 44.07 | 10.7E-6 | -11.0E-3 | 2.8E+0
648 | 78.57 | 77.21 | 44.01 | 10.7E-6 | -11.0E-3 | 2.8E+0
649 | 78.57 | 100.00 | 44.41 | 6.8E-6 | -7.3E-3 | 2.3E+0
650 | 78.57 | 94.45 | 44.85 | 2.9E-6 | -3.6E-3 | 1.7E+0
651 | 78.57 | 90.00 | 44.83 | -935.4E-9 | 141.2E-6 | 1.1E+0
652 | 78.57 | 90.00 | 44.78 | -935.4E-9 | 141.2E-6 | 1.1E+0
653 | 80.36 | 90.00 | 45.00 | -935.4E-9 | 141.2E-6 | 1.1E+0
654 | 80.03 | 90.00 | 45.80 | -935.4E-9 | 141.2E-6 | 1.1E+0
655 | 79.18 | 90.00 | 46.46 | -935.4E-9 | 141.2E-6 | 1.1E+0
656 | 80.36 | 90.00 | 46.54 | -935.4E-9 | 141.2E-6 | 1.1E+0
657 | 80.36 | 90.00 | 46.12 | -935.4E-9 | 141.2E-6 | 1.1E+0
658 | 81.81 | 81.86 | 45.94 | -935.4E-9 | 141.2E-6 | 1.1E+0
659 | 82.14 | 80.00 | 45.81 | -935.4E-9 | 141.2E-6 | 1.1E+0
660 | 80.36 | 81.29 | 45.45 | -935.4E-9 | 141.2E-6 | 1.1E+0
661 | 79.85 | 92.86 | 45.81 | -935.4E-9 | 141.2E-6 | 1.1E+0
662 | 77.78 | 100.00 | 46.26 | -935.4E-9 | 141.2E-6 | 1.1E+0
663 | 76.79 | 100.00 | 46.32 | -935.4E-9 | 141.2E-6 | 1.1E+0
664 | 76.79 | 100.00 | 46.28 | -935.4E-9 | 141.2E-6 | 1.1E+0
665 | 80.05 | 100.00 | 46.46 | -935.4E-9 | 141.2E-6 | 1.1E+0
666 | 80.36 | 99.27 | 46.92 | -935.4E-9 | 141.2E-6 | 1.1E+0
667 | 80.77 | 90.00 | 47.16 | -935.4E-9 | 141.2E-6 | 1.1E+0
668 | 82.84 | 90.00 | 47.58 | -935.4E-9 | 141.2E-6 | 1.1E+0
669 | 84.90 | 90.00 | 48.04 | -935.4E-9 | 141.2E-6 | 1.1E+0
670 | 89.48 | 82.97 | 48.05 | -935.4E-9 | 141.2E-6 | 1.1E+0
671 | 91.07 | 80.00 | 48.02 | -935.4E-9 | 141.2E-6 | 1.1E+0
672 | 91.07 | 70.18 | 48.00 | -935.4E-9 | 141.2E-6 | 1.1E+0
673 | 91.07 | 80.00 | 47.97 | -935.4E-9 | 141.2E-6 | 1.1E+0
674 | 86.91 | 50.07 | 47.95 | -935.4E-9 | 141.2E-6 | 1.1E+0
675 | 77.70 | (a) | 47.95 | -935.4E-9 | 141.2E-6 | 1.1E+0
676 | 76.79 | (a) | 48.86 | -935.4E-9 | 141.2E-6 | 1.1E+0
677 | 65.29 | 22.19 | 49.92 | -935.4E-9 | 141.2E-6 | 1.1E+0
678 | 67.65 | 39.62 | 50.26 | -935.4E-9 | 141.2E-6 | 1.1E+0
679 | 67.64 | 48.80 | 50.18 | -935.4E-9 | 141.2E-6 | 1.1E+0
680 | 67.06 | 37.23 | 49.91 | -935.4E-9 | 141.2E-6 | 1.1E+0
681 | 69.64 | 34.34 | 49.90 | -935.4E-9 | 141.2E-6 | 1.1E+0
682 | 71.76 | 40.00 | 49.88 | -935.4E-9 | 141.2E-6 | 1.1E+0
683 | 69.21 | 47.49 | 49.87 | -935.4E-9 | 141.2E-6 | 1.1E+0
684 | 72.71 | 50.00 | 49.86 | -935.4E-9 | 141.2E-6 | 1.1E+0
685 | 73.33 | 39.36 | 49.85 | -935.4E-9 | 141.2E-6 | 1.1E+0
686 | 75.00 | 27.79 | 49.83 | -935.4E-9 | 141.2E-6 | 1.1E+0
687 | 75.00 | 16.21 | 49.82 | -935.4E-9 | 141.2E-6 | 1.1E+0
688 | 75.00 | 15.36 | 49.67 | -935.4E-9 | 141.2E-6 | 1.1E+0
689 | 76.24 | 26.93 | 49.60 | -935.4E-9 | 141.2E-6 | 1.1E+0
690 | 76.79 | 30.00 | 50.23 | -935.4E-9 | 141.2E-6 | 1.1E+0
691 | 76.79 | 30.08 | 50.78 | -935.4E-9 | 141.2E-6 | 1.1E+0
692 | 76.49 | 40.00 | 50.77 | -935.4E-9 | 141.2E-6 | 1.1E+0
693 | 75.58 | 40.00 | 50.76 | -935.4E-9 | 141.2E-6 | 1.1E+0
694 | 76.79 | 35.20 | 50.64 | -935.4E-9 | 141.2E-6 | 1.1E+0
695 | 77.93 | 30.00 | 50.14 | -935.4E-9 | 141.2E-6 | 1.1E+0
696 | 78.57 | 22.05 | 49.74 | -935.4E-9 | 141.2E-6 | 1.1E+0
697 | 76.87 | (a) | 50.07 | -935.4E-9 | 141.2E-6 | 1.1E+0
698 | 74.80 | (a) | 50.56 | -935.4E-9 | 141.2E-6 | 1.1E+0
699 | 72.74 | (a) | 50.73 | -2.8E-6 | 2.0E-3 | 303.9E-3
700 | 72.95 | (a) | 50.76 | -4.7E-6 | 3.9E-3 | -541.4E-3
701 | 76.04 | (a) | 50.79 | -6.6E-6 | 5.7E-3 | -1.4E+0
702 | 75.46 | (a) | 50.82 | -6.6E-6 | 5.7E-3 | -1.4E+0
703 | 73.40 | (a) | 50.85 | -6.6E-6 | 5.7E-3 | -1.4E+0
704 | 71.33 | (a) | 50.88 | -6.6E-6 | 5.7E-3 | -1.4E+0
705 | 69.27 | (a) | 50.91 | -6.6E-6 | 5.7E-3 | -1.4E+0
706 | 67.86 | 6.31 | 50.94 | -6.6E-6 | 5.7E-3 | -1.4E+0
707 | 70.68 | 0 | 50.98 | -6.6E-6 | 5.7E-3 | -1.4E+0
708 | 67.11 | 27.36 | 51.00 | -6.6E-6 | 5.7E-3 | -1.4E+0
709 | 64.29 | 40.00 | 51.03 | -6.6E-6 | 5.7E-3 | -1.4E+0
710 | 64.29 | 40.00 | 51.04 | -6.6E-6 | 5.7E-3 | -1.4E+0
711 | 66.07 | 38.44 | 51.05 | -6.6E-6 | 5.7E-3 | -1.4E+0
712 | 66.07 | 30.00 | 51.19 | -6.6E-6 | 5.7E-3 | -1.4E+0
713 | 66.07 | 30.00 | 51.69 | -6.6E-6 | 5.7E-3 | -1.4E+0
714 | 66.07 | 36.28 | 52.35 | -6.6E-6 | 5.7E-3 | -1.4E+0
715 | 64.67 | 47.86 | 52.85 | -6.6E-6 | 5.7E-3 | -1.4E+0
716 | 60.92 | 59.43 | 53.06 | -6.6E-6 | 5.7E-3 | -1.4E+0
717 | 65.89 | 50.00 | 53.07 | -6.6E-6 | 5.7E-3 | -1.4E+0
718 | 64.75 | 50.00 | 53.06 | -6.6E-6 | 5.7E-3 | -1.4E+0
719 | 66.07 | 45.85 | 53.06 | -6.6E-6 | 5.7E-3 | -1.4E+0
720 | 65.04 | 57.18 | 53.05 | -6.6E-6 | 5.7E-3 | -1.4E+0
721 | 68.20 | 62.70 | 53.05 | -6.6E-6 | 5.7E-3 | -1.4E+0
722 | 72.81 | 60.00 | 53.05 | -6.6E-6 | 5.7E-3 | -1.4E+0
723 | 71.59 | 60.00 | 53.04 | -6.6E-6 | 5.7E-3 | -1.4E+0
724 | 74.64 | 60.00 | 53.03 | -5.4E-6 | 4.6E-3 | -717.8E-3
725 | 74.50 | 56.40 | 53.02 | -4.2E-6 | 3.4E-3 | -48.8E-3
726 | 76.79 | 50.00 | 53.24 | -3.0E-6 | 2.2E-3 | 620.2E-3
727 | 77.99 | 50.00 | 53.73 | -3.0E-6 | 2.2E-3 | 620.2E-3
728 | 77.09 | 50.00 | 53.98 | -3.0E-6 | 2.2E-3 | 620.2E-3
729 | 76.79 | 40.11 | 53.98 | -3.0E-6 | 2.2E-3 | 620.2E-3
730 | 78.83 | 61.47 | 53.98 | -3.0E-6 | 2.2E-3 | 620.2E-3
731 | 79.27 | 63.92 | 53.98 | -3.0E-6 | 2.2E-3 | 620.2E-3
732 | 77.61 | 50.00 | 53.97 | -3.0E-6 | 2.2E-3 | 620.2E-3
733 | 77.46 | 50.00 | 53.95 | -3.0E-6 | 2.2E-3 | 620.2E-3
734 | 78.17 | 42.24 | 53.95 | -3.0E-6 | 2.2E-3 | 620.2E-3
735 | 78.57 | 49.34 | 53.94 | -3.0E-6 | 2.2E-3 | 620.2E-3
736 | 76.79 | 50.91 | 53.94 | -3.0E-6 | 2.2E-3 | 620.2E-3
737 | 76.79 | 67.45 | 53.94 | -3.0E-6 | 2.2E-3 | 620.2E-3
738 | 76.79 | 81.88 | 54.15 | -3.0E-6 | 2.2E-3 | 620.2E-3
739 | 77.79 | 70.00 | 54.65 | -3.0E-6 | 2.2E-3 | 620.2E-3
740 | 79.86 | 77.21 | 54.92 | -3.0E-6 | 2.2E-3 | 620.2E-3
741 | 81.93 | 88.78 | 54.90 | -3.0E-6 | 2.2E-3 | 620.2E-3
742 | 80.42 | 89.65 | 54.89 | -3.0E-6 | 2.2E-3 | 620.2E-3
743 | 82.14 | 80.00 | 54.97 | -3.0E-6 | 2.2E-3 | 620.2E-3
744 | 82.77 | 80.00 | 55.44 | -3.0E-6 | 2.2E-3 | 620.2E-3
745 | 83.93 | 80.00 | 55.82 | -3.0E-6 | 2.2E-3 | 620.2E-3
746 | 83.93 | 80.00 | 55.80 | -3.0E-6 | 2.2E-3 | 620.2E-3
747 | 83.93 | 80.00 | 55.79 | -3.0E-6 | 2.2E-3 | 620.2E-3
748 | 83.93 | 80.00 | 55.78 | -3.0E-6 | 2.2E-3 | 620.2E-3
749 | 83.93 | 81.37 | 55.76 | -4.7E-6 | 3.8E-3 | -175.5E-3
750 | 84.46 | 87.05 | 55.75 | -6.4E-6 | 5.4E-3 | -971.1E-3
751 | 85.71 | 57.40 | 55.74 | -8.0E-6 | 7.0E-3 | -1.8E+0
752 | 85.71 | 42.19 | 55.42 | -8.0E-6 | 7.0E-3 | -1.8E+0
753 | 85.71 | 42.33 | 54.91 | -8.0E-6 | 7.0E-3 | -1.8E+0
754 | 85.71 | 40.00 | 55.19 | -8.0E-6 | 7.0E-3 | -1.8E+0
755 | 85.71 | 38.37 | 55.64 | -8.0E-6 | 7.0E-3 | -1.8E+0
756 | 85.71 | 12.83 | 55.31 | -8.0E-6 | 7.0E-3 | -1.8E+0
757 | 85.71 | (a) | 55.36 | -8.0E-6 | 7.0E-3 | -1.8E+0
758 | 85.71 | (a) | 55.75 | -8.0E-6 | 7.0E-3 | -1.8E+0
759 | 85.71 | (a) | 55.78 | -8.0E-6 | 7.0E-3 | -1.8E+0
760 | 87.27 | 7.37 | 55.81 | -8.0E-6 | 7.0E-3 | -1.8E+0
761 | 89.33 | 19.74 | 55.85 | -8.0E-6 | 7.0E-3 | -1.8E+0
762 | 91.07 | 11.83 | 55.86 | -8.0E-6 | 7.0E-3 | -1.8E+0
763 | 91.07 | 26.81 | 55.84 | -8.0E-6 | 7.0E-3 | -1.8E+0
764 | 91.96 | 49.96 | 55.81 | -8.0E-6 | 7.0E-3 | -1.8E+0
765 | 92.86 | 60.00 | 55.78 | -8.0E-6 | 7.0E-3 | -1.8E+0
766 | 91.40 | 60.00 | 55.74 | -8.0E-6 | 7.0E-3 | -1.8E+0
767 | 92.80 | 60.00 | 56.19 | -8.0E-6 | 7.0E-3 | -1.8E+0
768 | 92.86 | 40.00 | 57.13 | -8.0E-6 | 7.0E-3 | -1.8E+0
769 | 92.86 | 25.75 | 57.59 | -8.0E-6 | 7.0E-3 | -1.8E+0
770 | 92.07 | (a) | 57.55 | -8.0E-6 | 7.0E-3 | -1.8E+0
771 | 90.00 | (a) | 57.52 | -8.0E-6 | 7.0E-3 | -1.8E+0
772 | 89.29 | (a) | 57.53 | -8.0E-6 | 7.0E-3 | -1.8E+0
773 | 90.92 | 44.88 | 57.58 | -8.0E-6 | 7.0E-3 | -1.8E+0
774 | 91.07 | 36.40 | 57.63 | -8.3E-6 | 7.3E-3 | -1.8E+0
775 | 91.07 | (a) | 57.64 | -8.5E-6 | 7.6E-3 | -1.8E+0
776 | 91.07 | (a) | 58.11 | -8.8E-6 | 7.8E-3 | -1.8E+0
777 | 90.10 | (a) | 58.52 | -8.8E-6 | 7.8E-3 | -1.8E+0
778 | 90.54 | (a) | 58.38 | -8.8E-6 | 7.8E-3 | -1.8E+0
779 | 89.54 | (a) | 58.24 | -8.8E-6 | 7.8E-3 | -1.8E+0
780 | 87.47 | (a) | 58.10 | -8.8E-6 | 7.8E-3 | -1.8E+0
781 | 85.71 | (a) | 57.96 | -8.8E-6 | 7.8E-3 | -1.8E+0
782 | 85.71 | 10.00 | 57.81 | -8.8E-6 | 7.8E-3 | -1.8E+0
783 | 85.71 | 0.23 | 57.67 | -8.8E-6 | 7.8E-3 | -1.8E+0
784 | 85.71 | (a) | 57.66 | -8.8E-6 | 7.8E-3 | -1.8E+0
785 | 85.71 | (a) | 57.89 | -8.8E-6 | 7.8E-3 | -1.8E+0
786 | 84.00 | (a) | 58.03 | -8.8E-6 | 7.8E-3 | -1.8E+0
787 | 69.64 | (a) | 57.99 | -8.8E-6 | 7.8E-3 | -1.8E+0
788 | 69.15 | (a) | 57.96 | -8.8E-6 | 7.8E-3 | -1.8E+0
789 | 63.99 | 28.96 | 57.93 | -8.8E-6 | 7.8E-3 | -1.8E+0
790 | 59.98 | 80.00 | 57.89 | -8.8E-6 | 7.8E-3 | -1.8E+0
791 | 59.38 | 87.48 | 57.85 | -8.8E-6 | 7.8E-3 | -1.8E+0
792 | 63.78 | 90.00 | 57.80 | -8.8E-6 | 7.8E-3 | -1.8E+0
793 | 66.19 | 90.00 | 57.72 | -8.8E-6 | 7.8E-3 | -1.8E+0
794 | 67.46 | 92.20 | 57.65 | -8.8E-6 | 7.8E-3 | -1.8E+0
795 | 66.74 | 100.00 | 57.57 | -8.8E-6 | 7.8E-3 | -1.8E+0
796 | 68.81 | 94.65 | 57.50 | -8.8E-6 | 7.8E-3 | -1.8E+0
797 | 70.88 | 83.08 | 57.80 | -8.8E-6 | 7.8E-3 | -1.8E+0
798 | 71.43 | 71.51 | 58.72 | -8.8E-6 | 7.8E-3 | -1.8E+0
799 | 71.44 | 69.93 | 59.25 | -7.5E-6 | 6.5E-3 | -1.0E+0
800 | 73.51 | 58.36 | 59.19 | -6.2E-6 | 5.2E-3 | -220.9E-3
801 | 75.00 | 50.00 | 59.16 | -4.9E-6 | 3.9E-3 | 572.0E-3
802 | 75.00 | 59.58 | 59.15 | -4.9E-6 | 3.9E-3 | 572.0E-3
803 | 75.00 | 76.36 | 59.15 | -4.9E-6 | 3.9E-3 | 572.0E-3
804 | 75.00 | 80.00 | 59.14 | -4.9E-6 | 3.9E-3 | 572.0E-3
805 | 75.00 | 70.49 | 59.14 | -4.9E-6 | 3.9E-3 | 572.0E-3
806 | 73.21 | 80.00 | 59.62 | -4.9E-6 | 3.9E-3 | 572.0E-3
807 | 72.74 | 82.66 | 59.93 | -4.9E-6 | 3.9E-3 | 572.0E-3
808 | 71.43 | 90.00 | 59.42 | -4.9E-6 | 3.9E-3 | 572.0E-3
809 | 69.36 | 90.00 | 59.07 | -4.9E-6 | 3.9E-3 | 572.0E-3
810 | 66.54 | 75.24 | 59.05 | -4.9E-6 | 3.9E-3 | 572.0E-3
811 | 69.27 | 78.96 | 59.03 | -4.9E-6 | 3.9E-3 | 572.0E-3
812 | 73.12 | 80.00 | 59.02 | -4.9E-6 | 3.9E-3 | 572.0E-3
813 | 71.80 | 80.00 | 59.00 | -4.9E-6 | 3.9E-3 | 572.0E-3
814 | 73.21 | 83.68 | 58.99 | -4.9E-6 | 3.9E-3 | 572.0E-3
815 | 74.15 | 79.50 | 58.97 | -4.9E-6 | 3.9E-3 | 572.0E-3
816 | 75.00 | 70.00 | 58.96 | -4.9E-6 | 3.9E-3 | 572.0E-3
817 | 75.00 | 61.60 | 58.95 | -4.9E-6 | 3.9E-3 | 572.0E-3
818 | 75.00 | 50.03 | 58.94 | -4.9E-6 | 3.9E-3 | 572.0E-3
819 | 76.79 | 60.00 | 58.93 | -4.9E-6 | 3.9E-3 | 572.0E-3
820 | 76.79 | 60.00 | 58.93 | -4.9E-6 | 3.9E-3 | 572.0E-3
821 | 76.79 | 69.39 | 59.38 | -4.9E-6 | 3.9E-3 | 572.0E-3
822 | 79.03 | 73.73 | 59.87 | -4.9E-6 | 3.9E-3 | 572.0E-3
823 | 78.96 | 70.00 | 59.91 | -4.9E-6 | 3.9E-3 | 572.0E-3
824 | 78.57 | 70.00 | 59.90 | -4.9E-6 | 3.9E-3 | 572.0E-3
825 | 83.93 | 70.99 | 59.89 | -4.9E-6 | 3.9E-3 | 572.0E-3
826 | 84.38 | 80.00 | 59.88 | -4.9E-6 | 3.9E-3 | 572.0E-3
827 | 84.97 | 80.00 | 59.88 | -4.9E-6 | 3.9E-3 | 572.0E-3
828 | 84.95 | 80.00 | 59.87 | -4.9E-6 | 3.9E-3 | 572.0E-3
829 | 84.41 | 80.00 | 59.86 | -5.0E-6 | 4.0E-3 | 657.0E-3
830 | 83.93 | 80.00 | 59.85 | -5.2E-6 | 4.1E-3 | 742.0E-3
831 | 83.93 | 77.89 | 59.84 | -5.4E-6 | 4.2E-3 | 827.0E-3
832 | 83.93 | 31.99 | 60.25 | -5.4E-6 | 4.2E-3 | 827.0E-3
833 | 83.93 | 43.57 | 60.73 | -5.4E-6 | 4.2E-3 | 827.0E-3
834 | 83.93 | 60.28 | 60.80 | -5.4E-6 | 4.2E-3 | 827.0E-3
835 | 83.93 | 63.29 | 60.81 | -5.4E-6 | 4.2E-3 | 827.0E-3
836 | 83.93 | 76.57 | 60.81 | -5.4E-6 | 4.2E-3 | 827.0E-3
837 | 83.93 | 89.86 | 60.81 | -5.4E-6 | 4.2E-3 | 827.0E-3
838 | 84.19 | 90.00 | 60.80 | -5.4E-6 | 4.2E-3 | 827.0E-3
839 | 87.32 | 87.00 | 60.79 | -5.4E-6 | 4.2E-3 | 827.0E-3
840 | 91.88 | 80.00 | 60.78 | -5.4E-6 | 4.2E-3 | 827.0E-3
841 | 92.86 | 73.85 | 60.77 | -5.4E-6 | 4.2E-3 | 827.0E-3
842 | 92.86 | 62.28 | 60.34 | -5.4E-6 | 4.2E-3 | 827.0E-3
843 | 92.86 | 69.29 | 59.34 | -5.4E-6 | 4.2E-3 | 827.0E-3
844 | 94.64 | 70.00 | 58.76 | -5.4E-6 | 4.2E-3 | 827.0E-3
845 | 94.64 | 62.70 | 58.76 | -5.4E-6 | 4.2E-3 | 827.0E-3
846 | 94.64 | 40.00 | 58.75 | -5.4E-6 | 4.2E-3 | 827.0E-3
847 | 93.64 | 40.00 | 58.75 | -5.4E-6 | 4.2E-3 | 827.0E-3
848 | 92.86 | 32.85 | 58.57 | -5.4E-6 | 4.2E-3 | 827.0E-3
849 | 92.86 | 30.00 | 58.08 | -6.3E-6 | 5.0E-3 | 149.3E-3
850 | 92.86 | 0.30 | 57.77 | -7.2E-6 | 5.8E-3 | -528.4E-3
851 | 92.53 | 11.87 | 57.78 | -8.1E-6 | 6.6E-3 | -1.2E+0
852 | 89.84 | 13.12 | 57.80 | -8.1E-6 | 6.6E-3 | -1.2E+0
853 | 87.50 | 5.01 | 57.82 | -8.1E-6 | 6.6E-3 | -1.2E+0
854 | 86.32 | 10.00 | 57.84 | -8.1E-6 | 6.6E-3 | -1.2E+0
855 | 85.71 | (a) | 57.86 | -8.1E-6 | 6.6E-3 | -1.2E+0
856 | 85.71 | (a) | 57.88 | -8.1E-6 | 6.6E-3 | -1.2E+0
857 | 85.71 | (a) | 57.99 | -8.1E-6 | 6.6E-3 | -1.2E+0
858 | 85.21 | (a) | 58.19 | -8.1E-6 | 6.6E-3 | -1.2E+0
859 | 83.93 | (a) | 58.39 | -8.1E-6 | 6.6E-3 | -1.2E+0
860 | 83.93 | (a) | 58.59 | -8.1E-6 | 6.6E-3 | -1.2E+0
861 | 85.29 | 5.18 | 58.79 | -8.1E-6 | 6.6E-3 | -1.2E+0
862 | 87.35 | (a) | 59.00 | -8.1E-6 | 6.6E-3 | -1.2E+0
863 | 87.50 | (a) | 57.32 | -8.1E-6 | 6.6E-3 | -1.2E+0
864 | 87.50 | (a) | 58.15 | -8.1E-6 | 6.6E-3 | -1.2E+0
865 | 86.80 | (a) | 58.57 | -8.1E-6 | 6.6E-3 | -1.2E+0
866 | 85.71 | 6.35 | 58.99 | -8.1E-6 | 6.6E-3 | -1.2E+0
867 | 85.71 | 12.98 | 59.41 | -2.7E-6 | 2.2E-3 | -402.0E-3
868 | 85.71 | 10.00 | 59.38 | 2.7E-6 | -2.2E-3 | 402.0E-3
869 | 85.65 | 10.00 | 58.90 | 8.1E-6 | -6.6E-3 | 1.2E+0
870 | 82.14 | 10.00 | 58.42 | 8.1E-6 | -6.6E-3 | 1.2E+0
871 | 82.14 | 10.00 | 57.46 | 8.1E-6 | -6.6E-3 | 1.2E+0
872 | 83.02 | 14.89 | 55.85 | 8.1E-6 | -6.6E-3 | 1.2E+0
873 | 83.93 | 13.54 | 54.38 | 8.1E-6 | -6.6E-3 | 1.2E+0
874 | 81.06 | 42.12 | 53.19 | 8.1E-6 | -6.6E-3 | 1.2E+0
875 | 78.64 | 40.40 | 52.00 | 8.1E-6 | -6.6E-3 | 1.2E+0
876 | 76.99 | 30.00 | 50.80 | 8.1E-6 | -6.6E-3 | 1.2E+0
877 | 78.57 | 32.75 | 49.59 | 8.1E-6 | -6.6E-3 | 1.2E+0
878 | 77.80 | 44.32 | 48.39 | 8.1E-6 | -6.6E-3 | 1.2E+0
879 | 75.73 | 50.00 | 47.07 | 8.1E-6 | -6.6E-3 | 1.2E+0
880 | 73.67 | 50.00 | 45.71 | 8.1E-6 | -6.6E-3 | 1.2E+0
881 | 73.21 | 50.00 | 44.46 | 8.1E-6 | -6.6E-3 | 1.2E+0
882 | 73.32 | 40.00 | 43.27 | 8.1E-6 | -6.6E-3 | 1.2E+0
883 | 74.22 | 35.64 | 42.10 | 8.1E-6 | -6.6E-3 | 1.2E+0
884 | 71.43 | 20.00 | 40.89 | 8.1E-6 | -6.6E-3 | 1.2E+0
885 | 75.23 | 51.95 | 39.61 | 8.1E-6 | -6.6E-3 | 1.2E+0
886 | 77.34 | 66.21 | 38.22 | 8.1E-6 | -6.6E-3 | 1.2E+0
887 | 75.28 | 60.00 | 36.96 | 8.1E-6 | -6.6E-3 | 1.2E+0
888 | 73.21 | 9.96 | 36.06 | 8.1E-6 | -6.6E-3 | 1.2E+0
889 | 70.85 | 1.61 | 35.23 | 8.1E-6 | -6.6E-3 | 1.2E+0
890 | 67.29 | 19.56 | 34.02 | 8.1E-6 | -6.6E-3 | 1.2E+0
891 | 65.22 | 40.00 | 32.37 | 8.1E-6 | -6.6E-3 | 1.2E+0
892 | 63.15 | 8.35 | 30.81 | 8.1E-6 | -6.6E-3 | 1.2E+0
893 | 61.09 | (a) | 29.57 | 8.1E-6 | -6.6E-3 | 1.2E+0
894 | 42.10 | 8.95 | 28.26 | 8.1E-6 | -6.6E-3 | 1.2E+0
895 | 31.96 | 10.00 | 25.94 | 8.1E-6 | -6.6E-3 | 1.2E+0
896 | 29.42 | 7.38 | 23.56 | 8.1E-6 | -6.6E-3 | 1.2E+0
897 | 26.04 | (a) | 22.00 | 8.1E-6 | -6.6E-3 | 1.2E+0
898 | 14.71 | (a) | 19.21 | 8.1E-6 | -6.6E-3 | 1.2E+0
899 | 1.90 | (a) | 16.51 | 8.1E-6 | -6.6E-3 | 1.2E+0
900 | 0 | 0 | 12.12 | 8.1E-6 | -6.6E-3 | 1.2E+0
901 | 0 | 0 | 7.07 | 8.1E-6 | -6.6E-3 | 1.2E+0
902 | 0 | 0 | 2.60 | 8.1E-6 | -6.6E-3 | 1.2E+0
903 | 0 | 0 | 0 | 8.1E-6 | -6.6E-3 | 1.2E+0
904 | 0 | 0 | 0 | 11.0E-6 | -10.7E-3 | 3.0E+0
905 | 0 | 0 | 0 | 14.0E-6 | -14.8E-3 | 4.9E+0
906 | 0 | 0 | 0 | 16.9E-6 | -18.8E-3 | 6.7E+0
907 | 0 | 0 | 0 | 16.9E-6 | -18.8E-3 | 6.7E+0
908 | 0 | 0 | 0 | 16.9E-6 | -18.8E-3 | 6.7E+0
909 | 0 | 0 | 0 | 16.9E-6 | -18.8E-3 | 6.7E+0
910 | 0 | 0 | 0 | 16.9E-6 | -18.8E-3 | 6.7E+0
911 | 0 | 0 | 0 | 16.9E-6 | -18.8E-3 | 6.7E+0
912 | 0 | 0 | 0 | 16.9E-6 | -18.8E-3 | 6.7E+0
913 | 0 | 0 | 0 | 16.9E-6 | -18.8E-3 | 6.7E+0
914 | 0 | 0 | 0 | 16.9E-6 | -18.8E-3 | 6.7E+0
915 | 0 | 0 | 0 | 16.9E-6 | -18.8E-3 | 6.7E+0
916 | 0 | 0 | 0 | 16.9E-6 | -18.8E-3 | 6.7E+0
917 | 0 | 0 | 0 | 16.9E-6 | -18.8E-3 | 6.7E+0
918 | 0 | 0 | 0 | 16.9E-6 | -18.8E-3 | 6.7E+0
919 | 0 | 0 | 0 | 16.9E-6 | -18.8E-3 | 6.7E+0
920 | 0 | 0 | 0 | 16.9E-6 | -18.8E-3 | 6.7E+0
921 | 0 | 0 | 0 | 16.9E-6 | -18.8E-3 | 6.7E+0
922 | 0 | 0 | 0 | 16.9E-6 | -18.8E-3 | 6.7E+0
923 | 0 | 0 | 0 | 16.9E-6 | -18.8E-3 | 6.7E+0
924 | 0 | 0 | 0 | 16.9E-6 | -18.8E-3 | 6.7E+0
925 | 0 | 0 | 0 | 16.9E-6 | -18.8E-3 | 6.7E+0
926 | 0 | 0 | 0 | 16.9E-6 | -18.8E-3 | 6.7E+0
927 | 0 | 3.67 | 0 | 16.9E-6 | -18.8E-3 | 6.7E+0
928 | 0 | 47.69 | 0 | 16.9E-6 | -18.8E-3 | 6.7E+0
929 | 2.78 | 59.41 | 0.33 | 16.9E-6 | -18.8E-3 | 6.7E+0
930 | 8.12 | 84.54 | 1.67 | 16.9E-6 | -18.8E-3 | 6.7E+0
931 | 13.95 | 80.00 | 2.83 | 16.9E-6 | -18.8E-3 | 6.7E+0
932 | 29.90 | 80.00 | 4.02 | 16.9E-6 | -18.8E-3 | 6.7E+0
933 | 33.87 | 79.29 | 5.64 | 16.9E-6 | -18.8E-3 | 6.7E+0
934 | 27.86 | 38.25 | 7.39 | 16.9E-6 | -18.8E-3 | 6.7E+0
935 | 19.63 | 26.67 | 8.83 | 16.9E-6 | -18.8E-3 | 6.7E+0
936 | 26.79 | 15.10 | 9.15 | 16.9E-6 | -18.8E-3 | 6.7E+0
937 | 19.85 | 16.47 | 9.70 | 16.9E-6 | -18.8E-3 | 6.7E+0
938 | 17.51 | 28.05 | 11.37 | 16.9E-6 | -18.8E-3 | 6.7E+0
939 | 17.86 | 20.38 | 13.04 | 16.9E-6 | -18.8E-3 | 6.7E+0
940 | 16.37 | (a) | 14.74 | 16.9E-6 | -18.8E-3 | 6.7E+0
941 | 5.85 | (a) | 16.41 | 16.9E-6 | -18.8E-3 | 6.7E+0
942 | 14.13 | (a) | 16.85 | 16.9E-6 | -18.8E-3 | 6.7E+0
943 | 21.10 | (a) | 16.09 | 16.9E-6 | -18.8E-3 | 6.7E+0
944 | 15.63 | (a) | 15.23 | 16.9E-6 | -18.8E-3 | 6.7E+0
945 | 12.67 | 62.52 | 14.22 | 16.9E-6 | -18.8E-3 | 6.7E+0
946 | 14.86 | 69.36 | 13.02 | 16.9E-6 | -18.8E-3 | 6.7E+0
947 | 24.79 | 60.00 | 12.47 | 16.9E-6 | -18.8E-3 | 6.7E+0
948 | 33.06 | 63.79 | 13.05 | 16.9E-6 | -18.8E-3 | 6.7E+0
949 | 42.29 | 75.36 | 14.26 | 16.9E-6 | -18.8E-3 | 6.7E+0
950 | 48.90 | 80.00 | 15.09 | 16.9E-6 | -18.8E-3 | 6.7E+0
951 | 51.52 | 80.00 | 15.42 | 16.9E-6 | -18.8E-3 | 6.7E+0
952 | 48.24 | 79.92 | 15.96 | 16.9E-6 | -18.8E-3 | 6.7E+0
953 | 51.79 | 65.03 | 16.58 | 16.9E-6 | -18.8E-3 | 6.7E+0
954 | 52.37 | 43.23 | 17.61 | 16.9E-6 | -18.8E-3 | 6.7E+0
955 | 56.14 | 50.00 | 18.33 | 16.9E-6 | -18.8E-3 | 6.7E+0
956 | 62.35 | 50.00 | 18.65 | 16.9E-6 | -18.8E-3 | 6.7E+0
957 | 64.29 | 42.05 | 19.67 | 16.9E-6 | -18.8E-3 | 6.7E+0
958 | 67.69 | 40.00 | 20.47 | 16.9E-6 | -18.8E-3 | 6.7E+0
959 | 75.20 | 42.20 | 20.57 | 16.9E-6 | -18.8E-3 | 6.7E+0
960 | 74.88 | 41.28 | 20.68 | 16.9E-6 | -18.8E-3 | 6.7E+0
961 | 71.92 | (a) | 21.56 | 16.9E-6 | -18.8E-3 | 6.7E+0
962 | 71.88 | (a) | 23.19 | 16.9E-6 | -18.8E-3 | 6.7E+0
963 | 69.64 | (a) | 23.64 | 5.6E-6 | -6.3E-3 | 2.2E+0
964 | 71.24 | (a) | 22.75 | -5.6E-6 | 6.3E-3 | -2.2E+0
965 | 71.72 | 30.54 | 21.81 | -16.9E-6 | 18.8E-3 | -6.7E+0
966 | 76.41 | 42.12 | 20.79 | -16.9E-6 | 18.8E-3 | -6.7E+0
967 | 73.02 | 50.00 | 19.86 | -16.9E-6 | 18.8E-3 | -6.7E+0
968 | 69.64 | 50.00 | 19.18 | -16.9E-6 | 18.8E-3 | -6.7E+0
969 | 72.09 | 43.16 | 18.75 | -16.9E-6 | 18.8E-3 | -6.7E+0
970 | 82.23 | 73.65 | 18.43 | -16.9E-6 | 18.8E-3 | -6.7E+0
971 | 78.58 | (a) | 18.61 | -16.9E-6 | 18.8E-3 | -6.7E+0
972 | 75.00 | (a) | 19.11 | -16.9E-6 | 18.8E-3 | -6.7E+0
973 | 75.00 | (a) | 18.76 | -16.9E-6 | 18.8E-3 | -6.7E+0
974 | 72.47 | (a) | 17.68 | -16.9E-6 | 18.8E-3 | -6.7E+0
975 | 62.91 | (a) | 16.46 | -16.9E-6 | 18.8E-3 | -6.7E+0
976 | 58.93 | 13.57 | 15.06 | -16.9E-6 | 18.8E-3 | -6.7E+0
977 | 55.56 | 29.43 | 13.41 | -16.9E-6 | 18.8E-3 | -6.7E+0
978 | 57.14 | 20.00 | 11.91 | -16.9E-6 | 18.8E-3 | -6.7E+0
979 | 56.68 | 17.42 | 11.09 | -16.9E-6 | 18.8E-3 | -6.7E+0
980 | 53.88 | 10.00 | 10.90 | -16.9E-6 | 18.8E-3 | -6.7E+0
981 | 50.76 | 10.00 | 11.40 | -16.9E-6 | 18.8E-3 | -6.7E+0
982 | 50.00 | (a) | 12.38 | -16.9E-6 | 18.8E-3 | -6.7E+0
983 | 46.83 | (a) | 13.02 | -16.9E-6 | 18.8E-3 | -6.7E+0
984 | 35.63 | 10.00 | 12.30 | -16.9E-6 | 18.8E-3 | -6.7E+0
985 | 32.48 | 10.00 | 10.32 | -16.9E-6 | 18.8E-3 | -6.7E+0
986 | 26.79 | 10.00 | 9.70 | -16.9E-6 | 18.8E-3 | -6.7E+0
987 | 24.94 | 10.00 | 11.05 | -16.9E-6 | 18.8E-3 | -6.7E+0
988 | 23.21 | 16.74 | 11.88 | -16.9E-6 | 18.8E-3 | -6.7E+0
989 | 24.70 | 3.36 | 12.21 | -16.9E-6 | 18.8E-3 | -6.7E+0
990 | 25.00 | (a) | 13.29 | -16.9E-6 | 18.8E-3 | -6.7E+0
991 | 24.47 | (a) | 13.73 | -16.9E-6 | 18.8E-3 | -6.7E+0
992 | 18.71 | (a) | 12.77 | -16.9E-6 | 18.8E-3 | -6.7E+0
993 | 10.85 | (a) | 11.46 | -16.9E-6 | 18.8E-3 | -6.7E+0
994 | 3.40 | (a) | 9.84 | -16.9E-6 | 18.8E-3 | -6.7E+0
995 | 0 | 0 | 7.62 | -16.9E-6 | 18.8E-3 | -6.7E+0
996 | 0 | 0 | 3.57 | -16.9E-6 | 18.8E-3 | -6.7E+0
997 | 0 | 0.91 | 1.33 | -16.9E-6 | 18.8E-3 | -6.7E+0
998 | 0 | 7.52 | 0 | -16.9E-6 | 18.8E-3 | -6.7E+0
999 | 0 | 0 | 0 | -16.9E-6 | 18.8E-3 | -6.7E+0
1,000 | 0 | 0 | 0 | -4.1E-6 | 5.5E-3 | -3.8E+0
1,001 | 0 | 0 | 0 | 8.7E-6 | -7.9E-3 | -814.6E-3
1,002 | 0 | 0 | 0 | 21.5E-6 | -21.2E-3 | 2.1E+0
1,003 | 0 | 0 | 0 | 21.5E-6 | -21.2E-3 | 2.1E+0
1,004 | 0 | 0 | 0 | 21.5E-6 | -21.2E-3 | 2.1E+0
1,005 | 0 | 0 | 0 | 21.5E-6 | -21.2E-3 | 2.1E+0
1,006 | 0 | 0 | 0 | 21.5E-6 | -21.2E-3 | 2.1E+0
1,007 | 0 | 0 | 0 | 21.5E-6 | -21.2E-3 | 2.1E+0
1,008 | 0 | 0 | 0 | 21.5E-6 | -21.2E-3 | 2.1E+0
1,009 | 0 | 0 | 0 | 21.5E-6 | -21.2E-3 | 2.1E+0
1,010 | 0 | 0 | 0 | 21.5E-6 | -21.2E-3 | 2.1E+0
1,011 | 0 | 0 | 0 | 21.5E-6 | -21.2E-3 | 2.1E+0
1,012 | 0 | 0 | 0 | 21.5E-6 | -21.2E-3 | 2.1E+0
1,013 | 0 | 0 | 0 | 21.5E-6 | -21.2E-3 | 2.1E+0
1,014 | 0 | 0 | 0 | 21.5E-6 | -21.2E-3 | 2.1E+0
1,015 | 0 | 0 | 0 | 21.5E-6 | -21.2E-3 | 2.1E+0
1,016 | 0 | 0 | 0 | 21.5E-6 | -21.2E-3 | 2.1E+0
1,017 | 0 | 0 | 0 | 21.5E-6 | -21.2E-3 | 2.1E+0
1,018 | 0 | 0 | 0 | 21.5E-6 | -21.2E-3 | 2.1E+0
1,019 | 0 | 0 | 0 | 21.5E-6 | -21.2E-3 | 2.1E+0
1,020 | 0 | 0 | 0 | 21.5E-6 | -21.2E-3 | 2.1E+0
1,021 | 0 | 0 | 0 | 21.5E-6 | -21.2E-3 | 2.1E+0
1,022 | 0 | 0 | 0 | 21.5E-6 | -21.2E-3 | 2.1E+0
1,023 | 0 | 0 | 0 | 21.5E-6 | -21.2E-3 | 2.1E+0
1,024 | 0 | 0 | 0 | 21.5E-6 | -21.2E-3 | 2.1E+0
1,025 | 0 | 0 | 0 | 21.5E-6 | -21.2E-3 | 2.1E+0
1,026 | 0 | 0 | 0 | 21.5E-6 | -21.2E-3 | 2.1E+0
1,027 | 0 | 0 | 0 | 21.5E-6 | -21.2E-3 | 2.1E+0
1,028 | 0 | 0 | 0 | 21.5E-6 | -21.2E-3 | 2.1E+0
1,029 | 0 | 0 | 0 | 21.5E-6 | -21.2E-3 | 2.1E+0
1,030 | 0 | 0 | 0 | 21.5E-6 | -21.2E-3 | 2.1E+0
1,031 | 1.58 | (a) | 0 | 21.5E-6 | -21.2E-3 | 2.1E+0
1,032 | 1.43 | (a) | 0 | 21.5E-6 | -21.2E-3 | 2.1E+0
1,033 | 0 | 0 | 0 | 21.5E-6 | -21.2E-3 | 2.1E+0
1,034 | 0 | 0 | 0 | 21.5E-6 | -21.2E-3 | 2.1E+0
1,035 | 1.91 | 9.28 | 0 | 21.5E-6 | -21.2E-3 | 2.1E+0
1,036 | 2.75 | 0 | 0 | 21.5E-6 | -21.2E-3 | 2.1E+0
1,037 | 0 | 0 | 0 | 21.5E-6 | -21.2E-3 | 2.1E+0
1,038 | 0 | 0 | 0 | 21.5E-6 | -21.2E-3 | 2.1E+0
1,039 | 0 | 0 | 0 | 21.5E-6 | -21.2E-3 | 2.1E+0
1,040 | 0 | 0 | 0 | 21.5E-6 | -21.2E-3 | 2.1E+0
1,041 | 0 | 0 | 0 | 21.5E-6 | -21.2E-3 | 2.1E+0
1,042 | 0 | 0 | 0 | 21.5E-6 | -21.2E-3 | 2.1E+0
1,043 | 0 | 0 | 0 | 21.5E-6 | -21.2E-3 | 2.1E+0
1,044 | 0 | 0 | 0 | 21.5E-6 | -21.2E-3 | 2.1E+0
1,045 | 0 | 0 | 0 | 21.5E-6 | -21.2E-3 | 2.1E+0
1,046 | 0 | 0 | 0 | 21.5E-6 | -21.2E-3 | 2.1E+0
1,047 | 0 | 0 | 0 | 21.5E-6 | -21.2E-3 | 2.1E+0
1,048 | 0 | 0 | 0 | 21.5E-6 | -21.2E-3 | 2.1E+0
1,049 | 0 | 5.51 | 0 | 21.5E-6 | -21.2E-3 | 2.1E+0
1,050 | 0 | 11.34 | 0 | 21.5E-6 | -21.2E-3 | 2.1E+0
1,051 | 0 | 0 | 0 | 21.5E-6 | -21.2E-3 | 2.1E+0
1,052 | 0 | 0 | 0 | 21.5E-6 | -21.2E-3 | 2.1E+0
1,053 | 0 | 0 | 0 | 21.5E-6 | -21.2E-3 | 2.1E+0
1,054 | 0 | 0 | 0 | 21.5E-6 | -21.2E-3 | 2.1E+0
1,055 | 0 | 0 | 0 | 21.5E-6 | -21.2E-3 | 2.1E+0
1,056 | 0 | 0 | 0 | 21.5E-6 | -21.2E-3 | 2.1E+0
1,057 | 0 | 0 | 0 | 21.5E-6 | -21.2E-3 | 2.1E+0
1,058 | 0 | 0 | 0 | 21.5E-6 | -21.2E-3 | 2.1E+0
1,059 | 0 | 0 | 0 | 21.5E-6 | -21.2E-3 | 2.1E+0
1,060 | 0 | 0.21 | 0 | 21.5E-6 | -21.2E-3 | 2.1E+0
1,061 | 0 | 30.00 | 0 | 21.5E-6 | -21.2E-3 | 2.1E+0
1,062 | 0 | 26.78 | 0 | 21.5E-6 | -21.2E-3 | 2.1E+0
1,063 | 0 | 20.00 | 0 | 21.5E-6 | -21.2E-3 | 2.1E+0
1,064 | 0 | 20.00 | 0 | 21.5E-6 | -21.2E-3 | 2.1E+0
1,065 | 0 | 4.12 | 0 | 21.5E-6 | -21.2E-3 | 2.1E+0
1,066 | 0 | 0 | 0 | 21.5E-6 | -21.2E-3 | 2.1E+0
1,067 | 0 | 0 | 0 | 21.5E-6 | -21.2E-3 | 2.1E+0
1,068 | 0 | 0 | 0 | 21.5E-6 | -21.2E-3 | 2.1E+0
1,069 | 0 | 0 | 0 | 21.5E-6 | -21.2E-3 | 2.1E+0
1,070 | 0 | 0 | 0 | 21.5E-6 | -21.2E-3 | 2.1E+0
1,071 | 0 | 0 | 0 | 21.5E-6 | -21.2E-3 | 2.1E+0
1,072 | 0 | 0 | 0 | 21.5E-6 | -21.2E-3 | 2.1E+0
1,073 | 0 | 0 | 0 | 21.5E-6 | -21.2E-3 | 2.1E+0
1,074 | 0 | 0 | 0 | 21.5E-6 | -21.2E-3 | 2.1E+0
1,075 | 0 | 0 | 0 | 21.5E-6 | -21.2E-3 | 2.1E+0
1,076 | 0 | 0 | 0 | 21.5E-6 | -21.2E-3 | 2.1E+0
1,077 | 0 | 0 | 0 | 21.5E-6 | -21.2E-3 | 2.1E+0
1,078 | 0 | 0 | 0 | 21.5E-6 | -21.2E-3 | 2.1E+0
1,079 | 0 | 0 | 0 | 21.5E-6 | -21.2E-3 | 2.1E+0
1,080 | 0 | 0 | 0 | 21.5E-6 | -21.2E-3 | 2.1E+0
1,081 | 0 | 0 | 0 | 21.5E-6 | -21.2E-3 | 2.1E+0
1,082 | 0 | 0 | 0 | 21.5E-6 | -21.2E-3 | 2.1E+0
1,083 | 0 | 0 | 0 | 21.5E-6 | -21.2E-3 | 2.1E+0
1,084 | 0 | 0 | 0 | 21.5E-6 | -21.2E-3 | 2.1E+0
1,085 | 0 | 0 | 0 | 21.5E-6 | -21.2E-3 | 2.1E+0
1,086 | 0 | 20.00 | 0 | 21.5E-6 | -21.2E-3 | 2.1E+0
1,087 | 0 | 20.00 | 0 | 21.5E-6 | -21.2E-3 | 2.1E+0
1,088 | 0 | 11.73 | 0 | 21.5E-6 | -21.2E-3 | 2.1E+0
1,089 | 0 | 0 | 0 | 21.5E-6 | -21.2E-3 | 2.1E+0
1,090 | 0 | 0 | 0 | 21.5E-6 | -21.2E-3 | 2.1E+0
1,091 | 0 | 0 | 0 | 21.5E-6 | -21.2E-3 | 2.1E+0
1,092 | 0 | 0 | 0 | 21.5E-6 | -21.2E-3 | 2.1E+0
1,093 | 0 | 0 | 0 | 21.5E-6 | -21.2E-3 | 2.1E+0
1,094 | 0 | 0 | 0 | 21.5E-6 | -21.2E-3 | 2.1E+0
1,095 | 0 | 0 | 0 | 21.5E-6 | -21.2E-3 | 2.1E+0
1,096 | 0 | 0 | 0 | 21.5E-6 | -21.2E-3 | 2.1E+0
1,097 | 0 | 0 | 0 | 21.5E-6 | -21.2E-3 | 2.1E+0
1,098 | 0 | 0 | 0 | 21.5E-6 | -21.2E-3 | 2.1E+0
1,099 | 0 | 0 | 0 | 21.5E-6 | -21.2E-3 | 2.1E+0
1,100 | 0 | 0 | 0 | 21.5E-6 | -21.2E-3 | 2.1E+0
1,101 | 0 | 0 | 0 | 21.5E-6 | -21.2E-3 | 2.1E+0
1,102 | 0 | 0 | 0 | 21.5E-6 | -21.2E-3 | 2.1E+0
1,103 | 0 | 0 | 0 | 21.5E-6 | -21.2E-3 | 2.1E+0
1,104 | 0 | 0 | 0 | 21.5E-6 | -21.2E-3 | 2.1E+0
1,105 | 0 | 0 | 0 | 21.5E-6 | -21.2E-3 | 2.1E+0
1,106 | 0 | 0 | 0 | 21.5E-6 | -21.2E-3 | 2.1E+0
1,107 | 0 | 0 | 0 | 21.5E-6 | -21.2E-3 | 2.1E+0
1,108 | 0 | 0 | 0 | 21.5E-6 | -21.2E-3 | 2.1E+0
1,109 | 0 | 0 | 0 | 21.5E-6 | -21.2E-3 | 2.1E+0
1,110 | 0 | 0 | 0 | 21.5E-6 | -21.2E-3 | 2.1E+0
1,111 | 0 | 0 | 0 | 21.5E-6 | -21.2E-3 | 2.1E+0
1,112 | 0 | 0 | 0 | 21.5E-6 | -21.2E-3 | 2.1E+0
1,113 | 0 | 0 | 0 | 21.5E-6 | -21.2E-3 | 2.1E+0
1,114 | 0 | 0 | 0 | 21.5E-6 | -21.2E-3 | 2.1E+0
1,115 | 0 | 0 | 0 | 21.5E-6 | -21.2E-3 | 2.1E+0
1,116 | 0 | 73.41 | 0 | 21.5E-6 | -21.2E-3 | 2.1E+0
1,117 | 0 | 90.00 | 0 | 21.5E-6 | -21.2E-3 | 2.1E+0
1,118 | 27.95 | 81.30 | 2.83 | 21.5E-6 | -21.2E-3 | 2.1E+0
1,119 | 36.74 | 90.00 | 5.87 | 21.5E-6 | -21.2E-3 | 2.1E+0
1,120 | 39.29 | 90.00 | 8.67 | 21.5E-6 | -21.2E-3 | 2.1E+0
1,121 | 41.44 | 90.00 | 11.47 | 21.5E-6 | -21.2E-3 | 2.1E+0
1,122 | 45.57 | 82.41 | 14.26 | 21.5E-6 | -21.2E-3 | 2.1E+0
1,123 | 59.52 | 80.00 | 16.91 | 21.5E-6 | -21.2E-3 | 2.1E+0
1,124 | 66.99 | 90.00 | 18.33 | 21.5E-6 | -21.2E-3 | 2.1E+0
1,125 | 80.22 | 90.00 | 19.35 | 21.5E-6 | -21.2E-3 | 2.1E+0
1,126 | 86.41 | 93.88 | 21.55 | 21.5E-6 | -21.2E-3 | 2.1E+0
1,127 | 86.53 | 50.94 | 24.84 | 21.5E-6 | -21.2E-3 | 2.1E+0
1,128 | 84.46 | 17.02 | 26.81 | 21.5E-6 | -21.2E-3 | 2.1E+0
1,129 | 88.54 | 28.60 | 28.36 | 16.8E-6 | -16.9E-3 | 2.2E+0
1,130 | 89.29 | 39.83 | 30.31 | 12.1E-6 | -12.5E-3 | 2.2E+0
1,131 | 89.29 | 30.00 | 30.82 | 7.4E-6 | -8.1E-3 | 2.3E+0
1,132 | 89.29 | 26.69 | 30.86 | 7.4E-6 | -8.1E-3 | 2.3E+0
1,133 | 90.16 | 20.00 | 31.82 | 7.4E-6 | -8.1E-3 | 2.3E+0
1,134 | 89.92 | 20.00 | 33.33 | 7.4E-6 | -8.1E-3 | 2.3E+0
1,135 | 89.29 | 36.06 | 34.20 | 7.4E-6 | -8.1E-3 | 2.3E+0
1,136 | 85.86 | 40.00 | 33.82 | 7.4E-6 | -8.1E-3 | 2.3E+0
1,137 | 85.51 | 30.00 | 33.51 | 7.4E-6 | -8.1E-3 | 2.3E+0
1,138 | 84.42 | 32.75 | 33.87 | 7.4E-6 | -8.1E-3 | 2.3E+0
1,139 | 86.48 | 35.68 | 34.70 | 7.4E-6 | -8.1E-3 | 2.3E+0
1,140 | 88.55 | 30.00 | 36.14 | 7.4E-6 | -8.1E-3 | 2.3E+0
1,141 | 89.29 | 44.93 | 37.60 | 7.4E-6 | -8.1E-3 | 2.3E+0
1,142 | 90.90 | 50.00 | 38.09 | 7.4E-6 | -8.1E-3 | 2.3E+0
1,143 | 77.27 | (a) | 38.13 | 2.5E-6 | -2.7E-3 | 766.4E-3
1,144 | 56.75 | (a) | 38.05 | -2.5E-6 | 2.7E-3 | -766.4E-3
1,145 | 50.00 | (a) | 37.47 | -7.4E-6 | 8.1E-3 | -2.3E+0
1,146 | 41.07 | (a) | 36.69 | -7.4E-6 | 8.1E-3 | -2.3E+0
1,147 | 37.38 | 45.18 | 35.89 | -7.4E-6 | 8.1E-3 | -2.3E+0
1,148 | 34.21 | 78.47 | 35.06 | -7.4E-6 | 8.1E-3 | -2.3E+0
1,149 | 32.13 | 80.00 | 34.63 | -7.4E-6 | 8.1E-3 | -2.3E+0
1,150 | 27.71 | 80.00 | 34.13 | -7.4E-6 | 8.1E-3 | -2.3E+0
1,151 | 22.64 | 80.00 | 33.15 | -7.4E-6 | 8.1E-3 | -2.3E+0
1,152 | 20.58 | 60.97 | 32.12 | -7.4E-6 | 8.1E-3 | -2.3E+0
1,153 | 16.25 | 27.34 | 31.02 | -7.4E-6 | 8.1E-3 | -2.3E+0
1,154 | 11.46 | 43.71 | 29.82 | -7.4E-6 | 8.1E-3 | -2.3E+0
1,155 | 9.02 | 68.95 | 28.41 | -7.4E-6 | 8.1E-3 | -2.3E+0
1,156 | 3.38 | 68.95 | 26.91 | -7.4E-6 | 8.1E-3 | -2.3E+0
1,157 | 1.32 | 44.28 | 25.53 | -7.4E-6 | 8.1E-3 | -2.3E+0
1,158 | 0 | 0 | 24.21 | -7.4E-6 | 8.1E-3 | -2.3E+0
1,159 | 0 | 0 | 22.88 | -7.4E-6 | 8.1E-3 | -2.3E+0
1,160 | 0 | 0 | 18.40 | -7.4E-6 | 8.1E-3 | -2.3E+0
1,161 | 0 | 0 | 13.93 | -7.4E-6 | 8.1E-3 | -2.3E+0
1,162 | 0 | 0 | 9.45 | -7.4E-6 | 8.1E-3 | -2.3E+0
1,163 | 0 | 0 | 4.98 | -7.4E-6 | 8.1E-3 | -2.3E+0
1,164 | 0 | 0 | 0.50 | -4.9E-6 | 5.4E-3 | -1.5E+0
1,165 | 0 | 24.97 | 0 | -2.5E-6 | 2.7E-3 | -766.4E-3
1,166 | 0 | 17.16 | 0 | 0 | 0 | 0
1,167 | 0 | 6.20 | 0 | 0 | 0 | 0
1,168 | 0 | 10.00 | 0 | 0 | 0 | 0
1,169 | 0 | 10.00 | 0 | 0 | 0 | 0
1,170 | 0 | 0 | 0 | 0 | 0 | 0
1,171 | 0 | 0 | 0 | 0 | 0 | 0
1,172 | 0 | 0 | 0 | 0 | 0 | 0
1,173 | 0 | 0 | 0 | 0 | 0 | 0
1,174 | 0 | 0 | 0 | 0 | 0 | 0
1,175 | 0 | 0 | 0 | 0 | 0 | 0
1,176 | 0 | 0 | 0 | 0 | 0 | 0
1,177 | 0 | 0 | 0 | 0 | 0 | 0
1,178 | 0 | 0 | 0 | 0 | 0 | 0
1,179 | 0 | 0 | 0 | 0 | 0 | 0
1,180 | 0 | 0 | 0 | 0 | 0 | 0
1,181 | 0 | 0 | 0 | 0 | 0 | 0
1,182 | 0 | 0 | 0 | 0 | 0 | 0
1,183 | 0 | 0 | 0 | 0 | 0 | 0
1,184 | 0 | 0 | 0 | 0 | 0 | 0
1,185 | 0 | 0 | 0 | 0 | 0 | 0
1,186 | 0 | 0 | 0 | 0 | 0 | 0
1,187 | 0 | 0 | 0 | 0 | 0 | 0
1,188 | 0 | 0 | 0 | 0 | 0 | 0
1,189 | 0 | 0 | 0 | 0 | 0 | 0
1,190 | 0 | 0 | 0 | 0 | 0 | 0
1,191 | 0 | 0 | 0 | 0 | 0 | 0
1,192 | 0 | 0 | 0 | 0 | 0 | 0
1,193 | 0 | 0 | 0 | 0 | 0 | 0
1,194 | 0 | 0 | 0 | 0 | 0 | 0
1,195 | 0 | 0 | 0 | 0 | 0 | 0
1,196 | 0 | 0 | 0 | 0 | 0 | 0
1,197 | 0 | 0 | 0 | 0 | 0 | 0
1,198 | 0 | 0 | 0 | 0 | 0 | 0
1,199 | 0 | 0 | 0 | 0 | 0 | 0
a Closed throttle motoring.

PART 1037—CONTROL OF EMISSIONS FROM NEW HEAVY-DUTY MOTOR VEHICLES

124. The authority statement for part 1037 continues to read as follows:

Authority: 42 U.S.C. 7401-7671q.

125. Amend § 1037.103 by revising paragraph (c) to read as follows:

§ 1037.103 Evaporative and refueling emission standards.

* * * * *

(c) Compliance demonstration. You may provide a statement in the application for certification that vehicles above 14,000 pounds GVWR comply with evaporative and refueling emission standards instead of submitting test data if you include an engineering analysis describing how vehicles include design parameters, equipment, operating controls, or other elements of design that adequately demonstrate that vehicles comply with the standards throughout the useful life. We would expect emission control components and systems to exhibit a comparable degree of control relative to vehicles that comply based on testing. For example, vehicles that comply under this paragraph (c) should rely on comparable material specifications to limit fuel permeation, and components should be sized and calibrated to correspond with the appropriate fuel capacities, fuel flow rates, purge strategies, and other vehicle operating characteristics. You may alternatively show that design parameters are comparable to those for vehicles at or below 14,000 pounds GVWR certified under 40 CFR part 86, subpart S.

* * * * *

126. Amend § 1037.105 by revising the section heading and paragraph (h)(1) to read as follows:

§ 1037.105 CO2 emission standards for vocational vehicles.

* * * * *

(h) * * *

(1) The following alternative emission standards apply by vehicle type and model year as follows:

Table 5 of § 1037.105—Phase 2 Custom Chassis Standards
[g/ton-mile]
Vehicle type ᵃ | Assigned vehicle service class | MY 2021-2026 | MY 2027+
School bus | Medium HDV | 291 | 271
Motor home | Medium HDV | 228 | 226
Coach bus | Heavy HDV | 210 | 205
Other bus | Heavy HDV | 300 | 286
Refuse hauler | Heavy HDV | 313 | 298
Concrete mixer | Heavy HDV | 319 | 316
Mixed-use vehicle | Heavy HDV | 319 | 316
Emergency vehicle | Heavy HDV | 324 | 319
ᵃ Vehicle types are generally defined in § 1037.801. “Other bus” includes any bus that is not a school bus or a coach bus. A “mixed-use vehicle” is one that meets at least one of the criteria specified in § 1037.631(a)(1) and at least one of the criteria in § 1037.631(a)(2), but not both.

* * * * *

127. Amend § 1037.106 by revising paragraph (b) to read as follows:

§ 1037.106 Exhaust emission standards for tractors above 26,000 pounds GVWR.

* * * * *

(b) The CO2 standards for tractors above 26,000 pounds GVWR in Table 1 of this section apply based on modeling and testing as described in subpart F of this part. The provisions of § 1037.241 specify how to comply with these standards.

Table 1 of § 1037.106—CO2 Standards for Class 7 and Class 8 Tractors by Model Year
[g/ton-mile]
Subcategory ᵃ | Phase 1 standards for model years 2014-2016 | Phase 1 standards for model years 2017-2020 | Phase 2 standards for model years 2021-2023 | Phase 2 standards for model years 2024-2026 | Phase 2 standards for model year 2027 and later
Class 7 Low-Roof (all cab styles) | 107 | 104 | 105.5 | 99.8 | 96.2
Class 7 Mid-Roof (all cab styles) | 119 | 115 | 113.2 | 107.1 | 103.4
Class 7 High-Roof (all cab styles) | 124 | 120 | 113.5 | 106.6 | 100.0
Class 8 Low-Roof Day Cab | 81 | 80 | 80.5 | 76.2 | 73.4
Class 8 Low-Roof Sleeper Cab | 68 | 66 | 72.3 | 68.0 | 64.1
Class 8 Mid-Roof Day Cab | 88 | 86 | 85.4 | 80.9 | 78.0
Class 8 Mid-Roof Sleeper Cab | 76 | 73 | 78.0 | 73.5 | 69.6
Class 8 High-Roof Day Cab | 92 | 89 | 85.6 | 80.4 | 75.7
Class 8 High-Roof Sleeper Cab | 75 | 72 | 75.7 | 70.7 | 64.3
Heavy-Haul Tractors |  |  | 52.4 | 50.2 | 48.3
ᵃ Sub-category terms are defined in § 1037.801.

* * * * *

128. Amend § 1037.115 by revising paragraph (e) to read as follows:

§ 1037.115 Other requirements.

* * * * *

(e) Air conditioning leakage. Loss of refrigerant from your air conditioning systems may not exceed a total leakage rate of 11.0 grams per year or a percent leakage rate of 1.50 percent per year, whichever is greater. This applies for all refrigerants. Calculate the total leakage rate in g/year as specified in 40 CFR 86.1867-12(a). Calculate the percent leakage rate as: [total leakage rate (g/yr)] ÷ [total refrigerant capacity (g)] × 100. Round your percent leakage rate to the nearest one-hundredth of a percent.

(1) This paragraph (e) is intended to address air conditioning systems for which the primary purpose is to cool the driver compartment. This would generally include all complete pickups and vans. This paragraph (e) does not apply for refrigeration units on trailers. Similarly, it does not apply for self-contained air conditioning or refrigeration units on vocational vehicles. Air conditioning and refrigeration units may be considered to be self-contained whether or not they draw power from the propulsion engines.

(2) For purposes of this requirement, “refrigerant capacity” is the total mass of refrigerant recommended by the vehicle manufacturer as representing a full charge. Where full charge is specified as a pressure, use good engineering judgment to convert the pressure and system volume to a mass.

(3) If air conditioning systems with capacity above 3000 grams of refrigerant are designed such that a compliance demonstration under 40 CFR 86.1867-12(a) is impossible or impractical, you may ask to use alternative means to demonstrate that your air conditioning system achieves an equivalent level of control.

129. Amend § 1037.120 by revising paragraph (b)(1) to read as follows:

§ 1037.120 Emission-related warranty requirements.

* * * * *

(b) * * * (1) Your emission-related warranty must be valid for at least:

(i) 5 years or 50,000 miles for Light HDV (except tires).

(ii) 5 years or 100,000 miles for Medium HDV and Heavy HDV (except tires).

(iii) 5 years for trailers (except tires).

(iv) 1 year for tires installed on trailers, and 2 years or 24,000 miles for all other tires.

* * * * *

130. Amend § 1037.140 by revising paragraph (g) to read as follows:

§ 1037.140 Classifying vehicles and determining vehicle parameters.

* * * * *

(g) The standards and other provisions of this part apply to specific vehicle service classes for tractors and vocational vehicles as follows:

(1) Phase 1 and Phase 2 tractors are divided based on GVWR into Class 7 tractors and Class 8 tractors. Where provisions apply to both tractors and vocational vehicles, Class 7 tractors are considered “Medium HDV” and Class 8 tractors are considered “Heavy HDV”. This applies for both hybrid and non-hybrid vehicles.

(2) Phase 1 vocational vehicles are divided based on GVWR. “Light HDV” includes Class 2b through Class 5 vehicles; “Medium HDV includes Class 6 and Class 7 vehicles; and “Heavy HDV includes Class 8 vehicles.

(3) This paragraph (g)(3) applies for Phase 2 vocational vehicles propelled by engines subject to the spark-ignition standards of 40 CFR part 1036. For these vehicles, “Light HDV” includes Class 2b through Class 5 vehicles, and “Medium HDV” includes Class 6 through Class 8 vehicles.

(4) This paragraph (g)(4) applies for Phase 2 vocational vehicles propelled by engines subject to the compression-ignition standards or 40 CFR part 1036.

(i) Class 2b through Class 5 vehicles are considered “Light HDV”.

(ii) Class 6 through 8 vehicles are considered “Heavy HDV” if the installed engine's primary intended service class is heavy heavy-duty (see 40 CFR 1036.140).

(iii) Class 8 hybrid and electric vehicles are considered “heavy HDV”.

(iv) All other Class 6 through Class 8 vehicles are considered “Medium HDV”.

(5) In certain circumstances, you may certify vehicles to standards that apply for a different vehicle service class. For example, see §§ 1037.105(g) and 1037.106(f). If you optionally certify vehicles to different standards, those vehicles are subject to all the regulatory requirements as if the standards were mandatory.

* * * * *

131. Amend § 1037.150 by revising paragraphs (c), (s), (y)(4), and (aa)(2) and adding paragraph (bb) to read as follows:

§ 1037.150 Interim provisions.

* * * * *

(c) Provisions for small manufacturers. Standards apply on a delayed schedule for manufacturers meeting the small business criteria specified in 13 CFR 121.201. Apply the small business criteria for NAICS code 336120 for vocational vehicles and tractors and 336212 for trailers; the employee limits apply to the total number employees together for affiliated companies. Qualifying small manufacturers are not subject to the greenhouse gas standards of §§ 1037.105 and 1037.106 for vehicles with a date of manufacture before January 1, 2022, Similarly, qualifying small manufacturers are not subject to the greenhouse gas standards of § 1037.107 for trailers with a date of manufacture before January 1, 2019. In addition, qualifying small manufacturers producing vehicles that run on any fuel other than gasoline, E85, or diesel fuel may delay complying with every later standard under this part by one model year. Qualifying manufacturers must notify the Designated Compliance Officer each model year before introducing these excluded vehicles into U.S. commerce. This notification must include a description of the manufacturer's qualification as a small business under 13 CFR 121.201. You must label your excluded vehicles with the following statement: “THIS VEHICLE IS EXCLUDED UNDER 40 CFR 1037.150(c).” Small manufacturers may certify their vehicles under this part 1037 before standards start to apply; however, they may generate emission credits only if they certify their entire U.S.-directed production volume within the applicable averaging set for that model year. See paragraphs (r), (t), (y), and (aa) of this section for additional allowances for small manufacturers.

* * * * *

(s) Confirmatory testing for Falt-aero. If we conduct coastdown testing to verify your Falt-aero value for Phase 2 tractors, we will make our determination using a statistical analysis consistent with the principles of SEA testing in § 1037.305. We will calculate confidence intervals from a minimum of 100 valid runs using the same SEA equations and will not replace your test results with ours if your result falls within our confidence interval or is greater than our test result. Note that we intend to minimize the differences between our test conditions and those of the manufacturer by testing at similar times of the year where possible.

* * * * *

(y) * * *

(4) Small manufacturers that certify their entire U.S.-directed production volume to the Phase 1 standards for calendar year 2021 may certify to the Phase 1 standards for model year 2022 (instead of the otherwise applicable Phase 2 standards). Phase 1 vehicle credits they generate from model year 2018 through 2022 vocational vehicles may be used through model year 2027 (instead of being subject to the five-year credit life).

* * * * *

(aa) * * *

(2) You may produce up to 200 drayage tractors in a given model year that are certified to the standards described in § 1037.105(h) for “other buses”. This limit applies with respect to vehicles produced by you and your affiliated companies. Treat these drayage tractors as being in their own averaging set.

(bb) Applying good engineering judgment in selecting vocational duty cycles. Except as specified in paragraph (z) of this section, compliance with the following criteria is deemed to be consistent with good engineering judgment. Note that paragraph (bb) addresses whether other selection criteria are consistent with good engineering judgment.

(1) Any vocational vehicle may be classified as Multi-purpose.

(2) Your vocational vehicles not classified as Multi-purpose must be classified and Regional and Urban as specified in this paragraph (bb)(2). We are proposing a quantitative measure of that evaluates the ratio Regional vehicles to Urban vehicles within an averaging set. Specifically, ratio of Regional vehicles to Urban vehicles in each averaging set must be between 1:5 and 5:1. An equivalent way of saying this is that the number of Regional vehicles divided by the number of Urban vehicles would need to be between 0.20 and 5.0.

132. Amend § 1037.201 by revising paragraph (h) to read as follows:

§ 1037.201 General requirements for obtaining a certificate of conformity.

* * * * *

(h) The certification and testing provisions of 40 CFR part 86, subpart S, apply instead of the provisions of this subpart relative to the evaporative and refueling emission standards specified in § 1037.103, except that § 1037.243 describes how to demonstrate compliance with evaporative emission standards. For vehicles that do not use an evaporative canister for controlling diurnal emissions, you may certify with respect to exhaust emissions and use the provisions of § 1037.622 to let a different company certify with respect to evaporative emissions.

* * * * *

133. Amend § 1037.205 by revising paragraph (e) to read as follows:

§ 1037.205 What must I include in my application?

* * * * *

(e) Describe any test equipment and procedures that you used, including any special or alternate test procedures you used (see § 1037.501). Include information describing the procedures you used to determine CdA values as specified in §§ 1037.525 through 1037.527. Describe which type of data you are using for engine fuel maps (see 40 CFR 1036.503). If your trailer certification relies on approved data from device manufacturers, identify the device and device manufacturer.

* * * * *

134. Amend § 1037.225 by revising paragraph (e) to read as follows:

§ 1037.225 Amending applications for certification.

* * * * *

(e) The amended application applies starting with the date you submit the amended application, as follows:

(1) For vehicle families already covered by a certificate of conformity, you may start producing a new or modified vehicle configuration any time after you send us your amended application and before we make a decision under paragraph (d) of this section. However, if we determine that the affected vehicles do not meet applicable requirements, we will notify you to cease production of the vehicles and may require you to recall the vehicles at no expense to the owner. Choosing to produce vehicles under this paragraph (e) is deemed to be consent to recall all vehicles that we determine do not meet applicable emission standards or other requirements and to remedy the nonconformity at no expense to the owner. If you do not provide information required under paragraph (c) of this section within 30 days after we request it, you must stop producing the new or modified vehicles.

(2) If you amend your application to make the amended application correct and complete, these changes do not apply retroactively. Also, if we determine that your amended application is not correct and complete, or otherwise does not conform to the regulation, we will notify you and describe how to address the error.

* * * * *

135. Amend § 1037.230 by revising paragraph (a)(2) to read as follows:

§ 1037.230 Vehicle families, sub-families, and configurations.

(a) * * *

(2) Apply subcategories for tractors (other than vocational tractors) as shown in the following table:

Table 2 of § 1037.230—Tractor Subcategories
Low-roof tractors | Low-roof day cabs | Low-roof sleeper cabs.
Mid-roof tractors | Mid-roof day cabs | Mid-roof sleeper cabs.
High-roof tractors | High-roof day cabs | High-roof sleeper cabs.
| Heavy-haul tractors (starting with Phase 2)

(i) For vehicles certified to the optional tractor standards in § 1037.670, assign the subcategories as described in § 1037.670.

(ii) For vehicles intended for export to Canada, you may assign the subcategories as specified in the Canadian regulations.

* * * * *

136. Amend § 1037.235 by revising paragraph (h) to read as follows:

§ 1037.235 Testing requirements for certification.

* * * * *

(h) You may ask us to use analytically derived GEM inputs for untested configurations as identified in subpart F of this part based on interpolation of all relevant measured values for related configurations, consistent with good engineering judgment. We may establish specific approval criteria based on prevailing industry practice. If we allow this, we may test any configurations. We may also require you to test any configurations as part of a selective enforcement audit.

137. Amend § 1037.243 by revising paragraph (c) to read as follows:

§ 1037.243 Demonstrating compliance with evaporative emission standards.

* * * * *

(c) Apply deterioration factors to measured emission levels for comparing to the emission standard. Establish an additive deterioration factor based on an engineering analysis that takes into account the expected aging from in-use vehicles.

* * * * *

138. Revise § 1037.255 to read as follows:

§ 1037.255 What decisions may EPA make regarding a certificate of conformity?

(a) If we determine an application is complete and shows that the vehicle family meets all the requirements of this part and the Act, we will issue a certificate of conformity for the vehicle family for that model year. We may make the approval subject to additional conditions.

(b) We may deny an application for certification if we determine that a vehicle family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce vehicles for importation into the United States at a location where local law prohibits us from carrying out authorized activities.

(6) Fail to supply requested information or amend an application to include all vehicles being produced.

(7) Take any action that otherwise circumvents the intent of the Act or this part, with respect to a vehicle family.

(d) We may void a certificate of conformity for a vehicle family if you fail to keep records, send reports, or give us information as required under this part or the Act. Note that these are also violations of 40 CFR 1068.101(a)(2).

(e) We may void a certificate of conformity for a vehicle family if we find that you intentionally submitted false or incomplete information. This includes doing anything after submitting an application that causes submitted information to be false or incomplete after submission.

(f) If we deny an application or suspend, revoke, or void a certificate, you may ask for a hearing (see § 1037.820).

139. Amend § 1037.301 by revising paragraph (b) to read as follows:

§ 1037.301 Overview of measurements related to GEM inputs in a selective enforcement audit.

* * * * *

(b) A selective enforcement audit for this part 1037 consists of performing measurements with production vehicles relative to one or more declared values for GEM inputs, and using those measured values in place of your declared values to run GEM. Except as specified in this subpart, the vehicle is considered passing if the new modeled emission result is at or below the modeled emission result corresponding to the declared GEM inputs. If you report an FEL for the vehicle configuration before the audit, we will instead consider the vehicle passing if the new cycle-weighted emission result is at or below the FEL.

* * * * *

140. Amend § 1037.305 by revising the introductory text and paragraph (a) to read as follows:

§ 1037.305 Audit procedures for tractors—aerodynamic testing.

To perform a selective enforcement audit with respect to drag area for tractors, use the reference method specified in § 1037.525; we may instead require you to use the same method you used for certification. The following provisions apply instead of 40 CFR 1068.415 through 1068.425 for a selective enforcement audit with respect to drag area:

(a) Determine whether or not a tractor fails to meet standards as follows:

(1) We will select a vehicle configuration for testing. Perform a coastdown measurement with the vehicle in its production configuration according to § 1037.528. Instead of the process described in § 1037.528(h)(12), determine your test result as described in this paragraph (a). You must have an equal number of runs in each direction.

(2) Measure a yaw curve for your test vehicle using your alternate method according to § 1037.525(b)(3). You do not need to test at the coastdown effective yaw angle. You may use a previously established yaw curve from your certification testing if it is available.

(3) Using this yaw curve, perform a regression using values of drag area, CdAalt, and yaw angle, ψalt, to determine the air-direction correction coefficients, a0, a1, a2, a3, and a4, for the following equation:

(4) Adjust the drag area value from each coastdown run, CdArun, from the yaw angle of each run, ψrun, to ±4.5° to represent a wind-averaged drag area value, CdAwa by applying Eq. 1037.305-1 as follows:

(5) Perform additional coastdown measurements until you reach a pass or fail decision under this paragraph (a). The minimum number of runs to pass is 24. The minimum number of runs to fail is 100.

(6) Calculate statistical values to characterize cumulative test results at least once per day based on an equal number of coastdown runs in each direction. Determine the wind-averaged drag area value for the test CdAwa by averaging all CdAwa-run values for all days of testing. Determine the upper and lower bounds of the drag area value, CdAwa-bounded, expressed to two decimal places, using a confidence interval as follows:

Where:

CdAwa-bounded = the upper bound, CdAwa-upper, and lower bound, CdAwa-lower of the drag area value, where CdAwa-upper is the larger number.

CdAwa = the average of all CdAwa-run values.

σ = the standard deviation of all CdArun values (see 40 CFR 1065.602(c)).

n = the total number of coastdown runs.

(7) Compliance is determined based on the values of CdAwa-upper and CdAwa-lower relative to the adjusted bin boundary. For purposes of this section, the upper limit of a bin is expressed as the specified value plus 0.05 to account for rounding. For example, for a bin including values of 5.5-5.9 m², being above the upper limit means exceeding 5.95 m². The vehicle reaches a pass or fail decision relative to the adjusted bin boundary based on one of the following criteria:

(i) The vehicle passes if CdAwa-upper is less than or equal to the upper limit of the bin to which you certified the vehicle.

(ii) The vehicle fails if CdAwa-lower is greater than the upper limit of the bin to which you certified the vehicle.

(iii) The vehicle passes if you perform 100 coastdown runs and CdAwa-upper is greater than and CdAwa-lower is lower than the upper limit of the bin to which you certified the vehicle.

(iv) The vehicle fails if you choose to stop testing before reaching a final determination under this paragraph (a)(7).

(v) Manufacturers may continue testing beyond the stopping point specified in this paragraph (a)(7). We may consider the additional data in making pass/fail determinations.

* * * * *

141. Revise § 1037.320 to read as follows:

§ 1037.320 Audit procedures for axles and transmissions.

Selective enforcement audit provisions apply for axles and transmissions relative to the efficiency demonstrations of §§ 1037.560 and 1037.565 as specified in this section. The following provisions apply instead of 40 CFR 1068.415 through 1068.445 for the selective enforcement audit.

(a) A selective enforcement audit for axles or transmissions would consist of performing measurements with a production axle or transmission to determine mean power loss values as declared for GEM simulations, and running GEM over one or more applicable duty cycles based on those measured values. The axle or transmission is considered passing for a given configuration if the new modeled emission result for every applicable duty cycle is at or below the modeled emission result corresponding to the declared GEM inputs.

(b) Run GEM for each applicable vehicle configuration identified in 40 CFR 1036.540. For axle testing, this may require omitting several vehicle configurations based on selecting axle ratios that correspond to the tested axle. The GEM result for each vehicle configuration counts as a separate test for determining whether the family passes the audit.

(c) If the initial axle or transmission passes, the family passes and no further testing is required. If the initial axle or transmission does not pass, select two additional production axles or transmissions, as applicable, to perform additional tests. Use good engineering judgment to combine the results of the three tests into a single map. This becomes the official test result for the family.

142. Amend § 1037.501 by adding paragraph (i) to read as follows:

§ 1037.501 General testing and modeling provisions.

* * * * *

(i) Note that declared GEM inputs for fuel maps and aerodynamic drag area will typically include compliance margins to account for testing variability. For other measured GEM inputs, the declared values will typically be the measured values.

143. Amend § 1037.510 by revising paragraphs (a)(2), (c)(3), (d), and (e) to read as follows:

§ 1037.510 Duty-cycle exhaust testing.

* * * * *

(a) * * *

(2) Perform cycle-average engine fuel mapping as described in 40 CFR 1036.540. For powertrain testing under §§ 1037.550 or 1037.555, perform testing as described in this paragraph (a)(2) to generate GEM inputs for each simulated vehicle configuration, and test runs representing different idle conditions. Perform testing as follows:

(i) Transient cycle. The transient cycle is specified in Appendix I of this part.

(ii) Highway cruise cycles. The grade portion of the route corresponding to the 55 mi/hr and 65 mi/hr highway cruise cycles is specified in Appendix IV of this part. Maintain vehicle speed between -1.0 mi/hr and 3.0 mi/hr of the speed setpoint; this speed tolerance applies instead of the approach specified in 40 CFR 1066.425(b)(1) and (2).

(iii) Drive idle. Perform testing at a loaded idle condition for Phase 2 vocational vehicles. For engines with an adjustable warm idle speed setpoint, test at the minimum warm idle speed and the maximum warm idle speed, otherwise test at the engine's warm idle speed. Warm up the powertrain using the vehicle settings for the Test 1 vehicle configuration as defined in Table 2 or Table 3 of 40 CFR 1036.540 by operating it at 65 mi/hr for 600 seconds. Linearly ramp the powertrain to zero vehicle speed in 20 seconds. Set the engine to operate at idle speed for 90 seconds, with the brake applied and the transmission in drive (or clutch depressed for manual transmission), and sample emissions to determine mean emission values (in g/s) over the last 30 seconds of idling.

(iv) Parked idle. Perform testing at an unloaded idle condition for Phase 2 vocational vehicles. For engines with an adjustable warm idle speed setpoint, test at the minimum warm idle speed and the maximum warm idle speed, otherwise test at the engine's warm idle speed. Warm up the powertrain using the vehicle settings for the Test 1 vehicle configuration by operating it at 65 mi/hr for 600 seconds. Linearly ramp the powertrain to zero vehicle speed in 20 seconds. Set the engine to operate at idle speed for 780 seconds, with the transmission in park (or the transmission in neutral with the parking brake applied for manual transmissions), and sample emissions to determine mean emission values (in g/s) over the last 600 seconds of idling.

* * * * *

(c) * * *

(3) Table 1 follows:

Table 1 of § 1037.510—Weighting Factors for Duty Cycles
| Distance-weighted (%): Transient | Distance-weighted (%): 55 mi/hr cruise | Distance-weighted (%): 65 mi/hr cruise | Time-weighted ᵃ (%): Drive idle | Time-weighted ᵃ (%): Parked idle | Time-weighted ᵃ (%): Non-idle | Average speed during non-idle cycles (mi/hr) ᵇ
Day Cabs | 19 | 17 | 64 |  |  |  |
Sleeper Cabs | 5 | 9 | 86 |  |  |  |
Heavy-haul tractors | 19 | 17 | 64 |  |  |  |
Vocational—Regional | 20 | 24 | 56 | 0 | 25 | 75 | 38.41
Vocational—Multi-Purpose (2b-7) | 54 | 29 | 17 | 17 | 25 | 58 | 23.18
Vocational—Multi-Purpose (8) | 54 | 23 | 23 | 17 | 25 | 58 | 23.27
Vocational—Urban (2b-7) | 92 | 8 | 0 | 15 | 25 | 60 | 16.25
Vocational—Urban (8) | 90 | 10 | 0 | 15 | 25 | 60 | 16.51
Vocational with conventional powertrain (Phase 1 only) | 42 | 21 | 37 |  |  |  |
Vocational Hybrid Vehicles (Phase 1 only) | 75 | 9 | 16 |  |  |  |
ᵃ Note that these drive idle and non-idle weighting factors do not reflect additional drive idle that occurs during the transient cycle. The transient cycle does not include any parked idle.
ᵇ These values apply even for vehicles not following the specified speed traces.

(d) For transient testing, compare actual second-by-second vehicle speed with the speed specified in the test cycle and ensure any differences are consistent with the criteria as specified in 40 CFR 1066.425(b) and (c). If the speeds do not conform to these criteria, the test is not valid and must be repeated.

(e) Run test cycles as specified in 40 CFR part 1066. For testing vehicles equipped with cruise control over the highway cruise cycles, you may use the vehicle's cruise control to control the vehicle speed. For vehicles equipped with adjustable vehicle speed limiters, test the vehicle with the vehicle speed limiter at its highest setting.

* * * * *

144. Amend § 1037.515 by revising the section heading and paragraph (d)(2) to read as follows:

§ 1037.515 Determining CO2 emissions to show compliance for trailers.

* * * * *

(d) * * *

(2) Apply weight reductions for other components made with light-weight materials as shown in the following table:

Table 3 of § 1037.515—Weight Reductions for Trailers
[pounds]
Component | Material | Weight reduction (pounds)
Structure for Suspension Assembly ᵃ | Aluminum | 280
Hub and Drum (per axle) | Aluminum | 80
Floor ² | Aluminum | 375
Floor ² | Composite (wood and plastic) | 245
Floor Crossmembers ᵇ | Aluminum | 250
Landing Gear | Aluminum | 50
Rear Door | Aluminum | 187
Rear Door Surround | Aluminum | 150
Roof Bows | Aluminum | 100
Side Posts | Aluminum | 300
Slider Box | Aluminum | 150
Upper Coupler Assembly | Aluminum | 430
ᵃ For tandem-axle suspension sub-frames made of aluminum, apply a weight reduction of 280 pounds. Use good engineering judgment to estimate a weight reduction for using aluminum sub-frames with other axle configurations.
ᵇ Calculate a smaller weight reduction for short trailers by multiplying the indicated values by 0.528 (28/53).

* * * * *

145. Amend § 1037.520 by revising the section heading and paragraphs (b)(3)(ii), (b)(3)(iii), (e), (f), (g), (h), (i), and (j) to read as follows:

§ 1037.520 Modeling CO2 emissions to show compliance for vocational vehicles and tractors.

* * * * *

(b) * * *

(3) * * *

(ii) For low- and mid-roof tractors, you may either use the same bin level that applies for an equivalent high-roof tractor as shown in Table 3 of this section, or you may determine your bin level based on aerodynamic test results as described in Table 4 of this section.

Table 4 of § 1037.520—Bin Determinations for Phase 2 Low-Roof and Mid-Roof Tractors Based on Aerodynamic Test Results
[CdA in m²]
Tractor type | Bin I | Bin II | Bin III | Bin IV | Bin V | Bin VI | Bin VII
Low-Roof Cabs | ≥5.4 | 4.9-5.3 | 4.5-4.8 | 4.1-4.4 | 3.8-4.0 | 3.5-3.7 | ≤3.4
Mid-Roof Cabs | ≥5.9 | 5.5-5.8 | 5.1-5.4 | 4.7-5.0 | 4.4-4.6 | 4.1-4.3 | ≤4.0

(iii) Determine the CdA input according to the tractor's bin level as described in the following table:

Table 5 of § 1037.520—Phase 2 CdA Tractor Inputs Based on Bin Level
Tractor type | Bin I | Bin II | Bin III | Bin IV | Bin V | Bin VI | Bin VII
High-Roof Day Cabs | 7.45 | 6.85 | 6.25 | 5.70 | 5.20 | 4.70 | 4.20
High-Roof Sleeper Cabs | 7.15 | 6.55 | 5.95 | 5.40 | 4.90 | 4.40 | 3.90
Low-Roof Cabs | 6.00 | 5.60 | 5.15 | 4.75 | 4.40 | 4.10 | 3.80
Mid-Roof Cabs | 7.00 | 6.65 | 6.25 | 5.85 | 5.50 | 5.20 | 4.90

* * * * *

(e) Vehicle weight reduction. Develop a weight-reduction as a GEM input as described in this paragraph (e). Enter the sum of weight reductions as described in this paragraph (e), or enter zero if there is no weight reduction. For purposes of this paragraph (e), high-strength steel is steel with tensile strength at or above 350 MPa.

(1) Vehicle weight reduction inputs for wheels are specified relative to dual-wide tires with conventional steel wheels. For purposes of this paragraph (e)(1), an aluminum alloy qualifies as light-weight if a dual-wide drive wheel made from this material weighs at least 21 pounds less than a comparable conventional steel wheel. The inputs are listed in Table 6 of this section. For example, a tractor or vocational vehicle with aluminum steer wheels and eight (4×2) dual-wide aluminum drive wheels would have an input of 210 pounds (2×21 + 8×21).

(2) Weight reduction inputs for tractor components other than wheels are specified in the following table:

Table 7 of § 1037.520—Nonwheel-Related Weight Reductions From Alternative Materials for Tractors
[Pounds]
Weight reduction technologies | Aluminum | High-strength steel | Thermoplastic
Door | 20 | 6 |
Roof | 60 | 18 |
Cab rear wall | 49 | 16 |
Cab floor | 56 | 18 |
Hood Support Structure System | 15 | 3 |
Hood and Front Fender |  |  | 65
Day Cab Roof Fairing |  |  | 18
Sleeper Cab Roof Fairing | 75 | 20 | 40
Aerodynamic Side Extender |  |  | 10
Fairing Support Structure System | 35 | 6 |
Instrument Panel Support Structure | 5 | 1 |
Brake Drums—Drive (set of 4) | 140 | 74 |
Brake Drums—Non Drive (set of 2) | 60 | 42 |
Frame Rails | 440 | 87 |
Crossmember—Cab | 15 | 5 |
Crossmember—Suspension | 25 | 6 |
Crossmember—Non Suspension (set of 3) | 15 | 5 |
Fifth Wheel | 100 | 25 |
Radiator Support | 20 | 6 |
Fuel Tank Support Structure | 40 | 12 |
Steps | 35 | 6 |
Bumper | 33 | 10 |
Shackles | 10 | 3 |
Front Axle | 60 | 15 |
Suspension Brackets, Hangers | 100 | 30 |
Transmission Case | 50 | 12 |
Clutch Housing | 40 | 10 |
Fairing Support Structure System | 35 | 6 |
Drive Axle Hubs (set of 4) | 80 | 20 |
Non Drive Hubs (2) | 40 | 5 |
Two-piece driveshaft | 20 | 5 |
Transmission/Clutch Shift Levers | 20 | 4 |

(3) Weight-reduction inputs for vocational-vehicle components other than wheels are specified in the following table:

BILLING CODE 6560-50-P

BILLING CODE 6560-50-C

(4) Apply vehicle weight inputs for changing technology configurations as follows:

(i) For Class 8 tractors or for Class 8 vocational vehicles with a permanent 6×2 axle configuration, apply a weight reduction input of 300 pounds. This does not apply for coach buses certified to custom-chassis standards under § 1037.105(h).

(ii) For Class 8 tractors with 4×2 axle configuration, apply a weight reduction input of 400 pounds.

(iii) For tractors with installed engines with displacement below 14.0 liters, apply a weight reduction of 300 pounds.

(iv) For tractors with single-piece driveshafts with a total length greater than 86 inches, apply a weight reduction of 43 pounds for steel driveshafts and 63 pounds for aluminum driveshafts.

(5) You may ask to apply the off-cycle technology provisions of § 1037.610 for weight reductions not covered by this paragraph (e).

(f) Engine characteristics. Enter information from the engine manufacturer to describe the installed engine and its operating parameters as described in 40 CFR 1036.503. The fuel-mapping information must apply for the vehicle's GVWR; for example, if you install a medium heavy-duty engine in a Class 8 vehicle, the engine must have additional fuel-mapping information for the heavier vehicle. Note that you do not need fuel consumption at idle for tractors.

(g) Vehicle characteristics. Enter the following information to describe the vehicle and its operating parameters:

(1) Transmission make, model, and type. Also identify the gear ratio for every available forward gear to two decimal places, the input torque limit for each of the forward gears, and, if applicable, the lowest gear involving a locked torque converter. For vehicles with a manual transmission, GEM applies a 2% emission increase relative to automated manual transmissions. If your vehicle has a dual-clutch transmission, use good engineering judgment to determine if it can be accurately represented in GEM as an automated manual transmission. We may require you to perform a powertrain test with dual-clutch transmissions to show that they can be properly simulated as an automated manual transmission.

(2) Drive axle make, model, and configuration type. Select a drive axle configuration to represent your vehicle for modeling.

(i) 4×2: One drive axle and one non-drive axle.

(ii) 6×2: One drive axle and two non-drive axles.

(iii) 6×4: Two or more drive axles, or more than three total axles. Note that this includes, for example, a vehicle with two drive axles out of four total axles (otherwise known as an 8×4 configuration).

(iv) 6×4D: One non-drive axle and two drive axles, including one disconnectable drive axle. The axle configuration can automatically switch between 6×2 and 6×4 configurations. You may select this configuration if at least one of the following is true:

(A) The input and output of the disconnectable axle is mechanically disconnected from the drive shaft and the wheels when the axle is in the 6×2 configuration.

(B) You provide power loss data generated according to § 1037.560.

(3) Drive axle ratio, ka. If a vehicle is designed with two or more user-selectable axle ratios, use the drive axle ratio that is expected to be engaged for the greatest driving distance. If the vehicle does not have a drive axle, such as a hybrid vehicle with direct electric drive, let ka = 1.

(4) GEM inputs associated with powertrain testing include powertrain family, transmission calibration identifier, test data from § 1037.550, and the powertrain test configuration (dynamometer connected to transmission output or wheel hub). You do not need to identify or provide inputs for transmission gear ratios, fuel map data, or engine torque curves, which would otherwise be required under paragraph (f) of this section.

(h) Idle speed and idle-reduction technologies. (1) Input your vehicle idle speed as follows:

(i) For heavy heavy-duty vehicles input your vehicle's maximum adjustable idle speed or 600 rpm, whichever is lower.

(ii) For light heavy-duty and medium heavy-duty vehicles input your vehicle's maximum adjustable idle speed or 750 rpm, whichever is lower.

(iii) For spark-ignition vehicles input your vehicle's maximum adjustable idle speed or 600 rpm, whichever is lower.

(2) Identify whether your vehicle has qualifying idle-reduction technologies, subject to the qualifying criteria in § 1037.660, as follows:

(i) Stop-start technology and automatic engine shutdown systems apply for vocational vehicles. See paragraph (j) of this section for automatic engine shutdown systems for tractors.

(ii) Neutral idle applies for tractors and vocational vehicles.

(i) Axle, transmission, and torque converter characterization. You may characterize the axle, transmission, and torque converter and use axle efficiency maps as described in § 1037.560, transmission efficiency maps as described in § 1037.565, and torque converter capacity factors as described in § 1037.570 to replace the default values in GEM. If you obtain your test results from the axle manufacturer, transmission manufacturer, torque converter manufacturer or another third party, you must obtain a signed statement from the party supplying those test results to verify that tests were conducted according to the requirements of this part. Such statements are deemed to be submissions to EPA.

(j) Additional reduction technologies. Enter input values in GEM as follows to characterize the percentage CO2 emission reduction corresponding to certain technologies and vehicle configurations, or enter 0:

(1) Intelligent controls. Enter 2 for tractors with predictive cruise control. This includes any cruise control system that incorporates satellite-based global-positioning data for controlling operator demand. Enter 1.5 for tractors and vocational vehicles if they have neutral coasting, unless good engineering judgment indicates that a lower percentage should apply.

(2) Accessory load. Enter the following values related to accessory loads; if more than one item applies, enter the sum of those values:

(i) If vocational vehicles have electrically powered pumps for steering, enter 0.5 for vocational vehicles certified with the Regional duty cycle, and enter 1 for other vocational vehicles.

(ii) If tractors have electrically powered pumps for both steering and engine cooling, enter 1.

(iii) If vehicles have a high-efficiency air conditioning compressor, enter 0.5 for tractors and vocational Heavy HDV, and enter 1 for other vocational vehicles. This includes mechanically powered compressors meeting the specifications described in 40 CFR 86.1868-12(h)(5), and all electrically powered compressors.

(3) Tire-pressure systems. Enter 1.2 for vehicles with automatic tire inflation systems on all axles (1.1 for Multi-Purpose and Urban vocational vehicles). Enter 1.0 for vehicles with tire pressure monitoring systems on all axles (0.9 for Multi-Purpose and Urban vocational vehicles). If vehicles use a mix of the two systems, treat them as having only tire pressure monitoring systems.

(4) Extended-idle reduction. Enter values as shown in the following table for sleeper cabs equipped with idle-reduction technology meeting the requirements of § 1037.660 that are designed to automatically shut off the main engine after 300 seconds or less:

Table 9 of § 1037.520—GEM Input Values for AES Systems
Technology | GEM input values: Adjustable | GEM input values: Tamper- resistant
Standard AES system | 1 | 4
With diesel APU | 3 | 4
With battery APU | 5 | 6
With automatic stop-start | 3 | 3
With fuel-operated heater (FOH) | 2 | 3
With diesel APU and FOH | 4 | 5
With battery APU and FOH | 5 | 6
With stop-start and FOH | 4 | 5

(5) Other. Additional GEM inputs may apply as follows:

(i) Enter 0.9 and 1.7, respectively, for school buses and coach buses that have at least seven available forward gears.

(ii) If we approve off-cycle technology under § 1037.610 in the form of an improvement factor, enter the improvement factor expressed as a percentage reduction in CO2 emissions. (Note: In the case of approved off-cycle technologies whose benefit is quantified as a g/ton-mile credit, apply the credit to the GEM result, not as a GEM input value.)

* * * * *

146. Amend § 1037.525 by revising paragraph (b) to read as follows:

§ 1037.525 Aerodynamic measurements for tractors.

* * * * *

(b) Adjustments to correlate with coastdown testing. Adjust aerodynamic drag values from alternate methods to be equivalent to the corresponding values from coastdown measurements as follows:

(1) Determine the functional relationship between your alternate method and coastdown testing. Specify this functional relationship as Falt-aero for a given alternate drag measurement method using the following equation:

(2) Unless good engineering judgment dictates otherwise, assume that coastdown drag is proportional to drag measured using alternate methods and apply a constant adjustment factor, Falt-aero, for a given alternate drag measurement method of similar vehicles.

(3) Determine Falt-aero by performing coastdown testing and applying your alternate method on the same vehicles. Consider all applicable test data including data collected during selective enforcement audits. Unless we approve another vehicle, one vehicle must be a Class 8 high-roof sleeper cab with a full aerodynamics package pulling a standard trailer. Where you have more than one tractor model meeting these criteria, use the tractor model with the highest projected sales. If you do not have such a tractor model, you may use your most comparable tractor model with our prior approval. In the case of alternate methods other than those specified in this subpart, good engineering judgment may require you to determine your adjustment factor based on results from more than the specified minimum number of vehicles.

(4) Measure the drag area using your alternate method for a Phase 2 tractor used to determine Falt-aero with testing at yaw angles of 0°, ±1°, ±3°, ±4.5°, ±6°, and ±9° (you may include additional angles), using direction conventions described in Figure 2 of SAE J1252 (incorporated by reference in § 1037.810). Also, determine the drag area at the coastdown effective yaw angle, CdAeffective-yaw-alt, by taking the average drag area at ψeff and -ψeff for your vehicle using the same alternate method.

(5) For Phase 2 testing, determine separate values of Falt-aero for a minimum of one high-roof day cab and one high-roof sleeper cab for 2021, 2024, and 2027 model years based on testing as described in paragraph (b)(2) of this section (six tests total). Alternatively, you may test earlier model years than specified here. For any untested tractor models, apply the value of Falt-aero from the tested tractor model that best represents the aerodynamic characteristics of the untested tractor model, consistent with good engineering judgment. Testing under this paragraph (b)(4) continues to be valid for later model years until you change the tractor model in a way that causes the test results to no longer represent production vehicles. You must also determine unique values of Falt-aero for low-roof and mid-roof tractors if you determine CdA values based on low or mid-roof tractor testing as shown in Table 4 of § 1037.520. For Phase 1 testing, if good engineering judgment allows it, you may calculate a single, constant value of Falt-aero for your whole product line by dividing the coastdown drag area, CdAcoastdown, by CdAalt.

(6) Determine Falt-aero to at least three decimal places. For example, if your coastdown testing results in a drag area of 6.430, but your wind tunnel method results in a drag area of 6.200, Falt-aero would be 1.037 (or a higher value you declare).

(7) If a tractor and trailer cannot be configured to meet the gap requirements, test with the trailer positioned as close as possible to the specified gap dimension and use good engineering judgment to correct the results to be equivalent to a test configuration meeting the specified gap dimension. This allowance applies for all testing, including confirmatory and SEA testing.

(8) Manufacturers should coordinate Falt-aero coastdown testing with EPA before testing to enable EPA to witness the testing.

* * * * *

147. Amend § 1037.528 by revising the section heading, paragraph (c) introductory text, paragraph (e) introductory text, paragraph (g)(3) introductory text, and paragraphs (h)(3)(i) and (h)(6) to read as follows:

§ 1037.528 Coastdown procedures for calculating drag area (CdA).

* * * * *

(c) The test condition specifications described in Sections 7.1 through 7.4 of SAE J1263 apply, with certain exceptions and additional provisions as described in this paragraph (c). These conditions apply to each run separately.

* * * * *

(e) Measure wind speed, wind direction, air temperature, and air pressure at a recording frequency of 10 Hz, in conjunction with time-of-day data. Use at least one stationary anemometer and suitable data loggers meeting SAE J1263 specifications, subject to the following additional specifications for the anemometer placed along the test surface:

* * * * *

(g) * * *

(3) Correct measured air direction from all the high-speed segments using the wind speed and wind direction measurements described in paragraph (e) of this section as follows:

* * * * *

(h) * * *

(3) * * *

(i) Calculate the mean vehicle speed to represent the start point of each speed range as the arithmetic average of measured speeds throughout the continuous time interval that begins when measured vehicle speed is less than 2.00 mi/hr above the nominal starting speed point and ends when measured vehicle speed reaches 2.00 mi/hr below the nominal starting speed point, expressed to at least two decimal places. Calculate the timestamp corresponding to the starting point of each speed range as the average timestamp of the interval.

* * * * *

(6) For tractor testing, calculate the tire rolling resistance force at high and low speeds for steer, drive, and trailer axle positions, FTRR[speed,axle], and determine ΔFTRR as follows:

(i) Conduct a stepwise coastdown tire rolling resistance test with three tires for each tire model installed on the vehicle using SAE J2452 (incorporated by reference in § 1037.810) for the following test points (which replace the test points in Table 3 of SAE J2452):

Table 1 of § 1037.528—Stepwise Coastdown Test Points for Determining Tire Rolling Resistance as a Function of Speed
Step # | Load (% of max) | Inflation pressure (% of max)
1 | 20 | 100
2 | 55 | 70
3 | 85 | 120
4 | 85 | 100
5 | 100 | 95

(ii) Determine the rolling resistance difference between 65 mph and 15 mph for each tire. Use good engineering judgment to consider the multiple results. For example, you may ignore the test results for the tires with the highest and lowest differences and use the result from the remaining tire.

(iii) Calculate FTRR[speed,axle] using the following equation:

Where:

nt,[axle] = number of tires at the axle position.

p[axle] = the inflation pressure set and measured on the tires at the axle position at the beginning of the coastdown test.

L[axle] = the load over the axle at the axle position on the coastdown test vehicle.

α[axle], β[axle], a[axle], b[axle], and c[axle] = regression coefficients from SAE J2452 that are specific to axle position.

Example:

nt,steer = 2

psteer = 758.4 kPa

Lsteer = 51421.2 N

αsteer = −0.2435

βsteer = 0.9576

asteer = 0.0434

bsteer = 5.4·10⁻⁵

csteer = 5.53·10⁻⁷

nt,drive = 8

pdrive = 689.5 kPa

Ldrive = 55958.4 N

αdrive = −0.3146

βdrive = 0.9914

adrive = 0.0504

bdrive = 1.11·10⁻⁴

cdrive = 2.86·10⁻⁷

nt,trailer = 8

ptrailer = 689.5 kPa

Ltrailer = 45727.5 N

αtrailer = −0.3982

βtrailer = 0.9756

atrailer = 0.0656

btrailer = 1.51·10⁻⁴

ctrailer = 2.94·10⁻⁷

v̄seghi = 28.86 m/s = 103.896 km/hr

v̄seglo = 5.84 m/s = 21.024 km/hr

FTRRhi,steer = 365.6 N

FTRRhi,drive = 431.4 N

FTRRhi,trailer = 231.7 N

FTRRlo,steer = 297.8 N

FTRRlo,drive = 350.7 N

FTRRlo,trailer = 189.0 N

(iv) Calculate FTRR[speed] by summing the tire rolling resistance calculations at a given speed for each axle position:

Example:

FTRRhi = 365.6 + 431.4 + 231.7 = 1028.7 N

FTRRlo = 297.8 + 350.7 + 189.0 = 837.5 N

(v) Adjust FTRR[speed] to the ambient temperature during the coastdown segment as follows:

Where:

T̄seg[speed] = the average ambient temperature during the coastdown segment, in °C.

Example:

FTRRhi = 1028.7 N

FTRRlo = 837.5 N

T̄seghi = 25.5 °C

T̄seglo = 25.1 °C

FTRRhi,adj = 1028.7·[1 + 0.006·(24−25.5)] = 1019.4 N

FTRRlo,adj = 837.5·[1 + 0.006·(24−25.1)] = 832.0 N

(v) Determine ΔFTRR as follows:

Example:

ΔFTRR = 1019.4−832.0 = 187.4 N

* * * * *

148. Amend § 1037.540 by revising the section heading to read as follows:

§ 1037.530 Wind-tunnel procedures for calculating drag area (CdA).

* * * * *

149. Amend § 1037.532 by revising the section heading and paragraph (a)(1) to read as follows:

§ 1037.532 Using computational fluid dynamics to calculate drag area (CdA).

* * * * *

(a) * * *

(1) Vehicles are subject to the requirement to meet standards based on the average of testing at yaw angles of +4.5° and −4.5°; however, you may submit your application for certification with CFD results based on only one of those yaw angles.

* * * * *

150. Amend § 1037.534 by revising the section heading to read as follows.

§ 1037.534 Constant-speed procedure for calculating drag area (CdA).

* * * * *

151. Amend § 1037.540 by revising paragraphs (b)(8), (e)(2), and (f)(2) to read as follows:

§ 1037.540 Special procedures for testing vehicles with hybrid power take-off.

* * * * *

(b) * * *

(8) Measured pressures must meet the cycle-validation specifications in the following table for each test run over the duty cycle:

Table 1 of § 1037.540—Statistical Criteria for Validating Each Test Run Over the Duty Cycle
Parameter ᵃ | Pressure
Slope, a1 | 0.950 ≤ a1 ≤ 1.030.
Absolute value of intercept, |a0| | ≤2.0% of maximum mapped pressure.
Standard error of estimate, SEE | ≤10% of maximum mapped pressure.
Coefficient of determination, r ² | ≥0.970.
ᵃ Determine values for specified parameters as described in 40 CFR 1065.514(e) by comparing measured values to denormalized pressure values from the duty cycle in Appendix II of this part.

* * * * *

(e) * * *

(2) Divide the CO2 mass from the PTO cycle by the distance determined in paragraph (d)(4) of this section and the standard payload as defined in § 1037.801 to get the CO2 emission rate in g/ton-mile. For plug-in hybrid electric vehicles follow paragraph (f)(3) of this section to calculate utility factor weighted CO2 emissions in g/ton-mile.

* * * * *

(f) * * *

(2) Divide the fuel mass by the applicable distance determined in paragraph (d)(4) of this section and the appropriate standard payload as defined in § 1037.801 to determine the fuel rate in g/ton-mile.

* * * * *

152. Revise § 1037.550 to read as follows:

§ 1037.550 Powertrain testing.

(a) This section describes how to determine engine fuel maps using a measurement procedure that involves testing an engine coupled with a powertrain to simulate vehicle operation. Engine fuel maps are part of demonstrating compliance with Phase 2 vehicle standards under this part 1037; this fuel-mapping information may come from different types of testing as described in 40 CFR 1036.503.

(b) Perform powertrain testing to establish measured fuel-consumption rates over applicable duty cycles for several different vehicle configurations. The following general provisions apply:

(1) Measure NOX emissions for each sampling period in grams. You may perform these measurements using a NOX emission-measurement system that meets the requirements of 40 CFR part 1065, subpart J. Include these measured NOX values any time you report to us your greenhouse gas emissions or fuel consumption values from testing under this section. If a system malfunction prevents you from measuring NOX emissions during a test under this section but the test otherwise gives valid results, you may consider this a valid test and omit the NOX emission measurements; however, we may require you to repeat the test if we determine that you inappropriately voided the test with respect to NOX emission measurement.

(2) This section uses engine parameters and variables that are consistent with 40 CFR part 1065.

(3) Use one of the following options to create the vehicle model:

(i) Use the detailed equations in this section.

(ii) Use a MATLAB/Simulink code in GEM to create the vehicle model (incorporated by reference in § 1037.810). If you use this option, set the accessory load in GEM to zero. This option is required if you are testing a hybrid powertrain system where the transmission is not part of the test, but is required when installed in the vehicle.

(c) Select an engine and powertrain for testing as described in § 1037.231.

(d) Set up the engine according to 40 CFR 1065.110.

(1) The default test configuration involves connecting the powertrain's transmission output shaft directly to the dynamometer and measuring torque at the axle input shaft for use in the vehicle model. You may instead set up the dynamometer to connect at the wheel hubs if your powertrain configuration requires it, such as for hybrid powertrains, or if you want to represent the axle performance with powertrain test results. If you measure torque at the wheel hubs for use in the vehicle model, input your test results into GEM to reflect this.

(2) For testing hybrids that do not include the transmission or axle, connect the powertrain's output shaft that would connect to the transmission directly to the dynamometer.

(e) Cool the powertrain during testing so temperatures for oil, coolant, block, head, transmission, battery, and power electronics are within the manufacturer's expected ranges for normal operation. You may use ECM measurements to comply with this requirement. You may use auxiliary coolers and fans.

(f) Break in the engine according to 40 CFR 1065.405, the axle assembly according to § 1037.560, and the transmission according to § 1037.565. You may break in the powertrain as a complete system by following the engine break in procedure according to 40 CFR 1065.405.

(g) Set the dynamometer to operate in speed-control mode. Record data as described in 40 CFR 1065.202. Command and control dynamometer speed at a minimum of 5 Hz. If you choose to command the dynamometer at a slower rate than the calculated dynamometer speed setpoint, use good engineering judgment to subsample the calculated setpoints for use in commanding the dynamomemter speed setpoint. Design a vehicle model to use the measured torque and calculate the dynamometer speed setpoint at a rate of at least 100 Hz, as follows:

(1) For testing with the speed measurement at the axle input shaft, calculate the dynamometer's angular speed target, ƒnref,dyno, based on the simulated linear speed of the tires:

Where:

ka[speed] = drive axle ratio as determined in paragraph (i) of this section.

vrefi = simulated vehicle reference speed. Use the unrounded result for calculating ƒnrefi,dyno.

r[speed] = tire radius as determined in paragraph (i) of this section.

Where:

i = a time-based counter corresponding to each measurement during the sampling period. Let vref1 = 0; start calculations at i = 2. A 10-minute sampling period will generally involve 60,000 measurements.

T = instantaneous measured torque.

Effaxle = axle efficiency. Use Effaxle = 0.955 for T ≥ 0, and use Effaxle = 1/0.955 for T < 0.

To calculate fnrefi,dyno for a dynamometer connected at the wheel hubs, as described in paragraph (f)(2) of this section, use Effaxle = 1.0.

M = vehicle mass for a vehicle class as determined in paragraph (i) of this section.

g = gravitational constant = 9.81 m/s².

Crr = coefficient of rolling resistance for a vehicle class as determined in paragraph (i) of this section.

Gi-1 = the percent grade interpolated at distance, Di-1, from the duty cycle in Appendix IV corresponding to measurement (i-1).

ρ = air density at reference conditions. Use ρ = 1.1845 kg/m³.

CdA = drag area for a vehicle class as determined in paragraph (i) of this section.

Fbrake,i-1 = instantaneous braking force applied by the driver model.

Δt = the time interval between measurements. For example, at 100 Hz, Δt = 0.0100 seconds.

Mrotating = inertial mass of rotating components. Let Mrotating = 340 kg for vocational Light HDV or vocational Medium HDV. See paragraph (i) of this section for tractors and for vocational Heavy HDV.

Example:

This example is for a vocational Light HDV or vocational Medium HDV with 6 speed automatic transmission at B speed (Test 4 in Table 2 of 40 CFR 1036.540).

kaB = 4.0

rB = 0.399 m

T999 = 500.0 N·m

Crr = 7.7 kg/tonne = 7.7·10−³ kg/kg

M = 11408 kg

CdA = 5.4 m²

G999 = 0.39% = 0.0039

Fbrake,999 -0 N

vref,999 = 20.0 m/s

Fgrade,999 = 11408·9.81·sin(atan(0.0039)) = 436.5 N

Δt = 0.0100 s

Mrotating = 340 kg

(2) For testing with the speed measurement at the wheel hubs, calculate fnref,dyno using Eq. 1037.550-1, setting ka[speed] equal to 1.

(h) Design a driver model to simulate a human driver modulating the throttle and brake pedals to follow the test cycle as closely as possible. The driver model must meet the speed requirements for operation over the highway cruise cycles as described in § 1037.510 and for operation over the transient cycle as described in 40 CFR 1066.425(b). The exceptions in 40 CFR 1066.425(b)(4) apply to the transient cycle and the highway cruise cycles. Design the driver model to meet the following specifications:

(1) Send a brake signal when throttle position is zero and vehicle speed is greater than the reference vehicle speed from the test cycle. Include a delay before changing the brake signal to prevent dithering, consistent with good engineering judgment.

(2) Allow braking only if throttle position is zero.

(3) Compensate for the distance driven over the duty cycle over the course of the test. Use the following equation to perform the compensation in real time to determine your time in the cycle:

Where:

vvehicle = measured vehicle speed.

vcycle = reference speed from the test cycle. If vcycle,i-1 < 1.0 m/s, set vcycle,i-1 = vvehicle,i-1.

(i) Configure the vehicle model in the test cell to test the powertrain using at least three equally spaced axle ratios or tire sizes and three different road loads (nine configurations), or at least four equally spaced axle ratios or tire sizes and two different road loads (eight configurations) to cover the range of intended vehicle applications. Select axle ratios to represent the full range of expected vehicle installations. Determine the vehicle model inputs for vehicle mass, C̱dA̱, and Crr for a set of vehicle configurations as described in 40 CFR 1036.540(c)(3). You may instead test to simulate eight or nine vehicle configurations from different vehicle categories if you limit your powertrains to a certain range of vehicles. For example, if your powertrain will be installed only in vocational Medium HDV and vocational Heavy HDV, you may perform testing to represent eight or nine vehicle configurations using vehicle masses for Medium HDV and Heavy HDV, the predefined C̱dA̱ for those vehicles, and the lowest and highest Crr of the tires that will be installed on those vehicles. Also, instead of selecting axle ratios and tire sizes based on the range of intended vehicle applications as described in this paragraph (i), you may select axle ratios and tire sizes such that the ratio of engine speed over vehicle speed covers the range of ratios of minimum and maximum engine speed over vehicle speed when the transmission is in top gear for the vehicles the powertrain will be installed in. For hybrid powertrain systems where the transmission will be part of the vehicle model, use the transmission parameters defined in Table 1 of 40 CFR 1036.540 to determine transmission type and gear ratio and a fixed transmission efficiency of 0.95.

(j) Operate the powertrain over each of the duty cycles specified in § 1037.510(a)(2), and for each applicable test configuration identified in 40 CFR 1036.540(c). Test the powertrain according to 40 CFR 1036.540(d), understanding “engine” to mean “powertrain”, with the following exceptions:

(1) Add a 20-second transition period between adjacent duty cycles. If you are transitioning from an engine stop situation, transition to the next cycle within 60 seconds. For cruise cycles, add a 40-second stabilization period after the transition period before starting the next cycle.

(2) You may use GEM or your own vehicle model to calculate cycle work for determining cycle run order.

(3) Calculate the mass of fuel consumed for the idle duty cycles as described in paragraph (n) of this section.

(k) Collect and measure emissions as described in 40 CFR part 1065. For hybrid powertrains with no plug-in capability, correct for the net energy change of the energy storage device as described in 40 CFR 1066.501. For PHEV powertrains, follow 40 CFR 1066.501 to determine End-of-Test for charge-depleting operation. You must get our approval in advance for your utility factor curve; we will approve it if you can show that you created it from sufficient in-use data of vehicles in the same application as the vehicles in which the PHEV powertrain will be installed.

(l) [Reserved]

(m) For each test point, validate the measured output speed with the corresponding reference values. If the range of reference speed is less than 10 percent of the mean reference speed, you need to meet only the standard error of estimate in Table 1 of this section. You may delete points when the vehicle is stopped. If your speed measurement is not at the location of fn,ref, you may correct your measured speed by the constant speed ratio between the two locations. Apply cycle-validation criteria for each separate transient or highway cruise cycle based on the following parameters:

Table 1 of § 1037.550—Statistical Criteria for Validating Duty Cycles
Parameter ᵃ | Speed control
Slope, a1 | 0.990 ≤ a1 ≤ 1.010.
Absolute value of intercept, |a0| | ≤2.0% of maximum vref speed.
Standard error of estimate, SEE | ≤2.0% of maximum vref speed.
Coefficient of determination, r ² | ≥0.990.
ᵃDetermine values for specified parameters as described in 40 CFR 1065.514(e) by comparing measured and reference values for fnref,dyno.

(n) Determine the mass of fuel consumed at idle for the applicable duty cycles described in § 1037.510(a)(2) as follows:

(1) Measure fuel consumption with a fuel flow meter and report the mean fuel mass flow rate for each duty cycle as applicable, ṁ̄fuelidle.

(2) For measurements that do not involve measured fuel mass flow rate, calculate the fuel mass flow rate for each duty cycle, ṁ̄fuelidle, for each set of vehicle settings, as follows:

Where:

MC = molar mass of carbon.

wCmeas = carbon mass fraction of fuel (or mixture of test fuels) as determined in 40 CFR 1065.655(d), except that you may not use the default properties in Table 1 of 40 CFR 1065.655 to determine α, β, and wC for liquid fuels.

ṅ̄exh = the mean raw exhaust molar flow rate from which you measured emissions according to 40 CFR 1065.655.

x̄Ccombdry = the mean concentration of carbon from fuel and any injected fluids in the exhaust per mole of dry exhaust.

x̄H2Oexhdry = the mean concentration of H2O in exhaust per mole of dry exhaust.

ṁ̄CO2DEF = the mean CO2 mass emission rate resulting from diesel exhaust fluid decomposition over the duty cycle as determined in 40 CFR 1036.535(b)(10). If your engine does not use diesel exhaust fluid, or if you choose not to perform this correction, set ṁ̄CO2DEFequal to 0.

MCO2 = molar mass of carbon dioxide.

Example

MC = 12.0107 g/mol

wCmeas = 0.867

ṅ̄exh = 25.534 mol/s

x̄Ccombdry = 2.805−10⁻³ mol/mol

x̄H2Oexhdry = 3.53−10⁻² mol/mol

ṁ̄CO2DEF = 0.0726 g/s

MCO2 = 44.0095

ṁ̄fuelidle = 0.405 g/s = 1458.6 g/hr

(o) Use the results of powertrain testing to determine GEM inputs for the different simulated vehicle configurations as follows:

(1) Select fuel-consumption rates, mfuel[cycle], in g/cycle. In addition, declare a fuel mass consumption rate for each applicable idle duty cycle, ṁ̄fuelidle . These declared values may not be lower than any corresponding measured values determined in this section. If you use multiple measurement methods as allowed in 40 CFR 1036.540(d), follow 40 CFR 1036.540(g) regarding the use of direct and indirect fuel measurements and the carbon balance error verification. You may select any value that is at or above the corresponding measured value. These declared fuel-consumption rates, which serve as emission standards, represent collectively as the certified powertrain fuel map.

(2) Powertrain output speed per unit of vehicle speed.

(i) If the test is done with the torque measurement at the wheel hubs, set ka to the axle ratio of the rear axle that was used in the test. If the vehicle does not have a drive axle, such as hybrid vehicles with direct electric drive, let ka = 1.

(ii) If the test is done with the torque measurement at the powertrain's output shaft that would connect to the transmission, follow 40 CFR 1036.540(e)(2) to determine powertrain output speed per unit vehicle speed.

(3) Positive work, W[cycle], over the duty cycle at the transmission output, wheel hubs, or the powertrain's output shaft that would connect to the transmission from the powertrain test.

(4) The following table illustrates the GEM data inputs corresponding to the different vehicle configurations:

(5) The engine idle speed, by taking the average engine speed measured during the engine test while the vehicle is not moving. Note that GEM has a flag to indicate when the vehicle is moving.

(p) Correct the measured or calculated fuel mass, mfuel, and idle fuel mass flow rate, ṁ̄fuelidle if applicable, for each test result to a mass-specific net energy content of a reference fuel as described in 40 CFR 1036.535(f), replacing ṁ̄fuel with mfuel where applicable in Eq. 1036.535-4.

(q) For each test run, record the engine speed and torque as defined in 40 CFR 1065.915(d)(5) with a minimum sampling frequency of 1 Hz. These engine speed and torque values represent a duty cycle that can be used for separate testing with an engine mounted on an engine dynamometer under § 1037.551, such as for a selective enforcement audit as described in § 1037.301.

153. Amend § 1037.551 by revising paragraph (b) to read as follows:

§ 1037.551 Engine-based simulation of powertrain testing.

* * * * *

(b) Operate the engine over the applicable engine duty cycles corresponding to the vehicle cycles specified in § 1037.510(a)(2) for powertrain testing over the applicable vehicle simulations described in § 1037.550(i). Warm up the engine to prepare for the transient test or one of the highway cruise cycles by operating it one time over one of the simulations of the corresponding duty cycle. Warm up the engine to prepare for the idle test by operating it over a simulation of the 65-mi/hr highway cruise cycle for 600 seconds. Within 60 seconds after concluding the warm up cycle, start emission sampling while the engine operates over the duty cycle. You may perform any number of test runs directly in succession once the engine is warmed up. Perform cycle validation as described in 40 CFR 1065.514 for engine speed, torque, and power.

* * * * *

154. Amend § 1037.560 by revising paragraphs (a), (b)(7), (c), (e), and (f) and adding paragraph (h) to read as follows:

§ 1037.560 Axle efficiency test.

* * * * *

(a) You may establish axle power loss maps based on testing any number of axle configurations within an axle family as specified in § 1037.232. You may share data across a family of axle configurations, as long as you test the axle configuration with the lowest efficiency from the axle family; this will generally involve testing the axle with the highest axle ratio. For vehicles with tandem drive axles, always test each drive axle separately. For tandem axles that can be disconnected, test both single-drive and tandem axle configurations. Alternatively, you may analytically derive power loss maps for untested configurations within the same family as defined in paragraph (h) of this section.

(b) * * *

(7) You may drain the gear oil following the break-in procedure and repeat the filling procedure described in paragraph (b)(4) of this section. We will follow your protocol for our testing.

(c) Measure input and output speed and torque as described in 40 CFR 1065.210(b), except that you must use a speed-measurement system that meets an accuracy of ±0.05% of point. Use torque transducers that meet an accuracy requirement of ±0.2% of the maximum axle input torque or output torque tested for loaded test points, and ±1.0 N·m for unloaded test points. Calibrate and verify measurement instruments according to 40 CFR part 1065, subpart C. Command speed and torque at a minimum of 10 Hz, and record all data, including bulk oil temperature, as 1 Hz mean values.

* * * * *

(e) Determine axle efficiency using the following procedure:

(1) Maintain ambient temperature between (15 and 35) °C throughout testing. Measure ambient temperature within 1.0 m of the axle assembly. Verify that critical axle settings (such as bearing preload, backlash, and oil sump level) are within specifications before and after testing.

(2) Maintain gear oil temperature at (81 to 83) °C. You may specify an alternative range with lower temperatures; if you measure temperature to the nearest 0.1 °C, the maximum allowable range is 3.0 °C. We will test your axle using the same temperature range you used for testing. Measure gear oil temperature at the drain of the sump. You may use an external gear oil conditioning system, as long as it does not affect measured values.

(3) Use good engineering judgment to warm up the axle by operating it until the gear oil is within the specified temperature range.

(4) Stabilize operation at each point in the test matrix for at least 10 seconds, then measure the input torque, output torque, and wheel speed for at least 10 seconds, recording the mean values for all three parameters. Calculate power loss as described in paragraph (f) of this section based on torque and speed values at each test point.

(5) Perform the map sequence described in paragraph (e)(4) of this section three times. Remove torque from the input shaft and allow the axle to come to a full stop before each repeat measurement.

(6) You may need to perform additional testing based on a calculation of repeatability at a 95% confidence level. Make a separate repeatability calculation for the three data points at each operating condition in the test matrix. If the confidence limit is greater than 0.10% for loaded tests or greater than 0.05% for unloaded tests, perform another repeat of measurements at that operating condition and recalculate the repeatability for the whole set of test results. Continue testing until the repeatability is at or below the specified values for all operating conditions. Calculate a confidence limit representing the repeatability in establishing a 95% confidence level using the following equation:

Where:

σPloss = standard deviation of power loss values at a given torque-speed setting (see 40 CFR 1065.602(c)).

N = number of repeat tests.

Pmax = maximum output torque setting from the test matrix.

Example:

σPloss = 165.0 W

N = 3

Pmax = 314200 W

Confidence Limit = 0.0594%

(7) Calculate mean input torque, T̄in, mean output torque, T̄out, and mean wheel rotational speed, f̄nwheel, for each point in the test matrix for each test.

(f) Calculate the mean power loss, Ploss, at each operating condition in the test matrix as follows:

(1) Ploss is the mean power loss, for each test, at each operating condition.

(2) For each test calculate the mean power loss, Ploss, as follows:

Where:

T̄in = mean input torque.

f̄nwheel = mean wheel rotational speed.

ka = drive axle ratio, expressed to at least the nearest 0.001.

T̄out = mean output torque. Let T̄out = 0 for all unloaded tests.

Example:

T̄in = 845.1 N·m f̄nwheel = 100 r/min = 10.472 rad/s

ka = 3.731

T̄out = 3000 N·m

P̄loss = 845.1·10.472·3.731−3000·10.472

P̄loss,1 = 1602.9 W = 1.6029 kW

P̄loss,2 = 1601.9 W = 1.6019 kW

P̄loss,3 = 1603.9 W = 1.6039 kW

* * * * *

(h) You may analytically derive axle power loss maps for untested configurations within the same family as follows:

(1) Test a minimum of three numeric ratios within the same family according to this section. Test each of these axles at the same speed and torque test points. Test the smallest and largest numeric axle ratios within the family and an axle ratio with a value that is near the arithmetic mean of the smallest and largest axle ratios.

(2) Perform a second order least-squares regression of the declared power loss values versus the axle ratio for each speed and torque test point in the power loss map.

(i) If the coefficient of the second order term is positive, then proceed to paragraph (c) of this section.

(ii) If the coefficent of the second order term is negative, either retest the axle(s) or increase the power loss of the largest and smallest axle ratio test points by the same multiplier until the second order term of the least-squares regression is positive.

(3) Use linear interpolation, between the smallest and largest axle ratios, for each speed and torque test point in the power loss map to determine power loss of untested axles for each test point.

155. Amend § 1037.565 by revising paragraphs (c), (d), (e)(6), (7), (8), and (10), (f)(1), and (g) to read as follows:

§ 1037.565 Transmission efficiency test.

* * * * *

(c) Measure input and output shaft speed and torque as described in 40 CFR 1065.210(b), except that you must use a-speed measurement system that meets an accuracy of ±0.05% of point. Use torque transducers that meet an accuracy requirement of ±0.2% of the transmission's maximum rated input torque or output torque for the selected gear ratio, for loaded test points, and ±0.1% of the transmission's maximum rated input torque for unloaded test points. Calibrate and verify measurement instruments according to 40 CFR part 1065, subpart C. Command speed and torque at a minimum of 10 Hz, and record all data, including bulk oil temperature, at a minimum of 1 Hz mean values.

(d) The test matrix consists of transmission input shaft speeds and torque setpoints meeting the following specifications for each gear tested:

(1) Include transmission input shaft speeds at the maximum rated input shaft speed, 600 r/min, and three equally spaced intermediate speeds. The intermediate speed points may be adjusted to the nearest 50 or 100 r/min. You may increase the number of speed test points to improve the accuracy of the transmission power loss map, consistent with good engineering judgment.

(2) Include one loaded torque setpoint between 75% and 105% of the maximum transmission input torque and one unloaded (zero-torque) setpoint. You may test at any number of additional torque setpoints to improve accuracy. Note that GEM calculates power loss between tested or default values by linear interpolation.

(3) In the case of transmissions that automatically go into neutral when the vehicle is stopped, also perform tests at 600 r/min and 800 r/min with the transmission in neutral and the transmission output fixed at zero speed.

(4) Test all the gears at the transmission input shaft speeds and torque setpoints as described in this paragraph (d). You may exclude the lower gears from testing; however, you must test all the gears above the highest excluded gear. If you choose this option, GEM will use default values for any gears not tested.

(e) * * *

(6) Operate the transmission at a selected gear and torque setpoint with the input shaft speed at one of the speed setpoints from paragraph (d) of this section for at least 10 seconds, then measure the speed and torque of the input and output shafts for at least 10 seconds. You may omit measurement of output shaft speeds if your transmission is configured in a way that does not allow slip. Calculate arithmetic mean values for all speed and torque values over each measurement period. Repeat this stabilization, measurement, and calculation for the other speed and torque setpoints from the test matrix in any sequence. Calculate power loss as described in paragraph (f) of this section based on torque and speed values at each test point.

(7) Repeat the procedure described in paragraph (e) for all gears, or for all gears down to a selected gear.

(8) Perform the test sequence described in paragraphs (e)(6) and (7) of this section three times. You may do this repeat testing at any given test point before you perform measurements for the whole test matrix. Remove torque from the transmission input shaft and bring the transmission to a complete stop before each repeat measurement.

* * * * *

(10) Calculate mean input shaft torque, T̄in, mean output shaft torque, T̄out, mean input shaft speed, f̄nin, and mean output shaft speed, f̄nout, for each point in the test matrix for each test.

(f) * * *

(1) P̄loss is the mean power loss, for each test, at each operating condition.

* * * * *

(g) Create a table showing the mean power loss, Ploss, corresponding to each mean transmission input speed and mean input torque for input into GEM. Also include mean power loss in neutral for each tested engines speed, if applicable. Express transmission input speed in r/min to one decimal place; express input torque in N·m to two decimal places; express power loss in kW to four decimal places. Select mean power loss values at or above the corresponding value calculated in paragraph (f) of this section. Use good engineering judgment to select values that will be at or above the mean power loss values for your production transmissions. Vehicle manufacturers will use these declared mean power loss values for certification.

156. Add § 1037.570 to Subpart F to read as follows:

§ 1037.570 Determination of torque converter capacity factors.

This section describes a procedure for mapping torque converter capacity factors through a determination of torque converter input and output speeds and torques.

(a) You may establish torque converter capacity factors based on testing any torque converter. Alternatively, you may ask us to approve torque converter capacity factors for untested configurations that are analytically derived from tested configurations (see § 1037.235(h)).

(b) Prepare a torque converter for testing as follows:

(1) Select a torque converter with less than 500 hours of operation before testing.

(2) Mount the torque converter with transmission to the dynamometer in either a serial or parallel arrangement. If you choose a serial arrangement, you may test without the transmission.

(3) Add transmission oil according to the torque converter manufacturer's instructions. If the torque converter manufacturer specifies multiple transmission oils, select the one with the highest viscosity at operating temperature. You may use a lower-viscosity transmission oil if we approve that as critical emission-related maintenance under § 1037.125. Fill the transmission oil to a level that represents in-use operation. If you are testing the torque converter only, the input torque converter transmission oil flow rate and output pressure must be kept within the torque converter manufacturer's limits for the transmission type and maximum input speed. You may use an external transmission oil conditioning system, as long as it does not affect measured values.

(4) Install equipment for measuring the bulk temperature of the transmission oil in the oil sump or a similar location. If the torque converter is tested without the transmission, measure the oil temperature prior to where it enters the torque converter.

(5) If the torque converter is equipped with a lock, unlock it for all testing performed in this section. If equipped with slipping lockup clutch technology you may ask us to approve a different strategy if you have data showing that it represents better in-use operation.

(6) Break in the torque converter and transmission (if applicable) using good engineering judgment. Maintain transmission oil temperature at (87 to 93) °C. You may ask us to approve a different range of transmission oil temperatures if you have data showing that it better represents in-use operation.

(c) Measure input and output shaft speed and torque as described in 40 CFR 1065.210(b), except that you must use a speed measurement system that meets an accuracy of ±0.1% of point or 1 r/min, whichever is greater. Use torque transducers that meet an accuracy requirement of ±1.0% of the torque converter's maximum rated input torque or output torque for loaded and unloaded test points. Calibrate and verify measurement instruments according to 40 CFR part 1065, subpart C. Command speed and torque at a minimum of 10 Hz, and record all data, including bulk oil temperature, at a minimum of 1 Hz mean values.

(d) The test matrix consists of torque converter constant input shaft speeds or input shaft torque setpoints depending on the measurement option that you choose.

(1) To determine torque converter characteristics at constant input speed:

(i) Select an input rotational pump speed, fnpum, fixed to a constant speed between (1000 and 2000) r/min.

(ii) Test the torque converter at multiple speed ratios, v, in the range of v = 0 to v = 0.95. Use a step width of 0.1 for the range of v = 0 to 0.6 and 0.05 for the range of v = 0.6 to 0.95.

(2) To determine torque converter characteristics at constant input torque:

(i) Set the input pump torque, Tpum, to a positive level at fnpum = 1000 r/min with the output shaft of the torque converter locked in a non-rotating state (output rotational turbine speed, ntur, = 0 r/min).

(ii) Test the torque converter at multiple speed ratios, v, in the range of v = 0 up to a usable value of ƒntur that covers the usable range of v with at least seven evenly distributed points. Use a step width of 0.1 for the range of v = 0 to 0.6 and 0.05 for the range of v = 0.6 to 0.95.

(e) Characterize the torque converter using the following procedure:

(1) Maintain ambient temperature between (15 and 35) °C throughout testing. Measure ambient temperature within 1.0 m of the torque converter.

(2) Maintain transmission oil temperature as described in paragraph (b)(6) of this section. You may use an external transmission oil conditioning system, as long as it does not affect measured values.

(3) Use good engineering judgment to warm up the torque converter according to the torque converter manufacturer's specifications.

(4) Operate the torque converter as follows:

(i) For testing at constant input speed, set the input rotational pump speed to the value chosen in paragraph (d)(1)(i) of this section.

(ii) For testing at constant input torque, set the input pump torque and pump speed to the values chosen in paragraph (d)(2)(i) of this section.

(5) Operate the torque converter at v = 0 for (5 to 60) seconds, then measure input pump torque, Tpum, output turbine torque, Ttur, input rotational pump speed, ƒnpum, output rotational turbine speed, ƒntur, and the torque converter inlet oil temperature, TTCin, for (5 to 15) seconds. Calculate arithmetic mean values for all speed and torque values over each measurement period. Repeat this stabilization, measurement, and calculation for the other speed ratios from the test matrix in order of increasing speed ratio. Adjust the speed ratio by increasing the output rotational turbine speed. You may limit the upper speed ratio to a value below 0.95 if you have data that shows this better represents in-use operation. If you choose a lower this limit you must test at least seven evenly distributed points between v = 0 and your new upper speed ratio.

(6) Perform the test sequence described in paragraph (e)(5) of this section two times.

(7) Calculate mean input pump torque, T̄pum, mean output turbine torque, T̄tur, mean input rotational pump speed, fnpum, and mean output rotational turbine speed, f̄ntur, for each point in the test matrix for each of the repeat tests.

(8) The deviation between the mean of the two torque measurement sets cannot exceed ±5% of the average or ±1 N·m (whichever is greater) or the test mest be repeated.

(9) The deviation for the complete speed ratio series between the measured and averaged speed and torque values at the input shaft may not exceed ±5 rpm and ±5 N·m of the speed and torque set points for each measured operating point. If any of these ranges are exceed, the test must be repeated.

(f) Calculate the mean torque ratio, l, at each operating condition in the test matrix as follows:

(1) μ̄ is the mean torque ratio, for each of the tests, at each operating condition.

(2) For each test calculate the mean torque ratio, μ̄, as follows:

Where:

T̄tur = mean output turbine torque.

T̄pum = mean input pump torque.

(g) Calculate the mean capacity factor, k, at each operating condition in the test matrix as follows:

(1) K̄ is the mean capacity factor, for each of the tests, at each operating condition.

(2) For each test calculate the mean capacity factor, K̄, as follows:

Where:

f̄npum = mean input rotational pump speed.

T̄pum = mean input pump torque.

Example:

f̄npum = 1000.0 r/min

T̄pum = 150.8 N·m

(h) Create a table showing the mean torque ratio, l, and mean capacity factor, k, at each of corresponding speed ratios, v, that were tested, for input into GEM. Express mean torque ratio to two decimal places; express mean capacity factor in r/(min·(N·m)0.5) to one decimal place; express speed ratio to two decimal places.

157. Amend § 1037.621 by revising paragraph (g) introductory text to read as follows:

§ 1037.621 Delegated assembly.

* * * * *

(g) We may allow certifying vehicle manufacturers to authorize dealers or distributors to reconfigure/recalibrate vehicles after the vehicles have been introduced into commerce if they have not yet been delivered to the ultimate purchaser as follows:

* * * * *

158. Amend § 1037.660 by revising paragraph (a)(2) and adding paragraph (b)(3)(ii) to read as follows:

§ 1037.660 Idle-reduction technologies.

* * * * *

(a) * * *

(2) Neutral idle. Phase 2 vehicles with hydrokinetic torque converters paired with automatic transmissions qualify for neutral-idle credit in GEM modeling if the transmission reduces torque equivalent to shifting into neutral throughout the interval during which the vehicle's brake pedal is depressed and the vehicle is at a zero-speed condition (beginning within two seconds of the vehicle reaching zero speed with the brake depressed). If a vehicle reduces torque partially but not enough to be equivalent to shifting to neutral, you may use the provisions of § 1037.610(g) to apply for an appropriate partial emission reduction; this may involve A to B testing with the powertrain test procedure in § 1037.550 or the spin-loss portion of the transmission efficiency test in § 1037.565.

* * * * *

(b) * * *

(3) * * *.

(ii) When the transmission is in reverse gear.

* * * * *

159. Amend § 1037.665 by revising paragraph (c) to read as follows:

§ 1037.665 Production and in-use tractor testing.

* * * * *

(c) We may approve your request to perform alternative testing that will provide equivalent or better information compared to the specified testing. For example, we may allow you to provide CO2 data from in-use operation or from manufacturer-run on-road testing as long as it allows for reasonable year-to-year comparisons and includes testing from non-prototype vehicles. We may also direct you to do less testing than we specify in this section.

* * * * *

160. Amend § 1037.670 by revising the section heading and paragraphs (a) and (b) to read as follows:

§ 1037.670 Optional CO2 emission standards for tractors at or above 120,000 pounds GCWR.

(a) You may certify tractors at or above 120,000 pounds GCWR to the following CO2 standards instead of the Phase 2 CO2 standards of § 1037.106:

Table 1 of § 1037.670—Optional Phase 2 CO2 Standards for Tractors Above 120,000 Pounds GCWR
[g/ton-mile] ᵃ
Subcategory | Model years 2021-2023 | Model years 2024-2026 | Model years 2026 and later
Heavy Class 8 Low-Roof Day Cab | 53.5 | 50.8 | 48.9
Heavy Class 8 Low-Roof Sleeper Cab | 47.1 | 44.5 | 42.4
Heavy Class 8 Mid-Roof Day Cab | 55.6 | 52.8 | 50.8
Heavy Class 8 Mid-Roof Sleeper Cab | 49.6 | 46.9 | 44.7
Heavy Class 8 High-Roof Day Cab | 54.5 | 51.4 | 48.6
Heavy Class 8 High-Roof Sleeper Cab | 47.1 | 44.2 | 41.0
ᵃ Note that these standards are not directly comparable to the standards for Heavy-Haul Tractors in § 1037.106 because GEM handles aerodynamic performance differently for the two sets of standards.

(b) Determine subcategories as described in § 1037.230 for tractors that are not heavy-haul tractors. For example, the subcategory for tractors that would otherwise be considered Class 8 low-roof day cabs would be Heavy Class 8 Low-Roof Day Cabs and would be identified as HC8_DC_LR for the GEM run.

* * * * *

161. Amend § 1037.701 by revising paragraph (h) to read as follows:

§ 1037.701 General provisions.

* * * * *

(h) See § 1037.740 for special credit provisions that apply for credits generated under 40 CFR 86.1819-14(k)(7), 40 CFR 1036.615, or § 1037.615.

* * * * *

162. Amend § 1037.705 by revising paragraph (c)(2) to read as follows:

§ 1037.705 Generating and calculating emission credits.

* * * * *

(c) * * *

(2) Exported vehicles. This exclusion applies even for exported vehicles that are certified under this part and labeled accordingly.

* * * * *

163. Amend § 1037.745 by revising the section heading to read as follows.

§ 1037.745 End-of-year CO2 credit deficits.

* * * * *

164. Amend § 1037.801 by:

a. Revising the definitions for “Compression-ignition” and “Electric vehicle”;

b. Adding a definition for “Engine control module” in alphabetical order;

c. Revising the definition for “Heavy-duty vehicle;

d. Adding a definition for “High-strength steel” in alphabetical order;

e. Revising the definitions for “Light-duty truck”, “Low rolling resitance tire”, and “Model year”; and

f. Adding a definition for “Tonne” in alphabetical order.

The revisions and additions read as follows:

§ 1037.801 Definitions.

* * * * *

Compression-ignition has the meaning given in § 1037.101.

* * * * *

Electric vehicle means a motor vehicle that does not include an engine, and is powered solely by an external source of electricity and/or solar power. Note that this does not include hybrid electric vehicles or fuel-cell vehicles that use a chemical fuel such as gasoline, diesel fuel, or hydrogen. Electric vehicles may also be referred to as all-electric vehicles to distinguish them from hybrid vehicles.

* * * * *

Engine control module has the meaning given in 40 CFR 1065.1001.

* * * * *

Heavy-duty vehicle means any trailer and any other motor vehicle that has a GVWR above 8,500 pounds. An incomplete vehicle is also a heavy-duty vehicle if it has a curb weight above 6,000 pounds or a basic vehicle frontal area greater than 45 square feet.

* * * * *

High-strength steel has the meaning given in § 1037.520.

* * * * *

Light-duty truck means any motor vehicle that is not a heavy-duty vehicle, but is:

(1) Designed primarily for purposes of transportation of property or is a derivation of such a vehicle; or

(2) Designed primarily for transportation of persons and has a capacity of more than 12 persons; or

(3) Available with special features enabling off-street or off-highway operation and use.

* * * * *

Low rolling resistance tire means a tire on a vocational vehicle with a TRRL at or below of 7.7 kg/tonne, a steer tire on a tractor with a TRRL at or below 7.7 kg/tonne, a drive tire on a tractor with a TRRL at or below 8.1 kg/tonne, a tire on a non-box trailer with a TRRL at or below of 6.5 kg/tonne, or a tire on a box van with a TRRL at or below of 6.0 kg/tonne.

* * * * *

Model year means one of the following for compliance with this part 1037. Note that manufacturers may have other model year designations for the same vehicle for compliance with other requirements or for other purposes:

(1) For tractors and vocational vehicles with a date of manufacture on or after January 1, 2021, the vehicle's model year is the calendar year corresponding to the date of manufacture, except as follows:

(i) The vehicle's model year may be designated to be the year before the calendar year corresponding to the date of manufacture if the engine's model year is also from an earlier year. You may ask us to extend yor prior model year certificate to include such vehicles. Note that § 1037.601(a)(2) limits the extent to which vehicle manufacturers may install engines built in earlier calendar years.

(ii) The vehicle's model year may be designated to be the year after the calendar year corresponding to the date of manufacture. For example, a manufacturer may produce a new vehicle by installing the engine in December 2023 and designating it to be a model year 2024 vehicle.

(2) For trailers and for Phase 1 tractors and vocational vehicles with a date of manufacture before January 1, 2021, model year means the manufacturer's annual new model production period, except as restricted under this definition and 40 CFR part 85, subpart X. It must include January 1 of the calendar year for which the model year is named, may not begin before January 2 of the previous calendar year, and it must end by December 31 of the named calendar year. The model year may be set to match the calendar year corresponding to the date of manufacture.

(i) The manufacturer who holds the certificate of conformity for the vehicle must assign the model year based on the date when its manufacturing operations are completed relative to its annual model year period. In unusual circumstances where completion of your assembly is delayed, we may allow you to assign a model year one year earlier, provided it does not affect which regulatory requirements will apply.

(ii) Unless a vehicle is being shipped to a secondary vehicle manufacturer that will hold the certificate of conformity, the model year must be assigned prior to introduction of the vehicle into U.S. commerce. The certifying manufacturer must redesignate the model year if it does not complete its manufacturing operations within the originally identified model year. A vehicle introduced into U.S. commerce without a model year is deemed to have a model year equal to the calendar year of its introduction into U.S. commerce unless the certifying manufacturer assigns a later date.

* * * * *

Tonne means metric ton, which is exactly 1000 kg.

* * * * *

165. Amend § 1037.805 by revising paragraphs (b), (c), (d), and (e) to read as follows:

§ 1037.805 Symbols, abbreviations, and acronyms.

* * * * *

(b) Symbols for quantities. This part 1037 uses the following symbols and units of measure for various quantities:

Symbol | Quantity | Unit | Unit symbol | Unit in terms of SI base units
A | vehicle frictional load | pound force or newton | lbf or N | kg·m·s−2.
a | axle position regression coefficient
α | atomic hydrogen-to-carbon ratio | mole per mole | mol/mol | 1.
α | axle position regression coefficient
α0 | intercept of air speed correction
α1 | slope of air speed correction
ag | acceleration of Earth's gravity | meters per second squared | m/s² | m·s−2.
a0 | intercept of least squares regression
a1 | slope of least squares regression
B | vehicle load from drag and rolling resistance | pound force per mile per hour or newton second per meter | lbf/(mi/hr) or N·s/m | kg·s−1.
b | axle position regression coefficient
β | atomic oxygen-to-carbon ratio | mole per mole | mol/mol | 1.
β | axle position regression coefficient
β0 | intercept of air direction correction
β1 | slope of air direction correction
C | vehicle-specific aerodynamic effects | pound force per mile per hour squared or newton-second squared per meter squared | lbf/mph² or N·s²/m² | kg·m−1.
c | axle position regression coefficient
ci | axle test regression coefficients
Ci | constant
ΔCdA | differential drag area | meter squared | m² | m².
CdA | drag area | meter squared | m² | m².
Cd | drag coefficient
CF | correction factor
Crr | coefficient of rolling resistance | kilogram per metric ton | kg/tonne | 10−3.
D | distance | miles or meters | mi or m | m.
e | mass-weighted emission result | grams/ton-mile | g/ton-mi | g/kg-km.
Eff | efficiency
F | adjustment factor
F | force | pound force or newton | lbf or N | kg·m·s−2.
ƒn | angular speed (shaft) | revolutions per minute | r/min | π·30·s−1.
G | road grade | percent | % | 10−2.
g | gravitational acceleration | meters per second squared | m/s² | m·s−2.
h | elevation or height | meters | m | m.
i | indexing variable
ka | drive axle ratio |  |  | 1.
kd | transmission gear ratio
ktopgear | highest available transmission gear
L | load over axle | pound force or newton | lbf or N | kg·m·s−2.
m | mass | pound mass or kilogram | lbm or kg | kg.
M | molar mass | gram per mole | g/mol | 10−3·kg·mol−1.
M | vehicle mass | kilogram | kg | kg.
Me | vehicle effective mass | kilogram | kg | kg.
Mrotating | inertial mass of rotating components | kilogram | kg | kg.
N | total number in series
n | number of tires
ṅ | amount of substance rate | mole per second | mol/s | mol·s−1.
P | power | kilowatt | kW | 10³·m²·kg·s−3.
p | pressure | pascal | Pa | kg·m−1·s−2.
ρ | mass density | kilogram per cubic meter | kg/m³ | kg·m−3.
PL | payload | tons | ton | kg.
φ | direction | degrees | ° | °.
ψ | direction | degrees | ° | °.
r | tire radius | meter | m | m.
r² | coefficient of determination
Re# | Reynolds number
SEE | standard estimate of error
σ | standard deviation
TRPM | tire revolutions per mile | revolutions per mile | r/mi
TRRL | tire rolling resistance level | kilogram per metric ton | kg/tonne | 10−3.
T | absolute temperature | kelvin | K | K.
T | Celsius temperature | degree Celsius | °C | K−273.15.
T | torque (moment of force) | newton meter | N·m | m²·kg·s−2.
t | time | hour or second | hr or s | s.
Δt | time interval, period, 1/frequency | second | s | s.
UF | utility factor
v | speed | miles per hour or meters per second | mi/hr or m/s | m·s−1.
w | weighting factor
w | wind speed | miles per hour | mi/hr | m·s−1.
W | work | kilowatt-hour | kW·hr | 3.6·m²·kg·s−1.
wC | carbon mass fraction | gram/gram | g/g | 1.
WR | weight reduction | pound mass | lbm | kg.
x | amount of substance mole fraction | mole per mole | mol/mol | 1.

(c) Superscripts. This part uses the following superscripts for modifying quantity symbols:

Superscript | Meaning
overbar (such as ȳ) | arithmetic mean.
double overbar (such as y) | arithmetic mean of arithmetic mean.
overdot (such as ẏ) | quantity per unit time.

(d) Subscripts. This part uses the following subscripts for modifying quantity symbols:

Subscript | Meaning
±6 | ±6° yaw angle sweep.
A | A speed.
air | air.
aero | aerodynamic.
alt | alternative.
act | actual or measured condition.
air | air.
axle | axle.
B | B speed.
brake | brake.
C | C speed.
Ccombdry | carbon from fuel per mole of dry exhaust.
CD | charge-depleting.
circuit | circuit.
CO2DEF | CO2 resulting from diesel exhaust fluid decomposition.
CO2PTO | CO2 emissions for PTO cycle.
coastdown | coastdown.
comp | composite.
CS | charge-sustaining.
cycle | test cycle.
drive | drive axle.
drive-idle | idle with the transmission in drive.
driver | driver.
dyno | dynamometer.
effective | effective.
end | end.
eng | engine.
event | event.
fuel | fuel.
full | full.
grade | grade.
H2Oexhaustdry | H2O in exhaust per mole of exhaust.
hi | high.
i | an individual of a series.
idle | idle.
in | inlet.
inc | increment.
lo | low.
loss | loss.
max | maximum.
meas | measured quantity.
med | median.
min | minimum.
moving | moving.
out | outlet.
P | power.
pair | pair of speed segments.
parked-idle | idle with the transmission in park.
partial | partial.
ploss | power loss.
plug-in | plug-in hybrid electric vehicle.
powertrain | powertrain.
PTO | power take-off.
rated | rated speed.
record | record.
ref | reference quantity.
RL | road load.
rotating | rotating.
seg | segment.
speed | speed.
spin | axle spin loss.
start | start.
steer | steer axle.
t | tire.
test | test.
th | theoretical.
total | total.
trac | traction.
trac10 | traction force at 10 mi/hr.
trailer | trailer axle.
transient | transient.
TRR | tire rolling resistance.
urea | urea.
veh | vehicle.
w | wind.
wa | wind average.
yaw | yaw angle.
ys | yaw sweep.
zero | zero quantity.

(e) Other acronyms and abbreviations. This part uses the following additional abbreviations and acronyms:

ABT | averaging, banking, and trading.
AECD | auxiliary emission control device.
AES | automatic engine shutdown.
APU | auxiliary power unit.
CD | charge-depleting.
CFD | computational fluid dynamics.
CFR | Code of Federal Regulations.
CITT | curb idle transmission torque.
CS | charge-sustaining.
DOT | Department of Transportation.
ECM | engine control module.
EPA | Environmental Protection Agency.
FE | fuel economy.
FEL | Family Emission Limit.
GAWR | gross axle weight rating.
GCWR | gross combination weight rating.
GEM | greenhouse gas emission model.
GVWR | gross vehicle weight rating.
Heavy HDV | Heavy heavy-duty vehicle (see § 1037.140).
HVAC | heating, ventilating, and air conditioning.
ISO | International Organization for Standardization.
Light HDV | Light heavy-duty vehicle (see § 1037.140).
Medium HDV | Medium heavy-duty vehicle (see § 1037.140).
NARA | National Archives and Records Administration.
NHTSA | National Highway Transportation Safety Administration.
PHEV | plug-in hybrid electric vehicle.
PTO | power take-off.
RESS | rechargeable energy storage system.
rpm | revolutions per minute.
SAE | Society of Automotive Engineers.
SEE | standard error of estimate.
SKU | stock-keeping unit.
TRPM | tire revolutions per mile.
TRRL | tire rolling resistance level.
U.S.C | United States Code.
VSL | vehicle speed limiter.

* * * * *

166. Amend § 1037.810 by revising paragraphs (a) and (c)(2) to read as follows:

§ 1037.810 Incorporation by reference.

(a) Certain material is incorporated by reference into this part with the approval of the Director of the Federal Register under 5 U.S.C. 552(a) and 1 CFR part 51. To enforce any edition other than that specified in this section, the Environmental Protection Agency must publish a document in the Federal Register and the material must be available to the public. All approved material is available for inspection at EPA Docket Center, WJC West Building, Room 3334, 1301 Constitution Avenue NW, Washington, DC 20004, www.epa.gov/dockets, (202) 202-1744, and is available from the sources listed below. It is also available for inspection at the National Archives and Records Administration (NARA). For information on the availability of this material at NARA, email fedreg.legal@nara.gov, or go to www.archives.gov/federal-register/cfr/ibr-locations.html.

* * * * *

(c) * * *

(2) Greenhouse gas Emissions Model (GEM) Phase 2, Version 3.5, November 2019; IBR approved for §§ 1037.520 and 1037.550(b). The computer code for this model is available as noted in paragraph (a) of this section. A working version of this software is also available for download at https://www.epa.gov/regulations-emissions-vehicles-and-engines/greenhouse-gas-emissions-model-gem-medium-and-heavy-duty.

* * * * *

167. Revise Appendix IV to Part 1037 to read as follows:

Appendix IV to Part 1037—Heavy-Duty Grade Profile for Phase 2 Steady-State Test Cycles

The following table identifies a grade profile for operating vehicles over the highway cruise cycles specified in subpart F of this part. Determine intermediate values by linear interpolation.

Distance (m) | Grade (%)
0 | 0
402 | 0
804 | 0.5
1206 | 0
1210 | 0
1222 | −0.1
1234 | 0
1244 | 0
1294 | 0.36
1344 | 0
1354 | 0
1408 | −0.28
1504 | −1.04
1600 | −0.28
1654 | 0
1666 | 0
1792 | 0.39
1860 | 0.66
1936 | 1.15
2098 | 2.44
2260 | 1.15
2336 | 0.66
2404 | 0.39
2530 | 0
2548 | 0
2732 | −0.46
2800 | −0.69
2880 | −1.08
2948 | −1.53
3100 | −2.75
3252 | −1.53
3320 | −1.08
3400 | −0.69
3468 | −0.46
3652 | 0
3666 | 0
3742 | 0.35
3818 | 0.9
3904 | 1.59
3990 | 0.9
4066 | 0.35
4142 | 0
4158 | 0
4224 | −0.1
4496 | −0.69
4578 | −0.97
4664 | −1.36
4732 | −1.78
4916 | −3.23
5100 | −1.78
5168 | −1.36
5254 | −0.97
5336 | −0.69
5608 | −0.1
5674 | 0
5724 | 0
5808 | 0.1
5900 | 0.17
6122 | 0.38
6314 | 0.58
6454 | 0.77
6628 | 1.09
6714 | 1.29
6838 | 1.66
6964 | 2.14
7040 | 2.57
7112 | 3
7164 | 3.27
7202 | 3.69
7292 | 5.01
7382 | 3.69
7420 | 3.27
7472 | 3
7544 | 2.57
7620 | 2.14
7746 | 1.66
7870 | 1.29
7956 | 1.09
8130 | 0.77
8270 | 0.58
8462 | 0.38
8684 | 0.17
8776 | 0.1
8860 | 0
8904 | 0
9010 | −0.38
9070 | −0.69
9254 | −2.13
9438 | −0.69
9498 | −0.38
9604 | 0
9616 | 0
9664 | 0.26
9718 | 0.7
9772 | 0.26
9820 | 0
9830 | 0
9898 | −0.34
10024 | −1.33
10150 | −0.34
10218 | 0
10228 | 0
10316 | 0.37
10370 | 0.7
10514 | 1.85
10658 | 0.7
10712 | 0.37
10800 | 0
10812 | 0
10900 | −0.37
10954 | −0.7
11098 | −1.85
11242 | −0.7
11296 | −0.37
11384 | 0
11394 | 0
11462 | 0.34
11588 | 1.33
11714 | 0.34
11782 | 0
11792 | 0
11840 | −0.26
11894 | −0.7
11948 | −0.26
11996 | 0
12008 | 0
12114 | 0.38
12174 | 0.69
12358 | 2.13
12542 | 0.69
12602 | 0.38
12708 | 0
12752 | 0
12836 | −0.1
12928 | −0.17
13150 | −0.38
13342 | −0.58
13482 | −0.77
13656 | −1.09
13742 | −1.29
13866 | −1.66
13992 | −2.14
14068 | −2.57
14140 | −3
14192 | −3.27
14230 | −3.69
14320 | −5.01
14410 | −3.69
14448 | −3.27
14500 | −3
14572 | −2.57
14648 | −2.14
14774 | −1.66
14898 | −1.29
14984 | −1.09
15158 | −0.77
15298 | −0.58
15490 | −0.38
15712 | −0.17
15804 | −0.1
15888 | 0
15938 | 0
16004 | 0.1
16276 | 0.69
16358 | 0.97
16444 | 1.36
16512 | 1.78
16696 | 3.23
16880 | 1.78
16948 | 1.36
17034 | 0.97
17116 | 0.69
17388 | 0.1
17454 | 0
17470 | 0
17546 | −0.35
17622 | −0.9
17708 | −1.59
17794 | −0.9
17870 | −0.35
17946 | 0
17960 | 0
18144 | 0.46
18212 | 0.69
18292 | 1.08
18360 | 1.53
18512 | 2.75
18664 | 1.53
18732 | 1.08
18812 | 0.69
18880 | 0.46
19064 | 0
19082 | 0
19208 | −0.39
19276 | −0.66
19352 | −1.15
19514 | −2.44
19676 | −1.15
19752 | −0.66
19820 | −0.39
19946 | 0
19958 | 0
20012 | 0.28
20108 | 1.04
20204 | 0.28
20258 | 0
20268 | 0
20318 | −0.36
20368 | 0
20378 | 0
20390 | 0.1
20402 | 0
20406 | 0
20808 | −0.5
21210 | 0
21612 | 0

PART 1039—CONTROL OF EMISSIONS FROM NEW AND IN-USE NONROAD COMPRESSION-IGNITION ENGINES

168. The authority statement for part 1039 continues to read as follows:

Authority: 42 U.S.C. 7401-7671q.

169. Amend § 1039.1 by revising paragraphs (b)(3) and (c) to read as follows:

§ 1039.1 Does this part apply for my engines?

* * * * *

(b) * * *

(3) Engines originally meeting Tier 1, Tier 2, or Tier 3 standards as specified in Appendix I of this part remain subject to those standards. This includes uncertified engines that meet standards under 40 CFR 1068.265. Affected engines remain subject to recall provisions as specified in 40 CFR part 1068, subpart F, throughout the useful life corresponding to the original certification. Also, tampering and defeat−device prohibitions continue to apply for those engines as specified in 40 CFR 1068.101.

* * * * *

(c) The definition of nonroad engine in 40 CFR 1068.30 excludes certain engines used in stationary applications. These engines may be required by 40 CFR part 60, subpart IIII, to comply with some of the provisions of this part 1039; otherwise, these engines are only required to comply with the requirements in § 1039.20. In addition, the prohibitions in 40 CFR 1068.101 restrict the use of stationary engines for nonstationary purposes unless they are certified to the same standards that would apply to certain nonroad engines for the same model year.

* * * * *

170. Amend § 1039.20 by revising paragraph (a) introductory text, paragraphs (b)(2), (4), and (c) to read as follows:

§ 1039.20 What requirements from this part apply to excluded stationary engines?

* * * * *

(a) You must add a permanent label or tag to each new engine you produce or import that is excluded under § 1039.1(c) as a stationary engine and is not required by 40 CFR part 60, subpart IIII, to meet the requirements described in this part 1039, or the requirements described in 40 CFR part 1042, that are equivalent to the requirements applicable to marine or land-based nonroad engines for the same model year. To meet labeling requirements, you must do the following things:

* * * * *

(b) * * *

(2) Include your full corporate name and trademark.

* * * * *

(4) State: “THIS ENGINE IS EXEMPTED FROM NONROAD CERTIFICATION REQUIREMENTS AS A “STATIONARY ENGINE.” INSTALLING OR USING THIS ENGINE IN ANY OTHER APPLICATION MAY BE A VIOLATION OF FEDERAL LAW SUBJECT TO CIVIL PENALTY.”

(c) Stationary engines required by 40 CFR part 60, subpart IIII, to meet the requirements described in this part 1039 or 40 CFR part 1042, must meet the labeling requirements of 40 CFR 60.4210.

171. Amend § 1039.101 by revising the introductory text and paragraph (b) to read as follows:

§ 1039.101 What exhaust emission standards must my engines meet after the 2014 model year?

The exhaust emission standards of this section apply after the 2014 model year. Certain of these standards also apply for model year 2014 and earlier. This section presents the full set of emission standards that apply after all the transition and phase-in provisions of § 1039.102 and § 1039.104 expire. Section 1039.105 specifies smoke standards.

* * * * *

(b) Emission standards for steady-state testing. Steady-state exhaust emissions from your engines may not exceed the applicable emission standards in Table 1 of this section. Measure emissions using the applicable steady-state test procedures described in subpart F of this part.

Table 1 of § 1039.101—Tier 4 Exhaust Emission Standards After the 2014 Model Year, g/kW-hr ¹
Maximum engine power | Application | PM | NOX | NMHC | NOX + NMHC | CO
kW < 19 | All | ² 0.40 |  |  | 7.5 | ³ 6.6
19 ≤ kW < 56 | All | 0.03 |  |  | 4.7 | ⁴ 5.0
56 ≤ kW < 130 | All | 0.02 | 0.40 | 0.19 |  | 5.0
130 ≤ kW ≤ 560 | All | 0.02 | 0.40 | 0.19 |  | 3.5
kW > 560 | Generator sets | 0.03 | 0.67 | 0.19 |  | 3.5
kW > 560 | All except generator sets | 0.04 | 3.5 | 0.19 |  | 3.5
¹ Note that some of these standards also apply for 2014 and earlier model years. This table presents the full set of emission standards that apply after all the transition and phase-in provisions of § 1039.102 expire.
² See paragraph (c) of this section for provisions related to an optional PM standard for certain engines below 8 kW.
³ The CO standard is 8.0 g/kW-hr for engines below 8 kW.
⁴ The CO standard is 5.5 g/kW-hr for engines below 37 kW.

* * * * *

172. Amend § 1039.102 by:

a. Revising the introductory text and paragraph (a)(2);

b. Revising Tables 1, 3, and 6 in paragraph (b); and

c. Revising paragraphs (d)(1), (e)(3), (g)(1)(iv), and (g)(2).

The revisions read as follows:

§ 1039.102 What exhaust emission standards and phase-in allowances apply for my engines in model year 2014 and earlier?

The exhaust emission standards of this section apply for 2014 and earlier model years. See § 1039.101 for exhaust emission standards that apply to later model years.

(a) * * *

(2) The transient standards in this section for gaseous pollutants do not apply to phase-out engines that you certify to the same numerical standards (and FELs if the engines are certified using ABT) for gaseous pollutants as you certified under the Tier 3 requirements identified in Appendix I of this part. However, except as specified by paragraph (a)(1) of this section, the transient PM emission standards apply to these engines.

(b) * * *

Table 1 of § 1039.102—Tier 4 Exhaust Emission Standards (g/kW-hr): kW <19
Maximum engine power | Model years | PM | NOX + NMHC | CO
kW < 8 | 2008-2014 | ¹ 0.40 | 7.5 | 8.0
8 ≤ kW < 19 | 2008-2014 | 0.40 | 7.5 | 6.6
¹ For engines that qualify for the special provisions in § 1039.101(c), you may delay certifying to the standards in this part 1039 until 2010. In 2009 and earlier model years, these engines must instead meet the applicable Tier 2 standards and other requirements identified in Appendix I of this part. Starting in 2010, these engines must meet a PM standard of 0.60 g/kW-hr, as described in § 1039.101(c). Engines certified to the 0.60 g/kWhr PM standard may not generate ABT credits.

* * * * *

Table 3 of § 1039.102—Interim Tier 4 Exhaust Emission Standards (g/kW-hr): 37 > kW < 56
Option ¹ | Model years | PM | NOX + NMHC | CO
#1 | 2008-2012 | 0.30 | 4.7 | 5.0
#2 | 2012 | 0.03 | 4.7 | 5.0
All | 2013-2014 | 0.03 | 4.7 | 5.0
¹ You may certify engines to the Option #1 or Option #2 standards starting in the listed model year. Under Option #1, all engines at or above 37 kW and below 56 kW produced before the 2013 model year must meet the applicable Option #1 standards in this table. These engines are considered to be “Option #1 engines.” Under Option #2, all these engines produced before the 2012 model year must meet the applicable standards identified in Appendix I of this part. Engines certified to the Option #2 standards in model year 2012 are considered “Option #2 engines.”

* * * * *

Table 6 of § 1039.102—Interim Tier 4 Exhaust Emission Standards (g/kW-hr): 130 > kW > 560
Model years | Phase-in option | PM | NOX | NMHC | NOX + NMHC | CO
2011-2013 | Phase-in | 0.02 | 0.40 | 0.19 |  | 3.5
| Phase-out | 0.02 |  |  | 4.0 | 3.5
2014 | All engines | 0.02 | 0.40 | 0.19 |  | 3.5

* * * * *

(d) * * *

(1) For model years 2012 through 2014, you may use banked NOX + NMHC credits from any Tier 2 engine at or above 37 kW certified under the standards identified in Appendix I of this part to meet the NOX phase-in standards or the NOX + NMHC phase-out standards under paragraphs (b) and (c) of this section, subject to the additional ABT provisions in § 1039.740.

* * * * *

(e) * * *

(3) You use NOX + NMHC emission credits to certify an engine family to the alternate NOX + NMHC standards in this paragraph (e)(3) instead of the otherwise applicable alternate NOX and NMHC standards. Calculate the alternate NOX + NMHC standard by adding 0.1 g/kW-hr to the numerical value of the applicable alternate NOX standard of paragraph (e)(1) or (2) of this section. Engines certified to the NOX + NMHC standards of this paragraph (e)(3) may not generate emission credits. The FEL caps for engine families certified under this paragraph (e)(3) are the previously applicable NOX + NMHC standards identified in Appendix I of this part (generally the Tier 3 standards).

* * * * *

(g) * * *

(1) * * *

(iv) Gaseous pollutants for phase-out engines that you certify to the same numerical standards and FELs for gaseous pollutants to which you certified under the Tier 3 requirements identified in Appendix I of this part. However, the NTE standards for PM apply to these engines.

(2) Interim FEL caps. As described in § 1039.101(d), you may participate in the ABT program in subpart H of this part by certifying engines to FELs for PM, NOX, or NOX + NMHC instead of the standards in Tables 1 through 7 of this section for the model years shown. The FEL caps listed in the following table apply instead of the FEL caps in § 1039.101(d)(1), except as allowed by § 1039.104(g):

Table 8 of § 1039.102—Interim Tier 4 FEL Caps, g/kW-hr
Maximum engine power | Phase-in option | Model years ¹ | PM | NOX | NOX + NMHC
kW < 19 |  | 2008-2014 | 0.80 |  | ² 9.5
19 ≤ kW < 37 |  | 2008-2012 | 0.60 |  | 9.5
37 ≤ kW < 56 |  | ³ 2008-2012 | 0.40 |  | 7.5
56 ≤ kW < 130 | phase-in | 2012-2013 | 0.04 | 0.80 |
56 ≤ kW < 130 | phase-out | 2012-2013 | 0.04 |  | ⁴ 6.6
130 ≤ kW ≤ 560 | phase-in | 2011-2013 | 0.04 | 0.80 |
130 ≤ kW ≤ 560 | phase-out | 2011-2013 | 0.04 |  | ⁵ 6.4
kW > 560 |  | 2011-2014 | 0.20 | 6.2 |
¹ For model years before 2015 where this table does not specify FEL caps, apply the FEL caps shown in § 1039.101.
² For engines below 8 kW, the FEL cap is 10.5 g/kW-hr for NOX + NMHC emissions.
³ For manufacturers certifying engines to the standards of this part 1039 in 2012 under Option #2 of Table 3 of § 1039.102, the FEL caps for 37-56 kW engines in the 19-56 kW category of Table 2 of § 1039.101 apply for model year 2012 and later; see Appendix I of this part for provisions that apply to earlier model years.
⁴ For engines below 75 kW, the FEL cap is 7.5 g/kW-hr for NOX + NMHC emissions.
⁵ For engines below 225 kW, the FEL cap is 6.6 g/kW-hr for NOX + NMHC emissions.

173. Amend § 1039.104 by revising paragraphs (c)(1), (c)(2)(ii), (c)(4), and (g)(4) to read as follows:

§ 1039.104 Are there interim provisions that apply only for a limited time?

* * * * *

(c) * * *

(1) You may delay complying with certain otherwise applicable Tier 4 emission standards and requirements as described in the following table:

If your engine's maximum power is . . . | You may delay meeting . . . | Until model year . . . | Before that model year the engine must comply with . . .
kW < 19 | The standards and requirements of this part | 2011 | The standards and requirements described in Appendix I of this part.
19 ≤ kW < 37 | The Tier 4 standards and requirements of this part that would otherwise be applicable in model year 2013 | 2016 | The Tier 4 standards and requirements that apply for model year 2008.
37 ≤ kW < 56 | See paragraph (c)(2) of this section for special provisions that apply for engines in this power category.
56 ≤ kW < 130 | The standards and requirements of this part | 2015 | The standards and requirements described in Appendix I of this part.

(2) * * *

(ii) If you do not choose to comply with paragraph (c)(2)(i) of this section, you may continue to comply with the standards and requirements described in Appendix I of this part for model years through 2012, but you must begin complying in 2013 with Tier 4 standards and requirements specified in Table 3 of § 1039.102 for model years 2013 and later.

* * * * *

(4) For engines not in the 19-56 kW power category, if you delay compliance with any standards under this paragraph (c), you must do all the following things for the model years when you are delaying compliance with the otherwise applicable standards:

(i) Produce engines that meet all the emission standards identified in Appendix I of this part and other requirements applicable for that model year, except as noted in this paragraph (c).

(ii) Meet the labeling requirements that apply for certified engines, but use the following alternative compliance statement: “THIS ENGINE COMPLIES WITH U.S. EPA REGULATIONS FOR [CURRENT MODEL YEAR] NONROAD COMPRESSION-IGNITION ENGINES UNDER 40 CFR 1039.104(c).”

* * * * *

(g) * * *

(4) Do not apply TCAFs to gaseous emissions for phase-out engines that you certify to the same numerical standards (and FELs if the engines are certified using ABT) for gaseous pollutants as you certified under the Tier 3 requirements identified in Appendix I of this part.

Table 1 of § 1039.104—Alternate FEL Caps
Maximum engine power | PM FEL cap, g/kW-hr | Model years for the alternate PM FEL cap | NOX FEL cap, g/kW-hr ¹ | Model years for the alternate NOX FEL cap
19 ≤ kW < 56 | 0.30 | ²2012-2015 |  |
56 ≤ kW < 130 ³ | 0.30 | 2012-2015 | 3.8 | ⁴ 2012-2015
130 ≤ kW ≤ 560 | 0.20 | 2011-2014 | 3.8 | ⁵ 2011-2014
kW > 560 ⁶ | 0.10 | 2015-2018 | 3.5 | 2015-2018
¹ The FEL cap for engines demonstrating compliance with a NOX + NMHC standard is equal to the previously applicable NOX + NMHC standard specified in Appendix I of this part (generally the Tier 3 standards).
² For manufacturers certifying engines under Option #1 of Table 3 of § 1039.102, these alternate FEL caps apply to all 19-56 kW engines for model years from 2013 through 2016 instead of the years indicated in this table. For manufacturers certifying engines under Option #2 of Table 3 of § 1039.102, these alternate FEL caps do not apply to 19-37 kW engines except in model years 2013 to 2015.
³ For engines below 75 kW, the FEL caps are 0.40 g/kW-hr for PM emissions and 4.4 g/kW-hr for NOX emissions.
⁴ For manufacturers certifying engines in this power category using a percentage phase-in/phase-out approach instead of the alternate NOX standards of § 1039.102(e)(1), the alternate NOX FEL cap in the table applies only in the 2014-2015 model years if certifying under § 1039.102(d)(1), and only in the 2015 model year if certifying under § 1039.102(d)(2).
⁵ For manufacturers certifying engines in this power category using the percentage phase-in/phase-out approach instead of the alternate NOX standard of § 1039.102(e)(2), the alternate NOX FEL cap in the table applies only for the 2014 model year.
⁶ For engines above 560 kW, the provision for alternate NOX FEL caps is limited to generator-set engines.

* * * * *

174. Amend § 1039.135 by revising paragraph (e) introductory text to read as follows:

§ 1039.135 How must I label and identify the engines I produce?

* * * * *

(e) For model year 2019 and earlier, create a separate label with the statement: “ULTRA LOW SULFUR FUEL ONLY”. Permanently attach this label to the equipment near the fuel inlet or, if you do not manufacture the equipment, take one of the following steps to ensure that the equipment will be properly labeled:

* * * * *

175. Amend § 1039.205 by adding paragraph (c) to read as follows:

§ 1039.205 What must I include in my application?

* * * * *

(c) If your engines are equipped with an engine diagnostic system, explain how it works, describing especially the engine conditions (with the corresponding diagnostic trouble codes) that cause the malfunction-indicator light to go on and the design features that minimize the potential for operation without reductant.

* * * * *

176. Amend § 1039.225 by revising paragraph (e) to read as follows:

§ 1039.225 How do I amend my application for certification?

* * * * *

(e) The amended application applies starting with the date you submit the amended application, as follows:

(1) For engine families already covered by a certificate of conformity, you may start producing a new or modified engine configuration anytime after you send us your amended application and before we make a decision under paragraph (d) of this section. However, if we determine that the affected engines do not meet applicable requirements, we will notify you to cease production of the engines and may require you to recall the engines at no expense to the owner. Choosing to produce engines under this paragraph (e) is deemed to be consent to recall all engines that we determine do not meet applicable emission standards or other requirements and to remedy the nonconformity at no expense to the owner. If you do not provide information required under paragraph (c) of this section within 30 days after we request it, you must stop producing the new or modified engines.

(2) If you amend your application to make the amended application correct and complete, these changes do not apply retroactively. Also, if we determine that your amended application is not correct and complete, or otherwise does not conform to the regulation, we will notify you and describe how to address the error.

* * * * *

177. Amend § 1039.245 by revising paragraph (a) to read as follows:

§ 1039.245 How do I determine deterioration factors from exhaust durability testing?

* * * * *

(a) You may ask us to approve deterioration factors for an engine family with established technology based on engineering analysis instead of testing. Engines certified to a NOX + NMHC standard or FEL greater than the Tier 3 NOX + NMHC standard described in Appendix I of this part are considered to rely on established technology for gaseous emission control, except that this does not include any engines that use exhaust-gas recirculation or aftertreatment. In most cases, technologies used to meet the Tier 1 and Tier 2 emission standards would be considered to be established technology.

* * * * *

178. Revise § 1039.255 to read as follows:

§ 1039.255 What decisions may EPA make regarding a certificate of conformity?

(a) If we determine an application is complete and shows that the engine family meets all the requirements of this part and the Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Act or this part, with respect to an engine family.

(d) We may void a certificate of conformity for an engine family if you fail to keep records, send reports, or give us information as required under this part or the Act. Note that these are also violations of 40 CFR 1068.101(a)(2).

(e) We may void a certificate of conformity for an engine family if we find that you intentionally submitted false or incomplete information. This includes doing anything after submitting an application that causes submitted information to be false or incomplete.

(f) If we deny an application or suspend, revoke, or void a certificate, you may ask for a hearing (see § 1039.820).

179. Amend § 1039.601 by revising paragraph (b) to read as follows:

§ 1039.601 What compliance provisions apply?

* * * * *

(b) Subpart C of this part describes how to test and certify dual-fuel and flexible-fuel engines. Some multi-fuel engines may not fit either of those defined terms. For such engines, we will determine whether it is most appropriate to treat them as single-fuel engines, dual-fuel engines, or flexible-fuel engines based on the range of possible and expected fuel mixtures. For example, an engine might burn natural gas but initiate combustion with a pilot injection of diesel fuel. If the engine is designed to operate with a single fueling algorithm (i.e., fueling rates are fixed at a given engine speed and load condition), we would generally treat it as a single-fuel engine. In this context, the combination of diesel fuel and natural gas would be its own fuel type. If the engine is designed to also operate on diesel fuel alone, we would generally treat it as a dual-fuel engine. If the engine is designed to operate on varying mixtures of the two fuels, we would generally treat it as a flexible-fuel engine. To the extent that requirements vary for the different fuels or fuel mixtures, we may apply the more stringent requirements.

180. Amend § 1039.620 by revising paragraph (b) to read as follows:

§ 1039.620 What are the provisions for exempting engines used solely for competition?

* * * * *

(b) The definition of nonroad engine in 40 CFR 1068.30 excludes engines used solely for competition. These engines are not required to comply with this part 1039, but 40 CFR 1068.101 prohibits the use of competition engines for noncompetition purposes.

* * * * *

181. Amend § 1039.625 by revising the introductory text, paragraph (d)(4) introductory text, paragraphs (e)(1), (e)(3), and (g)(1)(vi), paragraph (j) introductory text, and paragraph (j)(1) to read as follows:

§ 1039.625 What requirements apply under the program for equipment-manufacturer flexibility?

The provisions of this section allow equipment manufacturers to produce equipment with engines that are subject to less stringent emission standards after the Tier 4 emission standards begin to apply. To be eligible to use these provisions, you must follow all the instructions in this section. See § 1039.626 for requirements that apply specifically to companies that manufacture equipment outside the United States and to companies that import such equipment without manufacturing it. Engines and equipment you produce under this section are exempt from the prohibitions in 40 CFR 1068.101(a)(1), subject to the provisions of this section.

* * * * *

(d) * * *

(4) You may start using the allowances under this section for engines that are not yet subject to Tier 4 standards, as long as the seven-year period for using allowances under the Tier 2 or Tier 3 program has expired. Table 3 of this section shows the years for which this applies. To use these early allowances, you must use engines that meet the emission standards described in paragraph (e) of this section. You must also count these units or calculate these percentages as described in paragraph (c) of this section and apply them toward the total number or percentage of equipment with exempted engines we allow for the Tier 4 standards as described in paragraph (b) of this section. The maximum number of cumulative early allowances under this paragraph (d)(4) is 10 percent under the percent-of-production allowance or 100 units under the small-volume allowance. For example, if you produce 5 percent of your equipment with engines between 130 and 560 kW that use allowances under this paragraph (d)(4) in 2009, you may use up to an additional 5 percent of your allowances in 2010. If you use allowances for 5 percent of your equipment in both 2009 and 2010, your 80 percent allowance for 2011-2017 in the 130-560 kW power category decreases to 70 percent. Manufacturers using allowances under this paragraph (d)(4) must comply with the notification and reporting requirements specified in paragraph (g) of this section.

* * * * *

(e) * * *

(1) If you are using the provisions of paragraph (d)(4) of this section, engines must meet the applicable Tier 1 or Tier 2 emission standards described in Appendix I of this part.

* * * * *

(3) In all other cases, engines at or above 56 kW and at or below 560 kW must meet the appropriate Tier 3 standards described in Appendix I of this part. Engines below 56 kW and engines above 560 kW must meet the appropriate Tier 2 standards described in Appendix I of this part.

* * * * *

(g) * * *

(1) * * *

(vi) The number of units in each power category you have sold in years for which the Tier 2 and Tier 3 standards apply.

* * * * *

(j) Provisions for engine manufacturers. As an engine manufacturer, you may produce exempted engines as needed under this section. You do not have to request this exemption for your engines, but you must have written assurance from equipment manufacturers that they need a certain number of exempted engines under this section. Send us an annual report of the engines you produce under this section, as described in § 1039.250(a). Exempt engines must meet the emission standards in paragraph (e) of this section and you must meet all the requirements of 40 CFR 1068.265, except that engines produced under the provisions of paragraph (a)(2) of this section must be identical in all material respects to engines previously certified under this part 1039. If you show under 40 CFR 1068.265(c) that the engines are identical in all material respects to engines that you have previously certified to one or more FELs above the standards specified in paragraph (e) of this section, you must supply sufficient credits for these engines. Calculate these credits under subpart H of this part using the previously certified FELs and the alternate standards. You must meet the labeling requirements in § 1039.135, as applicable, with the following exceptions:

(1) Add the following statement instead of the compliance statement in § 1039.135(c)(12): THIS ENGINE MEETS U.S. EPA EMISSION STANDARDS UNDER 40 CFR 1039.625. SELLING OR INSTALLING THIS ENGINE FOR ANY PURPOSE OTHER THAN FOR THE EQUIPMENT FLEXIBILITY PROVISIONS OF 40 CFR 1039.625 MAY BE A VIOLATION OF FEDERAL LAW SUBJECT TO CIVIL PENALTY.

* * * * *

182. Amend § 1039.626 by revising paragraph (b)(1)(iv) to read as follows:

§ 1039.626 What special provisions apply to equipment imported under the equipment-manufacturer flexibility program?

* * * * *

(b) * * *

(1) * * *

(iv) The number of units in each power category you have imported in years for which the Tier 2 and Tier 3 standards apply.

* * * * *

183. Amend § 1039.655 by revising paragraphs (a)(2) and (b) to read as follows:

§ 1039.655 What special provisions apply to engines sold in Guam, American Samoa, or the Commonwealth of the Northern Mariana Islands?

(a) * * *

(2) The engine meets the latest applicable emission standards in Appendix I of this part.

* * * * *

(b) If you introduce an engine into commerce in the United States under this section, you must meet the labeling requirements in § 1039.135, but add the following statement instead of the compliance statement in § 1039.135(c)(12): THIS ENGINE DOES NOT COMPLY WITH U.S. EPA TIER 4 EMISSION REQUIREMENTS. IMPORTING THIS ENGINE INTO THE UNITED STATES OR ANY TERRITORY OF THE UNITED STATES EXCEPT GUAM, AMERICAN SAMOA, OR THE COMMONWEALTH OF THE NORTHERN MARIANA ISLANDS MAY BE A VIOLATION OF FEDERAL LAW SUBJECT TO CIVIL PENALTY.

* * * * *

184. Amend § 1039.740 by revising paragraph (b) to read as follows:

§ 1039.740 What restrictions apply for using emission credits?

* * * * *

(b) Emission credits from earlier tiers of standards. (1) For purposes of ABT under this subpart, you may not use emission credits generated from engines subject to emission standards identified in Appendix I of this part, except as specified in § 1039.102(d)(1) or the following table:

If the maximum power of the credit-generating engine is . . . | And it was certified to the following standards identified in Appendix I of this part . . . | Then you may use those banked credits for the following Tier 4 engines . . .
(i) kW<9 | Tier 2 | kW<9.
(ii) 19≤kW<37 | Tier 2 | kW≥19.
(iii) 37≤kW≤560 | Tier 3 | kW≥19.
(iv) kW>560 | Tier 2 | kW≥19.

(2) Emission credits generated from marine engines certified to the standards identified in Appendix I of this part for land-based engines may not be used under this part.

* * * * *

185. Amend § 1039.801 by:

a. Revising the definition for “Low-hour”;

b. Revising paragraph (5)(ii) for the definition of “Model year”; and

c. Revising the definitions for “Small-volume engine manufacturer”, “Tier 1”, “Tier 2”, and “Tier 3”.

The revisions read as follows.

§ 1039.801 What definitions apply to this part?

* * * * *

Low-hour means relating to an engine with stabilized emissions and represents the undeteriorated emission level. This would generally involve less than 125 hours of operation for engines at or below 560 kW and less than 300 hours of operation for engines above 560 kW.

* * * * *

Model year means one of the following things:

* * * * *

(5) * * *

(ii) For imported engines described in paragraph (5)(ii) of the definition of “new nonroad engine,” model year means the calendar year in which the engine is modified.

* * * * *

Small-volume engine manufacturer means an engine manufacturer with 1000 or fewer employees that has had annual U.S.-directed production volume of no more than 2,500 units. For manufacturers owned by a parent company, these limits apply to the total number of employees and production volume from the parent company and all its subsidiaries.

* * * * *

Tier 1 means relating to the Tier 1 emission standards identified in Appendix I of this part.

Tier 2 means relating to the Tier 2 emission standards identified in Appendix I of this part.

Tier 3 means relating to the Tier 3 emission standards identified in Appendix I of this part.

* * * * *

186. Add Appendix I to part 1039 to read as follows:

Appendix I to Part 1039—Summary of Previous Emission Standards

The following standards, which EPA originally adopted under 40 CFR part 89, apply to nonroad compression-ignition engines produced before the model years specified in § 1039.1:

(a) Tier 1 standards apply as summarized in the following table:

Table 1 to Appendix I—Tier 1 Emission Standards (g/kW-hr)
Rated power (kW) | Starting model year | NOX | HC | NOX+NMHC | CO | PM
kW<8 | 2000 |  |  | 10.5 | 8.0 | 1.0
8≤kW<19 | 2000 |  |  | 9.5 | 6.6 | 0.80
19≤kW<37 | 1999 |  |  | 9.5 | 5.5 | 0.80
37≤kW< 75 | 1998 | 9.2 |  |  |  |
75≤kW<130 | 1997
130≤kW<560 | 1996 | 9.2 | 1.3 |  | 11.4 | 0.54
kW>560 | 2000

(b) Tier 2 standards apply as summarized in the following table:

(c) Tier 3 standards apply as summarized in the following table:

Table 3 to Appendix I—Tier 3 Emission Standards (g/kW-hr)
Rated power (kW) | Starting model year | NOX+NMHC | CO | PM
37≤kW<75 | 2008 | 4.7 | 5.0 | 0.40
75≤kW<130 | 2007 | 4.0 | 5.0 | 0.30
130≤kW≤560 | 2006 | 4.0 | 3.5 | 0.20

(d) Tier 1 through Tier 3 standards applied only for discrete-mode steady-state testing. There were no not-to-exceed standards or transient testing.

PART 1042—CONTROL OF EMISSIONS FROM NEW AND IN-USE MARINE COMPRESSION-IGNITION ENGINES AND VESSELS

187. The authority statement for part 1042 continues to read as follows:

Authority: 42 U.S.C. 7401-7671q.

188. Amend § 1042.1 by:

a. Revising paragraphs (b) and (c); and

b. Removing and reserving paragraph (d).

The revisions read as follows:

§ 1042.1 Applicability.

* * * * *

(b) New engines with maximum engine power below 37 kW and originally manufactured and certified before the model years identified in Table 1 to this section are subject to emission standards as specified in Appendix I of this part. The provisions of this part 1042 do not apply for such engines, except as follows beginning June 29, 2010:

(1) The allowances of this part apply.

(2) The definitions of “new marine engine” and “model year” apply.

(c) Marine engines originally meeting Tier 1 or Tier 2 standards as specified in Appendix I of this part remain subject to those standards. This includes uncertified engines that meet standards under 40 CFR 1068.265. Those engines remain subject to recall provisions as specified in 40 CFR part 1068, subpart F, throughout the useful life corresponding to the original certification. Also, tampering and defeat-device prohibitions continue to apply for those engines as specified in 40 CFR 1068.101. The remanufacturing provisions in subpart I of this part may apply for remanufactured engines originally manufactured in model years before the model years identified in Table 1 to this section.

* * * * *

189. Amend § 1042.101 by revising paragraphs (a)(6), (c)(2), and (e)(2) to read as follows:

§ 1042.101 Exhaust emission standards for Category 1 and Category 2 engines.

(a) * * *

(6) Interim Tier 4 PM standards apply for 2014 and 2015 model year engines between 2000 and 3700 kW as specified in this paragraph (a)(6). These engines are considered Tier 4 engines.

(i) For Category 1 engines, the Tier 3 PM standards from Table 1 to this section continue to apply. PM FELs for these engines may not be higher than the applicable Tier 2 PM standards specified in Appendix I of this part.

(ii) For Category 2 engines with per-cylinder displacement below 15.0 liters, the Tier 3 PM standards from Table 2 to this section continue to apply. PM FELs for these engines may not be higher than 0.27 g/kW-hr.

(iii) For Category 2 engines with per-cylinder displacement at or above 15.0 liters, the PM standard is 0.34 g/kW-hr for engines at or above 2000 kW and below 3300 kW, and 0.27 g/kW-hr for engines at or above 3300 kW and below 3700 kW. PM FELs for these engines may not be higher than 0.50 g/kW-hr.

* * * * *

(c) * * *

(2) Determine the applicable NTE zone and subzones as described in § 1042.515. Determine NTE multipliers for specific zones and subzones and pollutants as follows:

(i) For marine engines certified using the duty cycle specified in § 1042.505(b)(1), except for variable-speed propulsion marine engines used with controllable-pitch propellers or with electrically coupled propellers, apply the following NTE multipliers:

(A) Subzone 1: 1.2 for Tier 3 NOX+HC standards.

(B) Subzone 1: 1.5 for Tier 4 standards and Tier 3 PM and CO standards.

(C) Subzone 2: 1.5 for Tier 4 NOX and HC standards and for Tier 3 NOX+HC standards.

(D) Subzone 2: 1.9 for PM and CO standards.

(ii) For recreational marine engines certified using the duty cycle specified in § 1042.505(b)(2), except for variable-speed marine engines used with controllable-pitch propellers or with electrically coupled propellers, apply the following NTE multipliers:

(A) Subzone 1: 1.2 for Tier 3 NOX+HC standards.

(B) Subzone 1: 1.5 for Tier 3 PM and CO standards.

(C) Subzones 2 and 3: 1.5 for Tier 3 NOX+HC standards.

(D) Subzones 2 and 3: 1.9 for PM and CO standards.

(iii) For variable-speed marine engines used with controllable-pitch propellers or with electrically coupled propellers that are certified using the duty cycle specified in § 1042.505(b)(1), (2), or (3), apply the following NTE multipliers:

(A) Subzone 1: 1.2 for Tier 3 NOX+HC standards.

(B) Subzone 1: 1.5 for Tier 4 standards and Tier 3 PM and CO standards.

(C) Subzone 2: 1.5 for Tier 4 NOX and HC standards and for Tier 3 NOX+HC standards.

(D) Subzone 2: 1.9 for PM and CO standards. However, there is no NTE standard in Subzone 2b for PM emissions if the engine family's applicable standard for PM is at or above 0.07 g/kW-hr.

(iv) For constant-speed engines certified using a duty cycle specified in § 1042.505(b)(3) or (4), apply the following NTE multipliers:

(A) Subzone 1: 1.2 for Tier 3 NOX+HC standards.

(B) Subzone 1: 1.5 for Tier 4 standards and Tier 3 PM and CO standards.

(C) Subzone 2: 1.5 for Tier 4 NOX and HC standards and for Tier 3 NOX+HC standards.

(D) Subzone 2: 1.9 for PM and CO standards. However, there is no NTE standard for PM emissions if the engine family's applicable standard for PM is at or above 0.07 g/kW-hr.

(v) For variable-speed auxiliary marine engines certified using the duty cycle specified in § 1042.505(b)(5)(ii) or (iii):

(A) Subzone 1: 1.2 for Tier 3 NOX+HC standards.

(B) Subzone 1: 1.5 for Tier 4 standards and Tier 3 PM and CO standards.

(C) Subzone 2: 1.2 for Tier 3 NOX+HC standards.

(D) Subzone 2: 1.5 for Tier 4 standards and Tier 3 PM and CO standards. However, there is no NTE standard for PM emissions if the engine family's applicable standard for PM is at or above 0.07 g/kW-hr.

* * * * *

(e) * * *

(2) Specify a longer useful life in hours for an engine family under either of two conditions:

(i) If you design your engine to operate longer than the minimum useful life. Indicators of design life include your recommended overhaul interval and may also include your advertising and marketing materials.

(ii) If your basic mechanical warranty is longer than the minimum useful life.

* * * * *

190. Amend § 1042.104 by revising paragraphs (a)(2) and (c) to read as follows:

§ 1042.104 Exhaust emission standards for Category 3 engines.

(a) * * *

(2) NOX standards apply based on the engine's model year and maximum in-use engine speed as shown in the following table:

Table 1 to § 1042.104—NOX Emission Standards for Category 3 Engines (g/kW-hr)
Emission standards | Model year | Maximum in-use engine speed: Less than 130 RPM | Maximum in-use engine speed: 130-2000 RPM ᵃ | Maximum in-use engine speed: Over 2000 RPM
Tier 1 | 2004-2010 | 17.0 | 45.0·n(−0.20) | 9.8
Tier 2 | 2011-2015 | 14.4 | 44.0·n(−0.23) | 7.7
Tier 3 ᵇ | 2016 and later | 3.4 | 9.0·n(−0.20) | 2.0
ᵃ Applicable standards are calculated from n (maximum in-use engine speed, in RPM, as specified in § 1042.140). Round the standards to one decimal place.
ᵇ For engines designed with on-off controls as specified in § 1042.115(g), the Tier 2 standards continue to apply any time the engine has disabled its Tier 3 NOX emission controls.

* * * * *

(c) Mode caps. Measured NOX emissions from Tier 3 engines may not exceed the cap specified in this paragraph (c) for any applicable duty-cycle test modes with power greater than 10 percent maximum engine power. Calculate the mode cap by multiplying the applicable Tier 3 NOX standard by 1.5 and rounding to the nearest 0.1 g/kW-hr. Note that mode caps do not apply for pollutants other than NOX and do not apply for any modes of operation outside of the applicable duty cycles in § 1042.505. Category 3 engines are not subject to not-to-exceed standards.

* * * * *

191. Amend § 1042.115 by revising paragraph (g) to read as follows:

§ 1042.115 Other requirements.

* * * * *

(g) On-off controls for engines on Category 3 vessels. Manufacturers may equip Category 3 propulsion engines with features that disable Tier 3 NOX emission controls subject to the provisions of this paragraph (g). For auxiliary engines allowed to use on-off controls as specified in § 1042.650(d), read “Tier 2” to mean “IMO Tier II” and read “Tier 3” to mean “IMO Tier III”.

(1) Features that disable Tier 3 NOX emission controls are considered to be AECDs whether or not they meet the definition of an AECD. For example, manually operated on-off features are AECDs under this paragraph (g). The features must be identified in your application for certification as AECDs. For purposes of this paragraph (g), the term “features that disable Tier 3 emission controls” includes (but is not limited to) any combination of the following that cause the engine's emissions to exceed any Tier 3 emission standard:

(i) Bypassing of exhaust aftertreatment.

(ii) Reducing or eliminating flow of reductant to an SCR system.

(iii) Modulating engine calibration in a manner that increases engine-out emissions of a regulated pollutant.

(2) You must demonstrate that the AECD will not disable NOX emission controls while operating shoreward of the boundaries of the North American ECA and the U.S. Caribbean Sea ECA. You must demonstrate that the AECD will not disable emission control while operating in these waters. (Note: See the regulations in 40 CFR part 1043 for requirements related to operation in ECAs, including foreign ECAs.) Compliance with this paragraph will generally require that the AECD operation be based on Global Positioning System (GPS) inputs. We may consider any relevant information to determine whether your AECD conforms to this paragraph (g).

(3) The onboard computer log must record in nonvolatile computer memory all incidents of engine operation with the Tier 3 NOX emission controls disabled.

(4) The engine must comply with the Tier 2 NOX standard when the Tier 3 NOX emission controls are disabled.

192. Amend § 1042.125 by revising paragraph (e) to read as follows:

§ 1042.125 Maintenance instructions.

* * * * *

(e) Maintenance that is not emission-related. For maintenance unrelated to emission controls, you may schedule any amount of inspection or maintenance. You may also take these inspection or maintenance steps during service accumulation on your emission-data engines, as long as they are reasonable and technologically necessary. This might include adding engine oil, changing air, fuel, or oil filters, servicing engine-cooling systems or fuel-water separator cartridges or elements, and adjusting idle speed, governor, engine bolt torque, valve lash, or injector lash. You may not perform this nonemission-related maintenance on emission-data engines more often than the least frequent intervals that you recommend to the ultimate purchaser.

* * * * *

193. Amend § 1042.135 by revising paragraph (c)(13) to read as follows:

§ 1042.135 Labeling.

* * * * *

(c) * * *

(13) For engines above 130 kW that are intended for installation on domestic or public vessels, include the following statement: “THIS ENGINE DOES NOT COMPLY WITH INTERNATIONAL MARINE REGULATIONS UNLESS IT IS ALSO COVERED BY AN EIAPP CERTIFICATE.”

* * * * *

194. Amend § 1042.145 by:

a. Removing and reserving paragraphs (b), (c), (e), (h), and (i); and

b. Revising paragraph (j).

The revision reads as follows:

§ 1042.145 Interim provisions.

* * * * *

(j) Installing land-based engines in marine vessels. Vessel manufacturers and marine equipment manufacturers may apply the provisions of §§ 1042.605 and 1042.610 to land-based engines with maximum engine power at or above 37 kW and at or below 560 kW if they meet the Tier 3 emission standards in Appendix I of 40 CFR part 1039 as specified in 40 CFR 1068.265. All the provisions of § 1042.605 or § 1042.610 apply as if those engines were certified to emission standards under 40 CFR part 1039. Similarly, engine manufacturers, vessel manufacturers, and marine equipment manufacturers must comply with all the provisions of 40 CFR part 1039 as if those engines were installed in land-based equipment. The following provisions apply for engine manufacturers shipping engines to vessel manufacturers or marine equipment manufacturers under this paragraph (j):

(1) You must label the engine as described in 40 CFR 1039.135, but identify the engine family name as it was last certified under 40 CFR part 1039 and include the following alternate compliance statement: “THIS ENGINE MEETS THE TIER 3 STANDARDS FOR LAND-BASED NONROAD DIESEL ENGINES UNDER 40 CFR PART 1039. THIS ENGINE MAY BE USED ONLY IN A MARINE VESSEL UNDER THE DRESSING PROVISIONS OF 40 CFR 1042.605 OR 40 CFR 1042.610.”

(2) You must use the provisions of 40 CFR 1068.262 for shipping uncertified engines under this section to secondary engine manufacturers.

195. Amend § 1042.225 by revising paragraph (e) to read as follows:

§ 1042.225 Amending applications for certification.

* * * * *

(e) The amended application applies starting with the date you submit the amended application, as follows:

(1) For engine families already covered by a certificate of conformity, you may start producing the new or modified engine configuration anytime after you send us your amended application and before we make a decision under paragraph (d) of this section. However, if we determine that the affected engines do not meet applicable requirements, we will notify you to cease production of the engines and may require you to recall the engines at no expense to the owner. Choosing to produce engines under this paragraph (e) is deemed to be consent to recall all engines that we determine do not meet applicable emission standards or other requirements and to remedy the nonconformity at no expense to the owner. If you do not provide information required under paragraph (c) of this section within 30 days after we request it, you must stop producing the new or modified engines.

(2) If you amend your application to make the amended application correct and complete, these changes do not apply retroactively. Also, if we determine that your amended application is not correct and complete, or otherwise does not conform to the regulation, we will notify you and describe how to address the error.

* * * * *

196. Amend § 1042.235 by revising paragraph (d)(3) to read as follows:

§ 1042.235 Emission testing related to certification.

* * * * *

(d) * * *

(3) The data show that the emission-data engine would meet all the requirements that apply to the engine family covered by the application for certification. For engines originally tested to demonstrate compliance with Tier 1 or Tier 2 standards, you may consider those test procedures to be equivalent to the procedures we specify in subpart F of this part.

* * * * *

197. Revise § 1042.255 to read as follows:

§ 1042.255 EPA decisions.

(a) If we determine an application is complete and shows that the engine family meets all the requirements of this part and the Clean Air Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Clean Air Act or this part, with respect to an engine family.

(d) We may void a certificate of conformity for an engine family if you fail to keep records, send reports, or give us information as required under this part or the Clean Air Act. Note that these are also violations of 40 CFR 1068.101(a)(2).

(e) We may void a certificate of conformity for an engine family if we find that you intentionally submitted false or incomplete information. This includes doing anything after submitting an application that causes submitted information to be false or incomplete after submission.

(f) If we deny an application or suspend, revoke, or void a certificate, you may ask for a hearing (see § 1042.920).

198. Amend § 1042.302 by revising paragraph (a) to read as follows:

§ 1042.302 Applicability of this subpart for Category 3 engines.

* * * * *

(a) You must test each Category 3 engine at the sea trial of the vessel in which it is installed or within the first 300 hours of operation, whichever occurs first. This may involve testing a fully assembled production engine before it is installed in the vessel. For engines with on-off controls, you may omit testing to demonstrate compliance with Tier 2 standards if the engine does not rely on aftertreatment when Tier 3 emission controls are disabled. Since you must test each engine, the provisions of §§ 1042.310 and 1042.315(b) do not apply for Category 3 engines. If we determine that an engine failure under this subpart is caused by defective components or design deficiencies, we may revoke or suspend your certificate for the engine family as described in § 1042.340. If we determine that an engine failure under this subpart is caused only by incorrect assembly, we may suspend your certificate for the engine family as described in § 1042.325. If the engine fails, you may continue operating only to complete the sea trial and return to port. It is a violation of 40 CFR 1068.101(b)(1) to operate the vessel further until you remedy the cause of failure. Each two-hour period of such operation constitutes a separate offense. A violation lasting less than two hours constitutes a single offense.

* * * * *

199. Amend § 1042.605 by revising paragraphs (a), (b), (c), (d)(1)(ii), (d)(2), (d)(3)(ii), (f), and (h) to read as follows:

§ 1042.605 Dressing engines already certified to other standards for nonroad or heavy-duty highway engines for marine use.

(a) General provisions. If you are an engine manufacturer (including someone who marinizes a land-based engine), this section allows you to introduce new marine engines into U.S. commerce if they are already certified to the requirements that apply to compression-ignition engines under 40 CFR parts 85 and 86 or 40 CFR part 1033 or 1039 for the appropriate model year. If you comply with all the provisions of this section, we consider the certificate issued under 40 CFR part 86, 1033, or 1039 for each engine to also be a valid certificate of conformity under this part 1042 for its model year, without a separate application for certification under the requirements of this part 1042. This section does not apply for Category 3 engines.

(b) Vessel-manufacturer provisions. If you are not an engine manufacturer, you may install an engine certified for the appropriate model year under 40 CFR part 86, 1033, or 1039 in a marine vessel as long as you do not make any of the changes described in paragraph (d)(3) of this section and you meet the requirements of paragraph (e) of this section. If you modify the non-marine engine in any of the ways described in paragraph (d)(3) of this section, we will consider you a manufacturer of a new marine engine. Such engine modifications prevent you from using the provisions of this section.

(c) Liability. Engines for which you meet the requirements of this section are exempt from all the requirements and prohibitions of this part, except for those specified in this section. Engines exempted under this section must meet all the applicable requirements from 40 CFR parts 85 and 86 or 40 CFR part 1033 or 1039. This paragraph (c) applies to engine manufacturers, vessel manufacturers that use such an engine, and all other persons as if the engine were used in its originally intended application. The prohibited acts of 40 CFR 1068.101(a)(1) apply to these new engines and vessels; however, we consider the certificate issued under 40 CFR part 86, 1033, or 1039 for each engine to also be a valid certificate of conformity under this part 1042 for its model year. If we make a determination that these engines do not conform to the regulations during their useful life, we may require you to recall them under 40 CFR part 85 or 1068.

(d) * * *

(1) * * *

(ii) Land-based compression-ignition nonroad engines (40 CFR part 1039).

* * * * *

(2) The engine must have the label required under 40 CFR part 86, 1033, or 1039.

(3) * * *

(ii) Replacing an original turbocharger, except that small-volume engine manufacturers may replace an original turbocharger on a recreational engine with one that matches the performance of the original turbocharger.

* * * * *

(f) Failure to comply. If your engines do not meet the criteria listed in paragraph (d) of this section, they will be subject to the standards, requirements, and prohibitions of this part 1042 and the certificate issued under 40 CFR part(s) 86, 1033, or 1039 will not be deemed to also be a certificate issued under this part 1042. Introducing these engines into U.S. commerce as marine engines without a valid exemption or certificate of conformity under this part violates the prohibitions in 40 CFR 1068.101(a)(1).

* * * * *

(h) Participation in averaging, banking and trading. Engines adapted for marine use under this section may not generate or use emission credits under this part 1042. These engines may generate credits under the ABT provisions in 40 CFR part(s) 86, 1033, or 1039, as applicable. These engines must use emission credits under 40 CFR part(s) 86, 1033, or 1039 as applicable if they are certified to an FEL that exceeds an emission standard.

* * * * *

200. Amend § 1042.610 by revising paragraphs (a), (c), (d)(1), (f), and (g) to read as follows:

§ 1042.610 Certifying auxiliary marine engines to land-based standards.

* * * * *

(a) General provisions. If you are an engine manufacturer, this section allows you to introduce new marine engines into U.S. commerce if they are already certified to the requirements that apply to compression-ignition engines under 40 CFR part 1039 for the appropriate model year. If you comply with all the provisions of this section, we consider the certificate issued under 40 CFR part 1039 for each engine to also be a valid certificate of conformity under this part 1042 for its model year, without a separate application for certification under the requirements of this part 1042.

* * * * *

(c) Liability. Engines for which you meet the requirements of this section are exempt from all the requirements and prohibitions of this part, except for those specified in this section. Engines exempted under this section must meet all the applicable requirements from 40 CFR part 1039. This paragraph (c) applies to engine manufacturers, vessel manufacturers that use such an engine, and all other persons as if the engine were used in its originally intended application. The prohibited acts of 40 CFR 1068.101(a)(1) apply to these new engines and vessels; however, we consider the certificate issued under 40 CFR part 1039 for each engine to also be a valid certificate of conformity under this part 1042 for its model year. If we make a determination that these engines do not conform to the regulations during their useful life, we may require you to recall them under 40 CFR part 1068.

(d) * * *

(1) The marine engine must be identical in all material respects to a land-based engine covered by a valid certificate of conformity for the appropriate model year showing that it meets emission standards for engines of that power rating under 40 CFR part 1039.

* * * * *

(f) Failure to comply. If your engines do not meet the criteria listed in paragraph (d) of this section, they will be subject to the standards, requirements, and prohibitions of this part 1042 and the certificate issued under 40 CFR part 1039 will not be deemed to also be a certificate issued under this part 1042. Introducing these engines into U.S. commerce as marine engines without a valid exemption or certificate of conformity under this part 1042 violates the prohibitions in 40 CFR 1068.101(a)(1).

(g) Participation in averaging, banking and trading. Engines using this exemption may not generate or use emission credits under this part 1042. These engines may generate credits under the ABT provisions in 40 CFR part 1039, as applicable. These engines must use emission credits under 40 CFR part 1039 as applicable if they are certified to an FEL that exceeds an emission standard.

* * * * *

201. Amend § 1042.615 by revising paragraph (a) introductory text, paragraphs (a)(1), and (3) and adding paragraphs (f) and (g) to read as follows:

§ 1042.615 Replacement engine exemption.

* * * * *

(a) This paragraph (a) applies instead of the provisions of 40 CFR 1068.240(b)(2) for installing new marine engines in vessels that are not “new vessels”. The prohibitions in 40 CFR 1068.101(a)(1) do not apply to a new replacement engine if all the following conditions are met:

(1) You use good engineering judgment to determine that no engine certified to the current requirements of this part is produced by any manufacturer with the appropriate physical or performance characteristics to repower the vessel. We have determined that Tier 4 engines with aftertreatment technology do not have the appropriate physical or performance characteristics to replace uncertified engines or engines certified to emission standards that are less stringent than the Tier 4 standards.

* * * * *

(3) Send us a report by September 30 of each year describing your engine shipments under this section from the preceding calendar year. Your report must include all the following things and be signed by an authorized representative of your company:

(i) Identify the number of Category 1 and Category 2 exempt replacement engines that meet Tier 1, Tier 2, or Tier 3 standards, or that meet no EPA standards. Count engines separately for each tier of standards.

(ii) Identify the number of engines that have been shipped (directly or indirectly) to a vessel owner. This includes engines shipped to anyone intending to install engines on behalf of a specific engine owner. Also include commercial Tier 3 engines with maximum engine power at or above 600 kW even if they have not been shipped to or designated for a specific vessel owner in the specified time frame.

(iii) Describe how you made the determinations described in paragraph (a)(1) of this section for each Category 1 and Category 2 exempt replacement engine for each vessel during the preceding year. For Tier 3 replacement engines at or above 600 kW, describe why any engines certified to Tier 4 standards without aftertreatment are not suitable.

(iv) Identify the number of Category 3 exempt replacement engines. We may require you to describe how you made the determinations described in paragraph (a)(1) of this section for each engine.

(v) Include the following statement:

I certify that the statements and information in the enclosed document are true, accurate, and complete to the best of my knowledge. I am aware that there are significant civil and criminal penalties for submitting false statements and information, or omitting required statements and information.

* * * * *

(f) The provisions of 40 CFR 1068.240(c) allow you to ship a limited number of exempt replacement engines to vessel owners or distributors without making the determinations described in paragraph (a) of this section. Note that such engines do not count toward the production limits of 40 CFR 1068.240(c) if you meet all the requirements of 40 CFR 1068.240(b) and this section by the due date for the annual report. You may count Tier 3 commercial marine replacement engines at or above 600 kW as tracked engines under 40 CFR 1068.240(b) even if they have not been shipped to or designated for a specific vessel owner in the specified time frame.

(g) In unusual circumstances, you may ask us to allow you to apply the replacement engine exemption of this section for repowering a vessel that becomes a “new vessel” under § 1042.901 as a result of modifications, as follows:

(1) You must demonstrate that no manufacturer produces an engine certified to Tier 4 standards with the appropriate physical or performance characteristics to repower the vessel. We will consider concerns about the size of the replacement engine and its compatibility with vessel components relative to the overall scope of the project.

(2) Exempt replacement engines under this paragraph (g) must meet the Tier 3 standards specified in § 1042.101 (or the Tier 2 standards if there are no Tier 3 standards).

(3) We will not approve a request for an exemption from the Tier 3 standards for any engines.

(4) You may not use the exemption provisions for untracked replacement engines under 40 CFR 1068.240(c) for repowering a vessel that becomes a “new vessel” under § 1042.901 as a result of modifications.

202. Amend § 1042.650 by revising the introductory text and paragraph (b)(4) to read as follows:

§ 1042.650 Migratory vessels.

The provisions of paragraphs (a) through (c) of this section apply for Category 1 and Category 2 engines, including auxiliary engines installed on vessels with Category 3 propulsion engines; these provisions do not apply for any Category 3 engines. All engines exempted under this section must comply with the applicable requirements of 40 CFR part 1043.

* * * * *

(b) * * *

(4) Operating a vessel containing an engine exempted under this paragraph (b) violates the prohibitions in 40 CFR 1068.101(a)(1) if the vessel is not in full compliance with applicable requirements for international safety specified in paragraph (b)(1)(i) of this section.

* * * * *

203. Amend § 1042.655 by revising the paragraph (b) to read as follows:

§ 1042.655 Special certification provisions for Category 3 engines with aftertreatment.

* * * * *

(b) Required testing. The emission-data engine must be tested as specified in subpart F of this part. Testing engine-out emissions to simulate operation with disabled Tier 3 emission controls must simulate backpressure and other parameters as needed to represent in-use operation with an SCR catalyst. The catalyst material or other aftertreatment device must be tested under conditions that accurately represent actual engine conditions for the test points. This catalyst or aftertreatment testing may be performed on a bench scale.

* * * * *

§ 1042.701 [Amended]

204. Amend § 1042.701 by removing and reserving paragraph (j).

205. Amend § 1042.801 by revising paragraph (f)(1) to read as follows:

§ 1042.801 General provisions.

* * * * *

(f) * * *

(1) Only fuel additives registered under 40 CFR part 79 may be used under this paragraph (f).

* * * * *

206. Amend § 1042.836 by revising the introductory text and paragraph (c) to read as follows:

§ 1042.836 Marine certification of locomotive remanufacturing systems.

If you certify a Tier 0, Tier 1, or Tier 2 remanufacturing system for locomotives under 40 CFR part 1033, you may also certify the system under this part 1042, according to the provisions of this section.

* * * * *

(c) Systems that were certified to the standards of 40 CFR part 92 are subject to the following restrictions:

(1) Tier 0 locomotive systems may not be used for any Category 1 engines or Tier 1 or later Category 2 engines.

(2) Where systems certified to the standards of 40 CFR part 1033 are also available for an engine, you may not use a system certified to the standards of 40 CFR part 92.

207. Amend § 1042.901 by revising paragraph (3) of the definition for “Model year” to read as follows:

§ 1042.901 Definitions.

* * * * *

Model year means * * *

* * * * *

(3) For an uncertified marine engine excluded under § 1042.5 that is later subject to this part 1042 as a result of being installed in a different vessel, model year means the calendar year in which the engine was installed in the non-excluded vessel. For a marine engine excluded under § 1042.5 that is later subject to this part 1042 as a result of reflagging the vessel, model year means the calendar year in which the engine was originally manufactured. For a marine engine that becomes new under paragraph (7) of the definition of “new marine engine,” model year means the calendar year in which the engine was originally manufactured. (See definition of “new marine engine,” paragraphs (3) and (7).)

* * * * *

208. Revise § 1042.910 to read as follows:

§ 1042.910 Incorporation by reference.

(a) Certain material is incorporated by reference into this part with the approval of the Director of the Federal Register under 5 U.S.C. 552(a) and 1 CFR part 51. To enforce any edition other than that specified in this section, the Environmental Protection Agency must publish a document in the Federal Register and the material must be available to the public. All approved material is available for inspection at EPA Docket Center, WJC West Building, Room 3334, 1301 Constitution Avenue, NW, Washington, DC 20004, www.epa.gov/dockets, (202) 202-1744, and is available from the sources listed below. It is also available for inspection at the National Archives and Records Administration (NARA). For information on the availability of this material at NARA, email fedreg.legal@nara.gov or go to: www.archives.gov/federal-register/cfr/ibr-locations.html.

(b) The International Maritime Organization, 4 Albert Embankment, London SE1 7SR, United Kingdom, or www.imo.org, or 44-(0)20-7735-7611.

(1) MARPOL Annex VI, Regulations for the Prevention of Air Pollution from Ships, Fourth Edition, 2017, and NOX Technical Code 2008.

(i) Revised MARPOL Annex VI, Regulations for the Prevention of Pollution from Ships, Fourth Edition, 2017 (“2008 Annex VI”); IBR approved for § 1042.901.

(ii) NOX Technical Code 2008, Technical Code on Control of Emission of Nitrogen Oxides from Marine Diesel Engines, 2017 Edition, (“NOX Technical Code”); IBR approved for §§ 1042.104(g), 1042.230(d), 1042.302(c) and (e), 1042.501(g), and 1042.901.

(2) [Reserved]

209. Amend Appendix I to part 1042 by revising paragraph (a) introductory text, paragraph (b) introductory text, and paragraph (b)(3) to read as follows:

Appendix I to Part 1042—Summary of Previous Emission Standards

* * * * *

(a) Engines below 37 kW. Tier 1 and Tier 2 standards for engines below 37 kW originally adopted under 40 CFR part 89 apply as follows:

* * * * *

(b) Engines at or above 37 kW. Tier 1 and Tier 2 standards for engines at or above 37 kW originally adopted under 40 CFR part 94 apply as follows:

* * * * *

(3) Tier 2 supplemental standards. Not-to-exceed emission standards apply for all engines subject to the Tier 2 standards described in paragraph (b)(2) of this appendix.

PART 1043—CONTROL OF NOX, SOX, AND PM EMISSIONS FROM MARINE ENGINES AND VESSELS SUBJECT TO THE MARPOL PROTOCOL

210. The authority statement for part 1043 continues to read as follows:

Authority: 33 U.S.C. 1901-1912.

211. Amend § 1043.41 by revising paragraph (a) to read as follows:

§ 1043.41 EIAPP certification process.

* * * * *

(a) You must send the Designated Certification Officer a separate application for an EIAPP certificate for each engine family. An EIAPP certificate is valid starting with the indicated effective date and is valid for any production until such time as the design of the engine family changes or more stringent emission standards become applicable, whichever comes first. Note that an EIAPP certificate demonstrating compliance with Tier I or Tier II standards (but not the Tier III standard) is only a limited authorization to install engines on vessels. For example, you may produce such Tier I or Tier II engines, but those engines may not be installed in vessels that are subject to Tier III standards. You may obtain preliminary approval of portions of the application under 40 CFR 1042.210.

* * * * *

212. Revise § 1043.100 to read as follows:

§ 1043.100 Incorporation by reference.

(a) Certain material is incorporated by reference into this part with the approval of the Director of the Federal Register under 5 U.S.C. 552(a) and 1 CFR part 51. To enforce any edition other than that specified in this section, the Environmental Protection Agency must publish a document in the Federal Register and the material must be available to the public. All approved material is available for inspection at EPA Docket Center, WJC West Building, Room 3334, 1301 Constitution Avenue NW, Washington, DC 20004, www.epa.gov/dockets, (202) 202-1744, and is available from the sources listed below. It is also available for inspection at the National Archives and Records Administration (NARA). For information on the availability of this material at NARA, email fedreg.legal@nara.gov, or go to: www.archives.gov/federal-register/cfr/ibr-locations.html.

(b) The International Maritime Organization, 4 Albert Embankment, London SE1 7SR, United Kingdom, or www.imo.org, or 44-(0)20-7735-7611.

(1) MARPOL Annex VI, Regulations for the Prevention of Air Pollution from Ships, Fourth Edition, 2017, and NOX Technical Code 2008.

(i) Revised MARPOL Annex VI, Regulations for the Prevention of Pollution from Ships, Fourth Edition, 2017 (“2008 Annex VI”); IBR approved for §§ 1043.1 introductory text, 1043.20, 1043.30(f), 1043.60(c), and 1043.70(a).

(ii) NOX Technical Code 2008, Technical Code on Control of Emission of Nitrogen Oxides from Marine Diesel Engines, 2017 Edition, (“NOX Technical Code”); IBR approved for §§ 1043.20, 1043.41(b) and (h), and 1043.70(a).

(2) [Reserved]

PART 1045—CONTROL OF EMISSIONS FROM SPARK-IGNITION PROPULSION MARINE ENGINES AND VESSELS

213. The authority statement for part 1045 continues to read as follows:

Authority: 42 U.S.C. 7401-7671q.

214. Amend § 1045.1 by revising paragraph (c) to read as follows:

§ 1045.1 Does this part apply for my products?

* * * * *

(c) Outboard and personal watercraft engines originally meeting the standards specified in Appendix I remain subject to those standards. Those engines remain subject to recall provisions as specified in 40 CFR part 1068, subpart F, throughout the useful life corresponding to the original certification. Also, tampering and defeat-device prohibitions continue to apply for those engines as specified in 40 CFR 1068.101.

* * * * *

215. Amend § 1045.145 by removing and reserving paragraphs (a) through (g), (i) through (k), and (m) and revising paragraph (n) to read as follows:

§ 1045.145 Are there interim provisions that apply only for a limited time?

* * * * *

(n) Continued use of 40 CFR part 91 test data. You may continue to use test data based on the test procedures that applied for engines built before the requirements of this part 1045 started to apply if we allow you to use carryover emission data under 40 CFR 1045.235(d) for your engine family. You may also use those test procedures for production-line testing with any engine family whose certification is based on testing with those procedures. For any EPA testing, we will rely on the procedures described in subpart F of this part, even if you used carryover data based on older test procedures as allowed under this paragraph (n).

* * * * *

216. Amend § 1045.235 by revising paragraph (d)(3) to read as follows:

§ 1045.235 What testing requirements apply for certification?

* * * * *

(d) * * *

(3) The data show that the emission-data engine would meet all the requirements that apply to the engine family covered by the application for certification.

* * * * *

217. Revise § 1045.255 to read as follows:

§ 1045.255 What decisions may EPA make regarding a certificate of conformity?

(a) If we determine an application is complete and shows that the engine family meets all the requirements of this part and the Clean Air Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Clean Air Act or this part, with respect to an engine family.

(d) We may void a certificate of conformity for an engine family if you fail to keep records, send reports, or give us information as required under this part or the Clean Air Act. Note that these are also violations of 40 CFR 1068.101(a)(2).

(e) We may void a certificate of conformity for an engine family if we find that you intentionally submitted false or incomplete information. This includes doing anything after submitting an application that causes submitted information to be false or incomplete after submission.

(f) If we deny an application or suspend, revoke, or void a certificate, you may ask for a hearing (see § 1045.820).

218. Amend § 1045.310 by revising paragraph (a)(1) introductory text and paragraph (a)(1)(iv) to read as follows:

§ 1045.310 How must I select engines for production-line testing?

(a) * * *

(1) For engine families with projected U.S.-directed production volume of at least 1,600, the test periods are consecutive quarters (3 months). However, if your annual production period is not 12 months long, you may take the following alternative approach to define quarterly test periods:

* * * * *

(iv) If your annual production period is 301 days or longer, divide the annual production period evenly into four test periods. For example, if your annual production period is 392 days (56 weeks), divide the annual production period into four test periods of 98 days (14 weeks).

* * * * *

219. Amend § 1045.501 by revising paragraph (c) to read as follows:

§ 1045.501 How do I run a valid emission test?

* * * * *

(c) Fuels. Use the fuels and lubricants specified in 40 CFR part 1065, subpart H, for all the testing we require in this part, except as specified in § 1045.515.

(1) Use gasoline meeting the specifications described in 40 CFR 1065.710(c) for general testing. For service accumulation, use the test fuel or any commercially available fuel that is representative of the fuel that in-use engines will use.

(2) You may alternatively use ethanol-blended gasoline meeting the specifications described in 40 CFR 1065.710(b) for general testing without our advance approval. If you use the ethanol-blended fuel for certifying a given engine family, you may also use it for production-line testing or any other testing you perform for that engine family under this part. If you use the ethanol-blended fuel for certifying a given engine family, we may use the ethanol-blended fuel or the specified neat gasoline test fuel with that engine family.

* * * * *

220. Revise Appendix 1 to part 1045 to read as follows:

Appendix I to Part 1045—Summary of Previous Emission Standards

(a) The following standards, which EPA originally adopted under 40 CFR part 91, apply to outboard and personal watercraft engines produced from model year 2006 through 2009:

(1) For engines at or below 4.3 kW, the HC + NOX standard is 81.00 g/kW-hr.

(2) For engines above 4.3 kW, the following HC + NOX standard applies:

HC + NOX standard = (151 + 557/P0.9) · 0.250 + 6.00

Where:

STD = The HC + NOX emission standard, in g/kW-hr.

P = The average power of an engine family, in kW.

(b) Table 1 of this appendix describes the phase-in standards for outboard and personal watercraft engines for model years 1998 through 2005. For engines with maximum engine power above 4.3 kW, the standard is expressed by the following formula, in g/kW-hr, with constants for each year identified in Table 1 of this appendix:

Table 1 of Appendix I—HC + NOX Phase-In Standards for Outboard and Personal Watercraft Engines
Model year | Maximum engine power <4.3 kW | Maximum engine power >4.3 kW: A | Maximum engine power >4.3 kW: B
1998 | 278.00 | 0.917 | 2.44
1999 | 253.00 | 0.833 | 2.89
2000 | 228.00 | 0.750 | 3.33
2001 | 204.00 | 0.667 | 3.78
2002 | 179.00 | 0.583 | 4.22
2003 | 155.00 | 0.500 | 4.67
2004 | 130.00 | 0.417 | 5.11
2005 | 105.00 | 0.333 | 5.56

PART 1048—CONTROL OF EMISSIONS FROM NEW, LARGE NONROAD SPARK-IGNITION ENGINES

221. The authority statement for part 1048 continues to read as follows:

Authority: 42 U.S.C. 7401-7671q.

222. Revise § 1048.145 to read as follows:

§ 1048.145 Are there interim provisions that apply only for a limited time?

The provisions in this section apply instead of other provisions in this part. This section describes when these interim provisions expire.

(a)-(f) [Reserved]

(g) Small-volume provisions. If you qualify for the hardship provisions in § 1068.250 of this chapter, we may approve extensions of up to four years total.

223. Revise § 1048.255 to read as follows:

§ 1048.255 What decisions may EPA make regarding a certificate of conformity?

(a) If we determine an application is complete and shows that the engine family meets all the requirements of this part and the Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Act or this part, with respect to an engine family.

(d) We may void a certificate of conformity for an engine family if you fail to keep records, send reports, or give us information as required under this part or the Act. Note that these are also violations of 40 CFR 1068.101(a)(2).

(e) We may void a certificate of conformity for an engine family if we find that you intentionally submitted false or incomplete information. This includes doing anything after submitting an application that causes submitted information to be false or incomplete after submission.

(f) If we deny an application or suspend, revoke, or void a certificate, you may ask for a hearing (see § 1048.820).

224. Amend § 1048.501 by revising paragraph (c) to read as follows:

§ 1048.501 How do I run a valid emission test?

* * * * *

(c) Use the fuels and lubricants specified in 40 CFR part 1065, subpart H, to perform valid tests for all the testing we require in this part, except as noted in § 1048.515.

(1) Use gasoline meeting the specifications described in 40 CFR 1065.710(c) for general testing. For service accumulation, use the test fuel or any commercially available fuel that is representative of the fuel that in-use engines will use.

(2) You may alternatively use ethanol-blended gasoline meeting the specifications described in 40 CFR 1065.710(b) for general testing without our advance approval. If you use the ethanol-blended fuel for certifying a given engine family, you may also use it for production-line testing or any other testing you perform for that engine family under this part. If you use the ethanol-blended fuel for certifying a given engine family, we may use the ethanol-blended fuel or the specified neat gasoline test fuel with that engine family.

* * * * *

PART 1051—CONTROL OF EMISSIONS FROM RECREATIONAL ENGINES AND VEHICLES

225. The authority statement for part 1051 continues to read as follows:

Authority: 42 U.S.C. 7401-7671q.

226. Revise § 1051.145 to read as follows:

§ 1051.145 What provisions apply only for a limited time?

(a) Apply the provisions in this section instead of others in this part for the periods and circumstances specified in this section.

(b) [Reserved]

227. Revise § 1051.255 to read as follows:

§ 1051.255 What decisions may EPA make regarding a certificate of conformity?

(a) If we determine an application is complete and shows that the engine family meets all the requirements of this part and the Act, we will issue a certificate of conformity for the engine family for that model year. We may make the approval subject to additional conditions.

(b) We may deny an application for certification if we determine that an engine family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines for importation into the United States at a location where local law prohibits us from carrying out authorized activities.

(6) Fail to supply requested information or amend an application to include all engines being produced.

(7) Take any action that otherwise circumvents the intent of the Act or this part, with respect to an engine family.

(d) We may void a certificate of conformity for an engine family if you fail to keep records, send reports, or give us information as required under this part or the Clean Air Act. Note that these are also violations of 40 CFR 1068.101(a)(2).

(e) We may void a certificate of conformity for an engine family if we find that you intentionally submitted false or incomplete information. This includes doing anything after submitting an application that causes submitted information to be false or incomplete after submission.

(f) If we deny an application or suspend, revoke, or void a certificate, you may ask for a hearing (see § 1051.820).

228. Amend § 1051.310 by revising paragraph (a)(1) introductory text and paragraph (a)(1)(iv) to read as follows:

§ 1051.310 How must I select vehicles or engines for production-line testing?

(a) * * *

(1) For engine families with projected U.S.-directed production volume of at least 1,600, the test periods are consecutive quarters (3 months). However, if your annual production period is not 12 months long, you may take the following alternative approach to define quarterly test periods:

* * * * *

(iv) If your annual production period is 301 days or longer, divide the annual production period evenly into four test periods. For example, if your annual production period is 392 days (56 weeks), divide the annual production period into four test periods of 98 days (14 weeks).

* * * * *

229. Amend § 1051.501 by revising paragraph (d) to read as follows:

§ 1051.501 What procedures must I use to test my vehicles or engines?

* * * * *

(d) Fuels. Use the fuels meeting the following specifications:

(1) Exhaust. Use the fuels and lubricants specified in 40 CFR part 1065, subpart H, for all the exhaust testing we require in this part. For service accumulation, use the test fuel or any commercially available fuel that is representative of the fuel that in-use engines will use. The following provisions apply for using specific fuel types:

(i) For gasoline-fueled engines, use the grade of gasoline specified in 40 CFR 1065.710(c) for general testing. You may alternatively use ethanol-blended gasoline meeting the specifications described in 40 CFR 1065.710(b) for general testing without our advance approval. If you use the ethanol-blended fuel for certifying a given engine family, you may also use it for production-line testing or any other testing you perform for that engine family under this part. If you use the ethanol-blended fuel for certifying a given engine family, we may use the ethanol-blended fuel or the specified neat gasoline test fuel with that engine family.

(ii) For diesel-fueled engines, use either low-sulfur diesel fuel or ultra low-sulfur diesel fuel meeting the specifications in 40 CFR 1065.703. If you use sulfur-sensitive technology as defined in 40 CFR 1039.801 and you measure emissions using ultra low-sulfur diesel fuel, you must add a permanent label near the fuel inlet with the following statement: “ULTRA LOW SULFUR FUEL ONLY”.

(2) Fuel Tank Permeation. (i) For the preconditioning soak described in § 1051.515(a)(1) and fuel slosh durability test described in § 1051.515(d)(3), use the fuel specified in 40 CFR 1065.710(b), or the fuel specified in 40 CFR 1065.710(c) blended with 10 percent ethanol by volume. As an alternative, you may use Fuel CE10, which is Fuel C as specified in ASTM D 471-98 (see 40 CFR 1060.810) blended with 10 percent ethanol by volume.

(ii) For the permeation measurement test in § 1051.515(b), use the fuel specified in 40 CFR 1065.710(c). As an alternative, you may use any of the fuels specified in paragraph (d)(2)(i) of this section.

(3) Fuel Hose Permeation. Use the fuel specified in 40 CFR 1065.710(b), or the fuel specified in 40 CFR 1065.710(c) blended with 10 percent ethanol by volume for permeation testing of fuel lines. As an alternative, you may use Fuel CE10, which is Fuel C as specified in ASTM D 471-98 (see 40 CFR 1060.810) blended with 10 percent ethanol by volume.

* * * * *

PART 1054—CONTROL OF EMISSIONS FROM NEW, SMALL NONROAD SPARK-IGNITION ENGINES AND EQUIPMENT

230. The authority statement for part 1054 continues to read as follows:

Authority: 42 U.S.C. 7401-7671q.

231. Amend § 1054.1 by revising paragraphs (a)(1) and (5), (c), and (d) to read as follows:

§ 1054.1 Does this part apply for my engines and equipment?

(a) * * *

(1) The requirements of this part related to exhaust emissions apply to new, nonroad spark-ignition engines with maximum engine power at or below 19 kW. This includes auxiliary marine spark-ignition engines.

* * * * *

(5) We specify provisions in § 1054.145(f) and in § 1054.740 that allow for meeting the requirements of this part before the dates shown in Table 1 to this section. Engines, fuel-system components, or equipment certified to these standards are subject to all the requirements of this part as if these optional standards were mandatory.

* * * * *

(c) Engines originally meeting Phase 1 or Phase 2 standards as specified in Appendix I remain subject to those standards. Those engines remain subject to recall provisions as specified in 40 CFR part 1068, subpart F, throughout the useful life corresponding to the original certification. Also, tampering and defeat-device prohibitions continue to apply for those engines as specified in 40 CFR 1068.101.

(d) The regulations in this part 1054 optionally apply to engines with maximum engine power at or below 30 kW and with displacement at or below 1,000 cubic centimeters that would otherwise be covered by 40 CFR part 1048. See 40 CFR 1048.615 for provisions related to this allowance.

* * * * *

232. Revise § 1054.2 to read as follows:

§ 1054.2 Who is responsible for compliance?

(a) The requirements and prohibitions of this part apply to manufacturers of engines and equipment, as described in § 1054.1. The requirements of this part are generally addressed to manufacturers subject to this part's requirements. The term “you” generally means the certifying manufacturer. For provisions related to exhaust emissions, this generally means the engine manufacturer, especially for issues related to certification (including production-line testing, reporting, etc.). For provisions related to certification with respect to evaporative emissions, this generally means the equipment manufacturer. Note that for engines that become new after being placed into service (such as engines converted from highway or stationary use), the requirements that normally apply for manufacturers of freshly manufactured engines apply to the importer or any other entity we allow to obtain a certificate of conformity.

(b) Equipment manufacturers must meet applicable requirements as described in § 1054.20. Engine manufacturers that assemble an engine's complete fuel system are considered to be the equipment manufacturer with respect to evaporative emissions (see 40 CFR 1060.5). Note that certification requirements for component manufacturers are described in 40 CFR part 1060.

233. Revise § 1054.30 to read as follows:

§ 1054.30 Submission of information.

Unless we specify otherwise, send all reports and requests for approval to the Designated Compliance Officer (see § 1054.801). See § 1054.825 for additional reporting and recordkeeping provisions.

234. Amend § 1054.103 by revising paragraph (c) introductory text to read as follows:

§ 1054.103 What exhaust emission standards must my handheld engines meet?

* * * * *

(c) Fuel types. The exhaust emission standards in this section apply for engines using the fuel type on which the engines in the emission family are designed to operate. You must meet the numerical emission standards for hydrocarbon in this section based on the following types of hydrocarbon emissions for engines powered by the following fuels:

* * * * *

235. Amend § 1054.105 by revising paragraph (c) introductory text to read as follows:

§ 1054.105 What exhaust emission standards must my nonhandheld engines meet?

* * * * *

(c) Fuel types. The exhaust emission standards in this section apply for engines using the fuel type on which the engines in the emission family are designed to operate. You must meet the numerical emission standards for hydrocarbon in this section based on the following types of hydrocarbon emissions for engines powered by the following fuels:

* * * * *

236. Amend § 1054.110 by revising paragraph (b) to read as follows:

§ 1054.110 What evaporative emission standards must my handheld equipment meet?

* * * * *

(b) Tank permeation. Fuel tanks must meet the permeation requirements specified in 40 CFR 1060.103. These requirements apply for handheld equipment starting in the 2010 model year, except that they apply starting in the 2011 model year for structurally integrated nylon fuel tanks, in the 2012 model year for handheld equipment using nonhandheld engines, and in the 2013 model year for all small-volume emission families. For nonhandheld equipment using engines at or below 80 cc, the requirements of this paragraph (b) apply starting in the 2012 model year. You may generate or use emission credits to show compliance with the requirements of this paragraph (b) under the averaging, banking, and trading program as described in subpart H of this part. FEL caps apply as specified in § 1054.112(b)(1) through (3) starting in the 2015 model year.

* * * * *

237. Amend § 1054.120 by revising paragraph (c) to read as follows:

§ 1054.120 What emission-related warranty requirements apply to me?

* * * * *

(c) Components covered. The emission-related warranty covers all components whose failure would increase an engine's emissions of any regulated pollutant, including components listed in 40 CFR part 1068, Appendix I, and components from any other system you develop to control emissions. The emission-related warranty covers these components even if another company produces the component. Your emission-related warranty does not need to cover components whose failure would not increase an engine's emissions of any regulated pollutant.

* * * * *

238. Amend § 1054.125 by revising the introductory text and paragraphs (c) and (e) to read as follows:

§ 1054.125 What maintenance instructions must I give to buyers?

Give the ultimate purchaser of each new engine written instructions for properly maintaining and using the engine, including the emission control system as described in this section. The maintenance instructions also apply to service accumulation on your emission-data engines as described in § 1054.245 and in 40 CFR part 1065.

* * * * *

(c) Special maintenance. You may specify more frequent maintenance to address problems related to special situations, such as atypical engine operation. You must clearly state that this additional maintenance is associated with the special situation you are addressing. You may also address maintenance of low-use engines (such as recreational or stand-by engines) by specifying the maintenance interval in terms of calendar months or years in addition to your specifications in terms of engine operating hours. All special maintenance instructions must be consistent with good engineering judgment. We may disapprove your maintenance instructions if we determine that you have specified special maintenance steps to address engine operation that is not atypical, or that the maintenance is unlikely to occur in use. For example, this paragraph (c) does not allow you to design engines that require special maintenance for a certain type of expected operation. If we determine that certain maintenance items do not qualify as special maintenance under this paragraph (c), you may identify this as recommended additional maintenance under paragraph (b) of this section.

* * * * *

(e) Maintenance that is not emission-related. For maintenance unrelated to emission controls, you may schedule any amount of inspection or maintenance. You may also take these inspection or maintenance steps during service accumulation on your emission-data engines, as long as they are reasonable and technologically necessary. This might include adding engine oil, changing fuel or oil filters, servicing engine-cooling systems, and adjusting idle speed, governor, engine bolt torque, valve lash, or injector lash. You may not perform this nonemission-related maintenance on emission-data engines more often than the least frequent intervals that you recommend to the ultimate purchaser.

* * * * *

239. Amend § 1054.130 by revising paragraphs (b)(2) and (5) to read as follows:

§ 1054.130 What installation instructions must I give to equipment manufacturers?

* * * * *

(b) * * *

(2) State: “Failing to follow these instructions when installing a certified engine in a piece of equipment violates federal law (40 CFR 1068.105(b)), subject to fines or other penalties as described in the Clean Air Act.”

* * * * *

(5) Describe how your certification is limited for any type of application. For example, if you certify engines only for rated-speed applications, tell equipment manufacturers that the engine must not be installed in equipment involving intermediate-speed operation. Also, if your wintertime engines are not certified to the otherwise applicable HC+NOX standards, tell equipment manufacturers that the engines must be installed in equipment that is used only in wintertime.

* * * * *

240. Amend § 1054.135 by revising paragraphs (c)(2) and (e)(1) to read as follows:

§ 1054.135 How must I label and identify the engines I produce?

* * * * *

(c) * * *

(2) Include your full corporate name and trademark. You may identify another company and use its trademark instead of yours if you comply with the branding provisions of 40 CFR 1068.45.

* * * * *

(e) * * *

(1) You may identify other emission standards that the engine meets or does not meet (such as California standards), as long as this does not cause you to omit any of the information described in paragraph (c) of this section. You may include this information by adding it to the statement we specify or by including a separate statement.

* * * * *

241. Revise § 1054.145 to read as follows:

§ 1054.145 Are there interim provisions that apply only for a limited time?

The provisions in this section apply instead of other provisions in this part. This section describes how and when these interim provisions apply.

(a)-(b) [Reserved]

(c) Special provisions for handheld engines. Handheld engines subject to Phase 3 emission standards must meet the standards at or above barometric pressures of 96.0 kPa in the standard configuration and are not required to meet emission standards at lower barometric pressures. This is intended to allow testing under most weather conditions at all altitudes up to 1,100 feet above sea level. In your application for certification, identify the altitude above which you rely on an altitude kit and describe your plan for making information and parts available such that you would reasonably expect that altitude kits would be widely used at all such altitudes.

(d) Alignment of model years for exhaust and evaporative standards. Evaporative emission standards generally apply based on the model year of the equipment, which is determined by the equipment's date of final assembly. However, in the first year of new emission standards, equipment manufacturers may apply evaporative emission standards based on the model year of the engine as shown on the engine's emission control information label. For example, for the fuel line permeation standards starting in 2012, equipment manufacturers may order a batch of 2011 model year engines for installation in 2012 model year equipment, subject to the anti-stockpiling provisions of 40 CFR 1068.105(a). The equipment with the 2011 model year engines would not need to meet fuel line permeation standards, as long as the equipment is fully assembled by December 31, 2012.

(e) [Reserved]

(f) Early banking for evaporative emission standards—handheld equipment manufacturers. You may earn emission credits for handheld equipment you produce before the evaporative emission standards of § 1054.110 apply. To do this, your equipment must use fuel tanks with a family emission limit below 1.5 g/m²/day (or 2.5 g/m²/day for testing at 40 °C). Calculate your credits as described in § 1054.706 based on the difference between the family emission limit and 1.5 g/m²/day (or 2.5 g/m²/day for testing at 40 °C).

(g) through (i) [Reserved]

(j) Continued use of 40 CFR part 90 test data. You may continue to use data based on the test procedures that apply for engines built before the requirements of this part 1054 start to apply if we allow you to use carryover emission data under 40 CFR 1054.235(d) for your emission family. You may also use those test procedures for measuring exhaust emissions for production-line testing with any engine family whose certification is based on testing with those procedures. For any EPA testing, we will rely on the procedures described in subpart F of this part, even if you used carryover data based on older test procedures as allowed under this paragraph (j).

(k)-(m) [Reserved]

(n) California test fuel. You may perform testing with a fuel meeting the requirements for certifying the engine in California instead of the fuel specified in § 1054.501(b)(2), as follows:

(1) You may certify individual engine families using data from testing conducted with California Phase 2 test fuel through model year 2019. Any EPA testing with such an engine family may use either this same certification fuel or the test fuel specified in § 1054.501.

(2) Starting in model year 2013, you may certify individual engine families using data from testing conducted with California Phase 3 test fuel. Any EPA testing with such an engine family may use either this same certification fuel or the test fuel specified in § 1054.501, unless you certify to the more stringent CO standards specified in this paragraph (n)(2). If you meet these alternate CO standards, we will also use California Phase 3 test fuel for any testing we perform with engines from that engine family. The following alternate CO standards apply instead of the CO standards specified in § 1054.103 or § 1054.105:

Table 1 to § 1054.145—Alternate CO Standards for Testing With California Phase 3 Test Fuel
[g/kW-hr]
Engine type | Alternate CO standard
Class I | 549
Class II | 549
Class III | 536
Class IV | 536
Class V | 536
Marine generators | 4.5

242. Amend § 1054.205 by revising paragraphs (o)(1), (p)(1), (v), and (x) to read as follows:

§ 1054.205 What must I include in my application?

* * * * *

(o) * * *

(1) Present emission data for hydrocarbon (such as THC, THCE, or NMHC, as applicable), NOX, and CO on an emission-data engine to show your engines meet the applicable exhaust emission standards as specified in § 1054.101. Show emission figures before and after applying deterioration factors for each engine. Include test data from each applicable duty cycle specified in § 1054.505(b). If we specify more than one grade of any fuel type (for example, low-temperature and all-season gasoline), you need to submit test data only for one grade, unless the regulations of this part specify otherwise for your engine.

* * * * *

(p) * * *

(1) Report all valid test results involving measurement of pollutants for which emission standards apply. Also indicate whether there are test results from invalid tests or from any other tests of the emission-data engine, whether or not they were conducted according to the test procedures of subpart F of this part. We may require you to report these additional test results. We may ask you to send other information to confirm that your tests were valid under the requirements of this part and 40 CFR parts 1060 and 1065.

* * * * *

(v) Provide the following information about your plans for producing and selling engines:

(1) Identify the estimated initial and final dates for producing engines from the engine family for the model year.

(2) Identify the estimated date for initially introducing certified engines into U.S. commerce under this certificate. We will not release or share any information from your application for certification before this date unless we learn separately that you have already introduced certified engines into U.S. commerce.

(3) Include good-faith estimates of U.S.-directed production volumes. Include a justification for the estimated production volumes if they are substantially different than actual production volumes in earlier years for similar models. Also indicate whether you expect the engine family to contain only nonroad engines, only stationary engines, or both.

* * * * *

(x) Include the information required by other subparts of this part. For example, include the information required by § 1054.725 if you participate in the ABT program and include the information required by § 1054.690 if you need to post a bond under that section.

* * * * *

243. Amend § 1054.220 by revising the section heading to read as follows.

§ 1054.220 How do I amend my maintenance instructions?

* * * * *

244. Amend § 1054.225 by:

a. Revising the section heading, paragraphs (b), (e), and paragraph (f) introductory text; and

b. Adding paragraph (g).

The revisions and addition read as follows:

§ 1054.225 How do I amend my application for certification?

* * * * *

(b) To amend your application for certification, send the relevant information to the Designated Compliance Officer.

(1) Describe in detail the addition or change in the model or configuration you intend to make.

(2) Include engineering evaluations or data showing that the amended emission family complies with all applicable requirements. You may do this by showing that the original emission-data engine or emission-data equipment is still appropriate for showing that the amended family complies with all applicable requirements.

(3) If the original emission-data engine for the engine family is not appropriate to show compliance for the new or modified engine configuration, include new test data showing that the new or modified engine configuration meets the requirements of this part.

(4) Include any other information needed to make your application correct and complete.

* * * * *

(e) The amended application applies starting with the date you submit the amended application, as follows:

(1) For emission families already covered by a certificate of conformity, you may start producing a new or modified configuration anytime after you send us your amended application and before we make a decision under paragraph (d) of this section. However, if we determine that the affected configurations do not meet applicable requirements, we will notify you to cease production of the configurations and may require you to recall the engine or equipment at no expense to the owner. Choosing to produce engines under this paragraph (e) is deemed to be consent to recall all engines or equipment that we determine do not meet applicable emission standards or other requirements and to remedy the nonconformity at no expense to the owner. If you do not provide information required under paragraph (c) of this section within 30 days after we request it, you must stop producing the new or modified engine or equipment.

(2) If you amend your application to make the amended application correct and complete, these changes do not apply retroactively. Also, if we determine that your amended application is not correct and complete, or otherwise does not conform to the regulation, we will notify you and describe how to address the error.

(f) You may ask us to approve a change to your FEL with respect to exhaust emissions in certain cases after the start of production. The changed FEL may not apply to engines you have already introduced into U.S. commerce, except as described in this paragraph (f). If we approve a changed FEL after the start of production, you must identify the month and year for applying the new FEL. You may ask us to approve a change to your FEL in the following cases:

* * * * *

(g) You may produce engines as described in your amended application for certification and consider those engines to be in a certified configuration if we approve a new or modified engine configuration during the model year under paragraph (d) of this section. Similarly, you may modify in-use engines as described in your amended application for certification and consider those engines to be in a certified configuration if we approve a new or modified engine configuration at any time under paragraph (d) of this section. Modifying a new or in-use engine to be in a certified configuration does not violate the tampering prohibition of 40 CFR 1068.101(b)(1), as long as this does not involve changing to a certified configuration with a higher family emission limit.

245. Amend § 1054.235 by revising the section heading and paragraphs (a), (b), (c), and (d) to read as follows:

§ 1054.235 What testing requirements apply for certification?

* * * * *

(a) Select an emission-data engine from each engine family for testing as described in 40 CFR 1065.401. Select a configuration and set adjustable parameters in a way that is most likely to exceed the HC+NOX standard, using good engineering judgment. Configurations must be tested as they will be produced, including installed governors, if applicable.

(b) Test your emission-data engines using the procedures and equipment specified in subpart F of this part. In the case of dual-fuel engines, measure emissions when operating with each type of fuel for which you intend to certify the engine. In the case of flexible-fuel engines, measure emissions when operating with the fuel mixture that is most likely to cause the engine to exceed the applicable HC+NOX emission standard, though you may ask us to instead perform tests with both fuels separately if you can show that intermediate mixtures are not likely to occur in use.

(c) We may perform confirmatory testing by measuring emissions from any of your emission-data engines or other engines from the emission family, as follows:

(1) We may decide to do the testing at your plant or any other facility. If we do this, you must deliver the engine to a test facility we designate. The engine you provide must include appropriate manifolds, aftertreatment devices, electronic control units, and other emission-related components not normally attached directly to the engine block. If we do the testing at your plant, you must schedule it as soon as possible and make available the instruments, personnel, and equipment we need.

(2) If we measure emissions on one of your engines, the results of that testing become the official emission results for the engine.

(3) We may set the adjustable parameters of your engine to any point within the physically adjustable ranges (see § 1054.115(b)).

(4) Before we test one of your engines, we may calibrate it within normal production tolerances for anything we do not consider an adjustable parameter. For example, this would apply for a parameter that is subject to production variability because it is adjustable during production, but is not considered an adjustable parameter (as defined in § 1054.801) because it is permanently sealed.

(d) You may ask to use carryover emission data from a previous model year instead of doing new tests, but only if all the following are true:

(1) The emission family from the previous model year differs from the current emission family only with respect to model year, items identified in § 1054.225(a), or other characteristics unrelated to emissions. We may waive this criterion for differences we determine not to be relevant.

(2) The emission-data engine from the previous model year remains the appropriate emission-data engine under paragraph (b) of this section.

(3) The data show that the emission-data engine would meet all the requirements that apply to the emission family covered by the application for certification.

* * * * *

246. Amend § 1054.240 by revising paragraphs (a), (b), (c), and (d) to read as follows:

§ 1054.240 How do I demonstrate that my emission family complies with exhaust emission standards?

(a) For purposes of certification, your emission family is considered in compliance with the emission standards in § 1054.101(a) if all emission-data engines representing that family have test results showing official emission results and deteriorated emission levels at or below these standards. This also applies for all test points for emission-data engines within the family used to establish deterioration factors. Note that your FELs are considered to be the applicable emission standards with which you must comply if you participate in the ABT program in subpart H of this part.

(b) Your engine family is deemed not to comply if any emission-data engine representing that family has test results showing an official emission result or a deteriorated emission level for any pollutant that is above an applicable emission standard. This also applies for all test points for emission-data engines within the family used to establish deterioration factors.

(c) Determine a deterioration factor to compare emission levels from the emission-data engine with the applicable emission standards. Section 1054.245 specifies how to test engines to develop deterioration factors that represent the expected deterioration in emissions over your engines' full useful life. Calculate a multiplicative deterioration factor as described in § 1054.245(b). If the deterioration factor is less than one, use one. Specify the deterioration factor to one more significant figure than the emission standard. In the case of dual-fuel and flexible-fuel engines, apply deterioration factors separately for each fuel type. You may use assigned deterioration factors that we establish for up to 10,000 nonhandheld engines from small-volume emission families in each model year, except that small-volume engine manufacturers may use assigned deterioration factors for any or all of their engine families.

(d) Determine the official emission result for each pollutant to at least one more decimal place than the applicable standard. Apply the deterioration factor to the official emission result, as described in § 1054.245(b), then round the adjusted figure to the same number of decimal places as the emission standard. Compare the rounded emission levels to the emission standard for each emission-data engine. In the case of HC+NOX standards, add the official emission results and apply the deterioration factor to the sum of the pollutants before rounding. However, if your deterioration factors are based on emission measurements that do not cover the engine's full useful life, apply deterioration factors to each pollutant and then add the results before rounding.

* * * * *

247. Amend § 1054.245 by:

a. Revising paragraphs (a), (b)(1), (b)(3), (b)(5), and (c); and

b. Adding paragraph (d).

The revisions and addition read as follows:

§ 1054.245 How do I determine deterioration factors from exhaust durability testing?

* * * * *

(a) You may ask us to approve deterioration factors for an emission family based on emission measurements from similar engines if you have already given us these data for certifying other engines in the same or earlier model years. Use good engineering judgment to decide whether the two engines are similar. We will approve your request if you show us that the emission measurements from other engines reasonably represent in-use deterioration for the engine family for which you have not yet determined deterioration factors.

(b) * * *

(1) Measure emissions from the emission-data engine at a low-hour test point, at the midpoint of the useful life, and at the end of the useful life, except as specifically allowed by this paragraph (b). You may test at additional evenly spaced intermediate points. Collect emission data using measurements to at least one more decimal place than the emission standard.

* * * * *

(3) In the case of dual-fuel or flexible-fuel engines, you may accumulate service hours on a single emission-data engine using the type or mixture of fuel expected to have the highest combustion and exhaust temperatures; you may ask us to approve a different fuel mixture for flexible-fuel engines if you demonstrate that a different criterion is more appropriate. For dual-fuel engines, you must measure emissions on each fuel type at each test point, either with separate engines dedicated to a given fuel, or with different configurations of a single engine.

* * * * *

(5) Calculate your deterioration factor using a linear least-squares fit of your test data, but treat the low-hour test point as occurring at hour zero. Your deterioration factor is the ratio of the calculated emission level at the point representing the full useful life to the calculated emission level at zero hours, expressed to one more decimal place than the applicable standard.

* * * * *

(c) If you qualify for using assigned deterioration factors under § 1054.240, determine the deterioration factors as follows:

(1) For two-stroke engines without aftertreatment, use a deterioration factor of 1.1 for HC, NOX, and CO. For four-stroke engines without aftertreatment, use deterioration factors of 1.4 for HC, 1.0 for NOX, and 1.1 for CO for Class 2 engines, and use 1.5 for HC and NOX, and 1.1 for CO for all other engines.

(2) For Class 2 engines with aftertreatment, use a deterioration factor of 1.0 for NOX. For all other cases involving engines with aftertreatment, calculate separate deterioration factors for HC, NOX, and CO using the following equation:

Where:

NE = engine-out emission levels (pre-catalyst) from the low-hour test result for a given pollutant, in g/kW-hr.

EDF = the deterioration factor specified in paragraph (c)(1) of this section for the type of engine for a given pollutant.

CC = the catalyst conversion from the low-hour test, in g/kW-hr. This is the difference between the official emission result and NE.

F = 1.0 for NOX and 0.8 for HC and CO.

(3) Combine separate deterioration factors for HC and NOX from paragraph (c)(2) of this section into a combined deterioration factor for HC+NOX using the following equation:

(d) Include the following information in your application for certification:

(1) If you determine your deterioration factors based on test data from a different emission family, explain why this is appropriate and include all the emission measurements on which you base the deterioration factor.

(2) If you do testing to determine deterioration factors, describe the form and extent of service accumulation, including the method you use to accumulate hours.

(3) If you calculate deterioration factors under paragraph (c) of this section, identify the parameters and variables you used for the calculation.

248. Amend § 1054.250 by:

a. Removing and reserving paragraph (a)(3); and

b. Revising paragraphs (b)(3)(iv) and (c).

The revisions read as follows:

§ 1054.250 What records must I keep and what reports must I send to EPA?

* * * * *

(b) * * *

(3) * * *

(iv) All your emission tests (valid and invalid), including the date and purpose of each test and documentation of test parameters as specified in part 40 CFR part 1065.

* * * * *

(c) Keep required data from emission tests and all other information specified in this section for eight years after we issue your certificate. If you use the same emission data or other information for a later model year, the eight-year period restarts with each year that you continue to rely on the information.

* * * * *

249. Revise § 1054.255 to read as follows:

§ 1054.255 What decisions may EPA make regarding a certificate of conformity?

(a) If we determine an application is complete and shows that the emission family meets all the requirements of this part and the Clean Air Act, we will issue a certificate of conformity for the emission family for that model year. We may make the approval subject to additional conditions.

(b) We may deny an application for certification if we determine that an emission family fails to comply with emission standards or other requirements of this part or the Clean Air Act. We will base our decision on all available information. If we deny an application, we will explain why in writing.

(c) In addition, we may deny your application or suspend or revoke a certificate of conformity if you do any of the following:

(1) Refuse to comply with any testing, reporting, or bonding requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce engines or equipment for importation into the United States at a location where local law prohibits us from carrying out authorized activities.

(6) Fail to supply requested information or amend an application to include all engines or equipment being produced.

(7) Take any action that otherwise circumvents the intent of the Clean Air Act or this part, with respect to an emission family.

(d) We may void a certificate of conformity for an emission family if you fail to keep records, send reports, or give us information as required under this part or the Clean Air Act. Note that these are also violations of 40 CFR 1068.101(a)(2).

(e) We may void a certificate of conformity for an emission family if we find that you intentionally submitted false or incomplete information. This includes doing anything after submitting your application that causes the submitted information to be false or incomplete.

(f) If we deny an application or suspend, revoke, or void a certificate of conformity, you may ask for a hearing (see § 1054.820).

250. Amend § 1054.301 by revising paragraph (a)(2) to read as follows:

§ 1054.301 When must I test my production-line engines?

(a) * * *

(2) We may exempt small-volume emission families from routine testing under this subpart. Submit your request for approval as described in § 1054.210. In your request, describe your basis for projecting a production volume below 5,000 units. We will approve your request if we agree that you have made good-faith estimates of your production volumes. You must promptly notify us if your actual production exceeds 5,000 units during the model year. If you exceed the production limit or if there is evidence of a nonconformity, we may require you to test production-line engines under this subpart, or under 40 CFR part 1068, subpart E, even if we have approved an exemption under this paragraph (a)(2).

* * * * *

251. Amend § 1054.310 by revising paragraph (a)(1) introductory text, paragraphs (a)(1)(iv), and (c)(2) introductory text to read as follows:

§ 1054.310 How must I select engines for production-line testing?

(a) * * *

(1) For engine families with projected U.S.-directed production volume of at least 1,600, the test periods are consecutive quarters (3 months). However, if your annual production period is not 12 months long, you may take the following alternative approach to define quarterly test periods:

* * * * *

(iv) If your annual production period is 301 days or longer, divide the annual production period evenly into four test periods. For example, if your annual production period is 392 days (56 weeks), divide the annual production period into four test periods of 98 days (14 weeks).

* * * * *

(c) * * *

(2) Calculate the standard deviation, σ, for the test sample using the following formula:

* * * * *

252. Amend § 1054.315 by revising paragraph (a)(1) to read as follows:

§ 1054.315 How do I know when my engine family fails the production-line testing requirements?

* * * * *

(a) * * *

(1) Initial and final test results. Calculate and round the test results for each engine. If you do multiple tests on an engine in a given configuration (without modifying the engine), calculate the initial results for each test, then add all the test results together and divide by the number of tests. Round this final calculated value for the final test results on that engine.

* * * * *

253. Amend § 1054.320 by adding paragraph (c) to read as follows:

§ 1054.320 What happens if one of my production-line engines fails to meet emission standards?

* * * * *

(c) Use test data from a failing engine for the compliance demonstration under § 1054.315 as follows:

(1) Use the original, failing test results as described in § 1054.315, whether or not you modify the engine or destroy it.

(2) Do not use test results from a modified engine as final test results under § 1054.315, unless you change your production process for all engines to match the adjustments you made to the failing engine. If this occurs, count the modified engine as the next engine in the sequence, rather than averaging the results with the testing that occurred before modifying the engine.

254. Amend § 1054.501 by revising paragraphs (b)(1) and (2), and paragraph (b)(4) introductory text to read as follows:

§ 1054.501 How do I run a valid emission test?

* * * * *

(b) * * *

(1) Measure the emissions of all exhaust constituents subject to emission standards as specified in § 1054.505 and 40 CFR part 1065. Measure CO2, N2O, and CH4 as described in § 1054.235. See § 1054.650 for special provisions that apply for variable-speed engines (including engines shipped without governors).

(2) Use the appropriate fuels and lubricants specified in 40 CFR part 1065, subpart H, for all the testing we require in this part. Gasoline test fuel must meet the specifications in 40 CFR 1065.710(c), except as specified in § 1054.145(n), 40 CFR 1065.10, and 40 CFR 1065.701. Use gasoline specified for general testing except as specified in paragraph (d) of this section. For service accumulation, use the test fuel or any commercially available fuel that is representative of the fuel that in-use engines will use. Note that § 1054.145(n) allows for testing with gasoline test fuels specified by the California Air Resources Board for any individual engine family.

* * * * *

(4) The provisions of 40 CFR 1065.405 describe how to prepare an engine for testing. However, you may consider emission levels stable without measurement after 12 hours of engine operation, except for the following special provisions that apply for engine families with a useful life of 300 hours or less:

* * * * *

255. Amend § 1054.505 by revising paragraph (b)(2) to read as follows:

§ 1054.505 How do I test engines?

* * * * *

(b) * * *

(2) For nonhandheld engines, use the six-mode duty cycle or the corresponding ramped-modal cycle described in paragraph (b) of Appendix II of this part. Control engine speeds and torques during idle mode as specified in paragraph (c) of this section. Control engine speed during the full-load operating mode as specified in paragraph (d) of this section. For all other modes, control engine speed to within 5 percent of the nominal speed specified in paragraph (d) of this section or let the installed governor (in the production configuration) control engine speed. For all modes except idle, control torque as needed to meet the cycle-validation criteria in paragraph (a)(1) of this section. The governor may be adjusted before emission sampling to target the nominal speed identified in paragraph (d) of this section, but the installed governor must control engine speed throughout the emission-sampling period whether the governor is adjusted or not. Note that ramped-modal testing involves continuous sampling, so governor adjustments may not occur during such a test. Note also that our testing may involve running the engine with the governor in the standard configuration even if you adjust the governor as described in this paragraph (b)(2) for certification or production-line testing.

* * * * *

256. Amend § 1054.601 by adding paragraph (d) to read as follows:

§ 1054.601 What compliance provisions apply?

* * * * *

(d) Subpart C of this part describes how to test and certify dual-fuel and flexible-fuel engines. Some multi-fuel engines may not fit either of those defined terms. For such engines, we will determine whether it is most appropriate to treat them as single-fuel engines, dual-fuel engines, or flexible-fuel engines based on the range of possible and expected fuel mixtures.

257. Amend § 1054.612 by revising the introductory text to read as follows:

§ 1054.612 What special provisions apply for equipment manufacturers modifying certified nonhandheld engines?

The provisions of this section are limited to small-volume emission families.

* * * * *

258. Amend § 1054.620 by revising paragraph (c)(2) to read as follows:

§ 1054.620 What are the provisions for exempting engines used solely for competition?

* * * * *

(c) * * *

(2) Sale of the equipment in which the engine is installed must be limited to professional competition teams, professional competitors, or other qualified competitors. Engine manufacturers may sell loose engines to these same qualified competitors, and to equipment manufacturers supplying competition models for qualified competitors.

* * * * *

§ § 1054.625 and 1054.626 [Removed]

259. Remove §§ 1054.625 and 1054.626.

§ 1054.635 [Amended]

260. Amend § 1054.635 by removing and reserving paragraph (c)(6).

§ 1054.640 [Removed]

261. Remove § 1054.640.

262. Revise § 1054.655 to read as follows:

§ 1054.655 What special provisions apply for installing and removing altitude kits?

An action for the purpose of installing or modifying altitude kits and performing other changes to compensate for changing altitude is not considered a prohibited act under 40 CFR 1068.101(b) if it is done consistent with the manufacturer's instructions.

263. Amend § 1054.690 by revising paragraphs (f) and (i) to read as follows:

§ 1054.690 What bond requirements apply for certified engines?

* * * * *

(f) If you are required to post a bond under this section, you must get the bond from a third-party surety that is cited in the U.S. Department of Treasury Circular 570, “Companies Holding Certificates of Authority as Acceptable Sureties on Federal Bonds and as Acceptable Reinsuring Companies” (https://www.fiscal.treasury.gov/surety-bonds/circular-570.html). You must maintain this bond for every year in which you sell certified engines. The surety agent remains responsible for obligations under the bond for two years after the bond is cancelled or expires without being replaced.

* * * * *

(i) If you are required to post a bond under this section, you must note that in your application for certification as described in § 1054.205. Your certification is conditioned on your compliance with this section. Your certificate is automatically suspended if you fail to comply with the requirements of this section. This suspension applies with respect to all engines in your possession as well as all engines being imported or otherwise introduced into U.S. commerce. For example, if you maintain a bond sufficient to cover 500 engines, you may introduce into U.S. commerce only 500 engines under your certificate; your certificate would be automatically suspended for any additional engines. Introducing such additional engines into U.S. commerce would violate 40 CFR 1068.101(a)(1). For importation, U.S. Customs may deny entry of engines lacking the necessary bond. This would apply if there is no bond, or if the value of the bond is not sufficient for the appropriate production volumes. We may also revoke your certificate.

* * * * *

264. Amend § 1054.701 by revising paragraph (c)(2), paragraph (i) introductory text, and paragraph (i)(1) to read as follows:

§ 1054.701 General provisions.

* * * * *

(c) * * *

(2) Handheld engines and nonhandheld engines are in separate averaging sets with respect to exhaust emissions except as specified in § 1054.740(e). You may use emission credits generated with Phase 2 engines for Phase 3 handheld engines only if you can demonstrate that those credits were generated by handheld engines, except as specified in § 1054.740(e). Similarly, you may use emission credits generated with Phase 2 engines for Phase 3 nonhandheld engines only if you can demonstrate that those credits were generated by nonhandheld engines, subject to the provisions of § 1054.740.

* * * * *

(i) As described in § 1054.730, compliance with the requirements of this subpart is determined at the end of the model year based on actual U.S.-directed production volumes. Do not include any of the following engines or equipment to calculate emission credits:

(1) Engines or equipment with a permanent exemption under subpart G of this part or under 40 CFR part 1068.

* * * * *

265. Amend § 1054.710 by revising paragraph (c) to read as follows:

§ 1054.710 How do I average emission credits?

* * * * *

(c) If you certify a family to an FEL that exceeds the otherwise applicable standard, you must obtain enough emission credits to offset the family's deficit by the due date for the final report required in § 1054.730. The emission credits used to address the deficit may come from your other families that generate emission credits in the same model year, from emission credits you have banked from previous model years, or from emission credits generated in the same or previous model years that you obtained through trading.

266. Amend § 1054.715 by revising paragraph (b) to read as follows:

§ 1054.715 How do I bank emission credits?

* * * * *

(b) You may designate any emission credits you plan to bank in the reports you submit under § 1054.730 as reserved credits. During the model year and before the due date for the final report, you may designate your reserved emission credits for averaging or trading.

* * * * *

267. Amend § 1054.725 by revising paragraph (b)(2) to read as follows:

§ 1054.725 What must I include in my application for certification?

* * * * *

(b) * * *

(2) Detailed calculations of projected emission credits (positive or negative) based on projected production volumes. We may require you to include similar calculations from your other engine families to demonstrate that you will be able to avoid negative credit balances for the model year. If you project negative emission credits for a family, state the source of positive emission credits you expect to use to offset the negative emission credits.

268. Amend § 1054.730 by revising paragraphs (b)(1), (b)(3), (b)(4), (d)(1)(iii), and (d)(2)(iii) to read as follows:

§ 1054.730 What ABT reports must I send to EPA?

* * * * *

(b) * * *

(1) Family designation and averaging set.

* * * * *

(3) The FEL for each pollutant. If you change the FEL after the start of production, identify the date that you started using the new FEL and/or give the engine identification number for the first engine covered by the new FEL. In this case, identify each applicable FEL and calculate the positive or negative emission credits as specified in § 1054.225.

(4) The projected and actual U.S.-directed production volumes for the model year as described in § 1054.701(i). For fuel tanks, state the production volume in terms of surface area and production volume for each fuel tank configuration and state the total surface area for the emission family. If you changed an FEL during the model year, identify the actual U.S.-directed production volume associated with each FEL.

* * * * *

(d) * * *

(1) * * *

(iii) The averaging set corresponding to the families that generated emission credits for the trade, including the number of emission credits from each averaging set.

(2) * * *

(iii) How you intend to use the emission credits, including the number of emission credits you intend to apply for each averaging set.

* * * * *

269. Amend § 1054.735 by revising paragraphs (a) and (b) to read as follows:

§ 1054.735 What records must I keep?

(a) You must organize and maintain your records as described in this section.

(b) Keep the records required by this section for at least eight years after the due date for the end-of-year report. You may not use emission credits for any engines or equipment if you do not keep all the records required under this section. You must therefore keep these records to continue to bank valid credits.

* * * * *

270. Amend § 1054.740 by revising paragraph (c) and removing and reserving paragraph (d) to read as follows:

§ 1054.740 What special provisions apply for generating and using emission credits?

* * * * *

(c) You may not use emission credits generated by nonhandheld engines certified to Phase 2 emission standards to demonstrate compliance with the Phase 3 exhaust emission standards in 2014 and later model years.

* * * * *

271. Amend § 1054.801 by:

a. Revising the definition for “Designated Compliance Officer”.

b. Removing the definition for “Dual-fuel engine”.

c. Adding a definition for “Dual-fuel” in alphabetical order.

d. Revising the definition for “Engine configuration” and “Equipment manufacturer”.

e. Removing the definition for “Flexible-fuel engine”.

f. Adding a definition for “Flexible-fuel” in alphabetical order.

g. Revising the definitions for “Fuel type”, “Handheld”, “New nonroad engine”, “New nonroad equipment”, “Nonmethane hydrocarbon”. “Nonroad engine”, “Phase 1”, “Phase 2”, and “Placed into service”.

h. Removing the definition for “Pressurized oil system”.

i. Revising the definitions for “Small-volume emission family”, “Small-volume equipment manufacturer”, “Total hydrocarbon”, and “Total hydrocarbon equivalent”.

The new and revised definitions read as follows:

§ 1054.801 What definitions apply to this part?

* * * * *

Designated Compliance Officer means the Director, Gasoline Engine Compliance Center, U.S. Environmental Protection Agency, 2000 Traverwood Drive, Ann Arbor, MI 48105; complianceinfo@epa.gov.

* * * * *

Dual-fuel means relating to an engine designed for operation on two different fuels but not on a continuous mixture of those fuels (see § 1054.601(d)). For purposes of this part, such an engine remains a dual-fuel engine even if it is designed for operation on three or more different fuels.

* * * * *

Engine configuration means a unique combination of engine hardware and calibration within an emission family. Engines within a single engine configuration differ only with respect to normal production variability or factors unrelated to emissions.

* * * * *

Equipment manufacturer means a manufacturer of nonroad equipment. All nonroad equipment manufacturing entities under the control of the same person are considered to be a single nonroad equipment manufacturer.

* * * * *

Flexible-fuel means relating to an engine designed for operation on any mixture of two or more different fuels (see § 1054.601(d)).

* * * * *

Fuel type means a general category of fuels such as gasoline or natural gas. There can be multiple grades within a single fuel type, such as premium gasoline, regular gasoline, or low-level ethanol-gasoline blends.

* * * * *

Handheld means relating to equipment that meets any of the following criteria:

(1) It is carried by the operator throughout the performance of its intended function.

(2) It is designed to operate multi-positionally, such as upside down or sideways, to complete its intended function.

(3) It has a combined engine and equipment dry weight under 16.0 kilograms, has no more than two wheels, and at least one of the following attributes is also present:

(i) The operator provides support or carries the equipment throughout the performance of its intended function. Carry means to completely bear the weight of the equipment, including the engine. Support means to hold a piece of equipment in position to prevent it from falling, slipping, or sinking, without carrying it.

(ii) The operator provides support or attitudinal control for the equipment throughout the performance of its intended function. Attitudinal control involves regulating the horizontal or vertical position of the equipment.

(4) It is an auger with a combined engine and equipment dry weight under 22.0 kilograms.

(5) It is used in a recreational application with a combined total vehicle dry weight under 20.0 kilograms.

(6) It is a hand-supported jackhammer or rammer/compactor. This does not include equipment that can remain upright without operator support, such as a plate compactor.

* * * * *

New nonroad engine means any of the following things:

(1) A freshly manufactured nonroad engine for which the ultimate purchaser has never received the equitable or legal title. This kind of engine might commonly be thought of as “brand new.” In the case of this paragraph (1), the engine is new from the time it is produced until the ultimate purchaser receives the title or the product is placed into service, whichever comes first.

(2) An engine originally manufactured as a motor vehicle engine or a stationary engine that is later used or intended to be used in a piece of nonroad equipment. In this case, the engine is no longer a motor vehicle or stationary engine and becomes a “new nonroad engine.” The engine is no longer new when it is placed into nonroad service. This paragraph (2) applies if a motor vehicle engine or a stationary engine is installed in nonroad equipment, or if a motor vehicle or a piece of stationary equipment is modified (or moved) to become nonroad equipment.

(3) A nonroad engine that has been previously placed into service in an application we exclude under § 1054.5, when that engine is installed in a piece of equipment that is covered by this part 1054. The engine is no longer new when it is placed into nonroad service covered by this part 1054. For example, this would apply to a marine-propulsion engine that is no longer used in a marine vessel but is instead installed in a piece of nonroad equipment subject to the provisions of this part.

(4) An engine not covered by paragraphs (1) through (3) of this definition that is intended to be installed in new nonroad equipment. This generally includes installation of used engines in new equipment. The engine is no longer new when the ultimate purchaser receives a title for the equipment or the product is placed into service, whichever comes first.

(5) An imported nonroad engine, subject to the following provisions:

(i) An imported nonroad engine covered by a certificate of conformity issued under this part that meets the criteria of one or more of paragraphs (1) through (4) of this definition, where the original engine manufacturer holds the certificate, is new as defined by those applicable paragraphs.

(ii) An imported engine that will be covered by a certificate of conformity issued under this part, where someone other than the original engine manufacturer holds the certificate (such as when the engine is modified after its initial assembly), is a new nonroad engine when it is imported. It is no longer new when the ultimate purchaser receives a title for the engine or it is placed into service, whichever comes first.

(iii) An imported nonroad engine that is not covered by a certificate of conformity issued under this part at the time of importation is new. This addresses uncertified engines and equipment initially placed into service that someone seeks to import into the United States. Importation of this kind of engine (or equipment containing such an engine) is generally prohibited by 40 CFR part 1068. However, the importation of such an engine is not prohibited if the engine has a date of manufacture before January 1, 1997, since it is not subject to standards.

New nonroad equipment means either of the following things:

(1) A nonroad piece of equipment for which the ultimate purchaser has never received the equitable or legal title. The product is no longer new when the ultimate purchaser receives this title or the product is placed into service, whichever comes first.

(2) A nonroad piece of equipment with an engine that becomes new while installed in the equipment. For example, a complete piece of equipment that was imported without being covered by a certificate of conformity would be new nonroad equipment because the engine would be considered new at the time of importation.

* * * * *

Nonmethane hydrocarbon has the meaning given in 40 CFR 1065.1001. This generally means the difference between the emitted mass of total hydrocarbon and the emitted mass of methane.

* * * * *

Nonroad engine has the meaning given in 40 CFR 1068.30. In general, this means all internal-combustion engines except motor vehicle engines, stationary engines, engines used solely for competition, or engines used in aircraft.

* * * * *

Phase 1 means relating to the Phase 1 emission standards described in Appendix I of this part.

Phase 2 means relating to the Phase 2 emission standards described in Appendix I of this part.

* * * * *

Placed into service means put into initial use for its intended purpose. Engines and equipment do not qualify as being “placed into service” based on incidental use by a manufacturer or dealer.

* * * * *

Small-volume emission family means one of the following:

(1) For requirements related to exhaust emissions for nonhandheld engines and to exhaust and evaporative emissions for handheld engines, small-volume emission family means any emission family whose U.S.-directed production volume in a given model year is projected at the time of certification to be no more than 5,000 engines or pieces of equipment.

(2) For requirements related to evaporative emissions for nonhandheld equipment, small-volume emission family means any equipment manufacturer's U.S.-directed production volume for identical fuel tank is projected at the time of certification to be no more than 5,000 units. Tanks are generally considered identical if they are produced under a single part number to conform to a single design or blueprint. Tanks should be considered identical if they differ only with respect to production variability, post-production changes (such as different fittings or grommets), supplier, color, or other extraneous design variables.

* * * * *

Small-volume equipment manufacturer means one of the following:

(1) For handheld equipment, an equipment manufacturer that had a U.S.-directed production volume of no more than 25,000 pieces of handheld equipment in any calendar year. For manufacturers owned by a parent company, this production limit applies to the production of the parent company and all its subsidiaries.

(2) For nonhandheld equipment, an equipment manufacturer with annual U.S.-directed production volumes of no more than 5,000 pieces of nonhandheld equipment in any calendar year. For manufacturers owned by a parent company, this production limit applies to the production of the parent company and all its subsidiaries.

(3) An equipment manufacturer that we designate to be a small-volume equipment manufacturer under § 1054.635.

* * * * *

Total hydrocarbon has the meaning given in 40 CFR 1065.1001. This generally means the combined mass of organic compounds measured by the specified procedure for measuring total hydrocarbon, expressed as an atomic hydrocarbon with an atomic hydrogen-to-carbon ratio of 1.85:1.

Total hydrocarbon equivalent has the meaning given in 40 CFR 1065.1001. This generally means the sum of the carbon mass contributions of non-oxygenated hydrocarbon, alcohols and aldehydes, or other organic compounds that are measured separately as contained in a gas sample, expressed as exhaust hydrocarbon from petroleum-fueled engines. The atomic hydrogen-to-carbon ratio of the equivalent hydrocarbon is 1.85:1.

* * * * *

272. Revise § 1054.815 to read as follows:

§ 1054.815 What provisions apply to confidential information?

The provisions of 40 CFR 1068.10 apply for information you consider confidential.

273. Revise § 1054.825 to read as follows:

§ 1054.825 What reporting and recordkeeping requirements apply under this part?

(a) This part includes various requirements to submit and record data or other information. Unless we specify otherwise, store required records in any format and on any media and keep them readily available for eight years after you send an associated application for certification, or eight years after you generate the data if they do not support an application for certification. We may request these records at any time. You must promptly give us organized, written records in English if we ask for them. This applies whether or not you rely on someone else to keep records on your behalf. We may require you to submit written records in an electronic format.

(b) The regulations in § 1054.255, 40 CFR 1068.25, and 40 CFR 1068.101 describe your obligation to report truthful and complete information. This includes information not related to certification. Failing to properly report information and keep the records we specify violates 40 CFR 1068.101(a)(2), which may involve civil or criminal penalties.

(c) Send all reports and requests for approval to the Designated Compliance Officer (see § 1054.801).

(d) Any written information we require you to send to or receive from another company is deemed to be a required record under this section. Such records are also deemed to be submissions to EPA. We may require you to send us these records whether or not you are a certificate holder.

(e) Under the Paperwork Reduction Act (44 U.S.C. 3501 et seq.), the Office of Management and Budget approves the reporting and recordkeeping specified in the applicable regulations. The following items illustrate the kind of reporting and recordkeeping we require for engines and equipment regulated under this part:

(1) We specify the following requirements related to engine and equipment certification in this part 1054:

(i) In § 1054.20 we require equipment manufacturers to label their equipment if they are relying on component certification.

(ii) In § 1054.135 we require engine manufacturers to keep certain records related to duplicate labels sent to equipment manufacturers.

(iii) In § 1054.145 we include various reporting and recordkeeping requirements related to interim provisions.

(iv) In subpart C of this part we identify a wide range of information required to certify engines.

(v) In §§ 1054.345 and 1054.350 we specify certain records related to production-line testing.

(vi) [Reserved]

(vii) In subpart G of this part we identify several reporting and recordkeeping items for making demonstrations and getting approval related to various special compliance provisions.

(viii) In §§ 1054.725, 1054.730, and 1054.735 we specify certain records related to averaging, banking, and trading.

(2) We specify the following requirements related to component and equipment certification in 40 CFR part 1060:

(i) In 40 CFR 1060.20 we give an overview of principles for reporting information.

(ii) In 40 CFR part 1060, subpart C, we identify a wide range of information required to certify products.

(iii) In 40 CFR 1060.301 we require manufacturers to keep records related to evaluation of production samples for verifying that the products are as specified in the certificate of conformity.

(iv) In 40 CFR 1060.310 we require manufacturers to make components, engines, or equipment available for our testing if we make such a request.

(iv) In 40 CFR 1060.505 we specify information needs for establishing various changes to published test procedures.

(3) We specify the following requirements related to testing in 40 CFR part 1065:

(i) In 40 CFR 1065.2 we give an overview of principles for reporting information.

(ii) In 40 CFR 1065.10 and 1065.12 we specify information needs for establishing various changes to published test procedures.

(iii) In 40 CFR 1065.25 we establish basic guidelines for storing test information.

(iv) In 40 CFR 1065.695 we identify the specific information and data items to record when measuring emissions.

(4) We specify the following requirements related to the general compliance provisions in 40 CFR part 1068:

(i) In 40 CFR 1068.5 we establish a process for evaluating good engineering judgment related to testing and certification.

(ii) In 40 CFR 1068.25 we describe general provisions related to sending and keeping information.

(iii) In 40 CFR 1068.27 we require manufacturers to make engines available for our testing or inspection if we make such a request.

(iv) In 40 CFR 1068.105 we require equipment manufacturers to keep certain records related to duplicate labels from engine manufacturers.

(v) In 40 CFR 1068.120 we specify recordkeeping related to rebuilding engines.

(vi) In 40 CFR part 1068, subpart C, we identify several reporting and recordkeeping items for making demonstrations and getting approval related to various exemptions.

(vii) In 40 CFR part 1068, subpart D, we identify several reporting and recordkeeping items for making demonstrations and getting approval related to importing engines.

(viii) In 40 CFR 1068.450 and 1068.455 we specify certain records related to testing production-line engines in a selective enforcement audit.

(ix) In 40 CFR 1068.501 we specify certain records related to investigating and reporting emission-related defects.

(x) In 40 CFR 1068.525 and 1068.530 we specify certain records related to recalling nonconforming engines.

(xi) In 40 CFR part 1068, subpart G, we specify certain records for requesting a hearing.

274. Revise Appendix I to part 1054 to read as follows:

Appendix I to Part 1054—Summary of Previous Emission Standards

The following standards, which EPA originally adopted under 40 CFR part 90, apply to nonroad spark-ignition engines produced before the model years specified in § 1054.1:

(a) Handheld engines. (1) Phase 1 standards apply for handheld engines as summarized in the following table starting with model year 1997:

Table 1 to Appendix I—Phase 1 Emission Standards for Handheld Engines
[g/kW-hr] ᵃ
Engine displacement class | HC | NOX | CO
Class III | 295 | 5.36 | 805
Class IV | 241 | 5.36 | 805
Class V | 161 | 5.36 | 603
ᵃ Phase 1 standards are based on testing with new engines only.

(2) Phase 2 standards apply for handheld engines as summarized in the following table starting with model year 2002 for Class III and Class IV, and starting in model year 2004 for Class V:

Table 2 to Appendix I—Phase 2 Emission Standards for Handheld Engines
[g/kW-hr]
Engine displacement class | HC + NOX | CO
Class III | ᵃ 50 | 805
Class IV | ᵇ 50 | 805
Class V | ᶜ 72 | 603
ᵃ Class III engines had alternate HC + NOX standards of 238, 175, and 113 for model years 2002, 2003, and 2004, respectively.
ᵇ Class IV engines had alternate HC + NOX standards of 196, 148, and 99 for model years 2002, 2003, and 2004, respectively.
ᶜ Class V engines had alternate HC + NOX standards of 143, 119, and 96 for model years 2004, 2005, and 2006, respectively.

(b) Nonhandheld engines. (1) Phase 1 standards apply for nonhandheld engines as summarized in the following table starting with model year 1997:

Table 3 to Appendix I—Phase 1 Emission Standards for Nonhandheld Engines
[g/kW-hr] ᵃ
Engine displacement class | HC + NOX | CO
Class I | 16.1 | 519
Class II | 13.4 | 519
ᵃ Phase 1 standards are based on testing with new engines only.

(2) Phase 2 standards apply for nonhandheld engines as summarized in the following table starting with model year 2001 (except as noted for Class I engines):

Table 4 to Appendix I—Phase 2 Emission Standards for Nonhandheld Engines
[g/kW-hr]
Engine displacement class | HC + NOX | NMHC + NOX | CO
Class I-A | 50 |  | 610
Class I-B | 40 | 37 | 610
Class I ᵃ | 16.1 | 14.8 | 610
Class II ᵇ | 12.1 | 11.3 | 610
ᵃ The Phase 2 standards for Class I engines apply for new engines produced starting August 1, 2007, and for any engines belonging to an engine model whose original production date was on or after August 1, 2003.
ᵇ Class II engines had alternate HC + NOX standards of 18.0, 16.6, 15.0, 13.6 and alternate NMHC + NOX standards of 16.7, 15.3, 14.0, 12.7 for model years 2001 through 2004, respectively.

(3) Note that engines subject to Phase 1 standards were not subject to useful life provisions as specified in § 1054.107. In addition, engines subject to Phase 1 standards and engines subject to Phase 2 standards were both not subject to the following provisions:

(i) Evaporative emission standards as specified in §§ 1054.110 and 1054.112.

(ii) Altitude adjustments as specified in § 1054.115(c).

(iii) Warranty assurance provisions as specified in § 1054.120(f).

(iv) Emission-related installation instructions as specified in § 1054.130.

(v) Bonding requirements as specified in § 1054.690.

275. Revise paragraph (b)(2) of Appendix II to part 1054 to read as follows:

Appendix II to Part 1054—Duty Cycles for Laboratory Testing

* * * * *

(b) * * *

(2) The following duty cycle applies for ramped-modal testing:

RMC mode ᵃ | Time in mode (seconds) | Torque (percent) b c
1a Steady-state | 41 | 0
1b Transition | 20 | Linear transition
2a Steady-state | 135 | 100
2b Transition | 20 | Linear transition
3a Steady-state | 112 | 10
3b Transition | 20 | Linear transition
4a Steady-state | 337 | 75
4b Transition | 20 | Linear transition
5a Steady-state | 518 | 25
5b Transition | 20 | Linear transition
6a Steady-state | 494 | 50
6b Transition | 20 | Linear transition
7 Steady-state | 43 | 0
ᵃ Control engine speed as described in § 1054.505. Control engine speed for Mode 6 as described in § 1054.505(c) for idle operation.
ᵇ Advance from one mode to the next within a 20-second transition phase. During the transition phase, command a linear progression from the torque setting of the current mode to the torque setting of the next mode.
ᶜ The percent torque is relative to the value established for full-load torque, as described in § 1054.505.

PART 1060—CONTROL OF EVAPORATIVE EMISSIONS FROM NEW AND IN-USE NONROAD AND STATIONARY EQUIPMENT

276. The authority citation for part 1060 continues to read as follows:

Authority: 42 U.S.C. 7401-7671q.

277. Amend § 1060.1 by revising paragraphs (a)(8), (c), and (d) to read as follows:

§ 1060.1 Which products are subject to this part's requirements?

(a) * * *

(8) Portable nonroad fuel tanks are considered portable marine fuel tanks for purposes of this part 1060. Portable nonroad fuel tanks and fuel lines associated with such fuel tanks must therefore meet evaporative emission standards specified in 40 CFR 1045.112, whether or not they are used with marine vessels.

* * * * *

(c) Fuel caps are subject to evaporative emission standards at the point of installation on a fuel tank. When a fuel cap is certified for use with Marine SI engines or Small SI engines under the optional standards of § 1060.103, it becomes subject to all the requirements of this part 1060 as if these optional standards were mandatory.

(d) This part 1060 does not apply to any diesel-fueled engine or any other engine that does not use a volatile liquid fuel. In addition, this part does not apply to any engines or equipment in the following categories even if they use a volatile liquid fuel:

(1) Light-duty motor vehicles (see 40 CFR part 86).

(2) Heavy-duty motor vehicles and heavy-duty motor vehicle engines (see 40 CFR part 86). This part 1060 also does not apply to fuel systems for nonroad engines where such fuel systems are subject to part 86 because they are part of a heavy-duty motor vehicle.

(3) Aircraft engines (see 40 CFR part 87).

(4) Locomotives (see 40 CFR part 1033).

* * * * *

278. Amend § 1060.5 by revising paragraph (a)(1) to read as follows:

§ 1060.5 Do the requirements of this part apply to me?

* * * * *

(a) * * *

(1) Each person meeting the definition of manufacturer for a product that is subject to the standards and other requirements of this part must comply with such requirements. However, if one person complies with a specific requirement for a given product, then all manufacturers are deemed to have complied with that specific requirement. For example, if a Small SI equipment manufacturer uses fuel lines manufactured and certified by another company, the equipment manufacturer is not required to obtain its own certificate with respect to the fuel line emission standards. Such an equipment manufacturer remains subject to the standards and other requirements of this part. However, where a provision requires a specific manufacturer to comply with certain provisions, this paragraph (a) does not change or modify such a requirement. For example, this paragraph (a) does not allow you to rely on another company to certify instead of you if we specifically require you to certify.

* * * * *

279. Revise § 1060.30 to read as follows:

§ 1060.30 Submission of information.

Unless we specify otherwise, send all reports and requests for approval to the Designated Compliance Officer (see § 1060.801). See § 1060.825 for additional reporting and recordkeeping provisions.

280. Amend § 1060.104 by revising paragraph (b)(3) to read as follows:

§ 1060.104 What running loss emission control requirements apply?

* * * * *

(b) * * *

(3) Get an approved Executive Order or other written approval from the California Air Resources Board showing that your system meets applicable running loss standards in California.

* * * * *

281. Amend § 1060.105 by revising paragraphs (c)(1) and (e) to read as follows:

§ 1060.105 What diurnal requirements apply for equipment?

* * * * *

(c) * * *

(1) They must be self-sealing when detached from the engines. The tanks may not vent to the atmosphere when attached to an engine, except as allowed under paragraph (c)(2) of this section. An integrated or external manually activated device may be included in the fuel tank design to temporarily relieve pressure before refueling or connecting the fuel tank to the engine. However, the default setting for such a vent must be consistent with the requirement in paragraph (c)(2) of this section.

* * * * *

(e) Manufacturers of nonhandheld Small SI equipment may optionally meet the diurnal emission standards adopted by the California Air Resources Board. To meet this requirement, equipment must be certified to the performance standards specified in Title 13 CCR § 2754(a) based on the applicable requirements specified in CP-902 and TP-902, including the requirements related to fuel caps in Title 13 CCR § 2756. Equipment certified under this paragraph (e) does not need to use fuel lines or fuel tanks that have been certified separately. Equipment certified under this paragraph (e) are subject to all the referenced requirements as if these specifications were mandatory.

* * * * *

282. Amend § 1060.120 by revising paragraphs (b) and (c) to read as follows:

§ 1060.120 What emission-related warranty requirements apply?

* * * * *

(b) Warranty period. Your emission-related warranty must be valid for at least two years from the date the equipment is sold to the ultimate purchaser.

(c) Components covered. The emission-related warranty covers all components whose failure would increase the evaporative emissions, including those listed in 40 CFR part 1068, Appendix I, and those from any other system you develop to control emissions. Your emission-related warranty does not need to cover components whose failure would not increase evaporative emissions.

* * * * *

283. Amend § 1060.130 by revising paragraph (b)(3) to read as follows:

§ 1060.130 What installation instructions must I give to equipment manufacturers?

* * * * *

(b) * * *

(3) Describe how your certification is limited for any type of application. For example:

(i) For fuel tanks sold without fuel caps, you must specify the requirements for the fuel cap, such as the allowable materials, thread pattern, how it must seal, etc. You must also include instructions to tether the fuel cap as described in § 1060.101(f)(1) if you do not sell your fuel tanks with tethered fuel caps. The following instructions apply for specifying a certain level of emission control for fuel caps that will be installed on your fuel tanks:

(A) If your testing involves a default emission value for fuel cap permeation as specified in § 1060.520(b)(5)(ii)(C), specify in your installation instructions that installed fuel caps must either be certified with a Family Emission Limit at or below 30 g/m²/day, or have gaskets made of certain materials meeting the definition of “low-permeability material” in § 1060.801.

(B) If you certify your fuel tanks based on a fuel cap certified with a Family Emission Limit above 30 g/m²/day, specify in your installation instructions that installed fuel caps must either be certified with a Family Emission Limit at or below the level you used for certifying your fuel tanks, or have gaskets made of certain materials meeting the definition of “low-permeability material” in § 1060.801.

(ii) If your fuel lines do not meet permeation standards specified in § 1060.102 for EPA Low-Emission Fuel Lines, tell equipment manufacturers not to install the fuel lines with Large SI engines that operate on gasoline or another volatile liquid fuel.

* * * * *

284. Amend § 1060.135 by revising the introductory text and paragraphs (a) and (b) to read as follows:

§ 1060.135 How must I label and identify the engines and equipment I produce?

The labeling requirements of this section apply for all equipment manufacturers that are required to certify their equipment or use certified fuel-system components. Note that engine manufacturers are also considered equipment manufacturers if they install engines in equipment. See § 1060.137 for the labeling requirements that apply separately for fuel lines, fuel tanks, and other fuel-system components.

(a) At the time of manufacture, you must affix a permanent and legible label identifying each engine or piece of equipment. The label must be—

(1) Attached in one piece so it is not removable without being destroyed or defaced.

(2) Secured to a part of the engine or equipment needed for normal operation and not normally requiring replacement.

(3) Durable and readable for the equipment's entire life.

(4) Written in English.

(5) Readily visible in the final installation. It may be under a hinged door or other readily opened cover. It may not be hidden by any cover attached with screws or any similar designs. Labels on marine vessels (except personal watercraft) must be visible from the helm.

(b) If you hold a certificate under this part for your engine or equipment, the engine or equipment label specified in paragraph (a) of this section must—

(1) Include the heading “EMISSION CONTROL INFORMATION”.

(2) Include your corporate name and trademark. You may identify another company and use its trademark instead of yours if you comply with the branding provisions of 40 CFR 1068.45.

(3) State the date of manufacture [MONTH and YEAR] of the equipment; however, you may omit this from the label if you stamp, engrave, or otherwise permanently identify it elsewhere on the equipment, in which case you must also describe in your application for certification where you will identify the date on the equipment.

(4) State: “THIS [equipment, vehicle, boat, etc.] MEETS U.S. EPA EVAP STANDARDS.”

(5) Identify the emission family on the label using EPA's standardized designation or an abbreviated equipment code that you establish in your application for certification. Equipment manufacturers that also certify their engines with respect to exhaust emissions may use the same emission family name for both exhaust and evaporative emissions.

* * * * *

285. Amend § 1060.137 by revising paragraphs (a)(4) and (c)(1) to read as follows:

§ 1060.137 How must I label and identify the fuel-system components I produce?

* * * * *

(a) * * *

(4) Fuel caps, as described in this paragraph (a)(4). Fuel caps must be labeled if they are separately certified under § 1060.103. If the equipment has a diurnal control system that requires the fuel tank to hold pressure, identify the part number on the fuel cap.

* * * * *

(c) * * *

(1) Include your corporate name. You may identify another company instead of yours if you comply with the provisions of 40 CFR 1068.45.

* * * * *

286. Amend § 1060.205 by revising paragraphs (a) and (m) to read as follows:

§ 1060.205 What must I include in my application?

* * * * *

(a) Describe the emission family's specifications and other basic parameters of the emission controls. Describe how you meet the running loss emission control requirements in § 1060.104, if applicable. Describe how you meet any applicable equipment-based requirements of § 1060.101(e) and (f). State whether you are requesting certification for gasoline or some other fuel type. List each distinguishable configuration in the emission family. For equipment that relies on one or more certified components, identify all the certified components and any associated component codes.

* * * * *

(m) Report all valid test results. Also indicate whether there are test results from invalid tests or from any other tests of the emission-data unit, whether or not they were conducted according to the test procedures of subpart F of this part. We may require you to report these additional test results. We may ask you to send other information to confirm that your tests were valid under the requirements of this part.

* * * * *

287. Amend § 1060.225 by revising paragraphs (b), (e), and (g) and adding paragraph (h) to read as follows:

§ 1060.225 How do I amend my application for certification?

* * * * *

(b) To amend your application for certification, send the relevant information to the Designated Compliance Officer.

(1) Describe in detail the addition or change in the configuration you intend to make.

(2) Include engineering evaluations or data showing that the amended emission family complies with all applicable requirements. You may do this by showing that the original emission data are still appropriate for showing that the amended family complies with all applicable requirements.

(3) If the original emission data for the emission family are not appropriate to show compliance for the new or modified configuration, include new test data showing that the new or modified configuration meets the requirements of this part.

(4) Include any other information needed to make your application correct and complete.

* * * * *

(e) The amended application applies starting with the date you submit the amended application, as follows:

(1) For emission families already covered by a certificate of conformity, you may start producing a new or modified configuration anytime after you send us your amended application and before we make a decision under paragraph (d) of this section. However, if we determine that the affected configurations do not meet applicable requirements, we will notify you to cease production of the configurations and may require you to recall the equipment at no expense to the owner. Choosing to produce equipment under this paragraph (e) is deemed to be consent to recall all equipment that we determine do not meet applicable emission standards or other requirements and to remedy the nonconformity at no expense to the owner. If you do not provide information we request under paragraph (c) of this section within 30 days after we request it, you must stop producing the new or modified equipment.

(2) If you amend your application to make the amended application correct and complete, these changes do not apply retroactively. Also, if we determine that your amended application is not correct and complete, or otherwise does not conform to the regulation, we will notify you and describe how to address the error.

* * * * *

(g) You may produce equipment or components as described in your amended application for certification and consider those equipment or components to be in a certified configuration if we approve a new or modified configuration during the model year or production period under paragraph (d) of this section. Similarly, you may modify in-use products as described in your amended application for certification and consider those products to be in a certified configuration if we approve a new or modified configuration at any time under paragraph (d) of this section. Modifying a new or in-use product to be in a certified configuration does not violate the tampering prohibition of 40 CFR 1068.101(b)(1), as long as this does not involve changing to a certified configuration with a higher family emission limit.

(h) Component manufacturers may not change an emission family's FEL under any circumstances. Changing the FEL would require submission of a new application for certification.

288. Amend § 1060.230 by revising paragraph (d)(2) to read as follows:

§ 1060.230 How do I select emission families?

* * * * *

(d) * * *

(2) Type of material (such as type of charcoal used in a carbon canister). This criterion does not apply for materials that are unrelated to emission control performance.

* * * * *

289. Amend § 1060.235 by:

a. Revising the section heading;

b. Redesignating paragraph (a) as (h).

c. Redesignating paragraph (b) as paragraph (a) and paragraph (h) as paragraph (b);

d. Revising paragraphs (d) and (e)(1).

The revisions read as follows:

§ 1060.235 What testing requirements apply for certification?

* * * * *

(d) We may perform confirmatory testing by measuring emissions from any of your products from the emission family, as follows:

(1) You must supply your products to us if we choose to perform confirmatory testing. We may require you to deliver your test articles to a facility we designate for our testing.

(2) If we measure emissions on one of your products, the results of that testing become the official emission results for the emission family. Unless we later invalidate these data, we may decide not to consider your data in determining if your emission family meets applicable requirements.

(e) * * *

(1) The emission family from the previous production period differs from the current emission family only with respect to production period, items identified in § 1060.225(a), or other characteristics unrelated to emissions. We may waive this criterion for differences we determine not to be relevant.

* * * * *

290. Amend § 1060.240 by revising paragraph (e)(2)(i) to read as follows:

§ 1060.240 How do I demonstrate that my emission family complies with evaporative emission standards?

* * * * *

(e) * * *

(2) * * *

(i) You may use the measurement procedures specified by the California Air Resources Board in Attachment 1 to TP-902 to show that canister working capacity is least 3.6 grams of vapor storage capacity per gallon of nominal fuel tank capacity (or 1.4 grams of vapor storage capacity per gallon of nominal fuel tank capacity for fuel tanks used in nontrailerable boats).

* * * * *

291. Amend § 1060.250 by revising paragraphs (a)(3)(ii) and (b) to read as follows:

§ 1060.250 What records must I keep?

(a) * * *

(3) * * *

(ii) All your emission tests (valid and invalid), including the date and purpose of each test and documentation of test parameters described in subpart F of this part.

* * * * *

(b) Keep required data from emission tests and all other information specified in this section for eight years after we issue your certificate. If you use the same emission data or other information for a later model year, the eight-year period restarts with each year that you continue to rely on the information.

* * * * *

292. Revise § 1060.255 to read as follows:

§ 1060.255 What decisions may EPA make regarding a certificate of conformity?

(a) If we determine an application is complete and shows that the emission family meets all the requirements of this part and the Clean Air Act, we will issue a certificate of conformity for the emission family for that production period. We may make the approval subject to additional conditions.

(b) We may deny an application for certification if we determine that an emission family fails to comply with emission standards or other requirements of this part or the Clean Air Act. We will base our decision on all available information. If we deny an application, we will explain why in writing.

(c) In addition, we may deny your application or suspend or revoke a certificate of conformity if you do any of the following:

(1) Refuse to comply with any testing or reporting requirements.

(2) Submit false or incomplete information. This includes doing anything after submitting an application that causes submitted information to be false or incomplete.

(3) Cause any test data to become inaccurate.

(4) Deny us from completing authorized activities (see 40 CFR 1068.20). This includes a failure to provide reasonable assistance.

(5) Produce equipment or components for importation into the United States at a location where local law prohibits us from carrying out authorized activities.

(6) Fail to supply requested information or amend an application to include all equipment or components being produced.

(7) Take any action that otherwise circumvents the intent of the Clean Air Act or this part, with respect to an emission family.

(d) We may void a certificate of conformity for an emission family if you fail to keep records, send reports, or give us information as required under this part or the Clean Air Act. Note that these are also violations of 40 CFR 1068.101(a)(2).

(e) We may void a certificate of conformity for an emission family if we find that you intentionally submitted false or incomplete information. This includes doing anything after submitting an application that causes submitted information to be false or incomplete.

(f) If we deny an application or suspend, revoke, or void a certificate of conformity, you may ask for a hearing (see § 1060.820).

293. Amend § 1060.501 by revising paragraph (c) to read as follows:

§ 1060.501 General testing provisions.

* * * * *

(c) The specification for gasoline to be used for testing is given in 40 CFR 1065.710(b) or (c). Use the grade of gasoline specified for general testing. For testing specified in this part that requires blending gasoline and ethanol, blend this grade of neat gasoline with fuel-grade ethanol meeting the specifications of ASTM D4806 (incorporated by reference in § 1060.810). You do not need to measure the ethanol concentration of such blended fuels and may instead calculate the blended composition by assuming that the ethanol is pure and mixes perfectly with the base fuel. For example, if you mix 10.0 liters of fuel-grade ethanol with 90.0 liters of gasoline, you may assume the resulting mixture is 10.0 percent ethanol. You may use more pure or less pure ethanol if you can demonstrate that it will not affect your ability to demonstrate compliance with the applicable emission standards. Note that unless we specify otherwise, any references to gasoline-ethanol mixtures containing a specified ethanol concentration means mixtures meeting the provisions of this paragraph (c). The following table summarizes test fuel requirements for the procedures specified in this subpart:

Procedure | Reference | Test fuel ¹
Low-Emission Fuel Lines | § 1060.510 | CE10.
Nonroad Fuel Lines | § 1060.515 | CE10 ².
Cold-Weather Fuel Lines | § 1060.515 | Splash-blended E10.
Fuel tank and fuel cap permeation | § 1060.520 | Splash-blended E10; manufacturers may instead use CE10.
Diurnal | § 1060.525 | E0.
¹ Pre-mixed gasoline blends are specified in 40 CFR 1065.710(b). Splash-blended gasoline blends are a mix of neat gasoline specified in 40 CFR 1065.710(c) and fuel-grade ethanol.
² Different fuel specifications apply for fuel lines tested under 40 CFR part 1051 for recreational vehicles, as described in 40 CFR 1051.501.

* * * * *

294. Amend § 1060.505 by revising paragraph (c)(3) to read as follows:

§ 1060.505 Other procedures.

* * * * *

(c) * * *

(3) You may request to use alternate procedures that are equivalent to the specified procedures, or procedures that are more accurate or more precise than the specified procedures. We may perform tests with your equipment using either the approved alternate procedures or the specified procedures. See 40 CFR 1065.12 for a description of the information that is generally required for such alternate procedures.

* * * * *

295. Amend § 1060.515 by revising paragraph (a)(2) to read as follows:

§ 1060.515 How do I test EPA Nonroad Fuel Lines and EPA Cold-Weather Fuel Lines for permeation emissions?

* * * * *

(a) * * *

(2) For EPA Cold-Weather Fuel Lines, use gasoline blended with ethanol as described in § 1060.501(c).

* * * * *

296. Amend § 1060.520 by revising paragraphs (a), (b)(1), (b)(4), (d)(3), (d)(6), (d)(8)(ii), (d)(9), and (e) to read as follows:

§ 1060.520 How do I test fuel tanks for permeation emissions?

* * * * *

(a) Preconditioning durability testing. Take the following steps before an emission test, in any order, if your emission control technology involves surface treatment or other post-processing treatments such as an epoxy coating:

(1) Pressure cycling. Perform a pressure test by sealing the fuel tank and cycling it between +13.8 and −3.4 kPa (+2.0 and −0.5 psig) for 10,000 cycles at a rate of 60 seconds per cycle. The purpose of this test is to represent environmental wall stresses caused by pressure changes and other factors (such as vibration or thermal expansion). If your fuel tank cannot be tested using the pressure cycles specified by this paragraph (a)(1), you may ask to use special test procedures under § 1060.505.

(2) UV exposure. Perform a sunlight-exposure test by exposing the fuel tank to an ultraviolet light of at least 24 W/m² (0.40 W-hr/m²/min) on the fuel tank surface for at least 450 hours. Alternatively, the fuel tank may be exposed to direct natural sunlight for an equivalent period of time as long as you ensure that the fuel tank is exposed to at least 450 daylight hours.

(3) Slosh testing. Perform a slosh test by filling the fuel tank to 40-50 percent of its capacity with the fuel specified in paragraph (e) of this section and rocking it at a rate of 15 cycles per minute until you reach one million total cycles. Use an angle deviation of +15° to −15° from level. Take steps to ensure that the fuel remains at 40-50 percent of its capacity throughout the test run.

(4) Cap testing. Perform durability cycles on fuel caps intended for use with handheld equipment by putting the fuel cap on and taking it off 300 times. Tighten the fuel cap each time in a way that represents the typical in-use experience.

(b) * * *

(1) Fill the fuel tank to its nominal capacity with the fuel specified in paragraph (e) of this section, seal it, and allow it to soak at 28 ± 5 °C for at least 20 weeks. Alternatively, the fuel tank may be soaked for at least 10 weeks at 43 5 °C. You may count the time of the preconditioning steps in paragraph (a) of this section as part of the preconditioning fuel soak as long as the ambient temperature remains within the specified temperature range and the fuel tank continues to be at least 40 percent full throughout the test; you may add or replace fuel as needed to conduct the specified durability procedures. Void the test if you determine that the fuel tank has any kind of leak.

* * * * *

(4) Allow the fuel tank and its contents to equilibrate to the temperatures specified in paragraph (d)(7) of this section. Seal the fuel tank as described in paragraph (b)(5) of this section once the fuel temperatures are stabilized at the test temperature. You must seal the fuel tank no more than eight hours after refueling. Until the fuel tank is sealed, take steps to minimize the vapor losses from the fuel tank, such as keeping the fuel cap loose on the fuel inlet or routing vapors through a vent hose.

* * * * *

(d) * * *

(3) Carefully place the test tank within a temperature-controlled room or enclosure. Do not spill or add any fuel.

* * * * *

(6) Leave the test tank in the room or enclosure for the duration of the test run, except that you may remove the tank for up to 30 minutes at a time to meet weighing requirements.

* * * * *

(8) * * *

(ii) If after ten days of testing your r² value is below 0.95 and your measured value is more than 50 percent of the applicable standard, continue testing for a total of 20 days or until r² is at or above 0.95. If r² is not at or above 0.95 within 20 days of testing, discontinue the test and precondition the test tank further until it has stabilized emission levels, then repeat the testing.

(9) Record the difference in mass between the reference tank and the test tank for each measurement. This value is Mi, where i is a counter representing the number of days elapsed. Subtract Mi from Mo and divide the difference by the internal surface area of the fuel tank. Divide this g/m² value by the number of test days (using at least two decimal places) to calculate the emission rate in g/m²/day. Example: If a fuel tank with an internal surface area of 0.720 m² weighed 1.31 grams less than the reference tank at the beginning of the test and weighed 9.86 grams less than the reference tank after soaking for 10.03 days, the emission rate would be—

((−1.31 g)−(−9.86 g))/0.720 m²/10.03 days = 1.1839 g/m²/day

* * * * *

(e) Fuel specifications. Use a low-level ethanol-gasoline blend as specified in § 1060.501(c). As an alternative, you may use Fuel CE10, as described in § 1060.515(a)(1).

* * * * *

297. Amend § 1060.525 by revising paragraph (a)(2) to read as follows:

§ 1060.525 How do I test fuel systems for diurnal emissions?

* * * * *

(a) * * *

(2) Fill the fuel tank to 40 percent of nominal capacity with the gasoline specified in 40 CFR 1065.710(c) for general testing.

* * * * *

298. Amend § 1060.601 by revising paragraphs (a) and (b)(2) to read as follows:

§ 1060.601 How do the prohibitions of 40 CFR 1068.101 apply with respect to the requirements of this part?

(a) As described in § 1060.1, fuel tanks and fuel lines that are used with or intended to be used with new nonroad engines or equipment are subject to evaporative emission standards under this part 1060. This includes portable marine fuel tanks and fuel lines and other fuel-system components associated with portable marine fuel tanks. Note that § 1060.1 specifies an implementation schedule based on the date of manufacture of nonroad equipment, so new fuel tanks and fuel lines are not subject to standards under this part 1060 if they will be installed for use in equipment built before the specified dates for implementing the appropriate standards, subject to the limitations in paragraph (b) of this section. Except as specified in paragraph (f) of this section, fuel-system components that are subject to permeation or diurnal emission standards under this part 1060 must be covered by a valid certificate of conformity before being introduced into U.S. commerce to avoid violating the prohibition of 40 CFR 1068.101(a). To the extent we allow it under the exhaust standard-setting part, fuel-system components may be certified with a family emission limit higher than the specified emission standard.

(b) * * *

(2) Applicability of standards after January 1, 2020. Starting January 1, 2020, it is presumed that replacement components will be used with nonroad engines regulated under this part 1060 if they can reasonably be used with such engines. Manufacturers, distributors, retailers, and importers are therefore obligated to take reasonable steps to ensure that any uncertified components are not used to replace certified components. This would require labeling the components and may also require restricting the sales and requiring the ultimate purchaser to agree to not use the components inappropriately. This requirement does not apply for components that are clearly not intended for use with fuels.

* * * * *

299. Add § 1060.610 to subpart G to read as follows:

§ 1060.610 Temporary exemptions for manufacturing and assembling equipment and fuel-system components.

(a) If you are a certificate holder, you may ship components or equipment requiring further assembly between two of your facilities, subject to the provisions of this paragraph (a). Unless we approve otherwise, you must maintain ownership and control of the products until they reach their destination. We may allow for shipment where you do not maintain actual ownership and control of the engines (such as hiring a shipping company to transport the products) but only if you demonstrate that the products will be transported only according to your specifications. Notify us of your intent to use this exemption in your application for certification, if applicable. Your exemption is effective when we grant your certificate. You may alternatively request an exemption in a separate submission; for example, this would be necessary if you will not be the certificate holder for the products in question. We may require you to take specific steps to ensure that such products are in a certified configuration before reaching the ultimate purchaser. Note that since this is a temporary exemption, it does not allow you to sell or otherwise distribute equipment in an uncertified configuration to ultimate purchasers. Note also that the exempted equipment remains new and subject to emission standards until its title is transferred to the ultimate purchaser or it otherwise ceases to be new.

(b) If you certify equipment, you may ask us at the time of certification for an exemption to allow you to ship your equipment without a complete fuel system. We will generally approve this only if you can demonstrate that the exemption is necessary and that you will take steps to ensure that equipment assembly will be properly completed before reaching the ultimate purchaser. We may specify conditions that we determine are needed to ensure that shipping the equipment without such components will not result in the equipment operating with uncertified components or otherwise in an uncertified configuration. For example, we may require that you ship the equipment to manufacturers that are contractually obligated to install certain components. See 40 CFR 1068.261.

§ 1060.640 [Removed]

300. Remove § 1060.640.

301. Amend § 1060.801 by revising the definitions for “Configuration”, “Designated Compliance Officer”, “Fuel type”, “Model year”, “Placed into service”, “Portable nonroad fuel tank”, and “Small SI” to read as follows:

§ 1060.801 What definitions apply to this part?

* * * * *

Configuration means a unique combination of hardware (material, geometry, and size) and calibration within an emission family. Units within a single configuration differ only with respect to normal production variability or factors unrelated to emissions.

* * * * *

Designated Compliance Officer means the Director, Gasoline Engine Compliance Center, U.S. Environmental Protection Agency, 2000 Traverwood Drive, Ann Arbor, MI 48105; complianceinfo@epa.gov.

* * * * *

Fuel type means a general category of fuels such as gasoline or natural gas. There can be multiple grades within a single fuel type, such as premium gasoline, regular gasoline, or low-level ethanol-gasoline blends.

* * * * *

Model year means one of the following things:

(1) For equipment defined as “new nonroad equipment” under paragraph (1) of the definition of “new nonroad engine,” model year means one of the following:

(i) Calendar year of production.

(ii) Your annual new model production period if it is different than the calendar year. This must include January 1 of the calendar year for which the model year is named. It may not begin before January 2 of the previous calendar year and it must end by December 31 of the named calendar year.

(2) For other equipment defined as “new nonroad equipment” under paragraph (2) of the definition of “new nonroad engine,” model year has the meaning given in the exhaust standard-setting part.

(3) For other equipment defined as “new nonroad equipment” under paragraph (3) or paragraph (4) of the definition of “new nonroad engine,” model year means the model year of the engine as defined in the exhaust standard-setting part.

* * * * *

Placed into service means put into initial use for its intended purpose. Equipment does not qualify as being “placed into service” based on incidental use by a manufacturer or dealer.

* * * * *

Portable nonroad fuel tank means a fuel tank that meets each of the following criteria:

(1) It has design features indicative of use in portable applications, such as a carrying handle and fuel line fitting that can be readily attached to and detached from a nonroad engine.

(2) It has a nominal fuel capacity of 12 gallons or less.

(3) It is designed to supply fuel to an engine while the engine is operating.

(4) It is not used or intended to be used to supply fuel to a marine engine. Note that portable tanks excluded from this definition of “portable nonroad fuel tank” under this paragraph (4) because of their use with marine engines are portable marine fuel tanks.

* * * * *

Small SI means relating to engines that are subject to emission standards in 40 CFR part 1054.

* * * * *

302. Amend § 1060.810 by:

a. Removing and reserving paragraph (d); and

b. Revising paragraph (e) introductory text.

The revision reads read as follows:

§ 1060.810 What materials does this part reference?

* * * * *

(d) [Reserved]

(e) American Boat and Yacht Council Material. The following documents are available from the American Boat and Yacht Council, 613 Third Street, Suite 10, Annapolis, MD 21403 or (410) 990-4460 or http://abycinc.org/:

* * * * *

303. Revise § 1060.815 to read as follows:

§ 1060.815 What provisions apply to confidential information?

The provisions of 40 CFR 1068.10 apply for information you consider confidential.

304. Revise § 1060.825 to read as follows:

§ 1060.825 What reporting and recordkeeping requirements apply under this part?

(a) This part includes various requirements to submit and record data or other information. Unless we specify otherwise, store required records in any format and on any media and keep them readily available for eight years after you send an associated application for certification, or eight years after you generate the data if they do not support an application for certification. We may request these records at any time. You must promptly give us organized, written records in English if we ask for them. This applies whether or not you rely on someone else to keep records on your behalf. We may require you to submit written records in an electronic format.

(b) The regulations in § 1045.255, 40 CFR 1068.25, and 40 CFR 1068.101 describe your obligation to report truthful and complete information. This includes information not related to certification. Failing to properly report information and keep the records we specify violates 40 CFR 1068.101(a)(2), which may involve civil or criminal penalties.

(c) Send all reports and requests for approval to the Designated Compliance Officer (see § 1060.801).

(d) Any written information we require you to send to or receive from another company is deemed to be a required record under this section. Such records are also deemed to be submissions to EPA. We may require you to send us these records whether or not you are a certificate holder.

(e) Under the Paperwork Reduction Act (44 U.S.C. 3501 et seq.), the Office of Management and Budget approves the reporting and recordkeeping specified in the applicable regulations. The following items illustrate the kind of reporting and recordkeeping we require for products regulated under this part:

(1) We specify the following requirements related to component and equipment certification in this part 1060:

(i) In § 1060.20 we give an overview of principles for reporting information.

(ii) In subpart C of this part we identify a wide range of information required to certify engines.

(ii) In § 1060.301 we require manufacturers to make components, engines, or equipment available for our testing if we make such a request, and to keep records related to evaluation of production samples for verifying that the products are as specified in the certificate of conformity.

(iv) In § 1060.505 we specify information needs for establishing various changes to published test procedures.

(2) We specify the following requirements related to the general compliance provisions in 40 CFR part 1068:

(i) In 40 CFR 1068.5 we establish a process for evaluating good engineering judgment related to testing and certification.

(ii) In 40 CFR 1068.25 we describe general provisions related to sending and keeping information.

(iii) In 40 CFR 1068.27 we require manufacturers to make equipment available for our testing or inspection if we make such a request.

(iv) In 40 CFR 1068.105 we require equipment manufacturers to keep certain records related to duplicate labels from engine manufacturers.

(v) [Reserved]

(vi) In 40 CFR part 1068, subpart C, we identify several reporting and recordkeeping items for making demonstrations and getting approval related to various exemptions.

(vii) In 40 CFR part 1068, subpart D, we identify several reporting and recordkeeping items for making demonstrations and getting approval related to importing equipment.

(viii) In 40 CFR 1068.450 and 1068.455 we specify certain records related to testing production-line products in a selective enforcement audit.

(ix) In 40 CFR 1068.501 we specify certain records related to investigating and reporting emission-related defects.

(x) In 40 CFR 1068.525 and 1068.530 we specify certain records related to recalling nonconforming equipment.

(xi) In 40 CFR part 1068, subpart G, we specify certain records for requesting a hearing.

PART 1065—ENGINE-TESTING PROCEDURES

305. The authority statement for part 1065 continues to read as follows:

Authority: 42 U.S.C. 7401-7671q.

306. Amend § 1065.1 by revising paragraph (g) to read as follows:

§ 1065.1 Applicability.

* * * * *

(g) For additional information regarding these test procedures, visit our website at www.epa.gov, and in particular https://www.epa.gov/vehicle-and-fuel-emissions-testing/engine-testing-regulations.

* * * * *

307. Amend § 1065.130 by revising paragraph (e) to read as follows:

§ 1065.130 Engine exhaust.

* * * * *

(e) Leaks. Minimize leaks sufficiently to ensure your ability to demonstrate compliance with the applicable standards. We recommend performing a carbon balance error verification as described in § 1065.543 to verify exhaust system integrity.

* * * * *

308. Amend § 1065.140 by revising paragraphs (c)(6)(i) and (e)(2) to read as follows:

§ 1065.140 Dilution for gaseous and PM constituents.

* * * * *

(c) * * *

(6) * * *

(i) Preventing aqueous condensation. To prevent condensation, you must keep the temperature of internal surfaces, excluding any sample probes, above the dewpoint of the dilute exhaust passing through the CVS tunnel. Use good engineering judgment to monitor temperatures in the CVS. For the purposes of this paragraph (c)(6), assume that aqueous condensation is pure water condensate only, even though the definition of “aqueous condensation” in § 1065.1001 includes condensation of any constituents that contain water. No specific verification check is required under this paragraph (c)(6)(i), but we may ask you to show how you comply with this requirement. You may use engineering analysis, CVS tunnel design, alarm systems, measurements of wall temperatures, and calculation of water dewpoint to demonstrate compliance with this requirement. For optional CVS heat exchangers, you may use the lowest water temperature at the inlet(s) and outlet(s) to determine the minimum internal surface temperature.

* * * * *

(e) * * *

(2) For any PM dilution system (i.e., CVS or PFD), add dilution air to the raw exhaust such that the minimum overall ratio of diluted exhaust to raw exhaust is within the range of (5:1 to 7:1) and is at least 2:1 for any primary dilution stage. Base this minimum value on the maximum engine exhaust flow rate for a given test interval. For discrete mode testing, base the minimum value on the maximum engine exhaust flow rate for a given duty-cycle. Either measure the maximum exhaust flow during a practice run of the test interval or estimate it based on good engineering judgment (for example, you might rely on manufacturer-published literature).

* * * * *

309. Amend § 1065.145 by revising paragraph (e)(3)(i) to read as follows:

§ 1065.145 Gaseous and PM probes, transfer lines, and sampling system components.

* * * * *

(e) * * *

(3) * * *

(i) If you use a NOX sample pump upstream of either an NO2-to-NO converter that meets § 1065.378 or a chiller that meets § 1065.376, design the sampling system to prevent aqueous condensation.

* * * * *

310. Amend § 1065.170 by revising the introductory text and paragraph (a)(1) to read as follows:

§ 1065.170 Batch sampling for gaseous and PM constituents.

Batch sampling involves collecting and storing emissions for later analysis. Examples of batch sampling include collecting and storing gaseous emissions in a bag or collecting and storing PM on a filter. You may use batch sampling to store emissions that have been diluted at least once in some way, such as with CVS, PFD, or BMD. You may use batch-sampling to store undiluted emissions. You may stop emission sampling anytime the engine is turned off, consistent with good engineering judgment. This is intended to allow for higher concentrations of dilute exhaust gases and more accurate measurements. Take steps to account for exhaust transport delay in the sampling system and be sure to integrate over the actual sampling duration when determining ndexh. Use good engineering judgement to add additional dilution air, as needed, to fill bags up to minimum read volumes.

(a) * * *

(1) Verify proportional sampling after an emission test as described in § 1065.545. You may exclude segments where the bag is not being filled from the proportional sampling verification. Use good engineering judgment to select storage media that will not significantly change measured emission levels (either up or down). For example, do not use sample bags for storing emissions if the bags are permeable with respect to emissions or if they off gas emissions to the extent that it affects your ability to demonstrate compliance with the applicable gaseous emission standards. As another example, do not use PM filters that irreversibly absorb or adsorb gases to the extent that it affects your ability to demonstrate compliance with the applicable PM emission standard.

* * * * *

311. Revise § 1065.205 to read as follows:

§ 1065.205 Performance specifications for measurement instruments.

Your test system as a whole must meet all the calibrations, verifications, and test-validation criteria specified outside this section for laboratory testing or field testing, as applicable. We recommend that your instruments meet the specifications in this section for all ranges you use for testing. We also recommend that you keep any documentation you receive from instrument manufacturers showing that your instruments meet the specifications in the following table:

BILLING CODE 6560-50-P

BILLING CODE 6560-50-C

312. Amend § 1065.220 by revising paragraph (a) to read as follows:

§ 1065.220 Fuel flow meter.

(a) Application. You may use fuel flow meters in combination with a chemical balance of fuel, DEF, intake air, and raw exhaust to calculate raw exhaust flow as described in § 1065.655(f), and to determine the mass of carbon-carrying fuel streams input to the carbon balance error verification in § 1065.543 as follows:

(1) Use the actual value of calculated raw exhaust flow rate in the following cases:

(i) For multiplying raw exhaust flow rate with continuously sampled concentrations.

(ii) For multiplying total raw exhaust flow with batch-sampled concentrations.

(iii) For calculating the dilution air flow for background correction as described in § 1065.667.

(2) In the following cases, you may use a fuel flow meter signal that does not give the actual value of raw exhaust, as long as it is linearly proportional to the exhaust molar flow rate's actual calculated value:

(i) For feedback control of a proportional sampling system, such as a partial-flow dilution system.

(ii) For multiplying with continuously sampled gas concentrations, if the same signal is used in a chemical-balance calculation to determine work from brake-specific fuel consumption and fuel consumed.

(3) You may use fuel flow meters to calculate the mass of carbon-carrying fuel streams as described in § 1065.643.

* * * * *

313. Amend § 1065.225 by revising paragraph (a) to read as follows:

§ 1065.225 Intake-air flow meter.

(a) Application. You may use intake-air flow meters in combination with a chemical balance of fuel, DEF, intake air, and exhaust to calculate raw exhaust flow as described in § 1065.655(f) and (g), and to determine the measured amount of intake air input to the carbon balance error verification described in § 1065.543 as follows:

(1) Use the actual value of calculated raw exhaust in the following cases:

(i) For multiplying raw exhaust flow rate with continuously sampled concentrations.

(ii) For multiplying total raw exhaust flow with batch-sampled concentrations.

(iii) For verifying minimum dilution ratio for PM batch sampling as described in § 1065.546.

(iv) For calculating the dilution air flow for background correction as described in § 1065.667.

(2) In the following cases, you may use an intake-air flow meter signal that does not give the actual value of raw exhaust, as long as it is linearly proportional to the exhaust flow rate's actual calculated value:

(i) For feedback control of a proportional sampling system, such as a partial-flow dilution system.

(ii) For multiplying with continuously sampled gas concentrations, if the same signal is used in a chemical-balance calculation to determine work from brake-specific fuel consumption and fuel consumed.

(3) You may use intake-air flow meters to calculate nint, the measured amount of intake air as described in § 1065.643.

* * * * *

314. Amend § 1065.247 by revising paragraph (c)(2) to read as follows:

§ 1065.247 Diesel exhaust fluid flow rate.

* * * * *

(c) * * *

(2) Account for any fluid that bypasses the diesel exhaust fluid dosing unit or returns from the dosing unit to the fluid storage tank.

* * * * *

315. Amend § 1065.260 by revising paragraph (e) to read as follows:

§ 1065.260 Flame-ionization detector.

* * * * *

(e) NMHC and NMOG. For demonstrating compliance with NMHC standards, you may either measure THC and determine NMHC mass as described in § 1065.660(b)(1), or you may measure THC and CH4 and determine NMHC as described in § 1065.660(b)(2) or (3). For some gaseous-fueled engines, you may also use the additive method in § 1065.660(b)(4). See 40 CFR 1066.635 for methods to demonstrate compliance with NMOG standards for vehicle testing.

* * * * *

316. Amend § 1065.266 by revising paragraphs (a) and (b) to read as follows:

§ 1065.266 Fourier transform infrared analyzer.

(a) Application. For engines that run only on natural gas, you may use a Fourier transform infrared (FTIR) analyzer to measure nonmethane hydrocarbon (NMHC) and nonmethane-nonethane hydrocarbon (NMNEHC) for continuous sampling. You may use an FTIR analyzer with any gaseous-fueled engine, including dual-fuel and flexible-fuel engines, to measure CH4 and C2H6, for either batch or continuous sampling (for subtraction from THC).

(b) Component requirements. We recommend that you use an FTIR analyzer that meets the specifications in Table 1 of § 1065.205. Note that your FTIR-based system must meet the linearity verification in § 1065.307. Use appropriate analytical procedures for interpretation of infrared spectra. For example, EPA Test Method 320 (see https://www.epa.gov/emc/method-320-vapor-phase-organic-and-inorganic-emissions-extractive-ftir) and ASTM D6348 (incorporated by reference in § 1065.1010) are considered valid methods for spectral interpretation. You must use heated FTIR analyzers that maintain all surfaces that are exposed to emissions at a temperature of (110 to 202) °C.

* * * * *

317. Amend § 1065.275 by revising paragraph (b)(2) to read as follows:

§ 1065.275 N2O measurement devices.

* * * * *

(b) * * *

(2) Fourier transform infrared (FTIR) analyzer. Use appropriate analytical procedures for interpretation of infrared spectra. For example, EPA Test Method 320 (see § 1065.266(b)) and ASTM D6348 (incorporated by reference in § 1065.1010) are considered valid methods for spectral interpretation.

* * * * *

318. Amend § 1065.280 by revising paragraph (a) to read as follows:

§ 1065.280 Paramagnetic and magnetopneumatic O2 detection analyzers.

(a) Application. You may use a paramagnetic detection (PMD) or magnetopneumatic detection (MPD) analyzer to measure O2 concentration in raw or diluted exhaust for batch or continuous sampling. You may use good engineering judgment to develop calculations that use O2 measurements with a chemical balance of fuel, DEF, inlet intake air, and exhaust to calculate exhaust flow rate.

* * * * *

319. Revise § 1065.303 to read as follows:

§ 1065.303 Summary of required calibration and verifications.

The following table summarizes the required and recommended calibrations and verifications described in this subpart and indicates when these have to be performed:

Table 1 of § 1065.303—Summary of Required Calibration and Verifications
Type of calibration or verification | Minimum frequency ᵃ
§ 1065.305: Accuracy, repeatability and noise | Accuracy: Not required, but recommended for initial installation. Repeatability: Not required, but recommended for initial installation.
| Noise: Not required, but recommended for initial installation.
§ 1065.307: Linearity verification | Speed: Upon initial installation, within 370 days before testing and after major maintenance.
| Torque: Upon initial installation, within 370 days before testing and after major maintenance.
| Electrical power, current, and voltage: Upon initial installation, within 370 days before testing and after major maintenance.ᵇ
| Fuel mass flow rate: Upon initial installation, within 370 days before testing, and after major maintenance.
| Fuel mass scale: Upon initial installation, within 370 days before testing, and after major maintenance.
| DEF mass flow rate: Upon initial installation, within 370 days before testing, and after major maintenance.ᶜ
| DEF mass scale: Upon initial installation, within 370 days before testing, and after major maintenance.
| Intake-air, dilution air, diluted exhaust, and batch sampler flow rates: Upon initial installation, within 370 days before testing and after major maintenance.ᵈ
| Raw exhaust flow rate: Upon initial installation, within 185 days before testing and after major maintenance.ᵈ
| Gas dividers: Upon initial installation, within 370 days before testing, and after major maintenance.
| Gas analyzers (unless otherwise noted): Upon initial installation, within 35 days before testing and after major maintenance.
| FTIR and photoacoustic analyzers: Upon initial installation, within 370 days before testing and after major maintenance.
| GC-ECD: Upon initial installation and after major maintenance.
| PM balance: Upon initial installation, within 370 days before testing and after major maintenance.
| Pressure, temperature, and dewpoint: Upon initial installation, within 370 days before testing and after major maintenance.
§ 1065.308: Continuous gas analyzer system response and updating-recording verification—for gas analyzers not continuously compensated for other gas species | Upon initial installation or after system modification that would affect response.
§ 1065.309: Continuous gas analyzer system-response and updating-recording verification—for gas analyzers continuously compensated for other gas species | Upon initial installation or after system modification that would affect response.
§ 1065.310: Torque | Upon initial installation and after major maintenance.
§ 1065.315: Pressure, temperature, dewpoint | Upon initial installation and after major maintenance.
§ 1065.320: Fuel flow | Upon initial installation and after major maintenance.
§ 1065.325: Intake flow | Upon initial installation and after major maintenance.
§ 1065.330: Exhaust flow | Upon initial installation and after major maintenance.
§ 1065.340: Diluted exhaust flow (CVS) | Upon initial installation and after major maintenance.
§ 1065.341: CVS and PFD flow verification (propane check) | CVS and PFD used for sampling gaseous emissions: Upon initial installation, within 35 days before testing, and after major maintenance.ᵉ
§ 1065.342 Sample dryer verification | For thermal chillers: upon installation and after major maintenance.
| For osmotic membranes; upon installation, within 35 days of testing, and after major maintenance.
§ 1065.345: Vacuum leak | For laboratory testing: upon initial installation of the sampling system, within 8 hours before the start of the first test interval of each duty-cycle sequence, and after maintenance such as pre-filter changes.
| For field testing: after each installation of the sampling system on the vehicle, prior to the start of the field test, and after maintenance such as pre-filter changes.
§ 1065.350: CO2 NDIR H2O interference | Upon initial installation and after major maintenance.
§ 1065.355: CO NDIR CO2 and H2O interference | Upon initial installation and after major maintenance.
§ 1065.360: FID calibration THC FID optimization, and THC FID verification | Calibrate all FID analyzers: upon initial installation and after major maintenance.
| Optimize and determine CH4 response for THC FID analyzers:upon initial installation and after major maintenance.
| Verify CH4 response for THC FID analyzers: upon initial installation, within 185 days before testing, and after major maintenance.
| Verify C2H6 response for THC FID analyzers if used for NMNEHC determination: upon initial installation, within 185 days before testing, and after major maintenance.
§ 1065.362: Raw exhaust FID O2 interference | For all FID analyzers: upon initial installation, and after major maintenance.
| For THC FID analyzers: upon initial installation, after major maintenance, and after FID optimization according to § 1065.360.
§ 1065.365: Nonmethane cutter penetration | Upon initial installation, within 185 days before testing, and after major maintenance.
§ 1065.366: Interference verification for FTIR analyzers | Upon initial installation and after major maintenance.
§ 1065.369: H2O, CO, and CO2 interference verification for ethanol photoacoustic analyzers | Upon initial installation and after major maintenance.
§ 1065.370: CLD CO2 and H2O quench | Upon initial installation and after major maintenance.
§ 1065.372: NDUV HC and H2O interference | Upon initial installation and after major maintenance.
§ 1065.375: N2O analyzer interference | Upon initial installation and after major maintenance.
§ 1065.376: Chiller NO2 penetration | Upon initial installation and after major maintenance.
§ 1065.378: NO2-to-NO converter conversion | Upon initial installation, within 35 days before testing, and after major maintenance.
§ 1065.390: PM balance and weighing | Independent verification: upon initial installation, within 370 days before testing, and after major maintenance.
| Zero, span, and reference sample verifications: within 12 hours of weighing, and after major maintenance.
§ 1065.395: Inertial PM balance and weighing | Independent verification: upon initial installation, within 370 days before testing, and after major maintenance.
| Other verifications: upon initial installation and after major maintenance.
ᵃ Perform calibrations and verifications more frequently than we specify, according to measurement system manufacturer instructions and good engineering judgment.
ᵇ Perform linearity verification either for electrical power or for current and voltage.
ᶜ The linearity verification is not required if DEF flow rate from the ECM is used as described in § 1065.247(b).
ᵈ The linearity verification is not required if the accuracy of the flow signal is verified by a propane check as described in § 1065.341 or by a carbon balance error verification as described in § 1065.307(e)(5).
ᵉ The CVS and PFD flow verification (propane check) is not required for measurement systems that are verified by a carbon balance error verification as described in § 1065.341(h).

320. Amend § 1065.307 by:

a. Revising paragraphs (c)(13), (d)(4), (d)(6), (d)(7), (d)(9), (e)(3), (e)(5), (e)(7)(i);

b. In paragraph (e)(8)(ii)(B) removing Table 1 to § 1065.307; and

c. Adding paragraphs (f) and (g).

The revisions and additions read as follows:

§ 1065.307 Linearity verification.

* * * * *

(c) * * *

(13) Use the arithmetic means, ȳ; and reference values, yrefi, to calculate least-squares linear regression parameters and statistical values to compare to the minimum performance criteria specified in Table 1 of this section. Use the calculations for a floating intercept described in § 1065.602. Using good engineering judgment, you may weight the results of individual data pairs (i.e., (yrefi, ȳi)), in the linear regression calculations.

(d) * * *

(4) Fuel or DEF mass flow rate. Use a gravimetric reference measurement (such as a scale, balance, or mass comparator) and a container. Use a stopwatch or timer to measure the time intervals over which reference masses of fluid pass through the mass flow meter. Use good engineering judgement to correct the reference mass that flowed through the mass flow meter for buoyancy effects including any tubes, temperature probes, or objects submerged in the fluid in the container and not attached to the container. If the container has any tubes or wires connected to the container, recalibrate the gravimetric reference measurement device with them connected and at normal operating pressure using calibration weights that meet the requirements in § 1065.790. The corrected reference mass that flowed through the mass flow meter divided by the time interval is the average reference mass flow rate. For meters that report a different quantity (such as actual volume, standard volume, or mole), convert the reported quantity to mass. For meters that report cumulative mass (or other quantity), calculate the average measured mass flow rate as the difference in the reported cumulative mass from the beginning to the end of the time interval divided by the time interval. For gaseous fuel flow meters, prevent condensation on the fuel container and any tubes, fittings, or regulators attached to the fuel container.

* * * * *

(6) Gas division. Use one of the two reference signals:

(i) At the outlet of the gas-division system, connect a gas analyzer that meets the linearity verification described in this section and has not been linearized with the gas divider being verified. For example, verify the linearity of an analyzer using a series of reference analytical gases directly from compressed gas cylinders that meet the specifications of § 1065.750. We recommend using a FID analyzer or a PMD or MPD O2 analyzer because of their inherent linearity. Operate this analyzer consistent with how you would operate it during an emission test. Connect a span gas containing only a single constituent of interest with balance of purified air or nitrogen to the gas-divider inlet. Use the gas-division system to divide the span gas with purified air or nitrogen. Select gas divisions that you typically use. Use a selected gas division as the measured value. Use the analyzer response divided by the span gas concentration as the reference gas-division value. Because the instrument response is not absolutely constant, sample and record values of xrefi for 30 seconds and use the arithmetic mean of the values, x̄ref, as the reference value. Refer to § 1065.602 for an example of calculating arithmetic mean.

(ii) Using good engineering judgment and the gas divider manufacturer's recommendations, use one or more reference flow meters to measure the flow rates of the gas divider and verify the gas-division value.

(7) Continuous constituent concentration. For reference values, use a series of gas cylinders of known gas concentration containing only a single constituent of interest with balance of purified air or nitrogen or use a gas-division system that is known to be linear with a span gas. Gas cylinders, gas-division systems, and span gases that you use for reference values must meet the specifications of § 1065.750.

* * * * *

(9) Mass. For linearity verification for gravimetric PM balances and fuel mass scales, and DEF mass scales, use external calibration weights that meet the requirements in § 1065.790. Perform the linearity verification for fuel and DEF mass scales with the in-use container and all objects that interface with the container installed. Include all tubes, temperature probes, and objects submerged in the fluid in the container and all tubes, fittings, regulators, and wires, etc. attached to the container. If the container is vented to ambient, fill the container and tubes with fluid above the minimum level used to trigger a fill operation; drain the fluid down to the minimum level; tare the scale; and perform the linearity verification. If the container is rigid and not vented, drain the fluid down to the minimum level; fill all tubes attached to the container to normal operating pressure; tare the scale; and perform the linearity verification. We recommend that you use good engineering judgement to develop and apply appropriate buoyancy corrections for the configuration of your mass scale during normal testing. During the linearity verification, configure this buoyancy correction to account for the fact that the scale is weighing a calibration weight instead of fluid. You may develop corrections in your mass scales for the effect of natural convection currents generated by temperature differences between the fluid container and ambient air.

(e) * * *

(3) The expression “max” generally refers to the absolute value of the reference value used during linearity verification that is furthest from zero. This is the value used to scale the first and third tolerances in Table 1 of this section using a0 and SEE. For example, if the reference values chosen to validate a pressure transducer vary from −10 to −1 kPa, then pmax is +10 kPa. If the reference values used to validate a temperature device vary from 290 to 390 K, then Tmax is 390 K. For gas dividers where “max” is expressed as, xmax/xspan; xmax is the maximum gas concentration used during the verification, xspan is the undivided, undiluted, span gas concentration, and the resulting ratio is the maximum divider point reference value used during the verification (typically 1). The following are special cases where “max” refers to a different value:

(i) For linearity verification of a PM balance, mmax is the typical mass of a PM filter.

(ii) For linearity verification of a torque measurement system used to determine the engine's primary output shaft, Tmax is the manufacturer's specified engine torque peak value of the lowest torque engine expected during testing.

(iii) For linearity verification of a fuel mass scale, mmax is determined based on the range of engines and test interval durations expected during testing. It is the minimum, over all engines expected during testing, of the fuel consumption expected over the minimum test interval duration at the engine's maximum fuel rate. If the minimum test interval duration used during testing does not change with engine power or if the minimum test interval duration used during testing increases with engine power, mmax is given by Eq. 1065.307-1.

Where:

ṁmax,fuel = the manufacturer's specified maximum fuel rate on the lowest power engine expected during testing.

tmin = the minimum test interval duration expected during testing. If the minimum test interval duration used during testing decreases with engine power, evaluate Eq. 1065.307-1 for the range of engines expected during testing and use the minimum mmax,fuel scale.

(iv) For linearity verification of a DEF mass scale, mmax is 10% of mmax for a fuel mass scale, as determined in paragraph (e)(3)(iii) of this section. For purposes of determining mmax for a DEF mass scale, you may evaluate mmax for a fuel mass scale based only on the DEF-using engines expected during testing.

(v) For linearity verification of a fuel flow rate meter, ṁmax is the manufacturer's specified maximum fuel rate of the lowest power engine expected during testing.

(vi) For linearity verification of a DEF flow rate meter, ṁmax is 10% of the manufacturer's specified maximum fuel rate of the lowest power, DEF-using, engine expected during testing.

(vii) For linearity verification of an intake-air flow rate meter, ṅmax is the manufacturer's specified maximum intake-air flow rate (converted to molar flow rate) of the lowest power engine expected during testing.

(viii) For linearity verification of a raw exhaust flow rate meter, ṅmax is the manufacturer's specified maximum exhaust flow rate (converted to molar flow rate) of the lowest power engine expected during testing.

(ix) For linearity verification of an electrical power measurement system used to determine the engine's primary output shaft torque, Pmax is the manufacturer's specified maximum power of the lowest power engine expected during testing.

(x) For linearity verification of an electrical current measurement system used to determine the engine's primary output shaft torque, Imax is the maximum current expected on the lowest power engine expected during testing.

(xi) For linearity verification of an electrical voltage measurement system used to determine the engine's primary output shaft torque, Vmax is the minimum peak voltage expected on the range of engines expected during testing.

* * * * *

(5) Table 2 of this section lists the flow measurement systems that have optional verifications to the linearity verification. If you substitute the propane check verification described in § 1065.341, it must be performed at the frequency specified in Table 1 of § 1065.303. If you substitute the carbon balance verification described in § 1065.543, it must be performed on all test sequences that use the corresponding system and it must meet the restrictions listed in Table 2 of this section. You may evaluate the carbon balance verification multiple ways with different inputs to validate multiple flow measurement systems.

* * * * *

(7) * * *

(i) The following temperature measurements always require linearity verification:

(A) Air intake.

(B) Aftertreatment bed(s), for engines tested with aftertreatment devices subject to cold-start testing.

(C) Dilution air for gaseous and PM sampling, including CVS, double-dilution, and partial-flow systems.

(D) PM sample.

(E) Chiller sample, for gaseous sampling systems that use thermal chillers to dry samples and use chiller temperature to calculate the dewpoint at the outlet of the chiller. For your testing, if you choose to use a high alarm temperature setpoint for the chiller temperature as a constant value in determining the amount of water removed from the emission sample, you may use good engineering judgment to verify the accuracy of the high alarm temperature setpoint instead of linearity verification on the chiller temperature. To verify that the alarm trip point value is no less than 2.0 °C below the reference value at the trip point, we recommend that you input a reference simulated temperature signal below the alarm trip point and increase this signal until the high alarm trips.

(F) Transmission oil.

(G) Axle gear oil.

* * * * *

(f) Table 1 follows:

Table 1 of § 1065.307—Measurement Systems That Require Linearity Verification
Measurement system | Quantity | Linearity criteria: |xmin(a1−1)+a0| | Linearity criteria: a1 | Linearity criteria: SEE | Linearity criteria: r²
Speed | fn | ≤0.05%·fnmax | 0.98-1.02 | ≤2%·fnmax | ≥0.990
Torque | T | ≤1%·Tmax | 0.98-1.02 | ≤2%·Tmax | ≥0.990
Electrical power | P | ≤1%·Pmax | 0.98-1.02 | ≤2%·Pmax | ≥0.990
Current | I | ≤1%·Imax | 0.98-1.02 | ≤2%·Imax | ≥0.990
Voltage | U | ≤1%·Umax | 0.98-1.02 | ≤2%·Umax | ≥0.990
Fuel flow rate | ṁ | ≤1%·ṁmax | 0.98-1.02 | ≤2%·ṁmax | ≥0.990
Fuel mass scale | m | ≤0.3%·mmax | 0.996-1.004 | ≤0.4%·mmax | ≥0.999
DEF flow rate | ṁ | ≤1%·ṁmax | 0.98-1.02 | ≤2%·ṁmax | ≥ 0.990
DEF mass scale | m | ≤0.3%·mmax | 0.996-1.004 | ≤0.4%·mmax | ≥0.999
Intake-air flow rate ᵃ | ṅ | ≤1%·ṅmax | 0.98-1.02 | ≤2%·ṅmax | ≥ 0.990
Dilution air flow rate ᵃ | ṅ | ≤1%·ṅmax | 0.98-1.02 | ≤2%·ṅmax | ≥0.990
Diluted exhaust flow rate ᵃ | ṅ | ≤1%·ṅmax | 0.98-1.02 | ≤2%·ṅmax | ≥0.990
Raw exhaust flow rate ᵃ | ṅ | ≤1%·ṅmax | 0.98-1.02 | ≤2%·ṅmax | ≥0.990
Batch sampler flow rates ᵃ | ṅ | ≤1%·ṅmax | 0.98-1.02 | ≤2%·ṅmax | ≥0.990
Gas dividers | x/xspan | ≤0.5%· xmax/xspan | 0.98-1.02 | ≤2%· xmax/xspan | ≥0.990
Gas analyzers for laboratory testing | x | ≤0.5%·xmax | 0.99-1.01 | ≤1%·xmax | ≥0.998
Gas analyzers for field testing | x | ≤1%·xmax | 0.99-1.01 | ≤1%·xmax | ≥0.998
PM balance | m | ≤1%·mmax | 0.99-1.01 | ≤1%·mmax | ≥0.998
Pressures | p | ≤1%·pmax | 0.99-1.01 | ≤1%·pmax | ≥0.998
Dewpoint for intake air, PM-stabilization and balance environments | Tdew | ≤0.5%·Tdewmax | 0.99-1.01 | ≤0.5%·Tdewmax | ≥0.998
Other dewpoint measurements | Tdew | ≤1%·Tdewmax | 0.99-1.01 | ≤1%·Tdewmax | ≥0.998
Analog-to-digital conversion of temperature signals | T | ≤1%·Tmax | 0.99-1.01 | ≤1%·Tmax | ≥ 0.998
ᵃ For flow meters that determine volumetric flow rate, V̇std, you may substitute V̇std for ṅ as the quantity and substitute V̇stdmax for ṅmax.

(g) Table 2 follows:

Table 2 of § 1065.307—Optional Verification to Linearity Verification
Measurement system | 1065.341 | 1065.543 | Restrictions for 1065.543
Intake-air flow rate | Yes | Yes | Intake-air flow rate signal must be used to compute raw exhaust flow rate. Mass of CO2 over each test interval input into Eq. 1065.643-6 must be determined from samples taken from the raw exhaust (continuous or bag, and with or without a PFD).
Dilution air flow rate for CVS | Yes | No | Not allowed.
Diluted exhaust flow rate for CVS | Yes | Yes | Mass of CO2 over each test interval input into Eq. 1065.643-6 must be determined from samples taken from the CVS (continuous or bag, and with or without a PFD).
Raw exhaust flow rate for exhaust stack | Yes | Yes | Mass of CO2 over each test interval input into Eq. 1065.643-6 must be determined from samples taken from the raw exhaust (continuous or bag, and with or without a PFD).
Flow measurements in a PFD (usually dilution air and diluted exhaust streams) used to determine the dilution ratio in the PFD | Yes | Yes | Mass of CO2 over each test interval input into Eq. 1065.643-6 must be determined from samples taken from the PFD (continuous or bag).
Batch sampler flow rates | Yes | No | Not allowed.
Fuel mass flow rate | No | Yes | Mass of one of the carbon-carrying fluid streams input into Eq. 1065.643-1 must be determined from the fuel mass flow rate meter.
Fuel mass scale | No | Yes | Mass of one of the carbon-carrying fluid streams input into Eq. 1065.643-1 must be determined from the fuel mass scale.

321. Amend § 1065.309 by revising paragraph (d)(2) to read as follows:

§ 1065.309 Continuous gas analyzer system-response and updating-recording verification—for gas analyzers continuously compensated for other gas species.

* * * * *

(d) * * *

(2) Equipment setup. We recommend using minimal lengths of gas transfer lines between all connections and fast-acting three-way valves (2 inlets, 1 outlet) to control the flow of zero and blended span gases to the sample system's probe inlet or a tee near the outlet of the probe. If you inject the gas at a tee near the outlet of the probe, you may correct the transformation time, t50, for an estimate of the transport time from the probe inlet to the tee. Normally the gas flow rate is higher than the sample flow rate and the excess is overflowed out the inlet of the probe. If the gas flow rate is lower than the sample flow rate, the gas concentrations must be adjusted to account for the dilution from ambient air drawn into the probe. We recommend you use the final, stabilized analyzer reading as the final gas concentration. Select span gases for the species being continuously combined, other than H2O. Select concentrations of compensating species that will yield concentrations of these species at the analyzer inlet that covers the range of concentrations expected during testing. You may use binary or multi-gas span gases. You may use a gas blending or mixing device to blend span gases. A gas blending or mixing device is recommended when blending span gases diluted in N2 with span gases diluted in air. You may use a multi-gas span gas, such as NO-CO-CO2-C3H8-CH4, to verify multiple analyzers at the same time. In designing your experimental setup, avoid pressure pulsations due to stopping the flow through the gas blending device. The change in gas concentration must be at least 20% of the analyzer's range. If H2O correction is applicable, then span gases must be humidified before entering the analyzer; however, you may not humidify NO2 span gas by passing it through a sealed humidification vessel that contains water. You must humidify NO2 span gas with another moist gas stream. We recommend humidifying your NO-CO-CO2-C3H8-CH4, balance N2 blended gas by flowing the gas mixture through a sealed vessel that humidifies the gas by bubbling it through distilled water and then mixing the gas with dry NO2 gas, balance purified air or by using a device that injects distilled water as vapor into a controlled span gas flow. If your system does not use a sample dryer to remove water from the sample gas, you must humidify your span gas to the highest sample H2O content that you estimate during emission sampling. If your system uses a sample dryer during testing, it must pass the sample dryer verification check in § 1065.342, and you must humidify your span gas to an H2O content greater than or equal to the level determined in § 1065.145(e)(2). If you are humidifying span gases without NO2, use good engineering judgment to ensure that the wall temperatures in the transfer lines, fittings, and valves from the humidifying system to the probe are above the dewpoint required for the target H2O content. If you are humidifying span gases with NO2, use good engineering judgment to ensure that there is no condensation in the transfer lines, fittings, or valves from the point where humidified gas is mixed with NO2 span gas to the probe. We recommend that you design your setup so that the wall temperatures in the transfer lines, fittings, and valves from the humidifying system to the probe are at least 5 °C above the local sample gas dewpoint. Operate the measurement and sample handling system as you do for emission testing. Make no modifications to the sample handling system to reduce the risk of condensation. Flow humidified gas through the sampling system before this check to allow stabilization of the measurement system's sampling handling system to occur, as it would for an emission test.

* * * * *

322. Amend § 1065.315 by revising paragraph (a)(3) to read as follows:

§ 1065.315 Pressure, temperature, and dewpoint calibration.

(a) * * *

(3) Dewpoint. We recommend a minimum of three different temperature-equilibrated and temperature-monitored calibration salt solutions in containers that seal completely around the dewpoint sensor. We recommend using calibration reference quantities that are NIST-traceable within 0.5% RH uncertainty.

* * * * *

§ 1065.320 [Revised]

323. Amend § 1065.320 by removing and reserving paragraph (b).

324. Amend § 1065.341 by:

a. Revising the section heading;

b. Adding introductory text;

c. Revising paragraph (a) introductory text and paragraph (g); and

d. Adding paragraph (h).

The revisions and additions read as follows:

§ 1065.341 CVS and PFD flow verification (propane check).

This section describes two methods, using propane as a tracer gas, to verify CVS and PFD flow streams. The first method is written for the CVS diluted exhaust flow measurement system. It may be applied to other, single-flow, measurement systems as described in Table 2 of § 1065.307. You may substitute a C3H8 analytical gas mixture (i.e., a prediluted tracer gas) for pure C3H8 to apply this method to lower flow rates. The analytical gas mixture must meet the specifications in § 1065.750(a)(3). The method described in paragraph (g) of this section may be used to verify the flow measurements in a PFD that are used to determine the dilution ratio in the PFD (usually dilution air and diluted exhaust streams), as it is difficult to scale this method down to the flow rates in a typical PFD using pure propane. You may use good engineering judgment and safe practices to use other tracer gases, such as CO2 or CO.

(a) A failed propane check might indicate one or more problems that may require corrective action, as follows:

* * * * *

(g) You may verify the flow measurements in a PFD (usually dilution air and diluted exhaust streams) used to determine the dilution ratio in the PFD using the following method:

(1) Configure the HC sampling system to extract a sample from the diluted exhaust stream of the PFD (such as near the location of a PM filter). If the absolute pressure at this location is too low to extract an HC sample, you may sample HC from the PFD system's pump exhaust. Use caution when sampling from pump exhaust because an otherwise acceptable pump leak downstream of a PFD diluted exhaust flow meter will cause a false failure of the propane check.

(2) Perform the propane check described in paragraphs (c), (d), and (e) of this section, but sample HC from the diluted exhaust stream of the PFD. Inject the propane in the same exhaust stream that the PFD is sampling from (either CVS or raw exhaust stack).

(3) Calculate C3H8 mass, taking into account the dilution from the PFD.

(4) Subtract the reference C3H8 mass from the calculated mass. If this difference is within ±2% of the reference mass, the the flow measurements in a PFD (usually dilution air and diluted exhaust streams) used to determine the dilution ratio in the PFD all pass this verification. If not, take corrective action as described in paragraph (a) of this section. For PFDs sampling for PM only, the allowed difference is ±5%.

(h) Table 2 of § 1065.307 lists the flow measurement systems that have optional verifications to the linearity verification. The allowances for substituting the carbon balance verification for the linearity verification may also be used to substitute for any required propane checks.

325. Amend § 1065.342 by revising paragraph (d)(2) to read as follows:

§ 1065.342 Sample dryer verification.

* * * * *

(d) * * *

(2) Humidify room air, N2, or purified air by bubbling it through distilled water in a sealed vessel or use a device that injects distilled water as vapor into a controlled gas flow to humidify the gas to the highest sample water content that you estimate during emission sampling.

* * * * *

326. Amend § 1065.350 by revising paragraph (d)(2) to read as follows:

§ 1065.350 H2O interference verification for CO2 NDIR analyzers.

* * * * *

(d) * * *

(2) Create a humidified test gas by bubbling zero gas that meets the specifications in § 1065.750 through distilled H2O in a sealed vessel or use a device that injects distilled water as vapor into a controlled gas flow. If the sample is not passed through a dryer during emission testing, control the vessel temperature to generate an H2O level at least as high as the maximum expected during emission testing. If the sample is passed through a dryer during emission testing, control the vessel temperature to generate an H2O level at least as high as the level determined in § 1065.145(e)(2) for that dryer.

* * * * *

327. Amend § 1065.355 by revising paragraph (d)(2) to read as follows:

§ 1065.355 H2O and CO2 interference verification for CO NDIR analyzers.

* * * * *

(d) * * *

(2) Create a humidified CO2 test gas by bubbling a CO2 span gas that meets the specifications in § 1065.750 through distilled H2O in a sealed vessel or use a device that injects distilled water as vapor into a controlled gas flow. If the sample is not passed through a dryer during emission testing, control the vessel temperature to generate an H2O level at least as high as the maximum expected during emission testing. If the sample is passed through a dryer during emission testing, control the vessel temperature to generate an H2O level at least as high as the level determined in § 1065.145(e)(2) for that dryer. Use a CO2 span gas concentration at least as high as the maximum expected during testing.

* * * * *

328. Amend § 1065.360 by adding paragraphs (a)(4) and (d)(12) to read as follows:

§ 1065.360 FID optimization and verification.

(a) * * *

(4) For any gaseous-fueled engine, including dual-fuel and flexible-fuel engines, you may determine the methane (CH4) and ethane (C2H6) response factors as a function of the molar water concentration in the raw or diluted exhaust. Generate and verify the humidity level (or fraction) as described in § 1065.365(d)(12).

* * * * *

(d) * * *

(12) To determine the response factor as a function of exhaust molar water concentration, humidify the CH4 span gas and repeat the steps in paragraphs (d)(7) through (9) of this section until measurements are complete for each setpoint in the selected range. For each measurement, divide the mean measured concentration by the recorded span concentration of the CH4 calibration gas, adjusted for water content. The result is the FID analyzer's response factor for CH4, RFCH4[THC-FID]. Use these CH4 response factors to determine the response factor based on the exhaust molar water concentration, downstream of the last sample dryer if any sample dryers are present, during the emission test and use this response factor to account for the CH4 response for NMHC determination described in § 1065.660(b)(2)(iii).

* * * * *

329. Amend § 1065.365 by:

a. Revising paragraph (a), paragraph (d) introductory text, and paragraph (d)(9);

b. Adding paragraphs (d)(10) through (12); and

c. Revising paragraphs (f)(9) and (14).

The revisions and additions read as follows:

§ 1065.365 Nonmethane cutter penetration fractions.

(a) Scope and frequency. If you use a FID analyzer and a nonmethane cutter (NMC) to measure methane (CH4), determine the nonmethane cutter's penetration fractions of CH4, PFCH4, and ethane (C2H6), PFC2H6. As detailed in this section, these penetration fractions may be determined as a combination of NMC penetration fractions and FID analyzer response factors, depending on your particular NMC and FID analyzer configuration. Perform this verification after installing the nonmethane cutter. Repeat this verification within 185 days of testing to verify that the catalytic activity of the cutter has not deteriorated. Note that because nonmethane cutters can deteriorate rapidly and without warning if they are operated outside of certain ranges of gas concentrations and outside of certain temperature ranges, good engineering judgment may dictate that you determine a nonmethane cutter's penetration fractions more frequently.

* * * * *

(d) Procedure for a FID calibrated with the NMC. The method described in this paragraph (d) is recommended over the procedures specified in paragraphs (e) and (f) of this section. If your FID arrangement is such that a FID is always calibrated to measure CH4 with the NMC, then span that FID with the NMC using a CH4 span gas, set the product of that FID's CH4 response factor and CH4 penetration fraction, RFPFCH4[NMC-FID], equal to 1.0 for all emission calculations, and determine its combined C2H6 response factor and penetration fraction, RFPFC2H6[NMC-FID] as follows. For any gaseous-fueled engine, including dual-fuel and flexible-fuel engines, you must determine the CH4 penetration fraction, PFCH4[NMC-FID] and C2H6 response factor and C2H6 penetration fraction, RFPFC2H6[NMC-FID] as a function of the molar water concentration in the raw or diluted exhaust. Generate and verify the humidity generation as described in § 1065.365(d)(12). When using this option, note that the FID's CH4 penetration fraction, PFCH4[NMC-FID], is set equal to 1.0 only for 0% molar water concentration. You are not required to meet the recommended lower limit for PFCH4 of greater than 0.85 for any of the penetration fractions generated as a function of molar water concentration.

* * * * *

(9) Divide the mean C2H6 concentration by the reference concentration of C2H6, converted to a C1 basis. The result is the C2H6 combined response factor and penetration fraction, RFPFC2H6[NMC-FID]. Use this combined C2H6 response factor and C2H6 penetration fraction and the product of the CH4 response factor and CH4 penetration fraction, RFPFCH4[NMC-FID], set to 1.0 in emission calculations according to § 1065.660(b)(2)(i), § 1065.660(d)(1)(i), or § 1065.665, as applicable.

(10) To determine the combined C2H6 response factor and C2H6 penetration fraction as a function of exhaust molar water concentration, humidify the C2H6 analytical gas mixture as described in paragraph (d)(12) of this section. Repeat the steps in paragraphs (d)(6) through (8) of this section until measurements are complete for each setpoint in the selected range. For each measurement, divide the mean C2H6 concentration by the reference concentration of C2H6, converted to a C1-basis and adjusted for water content. The result is the combined C2H6 response factor and C2H6 penetration fraction, RFPFC2H6[NMC-FID]. Use these combined C2H6 response factors and C2H6 penetration fractions to determine the combined response factor and penetration fraction based on the exhaust molar water concentration, downstream of the last sample dryer if any sample dryers are present, during the emission test and use this combined response factor and penetration fraction to account for C2H6 response factor and penetration fraction for NMHC and CH4 determination as described in § 1065.660(b)(2)(iii) and (d)(1)(iii).

(11) To determine the CH4 penetration fraction as a function of exhaust molar water concentration, repeat the steps in paragraphs (d)(6) through (10) of this section, but with the CH4 analytical gas mixture instead of C2H6. The result will be the CH4 penetration fraction, PFCH4[NMC-FID] based on the exhaust molar water concentration during the emission test. Use this penetration fraction for NMHC and CH4 determination as described in § 1065.660(b)(2)(iii) and (d)(1)(iii).

(12) For wet methane analyzers generate at least five different water concentrations that cover the range from minimum expected water concentration to greater than the maximum expected water during testing. Use good engineering judgement to determine the target concentrations. Dry gas can be one of these points. For dry methane analyzers, determine the methane penetration fraction by humidifying the sample to a level higher than the sample dryer outlet humidity and measure a single wet penetration fraction of the dehumidified sample. Heat all transfer lines from the water generation system to a temperature 5 °C higher than the highest dewpoint generated. Use at least 30 second averages of measured water concentration in paragraphs (d)(12)(i) and (ii)(B) of this section to determine the water content of the sample stream at the same time you determine the response factor and penetration fraction. Validate the water generation system using one of the following methods:

(i) Monitor humidified sample stream with a dewpoint analyzer, relative humidity sensor, FTIR, NDIR, or other water analyzer during the test.

(ii) If the humidity generator utilizes controlled flow rates of gas and/or liquids to generate the humidity levels, validate the instrument within 370 days before testing and after major maintenance by using one of the following options:

(A) Determine the linearity of each flow metering device. Using good engineering judgment and the gas divider manufacturer's recommendations, use one or more reference flow meters to measure the flow rates of the gas divider and verify the gas-division value. This method should utilize at least 10 flow rates for each flow metering device.

(B) Monitor the humidified stream with a dewpoint analyzer, relative humidity sensor, FTIR, NDIR, or other water analyzer. Generate at least five different water concentrations that cover the range from minimum expected water concentration to greater than the maximum expected water during testing. Compare the measured humidity versus the calculated generated humidity. Verify overall linearity performance for the generated humidity by following § 1065.307 or confirm all measured values are within ± 2% of the generated mole fraction. If dry gas is used it must be measured within 0.002 mole fraction.

(C) If the humidity generator did not meet the requirements of paragraphs (d)(12)(ii)(A) or (B) of this section, follow the performance requirements in § 1065.307(b).

* * * * *

(f) * * *

(9) Divide the mean C2H6 concentration by the reference concentration of C2H6, converted to a C1 basis. The result is the combined C2H6 response factor and C2H6 penetration fraction, RFPFC2H6[NMC-FID]. Use this combined C2H6 response factor and C2H6 penetration fraction according to § 1065.660(b)(2)(iii), § 1065.660(d)(1)(iii), or § 1065.665, as applicable.

* * * * *

(14) Divide the mean CH4 concentration measured through the nonmethane cutter by the mean CH4 concentration measured after bypassing the nonmethane cutter. The result is the CH4 penetration fraction, PFCH4[NMC-FID]. Use this CH4 penetration fraction according to § 1065.660(b)(2)(iii), § 1065.660(d)(1)(iii), or § 1065.665, as applicable.

330. Amend § 1065.370 by revising paragraph (e)(5) to read as follows:

§ 1065.370 CLD CO2 and H2O quench verification.

* * * * *

(e) * * *

(5) Humidify the NO span gas using a humidity generator. If the humidified NO span gas sample does not pass through a sample dryer for this verification test, control the humidity generator so that it generates an H2O level approximately equal to the maximum mole fraction of H2O expected during emission testing. If the humidified NO span gas sample does not pass through a sample dryer, the quench verification calculations in § 1065.675 scale the measured H2O quench to the highest mole fraction of H2O expected during emission testing. If the humidified NO span gas sample passes through a dryer for this verification test, control the humidity generator so that it generates an H2O level at least as high as the level determined in § 1065.145(e)(2). For this case, the quench verification calculations in § 1065.675 do not scale the measured H2O quench.

* * * * *

331. Amend § 1065.375 by revising paragraph (d)(2) to read as follows:

§ 1065.375 Interference verification for N2O analyzers.

* * * * *

(d) * * *

(2) Create a humidified test gas by bubbling a multi component span gas that incorporates the target interference species and meets the specifications in § 1065.750 through distilled H2O in a sealed vessel or use a device that injects distilled water as vapor into a controlled gas flow. If the sample is not passed through a dryer during emission testing, control the vessel temperature to generate an H2O level at least as high as the maximum expected during emission testing. If the sample is passed through a dryer during emission testing, control the vessel temperature to generate an H2O level at least as high as the level determined in § 1065.145(e)(2) for that dryer. Use interference span gas concentrations that are at least as high as the maximum expected during testing.

* * * * *

332. Amend § 1065.410 by revising paragraph (d) to read as follows:

§ 1065.410 Maintenance limits for stabilized test engines.

* * * * *

(d) You may repair a test engine as needed for defective parts that are unrelated to emission control. You must ask us to approve repairs that might affect the engine's emission controls. If we determine that a part failure, system malfunction, or associated repairs have made the engine's emission controls unrepresentative of production engines, you may no longer use it as an emission-data engine. Also, if your test engine has a major mechanical failure that requires you to take it apart, you may no longer use it as an emission-data engine.

333. Amend § 1065.510 by revising paragraph (a) introductory text, and paragraphs (b)(5)(i) and (f)(4)(i) to read as follows:

§ 1065.510 Engine mapping.

(a) Applicability, scope, and frequency. An engine map is a data set that consists of a series of paired data points that represent the maximum brake torque versus engine speed, measured at the engine's primary output shaft. Map your engine if the standard-setting part requires engine mapping to generate a duty cycle for your engine configuration. Map your engine while it is connected to a dynamometer or other device that can absorb work output from the engine's primary output shaft according to § 1065.110. Configure any auxiliary work inputs and outputs such as hybrid, turbo-compounding, or thermoelectric systems to represent their in-use configurations, and use the same configuration for emission testing. See Figure 1 of § 1065.210. This may involve configuring initial states of charge and rates and times of auxiliary-work inputs and outputs. We recommend that you contact the Designated Compliance Officer before testing to determine how you should configure any auxiliary-work inputs and outputs. Use the most recent engine map to transform a normalized duty cycle from the standard-setting part to a reference duty cycle specific to your engine. Normalized duty cycles are specified in the standard-setting part. You may update an engine map at any time by repeating the engine-mapping procedure. You must map or re-map an engine before a test if any of the following apply:

* * * * *

(b) * * *

(5) Perform one of the following:

(i) For any engine subject only to steady-state duty cycles, you may perform an engine map by using discrete speeds. Select at least 20 evenly spaced setpoints from 95% of warm idle speed to the highest speed above maximum power at which 50% of maximum power occurs. We refer to this 50% speed as the check point speed as described in paragraph (b)(5)(iii) of this section. At each setpoint, stabilize speed and allow torque to stabilize. We recommend that you stabilize an engine for at least 15 seconds at each setpoint and record the mean feedback speed and torque of the last (4 to 6) seconds. Record the mean speed and torque at each setpoint. Use linear interpolation to determine intermediate speeds and torques. Use this series of speeds and torques to generate the power map as described in paragraph (e) of this section.

* * * * *

(f) * * *

(4) Required declared torques. If a nonzero idle or minimum torque is representative of in-use operation, you must declare the appropriate torque as follows:

(i) For variable-speed engines, declare a warm idle torque that is representative of in-use operation. For example, if your engine is typically connected to an automatic transmission or a hydrostatic transmission, declare the torque that occurs at the idle speed at which your engine operates when the transmission is engaged. Use this value for cycle generation. You may use multiple warm idle torques and associated idle speeds in cycle generation for representative testing. For example, for cycles that start the engine and begin with idle, you may start a cycle in idle with the transmission in neutral with zero torque and later switch to a different idle with the transmission in drive with the Curb-Idle Transmission Torque (CITT). For variable-speed engines intended primarily for propulsion of a vehicle with an automatic transmission where that engine is subject to a transient duty cycle with idle operation, you must declare a CITT. You must specify a CITT based on typical applications at the mean of the range of idle speeds you specify at stabilized temperature conditions. You may also specify CITT as a function of idle speed in cases where you have an adjustable warm idle or enhanced idle.

* * * * *

334. Amend § 1065.512 by revising paragraphs (b)(1) and (2) to read as follows:

§ 1065.512 Duty cycle generation.

* * * * *

(b) * * *

(1) Engine speed for variable-speed engines. For variable-speed engines, normalized speed may be expressed as a percentage between warm idle speed, fnidle, and maximum test speed, fntest, or speed may be expressed by referring to a defined speed by name, such as “warm idle,” “intermediate speed,” or “A,” “B,” or “C” speed. Section 1065.610 describes how to transform these normalized values into a sequence of reference speeds, fnref. Running duty cycles with negative or small normalized speed values near warm idle speed may cause low-speed idle governors to activate and the engine torque to exceed the reference torque even though the operator demand is at a minimum. In such cases, we recommend controlling the dynamometer so it gives priority to follow the reference torque instead of the reference speed and let the engine govern the speed. Note that the cycle-validation criteria in § 1065.514 allow an engine to govern itself. This allowance permits you to test engines with enhanced-idle devices and to simulate the effects of transmissions such as automatic transmissions. For example, an enhanced-idle device might be an idle speed value that is normally commanded only under cold-start conditions to quickly warm up the engine and aftertreatment devices. In this case, negative and very low normalized speeds will generate reference speeds below this higher enhanced idle speed. When using enhanced-idle devices you may do one of the following:

(i) Control the dynamometer so it gives priority to follow the reference torque, controlling the operator demand so it gives priority to follow reference speed and let the engine govern the speed when the operator demand is at minimum.

(ii) While running an engine that broadcasts enhanced-idle speed, use that broadcast speed as the reference speed whenever the denormalized speed is below that broadcast value. Note the special torque denormalization in paragraph (b)(2) of this section. When performing duty-cycle validation, use these new reference points.

(2) Engine torque for variable-speed engines. For variable-speed engines, normalized torque is expressed as a percentage of the mapped torque at the corresponding reference speed. Section 1065.610 describes how to transform normalized torques into a sequence of reference torques, Tref. Section 1065.610 also describes special requirements for modifying transient duty cycles for variable-speed engines intended primarily for propulsion of a vehicle with an automatic transmission. Section 1065.610 also describes under what conditions you may command Tref greater than the reference torque you calculated from a normalized duty cycle. This provision permits you to command Tref values that are limited by a declared minimum torque. For any negative torque commands, command minimum operator demand and use the dynamometer to control engine speed to the reference speed, but if reference speed is so low that the idle governor activates, we recommend using the dynamometer to control torque to zero, CITT, or a declared minimum torque as appropriate. Note that you may omit power and torque points during motoring from the cycle-validation criteria in § 1065.514. Also, use the maximum mapped torque at the minimum mapped speed as the maximum torque for any reference speed at or below the minimum mapped speed. If you use the provision in paragraph (b)(1)(ii) of this section do not alter the denormalized reference torque.

* * * * *

335. Amend § 1065.514 by revising paragraph (e) introductory text to read as follows:

§ 1065.514 Cycle-validation criteria for operation over specified duty cycles.

* * * * *

(e) Statistical parameters. Use the remaining points to calculate regression statistics for a floating intercept described in § 1065.602. Round calculated regression statistics to the same number of significant digits as the criteria to which they are compared. Refer to Table 2 of § 1065.514 for the default criteria and refer to the standard-setting part to determine if there are other criteria for your engine. Calculate the following regression statistics:

* * * * *

336. Amend § 1065.530 by revising paragraph (a)(2)(iii) and adding paragraph (g)(5) to read as follows:

§ 1065.530 Emission test sequence.

(a) * * *

(2) * * *

(iii) For testing that involves hot-stabilized emission measurements, bring the engine either to warm idle or the first operating point of the duty cycle. Start the test within 10 min of achieving temperature stability. Determine temperature stability based on measured operating temperature staying within ±2% of the mean value for at least 2 min based on the following parameters:

(A) Engine coolant or block or head absolute temperatures for water-cooled engines. You may also determine temperature stability as the point at which the engine thermostat controls engine temperature.

(B) Oil sump absolute temperature for air-cooled engines with an oil sump.

(C) Cylinder head absolute temperature or exhaust gas temperature for air-cooled engines with no oil sump.

* * * * *

(g) * * *

(5) If carbon balance error verification is required or if you choose to perform the verification, verify carbon balance error as required by the standard-setting part and as described in § 1065.543. For all test intervals, calculate and report the three test-interval carbon balance error quantities; carbon mass absolute error for a test interval (εaC), carbon mass rate absolute error for a test interval (εaCrate), and carbon mass relative error for a test interval (εrC). For multi-test-interval duty cycles, you may instead calculate and report the composite carbon mass relative error for multiple-test-interval duty cycles (εrCcomp) instead of the test-interval carbon balance error quantities. If you choose to use the multi-test-interval option, you must still calculate and report the results for the three test-interval options.

* * * * *

337. Add § 1065.543 to read as follows:

§ 1065.543 Carbon balance error verification.

(a) A carbon balance error verification compares independent assessments of the flow of carbon through the system (engine plus aftertreatment). The carbon flow out of the system, as determined by the exhaust emissions calculations, is compared to the carbon flow of all the streams flowing into the system (fuels, fluids (e.g., DEF), and intake-air). Note that this verification is not valid when exhaust molar flow rate is calculated using fuel rate and chemical balance as described in § 1065.655(f)(3) because the flows of carbon into and out of the system are not independent. The following is a partial list of possible causes for failing a carbon balance error verification and recommended corrective actions:

(1) Problems with the gas analyzer system:

(i) Incorrect analyzer calibration. Perform a calibration of the NDIR and/or THC analyzers.

(ii) Incorrect time alignment between flow and concentration data. Determine transformation time, t50, for continuous gas analyzers and time-align flow and concentration data as described in § 1065.650(c)(2)(i).

(iii) Problems with the sample system. Inspect the sample system components such as sample lines, filters, chillers, and pumps for leaks, operating temperature, and contamination.

(2) Problems with fuel flow measurement:

(i) Zero shift of fuel flow rate meter. Perform an in-situ zero adjustment.

(ii) Change in fuel flow meter calibration. Perform a calibration of the fuel flow meter as described in § 1065.320.

(iii) Incorrect time alignment of fuel flow data. Time align fuel flow data to ensure that fuel flow data from transitions between test intervals is not included when integrating the fuel mass over a test interval.

(iv) Short sampling periods. For test intervals that are allowed to vary in duration, such as discrete-mode steady-state duty cycles, extend the test interval duration to improve accuracy when measuring low fuel flow rates.

(v) Fluctuations in the fuel conditioning system. Improve the stability of the fuel temperature and pressure conditioning system to improve accuracy when measuring low fuel flows.

(3) Dilute testing using a CVS system:

(i) Leaks. Inspect exhaust system and CVS tunnel, connections, and fasteners and repair or replace components. A leak in the exhaust transfer tube to the CVS will drive your carbon balance error negative.

(ii) Poor mixing. Perform the verification described in § 1065.341(a)(3) to look for and correct poor mixing.

(iii) Change in CVS calibration. Perform a calibration of the CVS flow meter as described in § 1065.340.

(iv) Flow meter entrance effects. Inspect the CVS tunnel to determine whether the entrance effects from the piping configuration upstream of the flow meter adversely affect the flow measurement.

(v) Other problems with the CVS or sampling verification hardware or software. Inspect the CVS system, CVS verification hardware, and software for discrepancies.

(4) Raw testing using intake air flow measurement or direct exhaust flow measurement:

(i) Leaks. Inspect the intake air system and exhaust system, connections, fasteners, and repair or replace components.

(ii) Zero shift of intake air flow rate meter. Perform an in-situ zero adjustment.

(iii) Change in intake air flow meter calibration. Perform a calibration of the intake air flow meter as described in § 1065.325.

(iv) Zero shift of exhaust flow rate meter. Perform an in-situ zero adjustment.

(v) Change in exhaust flow meter calibration. Perform a calibration of the exhaust flow meter as described in § 1065.330.

(vi) Flow meter entrance effects. Inspect the intake air system and the exhaust system to determine whether the entrance effects from the piping configuration upstream and downstream of the intake air flow meter or the exhaust flow meter adversely affect the flow measurement.

(v) Other problems with the intake air flow and exhaust flow measurement hardware or software. Inspect the intake air flow and exhaust flow measurement hardware or software for discrepancies.

(b) Perform the carbon balance error verification as follows:

(1) Carbon balance error verification takes place during the post emission sampling portion of the emission test sequence as described in § 1065.530(g). Your test must include measurements of the following to verify carbon balance error: Fuel flow, flow of all other carbon-carrying fluids into the system, flows required to determine intake air flow, and the amount of carbon containing gaseous emissions.

(2) The calculations for determining carbon balance error are described in § 1065.643. There are four different carbon balance error quantities: Carbon mass absolute error for a test interval (εaC), carbon mass rate absolute error for a test interval (εaCrate), carbon mass relative error for a test interval (εrC), and composite carbon mass relative error for multiple-test-interval duty cycles (εrCcomp). If you choose to verify carbon balance error, verify as follows:

(i) For all test intervals, determine εaC, εaCrate, and εrC.

(ii) For all duty cycles, verify using one of the following two methods:

(A) For all test intervals, verify that at least one of the three carbon balance error quantities for test intervals (εaC, εaCrate, or εrC) meets its applicable limit specified in paragraph (b)(3) of this section.

(B) For multiple-test-interval duty cycles, you may instead verify that εrCcomp is within (0.000 ± 0.020).

(3) The following are the limits for the three carbon balance error quantities for test intervals:

(i) εaC must be within (0.000 ± LεaC) g, where the carbon mass absolute error limit, LεaC, is determined using Eq. 1065.543-1, in units of grams and expressed to at least four decimal places.

Where:

c = power-specific carbon mass absolute error coefficient = 0.007 g/kW.

Pmax = maximum power from the engine map generated according to § 1065.510. If a measured.

Pmax is not available, use a manufacturer-declared value for Pmax.

Example:

c = 0.007 g/kW

Pmax = 230.0 kW

LεaC = 0.0007 · 23.00 = 1.6100 g

(ii) εaCrate must be within (0.000 ± LεaCrate) g/hr, where the carbon mass rate absolute error limit, LεaCrate, is determined using Eq. 1065.543-2, in units of grams per hour and expressed to at least three decimal places.

Where:

d = power-specific carbon mass rate absolute error coefficient = 0.31 g/(kW·hr).

Pmax = maximum power from the engine map generated according to § 1065.510. If a measured.

Pmax is not available, use a manufacturer-declared value for Pmax.

Example:

d = 0.31 g/(kW·hr)

Pmax = 230.0 kW

LεaCrate = 0.31·2300 = 71.3 g/hr

(iii) εrC must be within (0.000 ± 0.020).

338. Amend § 1065.545 by revising paragraph (a) to read as follows:

§ 1065.545 Verification of proportional flow control for batch sampling.

* * * * *

(a) For any pair of flow rates, use recorded sample and total flow rates, where total flow rate means the raw exhaust flow rate for raw exhaust sampling and the dilute exhaust flow rate for CVS sampling, or their 1 Hz means with the statistical calculations in § 1065.602 forcing the intercept through zero. Determine the standard error of the estimate, SEE, of the sample flow rate versus the total flow rate. For each test interval, demonstrate that SEE was less than or equal to 3.5% of the mean sample flow rate.

* * * * *

339. Revise § 1065.602 to read as follows:

§ 1065.602 Statistics.

(a) Overview. This section contains equations and example calculations for statistics that are specified in this part. In this section we use the letter “y” to denote a generic measured quantity, the superscript over-bar “- ” to denote an arithmetic mean, and the subscript “ref” to denote the reference quantity being measured.

(b) Arithmetic mean. Calculate an arithmetic mean,ȳ, as follows:

Example:

N = 3

y1 = 10.60

y2 = 11.91

yN = y3 = 11.09

ȳ = 11.20

(c) Standard deviation. Calculate the standard deviation for a non-biased (e.g., N-1) sample, as follows:

Example:

N = 3

y1 = 10.60

y2 = 11.91

yN = y3 = 11.09

ȳ = 11.20

σy= 0.6619

(d) Root mean square. Calculate a root mean square, rmsy, as follows:

Example:

N = 3

y1 = 10.60

y2 = 11.91

yN = y3 = 11.09

rmsy = 11.21

(e) Accuracy. Determine accuracy as described in this paragraph (e). Make multiple measurements of a standard quantity to create a set of observed values, yi, and compare each observed value to the known value of the standard quantity. The standard quantity may have a single known value, such as a gas standard, or a set of known values of negligible range, such as a known applied pressure produced by a calibration device during repeated applications. The known value of the standard quantity is represented by yrefi. If you use a standard quantity with a single value, yrefi would be constant. Calculate an accuracy value as follows:

Example:

yref = 1800.0

N = 3

y1 = 1806.4

y2 = 1803.1

y3 = 1798.9

(f) t-test. Determine if your data passes a t-test by using the following equations and tables:

(1) For an unpaired t-test, calculate the t statistic and its number of degrees of freedom, v, as follows:

Example:

ȳref = 1205.3

ȳ = 1123.8

σref = 9.399

σy = 10.583

Nref = 11

N = 7

t = 16.63

σref = 9.399

σy = 10.583

Nref = 11

N = 7

V = 11.76

(2) For a paired t-test, calculate the t statistic and its number of degrees of freedom, v, as follows, noting that the εiare the errors (e.g., differences) between each pair of yrefi and yi:

Example:

Ē = −0.12580

N = 16

σe = 0.04837

t = 10.403

v = N−1

Example:

N = 16

v = 16−1

v = 15

(3) Use Table 1 of this section to compare t to the tcrit values tabulated versus the number of degrees of freedom. If t is less than tcrit, then t passes the t-test. The Microsoft Excel software has a TINV function that returns results equivalent results and may be used in place of Table 1, which follows:

Table 1 of § 1065.602—Critical t Values Versus Number of Degrees of Freedom,v ᵃ
v | Confidence: 90% | Confidence: 95%
1 | 6.314 | 12.706
2 | 2.920 | 4.303
3 | 2.353 | 3.182
4 | 2.132 | 2.776
5 | 2.015 | 2.571
6 | 1.943 | 2.447
7 | 1.895 | 2.365
8 | 1.860 | 2.306
9 | 1.833 | 2.262
10 | 1.812 | 2.228
11 | 1.796 | 2.201
12 | 1.782 | 2.179
13 | 1.771 | 2.160
14 | 1.761 | 2.145
15 | 1.753 | 2.131
16 | 1.746 | 2.120
18 | 1.734 | 2.101
20 | 1.725 | 2.086
22 | 1.717 | 2.074
24 | 1.711 | 2.064
26 | 1.706 | 2.056
28 | 1.701 | 2.048
30 | 1.697 | 2.042
35 | 1.690 | 2.030
40 | 1.684 | 2.021
50 | 1.676 | 2.009
70 | 1.667 | 1.994
100 | 1.660 | 1.984
1000+ | 1.645 | 1.960
ᵃ Use linear interpolation to establish values not shown here.

(g) F-test. Calculate the F statistic as follows:

(1) For a 90% confidence F-test, use the following table to compare F to the Fcrit90 values tabulated versus (N-1) and (Nref-1). If F is less than Fcrit90, then F passes the F-test at 90% confidence.

BILLING CODE 6560-50-P

(2) For a 95% confidence F-test, use the following table to compare F to the Fcrit95 values tabulated versus (N-1) and (Nref -1). If F is less than Fcrit95, then F passes the F-test at 95% confidence.

BILLING CODE 6560-50-C

(h) Slope. Calculate a least-squares regression slope, a1y, using one of the following two methods:

(1) If the intercept floats, i.e., is not forced through zero:

Example:

N = 6000

y1 = 2045.8

ȳ = 1050.1

yref1 = 2045.0

ȳref = 1055.3

a1y = 1.0110

(2) If the intercept is forced through zero, e.g., for verifying proportional sampling:

Example:

N = 6000

y1 = 2045.8

yref1 = 2045.0

a1y = 1.0110

(i) Intercept. If the intercept floats, i.e., is not forced through zero, calculate a least-squares regression intercept, a0y, as follows:

Example:

ȳ = 1050.1

a1y = 1.0110

ȳref = 1055.3

a0y = 1050.1−(1.0110 · 1055.3)

a0y = -16.8083

(j) Standard estimate of error. Calculate a standard estimate of error, SEE, using one of the following two methods:

(1) If the intercept floats, i.e., is not forced through zero:

Example:

N = 6000

y1 = 2045.8

a0y = -16.8083

a1y = 1.0110

yref1 = 2045.0

Example:

N = 6000

y1 = 2045.8

a1y = 1.0110

yref1 = 2045.0

SEEy = 5.347

(k) Coefficient of determination. Calculate a coefficient of determination, ry², as follows:

Example:

N = 6000

y1 = 2045.8

a0y = -16.8083

a1y = 1.0110

yref1 = 2045.0

ȳ = 1480.5

ry² = 0.9859

(l) Flow-weighted mean concentration. In some sections of this part, you may need to calculate a flow-weighted mean concentration to determine the applicability of certain provisions. A flow-weighted mean is the mean of a quantity after it is weighted proportional to a corresponding flow rate. For example, if a gas concentration is measured continuously from the raw exhaust of an engine, its flow-weighted mean concentration is the sum of the products of each recorded concentration times its respective exhaust molar flow rate, divided by the sum of the recorded flow rate values. As another example, the bag concentration from a CVS system is the same as the flow-weighted mean concentration because the CVS system itself flow-weights the bag concentration. You might already expect a certain flow-weighted mean concentration of an emission at its standard based on previous testing with similar engines or testing with similar equipment and instruments. If you need to estimate your expected flow-weighted mean concentration of an emission at its standard, we recommend using the following examples as a guide for how to estimate the flow-weighted mean concentration expected at the standard. Note that these examples are not exact and that they contain assumptions that are not always valid. Use good engineering judgment to determine if you can use similar assumptions.

(1) To estimate the flow-weighted mean raw exhaust NOX concentration from a turbocharged heavy-duty compression-ignition engine at a NOX standard of 2.5 g/(kW·hr), you may do the following:

(i) Based on your engine design, approximate a map of maximum torque versus speed and use it with the applicable normalized duty cycle in the standard-setting part to generate a reference duty cycle as described in § 1065.610. Calculate the total reference work, Wref, as described in § 1065.650. Divide the reference work by the duty cycle's time interval, Δtdutycycle, to determine mean reference power, P̄ref.

(ii) Based on your engine design, estimate maximum power, Pmax, the design speed at maximum power, fnmax, the design maximum intake manifold boost pressure, pinmax, and temperature, Tinmax. Also, estimate a mean fraction of power that is lost due to friction and pumping, P̄frict. Use this information along with the engine displacement volume, Vdisp, an approximate volumetric efficiency, ηV, and the number of engine strokes per power stroke (two-stroke or four-stroke), Nstroke, to estimate the maximum raw exhaust molar flow rate,

ṅexhmax.

(iii) Use your estimated values as described in the following example calculation:

Example:

eNOx = 2.5 g/(kW·hr)

Wref = 11.883 kW·hr

MNOx = 46.0055 g/mol = 46.0055·10−⁶ g/μmol

Δtdutycycle = 20 min = 1200 s

P̄ref = 35.65 kW

P̄frict= 15%

Pmax = 125 kW

pmax = 300 kPa = 300000 Pa

Vdisp = 3.0 l = 0.0030 m³/r

fnmax = 2800 r/min = 46.67 r/s

Nstroke = 4

ηV = 0.9

R = 8.314472 J/(mol·K)

Tmax = 348.15 K

ṅexhmax = 6.53 mol/s

(2) To estimate the flow-weighted mean NMHC concentration in a CVS from a naturally aspirated nonroad spark-ignition engine at an NMHC standard of 0.5 g/(kW·hr), you may do the following:

(i) Based on your engine design, approximate a map of maximum torque versus speed and use it with the applicable normalized duty cycle in the standard-setting part to generate a reference duty cycle as described in § 1065.610. Calculate the total reference work, Wref, as described in § 1065.650.

(ii) Multiply your CVS total molar flow rate by the time interval of the duty cycle, Δtdutycycle. The result is the total diluted exhaust flow of the ndexh.

(iii) Use your estimated values as described in the following example calculation:

Example:

eNMHC = 1.5 g/(kW·hr)

Wref = 5.389 kW·hr

MNMHC = 13.875389 g/mol = 13.875389·10−⁶ g/μmol

ṅ = 6.021 mol/s

Δtdutycycle = 30 min = 1800 s

340. Amend § 1065.610 by revising paragraph (a)(1)(iv), paragraph (a)(2) introductory text, and paragraph (d)(3) introductory text to read as follows:

§ 1065.610 Duty cycle generation.

* * * * *

(a) * * *

(1) * * *

(iv) Transform the map into a normalized power-versus-speed map by dividing power terms by Pmax and dividing speed terms by fnPmax. Use the following equation to calculate a quantity representing the sum of squares from the normalized map:

Where:

i = an indexing variable that represents one recorded value of an engine map.

fnnormi = an engine speed normalized by dividing it by fnPmax.

Pnormi = an engine power normalized by dividing it by Pmax.

* * * * *

(2) For engines with a high-speed governor that will be subject to a reference duty cycle that specifies normalized speeds greater than 100%, calculate an alternate maximum test speed, fntest,alt, as specified in this paragraph (a)(2). If fntest,alt is less than the measured maximum test speed, fntest, determined in paragraph (a)(1) of this section, replace fntest with fntest,alt. In this case, fntest,alt becomes the “maximum test speed” for that engine for all duty-cycles. Note that § 1065.510 allows you to apply an optional declared maximum test speed to the final measured maximum test speed determined as an outcome of the comparison between fntest, and fntest,alt in this paragraph (a)(2). Determine fntest,alt as follows:

* * * * *

(d) * * *

(3) Required deviations. We require the following deviations for variable-speed engines intended primarily for propulsion of a vehicle with an automatic transmission where that engine is subject to a transient duty cycle with idle operation. These deviations are intended to produce a more representative transient duty cycle for these applications. For steady-state duty cycles or transient duty cycles with no idle operation, these requirements do not apply. Idle points for steady state duty cycles of such engines are to be run at conditions simulating neutral or park on the transmission. You may develop an alternate procedure for adjusting CITT as a function of speed, consistent with good engineering judgment.

* * * * *

341. Amend § 1065.640 by revising paragraphs (a), (b)(3), (d)(1), and (d)(3) to read as follows:

§ 1065.640 Flow meter calibration calculations.

* * * * *

(a) Reference meter conversions. The calibration equations in this section use molar flow rate, ṅref, as a reference quantity. If your reference meter outputs a flow rate in a different quantity, such as standard volume rate, V̇stdref, actual volume rate, V̇actref, or mass rate, ṁref, convert your reference meter output to a molar flow rate using the following equations, noting that while values for volume rate, mass rate, pressure, temperature, and molar mass may change during an emission test, you should ensure that they are as constant as practical for each individual set point during a flow meter calibration:

Where:

ṅref = reference molar flow rate.

V̇stdref = reference volume flow rate corrected to a standard pressure and a standard temperature.

V̇actref = reference volume flow rate at the actual pressure and temperature of the flow rate.

ṁref = reference mass flow.

pstd = standard pressure.

pact = actual pressure of the flow rate.

Tstd = standard temperature.

Tact = actual temperature of the flow rate.

R = molar gas constant.

Mmix = molar mass of the flow rate.

Example 1:

pstd = 29.9213 in Hg @ 32 °F = 101.325 kPa = 101325 Pa = 101325 kg/(m·s²)

Tstd = 68.0 °F = 293.15 K

R = 8.314472 J/(mol·K) = 8.314472 (m²·kg)/(s²·mol·K)

ṅref = 19.619 mol/s

Example 2:

ṁref = 17.2683 kg/min = 287.805 g/s

Mmix = 28.7805 g/mol

ṅref = 10.0000 mol/s

(b) * * *

(3) Perform a least-squares regression of Vrev, versus Ks, by calculating slope, a1, and intercept, a0, as described for a floating intercept in § 1065.602.

* * * * *

(d) * * *

(1) Calculate the Reynolds number, Re#, for each reference molar flow rate, ṅref, using the throat diameter of the venturi, dt. Because the dynamic viscosity, µ, is needed to compute Re#, you may use your own fluid viscosity model to determine µ for your calibration gas (usually air), using good engineering judgment. Alternatively, you may use the Sutherland three-coefficient viscosity model to approximate µ, as shown in the following sample calculation for Re#:

Where, using the Sutherland three-coefficient viscosity model as captured in Table 4 of this section:

Where:

µ0 = Sutherland reference viscosity.

T0 = Sutherland reference temperature.

S = Sutherland constant.

Table 4 of § 1065.640—Sutherland Three-Coefficient Viscosity Model Parameters
Gas ᵃ | µ0: kg/(m·s) | T0: K | S: K | Temperature range within ±2% error ᵇ: K | Pressure limit ᵇ: kPa
Air | 1.716·10−⁵ | 273 | 111 | 170 to 1900 | ≤1800
CO2 | 1.370·10−⁵ | 273 | 222 | 190 to 1700 | ≤3600
H2O | 1.12·10−⁵ | 350 | 1064 | 360 to 1500 | ≤10000
O2 | 1.919·10−⁵ | 273 | 139 | 190 to 2000 | ≤2500
N2 | 1.663·10−⁵ | 273 | 107 | 100 to 1500 | ≤1600
ᵃ Use tabulated parameters only for the pure gases, as listed. Do not combine parameters in calculations to calculate viscosities of gas mixtures.
ᵇ The model results are valid only for ambient conditions in the specified ranges.

Example:

µ0 = 1.716·10−⁵ kg/(m·s)

T0 = 273 K

S = 111 K

µ = 1.838·10−⁵ kg/(m·s)

Mmix = 28.7805 g/mol = 0.0287805 kg/mol

ṅref = 57.625 mol/s

dt = 152.4 mm = 0.1524 m

Tin = 298.15 K

Re# = 7.538·10⁵

* * * * *

(3) Perform a least-squares regression analysis to determine the best-fit coefficients for the equation and calculate SEE as described in § 1065.602. When using the example equation above, treat Cd as y and the radical term as yref and use Eq. 1065.602-12 to calculate SEE. When using another mathematical expression, substitute that expression into the numerator of Eq. 1065.602-12 and replace the 2 in the denominator with the number of coefficients in the mathematical expression.

* * * * *

342. Amend § 1065.642 by revising paragraphs (b) and (c)(1) to read as follows:

§ 1065.642 PDP, SSV, and CFV molar flow rate calculations.

* * * * *

(b) SSV molar flow rate. Calculate SSV molar flow rate, ṅ, as follows:

Where:

Cd = discharge coefficient, as determined based on the Cd versus Re# equation in § 1065.640(d)(2).

Cf = flow coefficient, as determined in § 1065.640(c)(3)(ii).

At = venturi throat cross-sectional area.

pin = static absolute pressure at the venturi inlet.

Z = compressibility factor.

Mmix = molar mass of gas mixture.

R = molar gas constant.

Tin = absolute temperature at the venturi inlet.

Example:

At = 0.01824 m²

pin = 99.132 kPa = 99132 Pa = 99132 kg/(m·s²)

Z = 1

Mmix = 28.7805 g/mol = 0.0287805 kg/mol

R = 8.314472 J/(mol·K) = 8.314472 (m²·kg)/(s²·mol·K)

Tin = 298.15 K

Re# = 7.232·10⁵

γ = 1.399

β = 0.8

Δp = 2.312 kPa

Using Eq. 1065.640-7,

rssv = 0.997

Using Eq. 1065.640-6,

Cf = 0.274

Using Eq. 1065.640-5,

Cd = 0.990

ṅ = 58.173 mol/s

(c) * * *

(1) To calculate ṅ through one venturi or one combination of venturis, use its respective mean Cd and other constants you determined according to § 1065.640 and calculate ṅ as follows:

Where:

Cf = flow coefficient, as determined in § 1065.640(c)(3).

Example:

Cd = 0.985

Cf = 0.7219

At = 0.00456 m²

pin = 98.836 kPa = 98836 Pa = 98836 kg/(m·s²)

Z = 1

Mmix = 28.7805 g/mol = 0.0287805 kg/mol

R = 8.314472 J/(mol·K) = 8.314472 (m²·kg)/(s²·mol·K)

Tin = 378.15 K

ṅ = 33.690 mol/s

* * * * *

343. Add § 1065.643 to read as follows:

§ 1065.643 Carbon balance error verification calculations.

This section describes the equations for calculating carbon balance error quantities used in the carbon balance error verification described in § 1065.543. You may use rectangular or trapezoidal integration methods to calculate masses and amounts over a test interval from continuously measured or calculated mass and molar flow rates. Calculate the mass of carbon in all of the carbon-carrying fluid streams, intake air into the system, and exhaust emissions over the test interval. You may use ECM broadcast signals for DEF flow rate to calculate the mass of carbon into the stream from the DEF system. You may use ECM broadcast fuel flow rate for field testing to calculate the mass of carbon in the fuel stream into the system.

(a) Determine the masses of all the carbon-carrying fluid streams (fuel and other (e.g., DEF)) into the system over each test interval, mfluidj, where j is an indexing variable that represents one carbon-carrying fluid stream.

(b) For each test interval calculate the mass of carbon in all of the carbon-carrying fluid streams flowing into the system as follows:

Where:

wC = carbon mass fraction of the carbon-carrying fluid stream as determined in § 1065.655(d).

mfluid = the mass of the carbon-carrying fluid stream determined over the test interval.

j = an indexing variable that represents one carbon-carrying fluid stream.

M = total number of carbon-carrying fluid streams into the system over the test interval.

Example:

wCfuel = 0.869

wCDEF = 0.065

mfuel = 1119.6 g

mDEF = 36.8 g

M = 2

mCfluid = 0.869·1119.6 + 0.065·36.8 = 975.3 g

(c) Calculate the mass of carbon in the intake air that flowed into the system, mCair, for each test interval, using one of the methods below in order of preference. Use the first method where all the inputs are available.

(1) When the amount of intake air is measured over the test interval:

Where:

MC = molar mass of carbon.

nint = the measured amount of intake air over the test interval.

xCO2int = the amount of intake air CO2 per mole of intake air. You may calculate xCO2int using Eq. 1065.655-10 and xCO2intdry = 375 µmol/mol, but we recommend measuring the actual concentration in the intake air.

Example:

MC = 12.0107 g/mol

nint = 62862 mol

xCO2int = 369 µmol/mol = 0.000369 mol/mol

mCair = 12.0107·62862·0.000369 = 278.6 g

(2) When the amount of raw exhaust is measured or calculated, and chemical balance terms are calculated for the raw exhaust:

Where:

MC = molar mass of carbon.

nexh = the calculated or measured amount of raw exhaust over the test interval.

xH2Oexh = amount of H2O in exhaust per mole of exhaust.

xCO2int = the amount of intake air CO2 per mole of intake air. You may calculate xCO2int using Eq. 1065.655-10 and xCO2intdry = 375 µmol/mol, but we recommend measuring the actual concentration in the intake air.

xdil/exhdry = amount of excess air per mole of dry exhaust. Note that for the chemical balance calculation from raw exhaust, xCO2dil = xCO2int and xH2Odil = xH2Oint, as excess air and intake air have the same composition.

xint/exhdry = amount of intake air required to produce actual combustion products per mole of dry exhaust.

Example:

MC = 12.0107 g/mol

nexh = 62862 mol

xH2Oexh = 0.034 mol/mol

xCO2int = 369 µmol/mol = 0.000369 mol/mol

xdil/exhdry = 0.570 mol/mol

xint/exhdry = 0.465 mol/mol

mCair = 12.0107·62862·(1−0.034)·0.000369·(0.570 + 0.465) = 278.6 g

(3) When the amount of raw exhaust is measured:

Where:

MC = molar mass of carbon.

nexh = the measured amount of raw exhaust over the test interval.

xCO2int = the amount of intake air CO2 per mole of intake air. You may calculate xCO2int using Eq. 1065.655-10 and xCO2intdry = 375 µmol/mol, but we recommend measuring the actual concentration in the intake air.

Example:

MC = 12.0107 g/mol

nexh = 62862 mol

xCO2int = 369 µmol/mol = 0.000369 mol/mol

mCair = 12.0107·62862·0.000369 = 278.6 g

(4) When the amount of diluted exhaust and dilution air are measured:

Where:

MC = molar mass of carbon.

ndexh = the measured amount of diluted exhaust over the test interval as determined in § 1065.642.

ndil = the measured amount of dilution air over the test interval as determined in § 1065.667(b).

xCO2int = the amount of intake air CO2 per mole of intake air. You may calculate xCO2int using Eq. 1065.655-10 and xCO2intdry = 375 µmol/mol, but we recommend measuring the actual concentration in the intake air.

Example:

MC = 12.0107 g/mol

ndexh = 942930 mol

ndil = 880068 mol

xCO2int = 369 µmol/mol = 0.000369 mol/mol

mCair = 12.0107·(942930 − 880068)·0.000369 = 278.6 g

(5) When the amount of intake air can be determined from recorded ECM broadcast signals, use ECM broadcast intake air to determine mCair as described in paragraph (c)(1) of this section.

(6) When diluted exhaust is measured, use a calculated amount of dilution air over the test interval as determined in § 1065.667(d) instead of the measured amount of dilution air to determine mCair as described in paragraph (c)(4) of this section.

(d) Calculate the mass of carbon in exhaust emissions, mCexh, for each test interval as follows:

Where:

MC = molar mass of carbon.

MCO2 = molar mass of carbon dioxide.

MCO = molar mass of carbon monoxide.

MTHC = effective C1 molar mass of total hydrocarbon as defined in § 1065.1005(f)(2).

mCO2 = is the mass of CO2 over the test interval as determined in § 1065.650(c).

mCO = is the mass of CO over the test interval as determined in § 1065.650(c).

mTHC = is the mass of THC over the test interval as determined in § 1065.650(c).

Example:

MC = 12.0107 g/mol

MCO2 = 44.0095 g/mol

MCO = 28.0101 g/mol

MTHC = 13.875389 g/mol

mCO2 = 4567 g

mCO = 0.803 g

mTHC = 0.537 g

(e) Calculate carbon balance error quantities as follows:

(1) Calculate carbon mass absolute error, εaC, for a test interval as follows:

Where:

mCexh = mass of carbon in exhaust emissions over the test interval as determined in paragraph (d) of this section.

mCfluid = mass of carbon in all of the carbon-carrying fluid streams that flowed into the system over the test interval as determined in paragraph (b) of this section.

mCair = mass of carbon in the intake air that flowed into the system over the test interval as determined in paragraph (c) of this section.

Example:

mCexh = 1247.2 g

mCfluid = 975.3 g

mCair = 278.6 g

εaC = 1247.2 − 975.3−278.6 = −6.7 g

(2) Calculate carbon mass rate absolute error, εaCrate, for a test interval as follows:

Where:

t = duration of the test interval.

Example:

εaC = -6.7 g

t = 1202.2 s = 0.3339 hr

(3) Calculate carbon mass relative error, εrC, for a test interval as follows:

Example:

εaC = -6.7 g

mCfliud = 975.3 g

mCair = 278.6 g

(4) Calculate composite carbon mass relative error, εrCcomp, for a duty cycle with multiple test intervals as follows:

(i) Use the following equation to calculate, εrCcomp, for duty cycles with multiple test intervals of a prescribed duration, such as cold-start and hot-start transient cycles:

Where:

i = test interval number.

N = number of test intervals.

WF = weighting factor for the test interval as defined in the standard-setting part.

mCexh = mass of carbon in exhaust emissions over the test interval as determined in paragraph (d) of this section.

mCfluid = mass of carbon in all of the carbon-carrying fluid streams that flowed into the system over the test interval as determined in paragraph (b) of this section.

mCair = mass of carbon in the intake air that flowed into the system over the test interval as determined in paragraph (c) of this section.

Example:

N = 2

WF1 = ⅐

WF2 = 6/7

mCexh1 = 1255.3 g

mCexh2 = 1247.2 g

mCfluid1 = 977.8 g

mCfluid2 = 975.3 g

mCair1 = 280.2 g

mCair2 = 278.6 g

(ii) Use the following equation to calculate, εrCcomp, for duty cycles with multiple test intervals that allow use of varying duration, such as discrete-mode steady-state duty cycles:

Where:

t = duration of the test interval.

Example:

N = 2

WF1 = 0.85

WF2 = 0.15

mCexh1 = 2.873 g

mCexh2 = 0.125 g

mCfluid1 = 2.864 g

mCfluid2 = 0.095 g

mCair1 = 0.023 g

mCair2 = 0.024 g

t1 = 123 s

t2 = 306 s

344. Amend § 1065.650 by revising paragraphs (b)(3), (c)(1) through (3), paragraph (d) introductory text, paragraphs (d)(7), (f)(2) and (g) to read as follows:

§ 1065.650 Emission calculations.

* * * * *

(b) * * *

(3) For field testing, you may calculate the ratio of total mass to total work, where these individual values are determined as described in paragraph (f) of this section. You may also use this approach for laboratory testing, consistent with good engineering judgment. Good engineering judgment dictates that this method not be used if there are any work flow paths described in § 1065.210 that cross the system boundary, other than the primary output shaft (crankshaft). This is a special case in which you use a signal linearly proportional to raw exhaust molar flow rate to determine a value proportional to total emissions. You then use the same linearly proportional signal to determine total work using a chemical balance of fuel, DEF, intake air, and exhaust as described in § 1065.655, plus information about your engine's brake-specific fuel consumption. Under this method, flow meters need not meet accuracy specifications, but they must meet the applicable linearity and repeatability specifications in subpart D or subpart J of this part. The result is a brake-specific emission value calculated as follows:

Example:

m̃ = 805.5 g

W̃ = 52.102 kW·hr

eCO = 805.5/52.102

eCO = 2.520 g/(kW·hr)

(c) * * *

(1) Concentration corrections. Perform the following sequence of preliminary calculations on recorded concentrations:

(i) Use good engineering judgment to time-align flow and concentration data to match transformation time, t50, to within ±1 s.

(ii) Correct all gaseous emission analyzer concentration readings, including continuous readings, sample bag readings, and dilution air background readings, for drift as described in § 1065.672. Note that you must omit this step where brake-specific emissions are calculated without the drift correction for performing the drift validation according to § 1065.550(b). When applying the initial THC and CH4 contamination readings according to § 1065.520(f), use the same values for both sets of calculations. You may also use as-measured values in the initial set of calculations and corrected values in the drift-corrected set of calculations as described in § 1065.520(f)(7).

(iii) Correct all THC and CH4 concentrations for initial contamination as described in § 1065.660(a), including continuous readings, sample bags readings, and dilution air background readings.

(iv) Correct all concentrations measured on a “dry” basis to a “wet” basis, including dilution air background concentrations, as described in § 1065.659.

(v) Calculate all NMHC and CH4 concentrations, including dilution air background concentrations, as described in § 1065.660.

(vi) For emission testing with an oxygenated fuel, calculate any HC concentrations, including dilution air background concentrations, as described in § 1065.665. See subpart I of this part for testing with oxygenated fuels.

(vii) Correct all the NOX concentrations, including dilution air background concentrations, for intake-air humidity as described in § 1065.670.

(2) Continuous sampling. For continuous sampling, you must frequently record a continuously updated concentration signal. You may measure this concentration from a changing flow rate or a constant flow rate (including discrete-mode steady-state testing), as follows:

(i) Varying flow rate. If you continuously sample from a changing exhaust flow rate, time align and then multiply concentration measurements by the flow rate from which you extracted it. We consider the following to be examples of changing flows that require a continuous multiplication of concentration times molar flow rate: raw exhaust, exhaust diluted with a constant flow rate of dilution air, and CVS dilution with a CVS flow meter that does not have an upstream heat exchanger or electronic flow control. This multiplication results in the flow rate of the emission itself. Integrate the emission flow rate over a test interval to determine the total emission. If the total emission is a molar quantity, convert this quantity to a mass by multiplying it by its molar mass, M. The result is the mass of the emission, m. Calculate m for continuous sampling with variable flow using the following equations:

Where:

Δt = 1/frecord Eq. 1065.650-5

Example:

MNMHC = 13.875389 g/mol

N = 1200

xNMHC1 = 84.5 µmol/mol = 84.5·10−⁶ mol/mol

xNMHC2 = 86.0 µmol/mol = 86.0·10−⁶ mol/mol

ṅexh1 = 2.876 mol/s

ṅexh2 = 2.224 mol/s

frecord = 1 Hz

Using Eq. 1065.650-5,

Δt = 1/1 = 1 s

mNMHC = 13.875389·(84.5·10−⁶·2.876 + 86.0·10−⁶·2.224 + ... + xNMHC1200·ṅexh)·1

mNMHC = 25.23 g

(ii) Constant flow rate. If you continuously sample from a constant exhaust flow rate, use the same emission calculations described in paragraph (c)(2)(i) of this section or calculate the mean or flow-weighted concentration recorded over the test interval and treat the mean as a batch sample, as described in paragraph (c)(3)(ii) of this section. We consider the following to be examples of constant exhaust flows: CVS diluted exhaust with a CVS flow meter that has either an upstream heat exchanger, electronic flow control, or both.

(3) Batch sampling. For batch sampling, the concentration is a single value from a proportionally extracted batch sample (such as a bag, filter, impinger, or cartridge). In this case, multiply the mean concentration of the batch sample by the total flow from which the sample was extracted. You may calculate total flow by integrating a changing flow rate or by determining the mean of a constant flow rate, as follows:

(i) Varying flow rate. If you collect a batch sample from a changing exhaust flow rate, extract a sample proportional to the changing exhaust flow rate. We consider the following to be examples of changing flows that require proportional sampling: Raw exhaust, exhaust diluted with a constant flow rate of dilution air, and CVS dilution with a CVS flow meter that does not have an upstream heat exchanger or electronic flow control. Integrate the flow rate over a test interval to determine the total flow from which you extracted the proportional sample. Multiply the mean concentration of the batch sample by the total flow from which the sample was extracted. If the total emission is a molar quantity, convert this quantity to a mass by multiplying it by its molar mass, M. The result is the mass of the emission, m. In the case of PM emissions, where the mean PM concentration is already in units of mass per mole of sample, M̄PM, simply multiply it by the total flow. The result is the total mass of PM, mPM. Calculate m for batch sampling with variable flow using the following equation:

Example:

MNOx = 46.0055 g/mol

N = 9000

x̄NOx = 85.6 µmol/mol = 85.6· 10−⁶ mol/mol

ṅdexh1 = 25.534 mol/s

ṅdexh2 = 26.950 mol/s

frecord = 5 Hz

Using Eq. 1065.650-5,

Δt= 1/5 = 0.2

mNOx = 46.0055·85.6·10−⁶·(25.534 + 26.950 + ... + ṅexh9000)·0.2

mNOx = 4.201 g

(ii) Constant flow rate. If you batch sample from a constant exhaust flow rate, extract a sample at a proportional or constant flow rate. We consider the following to be examples of constant exhaust flows: CVS diluted exhaust with a CVS flow meter that has either an upstream heat exchanger, electronic flow control, or both. Determine the mean molar flow rate from which you extracted the constant flow rate sample. Multiply the mean concentration of the batch sample by the mean molar flow rate of the exhaust from which the sample was extracted, and multiply the result by the time of the test interval. If the total emission is a molar quantity, convert this quantity to a mass by multiplying it by its molar mass, M. The result is the mass of the emission, m. In the case of PM emissions, where the mean PM concentration is already in units of mass per mole of sample, M̄PM., simply multiply it by the total flow, and the result is the total mass of PM, mPM. Calculate m for sampling with constant flow using the following equations:

Example:

M̄PM = 144.0 µg/mol = 144.0·10−⁶ g/mol

ṅ̄dexh = 57.692 mol/s

Δt = 1200 s

mPM = 144.0·10 −⁶·57.692·1200

mPM = 9.9692 g

* * * * *

(d) Total work over a test interval. To calculate the total work from the engine over a test interval, add the total work from all the work paths described in § 1065.210 that cross the system boundary including electrical energy/work, mechanical shaft work, and fluid pumping work. For all work paths, except the engine's primary output shaft (crankshaft), the total work for the path over the test interval is the integration of the net work flow rate (power) out of the system boundary. When energy/work flows into the system boundary, this work flow rate signal becomes negative; in this case, include these negative work rate values in the integration to calculate total work from that work path. Some work paths may result in a negative total work. Include negative total work values from any work path in the calculated total work from the engine rather than setting the values to zero. The rest of this paragraph (d) describes how to calculate total work from the engine's primary output shaft over a test interval. Before integrating power on the engine's primary output shaft, adjust the speed and torque data for the time alignment used in § 1065.514(c). Any advance or delay used on the feedback signals for cycle validation must also be used for calculating work. Account for work of accessories according to § 1065.110. Exclude any work during cranking and starting. Exclude work during actual motoring operation (negative feedback torques), unless the engine was connected to one or more energy storage devices. Examples of such energy storage devices include hybrid powertrain batteries and hydraulic accumulators, like the ones illustrated in Figure 1 of § 1065.210. Exclude any work during reference zero-load idle periods (0% speed or idle speed with 0 N·m reference torque). Note, that there must be two consecutive reference zero load idle points to establish a period where this applies. Include work during idle points with simulated minimum torque such as Curb Idle Transmissions Torque (CITT) for automatic transmissions in “drive”. The work calculation method described in paragraphs (d)(1) though (7) of this section meets these requirements using rectangular integration. You may use other logic that gives equivalent results. For example, you may use a trapezoidal integration method as described in paragraph (d)(8) of this section.

* * * * *

(7) Integrate the resulting values for power over the test interval. Calculate total work as follows:

Where:

W = total work from the primary output shaft

Pi = instantaneous power from the primary output shaft over an interval i.

Example:

N = 9000

fn1 = 1800.2 r/min

fn2 = 1805.8 r/min

T1 = 177.23 N·m

T2 = 175.00 N·m

Crev = 2·π rad/r

Ct1 = 60 s/min

Cp = 1000 (N·m·rad/s)/kW

frecord = 5 Hz

Ct2 = 3600 s/hr

P1 = 33.41 kW

P2 = 33.09 kW

Using Eq. 1065.650-5,

Δt = 1/5 = 0.2 s

W = 16.875 kW·hr

* * * * *

(f) * * *

(2) Total work. To calculate a value proportional to total work over a test interval, integrate a value that is proportional to power. Use information about the brake-specific fuel consumption of your engine, efuel, to convert a signal proportional to fuel flow rate to a signal proportional to power. To determine a signal proportional to fuel flow rate, divide a signal that is proportional to the mass rate of carbon products by the fraction of carbon in your fuel, wC. You may use a measured wC or you may use default values for a given fuel as described in § 1065.655(e). Calculate the mass rate of carbon from the amount of carbon and water in the exhaust, which you determine with a chemical balance of fuel, DEF, intake air, and exhaust as described in § 1065.655. In the chemical balance, you must use concentrations from the flow that generated the signal proportional to molar flow rate, ṅ, in paragraph (e)(1) of this section. Calculate a value proportional to total work as follows:

Where:

* * * * *

(g) Brake-specific emissions over a duty cycle with multiple test intervals. The standard-setting part may specify a duty cycle with multiple test intervals, such as with discrete-mode steady-state testing. Unless we specify otherwise, calculate composite brake-specific emissions over the duty cycle as described in this paragraph (g). If a measured mass (or mass rate) is negative, set it to zero for calculating composite brake-specific emissions, but leave it unchanged for drift validation. In the case of calculating composite brake-specific emissions relative to a combined emission standard (such as a NOX + NMHC standard), change any negative mass (or mass rate) values to zero for a particular pollutant before combining the values for the different pollutants.

(1) Use the following equation to calculate composite brake-specific emissions for duty cycles with multiple test intervals all with prescribed durations, such as cold-start and hot-start transient cycles:

Where:

i = test interval number.

N = number of test intervals.

WF = weighting factor for the test interval as defined in the standard-setting part.

m = mass of emissions over the test interval as determined in paragraph (c) of this section.

W = total work from the engine over the test interval as determined in paragraph (d) of this section.

Example:

N = 2

WF1 = 0.1428

WF2 = 0.8572

m1 = 70.125 g

m2 = 64.975 g

W1 = 25.783 kW·hr

W2 = 25.783 kW·hr

eNOxcomp = 2.548 g/kW·hr

(2) Calculate composite brake-specific emissions for duty cycles with multiple test intervals that allow use of varying duration, such as discrete-mode steady-state duty cycles, as follows:

(i) Use the following equation if you calculate brake-specific emissions over test intervals based on total mass and total work as described in paragraph (b)(1) of this section:

Where:

i = test interval number.

N = number of test intervals.

WF = weighting factor for the test interval as defined in the standard-setting part.

m = mass of emissions over the test interval as determined in paragraph (c) of this section.

W = total work from the engine over the test interval as determined in paragraph (d) of this section.

t = duration of the test interval.

Example:

N = 2

WF1 = 0.85

WF2 = 0.15

m1 = 1.3753 g

m2 = 0.4135 g

t1 = 120 s

t2 = 200 s

W1 = 2.8375 kW·hr

W2 = 0.0 kW·hr

eNOxcomp = 0.5001 g/kW·hr

(ii) Use the following equation if you calculate brake-specific emissions over test intervals based on the ratio of mass rate to power as described in paragraph (b)(2) of this section:

Where:

i = test interval number.

N = number of test intervals.

WF = weighting factor for the test interval as defined in the standard-setting part.

ṁ̄ = mean steady-state mass rate of emissions over the test interval as determined in paragraph (e) of this section.

P̄ = mean steady-state power over the test interval as described in paragraph (e) of this section.

Example:

N = 2

WF1 = 0.85

WF2 = 0.15

ṁ̄1 = 2.25842 g/hr

ṁ̄2 = 0.063443 g/hr

P̄1 = 4.5383 kW

P̄2 = 0.0 kW

eNOxcomp = 0.5001 g/kW·hr

* * * * *

345. Amend § 1065.655 by:

a. Revising the section heading and paragraphs (c)(3), (e)(1)(i), (e)(4);

b. Amending paragraph (e)(4) by removing Table 1;

c. Adding paragraph (e)(5); and

d. Revising paragraphs (f)(3) and (g)(1).

The revisions and additions read as follows:

§ 1065.655 Chemical balances of fuel, DEF, intake air, and exhaust.

* * * * *

(c) * * *

(3) Use the following symbols and subscripts in the equations for performing the chemical balance calculations in this paragraph (c):

xdil/exh = amount of dilution gas or excess air per mole of exhaust.

xH2Oexh = amount of H2O in exhaust per mole of exhaust.

xCcombdry = amount of carbon from fuel and injected fluid in the exhaust per mole of dry exhaust.

xH2dry = amount of H2 in exhaust per amount of dry exhaust.

KH2Ogas = water-gas reaction equilibrium coefficient. You may use 3.5 or calculate your own value using good engineering judgment.

xH2Oexhdry = amount of H2O in exhaust per dry mole of dry exhaust.

xprod/intdry = amount of dry stoichiometric products per dry mole of intake air.

xdil/exhdry = amount of dilution gas and/or excess air per mole of dry exhaust.

xint/exhdry = amount of intake air required to produce actual combustion products per mole of dry (raw or diluted) exhaust.

xraw/exhdry = amount of undiluted exhaust, without excess air, per mole of dry (raw or diluted) exhaust.

xO2int = amount of intake air O2 per mole of intake air.

xCO2intdry = amount of intake air CO2 per mole of dry intake air. You may use xCO2intdry = 375 μmol/mol, but we recommend measuring the actual concentration in the intake air.

xH2Ointdry = amount of intake air H2O per mole of dry intake air.

xCO2int = amount of intake air CO2 per mole of intake air.

xCO2dil = amount of dilution gas CO2 per mole of dilution gas.

xCO2dildry = amount of dilution gas CO2 per mole of dry dilution gas. If you use air as diluent, you may use xCO2dildry = 375 μmol/mol, but we recommend measuring the actual concentration in the intake air.

xH2Odildry = amount of dilution gas H2O per mole of dry dilution gas.

xH2Odil = amount of dilution gas H2O per mole of dilution gas.

x[emission]meas = amount of measured emission in the sample at the respective gas analyzer.

x[emission]dry = amount of emission per dry mole of dry sample.

xH2O[emission]meas = amount of H2O in sample at emission-detection location. Measure or estimate these values according to § 1065.145(e)(2).

xH2Oint = amount of H2O in the intake air, based on a humidity measurement of intake air.

α = atomic hydrogen-to-carbon ratio of the fuel (or mixture of test fuels) and any injected fluids.

β = atomic oxygen-to-carbon ratio of the fuel (or mixture of test fuels) and any injected fluids.

γ = atomic sulfur-to-carbon ratio of the fuel (or mixture of test fuels) and any injected fluids.

δ = atomic nitrogen-to-carbon ratio of the fuel (or mixture of test fuels) and any injected fluids.

* * * * *

(e) * * *

(1) * * *

(i) Determine the carbon and hydrogen mass fractions according to ASTM D5291 (incorporated by reference in § 1065.1010). When using ASTM D5291 to determine carbon and hydrogen mass fractions of gasoline (with or without blended ethanol), use good engineering judgment to adapt the method as appropriate. This may include consulting with the instrument manufacturer on how to test high-volatility fuels. Allow the weight of volatile fuel samples to stabilize for 20 minutes before starting the analysis; if the weight still drifts after 20 minutes, prepare a new sample). Retest the sample if the carbon, hydrogen, oxygen, sulfur, and nitrogen mass fractions do not add up to a total mass of 100 ± 0.5%; if you do not measure oxygen, you may assume it has a zero concentration for this specification. You may also assume that sulfur and nitrogen have a zero concentration for all fuels except residual fuel blends.

* * * * *

(4) Calculate α, β, γ, and δ using the following equations:

Where:

M = total number of fuels and injected fluids over the duty cycle.

j = an indexing variable that represents one fuel or injected fluid, starting with j = 1.

ṁj = the mass flow rate of the fuel or any injected fluid j. For applications using a single fuel and no DEF fluid, set this value to 1. For batch measurements, divide the total mass of fuel over the test interval duration to determine a mass rate.

wHj = hydrogen mass fraction of fuel or any injected fluid j.

wCj = carbon mass fraction of fuel or any injected fluid j.

wOj = oxygen mass fraction of fuel or any injected fluid j.

wSj = sulfur mass fraction of fuel or any injected fluid j.

wNj = nitrogen mass fraction of fuel or any injected fluid j.

Example:

N = 1

j = 1

ṁj = 1

wHj = 0.1239

wCj = 0.8206

wOj = 0.0547

wSj = 0.00066

wNj = 0.000095

MC = 12.0107

MH = 1.00794

MO = 15.9994

MS = 32.065

MN = 14.0067

α = 1.799

β = 0.05004

γ = 0.0003012

δ = 0.0001003

(5) Table 1 follows:

Table 1 of § 1065.655—Default Values of α, β, γ, δ, and wC
Fuel or injected fluid | Atomic hydrogen, oxygen, sulfur, and nitrogen-to- carbon ratios CHαOβSγNδ | Carbon mass fraction, wC g/g
Gasoline | CH1.85O0S0N0 | 0.866
E10 Gasoline | CH1.92O0.03S0N0 | 0.833
E15 Gasoline | CH1.95O0.05S0N0 | 0.817
E85 Gasoline | CH2.73O0.38S0N0 | 0.576
E100 Ethanol | CH3O0.5S0N0 | 0.521
M100 Methanol | CH4O1S0N0 | 0.375
#1 Diesel | CH1.93O0S0N0 | 0.861
#2 Diesel | CH1.80O0S0N0 | 0.869
Liquefied petroleum gas | CH2.64O0S0N0 | 0.819
Natural gas | CH3.78 O0.016S0N0 | 0.747
Residual fuel blends | Must be determined by measured fuel properties as described in paragraph (e)(1) of this section.
Diesel exhaust fluid | CH17.85O7.92S0N2 | 0.065

(f) * * *

(3) Fluid mass flow rate calculation. This calculation may be used only for steady-state laboratory testing. You may not use this calculation if the standard-setting part requires carbon balance error verification as described in § 1065.543. See § 1065.915(d)(5)(iv) for application to field testing. Calculate ṅexh based on ṁj using the following equation:

Where:

ṅexh = raw exhaust molar flow rate from which you measured emissions.

N = total number of fuels and injected fluids over the duty cycle.

j = an indexing variable that represents one fuel or injected fluid, starting with j = 1.

ṁj = the mass flow rate of the fuel or any injected fluid j.

Example:

N = 1

j = 1

ṁj = 7.559 g/s

wC = 0.869 g/g

MC = 12.0107 g/mol

xCcombdry = 99.87 mmol/mol = 0.09987 mol/mol

xH20exhdry = 107.64 mmol/mol = 0.10764 mol/mol

ṅexh = 6.066 mol/s

(g) * * *

(1) Crankcase flow rate. If engines are not subject to crankcase controls under the standard-setting part, calculate raw exhaust flow as described in paragraph (f)(1) of this section.

* * * * *

346. Amend § 1065.659 by revising paragraphs (c)(2) and (3) to read as follows:

§ 1065.659 Removed water correction.

* * * * *

(c) * * *

(2) If the measurement comes from raw exhaust, you may determine the amount of water based on intake-air humidity, plus a chemical balance of fuel, DEF, intake air, and exhaust as described in § 1065.655.

(3) If the measurement comes from diluted exhaust, you may determine the amount of water based on intake-air humidity, dilution air humidity, and a chemical balance of fuel, DEF, intake air, and exhaust as described in § 1065.655.

* * * * *

347. Amend § 1065.660 by revising paragraphs (b)(4) and (c)(2) to read as follows:

§ 1065.660 THC, NMHC, NMNEHC, CH4, and C2H6 determination.

* * * * *

(b) * * *

(4) For an FTIR, calculate xNMHC by summing the hydrocarbon species listed in § 1065.266(c) as follows:

Where:

xNMHC = concentration of NMHC.

xHCi = the C1-equivalent concentration of hydrocarbon species i as measured by the FTIR, not corrected for initial contamination.

xHCi-init = the C1-equivalent concentration of the initial system contamination (optional) of hydrocarbon species i, dry-to-wet corrected, as measured by the FTIR.

Example:

xC2H6 = 4.9 μmol/mol

xC2H4 = 0.9 μmol/mol

xC2H2 = 0.8 μmol/mol

xC3H8 = 0.4 μmol/mol

xC3H6 = 0.5 μmol/mol

xC4H10 = 0.3 μmol/mol

xCH2O = 0.8 μmol/mol

xC2H4O = 0.3 μmol/mol

xCH2O2 = 0.1 μmol/mol

xCH4O = 0.1 μmol/mol

xNMHC = 4.9 + 0.9 + 0.8 + 0.4 + 0.5 + 0.3 + 0.8 + 0.3 + 0.1 + 0.1

xNMHC = 9.1 μmol/mol

(c) * * *

(2) For a GC-FID, NMC FID, or FTIR, calculate xNMNEHC using the THC analyzer's response factors (RF) for CH4 and C2H6, from § 1065.360, and the initial contamination and dry-to-wet corrected THC concentration xTHC[THC-FID]cor as determined in paragraph (a) of this section as follows:

Where:

xNMNEHC = concentration of NMNEHC.

xTHC[THC-FID]cor = concentration of THC, initial THC contamination and dry-to-wet corrected, as measured by the THC FID.

RFCH4[THC-FID] = response factor of THC-FID to CH4.

xCH4 = concentration of CH4, dry-to-wet corrected, as measured by the GC-FID, NMC FID, or FTIR.

RFC2H6[THC-FID] = response factor of THC-FID to C2H6.

xC2H6 = the C1-equivalent concentration of C2H6, dry-to-wet corrected, as measured by the GC-FID or FTIR.

Example:

xTHC[THC-FID]cor = 145.6 μmol/mol

RFCH4[THC-FID] = 0.970

xCH4 = 18.9 μmol/mol

RFC2H6[THC-FID] = 1.02

xC2H6 = 10.6 μmol/mol

xNMHC = 145.6—0.970·18.9—1.02·10.6

xNMHC = 116.5 μmol/mol

* * * * *

348. Amend § 1065.665 by revising paragraph (a) to read as follows:

§ 1065.665 THCE and NMHCE determination.

(a) If you measured an oxygenated hydrocarbon's mass concentration, first calculate its molar concentration in the exhaust sample stream from which the sample was taken (raw or diluted exhaust), and convert this into a C1-equivalent molar concentration. Add these C1-equivalent molar concentrations to the molar concentration of non-oxygenated total hydrocarbon (NOTHC). The result is the molar concentration of total hydrocarbon equivalent (THCE). Calculate THCE concentration using the following equations, noting that Eq. 1065.665-3 is required only if you need to convert your oxygenated hydrocarbon (OHC) concentration from mass to moles:

Where:

xTHCE = the sum of the C1-equivalent concentrations of non-oxygenated hydrocarbon, alcohols, and aldehydes.

xNOTHC = the sum of the C1-equivalent concentrations of NOTHC.

xOHCi = the C1-equivalent concentration of oxygenated species i in diluted exhaust, not corrected for initial contamination.

xOHCi-init = the C1-equivalent concentration of the initial system contamination (optional) of oxygenated species i, dry-to-wet corrected.

xTHC[THC-FID]cor = the C1-equivalent response to NOTHC and all OHC in diluted exhaust, HC contamination and dry-to-wet corrected, as measured by the THC-FID.

RFOHCi[THC-FID] = the response factor of the FID to species i relative to propane on a C1-equivalent basis.

Mdexh = the molar mass of diluted exhaust as determine in § 1065.340.

mdexhOHCi = the mass of oxygenated species i in dilute exhaust.

MOHCi = the C1-equivalent molecular weight of oxygenated species i.

mdexh = the mass of diluted exhaust.

ndexhOHCi = the number of moles of oxygenated species i in total diluted exhaust flow.

ndexh = the total diluted exhaust flow.

* * * * *

349. Amend § 1065.667 by revising paragraph (d) to read as follows:

§ 1065.667 Dilution air background emission correction.

* * * * *

(d) You may determine the total flow of dilution air from the measured dilute exhaust flow and a chemical balance of the fuel, DEF, intake air, and dilute exhaust as described in § 1065.655. For this option, the molar flow of dilution air is calculated by multiplying the dilute exhaust flow by the mole fraction of dilution gas to dilute exhaust, xdil/exh, from the dilute chemical balance. This may be done by totaling continuous calculations or by using batch results. For example, to use batch results, the total flow of dilution air is calculated by multiplying the total flow of diluted exhaust, ndexh, by the flow-weighted mean mole fraction of dilution air in diluted exhaust, x̄dil/exh. Calculate x̄dil/exh using flow-weighted mean concentrations of emissions in the chemical balance, as described in § 1065.655. The chemical balance in § 1065.655 assumes that your engine operates stoichiometrically, even if it is a lean-burn engine, such as a compression-ignition engine. Note that for lean-burn engines this assumption could result in an error in emission calculations. This error could occur because the chemical balance in § 1065.655 treats excess air passing through a lean-burn engine as if it was dilution air. If an emission concentration expected at the standard is about 100 times its dilution air background concentration, this error is negligible. However, if an emission concentration expected at the standard is similar to its background concentration, this error could be significant. If this error might affect your ability to show that your engines comply with applicable standards, we recommend that you either determine the total flow of dilution air using one of the more accurate methods in paragraph (b) or (c) of this section, or remove background emissions from dilution air by HEPA filtration, chemical adsorption, or catalytic scrubbing. You might also consider using a partial-flow dilution technique such as a bag mini-diluter, which uses purified air as the dilution air.

* * * * *

350. Amend § 1065.695 by adding paragraph (c)(8)(v) to read as follows:

§ 1065.695 Data requirements.

* * * * *

(c) * * *

(8) * * *

(v) Carbon balance error verification, if performed.

* * * * *

351. Amend § 1065.701 by revising paragraphs (b) and (f) to read as follows:

§ 1065.701 General requirements for test fuels.

* * * * *

(b) Fuels meeting alternate specifications. We may allow you to use a different test fuel (such as California LEV III gasoline) if it does not affect your ability to show that your engines would comply with all applicable emission standards using the specified test fuel.

* * * * *

(f) Service accumulation and field testing fuels. If we do not specify a service-accumulation or field-testing fuel in the standard-setting part, use an appropriate commercially available fuel such as those meeting minimum specifications from the following table:

352. Amend § 1065.703 by revising paragraph (b) to read as follows:

§ 1065.703 Distillate diesel fuel.

* * * * *

(b) There are three grades of #2 diesel fuel specified for use as a test fuel. See the standard-setting part to determine which grade to use. If the standard-setting part does not specify which grade to use, use good engineering judgment to select the grade that represents the fuel on which the engines will operate in use. The three grades are specified in the following table:

* * * * *

353. Amend § 1065.705 by revising paragraph (c) to read as follows:

§ 1065.705 Residual and intermediate residual fuel.

* * * * *

(c) The fuel must meet the specifications for one of the categories in the following table:

BILLING CODE 6560-50-P

BILLING CODE 6560-50-C

354. Amend § 1065.710 by revising paragraphs (b)(2) and (c) to read as follows:

§ 1065.710 Gasoline.

* * * * *

(b) * * *

(2) Table 1 of this section identifies limit values consistent with the units in the reference procedure for each fuel property. These values are generally specified in international units. Values presented in parentheses are for information only. Table 1 follows:

BILLING CODE 6560-50-P

* * * * *

(c) The specifications of this paragraph (c) apply for testing with neat gasoline. This is sometimes called indolene or E0 test fuel. Gasoline for testing must have octane values that represent commercially available fuels for the appropriate application. Test fuel specifications apply as follows:

BILLING CODE 6560-50-C

* * * * *

355. Amend § 1065.715 by revising paragraph (a) to read as follows:

§ 1065.715 Natural gas.

(a) Except as specified in paragraph (b) of this section, natural gas for testing must meet the specifications in the following table:

Table 1 of § 1065.715—Test Fuel Specifications for Natural Gas
Property | Value ᵃ
Methane, CH4 | Minimum, 0.87 mol/mol.
Ethane, C2H6 | Maximum, 0.055 mol/mol.
Propane, C3H8 | Maximum, 0.012 mol/mol.
Butane, C4H10 | Maximum, 0.0035 mol/mol.
Pentane, C5H12 | Maximum, 0.0013 mol/mol.
C6 and higher | Maximum, 0.001 mol/mol.
Oxygen | Maximum, 0.001 mol/mol.
Inert gases (sum of CO2 and N2) | Maximum, 0.051 mol/mol.
ᵃ Demonstrate compliance with fuel specifications based on the reference procedures in ASTM D1945 (incorporated by reference in § 1065.1010), or on other measurement procedures using good engineering judgment. See § 1065.701(d) for other allowed procedures.

* * * * *

356. Amend § 1065.720 by revising paragraph (a) to read as follows:

§ 1065.720 Liquefied petroleum gas.

(a) Except as specified in paragraph (b) of this section, liquefied petroleum gas for testing must meet the specifications in the following table:

Table 1 of § 1065.720—Test Fuel Specifications for Liquefied Petroleum Gas
Property | Value | Reference procedure ᵃ
Propane, C3H8 | Minimum, 0.85 m³/m³ | ASTM D2163.
Vapor pressure at 38 °C | Maximum, 1400 kPa | ASTM D1267 or ASTM D2598.ᵇ
Volatility residue (evaporated temperature, 35 °C) | Maximum, -38 °C | ASTM D1837.
Butanes | Maximum, 0.05 m³/m³ | ASTM D2163.
Butenes | Maximum, 0.02 m³/m³ | ASTM D2163.
Pentenes and heavier | Maximum, 0.005 m³/m³ | ASTM D2163.
Propene | Maximum, 0.1 m³/m³ | ASTM D2163.
Residual matter (residue on evaporation of 100 ml oil stain observation) | Maximum, 0.05 ml pass ᶜ | ASTM D2158.
Corrosion, copper strip | Maximum, No. 1 | ASTM D1838.
Sulfur | Maximum, 80 mg/kg | ASTM D2784.
Moisture content | pass | ASTM D2713.
ᵃ Incorporated by reference, see § 1065.1010. See § 1065.701(d) for other allowed procedures.
ᵇ If these two test methods yield different results, use the results from ASTM D1267.
ᶜ The test fuel must not yield a persistent oil ring when you add 0.3 ml of solvent residue mixture to a filter paper in 0.1 ml increments and examine it in daylight after two minutes.

* * * * *

357. Amend § 1065.750 by revising paragraph (a)(1)(ii) to read as follows:

§ 1065.750 Analytical gases.

* * * * *

(a) * * *

(1) * * *

(ii) Contamination as specified in the following table:

Table 1 of § 1065.750—General Specifications for Purified Gases a
Constituent | Purified air | Purified N2
THC (C1-equivalent) | ≤0.05 μmol/mol | ≤0.05 μmol/mol.
CO | ≤1 μmol/mol | ≤1 μmol/mol.
CO2 | ≤10 μmol/mol | ≤10 μmol/mol.
O2 | 0.205 to 0.215 mol/mol | ≤2 μmol/mol.
NOX | ≤0.02 μmol/mol | ≤0.02 μmol/mol.
N2O ᵇ | ≤0.02 μmol/mol | ≤0.02 μmol/mol.
ᵃ We do not require these levels of purity to be NIST-traceable.
ᵇ The N2O limit applies only if the standard-setting part requires you to report N2O or certify to an N2O standard.

* * * * *

358. Amend § 1065.790 by revising paragraph (b) to read as follows:

§ 1065.790 Mass standards.

* * * * *

(b) Dynamometer, fuel mass scale, and DEF mass scale calibration weights. Use dynamometer and mass scale calibration weights that are certified as NIST-traceable within 0.1% uncertainty. Calibration weights may be certified by any calibration lab that maintains NIST-traceability.

359. Amend § 1065.905 by revising paragraph (f) to read as follows:

§ 1065.905 General provisions.

* * * * *

(f) Summary. The following table summarizes the requirements of paragraphs (d) and (e) of this section:

Table 1 of § 1065.905—Summary of Testing Requirements Specified Outside of This Subpart J
Subpart | Applicability for field testing ᵃ | Applicability for laboratory or similar testing with PEMS without restriction ᵃ | Applicability for laboratory or similar testing with PEMS with restrictions ᵃ
A: Applicability and general provisions | Use all | Use all | Use all.
B: Equipment for testing | Use § 1065.101 and § 1065.140 through the end of subpart B, except § 1065.140(e)(1) and (4), § 1065.170(c)(1)(vi), and § 1065.195(c). § 1065.910 specifies equipment specific to field testing | Use all | Use all. § 1065.910 specifies equipment specific to laboratory testing with PEMS.
C: Measurement instruments | Use all. § 1065.915 allows deviations | Use all except § 1065.295(c) | Use all except § 1065.295(c). § 1065.915 allows deviations.
D: Calibrations and verifications | Use all except § 1065.308 and § 1065.309. § 1065.920 allows deviations, but also has additional specifications | Use all | Use all. § 1065.920 allows deviations, but also has additional specifications.
E: Test engine selection, maintenance, and durability | Do not use. Use standard-setting part | Use all | Use all.
F: Running an emission test in the laboratory | Use §§ 1065.590 and 1065.595 for PM. § 1065.930 and § 1065.935 to start and run a field test | Use all | Use all.
G: Calculations and data requirements | Use all. § 1065.940 has additional calculation instructions | Use all | Use all. § 1065.940 has additional calculation instructions.
H: Fuels, engine fluids, analytical gases, and other calibration materials | Use all | Use all | Use all.
I: Testing with oxygenated fuels | Use all | Use all | Use all.
K: Definitions and reference materials | Use all | Use all | Use all.
ᵃ Refer to paragraphs (d) and (e) of this section for complete specifications.

360. Amend § 1065.915 by revising paragraph (a) to read as follows:

§ 1065.915 PEMS instruments.

(a) Instrument specifications. We recommend that you use PEMS that meet the specifications of subpart C of this part. For unrestricted use of PEMS in a laboratory or similar environment, use a PEMS that meets the same specifications as each lab instrument it replaces. For field testing or for testing with PEMS in a laboratory or similar environment, under the provisions of § 1065.905(b), the specifications in the following table apply instead of the specifications in Table 1 of § 1065.205:

Table 1 of § 1065.915—Recommended Minimum PEMS Measurement Instrument Performance
Measurement | Measured quantity symbol | Rise time, t10-90, and Fall time, t90-10 | Recording update frequency | Accuracy a | Repeatability a | Noise a
Engine speed transducer | ƒn | 1 s | 1 Hz means | 5% of pt. or 1% of max | 2% of pt. or 1% of max | 0.5% of max.
Engine torque estimator, BSFC (This is a signal from an engine's ECM) | T or BSFC | 1 s | 1 Hz means | 8% of pt. or 5% of max | 2% of pt. or 1% of max | 1% of max.
General pressure transducer (not a part of another instrument) | p | 5 s | 1 Hz | 5% of pt. or 5% of max | 2% of pt. or 0.5% of max | 1% of max.
Atmospheric pressure meter | patmos | 50 s | 0.1 Hz | 250 Pa | 200 Pa | 100 Pa.
General temperature sensor (not a part of another instrument) | T | 5 s | 1 Hz | 1% of pt. K or 5 K | 0.5% of pt. K or 2 K | 0.5% of max 0.5 K.
General dewpoint sensor | Tdew | 50 s | 0.1 Hz | 3 K | 1 K | 1 K.
Exhaust flow meter | ṅ | 1 s | 1 Hz means | 5% of pt. or 3% of max | 2% of pt | 2% of max.
Dilution air, inlet air, exhaust, and sample flow meters | ṅ | 1 s | 1 Hz means | 2.5% of pt. or 1.5% of max | 1.25% of pt. or 0.75% of max | 1% of max.
Continuous gas analyzer | x | 5 s | 1 Hz | 4% of pt. or 4% of meas | 2% of pt. or 2% of meas | 1% of max.
Gravimetric PM balance | mPM |  |  | See § 1065.790 | 0.5 μg |
Inertial PM balance | mPM |  |  | 4% of pt. or 4% of meas | 2% of pt. or 2% of meas | 1% of max.
a Accuracy, repeatability, and noise are all determined with the same collected data, as described in § 1065.305, and based on absolute values. “pt.” refers to the overall flow-weighted mean value expected at the standard; “max.” refers to the peak value expected at the standard over any test interval, not the maximum of the instrument's range; “meas” refers to the actual flow-weighted mean measured over any test interval.

* * * * *

361. Amend § 1065.1001 by revising the definition of “Test interval” to read as follows:

§ 1065.1001 Definitions.

* * * * *

Test interval means a duration of time over which you determine mass of emissions. For example, the standard-setting part may specify a complete laboratory duty cycle as a cold-start test interval, plus a hot-start test interval. As another example, a standard-setting part may specify a field-test interval, such as a “not-to-exceed” (NTE) event, as a duration of time over which an engine operates within a certain range of speed and torque. In cases where multiple test intervals occur over a duty cycle, the standard-setting part may specify additional calculations that weight and combine results to arrive at composite values for comparison against the applicable standards.

* * * * *

362. Amend § 1065.1005 by revising paragraphs (a), (c), (d), (e), and (f)(2) to read as follows:

§ 1065.1005 Symbols, abbreviations, acronyms, and units of measure.

* * * * *

(a) Symbols for quantities. This part uses the following symbols and units of measure for various quantities:

Symbol | Quantity | Unit | Unit symbol | Units in terms of SI base units
α | atomic hydrogen-to-carbon ratio | mole per mole | mol/mol | 1
A | area | square meter | m2 | m2
a0 | intercept of least squares regression
a1 | slope of least squares regression
ag | acceleration of Earth's gravity | meter per square second | m/s2 | m·s−2
β | ratio of diameters | meter per meter | m/m | 1
β | atomic oxygen-to-carbon ratio | mole per mole | mol/mol | 1
C# | number of carbon atoms in a molecule
c | power-specific carbon mass error coefficient | gram per kilowatt hour | g/(kW·hr) | g·3.6·10−6·m−2·kg−1·s2
Cd | discharge coefficient
Cf | flow coefficient
δ | atomic nitrogen-to-carbon ratio | mole per mole | mol/mol | 1
d | diameter | meter | m | m
d | power-specific carbon mass rate absolute error coefficent | gram per kilowatt hour | g/(kW·hr) | g·3.6·10−6·m−2·kg−1·s2
DR | dilution ratio | mole per mole | mol/mol | 1
ε | error between a quantity and its reference
ε | Difference or error quantity
e | brake-specific emission or fuel consumption | gram per kilowatt hour | g/(kW·hr) | 3.6−1·10−9·m−2·s2
F | F-test statistic
ƒ | frequency | hertz | Hz | s−1
ƒn | angular speed (shaft) | revolutions per minute | r/min | π·30−1·s−1
γ | ratio of specific heats | (joule per kilogram kelvin) per (joule per kilogram kelvin) | (J/(kg·K))/(J/(kg·K)) | 1
γ | atomic sulfur-to-carbon ratio | mole per mole | mol/mol | 1
K | correction factor |  |  | 1
Kv | calibration coefficient |  | m4·s·K0.5/kg | m4·kg−1·s·K0.5
l | length | meter | m | m
L | limit
μ | viscosity, dynamic | pascal second | Pa·s | m−1·kg·s−1
M | molar mass a | gram per mole | g/mol | 10−3·kg·mol−1
m | mass | kilogram | kg | kg
ṁ | mass rate | kilogram per second | kg/s | kg·s−1
v | viscosity, kinematic | meter squared per second | m2/s | m2·s−1
N | total number in series
n | amount of substance | mole | mol | mol
ṅ | amount of substance rate | mole per second | mol/s | mol·s−1
P | power | kilowatt | kW | 103·m2·kg·s−3
PF | penetration fraction
p | pressure | pascal | Pa | m−1·kg·s−2
ρ | mass density | kilogram per cubic meter | kg/m3 | m−3·kg
Δp | differential static pressure | pascal | Pa | m−1·kg·s−2
r | ratio of pressures | pascal per pascal | Pa/Pa | 1
r2 | coefficient of determination
Ra | average surface roughness | micrometer | μm | 10−6·m
Re# | Reynolds number
RF | response factor
RH | relative humidity
σ | non-biased standard deviation
S | Sutherland constant | kelvin | K | K
SEE | standard estimate of error
T | absolute temperature | kelvin | K | K
T | Celsius temperature | degree Celsius | °C | K−273.15
T | torque (moment of force) | newton meter | N·m | m2·kg·s−2
θ | plane angle | degrees | ° | rad
t | time | second | s | s
Δt | time interval, period, 1/frequency | second | s | s
V | volume | cubic meter | m3 | m3
V̇ | volume rate | cubic meter per second | m3/s | m3·s−1
W | work | kilowatt-hour | kW·hr | 3.6·106·m2·kg·s−2
wC | carbon mass fraction | gram per gram | g/g | 1
x | amount of substance mole fraction b | mole per mole | mol/mol | 1
x̄ | flow-weighted mean concentration | mole per mole | mol/mol | 1
y | generic variable
Z | compressibility factor
a See paragraph (f)(2) of this section for the values to use for molar masses. Note that in the cases of NOX and HC, the regulations specify effective molar masses based on assumed speciation rather than actual speciation.
b Note that mole fractions for THC, THCE, NMHC, NMHCE, and NOTHC are expressed on a C1-equivalent basis.

* * * * *

(c) Prefixes. This part uses the following prefixes for units and unit symbols:

Symbol | Prefix name | Factor
µ | micro | 10−6
m | milli | 10−3
c | centi | 10−2
k | kilo | 103
M | mega | 106

(d) Superscripts. This part uses the following superscripts for modifying quantity symbols:

Superscript | Meaning
overbar (such as ȳ) | arithmetic mean.
overdot (such as ẏ) | quantity per unit time.

(e) Subscripts. This part uses the following subscripts for modifying quantity symbols:

Subscript | Meaning
a | absolute (e.g., absolute difference or error).
abs | absolute quantity.
act | actual condition.
air | air, dry.
amb | ambient.
atmos | atmospheric.
bkgnd | background.
cal | calibration quantity.
CFV | critical flow venturi.
C | carbon mass.
comb | combined.
comp | composite value.
cor | corrected quantity.
dil | dilution air.
dew | dewpoint.
dexh | diluted exhaust.
dry | dry condition.
dutycycle | duty cycle.
ε | related to a difference or error quantity.
exh | raw exhaust.
exp | expected quantity.
fluid | fluid stream.
fn | feedback speed.
frict | friction.
fuel | fuel consumption.
hi,idle | condition at high-idle.
i | an individual of a series.
idle | condition at idle.
in | quantity in.
init | initial quantity, typically before an emission test.
int | intake air.
j | an individual of a series.
mapped | conditions over which an engine can operate.
max | the maximum (i.e., peak) value expected at the standard over a test interval; not the maximum of an instrument range.
meas | measured quantity.
media | PM sample media.
mix | mixture of diluted exhaust and air.
norm | normalized.
out | quantity out.
P | power.
part | partial quantity.
PDP | positive-displacement pump.
post | after the test interval.
pre | before the test interval.
prod | stoichiometric product.
r | relative (e.g., relative difference or error).
rate | rate (divided by time).
record | record rate.
ref | reference quantity.
rev | revolution.
sat | saturated condition.
s | slip.
span | span quantity.
SSV | subsonic venturi.
std | standard condition.
stroke | engine strokes per power stroke.
T | torque.
test | test quantity.
test, alt | alternate test quantity.
uncor | uncorrected quantity.
vac | vacuum side of the sampling system.
weight | calibration weight.
zero | zero quantity.

(f) * * *

(2) This part uses the following molar masses or effective molar masses of chemical species:

Symbol | Quantity | g/mol (10−3·kg·mol−1)
Mair | molar mass of dry air a | 28.96559
MAr | molar mass of argon | 39.948
MC | molar mass of carbon | 12.0107
MCH3OH | molar mass of methanol | 32.04186
MC2H5OH | molar mass of ethanol | 46.06844
MC2H4O | molar mass of acetaldehyde | 44.05256
MCH4N2O | molar mass of urea | 60.05526
MC2H6 | molar mass of ethane | 30.06904
MC3H8 | molar mass of propane | 44.09562
MC3H7OH | molar mass of propanol | 60.09502
MCO | molar mass of carbon monoxide | 28.0101
MCH4 | molar mass of methane | 16.0425
MCO2 | molar mass of carbon dioxide | 44.0095
MH | molar mass of atomic hydrogen | 1.00794
MH2 | molar mass of molecular hydrogen | 2.01588
MH2O | molar mass of water | 18.01528
MCH2O | molar mass of formaldehyde | 30.02598
MHe | molar mass of helium | 4.002602
MN | molar mass of atomic nitrogen | 14.0067
MN2 | molar mass of molecular nitrogen | 28.0134
MNH3 | molar mass of ammonia | 17.03052
MNMHC | effective C1 molar mass of nonmethane hydrocarbon b | 13.875389
MNMHCE | effective C1 molar mass of nonmethane hydrocarbon equivalent b | 13.875389
MNMNEHC | effective C1 molar mass of nonmethane-nonethane hydrocarbon b | 13.875389
MNOx | effective molar mass of oxides of nitrogen c | 46.0055
MN2O | molar mass of nitrous oxide | 44.0128
MO | molar mass of atomic oxygen | 15.9994
MO2 | molar mass of molecular oxygen | 31.9988
MS | molar mass of sulfur | 32.065
MTHC | effective C1 molar mass of total hydrocarbon b | 13.875389
MTHCE | effective C1 molar mass of total hydrocarbon equivalent b | 13.875389
a See paragraph (f)(1) of this section for the composition of dry air.
b The effective molar masses of THC, THCE, NMHC, NMHCE, and NMNEHC are defined on a C1 basis and are based on an atomic hydrogen-to-carbon ratio, α, of 1.85 (with β, γ, and δ equal to zero).
c The effective molar mass of NOX is defined by the molar mass of nitrogen dioxide, NO2.

* * * * *

PART 1066—VEHICLE-TESTING PROCEDURES

363. The authority statement for part 1066 continues to read as follows:

Authority: 42 U.S.C. 7401-7671q.

364. Amend § 1066.1 by revising paragraph (g) to read as follows:

§ 1066.1 Applicability.

* * * * *

(g) For additional information regarding these test procedures, visit our website at www.epa.gov, and in particular https://www.epa.gov/vehicle-and-fuel-emissions-testing/vehicle-testing-regulations.

365. Amend § 1066.135 by revising paragraph (a)(1) to read as follows:

§ 1066.135 Linearity verification.

* * * * *

(a) * * *

(1) Use instrument manufacturer recommendations and good engineering judgment to select at least ten reference values, yrefi, that cover the range of values that you expect during testing (to prevent extrapolation beyond the verified range during emission testing). We recommend selecting zero as one of your reference values. For each range calibrated, if the deviation from a least-squares best-fit straight line is 2% or less of the value at each data point, concentration values may be calculated by use of a straight-line curve fit for that range. If the deviation exceeds 2% at any point, use the best-fit nonlinear equation that represents the data to within 2% of each test point to determine concentration. If you use a gas divider to blend calibration gases, you may verify that the calibration curve produced names a calibration gas within 2% of its certified concentration. Perform this verification between 10 and 60% of the full-scale analyzer range.

* * * * *

366. Amend § 1066.210 by revising paragraph (d)(3) to read as follows:

§ 1066.210 Dynamometers.

* * * * *

(d) * * *

(3) The load applied by the dynamometer simulates forces acting on the vehicle during normal driving according to the following equation:

Where:

FR = total road-load force to be applied at the surface of the roll. The total force is the sum of the individual tractive forces applied at each roll surface.

i = a counter to indicate a point in time over the driving schedule. For a dynamometer operating at 10-Hz intervals over a 600-second driving schedule, the maximum value of i should be 6,000.

A = a vehicle-specific constant value representing the vehicle's frictional load in lbf or newtons. See subpart D of this part.

Gi = instantaneous road grade, in percent. If your duty cycle is not subject to road grade, set this value to 0.

B = a vehicle-specific coefficient representing load from drag and rolling resistance, which are a function of vehicle speed, in lbf/(mi/hr) or Ns/m. See subpart D of this part.

v = instantaneous linear speed at the roll surfaces as measured by the dynamometer, in mi/hr or m/s. Let vi-1 = 0 for i = 0.

C = a vehicle-specific coefficient representing aerodynamic effects, which are a function of vehicle speed squared, in lbf/(mi/hr)² or N·s²/m². See subpart D of this part.

Me = the vehicle's effective mass in lbm or kg, including the effect of rotating axles as specified in § 1066.310(b)(7).

t = elapsed time in the driving schedule as measured by the dynamometer, in seconds. Let ti-1 = 0 for i = 0.

M = the measured vehicle mass, in lbm or kg.

ag = acceleration of Earth's gravity = 9.80665 m/s².

* * * * *

367. Amend § 1066.255 by revising paragraph (c) to read as follows:

§ 1066.255 Parasitic loss verification.

* * * * *

(c) Procedure. Perform this verification by following the dynamometer manufacturer's specifications to establish a parasitic loss curve, taking data at fixed speed intervals to cover the range of vehicle speeds that will occur during testing. You may zero the load cell at a selected speed if that improves your ability to determine the parasitic loss. Parasitic loss forces may never be negative. Note that the torque transducers must be mathematically zeroed and spanned prior to performing this procedure.

* * * * *

368. Amend § 1066.270 by revising paragraph (c)(4) to read as follows:

§ 1066.270 Unloaded coastdown verification.

* * * * *

(c) * * *

(4) Determine the mean coastdown force, F̄, for each speed and inertia setting for each of the coastdowns performed using the following equation:

Where:

F̄ = the mean force measured during the coastdown for each speed interval and inertia setting, expressed in lbf and rounded to four significant figures.

I = the dynamometer's inertia setting, in lbf·s²/ft.

vinit = the speed at the start of the coastdown interval, expressed in ft/s to at least four significant figures.

vfinal = the speed at the end of the coastdown interval, expressed in ft/s to at least four significant figures.

t = coastdown time for each speed interval and inertia setting, accurate to at least 0.01 s.

Example:

I = 2000 lbm = 62.16 lbf·s²/ft

vinit = 25 mi/hr = 36.66 ft/s

vfinal = 15 mi/hr = 22.0 ft/s

t = 5.00 s

* * * * *

369. Amend § 1066.275 by revising paragraph (b) to read as follows:

§ 1066.275 Daily dynamometer readiness verification.

* * * * *

(b) Scope and frequency. Perform this verification upon initial installation, within 1 day before testing, and after major maintenance. You may run this within 7 days before testing if, over a period of time, you have data to support a less frequent verification interval.

* * * * *

370. Revise § 1066.405 to read as follows:

§ 1066.405 Vehicle preparation, preconditioning, and maintenance.

(a) Prepare the vehicle for testing (including measurement of evaporative and refueling emissions if appropriate), as described in the standard-setting part.

(b) If you inspect a vehicle, keep a record of the inspection and update your application to document any changes that result. You may use any kind of equipment, instrument, or tool to identify bad engine components or perform maintenance if it is available at dealerships and other service outlets.

(c) You may repair a test vehicle as needed for defective parts that are unrelated to emission control. You must ask us to approve repairs that might affect the vehicle's emission controls. If we determine that a part failure, system malfunction, or associated repairs make the vehicle's emission controls unrepresentative of production engines, you may no longer use it as an emission-data vehicle. Also, if engine installed in the test vehicle has a major mechanical failure that requires you to take the vehicle apart, you may no longer use the vehicle as an emission-data vehicle.

371. Amend § 1066.420 by revising paragraph (d)(2) to read as follows:

§ 1066.420 Test preparation.

* * * * *

(d) * * *

(2) For vehicles above 14,000 pounds GVWR, you may test vehicles at any humidity.

Table 1 of § 1066.420—Test Cell Humidity Requirements
Test cycle | Humidity requirement (grains H2O per pound dry air) | Tolerance (grains H2O per pound dry air)
AC17 | 69 | ± 5 average, ± 10 instantaneous
FTPᵃ and LA-92 | 50 |
HFET | 50 |
SC03 | 100 | ± 5
US06 | 50 |
ᵃ FTP humidity requirement does not apply for cold (−7 °C), intermediate (10 °C), and hot (35 °C) temperature testing.

* * * * *

372. Amend § 1066.605 by revising paragraphs (c)(4) and (h)(2)(i) to read as follows:

§ 1066.605 Mass-based and molar-based exhaust emission calculations.

* * * * *

(c) * * *

(4) For vehicles at or below 14,000 pounds GVWR, calculate HC concentrations, including dilution air background concentrations, as described in this section, and as described in § 1066.635 for NMOG. For emission testing of vehicles above 14,000 pounds GVWR, with fuels that contain 25% or more oxygenated compounds by volume, calculate THCE and NMHCE concentrations, including dilution air background concentrations, as described in 40 CFR part 1065, subpart I.

* * * * *

(h) * * *

(2) * * *

(i) Varying flow rate. If you continuously sample from a varying exhaust flow rate, calculate V[flow] using the following equation:

Where:

Example:

N = 505

Q̇cvs1 = 0.276 m³/s

Q̇cvs2 = 0.294 m³/s

frecord = 1 Hz

Using Eq. 1066.605-11,

Δt = 1/1 = 1 s

Vcvs (0.276 + 0.294 + ... + Q̇cvs505)·1

Vcvs = 170.721 m³

* * * * *

373. Amend § 1066.610 by revising paragraph (d) to read as follows:

§ 1066.610 Dilution air background correction.

* * * * *

(d) Determine the time-weighted dilution factor, DFw, over the duty cycle using the following equation:

Where:

N = number of test intervals.

i = test interval number

t = duration of the test interval.

DF = dilution factor over the test interval.

Example:

N = 3

DF1 = 14.40

t1 = 505 s

DF2 = 24.48

t2 = 867 s

DF3 = 17.28

t3 = 505 s

374. Amend § 1066.710 by revising paragraph (c) to read as follows:

§ 1066.710 Cold temperature testing procedures for measuring CO and NMHC emissions and determining fuel economy.

* * * * *

(c) Heater and defroster. During the test, operate the vehicle's interior climate control system with the heat on and air conditioning off. You may not use any supplemental auxiliary heat during this testing. You may set the heater to any temperature and fan setting during vehicle preconditioning.

(1) Manual control. Unless you rely on automatic control as specified in paragraph (c)(2) of this section, take the following steps to control heater settings:

(i) Set the climate control system as follows before the first acceleration (t = 20 s), or before starting the vehicle if the climate control system allows it:

(A) Temperature. Set controls to maximum heat. For systems that allow the operator to select a specific temperature, set the heater control to 72 °F or higher.

(B) Fan speed. Set the fan speed to full off or the lowest available speed if a full off position is not available.

(C) Airflow direction. Direct airflow to the front window (window defrost mode).

(D) Air source. If independently controllable, set the system to draw in outside air.

(ii) At the second idle of the test cycle, which occurs 125 seconds after the start of the test, set the fan speed to maximum. Complete by 130 seconds after the start of the test. Leave temperature and air source settings unchanged

(iii) At the sixth idle of the test interval, which occurs at the deceleration to zero miles per hour 505 seconds after the start of the test, set the fan speed to the lowest setting that maintains air flow. Complete these changes by 510 seconds after the start of the test. You may use different vent and fan speed settings for the remainder of the test. Leave the temperature and air source settings unchanged.

(2) Automatic control. Vehicles with automatic control systems may instead operate as described in this paragraph (c)(2). Set the temperature to 72 °F in automatic control for the whole test. If the system allows the operator to select the location of the output airflow without disabling automatic control, set the air flow control to the front window defrost mode for the whole test.

(3) Multiple-zone systems. For vehicles that have separate driver and passenger controls or separate front and rear controls, you must set all temperature and fan controls as described in paragraphs (c)(1) and (2) of this section, except that rear controls need not be set to defrost the front window.

(4) Alternative test procedures. We may approve the use of other settings under 40 CFR 86.1840 if a vehicle's climate control system is not compatible with the provisions of this section.

* * * * *

375. Amend § 1066.801 by revising paragraph (e) to read as follows:

§ 1066.801 Applicability and general provisions.

* * * * *

(e) The following figure illustrates the FTP test sequence for measuring exhaust and evaporative emissions:

BILLING CODE 6560-50-P

BILLING CODE 6560-50-C

376. Amend § 1066.835 by revising paragraph (a) to read as follows:

§ 1066.835 Exhaust emission test procedure for SC03 emissions.

* * * * *

(a) Drain and refill the vehicle's fuel tank(s) if testing starts more than 72 hours after the most recent FTP or HFET measurement (with or without evaporative emission measurements).

* * * * *

377. Revise § 1066.930 to read as follows:

§ 1066.930 Equipment for point-source measurement of running losses.

For point-source measurement of running loss emissions, use equipment meeting the specifications in 40 CFR 86.107-96(i).

378. Amend § 1066.1005 by revising paragraphs (c), (d), and (f) to read as follows:

§ 1066.1005 Symbols, abbreviations, acronyms, and units of measure.

* * * * *

(c) Superscripts. This part uses the following superscripts for modifying quantity symbols:

Superscript | Meaning
overbar (such as ȳ) | arithmetic mean.
overdot (such as ẏ) | quantity per unit time.

(d) Subscripts. This part uses the following subscripts for modifying quantity symbols:

Subscript | Meaning
0 | reference.
abs | absolute quantity.
AC17 | air conditioning 2017 test interval.
act | actual or measured condition.
actint | actual or measured condition over the speed interval.
adj | adjusted.
air | air, dry.
atmos | atmospheric.
b | base.
bkgnd | background.
c | cold.
comp | composite.
cor | corrected.
cs | cold stabilized.
ct | cold transient.
cUDDS | cold-start UDDS.
D | driven.
dew | dewpoint.
dexh | dilute exhaust quantity.
dil | dilute.
e | effective.
emission | emission specie.
error | error.
EtOH | ethanol.
exh | raw exhaust quantity.
exp | expected quantity.
fil | filter.
final | final.
flow | flow measurement device type.
gas | gaseous.
h | hot.
HFET | highway fuel economy test.
hs | hot stabilized.
ht | hot transient.
hUDDS | hot-start UDDS.
i | an individual of a series.
ID | driven inertia.
in | inlet.
int | intake.
init | initial quantity, typically before an emission test.
IT | target inertia.
liq | liquid.
max | the maximum (i.e., peak) value expected at the standard over a test interval; not the maximum of an instrument range.
meas | measured quantity.
mix | dilute exhaust gas mixture.
out | outlet.
PM | particulate matter.
record | record.
ref | reference quantity.
rev | revolution.
roll | dynamometer roll.
s | settling.
s | slip.
s | stabilized.
sat | saturated condition.
SC03 | air conditioning driving schedule.
span | span quantity.
sda | secondary dilution air.
std | standard conditions.
T | target.
t | throat.
test | test quantity.
uncor | uncorrected quantity.
w | weighted.
zero | zero quantity.

* * * * *

(f) This part uses the following densities of chemical species:

Symbol | Quantity ᵃ ᵇ | g/m³ | g/ft³
ρCH4 | density of methane | 666.905 | 18.8847
ρCH3OH | density of methanol | 1332.02 | 37.7185
ρC2H5OH | C1-equivalent density of ethanol | 957.559 | 27.1151
ρC2H4O | C1-equivalent density of acetaldehyde | 915.658 | 25.9285
ρC3H8 | density of propane | 611.035 | 17.3026
ρC3H7OH | C1-equivalent density of propanol | 832.74 | 23.5806
ρCO | density of carbon monoxide | 1164.41 | 32.9725
ρCO2 | density of carbon dioxide | 1829.53 | 51.8064
ρHC-gas | effective density of hydrocarbon—gaseous fuel ᶜ | (see 3) | (see 3)
ρCH2O | density of formaldehyde | 1248.21 | 35.3455
ρHC-liq | effective density of hydrocarbon—liquid fuel ᵈ | 576.816 | 16.3336
ρNMHC-gas | effective density of nonmethane hydrocarbon—gaseous fuel ᶜ | (see 3) | (see 3)
ρNMHC-liq | effective density of nonmethane hydrocarbon—liquid fuel ᵈ | 576.816 | 16.3336
ρNMHCE-gas | effective density of nonmethane equivalent hydrocarbon—gaseous fuel ᶜ | (see 3) | (see 3)
ρNMHCE-liq | effective density of nonmethane equivalent hydrocarbon—liquid fuel ᵈ | 576.816 | 16.3336
ρNOx | effective density of oxides of nitrogen ᵉ | 1912.5 | 54.156
ρN2O | density of nitrous oxide | 1829.66 | 51.8103
ρTHC-liq | effective density of total hydrocarbon—liquid fuel ᵈ | 576.816 | 16.3336
ρTHCE-liq | effective density of total equivalent hydrocarbon—liquid fuel ᵈ | 576.816 | 16.3336
ᵃ Densities are given at 20 °C and 101.325 kPa.
ᵇDensities for all hydrocarbon containing quantities are given in g/m³-carbon atom and g/ft³-carbon atom.
ᶜThe effective density for natural gas fuel and liquefied petroleum gas fuel are defined by an atomic hydrogen-to-carbon ratio, α, of the hydrocarbon components of the test fuel. ρHCgas = 41.57·(12.011 + (α·1.008)).
ᵈThe effective density for gasoline and diesel fuel are defined by an atomic hydrogen-to-carbon ratio, α, of 1.85.
ᵉThe effective density of NOX is defined by the molar mass of nitrogen dioxide, NO2.

* * * * *

379. Amend § 1066.1010 by revising paragraph (b)(2) to read as follows:

§ 1066.1010 1010 Incorporation by reference.

* * * * *

(b) * * *

(2) SAE J1634, Battery Electric Vehicle Energy Consumption and Range Test Procedure, revised July 2017, IBR approved for § 1066.501(a).

* * * * *

PART 1068—GENERAL COMPLIANCE PROVISIONS FOR HIGHWAY, STATIONARY, AND NONROAD PROGRAMS

380. The authority statement for part 1068 continues to read as follows:

Authority: 42 U.S.C. 7401-7671q.

381. Amend § 1068.1 by revising paragraph (a) and removing and reserving paragraph (d)(2) to n reads as follows:

§ 1068.1 Does this part apply to me?

(a) The provisions of this part apply to everyone with respect to the engine and equipment categories as described in this paragraph (a). They apply to everyone, including owners, operators, parts manufacturers, and persons performing maintenance. Where we identify an engine category, the provisions of this part also apply with respect to the equipment using such engines. This part 1068 applies to different engine and equipment categories as follows:

(1) This part 1068 applies to motor vehicles we regulate under 40 CFR part 86, subpart S, to the extent and in the manner specified in 40 CFR parts 85 and 86.

(2) This part 1068 applies for heavy-duty motor vehicles we regulate under 40 CFR part 1037, subject to the provisions of 40 CFR parts 85 and 1037. This includes trailers. This part 1068 applies to other heavy-duty motor vehicles and motor vehicle engines to the extent and in the manner specified in 40 CFR parts 85, 86, and 1036.

(3) This part 1068 applies to highway motorcycles we regulate under 40 CFR part 86, subparts E and F, to the extent and in the manner specified in 40 CFR parts 85 and 86.

(4) This part 1068 applies to aircraft we regulate under 40 CFR part 87 to the extent and in the manner specified in 40 CFR part 87.

(5) This part 1068 applies for locomotives that are subject to the provisions of 40 CFR part 1033. This part 1068 does not apply for locomotives or locomotive engines that were originally manufactured before July 7, 2008, and that have not been remanufactured on or after July 7, 2008.

(6) This part 1068 applies for land-based nonroad compression-ignition engines that are subject to the provisions of 40 CFR part 1039.

(7) This part 1068 applies for stationary compression-ignition engines certified using the provisions of 40 CFR parts 1039 and 1042 as described in 40 CFR part 60, subpart IIII.

(8) This part 1068 applies for marine compression-ignition engines that are subject to the provisions of 40 CFR part 1042.

(9) This part 1068 applies for marine spark-ignition engines that are subject to the provisions of 40 CFR part 1045.

(10) This part 1068 applies for large nonroad spark-ignition engines that are subject to the provisions of 40 CFR part 1048.

(11) This part 1068 applies for stationary spark-ignition engines certified using the provisions of 40 CFR part 1048 or part 1054, as described in 40 CFR part 60, subpart JJJJ.

(12) This part 1068 applies for recreational engines and vehicles, including snowmobiles, off-highway motorcycles, and all-terrain vehicles that are subject to the provisions of 40 CFR part 1051.

(13) This part applies for small nonroad spark-ignition engines that are subject to the provisions of 40 CFR part 1054.

(14) This part applies for fuel-system components installed in nonroad equipment powered by volatile liquid fuels that are subject to the provisions of 40 CFR part 1060.

* * * * *

382. Amend § 1068.10 by revising the section heading and paragraphs (b) and (c) to read as follows:

§ 1068.10 Confidential business information.

* * * * *

(b) We will store your confidential business information as described in 40 CFR part 2. Also, we will disclose it only as specified in 40 CFR part 2. This applies both to any information you send us and to any information we collect from inspections, audits, or other site visits.

(c) If you send us a second copy without the confidential business information, we will assume it contains nothing confidential whenever we need to release information from it.

* * * * *

383. Amend § 1068.30 by adding a definition for “Element of design” in alphabetical order to read as follows:

§ 1068.30 Definitions.

* * * * *

Element of design includes any computer software, electronic control system, emission control system, or computer logic, along with any related calibrations. Element of design also includes the results of related interaction with hardware items or other parameter settings on engines/equipment.

* * * * *

384. Amend § 1068.240 by revising paragraph (c)(3) to read as follows:

§ 1068.240 Exempting new replacement engines.

* * * * *

(c) * * *

(3) Send the Designated Compliance Officer a report by September 30 of the year following any year in which you produced exempted replacement engines under this paragraph (c). In your report include the total number of replacement engines you produce under this paragraph (c) for each category or subcategory, as appropriate, and the corresponding total production volumes determined under paragraph (c)(1) of this section. If you send us a report under this paragraph (c)(3), you must also include the total number of replacement engines you produced under paragraphs (b), (d), and (e) of this section (including any replacement marine engines subject to reporting under 40 CFR 1042.615). Count exempt engines as tracked under paragraph (b) of this section only if you meet all the requirements and conditions that apply under paragraph (b)(2) of this section by the due date for the annual report. You may include the information required under this paragraph (c)(3) in production reports required under the standard-setting part.

* * * * *

[FR Doc. 2020-05963 Filed 5-11-20; 8:45 am]

BILLING CODE 6560-50-P